FEDERAL EMERGENCY MANAGEMENT AGENCY

Compendium of Flood Map Changes

AGENCY: Federal Emergency Management Agency (FEMA).

ACTION: Notice.

SUMMARY: This Notice provides listings of changes made to National Flood Insurance Program (NFIP) maps produced by FEMA effective during the last 6 months of 2001.

DATES: The listings include changes to NFIP maps that became effective July 1, 2001, through December 31, 2001.

FOR FURTHER INFORMATION CONTACT: Michael K. Buckley, P.E., Director, Hazard Mapping Division, Federal Insurance and Mitigation Administration, Federal Emergency Management Agency, Washington, DC 20472, (202)646-2756.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) Those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: April 29, 2002.
Robert F. Shea,
Acting Administrator, Federal Insurance and Mitigation Administration.

Two listings are provided below. The first listing includes all Letters of Map Change issued by FEMA from July 1 through December 31, 2001. The following types of letters are included in the listing:

Type | Description
01 | Letter of Map Revision Based on Fill
02 | Letter of Map Amendment
05 | Letter of Map Revision With Base Flood Elevation Changes
06 | Letter of Map Revision Without Base Flood Elevation Changes
08 | Denial
12 | Floodway Revision
17 | Letter of Map Revision-Inadvertent Inclusion in Floodway
18 | Letter of Map Revision-Inadvertent Inclusion in V Zone
19 | Letter of Map Change Revalidation

The second listing includes map panels that FEMA physically revised and republished from July 1 through December 31, 2001. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the ”Community” column. This asterisk indicates the area covered is the unincorporated areas of that county.

Region | State | Community | Map panel | Determination date | Case No. | Type
01 | CT | BERLIN, TOWN OF | 0900220010D | 26-SEP-2001 | 01-01-1350A | 17
01 | CT | BRANFORD, TOWN OF | 0900730001D | 21-NOV-2001 | 02-01-0094A | 02
01 | CT | CLINTON, TOWN OF | 0900610003D | 07-DEC-2001 | 02-01-0208A | 02
01 | CT | DANBURY, CITY OF | 0900040020B | 24-AUG-2001 | 01-01-0888A | 01
01 | CT | EAST HAVEN, TOWN OF | 0900760005C | 31-OCT-2001 | 02-01-0102A | 02
01 | CT | FAIRFIELD, TOWN OF | 0900070003C | 12-OCT-2001 | 01-01-1206A | 02
01 | CT | GREENWICH, TOWN OF | 0900080025C | 15-AUG-2001 | 01-01-1178A | 02
01 | CT | GREENWICH, TOWN OF | 0900080024C | 17-OCT-2001 | 01-01-1392A | 02
01 | CT | GREENWICH, TOWN OF | 0900080024C | 07-DEC-2001 | 01-01-039P | 05
01 | CT | GREENWICH, TOWN OF | 0900080019C | 19-DEC-2001 | 02-01-0234X | 02
01 | CT | GROTON, TOWN OF | 0900970006E | 05-JUL-2001 | 01-01-0976A | 02
01 | CT | GUILFORD, TOWN OF | 0900770017B | 13-JUL-2001 | 01-01-0956A | 18
01 | CT | HARTFORD, CITY OF | 0950800005B | 17-JUL-2001 | 00-01-043P | 05
01 | CT | MADISON, TOWN OF | 0900790011C | 19-SEP-2001 | 01-01-1182A | 02
01 | CT | MERIDEN, CITY OF | 0900810004C | 19-NOV-2001 | 01-01-033P | 05
01 | CT | MERIDEN, CITY OF | 0900810007C | 14-DEC-2001 | 02-01-0284A | 02
01 | CT | MERIDIAN, CITY OF | 0900810005C | 31-OCT-2001 | 01-01-1240A | 02
01 | CT | NEW HARTFORD, TOWN OF | 0900480012B | 13-JUL-2001 | 01-01-1050A | 02
01 | CT | NEW HAVEN, CITY OF | 0900840003C | 21-SEP-2001 | 01-01-1234A | 02
01 | CT | NORTH BRANFORD, TOWN OF | 0900850008B | 10-OCT-2001 | 01-01-1438A | 02
01 | CT | NORTH CANAAN, TOWN OF | 0901490002B | 12-OCT-2001 | 01-01-1282A | 01
01 | CT | NORTH CANAAN, TOWN OF | 0901490004B | 07-DEC-2001 | 02-01-0134A | 02
01 | CT | NORWALK, CITY OF | 0900120010D | 21-DEC-2001 | 01-01-1442A | 02
01 | CT | OLD SAYBROOK, TOWN OF | 0900690004D | 24-AUG-2001 | 01-01-1216A | 02
01 | CT | OLD SAYBROOK, TOWN OF | 0900690001C | 29-AUG-2001 | 01-01-1148A | 02
01 | CT | PORTLAND, TOWN OF | 0901300010B | 07-SEP-2001 | 01-01-1286A | 17
01 | CT | SIMSBURY, TOWN OF | 0900350015C | 12-SEP-2001 | 01-01-1284A | 17
01 | CT | SOMERS, TOWN OF | 0901120004B | 07-DEC-2001 | 02-01-0070A | 02
01 | CT | SOUTH WINDSOR, TOWN OF | 0900360010D | 10-AUG-2001 | 01-01-1200A | 02
01 | CT | SOUTHINGTON, TOWN OF | 0900370003C | 19-SEP-2001 | 01-01-1338A | 02
01 | CT | TRUMBULL, TOWN OF | 0900170010C | 05-SEP-2001 | 01-01-1246A | 17
01 | CT | WALLINGFORD, TOWN OF | 0900900006D | 29-AUG-2001 | 01-01-1268A | 02
01 | CT | WEST HARTFORD, TOWN OF | 0950820001C | 10-OCT-2001 | 01-01-1356A | 02
01 | CT | WESTBROOK, CITY OF | 0900700006D | 05-SEP-2001 | 01-01-1264A | 02
01 | CT | WOODBURY, TOWN OF | 0901330002B | 14-DEC-2001 | 02-01-0104A | 02
01 | MA | ACTON, TOWN OF | 2501760003C | 05-DEC-2001 | 02-01-0034A | 02
01 | MA | ACTON, TOWN OF | 2501760001C | 07-DEC-2001 | 02-01-0220A | 02
01 | MA | AGAWAM, TOWN OF | 2501330002A | 12-SEP-2001 | 01-01-1018A | 02
01 | MA | AGAWAM, TOWN OF | 2501330002A | 07-DEC-2001 | 02-01-0188A | 02
01 | MA | AGAWAM, TOWN OF | 2501330002A | 21-DEC-2001 | 02-01-0176A | 02
01 | MA | AMESBURY, TOWN OF | 2500750004C | 17-OCT-2001 | 01-01-1446A | 02
01 | MA | ANDOVER, TOWN OF | 2500760007B | 22-AUG-2001 | 01-01-1114A | 02
01 | MA | ANDOVER, TOWN OF | 2500760007B | 29-AUG-2001 | 01-01-1248A | 02
01 | MA | ARLINGTON, TOWN OF | 2501770002B | 18-JUL-2001 | 01-01-1022A | 02
01 | MA | ATTLEBORO, CITY OF | 2500490010C | 11-JUL-2001 | 01-01-0520A | 01
01 | MA | BERKLEY, TOWN OF | 2500500002B | 05-SEP-2001 | 01-01-1190A | 02
01 | MA | BERKLEY, TOWN OF | 2500500002B | 07-DEC-2001 | 02-01-0132A | 02
01 | MA | BRAINTREE, TOWN OF | 2502330004D | 10-AUG-2001 | 01-01-1118A | 02
01 | MA | BRAINTREE, TOWN OF | 2502330010C | 29-AUG-2001 | 01-01-1096A | 02
01 | MA | BRAINTREE, TOWN OF | 2502330005D | 12-SEP-2001 | 01-01-1016A | 02
01 | MA | BRAINTREE, TOWN OF | 2502330005D | 12-OCT-2001 | 01-01-1106A | 02
01 | MA | BRAINTREE, TOWN OF | 2502330004D | 17-OCT-2001 | 01-01-1378A | 02
01 | MA | BRIDGEWATER, TOWN OF | 2502600002C | 24-OCT-2001 | 01-01-1422A | 02
01 | MA | BRIDGEWATER, TOWN OF | 2502600005C | 31-OCT-2001 | 02-01-0038A | 02
01 | MA | BRIDGEWATER, TOWN OF | 2502600002C | 21-NOV-2001 | 01-01-1326A | 02
01 | MA | BRIDGEWATER, TOWN OF | 2502600010C | 21-NOV-2001 | 02-01-0120A | 02
01 | MA | BRIDGEWATER, TOWN OF | 2502600010C | 14-DEC-2001 | 02-01-0172A | 02
01 | MA | BROCKTON, CITY OF | 2502610010C | 28-SEP-2001 | 01-01-1242A | 02
01 | MA | EASTON, TOWN OF | 2500530010E | 14-SEP-2001 | 01-01-1296A | 02
01 | MA | EASTON, TOWN OF | 2500530005C | 24-OCT-2001 | 01-01-1464A | 02
01 | MA | FALMOUTH, TOWN OF | 2552110011F | 05-OCT-2001 | 01-01-1426A | 02
01 | MA | FRAMINGHAM, TOWN OF | 2501930006B | 01-AUG-2001 | 01-01-0858A | 01
01 | MA | GREENFIELD, TOWN OF | 2501180007B | 24-OCT-2001 | 01-01-1440A | 02
01 | MA | GROVELAND, TOWN OF | 2500830005C | 08-AUG-2001 | 01-01-1168A | 02
01 | MA | HOLBROOK, TOWN OF | 2552120001D | 06-JUL-2001 | 01-01-1240V | 19
01 | MA | HOLBROOK, TOWN OF | 2552120003D | 06-JUL-2001 | 01-01-1240V | 19
01 | MA | HOLLISTON, TOWN OF | 2501950007C | 07-DEC-2001 | 02-01-0198A | 02
01 | MA | HOLLISTON, TOWN OF | 2501950005C | 14-DEC-2001 | 02-01-0118A | 02
01 | MA | HUDSON, TOWN OF | 2501970003B | 24-OCT-2001 | 01-01-1374A | 01
01 | MA | LAKEVILLE, TOWN OF | 2502710015C | 22-AUG-2001 | 01-01-1162A | 02
01 | MA | LEE, TOWN OF | 2500280002B | 21-NOV-2001 | 01-01-1340A | 02
01 | MA | LEOMINSTER, CITY OF | 2503140003C | 05-DEC-2001 | 02-01-0206A | 02
01 | MA | MASHPEE, TOWN OF | 2500090009G | 05-OCT-2001 | 01-01-1388A | 02
01 | MA | MELROSE , CITY OF | 2502060001B | 29-AUG-2001 | 01-01-0776A | 02
01 | MA | MILTON, TOWN OF | 2502450001B | 07-NOV-2001 | 01-01-1124A | 02
01 | MA | NORTH READING, TOWN OF | 2502090005B | 05-JUL-2001 | 01-01-0792A | 02
01 | MA | NORTH READING, TOWN OF | 2502090004C | 21-DEC-2001 | 02-01-0294A | 02
01 | MA | PEPPERELL, TOWN OF | 2502100002C | 12-JUL-2001 | 01-01-011P | 05
01 | MA | PITTSFIELD, CITY OF | 2500370020C | 14-DEC-2001 | 02-01-0266A | 02
01 | MA | PLAINVILLE, TOWN OF | 2502490003B | 05-SEP-2001 | 01-01-1122A | 02
01 | MA | QUINCY, CITY OF | 2552190008B | 29-AUG-2001 | 01-01-1262A | 02
01 | MA | QUINCY, CITY OF | 2552190012C | 05-DEC-2001 | 02-01-0254A | 02
01 | MA | RANDOLPH, TOWN OF | 2502510002D | 19-SEP-2001 | 01-01-1202A | 02
01 | MA | RANDOLPH, TOWN OF | 2502510002C | 21-SEP-2001 | 01-01-1072A | 02
01 | MA | REVERE, CITY OF | 2502880001B | 01-AUG-2001 | 01-01-1076X | 02
01 | MA | ROCKLAND, TOWN OF | 2502810003B | 20-JUL-2001 | 01-01-0900A | 02
01 | MA | SOUTHBOROUGH, TOWN OF | 2503330004B | 05-SEP-2001 | 01-01-1120A | 01
01 | MA | SOUTHWICK, TOWN OF | 2501490010B | 05-OCT-2001 | 01-01-1396A | 02
01 | MA | WALTHAM, CITY OF | 2502220003D | 21-NOV-2001 | 02-01-0140A | 02
01 | MA | WAREHAM, TOWN OF | 2552230015D | 19-SEP-2001 | 01-01-1166A | 02
01 | MA | WAREHAM, TOWN OF | 2552230015D | 24-OCT-2001 | 01-01-1390A | 02
01 | MA | WELLFLEET, TOWN OF | 2500140007C | 05-SEP-2001 | 01-01-1170A | 02
01 | MA | WEST BROOKFIELD, TOWN OF | 2503460015B | 21-SEP-2001 | 01-01-1386A | 02
01 | MA | WESTFIELD, CITY OF | 2501530015B | 01-AUG-2001 | 01-01-1042A | 02
01 | MA | WESTPORT, TOWN OF | 2552240010B | 08-AUG-2001 | 01-01-0916A | 02
01 | MA | WESTWOOD, TOWN OF | 2552250005C | 31-OCT-2001 | 01-01-1294A | 02
01 | MA | WESTWOOD, TOWN OF | 2552250005C | 07-DEC-2001 | 02-01-0196A | 02
01 | MA | WORTHINGTON, TOWN OF | 2501750007B | 05-OCT-2001 | 01-01-1318A | 02
01 | ME | ALFRED, TOWN OF | 2301910025C | 19-SEP-2001 | 01-01-037P | 05
01 | ME | APPLETON, TOWN OF | 230073—13B | 28-SEP-2001 | 01-01-1394A | 02
01 | ME | AUGUSTA, CITY OF | 2300670010C | 24-OCT-2001 | 01-01-1348A | 02
01 | ME | BAR HARBOR, TOWN OF | 2300640005B | 08-AUG-2001 | 01-01-1088A | 02
01 | ME | BELGRADE, TOWN OF | 2302320010B | 05-DEC-2001 | 02-01-0148A | 02
01 | ME | BERWICK, TOWN OF | 2301440003B | 07-DEC-2001 | 01-01-1314A | 02
01 | ME | BIDDEFORD, CITY OF | 2301450004B | 08-AUG-2001 | 01-01-1108A | 02
01 | ME | BOOTHBAY HARBOR, TOWN OF | 2302130002B | 10-AUG-2001 | 01-01-0570A | 02
01 | ME | BOOTHBAY HARBOR, TOWN OF | 2302130002B | 12-SEP-2001 | 01-01-1270A | 02
01 | ME | BOOTHBAY, TOWN OF | 2302120011B | 28-SEP-2001 | 01-01-1370A | 02
01 | ME | BUXTON, TOWN OF | 2301460010B | 07-DEC-2001 | 01-01-1038A | 02
01 | ME | CHESTERVILLE, TOWN OF | 230346—01A | 05-DEC-2001 | 02-01-0044A | 02
01 | ME | DAYTON, TOWN OF | 2301480003B | 12-DEC-2001 | 02-01-0212A | 02
01 | ME | EDMUNDS, TOWNSHIP OF | 230471—04A | 20-JUL-2001 | 01-01-1100A | 02
01 | ME | EDMUNDS, TOWNSHIP OF | 230471—04A | 20-JUL-2001 | 01-01-1102A | 02
01 | ME | ELIOT, TOWN OF | 2301490010B | 31-OCT-2001 | 02-01-0108A | 02
01 | ME | FORT FAIRFIELD, TOWN OF | 2300180030B | 19-NOV-2001 | 01-01-015P | 05
01 | ME | FREEDOM, TOWN OF | 230255—01A | 31-OCT-2001 | 01-01-1448A | 02
01 | ME | FRYEBURG, TOWN OF | 2300930006C | 29-AUG-2001 | 01-01-1136A | 02
01 | ME | GOULDSBORO,TOWN OF | 2302830010B | 05-JUL-2001 | 01-01-0946A | 18
01 | ME | GOULDSBORO,TOWN OF | 2302830020B | 11-JUL-2001 | 01-01-0922A | 18
01 | ME | GRAY, TOWN OF | 2300480015A | 08-AUG-2001 | 01-01-1160A | 02
01 | ME | GREENVILLE,TOWN OF | 2304090005E | 08-SEP-2001 | 02-01-0192V | 19
01 | ME | GREENVILLE,TOWN OF | 2304090010E | 08-SEP-2001 | 02-01-0192V | 19
01 | ME | GREENVILLE,TOWN OF | 2304090011E | 08-SEP-2001 | 02-01-0192V | 19
01 | ME | GREENVILLE,TOWN OF | 2304090015E | 08-SEP-2001 | 02-01-0192V | 19
01 | ME | GREENVILLE,TOWN OF | 2304090020E | 08-SEP-2001 | 02-01-0192V | 19
01 | ME | GREENWOOD, TOWN OF | 230332—01A | 21-SEP-2001 | 01-01-1366A | 02
01 | ME | GUILFORD, TOWN OF | 0900770017B | 12-DEC-2001 | 02-01-0062A | 18
01 | ME | HANCOCK, TOWN OF | 2302840015A | 22-AUG-2001 | 01-01-1266A | 02
01 | ME | HANCOCK, TOWN OF | 2302840005A | 24-OCT-2001 | 01-01-1428A | 02
01 | ME | HARPSWELL, TOWN OF | 2301690005B | 05-JUL-2001 | 01-01-0040A | 18
01 | ME | HARPSWELL, TOWN OF | 2301690014D | 22-AUG-2001 | 01-01-1254A | 02
01 | ME | HARPSWELL, TOWN OF | 2301690011B | 14-SEP-2001 | 01-01-1330A | 02
01 | ME | HARTLAND, TOWN OF | 230361—02A | 24-OCT-2001 | 02-01-0032A | 02
01 | ME | HAYNESVILLE, TOWN OF | 230020—06B | 10-OCT-2001 | 01-01-1458A | 02
01 | ME | JEFFERSON, TOWN OF | 2300850020B | 29-AUG-2001 | 01-01-1110A | 02
01 | ME | KINGFIELD, TOWN OF | 2300580010C | 08-NOV-2001 | 02-01-0190V | 19
01 | ME | LAMOINE, TOWN OF | 2302850010A | 10-AUG-2001 | 01-01-1126A | 02
01 | ME | LAMOINE, TOWN OF | 2302850010A | 10-OCT-2001 | 01-01-1450A | 02
01 | ME | LIMERICK, TOWN OF | 2301940007B | 28-SEP-2001 | 01-01-1368A | 02
01 | ME | LIMERICK, TOWN OF | 2301940009B | 28-SEP-2001 | 01-01-1380A | 02
01 | ME | LINCOLN, TOWN OF | 2301090005B | 13-JUL-2001 | 01-01-0994A | 02
01 | ME | LINCOLNVILLE, TOWN OF | 2301720015A | 07-SEP-2001 | 01-01-1310A | 02
01 | ME | LITCHFIELD, TOWN OF | 2302380005B | 13-JUL-2001 | 01-01-1028A | 02
01 | ME | LITCHFIELD, TOWN OF | 2302380005B | 07-SEP-2001 | 01-01-1306A | 02
01 | ME | LONG ISLAND, TOWN OF | 2300510009B | 07-DEC-2001 | 02-01-0072A | 02
01 | ME | LOWELL, TOWN OF | 230395—03 | 20-JUL-2001 | 01-01-1010A | 02
01 | ME | LYMAN, TOWN OF | 2301950010A | 01-AUG-2001 | 01-01-0990A | 02
01 | ME | LYMAN, TOWN OF | 2301950005A | 29-AUG-2001 | 01-01-1142A | 02
01 | ME | MARIAVILLE, TOWN OF | 230286—04 | 08-AUG-2001 | 01-01-1138A | 02
01 | ME | MT. VERNON, TOWN OF | 2302410005B | 08-SEP-2001 | 01-01-1410V | 19
01 | ME | MT. VERNON, TOWN OF | 2302410025B | 08-SEP-2001 | 01-01-1410V | 19
01 | ME | NEWPORT, TOWN OF | 230398—08B | 10-AUG-2001 | 01-01-1140A | 02
01 | ME | NORTH HAVEN, TOWN OF | 2302280015B | 13-NOV-2001 | 01-01-035P | 05
01 | ME | NORTH YARMOUTH, TOWN OF | 2302020005B | 01-AUG-2001 | 01-01-1084A | 02
01 | ME | OGUNQUIT, TOWN OF | 2306320002B | 16-NOV-2001 | 01-01-1334A | 02
01 | ME | OLD ORCHARD BEACH, TOWN OF | 2301530003B | 14-OCT-2001 | 01-01-009P | 05
01 | ME | OLD ORCHARD BEACH, TOWN OF | 2301530003B | 19-DEC-2001 | 02-01-0112A | 02
01 | ME | PALMYRA, TOWN OF | 230366—05B | 16-NOV-2001 | 02-01-0186A | 02
01 | ME | PHIPPSBURG, TOWN OF | 2301200008D | 12-DEC-2001 | 01-01-1462A | 18
01 | ME | PITTSFIELD, TOWN OF | 2301270005C | 29-AUG-2001 | 01-01-0932A | 02
01 | ME | POLAND, TOWN OF | 2300090008D | 08-AUG-2001 | 01-01-0918A | 02
01 | ME | PORTAGE LAKE, TOWN OF | 230031—08A | 11-JUL-2001 | 01-01-0654A | 02
01 | ME | PORTER, TOWN OF | 2303380014A | 12-DEC-2001 | 02-01-0274A | 02
01 | ME | PORTLAND, CITY OF | 2300510007C | 17-AUG-2001 | 01-01-1222A | 02
01 | ME | PORTLAND, CITY OF | 2300510007C | 28-DEC-2001 | 02-01-0326A | 02
01 | ME | RANGELEY, TOWN OF | 2303520007B | 11-JUL-2001 | 01-01-1036A | 02
01 | ME | READFIELD, TOWN OF | 2302450006B | 28-NOV-2001 | 02-01-0202A | 02
01 | ME | RUMFORD, TOWN OF | 2300990012B | 21-SEP-2001 | 01-01-1360A | 02
01 | ME | SCARBOROUGH, TOWN OF | 2300520023D | 05-SEP-2001 | 01-01-1228A | 02
01 | ME | SCARBOROUGH, TOWN OF | 2300520023D | 14-SEP-2001 | 01-01-1174A | 02
01 | ME | SCARBOROUGH, TOWN OF | 2300520015D | 19-NOV-2001 | 01-01-045P | 05
01 | ME | SIDNEY, TOWN OF | 2302470015C | 17-OCT-2001 | 01-01-1324A | 02
01 | ME | SOUTH BERWICK, TOWN OF | 2301570008C | 29-AUG-2001 | 01-01-1252A | 02
01 | ME | SOUTHPORT, TOWN OF | 2302210004B | 17-AUG-2001 | 01-01-1238A | 02
01 | ME | ST. ALBANS, TOWN OF | 230369—04A | 20-JUL-2001 | 01-01-1078A | 02
01 | ME | ST. ALBANS, TOWN OF | 230369—03A | 15-AUG-2001 | 01-01-1232A | 02
01 | ME | ST. ALBANS, TOWN OF | 230369—02A | 21-SEP-2001 | 01-01-1382A | 02
01 | ME | ST. ALBANS, TOWN OF | 230369—03A | 17-OCT-2001 | 01-01-1434A | 02
01 | ME | ST. GEORGE, TOWN OF | 2302290010C | 08-AUG-2001 | 01-01-1058A | 02
01 | ME | ST. GEORGE, TOWN OF | 2302290010C | 08-AUG-2001 | 01-01-1180A | 02
01 | ME | ST. GEORGE, TOWN OF | 2302290010C | 12-OCT-2001 | 01-01-031P | 05
01 | ME | STEUBEN, TOWN OF | 230323—02A | 12-SEP-2001 | 01-01-1320A | 02
01 | ME | SWANS ISLAND,TOWN OF | 230297—13A | 13-JUL-2001 | 01-01-1046A | 02
01 | ME | T17 R04 WELS, TOWNSHIP OF | 230453—01A | 13-JUL-2001 | 01-01-1014A | 02
01 | ME | UNION,TOWN OF | 2300800010C | 16-NOV-2001 | 02-01-0168A | 02
01 | ME | WALDOBORO, TOWN OF | 2300860030B | 10-AUG-2001 | 01-01-0702A | 02
01 | ME | WATERBORO, TOWN OF | 2301990003C | 08-AUG-2001 | 01-01-1082A | 02
01 | ME | WATERVILLE, CITY OF | 2300700003C | 29-AUG-2001 | 01-01-1210A | 02
01 | ME | WINDHAM, TOWN OF | 2301890015B | 20-JUL-2001 | 01-01-0974A | 02
01 | ME | WINDHAM, TOWN OF | 2301890030B | 05-SEP-2001 | 01-01-1070A | 02
01 | ME | WINN, TOWN OF | 230404—01 | 12-SEP-2001 | 01-01-1312A | 02
01 | ME | WOODSTOCK, TOWN OF | 230344—04A | 24-OCT-2001 | 01-01-1362A | 02
01 | ME | WOODSTOCK, TOWN OF | 230344—04A | 05-DEC-2001 | 01-01-1364A | 02
01 | ME | YORK, TOWN OF | 2301590024B | 16-NOV-2001 | 01-01-1414A | 18
01 | NH | ALTON, TOWN OF | 3300010020B | 07-NOV-2001 | 01-01-0850A | 02
01 | NH | BARTLETT, TOWN OF | 3300100010C | 17-JUL-2001 | 01-01-1144A | 02
01 | NH | BEDFORD, TOWN OF | 3300830005C | 10-OCT-2001 | 01-01-1400A | 02
01 | NH | BRIDGEWATER, TOWN OF | 3300460010C | 24-OCT-2001 | 01-01-1322A | 02
01 | NH | BRISTOL, TOWN OF | 3300470006C | 05-SEP-2001 | 01-01-1290A | 02
01 | NH | CANAAN, TOWN OF | 3300490029B | 08-AUG-2001 | 01-01-1060A | 02
01 | NH | CLAREMONT, CITY OF | 3301540003C | 11-JUL-2001 | 01-01-001P | 05
01 | NH | CONWAY, TOWN OF | 3300110015B | 10-AUG-2001 | 01-01-1154A | 02
01 | NH | CONWAY, TOWN OF | 3300110010B | 05-OCT-2001 | 01-01-1416A | 17
01 | NH | CORNISH, TOWN OF | 3301550010B | 10-AUG-2001 | 01-01-0986A | 02
01 | NH | DANVILLE, TOWN OF | 330199—01A | 24-OCT-2001 | 01-01-1344A | 02
01 | NH | FREMONT, TOWN OF | 3301310005C | 14-SEP-2001 | 01-01-1188A | 02
01 | NH | HILLSBOROUGH, TOWN OF | 3300900020B | 16-NOV-2001 | 02-01-0142A | 02
01 | NH | HOLLIS, TOWN OF | 3300910010B | 25-SEP-2001 | 01-01-011P | 05
01 | NH | KEENE, CITY OF | 3300230009C | 29-AUG-2001 | 01-01-1256A | 02
01 | NH | KEENE, CITY OF | 3300230008D | 06-OCT-2001 | 02-01-0098V | 19
01 | NH | KEENE, CITY OF | 3300230009D | 06-OCT-2001 | 02-01-0098V | 19
01 | NH | MANCHESTER, CITY OF | 3301690020B | 22-AUG-2001 | 01-01-1250A | 02
01 | NH | MERRIMACK, TOWN OF | 3300950005A | 05-SEP-2001 | 01-01-0864A | 02
01 | NH | MIDDLETON, TOWN OF | 3302220001A | 16-NOV-2001 | 02-01-0174A | 02
01 | NH | NASHUA, CITY OF | 3300970010B | 11-JUL-2001 | 01-01-1034A | 02
01 | NH | NEW BOSTON, TOWN OF | 3300980005C | 12-DEC-2001 | 02-01-0248A | 17
01 | NH | NEW BOSTON, TOWN OF | 3300980005C | 12-DEC-2001 | 02-01-0270A | 02
01 | NH | RAYMOND, TOWN OF | 3301400005D | 17-OCT-2001 | 01-01-1432A | 02
01 | NH | SALEM, TOWN OF | 3301420005C | 16-NOV-2001 | 02-01-0074A | 02
01 | NH | SEABROOK, TOWN OF | 3301430003B | 05-OCT-2001 | 01-01-1192A | 02
01 | NH | SHELBURNE, TOWN OF | 330037—07A | 05-SEP-2001 | 01-01-1274A | 02
01 | NH | SUTTON, TOWN OF | 330122—03B | 25-JUL-2001 | 01-01-0944A | 02
01 | NH | WAKEFIELD, TOWN OF | 3300190005A | 17-AUG-2001 | 01-01-1094A | 02
01 | NH | WAKEFIELD, TOWN OF | 3300190005A | 17-AUG-2001 | 01-01-1244A | 02
01 | NH | WAKEFIELD, TOWN OF | 3300190005A | 14-DEC-2001 | 02-01-0290A | 02
01 | NH | WASHINGTON, TOWN OF | 330166—11B | 05-OCT-2001 | 01-01-1402A | 02
01 | NH | WINCHESTER, TOWN OF | 3300280020B | 31-OCT-2001 | 01-01-1392A | 01
01 | RI | BARRINGTON, TOWN OF | 4453920002F | 21-NOV-2001 | 02-01-0146A | 02
01 | RI | BARRINGTON, TOWN OF | 44001C0002F | 14-DEC-2001 | 02-01-0302A | 02
01 | RI | CRANSTON, CITY OF | 4453960005B | 01-AUG-2001 | 01-01-0950A | 02
01 | RI | CRANSTON, CITY OF | 4453960009B | 05-SEP-2001 | 01-01-1198A | 02
01 | RI | CRANSTON, CITY OF | 4453960005B | 07-DEC-2001 | 02-01-0232A | 02
01 | RI | EAST GREENWICH, TOWN OF | 4453970002B | 14-SEP-2001 | 01-01-1316A | 02
01 | RI | NORTH PROVIDENCE, TOWN OF | 4400200001C | 24-OCT-2001 | 01-01-1406A | 02
01 | RI | PROVIDENCE, CITY OF | 4454060004F | 13-JUL-2001 | 01-01-0982A | 02
01 | RI | SMITHFIELD, TOWN OF | 4400250008B | 08-AUG-2001 | 01-01-0648A | 02
01 | RI | TIVERTON, TOWN OF | 4400120005E | 07-DEC-2001 | 02-01-0096A | 02
01 | RI | WARWICK, CITY OF | 4454090005E | 24-AUG-2001 | 01-01-0984A | 02
01 | VT | BARTON, TOWN OF | 5000810002C | 21-SEP-2001 | 01-01-1352A | 02
01 | VT | BENNINGTON, TOWN OF | 5000130020C | 07-SEP-2001 | 01-01-025P | 05
01 | VT | BLOOMFIELD, TOWN OF | 5000450015B | 31-OCT-2001 | 02-01-0090A | 02
01 | VT | BRISTOL, TOWN OF | 5000010015B | 13-JUL-2001 | 01-01-1068A | 02
01 | VT | COLCHESTER, TOWN OF | 5000330006B | 11-JUL-2001 | 01-01-1032A | 02
01 | VT | CRAFTSBURY, TOWN OF | 500247—10B | 05-OCT-2001 | 01-01-1420A | 02
01 | VT | DERBY, TOWN OF | 500248—17B | 21-SEP-2001 | 01-01-1332A | 02
01 | VT | FERRISBURG, TOWN OF | 5000020020B | 25-JUL-2001 | 01-01-1112A | 02
01 | VT | FERRISBURG, TOWN OF | 5000020010B | 24-OCT-2001 | 02-01-0064A | 02
01 | VT | HARDWICK, TOWN OF | 5000270012C | 31-OCT-2001 | 01-01-1048A | 01
01 | VT | JERICHO, TOWN OF | 5000370008B | 16-NOV-2001 | 02-01-0200A | 02
01 | VT | LUDLOW, VILLAGE OF | 5002940001B | 13-JUL-2001 | 01-01-1054A | 02
01 | VT | LYNDON, TOWN OF | 5000280020B | 19-DEC-2001 | 02-01-0328A | 02
01 | VT | MIDDLESEX, TOWN OF | 5001140012B | 16-NOV-2001 | 02-01-0106A | 02
01 | VT | MONTPELIER, CITY OF | 5055180002A | 29-AUG-2001 | 01-01-1280A | 02
01 | VT | MONTPELIER, CITY OF | 5055180002A | 21-SEP-2001 | 01-01-1336A | 01
01 | VT | MORETOWN, TOWN OF | 5001160001C | 10-AUG-2001 | 01-01-1156A | 02
01 | VT | MORETOWN, TOWN OF | 5001160011C | 21-SEP-2001 | 01-01-1276A | 02
01 | VT | MORETOWN, TOWN OF | 5001160001C | 16-NOV-2001 | 02-01-0056A | 01
01 | VT | RYEGATE, TOWN OF | 5000300008B | 13-JUL-2001 | 01-01-0980A | 02
01 | VT | SHOREHAM, TOWN OF | 5001710005B | 07-DEC-2001 | 02-01-0238A | 02
01 | VT | SOUTH BURLINGTON, CITY OF | 5001950008B | 08-AUG-2001 | 01-01-1052A | 02
01 | VT | ST ALBANS, TOWN OF | 5002190015A | 10-AUG-2001 | 01-01-1158A | 02
01 | VT | ST ALBANS, TOWN OF | 5002190005A | 17-AUG-2001 | 01-01-1214A | 02
01 | VT | ST ALBANS, TOWN OF | 5002190005A | 22-AUG-2001 | 01-01-1258A | 02
01 | VT | SUTTON, TOWN OF | 500198—06A | 29-AUG-2001 | 01-01-1074A | 02
01 | VT | TUNBRIDGE, TOWN OF | 500076—08B | 05-SEP-2001 | 01-01-1278A | 02
01 | VT | WASHINGTON, TOWN OF | 500077—02A | 26-OCT-2001 | 01-01-1412A | 02
01 | VT | WESTFIELD, TOWN OF | 500257—06B | 21-SEP-2001 | 01-01-1372A | 02
01 | VT | WEYBRIDGE, TOWN OF | 5001740005B | 21-NOV-2001 | 02-01-0170A | 02
01 | VT | WINDSOR, TOWN OF | 5001590004C | 05-OCT-2001 | 01-01-1218A | 02
01 | VT | WOODSTOCK, TOWN OF | 5001600001A | 05-OCT-2001 | 01-01-0920A | 02
01 | VT | WOODSTOCK, TOWN OF | 5001600001A | 28-DEC-2001 | 02-01-0226A | 02
02 | NJ | ALLENDALE, BOROUGH OF | 34003C0069G | 10-AUG-2001 | 01-02-1108A | 02
02 | NJ | BARNEGAT, TOWNSHIP OF | 3403960021C | 14-DEC-2001 | 02-02-0048A | 02
02 | NJ | BERKELEY, TOWNSHIP OF | 3403690025C | 26-SEP-2001 | 01-02-1270A | 02
02 | NJ | BOUND BROOK, BOROUGH OF | 3404300001C | 11-JUL-2001 | 01-02-1086A | 02
02 | NJ | BRICK, TOWNSHIP OF | 3452850003C | 17-AUG-2001 | 01-02-1192A | 02
02 | NJ | BRICK, TOWNSHIP OF | 3452850007E | 28-DEC-2001 | 02-02-0356A | 02
02 | NJ | CAPE MAY CITY, CITY OF | 3452880001E | 21-SEP-2001 | 01-02-1258A | 02
02 | NJ | COLTS NECK, TOWNSHIP OF | 3402910002C | 03-AUG-2001 | 01-02-1100A | 02
02 | NJ | COMMERCIAL, TOWNSHIP OF | 3401660008B | 26-OCT-2001 | 01-02-1374A | 02
02 | NJ | CRANFORD, TOWNSHIP OF | 3452910001B | 26-OCT-2001 | 01-02-1298A | 02
02 | NJ | CRANFORD, TOWNSHIP OF | 3452910001B | 28-DEC-2001 | 02-02-0252A | 02
02 | NJ | CRESSKILL, BOROUGHS OF | 34003C0204F | 08-AUG-2001 | 01-02-1124A | 02
02 | NJ | EDISON, TOWNSHIP OF | 3402610007C | 07-DEC-2001 | 02-02-0262A | 02
02 | NJ | EDISON, TOWNSHIP OF | 3402610006C | 07-DEC-2001 | 02-02-0308A | 02
02 | NJ | EWING, TOWNSHIP OF | 3452940002D | 21-SEP-2001 | 01-02-1172A | 02
02 | NJ | FAIR LAWN, BOROUGH OF | 34003C0196F | 26-SEP-2001 | 01-02-1306A | 02
02 | NJ | FAIR LAWN, BOROUGH OF | 34003C0178F | 10-OCT-2001 | 01-02-1182A | 02
02 | NJ | FAIRVIEW, BOROUGH OF | 34003C0259F | 11-JUL-2001 | 01-02-1058A | 02
02 | NJ | HAMILTON, TOWNSHIP OF | 3402460015C | 03-AUG-2001 | 01-02-1128A | 02
02 | NJ | HAMILTON, TOWNSHIP OF | 3402460015C | 08-AUG-2001 | 01-02-1162A | 02
02 | NJ | HAMILTON, TOWNSHIP OF | 3402460015C | 22-AUG-2001 | 01-02-1180A | 02
02 | NJ | HARRINGTON PARK, BOROUGH OF | 34003C0113F | 18-JUL-2001 | 01-02-0828A | 02
02 | NJ | HARRINGTON PARK, BOROUGH OF | 34003C0113F | 05-DEC-2001 | 02-02-0222A | 02
02 | NJ | HAZLET, TOWNSHIP OF | 3402980002B | 31-AUG-2001 | 01-02-1234A | 02
02 | NJ | HAZLET, TOWNSHIP OF | 3402980002B | 17-OCT-2001 | 01-02-1332A | 02
02 | NJ | HAZLET, TOWNSHIP OF | 3402980002B | 14-DEC-2001 | 01-02-1380A | 02
02 | NJ | HIGHLANDS, BOROUGH OF | 3452970001B | 19-OCT-2001 | 01-02-0990A | 01
02 | NJ | HO-HO-KUS, BOROUGH OF | 34003C0177F | 31-AUG-2001 | 01-02-1252A | 02
02 | NJ | HOLLAND, TOWNSHIP OF | 3405090006C | 28-DEC-2001 | 02-02-0090A | 02
02 | NJ | LACEY, TOWNSHIP OF | 340376—09A | 18-JUL-2001 | 01-02-1040A | 02
02 | NJ | LAWRENCE, TOWNSHIP OF | 3402500002B | 24-OCT-2001 | 01-02-1338A | 02
02 | NJ | LITTLE FALLS, TOWNSHIP OF | 3404010001B | 07-DEC-2001 | 01-02-1232A | 02
02 | NJ | LIVINGSTON, TOWNSHIP OF | 3401850002E | 21-SEP-2001 | 01-02-1260A | 02
02 | NJ | LONG HILL, TOWNSHIP OF | 3403560005B | 22-SEP-2001 | 02-02-0292V | 19
02 | NJ | MANASQUAN, BOROUGH OF | 3453030001C | 31-AUG-2001 | 01-02-1210A | 02
02 | NJ | MANVILLE, BOROUGH OF | 3404370001B | 05-DEC-2001 | 02-02-0042A | 02
02 | NJ | MIDDLESEX, BOROUGH OF | 3453050001B | 08-AUG-2001 | 01-02-0728A | 02
02 | NJ | MONMOUTH BEACH, BOROUGH OF | 3403150001D | 21-NOV-2001 | 02-02-0164A | 02
02 | NJ | MONROE, TOWNSHIP OF | 3402080018B | 20-JUL-2001 | 01-02-0486A | 02
02 | NJ | MOUNT LAUREL, TOWNSHIP OF | 3401070010E | 27-JUL-2001 | 01-02-0736A | 02
02 | NJ | NEPTUNE, TOWNSHIP OF | 3403170003C | 24-OCT-2001 | 01-02-1324A | 02
02 | NJ | NEW PROVIDENCE, BOROUGH OF | 3453060001D | 20-DEC-2001 | 02-02-0418V | 19
02 | NJ | NORTH WILDWOOD, CITY OF | 3453080001E | 19-SEP-2001 | 01-02-021P | 05
02 | NJ | OLD BRIDGE, TOWN OF | 3402650004D | 12-DEC-2001 | 02-02-0228A | 02
02 | NJ | OLD BRIDGE, TOWN OF | 3402650004D | 21-DEC-2001 | 02-02-0258A | 02
02 | NJ | OLD BRIDGE, TOWNSHIP OF | 3402650004D | 14-NOV-2001 | 01-02-1276A | 02
02 | NJ | PALMYRA, BOROUGH OF | 3401100001C | 26-OCT-2001 | 01-02-1132A |
02 | NJ | PALMYRA, BOROUGH OF | 3401100001C | 16-NOV-2001 | 02-02-0170A | 01
02 | NJ | PALMYRA, BOROUGH OF | 3401100001C | 05-DEC-2001 | 02-02-0140A | 01
02 | NJ | PASSAIC, TOWNSHIP OF | 3403560005B | 03-OCT-2001 | 01-02-1060A | 02
02 | NJ | PEQUANNOCK, TOWNSHIP OF | 3453110001C | 03-AUG-2001 | 01-02-0548A | 02
02 | NJ | PEQUANNOCK, TOWNSHIP OF | 3453110001C | 08-AUG-2001 | 01-02-0992A | 02
02 | NJ | PEQUANNOCK, TOWNSHIP OF | 3453110002B | 10-AUG-2001 | 01-02-1106A | 02
02 | NJ | RIVERSIDE, TOWNSHIP OF | 3401130001B | 11-JUL-2001 | 01-02-1084A | 02
02 | NJ | RIVERSIDE, TOWNSHIP OF | 3401130001B | 17-OCT-2001 | 01-02-1320A | 02
02 | NJ | ROSELLE PARK, BOROUGH OF | 3404730001C | 14-NOV-2001 | 02-02-0148A | 02
02 | NJ | SCOTCH PLAINS, TOWNSHIP OF | 3404740005C | 18-JUL-2001 | 01-02-0514A | 02
02 | NJ | SCOTCH PLAINS, TOWNSHIP OF | 3404740005C | 03-AUG-2001 | 01-02-1078A | 17
02 | NJ | SCOTCH PLAINS, TOWNSHIP OF | 3404740005C | 31-AUG-2001 | 01-02-1230A | 02
02 | NJ | SCOTCH PLAINS, TOWNSHIP OF | 3404740005C | 24-OCT-2001 | 01-02-1158A | 02
02 | NJ | SCOTCH PLAINS, TOWNSHIP OF | 3404740005C | 21-DEC-2001 | 02-02-0224A | 02
02 | NJ | SUMMIT, CITY OF | 340476—01A | 05-DEC-2001 | 01-02-1354A | 02
02 | NJ | WANAQUE, BOROUGH OF | 3404090001B | 10-AUG-2001 | 01-02-1166A | 02
02 | NJ | WEST ORANGE, TOWN OF | 3401970005B | 24-OCT-2001 | 01-02-1384A | 02
02 | NY | AMHERST, TOWN OF | 3602260006E | 20-JUL-2001 | 01-02-0536A | 02
02 | NY | AMHERST, TOWN OF | 3602260006E | 01-AUG-2001 | 01-02-1012A | 02
02 | NY | AMHERST, TOWN OF | 3602260007E | 15-AUG-2001 | 01-02-1188A | 02
02 | NY | AMHERST, TOWN OF | 3602260007E | 10-OCT-2001 | 01-02-1292A | 02
02 | NY | AMHERST, TOWN OF | 3602260009E | 10-OCT-2001 | 01-02-1310A | 02
02 | NY | ARCADE, VILLAGE OF | 3615550005D | 16-NOV-2001 | 01-02-1386A | 02
02 | NY | BELLMONT, TOWN OF | 361392—03A | 21-DEC-2001 | 02-02-0276A | 02
02 | NY | BENTON, TOWN OF | 360955—04D | 16-NOV-2001 | 02-02-0052A | 02
02 | NY | BRIGHTON, TOWN OF | 3604100010B | 15-AUG-2001 | 01-02-1200A | 02
02 | NY | BRIGHTON, TOWN OF | 3604100010B | 05-DEC-2001 | 02-02-0112A | 02
02 | NY | BROOKHAVEN, TOWN OF | 36103C0718G | 05-DEC-2001 | 01-02-1190A | 02
02 | NY | BUFFALO, CITY OF | 3602300010C | 01-AUG-2001 | 01-02-1044A | 02
02 | NY | BUFFALO, CITY OF | 3602300010C | 28-DEC-2001 | 02-02-0310A | 02
02 | NY | CARMEL, TOWN OF | 3606690003C | 20-OCT-2001 | 02-02-0296V | 19
02 | NY | CHAUTAUQUA, TOWN OF | 3610710035A | 07-SEP-2001 | 01-02-1002A | 02
02 | NY | CHEEKTOWAGA, TOWN OF | 3602310005E | 16-NOV-2001 | 01-02-1118A | 01
02 | NY | CHESTER, TOWN OF | 3608700010B | 07-SEP-2001 | 01-02-0980A | 02
02 | NY | CHESTER, TOWN OF | 360604—08A | 24-OCT-2001 | 01-02-1140A | 02
02 | NY | CHESTER, TOWN OF | 3608700010B | 14-NOV-2001 | 01-02-1334A | 02
02 | NY | CHESTER, TOWN OF | 3608700010B | 05-DEC-2001 | 02-02-0160A | 02
02 | NY | CICERO, TOWN OF | 3605720015D | 15-AUG-2001 | 01-02-1094A | 02
02 | NY | CICERO, TOWN OF | 3605720005D | 31-AUG-2001 | 01-02-1222A | 02
02 | NY | CICERO, TOWN OF | 3605720004D | 26-SEP-2001 | 01-02-1256A | 02
02 | NY | CICERO, TOWN OF | 3605720006D | 10-OCT-2001 | 01-02-1264A | 02
02 | NY | CICERO, TOWN OF | 3605720004D | 05-DEC-2001 | 02-02-0056A | 02
02 | NY | CLARENCE, TOWN OF | 3602320005C | 05-JUL-2001 | 01-02-1082A | 02
02 | NY | CLARENCE, TOWN OF | 3602320005C | 05-JUL-2001 | 01-02-0412A | 01
02 | NY | CLARENCE, TOWN OF | 3602320013C | 20-JUL-2001 | 01-02-1048A | 01
02 | NY | CLARENCE, TOWN OF | 3602320011C | 01-AUG-2001 | 01-02-1130A | 02
02 | NY | CLARENCE, TOWN OF | 3602320011C | 03-AUG-2001 | 01-02-1070A | 02
02 | NY | CLARENCE, TOWN OF | 3602320011C | 19-SEP-2001 | 01-02-1212A | 02
02 | NY | CLARENCE, TOWN OF | 3602320014C | 21-SEP-2001 | 01-02-1214A | 02
02 | NY | CLARENCE, TOWN OF | 3602320013C | 21-SEP-2001 | 01-02-1216A | 02
02 | NY | CLARENCE, TOWN OF | 3602320005C | 10-OCT-2001 | 01-02-1274A | 02
02 | NY | CLARENCE, TOWN OF | 3602320013C | 17-OCT-2001 | 01-02-1352A | 02
02 | NY | CLARENCE, TOWN OF | 3602320005C | 24-OCT-2001 | 01-02-1322X | 02
02 | NY | CLARENCE, TOWN OF | 3602320011C | 05-DEC-2001 | 01-02-1042A | 01
02 | NY | CLARENCE, TOWN OF | 3602320011C | 05-DEC-2001 | 01-02-1244A | 01
02 | NY | CLARENCE, TOWN OF | 3602320013C | 28-DEC-2001 | 02-02-0272A | 02
02 | NY | CLARKSTOWN, TOWN OF | 3606790008E | 18-JUL-2001 | 01-02-0934A | 02
02 | NY | CLARKSTOWN, TOWN OF | 3606790014E | 27-JUL-2001 | 01-02-1148A | 02
02 | NY | CLARKSTOWN, TOWN OF | 3606790004F | 27-JUL-2001 | 01-02-1006A | 01
02 | NY | CLARKSTOWN, TOWN OF | 3606790003E | 17-AUG-2001 | 01-02-1126A | 17
02 | NY | CLARKSTOWN, TOWN OF | 3606790004F | 31-AUG-2001 | 01-02-1268A | 02
02 | NY | CLARKSTOWN, TOWN OF | 3606790015E | 26-SEP-2001 | 01-02-1296A | 02
02 | NY | CLARKSTOWN, TOWN OF | 3606790006F | 26-OCT-2001 | 01-02-1032A | 02
02 | NY | COBLESKILL, VILLAGE OF | 3607430003B | 09-AUG-2001 | 00-02-025P | 05
02 | NY | COPAKE, TOWN OF | 360174—02B | 31-AUG-2001 | 01-02-1104A | 02
02 | NY | CORTLAND, CITY OF | 3601780001C | 10-AUG-2001 | 01-02-0632A | 02
02 | NY | DOVER, TOWN OF | 3613350008A | 11-JUL-2001 | 01-02-0966A | 01
02 | NY | ELLENBURG, TOWN OF | 361382—07A | 26-OCT-2001 | 01-02-1326A | 02
02 | NY | ELLENBURG, TOWN OF | 361382—07A | 26-OCT-2001 | 02-02-0074A | 02
02 | NY | GATES, TOWN OF | 3604160003B | 10-OCT-2001 | 01-02-1290A | 02
02 | NY | GATES, TOWN OF | 3604160001B | 19-DEC-2001 | 02-02-0176A | 02
02 | NY | GORHAM, TOWN OF | 3606010001C | 26-SEP-2001 | 01-02-1194A | 02
02 | NY | GREECE, TOWN OF | 3604170004E | 26-SEP-2001 | 01-02-1228A | 01
02 | NY | GREECE, TOWN OF | 3604170006B | 10-OCT-2001 | 01-02-1206A | 02
02 | NY | GREECE, TOWN OF | 3604170004E | 21-DEC-2001 | 02-02-0172A | 02
02 | NY | HAMBURG, TOWN OF | 3602440005B | 24-OCT-2001 | 01-02-1254A | 02
02 | NY | ITALY, TOWN OF | 360958C | 14-NOV-2001 | 02-02-0044A | 02
02 | NY | JAY, TOWN OF | 3602650020C | 07-SEP-2001 | 01-02-1074A | 02
02 | NY | JAY, TOWN OF | 3602650004C | 30-NOV-2001 | 01-02-1184A | 02
02 | NY | JERUSALEM, TOWN OF | 360959C | 11-JUL-2001 | 01-02-0946A | 02
02 | NY | JERUSALEM, TOWN OF | 360959—15C | 07-DEC-2001 | 01-02-1370A | 02
02 | NY | LAKE LUZERNE, TOWN OF | 3608780005B | 21-DEC-2001 | 01-02-1358A | 02
02 | NY | LARCHMONT, VILLAGE OF | 3609150001B | 07-NOV-2001 | 00-02-057P | 05
02 | NY | LLOYD, TOWN OF | 3610120012D | 20-JUL-2001 | 01-02-0438A | 02
02 | NY | LUMBERLAND, TOWN OF | 3608250020C | 21-DEC-2001 | 02-02-0294V | 19
02 | NY | MAMARONECK, TOWN OF | 3609170005B | 18-JUL-2001 | 01-02-0922A | 02
02 | NY | MANCHESTER, TOWN OF | 361301—07B | 05-DEC-2001 | 01-02-1168A | 02
02 | NY | MANLIUS, TOWN OF | 3605840005E | 15-AUG-2001 | 01-02-1094D | 02
02 | NY | MIDDLEBURGH, VILLAGE OF | 3612450001D | 12-SEP-2001 | 01-02-1110A | 02
02 | NY | MILFORD, TOWN OF | 361274—06B | 31-AUG-2001 | 01-02-1204A | 02
02 | NY | MINA, TOWN OF | 361371—03A | 18-JUL-2001 | 01-02-1010A | 02
02 | NY | NEW YORK, CITY OF | 3604970131E | 05-JUL-2001 | 01-02-0932A | 02
02 | NY | NEW YORK, CITY OF | 3604970138E | 18-JUL-2001 | 01-02-0998A | 02
02 | NY | NEW YORK, CITY OF | 3604970146E | 27-JUL-2001 | 01-02-0636A | 02
02 | NY | NEW YORK, CITY OF | 3604970144E | 07-SEP-2001 | 01-02-1160A | 02
02 | NY | NEW YORK, CITY OF | 3604970126E | 21-SEP-2001 | 01-02-1262A | 02
02 | NY | NEW YORK, CITY OF | 3604970144E | 17-OCT-2001 | 01-02-1302A | 02
02 | NY | NEW YORK, CITY OF | 3604970146E | 17-OCT-2001 | 01-02-1304A | 02
02 | NY | NEW YORK, CITY OF | 3604970139E | 26-OCT-2001 | 02-02-0064A | 02
02 | NY | NEW YORK, CITY OF | 3604970139E | 14-NOV-2001 | 02-02-0072A | 02
02 | NY | NEW YORK, CITY OF | 3604970135E | 28-NOV-2001 | 01-02-1350A | 02
02 | NY | NEW YORK, CITY OF | 3604970139E | 05-DEC-2001 | 02-02-0080A | 02
02 | NY | NEW YORK, CITY OF | 3604970149E | 12-DEC-2001 | 02-02-0246A | 02
02 | NY | NEW YORK, CITY OF | 3604970139E | 28-DEC-2001 | 02-02-0302A | 02
02 | NY | NEWCOMB, TOWN OF | 361390—13A | 26-OCT-2001 | 01-02-1342A | 02
02 | NY | NEWFANE, TOWN OF | 3605040010B | 19-DEC-2001 | 01-02-1178A | 02
02 | NY | NEWFANE, TOWN OF | 3605040005C | 28-DEC-2001 | 02-02-0234A | 02
02 | NY | NIAGARA FALLS, CITY OF | 3605060003C | 14-DEC-2001 | 02-02-0206A | 02
02 | NY | NIAGRA FALLS, CITY OF | 3605060002B | 17-OCT-2001 | 01-02-1090A | 02
02 | NY | NIAGRA FALLS, CITY OF | 3605060003C | 26-OCT-2001 | 01-02-1360A | 02
02 | NY | NORTH GREENBUSH, TOWN OF | 3611640005A | 31-OCT-2001 | 02-02-0116A | 02
02 | NY | PARMA, TOWN OF | 3604250005D | 26-OCT-2001 | 01-02-1376A | 02
02 | NY | PAWLING, TOWN OF | 3613410003B | 19-DEC-2001 | 01-02-1336A | 02
02 | NY | PENFIELD, TOWN OF | 3604260015B | 05-JUL-2001 | 01-02-0682A | 02
02 | NY | PERU,TOWN OF | 3613840020B | 05-JUL-2001 | 01-02-1076A | 02
02 | NY | PHILIPSTOWN,TOWN OF | 3610260001B | 07-SEP-2001 | 01-02-0908A | 02
02 | NY | PHILLIPSTOWN, TOWN OF | 3610260001B | 24-OCT-2001 | 01-02-1330A | 02
02 | NY | PITTSFORD, TOWN OF | 3604290010C | 01-AUG-2001 | 01-02-1154A | 02
02 | NY | PUTNAM VALLEY, TOWN OF | 3610300013C | 28-DEC-2001 | 02-02-0336A | 02
02 | NY | PUTNAM, TOWN OF | 3612360005B | 07-SEP-2001 | 01-02-1116A | 02
02 | NY | RAMAPO, TOWN OF | 3653400029C | 19-DEC-2001 | 02-02-0264A | 02
02 | NY | RICHVILLE, VILLAGE OF | 361467A | 20-JUL-2001 | 01-02-0542A | 02
02 | NY | ROME, CITY OF | 3605420013B | 31-AUG-2001 | 01-02-0844A | 17
02 | NY | ROTTERDAM, TOWN OF | 3607400012B | 21-DEC-2001 | 01-02-1346A | 02
02 | NY | SCHROEPPEL, TOWN OF | 3606620020B | 29-AUG-2001 | 01-02-1240A | 02
02 | NY | SOUTHAMPTON, TOWN OF | 36103C0779G | 16-NOV-2001 | 02-02-0106A | 02
02 | NY | TORREY, TOWN OF | 3609660005B | 05-DEC-2001 | 02-02-0196A | 02
02 | NY | TROY, CITY OF | 3606770004B | 10-OCT-2001 | 01-02-1316A | 02
02 | NY | TULLY, TOWN OF | 361296—07A | 07-SEP-2001 | 01-02-1218A | 02
02 | NY | TULLY, TOWN OF | 361296—07B | 17-OCT-2001 | 01-02-1340A | 02
02 | NY | TULLY, TOWN OF | 361296—07B | 17-OCT-2001 | 01-02-1388A | 02
02 | NY | TUSTEN, TOWN OF | 3608310015C | 21-SEP-2001 | 01-02-0182A | 02
02 | NY | TUXEDO, TOWN OF | 3606310007B | 07-SEP-2001 | 01-02-1046A | 02
02 | NY | UTICA, CITY OF | 3605580001A | 07-NOV-2001 | 01-02-007P | 05
02 | NY | WAPPINGER, TOWN OF | 3603870001B | 05-JUL-2001 | 01-02-0898A | 02
02 | NY | WATERVLIET, CITY OF | 3600160001B | 18-JUL-2001 | 01-02-0936A | 02
02 | NY | WAWARSING, TOWN OF | 3608670034B | 10-OCT-2001 | 01-02-0732A | 01
02 | NY | WEBB, TOWN OF | 360321—21A | 01-AUG-2001 | 01-02-1112A | 02
02 | NY | WEBB, TOWN OF | 360321—23A | 08-AUG-2001 | 01-02-1022A | 02
02 | NY | WEBB, TOWN OF | 360321—22A | 24-OCT-2001 | 01-02-1272A | 02
02 | NY | WEBB, TOWN OF | 3603210022A | 30-NOV-2001 | 02-02-0198A | 02
02 | NY | WEBB, TOWN OF | 360321—22A | 21-DEC-2001 | 02-02-0256A | 02
02 | NY | WESTERN, TOWN OF | 3605640025B | 22-AUG-2001 | 01-02-1220A | 02
02 | NY | WHEATFIELD, TOWN OF | 3605130007D | 21-SEP-2001 | 01-02-1196A | 02
02 | NY | WHEATFIELD, TOWN OF | 3605130004D | 24-OCT-2001 | 01-02-1328A | 02
02 | NY | WHEATFIELD, TOWN OF | 3605130004D | 28-DEC-2001 | 02-02-0200A | 02
02 | PR | PUERTO RICO,COMMONWEALTH OF | 7200000053D | 11-JUL-2001 | 01-02-0930A | 02
02 | PR | PUERTO RICO,COMMONWEALTH OF | 7200000281D | 27-JUL-2001 | 01-02-0860A | 02
02 | PR | PUERTO RICO,COMMONWEALTH OF | 7200000046D | 08-AUG-2001 | 01-02-1170A | 02
02 | PR | PUERTO RICO,COMMONWEALTH OF | 7200000292D | 08-AUG-2001 | 01-02-1038A | 01
02 | PR | PUERTO RICO,COMMONWEALTH OF | 7200000053D | 08-AUG-2001 | 01-02-1120X | 01
02 | PR | PUERTO RICO,COMMONWEALTH OF | 7200000286D | 07-SEP-2001 | 01-02-0614A | 01
02 | PR | PUERTO RICO,COMMONWEALTH OF | 7200000219C | 19-SEP-2001 | 01-02-0106A | 01
02 | PR | PUERTO RICO,COMMONWEALTH OF | 7200000219C | 26-SEP-2001 | 00-02-029P | 05
02 | PR | PUERTO RICO,COMMONWEALTH OF | 7200000047E | 26-SEP-2001 | 01-02-0390A | 02
02 | PR | PUERTO RICO,COMMONWEALTH OF | 7200000244D | 24-OCT-2001 | 01-02-1146A | 02
02 | PR | PUERTO RICO,COMMONWEALTH OF | 7200000047E | 24-OCT-2001 | 01-02-1362A | 02
02 | PR | PUERTO RICO,COMMONWEALTH OF | 7200000169B | 09-NOV-2001 | 00-02-051P | 05
02 | PR | PUERTO RICO,COMMONWEALTH OF | 7200000064G | 14-NOV-2001 | 02-02-0058A | 01
02 | PR | PUERTO RICO,COMMONWEALTH OF | 7200000189D | 14-NOV-2001 | 02-02-0120A | 01
02 | PR | PUERTO RICO,COMMONWEALTH OF | 7200000064G | 14-NOV-2001 | 02-02-0156A | 01
02 | PR | PUERTO RICO,COMMONWEALTH OF | 7200000058D | 05-DEC-2001 | 02-02-0216A | 02
02 | VI | VIRGIN ISLANDS, TERRITORY OF | 7800000065D | 25-OCT-2001 | 01-02-025P | 05
03 | DE | DOVER, CITY OF | 1000060005C | 08-AUG-2001 | 01-03-009P | 05
03 | DE | ELSMERE, TOWN OF | 10003C0151G | 08-AUG-2001 | 01-03-1374A | 02
03 | DE | ELSMERE, TOWN OF | 10003C0151G | 07-SEP-2001 | 01-03-1530A | 02
03 | DE | ELSMERE, TOWN OF | 10003C0151G | 21-SEP-2001 | 01-03-1728A | 02
03 | DE | KENT COUNTY * | 1000010020B | 17-AUG-2001 | 01-03-1252A | 02
03 | DE | KENT COUNTY * | 1000010075B | 24-AUG-2001 | 01-03-1538A | 02
03 | DE | KENT COUNTY * | 1000010075B | 17-OCT-2001 | 01-03-1800A | 02
03 | DE | KENT COUNTY * | 1000010075B | 31-OCT-2001 | 01-03-1562A | 02
03 | DE | KENT COUNTY * | 1000010175B | 31-OCT-2001 | 01-03-1686A | 02
03 | DE | KENT COUNTY * | 1000010090B | 21-DEC-2001 | 02-03-0354A | 02
03 | DE | NEW CASTLE COUNTY * | 10003C0059G | 13-JUL-2001 | 01-03-0896A | 02
03 | DE | NEW CASTLE COUNTY * | 10003C0165G | 25-JUL-2001 | 01-03-0870A | 02
03 | DE | NEW CASTLE COUNTY * | 10003C0135G | 27-JUL-2001 | 01-03-1136A | 02
03 | DE | NEW CASTLE COUNTY * | 10003C0059G | 27-JUL-2001 | 01-03-1202A | 02
03 | DE | NEW CASTLE COUNTY * | 10003C0230G | 08-AUG-2001 | 01-03-1356A | 02
03 | DE | NEW CASTLE COUNTY * | 10003C0059G | 15-AUG-2001 | 01-03-1472A | 02
03 | DE | NEW CASTLE COUNTY * | 10003C0068G | 22-AUG-2001 | 01-03-1414A | 02
03 | DE | NEW CASTLE COUNTY * | 10003C0067G | 29-AUG-2001 | 01-03-1440A | 02
03 | DE | NEW CASTLE COUNTY * | 10003C0230G | 31-AUG-2001 | 01-03-0972A | 02
03 | DE | NEW CASTLE COUNTY * | 10003C0151G | 03-OCT-2001 | 01-03-1566A | 02
03 | DE | NEW CASTLE COUNTY * | 10003C0078G | 12-OCT-2001 | 01-03-1752A | 02
03 | DE | NEW CASTLE COUNTY * | 10003C0140G | 26-OCT-2001 | 01-03-1588A | 02
03 | DE | NEW CASTLE COUNTY * | 10003C0067G | 26-OCT-2001 | 01-03-1764A | 02
03 | DE | NEW CASTLE COUNTY * | 10003C0040G | 31-OCT-2001 | 01-03-1738A | 02
03 | DE | NEW CASTLE COUNTY * | 10003C0130G | 12-DEC-2001 | 02-03-0246A | 02
03 | DE | NEW CASTLE, CITY OF | 10003C0165G | 31-OCT-2001 | 01-03-1708A | 02
03 | DE | SUSSEX COUNTY * | 10005C0458G | 12-OCT-2001 | 01-03-0738A | 02
03 | DE | SUSSEX COUNTY* | 10005C0425F | 08-AUG-2001 | 01-03-1424A | 02
03 | DE | SUSSEX COUNTY* | 10005C0112F | 15-AUG-2001 | 01-03-1186A | 02
03 | DE | SUSSEX COUNTY* | 10005C0384F | 15-AUG-2001 | 01-03-1488A | 02
03 | DE | SUSSEX COUNTY* | 10005C0355G | 17-AUG-2001 | 01-03-1172A | 02
03 | DE | SUSSEX COUNTY* | 10005C0355G | 05-OCT-2001 | 01-03-1662A | 02
03 | DE | SUSSEX COUNTY* | 10005C0660F | 10-OCT-2001 | 01-03-1740A | 02
03 | DE | SUSSEX COUNTY* | 10005C0275F | 28-NOV-2001 | 01-03-1560A | 02
03 | MD | ANNE ARUNDEL COUNTY * | 2400080038C | 25-JUL-2001 | 01-03-1224A | 02
03 | MD | ANNE ARUNDEL COUNTY * | 2400080028C | 14-NOV-2001 | 01-03-1790A | 02
03 | MD | BALTIMORE COUNTY * | 2400100440G | 12-OCT-2001 | 01-03-1542A | 02
03 | MD | BALTIMORE COUNTY * | 2400100270B | 19-OCT-2001 | 01-03-1430A | 02
03 | MD | BALTIMORE COUNTY* | 2400100505B | 20-JUL-2001 | 01-03-0758A | 02
03 | MD | BALTIMORE COUNTY* | 2400100315B | 31-AUG-2001 | 01-03-1398A | 02
03 | MD | BALTIMORE COUNTY* | 2400100380B | 12-SEP-2001 | 01-03-1060A | 17
03 | MD | BALTIMORE COUNTY* | 2400100505B | 21-SEP-2001 | 01-03-1698A | 02
03 | MD | BALTIMORE COUNTY* | 2400100410B | 05-OCT-2001 | 01-03-1544A | 02
03 | MD | BALTIMORE COUNTY* | 24000100435 | 31-OCT-2001 | 01-03-1632A | 02
03 | MD | BALTIMORE COUNTY* | 2400100380B | 09-NOV-2001 | 01-03-1706A | 02
03 | MD | BALTIMORE COUNTY* | 2400100440C | 28-NOV-2001 | 01-03-1798A | 02
03 | MD | BEL AIR, TOWN OF | 24025C0164D | 21-NOV-2001 | 01-03-197P | 05
03 | MD | CAROLINE COUNTY * | 2401300230B | 31-AUG-2001 | 01-03-1288A | 02
03 | MD | CAROLINE COUNTY * | 2401300230B | 14-SEP-2001 | 01-03-1300A | 02
03 | MD | CAROLINE COUNTY * | 2401300305B | 30-NOV-2001 | 01-03-0970A | 02
03 | MD | CAROLINE COUNTY * | 2401300165B | 07-DEC-2001 | 01-03-1786A | 02
03 | MD | CARROLL COUNTY * | 2400150075B | 14-NOV-2001 | 02-03-0292X | 02
03 | MD | CARROLL COUNTY * | 2400150075B | 12-DEC-2001 | 01-03-1200A | 02
03 | MD | CECIL COUNTY* | 2400190028A | 12-SEP-2001 | 01-03-1046A | 02
03 | MD | CHARLES COUNTY * | 2400890027B | 22-AUG-2001 | 01-03-1392A | 02
03 | MD | FREDERICK COUNTY * | 2400270180A | 18-JUL-2001 | 01-03-1310A | 02
03 | MD | FREDERICK COUNTY * | 2400270115B | 27-JUL-2001 | 01-03-1448A | 02
03 | MD | FREDERICK COUNTY * | 2400270115B | 27-JUL-2001 | 01-03-1450A | 02
03 | MD | FREDERICK COUNTY * | 2400270115B | 27-JUL-2001 | 01-03-1246A | 01
03 | MD | FREDERICK COUNTY * | 2400270115B | 30-OCT-2001 | 01-03-011P | 05
03 | MD | FREDERICK COUNTY * | 2400270185A | 09-NOV-2001 | 02-03-0104A | 02
03 | MD | FREDERICK COUNTY * | 2400270040A | 07-DEC-2001 | 02-03-0288A | 02
03 | MD | FREDERICK COUNTY * | 2400270185A | 21-DEC-2001 | 02-03-0346A | 02
03 | MD | FREDERICK, CITY OF | 2400270115A | 13-JUL-2001 | 01-03-1280A | 02
03 | MD | FREDERICK, CITY OF | 2400270115B | 01-AUG-2001 | 01-03-1220A | 02
03 | MD | FREDERICK, CITY OF | 2400270115B | 10-AUG-2001 | 01-03-0604A | 02
03 | MD | FREDERICK, CITY OF | 2400270115B | 10-AUG-2001 | 01-03-1506A | 17
03 | MD | FREDERICK, CITY OF | 2400270115B | 31-AUG-2001 | 01-03-1626A | 02
03 | MD | FREDERICK, CITY OF | 2400270115B | 30-OCT-2001 | 01-03-011P | 05
03 | MD | FREDERICK, CITY OF | 2400270180A | 01-NOV-2001 | 01-03-167P | 05
03 | MD | GARRETT COUNTY * | 2400340104C | 12-SEP-2001 | 01-03-1396A | 02
03 | MD | HAGERSTOWN, CITY OF | 2400740005C | 21-SEP-2001 | 01-03-1426A | 17
03 | MD | HARFORD COUNTY * | 24025C0261D | 07-SEP-2001 | 01-03-1428A | 02
03 | MD | HOWARD COUNTY * | 2400440033B | 24-OCT-2001 | 01-03-1416A | 02
03 | MD | HOWARD COUNTY* | 2400440028C | 15-AUG-2001 | 01-03-1238A | 02
03 | MD | HOWARD COUNTY* | 2400440035B | 28-NOV-2001 | 01-03-135P | 05
03 | MD | HOWARD COUNTY* | 2400440023B | 21-DEC-2001 | 01-03-1610A | 02
03 | MD | KENT COUNTY * | 2400450035B | 10-OCT-2001 | 01-03-1432A | 02
03 | MD | LAUREL, CITY OF | 2400530001D | 19-OCT-2001 | 02-03-0138A | 02
03 | MD | LAUREL, CITY OF | 2400530001 | 19-OCT-2001 | 01-03-1784A | 01
03 | MD | MONTGOMERY COUNTY * | 2400490175C | 05-OCT-2001 | 01-03-1518A | 02
03 | MD | MONTGOMERY COUNTY * | 2400490200C | 31-OCT-2001 | 01-03-1568A | 02
03 | MD | MONTGOMERY COUNTY * | 2400490200C | 28-NOV-2001 | 01-03-1750A | 02
03 | MD | MONTGOMERY COUNTY * | 2400490200C | 28-NOV-2001 | 02-03-0190A | 02
03 | MD | MONTGOMERY COUNTY * | 2400490200C | 21-DEC-2001 | 02-03-0302A | 02
03 | MD | OXFORD TOWNSHIP OF | 2400680001A | 15-AUG-2001 | 01-03-1286A | 02
03 | MD | PRINCE GEORGES COUNTY * | 2452080050C | 28-NOV-2001 | 01-03-1256A | 02
03 | MD | QUEEN ANNES COUNTY * | 2400540006B | 21-NOV-2001 | 01-03-1622A | 02
03 | MD | SOMERSET COUNTY * | 2400610025A | 12-SEP-2001 | 01-03-1244A | 02
03 | MD | SOMERSET COUNTY * | 2400610125D | 14-DEC-2001 | 02-03-0228A | 02
03 | MD | ST. MARYS COUNTY* | 2400640052B | 10-OCT-2001 | 01-03-1658A | 02
03 | MD | TALBOT COUNTY * | 2400660044B | 20-JUL-2001 | 01-03-1078A | 02
03 | MD | TALBOT COUNTY * | 2400660032A | 25-JUL-2001 | 01-03-1326A | 02
03 | MD | TALBOT COUNTY * | 2400660024A | 15-AUG-2001 | 01-03-1336A | 02
03 | MD | TALBOT COUNTY * | 2400660021B | 07-SEP-2001 | 01-03-1438A | 02
03 | MD | TALBOT COUNTY * | 2400660023A | 10-OCT-2001 | 01-03-1710A | 02
03 | MD | TALBOT COUNTY * | 2400660037A | 26-OCT-2001 | 01-03-1460A | 02
03 | MD | TALBOT COUNTY * | 2400660031A | 21-NOV-2001 | 01-03-1724A | 02
03 | MD | WALKERSVILLE, TOWN OF | 2400320001B | 10-AUG-2001 | 01-03-0822A | 01
03 | MD | WALKERSVILLE, TOWN OF | 2400320001B | 05-OCT-2001 | 01-03-1526A | 02
03 | MD | WASHINGTON COUNTY * | 2400700170A | 24-AUG-2001 | 01-03-1236A | 02
03 | MD | WASHINGTON COUNTY * | 2400700090B | 14-DEC-2001 | 01-03-1464A | 02
03 | MD | WASHINGTON, TOWN OF | 2400700070A | 31-OCT-2001 | 01-03-1458A | 02
03 | MD | WORCESTER COUNTY * | 2400830105D | 22-AUG-2001 | 01-03-1490A | 02
03 | MD | WORCESTER COUNTY * | 2400830225A | 12-SEP-2001 | 01-03-1208A | 02
03 | PA | ALLENTOWN, CITY OF | 42077C0252D | 08-NOV-2001 | 02-03-0254V | 19
03 | PA | BETHLEHEM, CITY OF | 42095C0326D | 01-AUG-2001 | 01-03-1346A | 02
03 | PA | BRISTOL, TOWNSHIP OF | 42017C0462F | 18-JUL-2001 | 01-03-1284A | 02
03 | PA | BRISTOL, TOWNSHIP OF | 42017C0463F | 12-SEP-2001 | 01-03-1660A | 02
03 | PA | CALN, TOWNSHIP OF | 42029C0306D | 21-SEP-2001 | 01-03-1314A | 02
03 | PA | CARBONDALE, CITY OF | 4205260001B | 21-SEP-2001 | 01-03-1332A | 02
03 | PA | CATASAUQUA, BOROUGH OF | 42077C0164D | 08-NOV-2001 | 02-03-0256V | 19
03 | PA | CENTER, TOWNSHIP OF | 4225910002B | 24-OCT-2001 | 02-03-0064A | 02
03 | PA | CHARTIERS, TWONSHIP OF | 4221440005B | 05-OCT-2001 | 01-03-1782A | 02
03 | PA | CHELTENHAM, TOWNSHIP OF | 42091C0403E | 01-AUG-2001 | 01-03-1156A | 02
03 | PA | CHELTENHAM, TOWNSHIP OF | 42091C0384E | 03-AUG-2001 | 01-03-1390A | 02
03 | PA | CHOCONUT, TOWNSHIP OF | 4220760005B | 26-OCT-2001 | 01-03-0086A | 02
03 | PA | COLLEGEVILLE, BOROUGH OF | 42091C0237F | 20-OCT-2001 | 02-03-0152V | 19
03 | PA | CONOY, TOWNSHIP OF | 4205450010B | 19-OCT-2001 | 01-03-1754A | 02
03 | PA | DOYLESTOWN, TOWNSHIP OF | 42017C0293F | 17-SEP-2001 | 01-03-1018A | 02
03 | PA | EAST COCALICO, TOWNSHIP OF | 4205470008C | 10-OCT-2001 | 01-03-1380A | 02
03 | PA | EAST PENN, TOWNSHIP OF | 4210130003B | 23-OCT-2001 | 01-03-181P | 05
03 | PA | EAST PENN, TOWNSHIP OF | 4210130002B | 19-DEC-2001 | 02-03-0192A | 01
03 | PA | EAST PIKELAND, TOWNSHIP OF | 42029C0091D | 31-AUG-2001 | 01-03-1534A | 02
03 | PA | EXETER, TOWNSHIP OF | 42011C0529E | 28-SEP-2001 | 01-03-1020A | 02
03 | PA | FORKS, TOWNSHIP OF | 42095C0277D | 15-AUG-2001 | 01-03-1436A | 02
03 | PA | FRANKLIN PARK, BOROUGH OF | 42003C0177F | 25-JUL-2001 | 01-03-1052A | 02
03 | PA | HAMBURG BOROUGH OF | 42011C0161E | 12-DEC-2001 | 02-03-0350A | 02
03 | PA | HARMONY, BOROUGH OF | 4202170001B | 31-OCT-2001 | 02-03-0166A | 02
03 | PA | HEIDELBERG, BOROUGH OF | 42077C0105D | 08-NOV-2001 | 02-03-0258V | 19
03 | PA | HEMPFIELD, TOWNSHIP OF | 42129C0419D | 30-NOV-2001 | 01-03-1372A | 02
03 | PA | LEHIGHTON, BOROUGH OF | 4202510001C | 07-NOV-2001 | 02-03-0106A | 17
03 | PA | LEWISBURG, BOROUGH OF | 420831—02A | 10-AUG-2001 | 01-03-1470A | 02
03 | PA | LOCK HAVEN, CITY OF | 4203280001B | 26-OCT-2001 | 01-03-1634A | 02
03 | PA | LOWER ALSACE, TOWNSHIP OF | 42011C0509E | 20-JUL-2001 | 01-03-1142A | 02
03 | PA | LOWER FREDERICK, TOWNSHIP OF | 42091C0112F | 20-OCT-2001 | 02-03-0154V | 19
03 | PA | LOWER FREDERICK, TOWNSHIP OF | 42091C0113F | 20-OCT-2001 | 02-03-0154V | 19
03 | PA | LOWER GWYNEDD, TOWNSHIP OF | 42091C0278E | 10-AUG-2001 | 01-03-1370A | 02
03 | PA | LOWER MAKEFIELD, TOWNSHIP OF | 42017C0451F | 10-AUG-2001 | 01-03-1230A | 02
03 | PA | LOWER MERION, TOWNSHIP OF | 42091C0369E | 07-SEP-2001 | 01-03-159P | 05
03 | PA | LOWER MERION, TOWNSHIP OF | 42091C0362E | 26-SEP-2001 | 01-03-0796A | 02
03 | PA | LOWER MILFORD, TOWNSHIP OF | 4210390001B | 22-AUG-2001 | 01-03-1030A | 02
03 | PA | LOWER MILFORD, TOWNSHIP OF | 42077C0330D | 08-NOV-2001 | 02-03-0314V | 19
03 | PA | LOWER NAZERETH, TOWNSHIP OF | 42095C0261D | 29-AUG-2001 | 01-03-1558A | 02
03 | PA | LOWER NAZERETH, TOWNSHIP OF | 42095C0255D | 31-AUG-2001 | 01-03-1528A | 02
03 | PA | LOWER POTTSGROVE, TOWNSHIP OF | 42091C0088E | 12-DEC-2001 | 02-03-0286A | 02
03 | PA | LOWER PROVIDENCE, TOWNSHIP OF | 42091C0239F | 20-OCT-2001 | 02-03-0156V | 19
03 | PA | LOWER SAUCON, TOWNSHIP OF | 42095C0335D | 12-DEC-2001 | 02-03-0274A | 02
03 | PA | LYNN, TOWNSHIP OF | 42077C0095D | 08-NOV-2001 | 02-03-0260V | 19
03 | PA | MILESBURG, BOROUGH OF | 420264—01B | 07-DEC-2001 | 02-03-0212A | 02
03 | PA | MUHLENBERG, TOWNSHIP OF | 42011C0363F | 05-OCT-2001 | 01-03-1780A | 02
03 | PA | MUHLENBERG, TOWNSHIP OF | 42011C0364F | 31-OCT-2001 | 02-03-0182A | 02
03 | PA | MUHLENBERG, TOWNSHIP OF | 42011C0366F | 16-NOV-2001 | 02-03-0282A | 02
03 | PA | MUNCY CREEK, TOWNSHIP OF | 4206500010B | 31-OCT-2001 | 01-03-1316A | 02
03 | PA | NORTH WHITEHALL, TOWNSHIP OF | 42077C0127D | 08-NOV-2001 | 02-03-0262V | 19
03 | PA | NORTHAMPTON, BOROUGH OF | 42095C0236D | 10-AUG-2001 | 01-03-1342A | 02
03 | PA | PALMYRA, TOWNSHIP OF | 42103C0115C | 28-SEP-2001 | 01-03-1676A | 02
03 | PA | PERKASIE, BOROUGH OF | 42017C0143G | 24-AUG-2001 | 01-03-1452A | 02
03 | PA | PERKASIE, BOROUGH OF | 42017C0143G | 05-SEP-2001 | 01-03-1546A | 02
03 | PA | PETERS, TOWNSHIP OF | 4216540005C | 03-OCT-2001 | 01-03-1378A | 02
03 | PA | PHILADELPHIA, CITY OF | 4207570183F | 10-AUG-2001 | 01-03-1232A | 02
03 | PA | PIKE, TOWNSHIP OF | 42011C0414E | 12-OCT-2001 | 01-03-1768A | 02
03 | PA | RADNOR, TOWNSHIP OF | 42045C0008D | 01-AUG-2001 | 01-03-1182A | 02
03 | PA | RICHMOND, TOWNSHIP OF | 4208250020B | 09-NOV-2001 | 01-03-1406A | 01
03 | PA | ROSTRAVER, TOWNSHIP OF | 42129C0591D | 12-SEP-2001 | 01-03-1410A | 01
03 | PA | SALFORD, TOWNSHIP OF | 42091C0109F | 20-OCT-2001 | 02-03-0158V | 19
03 | PA | SALFORD, TOWNSHIP OF | 42091C0128F | 20-OCT-2001 | 02-03-0158V | 19
03 | PA | SANDY, TOWNSHIP OF | 4211910020B | 14-DEC-2001 | 02-03-0424A | 02
03 | PA | SHALER, TOWNSHIP OF | 42003C0351F | 31-AUG-2001 | 01-03-1500A | 02
03 | PA | SLATINGTON, BOROUGH OF | 42077C0038D | 08-NOV-2001 | 02-03-0264V | 19
03 | PA | SOUTH HEIDELBERG, TOWNSHIP OF | 42011C0491E | 17-OCT-2001 | 01-03-1770A | 02
03 | PA | SOUTH WHITEHALL, TOWNSHIP OF | 42077C0226D | 08-NOV-2001 | 02-03-0266V | 19
03 | PA | SPRING, TOWNSHIP OF | 42011C0491E | 07-SEP-2001 | 01-03-1628A | 02
03 | PA | SPRINGFIELD, TOWNSHIP OF | 42045C0034D | 20-JUL-2001 | 01-03-1134A | 02
03 | PA | SPRINGFIELD, TOWNSHIP OF | 42091C0377E | 21-SEP-2001 | 01-03-1264A | 02
03 | PA | SUSQUEHANNA, TOWNSHIP OF | 420397—02A | 12-DEC-2001 | 02-03-0358A | 02
03 | PA | TRAPPE, BOROUGH OF | 42091C0229F | 20-OCT-2001 | 02-03-0160V | 19
03 | PA | TUSCARORA, TOWNSHIP OF | 4211160005B | 12-SEP-2001 | 01-03-1484A | 02
03 | PA | ULSTER, TOWNSHIP OF | 4212180010B | 31-AUG-2001 | 01-03-1520A | 02
03 | PA | UPPER ALLEN, TOWNSHIP OF | 4203720005C | 24-OCT-2001 | 01-03-079P | 05
03 | PA | UPPER DARBY, TOWNSHIP OF | 42045C0025D | 14-DEC-2001 | 02-03-0344A | 02
03 | PA | UPPER DARBY, TOWNSHIP OF | 42045C0024D | 21-DEC-2001 | 02-03-0430A | 02
03 | PA | UPPER MAKEFIELD, TOWNSHIP OF | 42017C0361F | 15-AUG-2001 | 01-03-1330A | 02
03 | PA | UPPER MILFORD, TOWNSHIP OF | 42077C0307D | 08-NOV-2001 | 02-03-0268V | 19
03 | PA | UPPER MILFORD, TOWNSHIP OF | 42077C0310D | 21-NOV-2001 | 02-03-0330A | 02
03 | PA | UPPER PROVIDENCE, TOWNSHIP OF | 42045C0020D | 21-SEP-2001 | 01-03-1298A | 02
03 | PA | UPPER SOUTHAMPTON, TOWNSHIP O | 42017C0416F | 07-DEC-2001 | 02-03-0080A | 02
03 | PA | WARMINSTER, TOWNSHIP OF | 42017C0401F | 19-OCT-2001 | 02-03-0062A | 02
03 | PA | WASHINGTON, TOWNSHIP OF | 42095C0155D | 31-OCT-2001 | 02-03-0130A | 02
03 | PA | WASHINGTON, TOWNSHIP OF | 42077C0126D | 08-NOV-2001 | 02-03-0270V | 19
03 | PA | WATERFORD, TOWNSHIP OF | 4224190010A | 20-JUL-2001 | 01-03-0918A | 02
03 | PA | WAYNE, TOWNSHIP OF | 421679—10A | 15-AUG-2001 | 01-03-0754A | 02
03 | PA | WEST BRADFORD, TOWNSHIP OF | 42029C0333D | 05-OCT-2001 | 01-03-1574A | 02
03 | PA | WESTFALL, TOWNSHIP OF | 42103C0352C | 28-SEP-2001 | 01-03-1674A | 02
03 | PA | WYALUSING, TOWNSHIP OF | 4211160005B | 05-SEP-2001 | 01-03-1484A | 02
03 | VA | ALBEMARLE COUNTY * | 5100060375B | 31-AUG-2001 | 01-03-1522A | 02
03 | VA | ALBEMARLE COUNTY * | 5100060375B | 03-OCT-2001 | 01-03-1726A | 02
03 | VA | ARLINGTON COUNTY | 5155200010B | 07-SEP-2001 | 01-03-1062A | 02
03 | VA | AUGUSTA COUNTY * | 5100130150B | 25-JUL-2001 | 01-03-1216A | 02
03 | VA | AUGUSTA COUNTY * | 5100130095B | 25-JUL-2001 | 01-03-1340A | 02
03 | VA | BEDFORD COUNTY * | 5100160100A | 15-AUG-2001 | 01-03-1504A | 02
03 | VA | BEDFORD COUNTY * | 5100160175A | 22-AUG-2001 | 01-03-1478A | 02
03 | VA | BEDFORD COUNTY * | 5100160175A | 24-OCT-2001 | 02-03-0078A | 02
03 | VA | BEDFORD COUNTY * | 5100160175A | 07-NOV-2001 | 02-03-0204A | 02
03 | VA | BOTETOURT COUNTY * | 5100180150A | 31-OCT-2001 | 01-03-1694A | 02
03 | VA | BRUNSWICK COUNTY * | 5102360175B | 22-AUG-2001 | 01-03-1516A | 02
03 | VA | BUENA VISTA, CITY OF | 51163C0401C | 21-NOV-2001 | 02-03-0322A | 02
03 | VA | CHESAPEAKE, CITY OF | 5100340024C | 12-SEP-2001 | 01-03-1454A | 02
03 | VA | CHESAPEAKE, CITY OF | 5100340022C | 12-SEP-2001 | 01-03-1596A | 02
03 | VA | CHESAPEAKE, CITY OF | 5100340022C | 10-OCT-2001 | 01-03-1742A | 02
03 | VA | CHESAPEAKE, CITY OF | 5100340037C | 14-NOV-2001 | 01-03-1386A | 01
03 | VA | CHESAPEAKE, CITY OF | 5100340047C | 19-DEC-2001 | 02-03-0202A | 02
03 | VA | CRAIG COUNTY * | 51045C0095A | 21-SEP-2001 | 01-03-1502A | 02
03 | VA | CULPEPER, TOWN OF | 5100420002B | 25-JUL-2001 | 01-03-0908A | 02
03 | VA | CULPEPER, TOWN OF | 5100420002B | 26-SEP-2001 | 01-03-1666A | 02
03 | VA | FAIRFAX COUNTY * | 5155250150D | 11-JUL-2001 | 01-03-0996A | 02
03 | VA | FAIRFAX COUNTY * | 5155250100D | 11-JUL-2001 | 01-03-1218A | 02
03 | VA | FAIRFAX COUNTY * | 5155250075D | 25-JUL-2001 | 01-03-1366A | 02
03 | VA | FAIRFAX COUNTY * | 5155250075D | 25-JUL-2001 | 01-03-1394A | 02
03 | VA | FAIRFAX COUNTY * | 5155250050D | 01-AUG-2001 | 01-03-1420A | 02
03 | VA | FAIRFAX COUNTY * | 5155250075D | 01-AUG-2001 | 01-03-1444A | 02
03 | VA | FAIRFAX COUNTY * | 5155250050D | 01-AUG-2001 | 01-03-1446A | 02
03 | VA | FAIRFAX COUNTY * | 5155250100D | 15-AUG-2001 | 01-03-1348A | 02
03 | VA | FAIRFAX COUNTY * | 5155250025D | 07-SEP-2001 | 01-03-157P | 05
03 | VA | FAIRFAX COUNTY * | 5155250075D | 07-SEP-2001 | 01-03-1584A | 02
03 | VA | FAIRFAX COUNTY * | 5155250075D | 07-SEP-2001 | 01-03-1650A | 02
03 | VA | FAIRFAX COUNTY * | 5155250025D | 12-SEP-2001 | 01-03-1598A | 02
03 | VA | FAIRFAX COUNTY * | 5155250075D | 12-SEP-2001 | 01-03-1614A | 02
03 | VA | FAIRFAX COUNTY * | 5155250025D | 12-SEP-2001 | 01-03-1644A | 01
03 | VA | FAIRFAX COUNTY * | 5155250025D | 12-SEP-2001 | 01-03-1646A | 01
03 | VA | FAIRFAX COUNTY * | 5155250025D | 14-SEP-2001 | 01-03-1550A | 02
03 | VA | FAIRFAX COUNTY * | 5155250025D | 14-SEP-2001 | 01-03-1648A | 02
03 | VA | FAIRFAX COUNTY * | 5155250050D | 28-SEP-2001 | 01-03-1482A | 02
03 | VA | FAIRFAX COUNTY * | 5155250025D | 12-OCT-2001 | 01-03-1642A | 02
03 | VA | FAIRFAX COUNTY * | 5155250075D | 12-OCT-2001 | 01-03-1654A | 02
03 | VA | FAIRFAX COUNTY * | 5155250070D | 17-OCT-2001 | 01-03-1680A | 02
03 | VA | FAIRFAX COUNTY * | 5155250050D | 17-OCT-2001 | 01-03-1802A | 02
03 | VA | FAIRFAX COUNTY * | 5155250100D | 14-NOV-2001 | 02-03-0200A | 02
03 | VA | FAIRFAX COUNTY * | 5155250050D | 12-DEC-2001 | 02-03-0372A | 02
03 | VA | FAIRFAX COUNTY * | 5155250050D | 12-DEC-2001 | 02-03-0400A | 02
03 | VA | FAIRFAX, CITY OF | 5155240005B | 11-JUL-2001 | 01-03-1276A | 02
03 | VA | FAUQUIER COUNTY * | 5100550360A | 05-JUL-2001 | 01-03-043P | 05
03 | VA | FAUQUIER COUNTY * | 5100550075A | 14-NOV-2001 | 02-03-0198A | 02
03 | VA | FRANKLIN COUNTY * | 5100610220A | 11-JUL-2001 | 01-03-1260A | 02
03 | VA | FRANKLIN COUNTY * | 5100610250A | 11-JUL-2001 | 01-03-1294A | 02
03 | VA | FRANKLIN COUNTY * | 5100610250A | 08-AUG-2001 | 01-03-1434A | 02
03 | VA | FRANKLIN COUNTY * | 5100610210A | 15-AUG-2001 | 01-03-1318A | 02
03 | VA | FRANKLIN COUNTY * | 5100610220A | 15-AUG-2001 | 01-03-1496A | 02
03 | VA | FRANKLIN COUNTY * | 6100610210A | 21-SEP-2001 | 01-03-1668A | 02
03 | VA | FRANKLIN COUNTY * | 5100610215A | 28-SEP-2001 | 01-03-1734A | 02
03 | VA | FRANKLIN COUNTY * | 5100610080B | 06-OCT-2001 | 02-03-0090V | 19
03 | VA | FRANKLIN COUNTY * | 5100610090B | 06-OCT-2001 | 02-03-0090V | 19
03 | VA | FRANKLIN COUNTY * | 5100610095B | 06-OCT-2001 | 02-03-0090V | 19
03 | VA | FRANKLIN COUNTY * | 5100610205B | 06-OCT-2001 | 02-03-0090V | 19
03 | VA | FRANKLIN COUNTY * | 5100610210B | 06-OCT-2001 | 02-03-0090V | 19
03 | VA | FRANKLIN COUNTY * | 5100610215B | 06-OCT-2001 | 02-03-0090V | 19
03 | VA | FRANKLIN COUNTY * | 5100610220B | 06-OCT-2001 | 02-03-0090V | 19
03 | VA | FRANKLIN COUNTY * | 5100610230B | 06-OCT-2001 | 02-03-0090V | 19
03 | VA | FRANKLIN COUNTY * | 5100610240B | 06-OCT-2001 | 02-03-0090V | 19
03 | VA | FRANKLIN COUNTY * | 5100610210B | 14-NOV-2001 | 02-03-0250A | 02
03 | VA | FRANKLIN COUNTY * | 5100610220B | 21-NOV-2001 | 02-03-0276A | 02
03 | VA | FRANKLIN COUNTY * | 5100610215B | 21-NOV-2001 | 02-03-0280A | 02
03 | VA | GLOUCESTER COUNTY* | 5100710065B | 21-SEP-2001 | 01-03-1630A | 02
03 | VA | HANOVER COUNTY * | 5102370160A | 10-AUG-2001 | 01-03-1442A | 02
03 | VA | HENRICO COUNTY * | 5100770050B | 14-SEP-2001 | 01-03-1576A | 01
03 | VA | HENRICO COUNTY * | 5100770025B | 28-SEP-2001 | 01-03-1402A | 02
03 | VA | HENRICO COUNTY * | 5100770075B | 12-OCT-2001 | 01-03-057P | 05
03 | VA | HENRICO COUNTY * | 5100770050B | 21-NOV-2001 | 02-03-0294A | 02
03 | VA | HENRICO COUNTY * | 5100770025B | 29-NOV-2001 | 01-03-205P | 05
03 | VA | HENRICO COUNTY * | 5100770050B | 14-DEC-2001 | 02-03-0338A | 02
03 | VA | HERNDON, TOWN OF | 5100520001B | 24-AUG-2001 | 01-03-1234A | 02
03 | VA | HOPEWELL, CITY OF | 5100800005B | 11-JUL-2001 | 01-03-0670A | 02
03 | VA | ISLE OF WIGHT COUNTY * | 5103030070B | 07-DEC-2001 | 02-03-0094A | 02
03 | VA | LEESBURG, TOWN OF | 51107C0231D | 10-OCT-2001 | 01-03-1776A | 02
03 | VA | LEESBURG, TOWN OF | 51107C0231D | 19-DEC-2001 | 02-03-0380A | 02
03 | VA | LOUDOUN COUNTY * | 51107C0050D | 06-JUL-2001 | 01-03-1384V | 19
03 | VA | LOUDOUN COUNTY * | 51107C0085D | 06-JUL-2001 | 01-03-1384V | 19
03 | VA | LOUDOUN COUNTY * | 51107C0090D | 06-JUL-2001 | 01-03-1384V | 19
03 | VA | LOUDOUN COUNTY * | 51107C0105D | 06-JUL-2001 | 01-03-1384V | 19
03 | VA | LOUDOUN COUNTY * | 51107C0110D | 06-JUL-2001 | 01-03-1384V | 19
03 | VA | LOUDOUN COUNTY * | 51107C0200D | 06-JUL-2001 | 01-03-1384V | 19
03 | VA | LOUDOUN COUNTY * | 51107C0231D | 06-JUL-2001 | 01-03-1384V | 19
03 | VA | LOUDOUN COUNTY * | 51107C0235D | 06-JUL-2001 | 01-03-1384V | 19
03 | VA | LOUDOUN COUNTY * | 51107C0255D | 06-JUL-2001 | 01-03-1384V | 19
03 | VA | LOUDOUN COUNTY * | 51107C0260D | 06-JUL-2001 | 01-03-1384V | 19
03 | VA | LOUDOUN COUNTY * | 51107C0261D | 06-JUL-2001 | 01-03-1384V | 19
03 | VA | LOUDOUN COUNTY * | 51107C0265D | 06-JUL-2001 | 01-03-1384V | 19
03 | VA | LOUDOUN COUNTY * | 51107C0267D | 06-JUL-2001 | 01-03-1384V | 19
03 | VA | LOUDOUN COUNTY * | 51107C0290D | 06-JUL-2001 | 01-03-1384V | 19
03 | VA | LOUDOUN COUNTY * | 51107C0350D | 06-JUL-2001 | 01-03-1384V | 19
03 | VA | LOUDOUN COUNTY * | 51107C0266D | 21-NOV-2001 | 02-03-0318A | 02
03 | VA | LYNCHBURG, CITY OF | 5100930005B | 07-DEC-2001 | 02-03-0328A | 02
03 | VA | MECKLENBURG COUNTY * | 5101890150A | 01-AUG-2001 | 01-03-0774A | 02
03 | VA | MECKLENBURG COUNTY * | 5101890150A | 22-AUG-2001 | 01-03-1548A | 02
03 | VA | MECKLENBURG COUNTY * | 5101890150A | 24-AUG-2001 | 01-03-1514A | 02
03 | VA | MONTGOMERY COUNTY * | 5100990050B | 28-SEP-2001 | 01-03-1592A | 02
03 | VA | MONTGOMERY COUNTY * | 5100990075A | 03-OCT-2001 | 01-03-1556A | 02
03 | VA | NELSON COUNTY * | 5101020050A | 20-JUL-2001 | 01-03-1344A | 17
03 | VA | NELSON COUNTY * | 5101020075A | 25-JUL-2001 | 01-03-1188A | 02
03 | VA | NELSON COUNTY * | 5101020050A | 24-AUG-2001 | 01-03-1090A | 02
03 | VA | NELSON COUNTY * | 5101020050A | 14-DEC-2001 | 02-03-0376A | 02
03 | VA | NEWPORT NEWS, CITY OF | 5101030010C | 03-OCT-2001 | 01-03-1688A | 02
03 | VA | NEWPORT NEWS, CITY OF | 5101030010C | 07-NOV-2001 | 02-03-0196X | 02
03 | VA | NEWPORT NEWS, CITY OF | 5101030006C | 19-DEC-2001 | 02-03-0364A | 02
03 | VA | NORFOLK, CITY OF | 5101040011D | 31-AUG-2001 | 01-03-1608A | 02
03 | VA | NORFOLK, CITY OF | 5101040017D | 21-NOV-2001 | 02-03-0194A | 02
03 | VA | NORTHAMPTON COUNTY * | 5101050020C | 30-NOV-2001 | 02-03-0334A | 02
03 | VA | PATRICK COUNTY * | 5102520035C | 12-DEC-2001 | 02-03-0132A | 02
03 | VA | PORTSMOUTH, CITY OF | 5155290035B | 18-JUL-2001 | 01-03-1338A | 02
03 | VA | PORTSMOUTH, CITY OF | 5155290025E | 18-JUL-2001 | 01-03-0968A | 01
03 | VA | PRINCE WILLIAM COUNTY * | 51153C0089D | 06-JUL-2001 | 01-03-1334A | 02
03 | VA | PRINCE WILLIAM COUNTY * | 51153C0194D | 31-AUG-2001 | 01-03-1404A | 02
03 | VA | PRINCE WILLIAM COUNTY * | 51153C0088D | 10-OCT-2001 | 01-03-1684A | 02
03 | VA | PRINCE WILLIAM COUNTY * | 51153C0165D | 14-NOV-2001 | 02-03-0108A | 02
03 | VA | PRINCE WILLIAM COUNTY * | 51153C0165D | 14-NOV-2001 | 02-03-0110A | 02
03 | VA | PRINCE WILLIAM COUNTY * | 51153C0165D | 14-NOV-2001 | 02-03-0112A | 02
03 | VA | ROANOKE, CITY OF | 51161C0044D | 13-JUL-2001 | 01-03-1272A | 02
03 | VA | ROANOKE, CITY OF | 51161C0023D | 14-DEC-2001 | 02-03-0234A | 17
03 | VA | ROCKINGHAM COUNTY * | 5101330051B | 10-OCT-2001 | 01-03-1640A | 02
03 | VA | ROCKINGHAM COUNTY * | 5101330097B | 12-OCT-2001 | 01-03-147P | 05
03 | VA | ROCKINGHAM COUNTY* | 5101330092B | 22-OCT-2001 | 02-03-0032A | 02
03 | VA | ROCKINGHAM COUNTY* | 5101330092B | 12-DEC-2001 | 02-03-0102A | 02
03 | VA | SHENANDOAH COUNTY * | 5101470100B | 20-JUL-2001 | 01-03-1302A | 02
03 | VA | SHENANDOAH COUNTY * | 5101470175B | 21-SEP-2001 | 01-03-1204A | 02
03 | VA | SHENANDOAH COUNTY * | 5101470125B | 03-OCT-2001 | 01-03-1324A | 02
03 | VA | SMYTH COUNTY * | 5101840210B | 12-DEC-2001 | 01-03-1794A | 02
03 | VA | SMYTH COUNTY * | 5101840090A | 19-DEC-2001 | 01-03-1540A | 02
03 | VA | STAFFORD COUNTY * | 5101540220B | 19-DEC-2001 | 02-03-0284A | 02
03 | VA | STAUNTON, CITY OF | 5101550001C | 22-AUG-2001 | 01-03-1480A | 02
03 | VA | VIRGINIA BEACH, CITY OF | 5155310037E | 11-JUL-2001 | 01-03-0962A | 01
03 | VA | VIRGINIA BEACH, CITY OF | 5155310005E | 08-AUG-2001 | 01-03-1160A | 18
03 | VA | VIRGINIA BEACH, CITY OF | 5155310042E | 29-AUG-2001 | 01-03-1572A | 02
03 | VA | VIRGINIA BEACH, CITY OF | 5155310049E | 16-NOV-2001 | 02-03-0096A | 02
03 | VA | WINCHESTER, CITY OF | 5101730005B | 11-JUL-2001 | 01-03-1290A | 02
03 | VA | WINCHESTER, CITY OF | 5101730005B | 28-DEC-2001 | 02-03-0378A | 02
03 | WV | BOONE COUNTY * | 54005C0060C | 13-JUL-2001 | 01-03-1274A | 02
03 | WV | CHARLESTON, CITY OF | 5400730004C | 08-AUG-2001 | 01-03-1376A | 02
03 | WV | DUNBAR, CITY OF | 5400760001C | 31-OCT-2001 | 01-03-1624A | 02
03 | WV | ELEANOR, TOWN OF | 540222—01B | 25-JUL-2001 | 01-03-0986A | 02
03 | WV | ELIZABETH, TOWN OF | 5402110001B | 02-OCT-2001 | 01-03-1732A | 02
03 | WV | HINTON, CITY OF | 5401870002B | 14-DEC-2001 | 02-03-0326A | 02
03 | WV | JEFFERSON COUNTY * | 5400650025B | 10-OCT-2001 | 01-03-1254A | 02
03 | WV | KANAWHA COUNTY * | 5400700084C | 03-AUG-2001 | 01-03-1266A | 02
03 | WV | KANAWHA COUNTY * | 5400700192C | 07-SEP-2001 | 01-03-1418A | 02
03 | WV | LINCOLN COUNTY* | 5400880125C | 14-DEC-2001 | 02-03-0232A | 02
03 | WV | LOGAN COUNTY * | 5455360098C | 28-SEP-2001 | 01-03-1498A | 17
03 | WV | PUTNAM COUNTY* | 5401640110C | 13-JUL-2001 | 01-03-1196A | 02
03 | WV | PUTNAM COUNTY* | 5401640115A | 25-JUL-2001 | 01-03-1210A | 02
03 | WV | SOPHIA, TOWN OF | 5401750005B | 12-OCT-2001 | 01-03-1758A | 02
03 | WV | SUMMERS COUNTY * | 5401860145A | 14-DEC-2001 | 01-03-1638A | 02
03 | WV | TYLER COUNTY * | 54095C0025B | 27-JUL-2001 | 01-03-1258A | 02
03 | WV | VIENNA, CITY OF | 5402150002B | 12-DEC-2001 | 02-03-0134A | 02
03 | WV | WETZEL COUNTY * | 5402070065A | 28-SEP-2001 | 01-03-1594A | 02
03 | WV | WIRT COUNTY * | 5402110001B | 17-OCT-2001 | 01-03-1736A | 02
03 | WV | WOOD COUNTY * | 5402130107A | 10-OCT-2001 | 01-03-1712A | 02
04 | AL | BALDWIN COUNTY* | 0150000676G | 19-DEC-2001 | 02-04-1054A | 02
04 | AL | CEDAR BLUFF,TOWN OF | 0150100005A | 10-AUG-2001 | 01-04-5216A | 02
04 | AL | CHEROKEE COUNTY* | 0102340175B | 27-JUL-2001 | 01-04-5386A | 02
04 | AL | CHILTON COUNTY * | 0100300100B | 12-OCT-2001 | 01-04-6316A | 02
04 | AL | COLBERT COUNTY | 0103180125B | 27-JUL-2001 | 01-04-4906A | 02
04 | AL | COLBERT COUNTY | 0103180125B | 27-JUL-2001 | 01-04-5140A | 02
04 | AL | COLBERT COUNTY | 0103180125B | 17-AUG-2001 | 01-04-5986X | 02
04 | AL | COLBERT COUNTY | 0103180125B | 12-OCT-2001 | 01-04-6544A | 02
04 | AL | COLBERT COUNTY | 0103180125B | 28-NOV-2001 | 02-04-0318A | 02
04 | AL | COLBERT COUNTY | 0103180125B | 05-DEC-2001 | 02-04-0514A | 02
04 | AL | DECATUR, CITY OF | 01103C0070D | 05-JUL-2001 | 01-04-4442A | 02
04 | AL | DECATUR, CITY OF | 01103C0080D | 04-SEP-2001 | 00-04-297P | 05
04 | AL | DECATUR, CITY OF | 01103C0060D | 07-NOV-2001 | 01-04-7106A | 01
04 | AL | ELMORE COUNTY* | 0104060100B | 05-JUL-2001 | 01-04-4378A | 02
04 | AL | ELMORE COUNTY* | 0104060100B | 25-JUL-2001 | 01-04-3482A | 02
04 | AL | ELMORE COUNTY* | 0104060100B | 08-AUG-2001 | 01-04-5134A | 02
04 | AL | ELMORE COUNTY* | 0104060100B | 03-OCT-2001 | 01-04-5774A | 02
04 | AL | ELMORE COUNTY* | 0104060100B | 16-NOV-2001 | 02-04-0504A | 02
04 | AL | ELMORE COUNTY* | 0104060125B | 28-NOV-2001 | 01-04-5994A | 02
04 | AL | ELMORE COUNTY* | 0104060025B | 05-DEC-2001 | 02-04-0730A | 02
04 | AL | FORT PAYNE, CITY OF | 0100670003A | 18-JUL-2001 | 01-04-2032A | 01
04 | AL | FORT PAYNE, CITY OF | 0100670003A | 25-JUL-2001 | 01-04-4822A | 01
04 | AL | FORT PAYNE, CITY OF | 0100670004A | 01-AUG-2001 | 01-04-5452A | 02
04 | AL | FORT PAYNE, CITY OF | 0100670002A | 12-DEC-2001 | 01-04-6934A | 01
04 | AL | HELENA, TOWN OF | 0102940002B | 08-AUG-2001 | 01-04-5390A | 01
04 | AL | HUNTSVILLE, CITY OF | 01089C0329D | 05-JUL-2001 | 01-04-4106A | 01
04 | AL | HUNTSVILLE, CITY OF | 01089C0328D | 25-JUL-2001 | 01-04-5136A | 01
04 | AL | JACKSON COUNTY * | 0101100275B | 18-JUL-2001 | 01-04-4632A | 02
04 | AL | JACKSON COUNTY * | 0101100150B | 14-DEC-2001 | 02-04-1102A | 02
04 | AL | JEFFERSON COUNTY * | 01073C0143E | 27-JUL-2001 | 01-04-5236A | 02
04 | AL | JEFFERSON COUNTY * | 01073C0250E | 16-NOV-2001 | 02-04-0248A | 02
04 | AL | JEFFERSON COUNTY * | 01073C0250E | 16-NOV-2001 | 02-04-0256A | 02
04 | AL | JEFFERSON COUNTY * | 01073C0484E | 16-NOV-2001 | 02-04-0278A | 02
04 | AL | JEFFERSON COUNTY * | 01073C0179E | 12-DEC-2001 | 02-04-0068A | 02
04 | AL | LAUDERDALE COUNTY * | 0103230069C | 01-AUG-2001 | 01-04-4786A | 02
04 | AL | LAUDERDALE COUNTY * | 0103230180C | 05-SEP-2001 | 01-04-6158A | 02
04 | AL | LAWRENCE COUNTY * | 0103240025B | 14-NOV-2001 | 01-04-6930A | 02
04 | AL | LEE COUNTY * | 0102500100C | 18-JUL-2001 | 01-04-2320A | 02
04 | AL | LEE COUNTY * | 0102500125C | 10-AUG-2001 | 01-04-5768A | 02
04 | AL | LEE COUNTY * | 0102500140C | 28-NOV-2001 | 02-04-0976A | 02
04 | AL | LEE COUNTY * | 0102500125C | 05-DEC-2001 | 02-04-0542A | 02
04 | AL | LIMESTONE COUNTY * | 0103070075B | 31-AUG-2001 | 01-04-6156A | 02
04 | AL | LIMESTONE COUNTY * | 0103070150B | 19-SEP-2001 | 01-04-5142A | 02
04 | AL | MADISON COUNTY * | 01089C0025D | 27-JUL-2001 | 01-04-5132A | 02
04 | AL | MADISON COUNTY * | 01089C0370D | 17-OCT-2001 | 01-04-6814A | 02
04 | AL | MADISON COUNTY * | 01089C0025D | 30-NOV-2001 | 02-04-0652A | 02
04 | AL | MADISON, CITY OF | 01089C0284D | 28-SEP-2001 | 01-04-4930A | 01
04 | AL | MONTGOMERY, CITY OF | 01101C0065F | 05-JUL-2001 | 01-04-4630A | 02
04 | AL | MONTGOMERY, CITY OF | 01101C0060F | 11-JUL-2001 | 01-04-4074A | 02
04 | AL | MONTGOMERY, CITY OF | 01101C0060F | 01-AUG-2001 | 01-04-5336A | 17
04 | AL | MONTGOMERY, CITY OF | 01101C0065F | 12-OCT-2001 | 01-04-6646A | 02
04 | AL | MONTGOMERY, CITY OF | 01101C0070F | 14-DEC-2001 | 01-04-6728A | 02
04 | AL | MONTGOMERY, CITY OF | 01101C0065F | 21-DEC-2001 | 02-04-0744A | 02
04 | AL | MORGAN COUNTY * | 01103C0175D | 21-SEP-2001 | 01-04-6578A | 02
04 | AL | PELHAM, TOWN OF | 0101930004B | 13-JUL-2001 | 01-04-4876A | 01
04 | AL | PELHAM, TOWN OF | 0101930001B | 31-AUG-2001 | 01-04-4778A | 01
04 | AL | PELHAM, TOWN OF | 0101930004B | 05-DEC-2001 | 02-04-0776A | 01
04 | AL | RAINSVILLE, CITY OF | 0103680010A | 07-DEC-2001 | 02-04-0930A | 02
04 | AL | REFORM, TOWN OF | 0102210005B | 22-AUG-2001 | 01-04-5138A | 02
04 | AL | SHELBY COUNTY* | 0101910150B | 01-AUG-2001 | 01-04-2616A | 02
04 | AL | SHELBY COUNTY* | 0101910025B | 19-SEP-2001 | 01-04-6368A | 02
04 | AL | SHELBY COUNTY* | 0101910100B | 26-SEP-2001 | 01-04-6326A | 01
04 | AL | SHELBY COUNTY* | 0101910175B | 28-NOV-2001 | 01-04-5384A | 02
04 | AL | SYLACAUGA, CITY OF | 0101990010C | 07-NOV-2001 | 01-04-6932A | 02
04 | AL | TRUSSVILLE, CITY OF | 01073C0213E | 11-JUL-2001 | 01-04-4274A | 02
04 | AL | TUSCALOOSA COUNTY * | 01125C0200E | 08-AUG-2001 | 01-04-2218A | 02
04 | AL | TUSCALOOSA COUNTY * | 01125C0425E | 12-OCT-2001 | 01-04-6468A | 02
04 | AL | TUSCALOOSA COUNTY * | 0102010225B | 09-NOV-2001 | 01-04-5214A | 02
04 | AL | TUSCALOOSA COUNTY * | 01125C0425E | 09-NOV-2001 | 01-04-7132A | 02
04 | AL | TUSCALOOSA COUNTY * | 01125C0175E | 16-NOV-2001 | 02-04-0478A | 02
04 | AL | TUSCALOOSA COUNTY * | 01125C0425E | 28-NOV-2001 | 01-04-7102A | 02
04 | AL | TUSCALOOSA, CITY OF | 01125C0700E | 13-JUL-2001 | 01-04-4908A | 02
04 | AL | TUSCALOOSA, CITY OF | 01125C0516E | 01-AUG-2001 | 01-04-4858A | 02
04 | AL | TUSCALOOSA, CITY OF | 01125C0516E | 08-AUG-2001 | 01-04-5594A | 02
04 | AL | TUSCALOOSA, CITY OF | 01125C0500E | 17-AUG-2001 | 01-04-5440A | 02
04 | AL | TUSCALOOSA, CITY OF | 01125C0506E | 22-AUG-2001 | 01-04-5388A | 02
04 | AL | TUSCALOOSA, CITY OF | 01125C0700E | 07-NOV-2001 | 01-04-6182A | 02
04 | AL | TUSCALOOSA, CITY OF | 01125C0500E | 16-NOV-2001 | 02-04-0066A | 02
04 | AL | TUSCALOOSA, CITY OF | 01125C0537E | 05-DEC-2001 | 02-04-0516A | 02
04 | AL | TUSCUMBIA, CITY OF | 0100490002B | 01-AUG-2001 | 01-04-4270A | 02
04 | AL | TUSCUMBIA, CITY OF | 0100490002B | 31-OCT-2001 | 01-04-6840A | 01
04 | AL | VESTAVIA HILLS, CITY OF | 01073C0492E | 26-SEP-2001 | 01-04-6088A | 01
04 | AL | WALKER COUNTY * | 0103010055B | 25-JUL-2001 | 01-04-4138A | 02
04 | AL | WALKER COUNTY * | 0103010055B | 02-NOV-2001 | 01-04-6378A | 02
04 | AL | WALKER COUNTY * | 0103010055B | 07-NOV-2001 | 01-04-7130A | 02
04 | AL | WETUMPKA, CITY OF | 0100700002C | 08-SEP-2001 | 01-04-6542V | 19
04 | FL | ALACHUA COUNTY* | 1200010288A | 29-AUG-2001 | 01-04-5508A | 01
04 | FL | ALTAMONTE SPRINGS, CITY OF | 12117C0120E | 15-AUG-2001 | 01-04-5358X | 01
04 | FL | ALTAMONTE SPRINGS, CITY OF | 12117C0140E | 12-SEP-2001 | 01-04-5608A | 02
04 | FL | ALTAMONTE SPRINGS, CITY OF | 12117C0120E | 12-DEC-2001 | 02-04-0620A | 02
04 | FL | ALTAMONTE SPRINGS, CITY OF | 12117C0120E | 28-DEC-2001 | 01-04-6776A | 02
04 | FL | APOPKA, CITY OF | 12095C0140E | 21-SEP-2001 | 01-04-6162A | 02
04 | FL | APOPKA, CITY OF | 12095C0110E | 02-NOV-2001 | 01-04-6856A | 02
04 | FL | APOPKA, CITY OF | 12095C0140E | 14-NOV-2001 | 01-04-7072A | 02
04 | FL | APOPKA, CITY OF | 12095C0140E | 28-NOV-2001 | 02-04-0210A | 02
04 | FL | APOPKA, CITY OF | 12095C0110E | 30-NOV-2001 | 02-04-0374A | 02
04 | FL | APOPKA, CITY OF | 12095C0110E | 07-DEC-2001 | 01-04-6502A | 02
04 | FL | AUBURNDALE, CITY OF | 12105C0335F | 25-JUL-2001 | 01-04-5072A | 02
04 | FL | AUBURNDALE, CITY OF | 12105C0330F | 17-AUG-2001 | 01-04-5722A | 02
04 | FL | AUBURNDALE, CITY OF | 12105C0335F | 31-OCT-2001 | 01-04-7160A | 02
04 | FL | BAY COUNTY* | 1200040243D | 24-AUG-2001 | 01-04-5244A | 02
04 | FL | BOCA RATON, CITY OF | 1201950004C | 26-OCT-2001 | 01-04-7094A | 01
04 | FL | BRADENTON, CITY OF | 1201150009C | 02-NOV-2001 | 01-04-6974A | 02
04 | FL | BRADFORD COUNTY * | 12007C0175D | 18-JUL-2001 | 01-04-2730A | 02
04 | FL | BREVARD COUNTY * | 12009C0441E | 27-JUL-2001 | 01-04-5030A | 01
04 | FL | BREVARD COUNTY * | 12009C0180E | 08-AUG-2001 | 01-04-5404A | 02
04 | FL | BREVARD COUNTY * | 12009C0430E | 15-AUG-2001 | 01-04-5620A | 02
04 | FL | BREVARD COUNTY * | 12009C0365E | 15-AUG-2001 | 01-04-5254X | 01
04 | FL | BREVARD COUNTY * | 12009C0430E | 31-AUG-2001 | 01-04-5472A | 01
04 | FL | BREVARD COUNTY * | 12009C0430E | 07-SEP-2001 | 01-04-5626A | 01
04 | FL | BREVARD COUNTY * | 12009C0190F | 12-SEP-2001 | 01-04-6028A | 02
04 | FL | BREVARD COUNTY * | 12009C0275E | 12-SEP-2001 | 01-04-5992A | 01
04 | FL | BREVARD COUNTY * | 12009C0430E | 19-SEP-2001 | 01-04-6092A | 02
04 | FL | BREVARD COUNTY * | 12009C0430E | 26-SEP-2001 | 01-04-5150A | 01
04 | FL | BREVARD COUNTY * | 12009C0105E | 03-OCT-2001 | 01-04-6422A | 01
04 | FL | BREVARD COUNTY * | 12009C0190F | 17-OCT-2001 | 01-04-6970A | 02
04 | FL | BREVARD COUNTY * | 12009C0441F | 31-OCT-2001 | 01-04-6698A | 01
04 | FL | BREVARD COUNTY * | 12009C0190F | 07-NOV-2001 | 01-04-7074A | 02
04 | FL | BREVARD COUNTY * | 12009C0190F | 07-NOV-2001 | 01-04-7156A | 02
04 | FL | BREVARD COUNTY * | 12009C0365E | 21-NOV-2001 | 01-04-7034A | 01
04 | FL | BREVARD COUNTY * | 12009C0260E | 28-NOV-2001 | 01-04-7056A | 01
04 | FL | BREVARD COUNTY * | 12009C0435E | 07-DEC-2001 | 02-04-0470A | 02
04 | FL | BREVARD COUNTY * | 12009C0430E | 19-DEC-2001 | 02-04-0678A | 02
04 | FL | BREVARD COUNTY * | 12009C0430E | 19-DEC-2001 | 02-04-0362A | 01
04 | FL | BREVARD COUNTY * | 12009C0270E | 21-DEC-2001 | 02-04-0868A | 02
04 | FL | BROWARD COUNTY* | 12011C0120F | 08-AUG-2001 | 01-04-5310X | 01
04 | FL | BROWARD COUNTY* | 12011C0120F | 22-AUG-2001 | 01-04-5598X | 02
04 | FL | CALHOUN COUNTY* | 1204030075D | 07-DEC-2001 | 02-04-0596A | 02
04 | FL | CAPE CORAL, CITY OF | 1250950030C | 05-JUL-2001 | 01-04-4556A | 01
04 | FL | CAPE CORAL, CITY OF | 1250950030C | 11-JUL-2001 | 01-04-4554A | 01
04 | FL | CAPE CORAL, CITY OF | 1250950040C | 18-JUL-2001 | 01-04-4552A | 01
04 | FL | CAPE CORAL, CITY OF | 1250950030C | 20-JUL-2001 | 01-04-4708A | 01
04 | FL | CAPE CORAL, CITY OF | 1250950035C | 25-JUL-2001 | 01-04-4810A | 01
04 | FL | CAPE CORAL, CITY OF | 1250950030C | 27-JUL-2001 | 01-04-5178A | 01
04 | FL | CAPE CORAL, CITY OF | 1250950035C | 27-JUL-2001 | 01-04-5196A | 01
04 | FL | CAPE CORAL, CITY OF | 1250950040C | 03-AUG-2001 | 01-04-4850A | 01
04 | FL | CAPE CORAL, CITY OF | 1250950030C | 10-AUG-2001 | 01-04-5256A | 01
04 | FL | CAPE CORAL, CITY OF | 1250920030C | 24-AUG-2001 | 01-04-4852A | 01
04 | FL | CAPE CORAL, CITY OF | 1250950035C | 24-AUG-2001 | 01-04-5698A | 01
04 | FL | CAPE CORAL, CITY OF | 1250950030C | 31-AUG-2001 | 01-04-6106A | 01
04 | FL | CAPE CORAL, CITY OF | 1250950030C | 31-AUG-2001 | 01-04-6108A | 01
04 | FL | CAPE CORAL, CITY OF | 1250950030C | 05-SEP-2001 | 01-04-6112A | 01
04 | FL | CAPE CORAL, CITY OF | 1250950035C | 05-SEP-2001 | 01-04-6114A | 01
04 | FL | CAPE CORAL, CITY OF | 1250950035C | 05-SEP-2001 | 01-04-6296A | 01
04 | FL | CAPE CORAL, CITY OF | 1250950040C | 07-SEP-2001 | 01-04-6110A | 01
04 | FL | CAPE CORAL, CITY OF | 1250950020C | 14-SEP-2001 | 01-04-6186A | 01
04 | FL | CAPE CORAL, CITY OF | 1250950040C | 21-SEP-2001 | 01-04-6516A | 01
04 | FL | CAPE CORAL, CITY OF | 1250950045C | 26-SEP-2001 | 01-04-6622A | 01
04 | FL | CAPE CORAL, CITY OF | 1250950030C | 26-SEP-2001 | 01-04-6624A | 01
04 | FL | CAPE CORAL, CITY OF | 1250950030C | 17-OCT-2001 | 01-04-6870A | 01
04 | FL | CAPE CORAL, CITY OF | 1250950030C | 17-OCT-2001 | 01-04-6906A | 01
04 | FL | CAPE CORAL, CITY OF | 1250950030C | 09-NOV-2001 | 01-04-7184A | 01
04 | FL | CAPE CORAL, CITY OF | 1250950030C | 09-NOV-2001 | 02-04-0904A | 01
04 | FL | CAPE CORAL, CITY OF | 1250950035C | 14-NOV-2001 | 02-04-0610A | 01
04 | FL | CAPE CORAL, CITY OF | 1250950030C | 05-DEC-2001 | 02-04-0664A | 01
04 | FL | CAPE CORAL, CITY OF | 1250950035C | 05-DEC-2001 | 02-04-0666A | 01
04 | FL | CAPE CORAL, CITY OF | 1250950030C | 07-DEC-2001 | 02-04-0762A | 01
04 | FL | CAPE CORAL, CITY OF | 1250950035C | 07-DEC-2001 | 02-04-0764A | 01
04 | FL | CAPE CORAL, CITY OF | 1250950030C | 14-DEC-2001 | 02-04-0874A | 01
04 | FL | CAPE CORAL, CITY OF | 1250950030C | 19-DEC-2001 | 02-04-1164A | 01
04 | FL | CAPE CORAL, CITY OF | 1250950030C | 21-DEC-2001 | 02-04-1304A | 01
04 | FL | CAPE CORAL, CITY OF | 1250950030C | 21-DEC-2001 | 02-04-1306A | 01
04 | FL | CAPE CORAL, CITY OF | 1250950020C | 28-DEC-2001 | 02-04-1500A | 01
04 | FL | CHARLOTTE COUNTY * | 1200610045E | 28-AUG-2001 | 01-04-377P | 05
04 | FL | CHARLOTTE COUNTY * | 1200610041D | 19-OCT-2001 | 01-04-467P | 05
04 | FL | CHARLOTTE COUNTY * | 1200610041D | 13-NOV-2001 | 01-04-483P | 05
04 | FL | CITRUS COUNTY * | 1200630255B | 11-JUL-2001 | 01-04-4770A | 02
04 | FL | CITRUS COUNTY * | 1200630260B | 07-SEP-2001 | 01-04-5974A | 02
04 | FL | CITRUS COUNTY * | 1200630210B | 21-SEP-2001 | 01-04-5688A | 02
04 | FL | CITRUS COUNTY * | 1200630270B | 19-OCT-2001 | 01-04-6576A | 02
04 | FL | CITRUS COUNTY * | 1200630220B | 05-DEC-2001 | 02-04-0400A | 02
04 | FL | CITRUS COUNTY * | 1200630260B | 05-DEC-2001 | 02-04-0418A | 02
04 | FL | CLAY COUNTY * | 1200640155D | 27-JUL-2001 | 01-04-4368A | 01
04 | FL | CLAY COUNTY * | 1200640325D | 24-AUG-2001 | 01-04-6052A | 02
04 | FL | CLAY COUNTY * | 1200640350D | 07-SEP-2001 | 01-04-5382A | 02
04 | FL | CLAY COUNTY * | 1200640135D | 21-SEP-2001 | 01-04-4658A | 01
04 | FL | CLAY COUNTY * | 1200640350D | 03-OCT-2001 | 01-04-6784A | 02
04 | FL | CLAY COUNTY * | 1200640065D | 03-OCT-2001 | 01-04-3394A | 01
04 | FL | CLAY COUNTY * | 1200640155D | 16-NOV-2001 | 02-04-0004A | 01
04 | FL | COCONUT CREEK, CITY OF | 12011C0115F | 19-DEC-2001 | 02-04-0944A | 02
04 | FL | COOPER CITY, CITY OF | 12011C0285F | 14-NOV-2001 | 01-04-6928A | 02
04 | FL | CORAL SPRINGS, CITY OF | 12011C0095F | 01-AUG-2001 | 01-04-5028A | 01
04 | FL | CORAL SPRINGS, CITY OF | 12011C0095F | 07-SEP-2001 | 01-04-6116A | 02
04 | FL | DADE COUNTY* | 12025C0354J | 11-JUL-2001 | 01-04-4340A | 02
04 | FL | DADE COUNTY* | 12025C0266J | 11-JUL-2001 | 01-04-4866A | 02
04 | FL | DADE COUNTY* | 12025C0090J | 17-AUG-2001 | 01-04-5008A | 02
04 | FL | DADE COUNTY* | 12025C0160J | 17-AUG-2001 | 01-04-5826A | 01
04 | FL | DADE COUNTY* | 12025C0075J | 29-AUG-2001 | 01-04-5830A | 01
04 | FL | DADE COUNTY* | 12025C0160J | 31-AUG-2001 | 01-04-6118A | 01
04 | FL | DADE COUNTY* | 12025C0160J | 07-SEP-2001 | 01-04-6008A | 01
04 | FL | DADE COUNTY* | 12025C0160J | 12-SEP-2001 | 01-04-6120A | 01
04 | FL | DADE COUNTY* | 12025C0075J | 14-SEP-2001 | 01-04-5828A | 01
04 | FL | DADE COUNTY* | 12025C0160J | 14-SEP-2001 | 01-04-6212A | 01
04 | FL | DADE COUNTY* | 12025C0075J | 14-SEP-2001 | 01-04-6214A | 01
04 | FL | DADE COUNTY* | 12025C0354J | 19-SEP-2001 | 01-04-6408A | 02
04 | FL | DADE COUNTY* | 12025C0265J | 12-OCT-2001 | 01-04-5908A | 01
04 | FL | DADE COUNTY* | 12025C0265J | 30-NOV-2001 | 02-04-1010A | 02
04 | FL | DADE COUNTY* | 12025C0265J | 30-NOV-2001 | 02-04-1038A | 02
04 | FL | DADE COUNTY* | 12025C0350J | 07-DEC-2001 | 02-04-0616A | 02
04 | FL | DADE COUNTY* | 12025C0075J | 14-DEC-2001 | 02-04-0820A | 01
04 | FL | DAVIE, CITY OF | 12011C0302F | 05-JUL-2001 | 01-04-4522A | 02
04 | FL | DEBARY, CITY OF | 1206720001F | 20-JUL-2001 | 01-04-5084A | 02
04 | FL | DEBARY, CITY OF | 1206720001F | 28-NOV-2001 | 02-04-1040A | 02
04 | FL | DEERFIELD BEACH, CITY OF | 12011C0108F | 13-JUL-2001 | 01-04-4904A | 02
04 | FL | DEERFIELD BEACH, CITY OF | 12011C0120F | 03-OCT-2001 | 01-04-4634A | 02
04 | FL | DESOTO COUNTY* | 12027C0270B | 08-AUG-2001 | 01-04-3654A | 02
04 | FL | ESCAMBIA COUNTY* | 12033C0369F | 11-JUL-2001 | 01-04-3906A | 02
04 | FL | ESCAMBIA COUNTY* | 12033C0368F | 22-AUG-2001 | 01-04-5846A | 02
04 | FL | ESCAMBIA COUNTY* | 12033C0360F | 17-OCT-2001 | 01-04-5092A | 02
04 | FL | ESCAMBIA COUNTY* | 12033C0368F | 21-NOV-2001 | 02-04-0978A | 02
04 | FL | FORT LAUDERDALE, CITY OF | 12011C0217F | 18-JUL-2001 | 01-04-5024A | 02
04 | FL | FORT LAUDERDALE, CITY OF | 12011C0207G | 18-JUL-2001 | 01-04-4838A | 01
04 | FL | FORT LAUDERDALE, CITY OF | 12011C0218F | 08-AUG-2001 | 01-04-5252A | 02
04 | FL | FORT LAUDERDALE, CITY OF | 12011C0209F | 07-SEP-2001 | 01-04-6168A | 02
04 | FL | FRANKLIN COUNTY * | 1200880555B | 28-NOV-2001 | 02-04-0196A | 02
04 | FL | GADSDEN COUNTY * | 1200910300A | 07-NOV-2001 | 01-04-6962A | 02
04 | FL | GAINESVILLE, CITY OF | 1251070005C | 05-JUL-2001 | 01-04-4832X | 02
04 | FL | GROVELAND, CITY OF | 1204210325B | 18-JUL-2001 | 01-04-3908A | 01
04 | FL | GULF BREEZE, CITY OF | 1202750011F | 07-DEC-2001 | 02-04-0674A | 02
04 | FL | HERNANDO COUNTY * | 1201100225B | 29-AUG-2001 | 01-04-5786A | 02
04 | FL | HERNANDO COUNTY * | 1201100150B | 02-NOV-2001 | 01-04-4050A | 01
04 | FL | HERNANDO COUNTY * | 1201100140B | 07-DEC-2001 | 02-04-0752A | 02
04 | FL | HERNANDO COUNTY * | 1201100280B | 14-DEC-2001 | 02-04-1056A | 02
04 | FL | HIALEAH GARDENS, CITY OF | 12025C0075J | 21-SEP-2001 | 01-04-5198A | 02
04 | FL | HIGHLANDS COUNTY * | 1201110025B | 19-OCT-2001 | 01-04-5446A | 01
04 | FL | HILLSBOROUGH COUNTY* | 1201120065D | 05-JUL-2001 | 01-04-4678A | 02
04 | FL | HILLSBOROUGH COUNTY* | 1201120160C | 11-JUL-2001 | 01-04-4364A | 01
04 | FL | HILLSBOROUGH COUNTY* | 1201120530C | 11-JUL-2001 | 01-04-4588A | 01
04 | FL | HILLSBOROUGH COUNTY* | 1201120210E | 13-JUL-2001 | 01-04-4686A | 01
04 | FL | HILLSBOROUGH COUNTY* | 1201120395E | 25-JUL-2001 | 01-04-4932A | 01
04 | FL | HILLSBOROUGH COUNTY* | 1201120180F | 03-AUG-2001 | 01-04-3620A | 02
04 | FL | HILLSBOROUGH COUNTY* | 1201120065D | 03-AUG-2001 | 01-04-5100A | 01
04 | FL | HILLSBOROUGH COUNTY* | 1201120210E | 08-AUG-2001 | 01-04-5344A | 02
04 | FL | HILLSBOROUGH COUNTY* | 1201120530C | 15-AUG-2001 | 01-04-5308A | 01
04 | FL | HILLSBOROUGH COUNTY* | 1201120395E | 17-AUG-2001 | 01-04-5502A | 01
04 | FL | HILLSBOROUGH COUNTY* | 1201120530C | 29-AUG-2001 | 01-04-5504A | 01
04 | FL | HILLSBOROUGH COUNTY* | 1201120180F | 30-AUG-2001 | 01-04-4934A | 01
04 | FL | HILLSBOROUGH COUNTY* | 1201120065D | 31-AUG-2001 | 01-04-4208A | 01
04 | FL | HILLSBOROUGH COUNTY* | 1201120205D | 05-SEP-2001 | 01-04-5152A | 02
04 | FL | HILLSBOROUGH COUNTY* | 1201120415C | 07-SEP-2001 | 01-04-5532A | 02
04 | FL | HILLSBOROUGH COUNTY* | 1201120160C | 07-SEP-2001 | 01-04-5230A | 01
04 | FL | HILLSBOROUGH COUNTY* | 1201120387E | 26-SEP-2001 | 01-04-3390A | 01
04 | FL | HILLSBOROUGH COUNTY* | 1201120395E | 26-SEP-2001 | 01-04-6416A | 01
04 | FL | HILLSBOROUGH COUNTY* | 1201120395E | 26-SEP-2001 | 01-04-6924A | 01
04 | FL | HILLSBOROUGH COUNTY* | 1201120160C | 03-OCT-2001 | 01-04-6628A | 01
04 | FL | HILLSBOROUGH COUNTY* | 1201120045D | 10-OCT-2001 | 01-04-3392A | 01
04 | FL | HILLSBOROUGH COUNTY* | 1201120070E | 17-OCT-2001 | 01-04-6330A | 02
04 | FL | HILLSBOROUGH COUNTY* | 1201120219B | 17-OCT-2001 | 01-04-6788A | 02
04 | FL | HILLSBOROUGH COUNTY* | 1201120395E | 19-OCT-2001 | 01-04-7114A | 01
04 | FL | HILLSBOROUGH COUNTY* | 1201120387E | 24-OCT-2001 | 01-04-6418A | 01
04 | FL | HILLSBOROUGH COUNTY* | 1201120160C | 14-NOV-2001 | 01-04-3398A | 01
04 | FL | HILLSBOROUGH COUNTY* | 1201120160C | 16-NOV-2001 | 01-04-6944A | 01
04 | FL | HILLSBOROUGH COUNTY* | 1201120160C | 16-NOV-2001 | 01-04-7126A | 01
04 | FL | HILLSBOROUGH COUNTY* | 1201120219E | 16-NOV-2001 | 02-04-0658X | 17
04 | FL | HILLSBOROUGH COUNTY* | 1201120185F | 21-NOV-2001 | 01-04-6926A | 01
04 | FL | HILLSBOROUGH COUNTY* | 1201120095C | 28-NOV-2001 | 02-04-0630A | 01
04 | FL | HILLSBOROUGH COUNTY* | 1201120185F | 30-NOV-2001 | 02-04-1042A | 01
04 | FL | HILLSBOROUGH COUNTY* | 1201120205D | 07-DEC-2001 | 02-04-0530A | 02
04 | FL | HILLSBOROUGH COUNTY* | 1201120160C | 07-DEC-2001 | 02-04-0972A | 01
04 | FL | HILLSBOROUGH COUNTY* | 1201120185F | 12-DEC-2001 | 02-04-0870A | 02
04 | FL | HILLSBOROUGH COUNTY* | 1201120065D | 12-DEC-2001 | 02-04-1108A | 02
04 | FL | HILLSBOROUGH COUNTY* | 1201120415C | 14-DEC-2001 | 02-04-1066A | 01
04 | FL | HILLSBOROUGH COUNTY* | 1201120493D | 17-DEC-2001 | 01-04-381P | 05
04 | FL | HILLSBOROUGH COUNTY* | 1201120395E | 19-DEC-2001 | 02-04-1206A | 02
04 | FL | HILLSBOROUGH COUNTY* | 1201120180F | 21-DEC-2001 | 02-04-0048A | 02
04 | FL | HILLSBOROUGH COUNTY* | 1201120205D | 21-DEC-2001 | 02-04-0144A | 02
04 | FL | HILLSBOROUGH COUNTY* | 1201120160C | 21-DEC-2001 | 02-04-0670A | 01
04 | FL | INDIAN RIVER COUNTY * | 12061C0169F | 28-NOV-2001 | 02-04-0044A | 18
04 | FL | JACKSON COUNTY * | 12063C0175C | 20-JUL-2001 | 01-04-4218A | 02
04 | FL | JACKSONVILLE, CITY OF | 1200770179E | 11-JUL-2001 | 01-04-4780A | 02
04 | FL | JACKSONVILLE, CITY OF | 1200770236E | 01-AUG-2001 | 01-04-015P | 05
04 | FL | JACKSONVILLE, CITY OF | 1200770156E | 01-AUG-2001 | 01-04-5060A | 02
04 | FL | JACKSONVILLE, CITY OF | 1200770050E | 08-AUG-2001 | 01-04-4746A | 02
04 | FL | JACKSONVILLE, CITY OF | 1200770050E | 08-AUG-2001 | 01-04-4748A | 01
04 | FL | JACKSONVILLE, CITY OF | 1200770226E | 24-OCT-2001 | 01-04-6960A | 02
04 | FL | JACKSONVILLE, CITY OF | 1200770232E | 07-NOV-2001 | 01-04-309P | 05
04 | FL | JACKSONVILLE, CITY OF | 1200770236E | 05-DEC-2001 | 01-04-6534A | 01
04 | FL | KEY WEST, CITY OF | 12087C1716H | 26-OCT-2001 | 01-04-7096A | 02
04 | FL | KISSIMMEE, CITY OF | 12097C0066F | 17-AUG-2001 | 01-04-5730A | 02
04 | FL | KISSIMMEE, CITY OF | 12097C0055F | 17-OCT-2001 | 01-04-4454A | 01
04 | FL | KISSIMMEE, CITY OF | 12097C0060F | 19-OCT-2001 | 01-04-7082A | 02
04 | FL | KISSIMMEE, CITY OF | 12097C0065F | 19-OCT-2001 | 01-04-6074A | 01
04 | FL | KISSIMMEE, CITY OF | 12097C0068F | 31-OCT-2001 | 02-04-0034A | 02
04 | FL | KISSIMMEE, CITY OF | 12097C0067F | 16-NOV-2001 | 02-04-0334A | 01
04 | FL | KISSIMMEE, CITY OF | 12097C0060F | 28-NOV-2001 | 02-04-0912X | 02
04 | FL | KISSIMMEE, CITY OF | 12097C0065F | 28-DEC-2001 | 02-04-0778A | 01
04 | FL | KISSIMMEE, CITY OF | 12097C0065F | 28-DEC-2001 | 02-04-1456A | 01
04 | FL | LAKE COUNTY * | 1204210300B | 05-JUL-2001 | 01-04-4590A | 02
04 | FL | LAKE COUNTY * | 1204210275B | 05-JUL-2001 | 01-04-4640A | 02
04 | FL | LAKE COUNTY * | 1204210150B | 11-JUL-2001 | 01-04-2694A | 02
04 | FL | LAKE COUNTY * | 1204210300B | 18-JUL-2001 | 01-04-5016A | 02
04 | FL | LAKE COUNTY * | 1204210200B | 20-JUL-2001 | 01-04-5104A | 01
04 | FL | LAKE COUNTY * | 1204210100B | 25-JUL-2001 | 01-04-4782A | 02
04 | FL | LAKE COUNTY * | 1204210200B | 01-AUG-2001 | 01-04-5102A | 01
04 | FL | LAKE COUNTY * | 1204210200B | 10-AUG-2001 | 01-04-5316A | 02
04 | FL | LAKE COUNTY * | 1204210200B | 10-AUG-2001 | 01-04-5340A | 02
04 | FL | LAKE COUNTY * | 1204210225B | 17-AUG-2001 | 01-04-4862A | 02
04 | FL | LAKE COUNTY * | 1204210225B | 17-AUG-2001 | 01-04-5074A | 02
04 | FL | LAKE COUNTY * | 1204210375B | 29-AUG-2001 | 01-04-5394A | 02
04 | FL | LAKE COUNTY * | 1204210200B | 31-AUG-2001 | 01-04-5116A | 02
04 | FL | LAKE COUNTY * | 1204210200B | 07-SEP-2001 | 01-04-6086A | 02
04 | FL | LAKE COUNTY * | 1204210125B | 12-SEP-2001 | 01-04-5984A | 02
04 | FL | LAKE COUNTY * | 1204210125B | 03-OCT-2001 | 01-04-6780A | 02
04 | FL | LAKE COUNTY * | 1204210150B | 12-OCT-2001 | 01-04-6346A | 02
04 | FL | LAKE COUNTY * | 1202410150B | 19-OCT-2001 | 01-04-7204A | 02
04 | FL | LAKE COUNTY * | 1204210325B | 24-OCT-2001 | 01-04-6612A | 02
04 | FL | LAKE COUNTY * | 1204210125B | 02-NOV-2001 | 02-04-0032A | 02
04 | FL | LAKE COUNTY * | 1204210175B | 07-DEC-2001 | 02-04-0294A | 02
04 | FL | LAKE COUNTY * | 1204210125B | 14-DEC-2001 | 02-04-0938A | 02
04 | FL | LAKELAND, CITY OF | 12105C0303F | 05-JUL-2001 | 01-04-4644A | 02
04 | FL | LAKELAND, CITY OF | 12105C0292F | 03-AUG-2001 | 01-04-335P | 05
04 | FL | LAKELAND, CITY OF | 12105C0304F | 17-AUG-2001 | 01-04-5602A | 02
04 | FL | LAKELAND, CITY OF | 12105C0480F | 29-AUG-2001 | 01-04-4642A | 02
04 | FL | LAKELAND, CITY OF | 12105C0320F | 28-SEP-2001 | 01-04-6604A | 02
04 | FL | LAKELAND, CITY OF | 12105C0480F | 14-DEC-2001 | 02-04-0344A | 02
04 | FL | LAUDERDALE LAKES, CITY OF | 12011C0204F | 01-AUG-2001 | 01-04-5334A | 02
04 | FL | LAUDERHILL, CITY OF | 12011C0205F | 26-OCT-2001 | 01-04-7108A | 01
04 | FL | LAUDERHILL, CITY OF | 12011C0212F | 21-NOV-2001 | 02-04-0700A | 02
04 | FL | LAUDERHILL, CITY OF | 12011C0212F | 05-DEC-2001 | 02-04-0746A | 02
04 | FL | LEE COUNTY* | 1251240455B | 20-JUL-2001 | 01-04-5176A | 01
04 | FL | LEE COUNTY* | 1251240200C | 24-AUG-2001 | 01-04-3254A | 02
04 | FL | LEE COUNTY* | 1251240045B | 20-SEP-2001 | 01-04-205P | 05
04 | FL | LEE COUNTY* | 1251240250B | 21-SEP-2001 | 01-04-6452A | 02
04 | FL | LEE COUNTY* | 1251240325C | 12-OCT-2001 | 01-04-6320A | 02
04 | FL | LEE COUNTY* | 1251240510D | 24-OCT-2001 | 01-04-6514A | 01
04 | FL | LEE COUNTY* | 1251240250B | 26-OCT-2001 | 01-04-7206A | 01
04 | FL | LEE COUNTY* | 1251240075D | 05-DEC-2001 | 02-04-0662A | 01
04 | FL | LEESBURG, CITY OF | 1201360001C | 12-DEC-2001 | 02-04-0564A | 01
04 | FL | LONGWOOD, CITY OF | 12117C0130E | 12-SEP-2001 | 01-04-6190A | 02
04 | FL | LYNN HAVEN, CITY OF | 1200040335D | 05-SEP-2001 | 01-04-6100A | 02
04 | FL | MAITLAND, CITY OF | 12095C0145E | 29-AUG-2001 | 01-04-6032A | 02
04 | FL | MAITLAND, CITY OF | 12095C0165E | 28-NOV-2001 | 02-04-0346A | 02
04 | FL | MAITLAND, CITY OF | 12095C0165E | 28-NOV-2001 | 02-04-1020A | 02
04 | FL | MANATEE COUNTY * | 1201530220C | 19-SEP-2001 | 01-04-4994A | 01
04 | FL | MANATEE COUNTY * | 1201530360C | 03-OCT-2001 | 01-04-6600A | 02
04 | FL | MANATEE COUNTY * | 1201530187D | 26-OCT-2001 | 01-04-6662A | 02
04 | FL | MARGATE, CITY OF | 12011C0115F | 05-JUL-2001 | 01-04-4538A | 02
04 | FL | MARGATE, CITY OF | 12011C0115F | 20-JUL-2001 | 01-04-5312X | 02
04 | FL | MARGATE, CITY OF | 12011C0115F | 31-AUG-2001 | 01-04-5200A | 02
04 | FL | MARGATE, CITY OF | 12011C0115F | 31-OCT-2001 | 01-04-7116X | 02
04 | FL | MARGATE, CITY OF | 12011C0115F | 07-NOV-2001 | 01-04-7186A | 01
04 | FL | MARION COUNTY * | 1201600715B | 25-JUL-2001 | 01-04-2818A | 02
04 | FL | MARION COUNTY * | 1201600425B | 24-OCT-2001 | 01-04-6414A | 02
04 | FL | MARION COUNTY * | 1201600520B | 21-NOV-2001 | 02-04-0558A | 02
04 | FL | MELBOURNE, CITY OF | 12009C0509E | 18-JUL-2001 | 01-04-3114A | 01
04 | FL | MELBOURNE, CITY OF | 12009C0506E | 01-AUG-2001 | 01-04-5146A | 02
04 | FL | MELBOURNE, CITY OF | 12009C0441F | 14-SEP-2001 | 01-04-3384A | 01
04 | FL | MIAMI SHORES VILLAGE, VILLAGE | 12025C0093J | 24-AUG-2001 | 01-04-5772A | 02
04 | FL | MT. DORA, CITY OF | 1201370001B | 18-JUL-2001 | 01-04-4854A | 02
04 | FL | MT. DORA, CITY OF | 1204210150B | 15-AUG-2001 | 01-04-4830A | 01
04 | FL | MT. DORA, CITY OF | 1204210150B | 12-SEP-2001 | 01-04-3530A | 02
04 | FL | NEW PORT RICHEY, CITY OF | 1202300189C | 03-OCT-2001 | 01-04-6486A | 02
04 | FL | NEW PORT RICHEY, CITY OF | 1202300189C | 10-OCT-2001 | 01-04-6488A | 02
04 | FL | NICEVILLE, CITY OF | 1203380005B | 09-NOV-2001 | 02-04-0508A | 02
04 | FL | NORTH LAUDERDALE, CITY OF | 12011C0205F | 16-NOV-2001 | 02-04-0366A | 02
04 | FL | OAKLAND PARK, CITY OF | 12011C0209F | 14-SEP-2001 | 01-04-6282A | 02
04 | FL | OAKLAND PARK, CITY OF | 12011C0208F | 26-OCT-2001 | 01-04-7104A | 02
04 | FL | OAKLAND PARK, CITY OF | 12011C0208F | 12-DEC-2001 | 02-04-0854X | 02
04 | FL | OCOEE, CITY OF | 12095C0210E | 17-AUG-2001 | 01-04-5784A | 02
04 | FL | OCOEE, CITY OF | 12095C0210E | 12-SEP-2001 | 01-04-5770A | 02
04 | FL | OCOEE, CITY OF | 12095C0220E | 28-SEP-2001 | 01-04-6504A | 02
04 | FL | OCOEE, CITY OF | 12095C0210E | 28-NOV-2001 | 02-04-0356A | 02
04 | FL | OCOEE, CITY OF | 12095C0210E | 14-DEC-2001 | 02-04-1084A | 02
04 | FL | OKALOOSA COUNTY * | 1201730205E | 05-JUL-2001 | 01-04-4654A | 01
04 | FL | OKALOOSA COUNTY * | 1201730205E | 28-SEP-2001 | 01-04-6496A | 02
04 | FL | OKALOOSA COUNTY * | 1201730205E | 28-SEP-2001 | 01-04-6550A | 01
04 | FL | OKALOOSA COUNTY * | 1201730205E | 12-OCT-2001 | 01-04-6690A | 01
04 | FL | OKALOOSA COUNTY * | 1201730210E | 31-OCT-2001 | 01-04-7162A | 01
04 | FL | OKALOOSA COUNTY * | 1201730205E | 07-NOV-2001 | 02-04-1006A | 01
04 | FL | OKALOOSA COUNTY * | 1201730210E | 07-DEC-2001 | 01-04-5630A | 02
04 | FL | ORANGE COUNTY * | 12095C0270E | 05-JUL-2001 | 01-04-4652A | 02
04 | FL | ORANGE COUNTY * | 12095C0415E | 05-JUL-2001 | 01-04-4684A | 02
04 | FL | ORANGE COUNTY * | 12095C0385E | 11-JUL-2001 | 01-04-4710A | 02
04 | FL | ORANGE COUNTY * | 12095C0215E | 11-JUL-2001 | 01-04-4692A | 01
04 | FL | ORANGE COUNTY * | 12095C0585E | 11-JUL-2001 | 01-04-4696A | 01
04 | FL | ORANGE COUNTY * | 12095C0585E | 11-JUL-2001 | 01-04-4698A | 01
04 | FL | ORANGE COUNTY * | 12095C0260E | 18-JUL-2001 | 01-04-4864A | 01
04 | FL | ORANGE COUNTY * | 12095C0290E | 25-JUL-2001 | 01-04-4784A | 02
04 | FL | ORANGE COUNTY * | 12095C0435E | 25-JUL-2001 | 01-04-5012A | 02
04 | FL | ORANGE COUNTY * | 12095C0230E | 01-AUG-2001 | 01-04-5610A | 02
04 | FL | ORANGE COUNTY * | 12095C0260E | 03-AUG-2001 | 01-04-4914A | 02
04 | FL | ORANGE COUNTY * | 12095C0285E | 03-AUG-2001 | 01-04-4918A | 02
04 | FL | ORANGE COUNTY * | 12095C0405E | 03-AUG-2001 | 01-04-4706A | 01
04 | FL | ORANGE COUNTY * | 12095C0380E | 08-AUG-2001 | 01-04-4682A | 02
04 | FL | ORANGE COUNTY * | 12095C0410E | 08-AUG-2001 | 01-04-5246A | 02
04 | FL | ORANGE COUNTY * | 12095C0410E | 08-AUG-2001 | 01-04-5510A | 02
04 | FL | ORANGE COUNTY * | 12095C0410E | 08-AUG-2001 | 01-04-5614A | 02
04 | FL | ORANGE COUNTY * | 12095C0165E | 10-AUG-2001 | 01-04-3900A | 02
04 | FL | ORANGE COUNTY * | 12095C0270E | 10-AUG-2001 | 01-04-5066A | 02
04 | FL | ORANGE COUNTY * | 12095C0290E | 15-AUG-2001 | 01-04-5342A | 02
04 | FL | ORANGE COUNTY * | 12095C0270E | 15-AUG-2001 | 01-04-5444A | 02
04 | FL | ORANGE COUNTY * | 12095C0240E | 15-AUG-2001 | 01-04-5644A | 02
04 | FL | ORANGE COUNTY * | 12095C0420E | 17-AUG-2001 | 01-04-5250A | 01
04 | FL | ORANGE COUNTY * | 12095C0580E | 17-AUG-2001 | 01-04-5410A | 01
04 | FL | ORANGE COUNTY * | 12095C0465E | 17-AUG-2001 | 01-04-5804A | 02
04 | FL | ORANGE COUNTY * | 12095C0295E | 24-AUG-2001 | 01-04-3324A | 01
04 | FL | ORANGE COUNTY * | 12095C0250E | 24-AUG-2001 | 01-04-5512A | 01
04 | FL | ORANGE COUNTY * | 12095C0415E | 24-AUG-2001 | 01-04-5514A | 01
04 | FL | ORANGE COUNTY * | 12095C0270E | 29-AUG-2001 | 01-04-5618A | 02
04 | FL | ORANGE COUNTY * | 12095C0435E | 29-AUG-2001 | 01-04-5696A | 02
04 | FL | ORANGE COUNTY * | 12095C0270E | 29-AUG-2001 | 01-04-5520A | 01
04 | FL | ORANGE COUNTY * | 12095C0240E | 07-SEP-2001 | 01-04-5898A | 02
04 | FL | ORANGE COUNTY * | 12095C0290E | 12-SEP-2001 | 01-04-5224A | 02
04 | FL | ORANGE COUNTY * | 12095C0145E | 12-SEP-2001 | 01-04-5616A | 02
04 | FL | ORANGE COUNTY * | 12095C0415E | 12-SEP-2001 | 01-04-5692A | 02
04 | FL | ORANGE COUNTY * | 12095C0380E | 12-SEP-2001 | 01-04-5724A | 02
04 | FL | ORANGE COUNTY * | 12095C0235E | 12-SEP-2001 | 01-04-5900A | 02
04 | FL | ORANGE COUNTY * | 12095C0415E | 12-SEP-2001 | 01-04-6030A | 02
04 | FL | ORANGE COUNTY * | 12095C0285E | 12-SEP-2001 | 01-04-5654A | 01
04 | FL | ORANGE COUNTY * | 12095C0420E | 12-SEP-2001 | 01-04-6536A | 01
04 | FL | ORANGE COUNTY * | 12095C0215E | 14-SEP-2001 | 01-04-6160A | 02
04 | FL | ORANGE COUNTY * | 12095C0410E | 14-SEP-2001 | 01-04-6232A | 02
04 | FL | ORANGE COUNTY * | 12095C0415E | 19-SEP-2001 | 01-04-6090A | 02
04 | FL | ORANGE COUNTY * | 12095C0255E | 19-SEP-2001 | 01-04-6166A | 02
04 | FL | ORANGE COUNTY * | 12095C0410E | 19-SEP-2001 | 01-04-6180A | 02
04 | FL | ORANGE COUNTY * | 12095C0230E | 19-SEP-2001 | 01-04-6286A | 02
04 | FL | ORANGE COUNTY * | 12095C0290E | 19-SEP-2001 | 01-04-6288A | 02
04 | FL | ORANGE COUNTY * | 12095C0150E | 19-SEP-2001 | 01-04-6424A | 02
04 | FL | ORANGE COUNTY * | 12095C0230E | 21-SEP-2001 | 01-04-6426A | 02
04 | FL | ORANGE COUNTY * | 120095C0280 | 21-SEP-2001 | 01-04-6598A | 02
04 | FL | ORANGE COUNTY * | 12095C0290E | 26-SEP-2001 | 01-04-5948A | 01
04 | FL | ORANGE COUNTY * | 12095C0270E | 28-SEP-2001 | 01-04-5950A | 02
04 | FL | ORANGE COUNTY * | 12095C0150E | 28-SEP-2001 | 01-04-6420A | 02
04 | FL | ORANGE COUNTY * | 12095C0295E | 28-SEP-2001 | 01-04-5874A | 01
04 | FL | ORANGE COUNTY * | 12095C0415E | 03-OCT-2001 | 01-04-6500A | 02
04 | FL | ORANGE COUNTY * | 12095C0290E | 03-OCT-2001 | 01-04-6792A | 02
04 | FL | ORANGE COUNTY * | 12095C0290E | 10-OCT-2001 | 01-04-5878A | 01
04 | FL | ORANGE COUNTY * | 12095C0465E | 12-OCT-2001 | 01-04-5646A | 02
04 | FL | ORANGE COUNTY * | 12095C0050E | 12-OCT-2001 | 01-04-6402A | 02
04 | FL | ORANGE COUNTY * | 12095C0050E | 12-OCT-2001 | 01-04-6498A | 02
04 | FL | ORANGE COUNTY * | 12095C0430E | 12-OCT-2001 | 01-04-6602A | 02
04 | FL | ORANGE COUNTY * | 12095C0420E | 12-OCT-2001 | 01-04-6406A | 01
04 | FL | ORANGE COUNTY * | 12095C0375E | 17-OCT-2001 | 01-04-6230A | 02
04 | FL | ORANGE COUNTY * | 12095C0260E | 17-OCT-2001 | 01-04-6694A | 02
04 | FL | ORANGE COUNTY * | 12095C0260E | 17-OCT-2001 | 01-04-6794A | 02
04 | FL | ORANGE COUNTY * | 12095C0430E | 17-OCT-2001 | 01-04-6816A | 02
04 | FL | ORANGE COUNTY * | 12095C0440E | 17-OCT-2001 | 01-04-6508A | 01
04 | FL | ORANGE COUNTY * | 12095C0260E | 17-OCT-2001 | 01-04-6664A | 01
04 | FL | ORANGE COUNTY * | 12095C0260E | 19-OCT-2001 | 01-04-5902A | 02
04 | FL | ORANGE COUNTY * | 12095C0415E | 19-OCT-2001 | 02-04-0276A | 02
04 | FL | ORANGE COUNTY * | 12095C0410E | 24-OCT-2001 | 01-04-6790A | 02
04 | FL | ORANGE COUNTY * | 12095C0240E | 24-OCT-2001 | 01-04-7032A | 02
04 | FL | ORANGE COUNTY * | 12095C0280E | 24-OCT-2001 | 01-04-6404A | 01
04 | FL | ORANGE COUNTY * | 12095C0290E | 24-OCT-2001 | 01-04-6984A | 01
04 | FL | ORANGE COUNTY * | 12095C0290E | 31-OCT-2001 | 02-04-0906A | 01
04 | FL | ORANGE COUNTY * | 12095C0280E | 02-NOV-2001 | 01-04-6332A | 02
04 | FL | ORANGE COUNTY * | 12095C0420E | 02-NOV-2001 | 01-04-6586A | 02
04 | FL | ORANGE COUNTY * | 12095C0420E | 09-NOV-2001 | 01-04-6978A | 01
04 | FL | ORANGE COUNTY * | 12095C0280E | 09-NOV-2001 | 01-04-6980A | 01
04 | FL | ORANGE COUNTY * | 12095C0295E | 14-NOV-2001 | 02-04-0056A | 02
04 | FL | ORANGE COUNTY * | 12095C0270E | 14-NOV-2001 | 01-04-6942A | 01
04 | FL | ORANGE COUNTY * | 12095C0420E | 14-NOV-2001 | 01-04-6982A | 01
04 | FL | ORANGE COUNTY * | 12095C0280E | 14-NOV-2001 | 01-04-6986A | 01
04 | FL | ORANGE COUNTY * | 12095C0290E | 14-NOV-2001 | 01-04-6988A | 01
04 | FL | ORANGE COUNTY * | 12095C0235E | 16-NOV-2001 | 02-04-0214A | 02
04 | FL | ORANGE COUNTY * | 12095C0295E | 21-NOV-2001 | 02-04-0146A | 02
04 | FL | ORANGE COUNTY * | 12095C0240E | 21-NOV-2001 | 01-04-6524A | 02
04 | FL | ORANGE COUNTY * | 12095C0410E | 21-NOV-2001 | 02-04-0264A | 01
04 | FL | ORANGE COUNTY * | 12095C0150E | 28-NOV-2001 | 01-04-5734A | 02
04 | FL | ORANGE COUNTY * | 12095C0260E | 28-NOV-2001 | 01-04-6842A | 02
04 | FL | ORANGE COUNTY * | 12095C0380E | 28-NOV-2001 | 01-04-7038A | 02
04 | FL | ORANGE COUNTY * | 12095C0270E | 28-NOV-2001 | 01-04-7158A | 02
04 | FL | ORANGE COUNTY * | 12095C0150E | 28-NOV-2001 | 02-04-0058A | 02
04 | FL | ORANGE COUNTY * | 12095C0260E | 28-NOV-2001 | 02-04-0116A | 02
04 | FL | ORANGE COUNTY * | 12095C0220E | 28-NOV-2001 | 02-04-0180A | 02
04 | FL | ORANGE COUNTY * | 12095C0415E | 28-NOV-2001 | 02-04-0308A | 02
04 | FL | ORANGE COUNTY * | 12095C0295E | 28-NOV-2001 | 01-04-6370A | 01
04 | FL | ORANGE COUNTY * | 12095C0150E | 30-NOV-2001 | 01-04-7078A | 02
04 | FL | ORANGE COUNTY * | 12095C0420E | 30-NOV-2001 | 02-04-0420A | 02
04 | FL | ORANGE COUNTY * | 12095C0585E | 07-DEC-2001 | 02-04-0282A | 01
04 | FL | ORANGE COUNTY * | 12095C0585E | 07-DEC-2001 | 02-04-0284A | 01
04 | FL | ORANGE COUNTY * | 12095C0270E | 12-DEC-2001 | 02-04-0586A | 02
04 | FL | ORANGE COUNTY * | 12095C0580E | 12-DEC-2001 | 02-04-0378A | 01
04 | FL | ORANGE COUNTY * | 12095C0270E | 14-DEC-2001 | 02-04-0598A | 02
04 | FL | ORANGE COUNTY * | 12095C0410E | 19-DEC-2001 | 02-04-0474A | 01
04 | FL | ORANGE COUNTY * | 12095C0395E | 19-DEC-2001 | 02-04-0528A | 01
04 | FL | ORANGE COUNTY * | 12095C0385E | 28-DEC-2001 | 02-04-1390A | 02
04 | FL | ORANGE COUNTY * | 12095C0260E | 28-DEC-2001 | 02-04-0852A | 01
04 | FL | ORLANDO, CITY OF | 12095C0265E | 25-JUL-2001 | 01-04-4998A | 02
04 | FL | ORLANDO, CITY OF | 12095C0255E | 10-AUG-2001 | 01-04-5222A | 02
04 | FL | ORLANDO, CITY OF | 12095C0240E | 15-AUG-2001 | 01-04-4006A | 01
04 | FL | ORLANDO, CITY OF | 12095C0230E | 12-SEP-2001 | 01-04-4774A | 01
04 | FL | ORLANDO, CITY OF | 12095C0270E | 26-OCT-2001 | 01-04-3698A | 02
04 | FL | ORLANDO, CITY OF | 12095C0270E | 26-OCT-2001 | 01-04-4574A | 02
04 | FL | ORLANDO, CITY OF | 12095C0270E | 26-OCT-2001 | 01-04-4576A | 02
04 | FL | ORLANDO, CITY OF | 12095C0270E | 26-OCT-2001 | 01-04-4582A | 02
04 | FL | ORLANDO, CITY OF | 12095C0270E | 26-OCT-2001 | 01-04-6034A | 02
04 | FL | ORLANDO, CITY OF | 12095C0270E | 09-NOV-2001 | 01-04-4568A | 02
04 | FL | ORLANDO, CITY OF | 12095C0270E | 09-NOV-2001 | 01-04-4570A | 02
04 | FL | ORLANDO, CITY OF | 12095C0270E | 09-NOV-2001 | 01-04-4572A | 02
04 | FL | ORLANDO, CITY OF | 12095C0270E | 09-NOV-2001 | 01-04-4578A | 02
04 | FL | ORLANDO, CITY OF | 12095C0270E | 09-NOV-2001 | 01-04-4580A | 02
04 | FL | ORLANDO, CITY OF | 12095C0270E | 09-NOV-2001 | 02-04-0302A | 02
04 | FL | ORLANDO, CITY OF | 12095C0265E | 28-NOV-2001 | 01-04-7036A | 02
04 | FL | ORLANDO, CITY OF | 12095C0245E | 12-DEC-2001 | 02-04-0866A | 02
04 | FL | ORLANDO, CITY OF | 12095C0245E | 12-DEC-2001 | 02-04-0982A | 02
04 | FL | ORLANDO, CITY OF | 12095C0245E | 14-DEC-2001 | 02-04-1196A | 02
04 | FL | ORMOND BEACH, CITY OF | 1251360007D | 25-JUL-2001 | 01-04-5048A | 01
04 | FL | ORMOND BEACH, CITY OF | 1251360007D | 29-AUG-2001 | 01-04-6020A | 01
04 | FL | ORMOND BEACH, CITY OF | 1251360007D | 29-AUG-2001 | 01-04-6022A | 01
04 | FL | ORMOND BEACH, CITY OF | 1251360007D | 17-OCT-2001 | 01-04-3386A | 01
04 | FL | OSCEOLA COUNTY * | 12097C0400F | 05-JUL-2001 | 01-04-4500X | 02
04 | FL | OSCEOLA COUNTY * | 12097C0240F | 05-JUL-2001 | 01-04-4502X | 02
04 | FL | OSCEOLA COUNTY * | 12097C0240F | 05-JUL-2001 | 01-04-4504X | 02
04 | FL | OSCEOLA COUNTY * | 12097C0240F | 05-JUL-2001 | 01-04-4506X | 02
04 | FL | OSCEOLA COUNTY * | 12097C0240F | 05-JUL-2001 | 01-04-4508X | 02
04 | FL | OSCEOLA COUNTY * | 12097C0240F | 05-JUL-2001 | 01-04-4510X | 02
04 | FL | OSCEOLA COUNTY * | 12097C0240F | 05-JUL-2001 | 01-04-4512X | 02
04 | FL | OSCEOLA COUNTY * | 12097C0225F | 05-JUL-2001 | 01-04-4514X | 02
04 | FL | OSCEOLA COUNTY * | 12097C0240F | 05-JUL-2001 | 01-04-4516X | 02
04 | FL | OSCEOLA COUNTY * | 12097C0240F | 05-JUL-2001 | 01-04-4518X | 02
04 | FL | OSCEOLA COUNTY * | 12097C0240F | 05-JUL-2001 | 01-04-4520X | 02
04 | FL | OSCEOLA COUNTY * | 12097C0240F | 11-JUL-2001 | 01-04-4734A | 02
04 | FL | OSCEOLA COUNTY * | 12097C0240F | 08-AUG-2001 | 01-04-4736A | 02
04 | FL | OSCEOLA COUNTY * | 12097C0240F | 08-AUG-2001 | 01-04-4896A | 01
04 | FL | OSCEOLA COUNTY * | 12097C0240F | 15-AUG-2001 | 01-04-5546A | 02
04 | FL | OSCEOLA COUNTY * | 12097C0230F | 15-AUG-2001 | 01-04-5548A | 02
04 | FL | OSCEOLA COUNTY * | 12097C0240F | 15-AUG-2001 | 01-04-5550A | 02
04 | FL | OSCEOLA COUNTY * | 12097C0240F | 15-AUG-2001 | 01-04-5552A | 02
04 | FL | OSCEOLA COUNTY * | 12097C0240F | 15-AUG-2001 | 01-04-5728A | 02
04 | FL | OSCEOLA COUNTY * | 12097C0240F | 15-AUG-2001 | 01-04-5802A | 02
04 | FL | OSCEOLA COUNTY * | 12097C0240F | 17-AUG-2001 | 01-04-5554A | 02
04 | FL | OSCEOLA COUNTY * | 12097C0400F | 12-SEP-2001 | 01-04-6208A | 02
04 | FL | OSCEOLA COUNTY * | 12097C0240F | 19-SEP-2001 | 01-04-6394A | 02
04 | FL | OSCEOLA COUNTY * | 12097C0240F | 21-SEP-2001 | 01-04-6392A | 02
04 | FL | OSCEOLA COUNTY * | 12097C0120F | 12-OCT-2001 | 01-04-6686A | 02
04 | FL | OSCEOLA COUNTY * | 12097C0045F | 12-OCT-2001 | 01-04-6838A | 02
04 | FL | OSCEOLA COUNTY * | 12097C0065F | 19-OCT-2001 | 01-04-6076A | 01
04 | FL | OSCEOLA COUNTY * | 12097C0090F | 26-OCT-2001 | 01-04-7026A | 01
04 | FL | OSCEOLA COUNTY * | 12097C0400F | 31-OCT-2001 | 01-04-7190A | 02
04 | FL | OSCEOLA COUNTY * | 12097C0400F | 07-NOV-2001 | 02-04-0040A | 01
04 | FL | OSCEOLA COUNTY * | 12097C0400F | 09-NOV-2001 | 01-04-7192A | 02
04 | FL | OSCEOLA COUNTY * | 12097C0240F | 09-NOV-2001 | 01-04-7194A | 02
04 | FL | OSCEOLA COUNTY * | 12097C0240F | 09-NOV-2001 | 01-04-7196A | 02
04 | FL | OSCEOLA COUNTY * | 12097C0240F | 14-NOV-2001 | 02-04-0440A | 02
04 | FL | OSCEOLA COUNTY * | 12097C0400F | 14-NOV-2001 | 02-04-0442A | 02
04 | FL | OSCEOLA COUNTY * | 12097C0400F | 14-NOV-2001 | 02-04-0448A | 02
04 | FL | OSCEOLA COUNTY * | 12097C0400F | 16-NOV-2001 | 02-04-0446A | 02
04 | FL | OSCEOLA COUNTY * | 12097C0285F | 21-NOV-2001 | 02-04-0804A | 02
04 | FL | OSCEOLA COUNTY * | 12097C0040F | 28-NOV-2001 | 01-04-7150A | 02
04 | FL | OSCEOLA COUNTY * | 12097C0400F | 28-NOV-2001 | 02-04-0444A | 02
04 | FL | OSCEOLA COUNTY * | 12097C0030F | 07-DEC-2001 | 01-04-537P | 05
04 | FL | OSCEOLA COUNTY * | 12097C0120F | 12-DEC-2001 | 02-04-0654A | 02
04 | FL | OSCEOLA COUNTY * | 12097C0115F | 14-DEC-2001 | 02-04-0896A | 02
04 | FL | OSCEOLA COUNTY * | 12097C0090F | 19-DEC-2001 | 02-04-0576A | 01
04 | FL | OSCEOLA COUNTY * | 12097C0235F | 28-DEC-2001 | 01-04-6828A | 02
04 | FL | PALM BEACH COUNTY * | 1201920215A | 12-SEP-2001 | 01-04-6234A | 02
04 | FL | PALM BEACH COUNTY * | 1201920100B | 21-SEP-2001 | 01-04-5528A | 01
04 | FL | PALM BEACH COUNTY * | 1201920119B | 28-SEP-2001 | 01-04-5736A | 02
04 | FL | PALMETTO, CITY OF | 1201590003C | 05-DEC-2001 | 02-04-0406A | 02
04 | FL | PASCO COUNTY * | 1202300195D | 05-JUL-2001 | 01-04-3994A | 02
04 | FL | PASCO COUNTY * | 1202300360D | 05-JUL-2001 | 01-04-4000A | 02
04 | FL | PASCO COUNTY * | 1202300250E | 13-JUL-2001 | 01-04-4676A | 01
04 | FL | PASCO COUNTY * | 1202300450E | 18-JUL-2001 | 01-04-3380A | 01
04 | FL | PASCO COUNTY * | 1202300450E | 18-JUL-2001 | 01-04-4372X | 01
04 | FL | PASCO COUNTY * | 1202300425E | 27-JUL-2001 | 01-04-4992A | 02
04 | FL | PASCO COUNTY * | 1202300205D | 10-AUG-2001 | 01-04-5482A | 02
04 | FL | PASCO COUNTY * | 1202300050C | 15-AUG-2001 | 01-04-5686A | 02
04 | FL | PASCO COUNTY * | 1202300020C | 22-AUG-2001 | 01-04-5838A | 02
04 | FL | PASCO COUNTY * | 1202300354D | 22-AUG-2001 | 01-04-5840A | 02
04 | FL | PASCO COUNTY * | 1202300360D | 22-AUG-2001 | 01-04-5842A | 02
04 | FL | PASCO COUNTY * | 1202300425D | 22-AUG-2001 | 01-04-5832A | 01
04 | FL | PASCO COUNTY * | 1202300215D | 24-AUG-2001 | 01-04-6070A | 01
04 | FL | PASCO COUNTY * | 1202300425E | 31-AUG-2001 | 01-04-6082A | 02
04 | FL | PASCO COUNTY * | 1202300189C | 21-SEP-2001 | 01-04-5978A | 02
04 | FL | PASCO COUNTY * | 1202300250E | 21-SEP-2001 | 01-04-6342A | 02
04 | FL | PASCO COUNTY * | 1202300360D | 21-SEP-2001 | 01-04-6490A | 02
04 | FL | PASCO COUNTY * | 1202300352C | 21-SEP-2001 | 01-04-6396A | 01
04 | FL | PASCO COUNTY * | 1202300335C | 26-SEP-2001 | 01-04-6492A | 01
04 | FL | PASCO COUNTY * | 1202300352C | 03-OCT-2001 | 01-04-6684A | 02
04 | FL | PASCO COUNTY * | 1202300360D | 12-OCT-2001 | 01-04-6868A | 02
04 | FL | PASCO COUNTY * | 1202300195D | 17-OCT-2001 | 01-04-5976A | 02
04 | FL | PASCO COUNTY * | 1202300205D | 19-OCT-2001 | 01-04-7042A | 02
04 | FL | PASCO COUNTY * | 1202300360D | 24-OCT-2001 | 01-04-7092A | 01
04 | FL | PASCO COUNTY * | 1202300370D | 31-OCT-2001 | 01-04-7208A | 01
04 | FL | PASCO COUNTY * | 1202300400D | 02-NOV-2001 | 02-04-0112A | 01
04 | FL | PASCO COUNTY * | 1202300205D | 07-NOV-2001 | 01-04-6228A | 02
04 | FL | PASCO COUNTY * | 1202300195D | 07-NOV-2001 | 02-04-0150A | 02
04 | FL | PASCO COUNTY * | 1202300215D | 07-NOV-2001 | 02-04-0228A | 02
04 | FL | PASCO COUNTY * | 1202300360D | 07-NOV-2001 | 02-04-0250A | 02
04 | FL | PASCO COUNTY * | 1202300370D | 14-NOV-2001 | 02-04-0480A | 01
04 | FL | PASCO COUNTY * | 1202300370D | 16-NOV-2001 | 01-04-6084A | 01
04 | FL | PASCO COUNTY * | 1202300215D | 21-NOV-2001 | 02-04-1012A | 02
04 | FL | PASCO COUNTY * | 1202300425E | 28-NOV-2001 | 02-04-0556A | 02
04 | FL | PASCO COUNTY * | 1202300361C | 28-NOV-2001 | 02-04-0218A | 01
04 | FL | PASCO COUNTY * | 1202300360D | 30-NOV-2001 | 02-04-0128A | 01
04 | FL | PASCO COUNTY * | 1202300360D | 12-DEC-2001 | 02-04-0676A | 01
04 | FL | PINELLAS COUNTY * | 1251390079C | 01-AUG-2001 | 01-04-4334A | 01
04 | FL | PINELLAS COUNTY * | 1251390057C | 05-DEC-2001 | 02-04-0178A | 02
04 | FL | PINELLAS COUNTY * | 1251390081C | 05-DEC-2001 | 02-04-1166X | 01
04 | FL | PLANTATION, CITY OF | 12011C0215F | 21-NOV-2001 | 02-04-0704A | 02
04 | FL | POLK COUNTY* | 12105C0485F | 05-JUL-2001 | 01-04-4646A | 02
04 | FL | POLK COUNTY* | 12105C0320F | 11-JUL-2001 | 01-04-4168A | 02
04 | FL | POLK COUNTY* | 12105C0425F | 20-JUL-2001 | 01-04-5156A | 01
04 | FL | POLK COUNTY* | 12105C0480F | 25-JUL-2001 | 01-04-5064A | 02
04 | FL | POLK COUNTY* | 12105C0283F | 01-AUG-2001 | 01-04-5238A | 02
04 | FL | POLK COUNTY* | 12105C0292F | 03-AUG-2001 | 01-04-335P | 05
04 | FL | POLK COUNTY* | 12105C0175F | 03-AUG-2001 | 01-04-5120A | 02
04 | FL | POLK COUNTY* | 12105C0430F | 08-AUG-2001 | 01-04-4452A | 02
04 | FL | POLK COUNTY* | 12105C0283F | 08-AUG-2001 | 01-04-4898A | 02
04 | FL | POLK COUNTY* | 12105C0275F | 10-AUG-2001 | 01-04-5158A | 01
04 | FL | POLK COUNTY* | 12105C0281F | 15-AUG-2001 | 01-04-4730A | 02
04 | FL | POLK COUNTY* | 12105C0425F | 15-AUG-2001 | 01-04-5534A | 02
04 | FL | POLK COUNTY* | 12105C0357F | 15-AUG-2001 | 01-04-5628A | 02
04 | FL | POLK COUNTY* | 12105C0590F | 15-AUG-2001 | 01-04-5862A | 02
04 | FL | POLK COUNTY* | 12105C0368F | 20-AUG-2001 | 01-04-383P | 06
04 | FL | POLK COUNTY* | 12105C0425F | 22-AUG-2001 | 01-04-5536A | 02
04 | FL | POLK COUNTY* | 12105C0425F | 22-AUG-2001 | 01-04-5538A | 02
04 | FL | POLK COUNTY* | 12105C0425F | 22-AUG-2001 | 01-04-5540A | 02
04 | FL | POLK COUNTY* | 12105C0425F | 22-AUG-2001 | 01-04-5542A | 02
04 | FL | POLK COUNTY* | 12105C0425F | 22-AUG-2001 | 01-04-5544A | 02
04 | FL | POLK COUNTY* | 12105C0291F | 22-AUG-2001 | 01-04-5790A | 02
04 | FL | POLK COUNTY* | 12105C0175F | 24-AUG-2001 | 01-04-419P | 05
04 | FL | POLK COUNTY* | 12105C0302F | 24-AUG-2001 | 01-04-4374A | 02
04 | FL | POLK COUNTY* | 12105C0355F | 24-AUG-2001 | 01-04-5906A | 02
04 | FL | POLK COUNTY* | 12105C0302F | 29-AUG-2001 | 01-04-5980A | 02
04 | FL | POLK COUNTY* | 12105C0480F | 31-AUG-2001 | 01-04-4450A | 02
04 | FL | POLK COUNTY* | 12105C0485F | 05-SEP-2001 | 01-04-5982A | 02
04 | FL | POLK COUNTY* | 12105C0460F | 07-SEP-2001 | 01-04-5398A | 02
04 | FL | POLK COUNTY* | 12105C0284F | 07-SEP-2001 | 01-04-5806A | 02
04 | FL | POLK COUNTY* | 12105C0425F | 12-SEP-2001 | 01-04-5338A | 02
04 | FL | POLK COUNTY* | 12105C0510F | 12-SEP-2001 | 01-04-5792A | 02
04 | FL | POLK COUNTY* | 12105C0425F | 12-SEP-2001 | 01-04-6210A | 02
04 | FL | POLK COUNTY* | 12105C0535F | 14-SEP-2001 | 01-04-6290A | 02
04 | FL | POLK COUNTY* | 12105C0740F | 19-SEP-2001 | 01-04-5442A | 02
04 | FL | POLK COUNTY* | 12105C0250F | 19-SEP-2001 | 01-04-6344A | 02
04 | FL | POLK COUNTY* | 12105C0283F | 21-SEP-2001 | 01-04-5220A | 02
04 | FL | POLK COUNTY* | 12105C0485F | 21-SEP-2001 | 01-04-6172A | 02
04 | FL | POLK COUNTY* | 12105C0425F | 28-SEP-2001 | 01-04-6390A | 02
04 | FL | POLK COUNTY* | 12105C0485F | 28-SEP-2001 | 01-04-6606A | 02
04 | FL | POLK COUNTY* | 12105C0535F | 12-OCT-2001 | 01-04-4902A | 02
04 | FL | POLK COUNTY* | 12105C0369F | 17-OCT-2001 | 01-04-5396A | 02
04 | FL | POLK COUNTY* | 12105C0425F | 17-OCT-2001 | 01-04-6908A | 02
04 | FL | POLK COUNTY* | 12105C0425F | 17-OCT-2001 | 01-04-6910A | 02
04 | FL | POLK COUNTY* | 12105C0240F | 19-OCT-2001 | 01-04-6912A | 02
04 | FL | POLK COUNTY* | 12105C0250F | 19-OCT-2001 | 01-04-7128A | 02
04 | FL | POLK COUNTY* | 12105C0395F | 24-OCT-2001 | 01-04-5788A | 02
04 | FL | POLK COUNTY* | 12105C0535F | 24-OCT-2001 | 01-04-6072A | 02
04 | FL | POLK COUNTY* | 12105C0302F | 31-OCT-2001 | 01-04-6176A | 02
04 | FL | POLK COUNTY* | 12105C0590F | 31-OCT-2001 | 01-04-7176A | 02
04 | FL | POLK COUNTY* | 12105C0310F | 31-OCT-2001 | 01-04-7202A | 01
04 | FL | POLK COUNTY* | 12105C0480F | 02-NOV-2001 | 01-04-5988A | 02
04 | FL | POLK COUNTY* | 12105C0485F | 02-NOV-2001 | 01-04-7174A | 02
04 | FL | POLK COUNTY* | 12105C0335F | 02-NOV-2001 | 02-04-0148A | 02
04 | FL | POLK COUNTY* | 12105C0310F | 02-NOV-2001 | 02-04-0176A | 02
04 | FL | POLK COUNTY* | 12105C0530F | 09-NOV-2001 | 01-04-5458A | 02
04 | FL | POLK COUNTY* | 12105C0425F | 09-NOV-2001 | 02-04-1008A | 02
04 | FL | POLK COUNTY* | 12105C0460F | 14-NOV-2001 | 01-04-4900A | 02
04 | FL | POLK COUNTY* | 12105C0100F | 14-NOV-2001 | 01-04-5014A | 02
04 | FL | POLK COUNTY* | 13067C0035F | 21-NOV-2001 | 02-04-0438A | 02
04 | FL | POLK COUNTY* | 12105C0250F | 28-NOV-2001 | 01-04-6292A | 02
04 | FL | POLK COUNTY* | 12105C0530F | 30-NOV-2001 | 01-04-503P | 05
04 | FL | POLK COUNTY* | 12105C0510F | 30-NOV-2001 | 01-04-6614A | 02
04 | FL | POLK COUNTY* | 12105C0425F | 30-NOV-2001 | 02-04-0062A | 02
04 | FL | POLK COUNTY* | 12105C0275F | 05-DEC-2001 | 02-04-0064A | 01
04 | FL | POLK COUNTY* | 12105C0175F | 07-DEC-2001 | 02-04-0300A | 02
04 | FL | POLK COUNTY* | 12105C0425F | 14-DEC-2001 | 02-04-0624A | 02
04 | FL | POLK COUNTY* | 12105C0100F | 19-DEC-2001 | 01-04-6836A | 02
04 | FL | POLK COUNTY* | 12105C0480F | 19-DEC-2001 | 02-04-0212A | 02
04 | FL | POLK COUNTY* | 12105C0302F | 19-DEC-2001 | 02-04-1182A | 02
04 | FL | POLK COUNTY* | 12105C0480F | 19-DEC-2001 | 02-04-0984A | 02
04 | FL | POLK COUNTY* | 12105C0425F | 28-DEC-2001 | 01-04-461P | 06
04 | FL | PORT ORANGE, CITY OF | 1203130010C | 11-JUL-2001 | 01-04-4808A | 02
04 | FL | PORT ORANGE, CITY OF | 1251550409E | 28-SEP-2001 | 01-04-6538A | 01
04 | FL | PORT ORANGE, CITY OF | 1251550408E | 28-SEP-2001 | 01-04-6590A | 01
04 | FL | PORT ORANGE, CITY OF | 1203130005C | 03-OCT-2001 | 01-04-5834A | 02
04 | FL | PORT ORANGE, CITY OF | 1203130005C | 30-NOV-2001 | 01-04-6846A | 01
04 | FL | PORT ST. LUCIE, CITY OF | 12111C0410F | 21-SEP-2001 | 01-04-5844A | 02
04 | FL | ROCKLEDGE, CITY OF | 12009C0365E | 18-JUL-2001 | 01-04-4826A | 01
04 | FL | ROCKLEDGE, CITY OF | 12009C0365E | 18-JUL-2001 | 01-04-4828A | 01
04 | FL | SANTA ROSA COUNTY * | 1202740260B | 18-JUL-2001 | 01-04-4794A | 02
04 | FL | SANTA ROSA COUNTY * | 1202740342C | 27-NOV-2001 | 01-04-4314P | 06
04 | FL | SARASOTA COUNTY * | 1251440332E | 25-JUL-2001 | 01-04-2132A | 01
04 | FL | SARASOTA COUNTY * | 1251440342E | 01-AUG-2001 | 01-04-5144A | 01
04 | FL | SARASOTA COUNTY * | 1251440228E | 14-NOV-2001 | 02-04-0900A | 02
04 | FL | SARASOTA COUNTY * | 1251440153E | 14-NOV-2001 | 01-04-4910A | 02
04 | FL | SARASOTA COUNTY * | 1251440154E | 19-DEC-2001 | 02-04-0774A | 01
04 | FL | SARASOTA, CITY OF | 1251500008C | 28-NOV-2001 | 01-04-455P | 05
04 | FL | SEMINOLE COUNTY* | 12117C0160E | 11-JUL-2001 | 01-04-4728A | 02
04 | FL | SEMINOLE COUNTY* | 12117C0145E | 10-AUG-2001 | 01-04-5314A | 02
04 | FL | SEMINOLE COUNTY* | 12117C0145E | 17-AUG-2001 | 01-04-5606A | 02
04 | FL | SEMINOLE COUNTY* | 12117C0145E | 28-SEP-2001 | 01-04-6616A | 02
04 | FL | SEMINOLE COUNTY* | 12117C0145E | 28-SEP-2001 | 01-04-6688A | 02
04 | FL | SEMINOLE COUNTY* | 12117C0145E | 19-OCT-2001 | 01-04-7080A | 02
04 | FL | SEMINOLE COUNTY* | 12117C0120E | 24-OCT-2001 | 01-04-7090A | 02
04 | FL | SEMINOLE COUNTY* | 12117C0110E | 31-OCT-2001 | 01-04-7180A | 02
04 | FL | SEMINOLE COUNTY* | 12117C0145E | 31-OCT-2001 | 01-04-6566A | 01
04 | FL | ST. AUGUSTINE, CITY OF | 1251450003D | 07-NOV-2001 | 02-04-0600A | 02
04 | FL | ST. CLOUD, CITY OF | 12097C0252F | 21-NOV-2001 | 01-04-6778A | 02
04 | FL | ST. JOHNS COUNTY * | 1251470090D | 21-SEP-2001 | 01-04-6520A | 01
04 | FL | ST. JOHNS COUNTY * | 1251470183D | 02-NOV-2001 | 01-04-6386A | 02
04 | FL | ST. JOHNS COUNTY * | 1251470080D | 14-NOV-2001 | 02-04-0106A | 01
04 | FL | ST. JOHNS COUNTY * | 1251470085D | 12-DEC-2001 | 02-04-0462A | 01
04 | FL | ST. JOHNS COUNTY * | 1251470090D | 12-DEC-2001 | 02-04-0672A | 01
04 | FL | ST. JOHNS COUNTY * | 1251470095D | 14-DEC-2001 | 02-04-0570A | 01
04 | FL | ST. PETERSBURG, CITY OF | 1251390207C | 01-AUG-2001 | 01-04-5032A | 01
04 | FL | ST. PETERSBURG, CITY OF | 1251480034C | 07-NOV-2001 | 01-04-385P | 05
04 | FL | ST. PETERSBURG, CITY OF | 1251480004B | 07-DEC-2001 | 02-04-0566A | 01
04 | FL | ST. PETERSBURG, CITY OF | 1251390207C | 26-DEC-2001 | 02-04-1852A | 01
04 | FL | SUMTER COUNTY * | 1202960075B | 29-AUG-2001 | 01-04-5524A | 02
04 | FL | SUMTER COUNTY * | 1202960075B | 05-SEP-2001 | 01-04-5320A | 02
04 | FL | SUMTER COUNTY * | 1202960125B | 12-DEC-2001 | 01-04-7178A | 02
04 | FL | SUNRISE, CITY OF | 12011C0185F | 12-OCT-2001 | 01-04-6700A | 01
04 | FL | SUNRISE, CITY OF | 12011C0185F | 14-NOV-2001 | 02-04-0482X | 01
04 | FL | SUNRISE, CITY OF | 12011C0205F | 21-NOV-2001 | 02-04-0222A | 02
04 | FL | SUNRISE, CITY OF | 12011C0205F | 05-DEC-2001 | 02-04-0612A | 02
04 | FL | TALLAHASSEE, CITY OF | 12073C0140D | 21-NOV-2001 | 02-04-0560A | 02
04 | FL | TALLAHASSEE, CITY OF | 12073C0136D | 30-NOV-2001 | 01-04-7028A | 02
04 | FL | TAMARAC, CITY OF | 12011C0205F | 13-JUL-2001 | 01-04-4802A | 01
04 | FL | TAMARAC, CITY OF | 12011C0185F | 15-AUG-2001 | 01-04-5436A | 01
04 | FL | TAMARAC, CITY OF | 12011C0204F | 12-SEP-2001 | 01-04-3166A | 02
04 | FL | TAMARAC, CITY OF | 12011C0185F | 12-SEP-2001 | 01-04-6666X | 01
04 | FL | TAMARAC, CITY OF | 12011C0205F | 19-SEP-2001 | 01-04-5882A | 01
04 | FL | TAMPA, CITY OF | 1201140025C | 18-JUL-2001 | 01-04-4650A | 02
04 | FL | TAMPA, CITY OF | 1201140038C | 27-JUL-2001 | 01-04-4792A | 02
04 | FL | TAMPA, CITY OF | 1201140006C | 22-AUG-2001 | 01-04-5456A | 02
04 | FL | TAMPA, CITY OF | 1201140006C | 29-AUG-2001 | 01-04-5624A | 02
04 | FL | TAMPA, CITY OF | 1201120090E | 16-NOV-2001 | 02-04-0002A | 01
04 | FL | TAMPA, CITY OF | 1201120090E | 30-NOV-2001 | 01-04-3396A | 01
04 | FL | TAVARES, CITY OF | 1201380001B | 17-AUG-2001 | 01-04-5648A | 02
04 | FL | TAVARES, CITY OF | 1201380002B | 17-AUG-2001 | 01-04-5816A | 02
04 | FL | TAVARES, CITY OF | 1201380001B | 12-DEC-2001 | 02-04-0272A | 01
04 | FL | TITUSVILLE, CITY OF | 12009C0185F | 12-DEC-2001 | 02-04-0190A | 02
04 | FL | VALPARAISO, CITY OF | 1201760005C | 27-JUL-2001 | 01-04-4494A | 02
04 | FL | VALPARAISO, CITY OF | 1201760005C | 27-JUL-2001 | 01-04-4608A | 02
04 | FL | VALPARAISO, CITY OF | 1201760005C | 10-AUG-2001 | 01-04-5380A | 02
04 | FL | VOLUSIA COUNTY* | 1251550610E | 01-AUG-2001 | 01-04-5240A | 02
04 | FL | VOLUSIA COUNTY* | 1251550019F | 12-SEP-2001 | 01-04-3728A | 01
04 | FL | VOLUSIA COUNTY* | 1251550150E | 19-DEC-2001 | 02-04-0756A | 01
04 | FL | VOLUSIA COUNTY* | 1251550150E | 28-DEC-2001 | 02-04-0538A | 01
04 | FL | WAKULLA COUNTY * | 1203150250B | 03-OCT-2001 | 01-04-5464A | 02
04 | FL | WAKULLA COUNTY * | 1203150250B | 17-OCT-2001 | 01-04-5798A | 02
04 | FL | WALTON COUNTY * | 12131C0543F | 27-JUL-2001 | 01-04-4352A | 02
04 | FL | WALTON COUNTY * | 12131C0543F | 15-AUG-2001 | 01-04-5476A | 02
04 | FL | WALTON COUNTY * | 12131C0534F | 15-AUG-2001 | 01-04-5478A | 02
04 | FL | WALTON COUNTY * | 12131C0744F | 16-AUG-2001 | 01-04-3252A | 02
04 | FL | WALTON COUNTY * | 12131C0543F | 31-AUG-2001 | 01-04-5912A | 02
04 | FL | WALTON COUNTY * | 12131C0544F | 05-SEP-2001 | 01-04-6170A | 02
04 | FL | WALTON COUNTY * | 12131C0519F | 07-SEP-2001 | 01-04-5318A | 02
04 | FL | WALTON COUNTY * | 12131C0568F | 24-OCT-2001 | 01-04-5782A | 02
04 | FL | WALTON COUNTY * | 12131C0543F | 07-NOV-2001 | 01-04-6958A | 02
04 | FL | WALTON COUNTY * | 12131C0200F | 30-NOV-2001 | 02-04-0252A | 02
04 | FL | WALTON COUNTY * | 12131C0543F | 19-DEC-2001 | 02-04-0834X | 02
04 | FL | WEST PALM BEACH, CITY OF | 1201920150A | 20-JUL-2001 | 01-04-4298A | 01
04 | FL | WEST PALM BEACH, CITY OF | 1201920150A | 20-JUL-2001 | 01-04-4300A | 01
04 | FL | WILDWOOD, CITY OF | 1202990005C | 28-DEC-2001 | 02-04-0908A | 02
04 | FL | WINDERMERE, TOWN OF | 12095C0220E | 10-AUG-2001 | 01-04-5622A | 02
04 | FL | WINTER GARDEN, CITY OF | 12095C0215E | 05-SEP-2001 | 01-04-2520A | 01
04 | FL | WINTER GARDEN, CITY OF | 12095C0215E | 12-OCT-2001 | 01-04-6506A | 02
04 | FL | WINTER GARDEN, CITY OF | 12095C0215E | 24-OCT-2001 | 01-04-5662A | 01
04 | FL | WINTER HAVEN, CITY OF | 12105C0365F | 17-AUG-2001 | 01-04-5154A | 02
04 | FL | WINTER HAVEN, CITY OF | 12105C0368F | 20-AUG-2001 | 01-04-383P | 06
04 | FL | WINTER PARK, CITY OF | 12095C0255E | 20-JUL-2001 | 01-04-4462A | 02
04 | FL | WINTER PARK, CITY OF | 12095C0255E | 17-OCT-2001 | 01-04-6696A | 02
04 | GA | ACWORTH, CITY OF | 13067C0025F | 12-SEP-2001 | 01-04-5940A | 01
04 | GA | ALBANY, CITY OF | 13095C0085D | 06-OCT-2001 | 01-04-7098V | 19
04 | GA | ALBANY, CITY OF | 13095C0105D | 06-OCT-2001 | 01-04-7098V | 19
04 | GA | ALBANY, CITY OF | 13095C0110D | 06-OCT-2001 | 01-04-7098V | 19
04 | GA | ALPHARETTA, CITY OF | 13121C0054E | 05-OCT-2001 | 01-04-7020A | 02
04 | GA | ALPHARETTA, CITY OF | 13121C0066E | 19-OCT-2001 | 01-04-5590A | 01
04 | GA | AMERICUS, CITY OF | 13261C0154B | 12-SEP-2001 | 01-04-6016A | 02
04 | GA | AMERICUS, CITY OF | 13261C0154B | 31-OCT-2001 | 02-04-1004A | 02
04 | GA | ATLANTA, CITY OF | 13121C0253E | 27-JUL-2001 | 01-04-4820A | 02
04 | GA | ATLANTA, CITY OF | 13121C0353E | 26-SEP-2001 | 01-04-5864A | 02
04 | GA | ATLANTA, CITY OF | 13089C0062H | 03-OCT-2001 | 01-04-6274A | 02
04 | GA | ATLANTA, CITY OF | 13121C0233E | 21-NOV-2001 | 02-04-0326A | 02
04 | GA | AUGUSTA, CITY OF | 1301580020E | 18-JUL-2001 | 01-04-4338A | 01
04 | GA | AUGUSTA, CITY OF | 1301580070E | 07-DEC-2001 | 02-04-1172A | 02
04 | GA | AUGUSTA, CITY OF | 1301580060E | 14-DEC-2001 | 02-04-1218A | 02
04 | GA | AUSTELL, CITY OF | 1300540005C | 18-JUL-2001 | 01-04-4356A | 02
04 | GA | BALDWIN COUNTY* | 1300050050B | 20-JUL-2001 | 01-04-4626A | 02
04 | GA | BALDWIN COUNTY* | 1300050025B | 01-AUG-2001 | 01-04-4886A | 02
04 | GA | BALDWIN COUNTY* | 1300050075B | 31-AUG-2001 | 01-04-5890A | 02
04 | GA | BALDWIN COUNTY* | 1300050075B | 19-SEP-2001 | 01-04-5682A | 02
04 | GA | BALDWIN COUNTY* | 1300050075B | 28-DEC-2001 | 02-04-1682A | 02
04 | GA | BARROW COUNTY* | 1304970050A | 25-OCT-2001 | 01-04-083P | 05
04 | GA | BARTOW COUNTY * | 13015C0095F | 01-AUG-2001 | 01-04-4948A | 02
04 | GA | BARTOW COUNTY * | 13015C0095F | 24-AUG-2001 | 01-04-5808A | 02
04 | GA | BRYAN COUNTY * | 1300160310A | 28-DEC-2001 | 02-04-0396A | 02
04 | GA | BULLOCH COUNTY* | 1300190200B | 07-DEC-2001 | 02-04-0410A | 02
04 | GA | CHAMBLEE, CITY OF | 13089C0018H | 17-AUG-2001 | 01-04-5332A | 02
04 | GA | CHATHAM COUNTY* | 1300300075C | 18-JUL-2001 | 01-04-4124A | 02
04 | GA | CHATHAM COUNTY* | 1300300080C | 15-AUG-2001 | 01-04-5684A | 02
04 | GA | CHATHAM COUNTY* | 1300300075C | 19-DEC-2001 | 02-04-1336A | 02
04 | GA | CHEROKEE COUNTY * | 13057C0255B | 17-OCT-2001 | 01-04-5020A | 02
04 | GA | CHEROKEE COUNTY * | 13057C0275B | 17-OCT-2001 | 01-04-6202A | 02
04 | GA | CHICKAMAUGA, CITY OF | 1301810001C | 19-SEP-2001 | 01-04-5952A | 02
04 | GA | CLARKSTON, CITY OF | 13089C0078H | 19-OCT-2001 | 01-04-6632A | 02
04 | GA | COBB COUNTY * | 13067C0015F | 12-OCT-2001 | 01-04-6798A | 02
04 | GA | COBB COUNTY * | 13067C0030F | 17-OCT-2001 | 01-04-6242A | 02
04 | GA | COBB COUNTY * | 13067C0050F | 17-OCT-2001 | 01-04-6266A | 02
04 | GA | COBB COUNTY * | 13067C0035F | 17-OCT-2001 | 01-04-6304A | 02
04 | GA | COBB COUNTY * | 13067C0035F | 17-OCT-2001 | 01-04-6306A | 02
04 | GA | COBB COUNTY * | 13067C0085F | 31-OCT-2001 | 01-04-7044A | 02
04 | GA | COBB COUNTY* | 13067C0035F | 05-JUL-2001 | 01-04-4936A | 02
04 | GA | COBB COUNTY* | 13067C0050F | 05-JUL-2001 | 01-04-4258A | 17
04 | GA | COBB COUNTY* | 13067C0035F | 11-JUL-2001 | 01-04-3072A | 02
04 | GA | COBB COUNTY* | 13067C0035F | 11-JUL-2001 | 01-04-3302A | 02
04 | GA | COBB COUNTY* | 13067C0055F | 11-JUL-2001 | 01-04-3770A | 02
04 | GA | COBB COUNTY* | 13067C0035F | 13-JUL-2001 | 01-04-3162A | 02
04 | GA | COBB COUNTY* | 13067C0075F | 20-JUL-2001 | 01-04-4402A | 02
04 | GA | COBB COUNTY* | 13067C0050F | 20-JUL-2001 | 01-04-4622A | 02
04 | GA | COBB COUNTY* | 13067C0030F | 25-JUL-2001 | 01-04-4804A | 01
04 | GA | COBB COUNTY* | 13067C0035F | 27-JUL-2001 | 01-04-4758A | 02
04 | GA | COBB COUNTY* | 13067C0070F | 01-AUG-2001 | 01-04-4122A | 02
04 | GA | COBB COUNTY* | 13067C0025F | 03-AUG-2001 | 01-04-5186A | 02
04 | GA | COBB COUNTY* | 13067C0015F | 15-AUG-2001 | 01-04-2580A | 02
04 | GA | COBB COUNTY* | 13067C0025F | 22-AUG-2001 | 01-04-5180A | 02
04 | GA | COBB COUNTY* | 13067C0015F | 29-AUG-2001 | 01-04-4892A | 02
04 | GA | COBB COUNTY* | 13067C0010F | 07-SEP-2001 | 01-04-5660A | 02
04 | GA | COBB COUNTY* | 13067C0040F | 12-SEP-2001 | 01-04-4308A | 02
04 | GA | COBB COUNTY* | 13067C0010F | 12-SEP-2001 | 01-04-5658A | 02
04 | GA | COBB COUNTY* | 13067C0075F | 14-SEP-2001 | 01-04-4260A | 02
04 | GA | COBB COUNTY* | 13067C0035F | 14-SEP-2001 | 01-04-6178A | 01
04 | GA | COBB COUNTY* | 13067C0030F | 21-SEP-2001 | 01-04-6146A | 02
04 | GA | COBB COUNTY* | 13067C0060F | 26-SEP-2001 | 01-04-2468A | 02
04 | GA | COBB COUNTY* | 13067C0050F | 28-SEP-2001 | 01-04-6002A | 02
04 | GA | COBB COUNTY* | 13067C0050F | 28-SEP-2001 | 01-04-6004A | 02
04 | GA | COBB COUNTY* | 13067C0035F | 03-OCT-2001 | 01-04-6058A | 02
04 | GA | COBB COUNTY* | 13067C0040F | 03-OCT-2001 | 01-04-6948A | 02
04 | GA | COBB COUNTY* | 13067C0035F | 14-NOV-2001 | 01-04-5942A | 02
04 | GA | COBB COUNTY* | 13067C0085F | 21-NOV-2001 | 02-04-0414A | 02
04 | GA | COBB COUNTY* | 13067C0055F | 05-DEC-2001 | 02-04-0204A | 02
04 | GA | COBB COUNTY* | 13067C0025F | 05-DEC-2001 | 02-04-0590A | 02
04 | GA | COBB COUNTY* | 13067C0070F | 19-DEC-2001 | 02-04-0644A | 02
04 | GA | COBB COUNTY* | 13067C0015F | 28-DEC-2001 | 02-04-0298A | 02
04 | GA | COBB COUNTY* | 13067C0035F | 28-DEC-2001 | 02-04-1368A | 02
04 | GA | COBB COUNTY* | 13067C0080F | 28-DEC-2001 | 02-04-1642A | 02
04 | GA | COLUMBIA COUNTY* | 1300590090B | 18-OCT-2001 | 01-04-363P | 05
04 | GA | COLUMBIA COUNTY* | 1300590150A | 01-NOV-2001 | 01-04-293P | 05
04 | GA | COLUMBUS, CITY OF | 1351580050D | 10-OCT-2001 | 01-04-7112A | 01
04 | GA | COLUMBUS, CITY OF | 1351580075D | 24-OCT-2001 | 02-04-0074A | 02
04 | GA | COOK COUNTY* | 1305010050A | 31-AUG-2001 | 01-04-5428A | 02
04 | GA | COOK COUNTY* | 13075C0100B | 07-DEC-2001 | 02-04-1492V | 19
04 | GA | COOK COUNTY* | 13075C0100B | 14-DEC-2001 | 01-04-6096A | 02
04 | GA | COWETA COUNTY * | 1302980145A | 11-JUL-2001 | 01-04-4550A | 02
04 | GA | CRISP COUNTY * | 1305040075A | 14-DEC-2001 | 01-04-7010A | 02
04 | GA | CRISP COUNTY* | 1305040025A | 19-DEC-2001 | 01-04-6062A | 02
04 | GA | DAWSON COUNTY | 1303040100A | 28-NOV-2001 | 01-04-5188A | 02
04 | GA | DE KALB COUNTY * | 13089C0062 | 11-JUL-2001 | 01-04-4566A | 02
04 | GA | DE KALB COUNTY * | 13089C0154H | 13-JUL-2001 | 01-04-3872A | 02
04 | GA | DE KALB COUNTY * | 13089C0153H | 18-JUL-2001 | 01-04-2752A | 02
04 | GA | DE KALB COUNTY * | 13089C0016H | 03-AUG-2001 | 01-04-3404A | 17
04 | GA | DE KALB COUNTY * | 13089C0081H | 22-AUG-2001 | 01-04-4492A | 19
04 | GA | DE KALB COUNTY * | 13089C0016H | 14-SEP-2001 | 01-04-6268A | 02
04 | GA | DE KALB COUNTY * | 13089C0014H | 05-OCT-2001 | 01-04-6574A | 02
04 | GA | DE KALB COUNTY * | 13089C0057H | 10-OCT-2001 | 01-04-7154A | 02
04 | GA | DE KALB COUNTY * | 13089C0069H | 24-OCT-2001 | 01-04-6264A | 02
04 | GA | DE KALB COUNTY * | 13089C0089H | 21-NOV-2001 | 02-04-0592A | 02
04 | GA | DE KALB COUNTY * | 13089C0056H | 12-DEC-2001 | 02-04-1124A | 02
04 | GA | DECATUR, CITY OF | 13089C0066H | 11-JUL-2001 | 01-04-4250A | 02
04 | GA | DECATUR, CITY OF | 13089C0066H | 21-NOV-2001 | 02-04-0458A | 02
04 | GA | DEKALB COUNTY * | 13089C0113H | 12-OCT-2001 | 01-04-6674A | 02
04 | GA | DEKALB COUNTY * | 13089C0019H | 19-OCT-2001 | 01-04-5182A | 02
04 | GA | DEKALB COUNTY * | 13089C0094H | 19-OCT-2001 | 01-04-6738A | 02
04 | GA | DEKALB COUNTY * | 13089C0067H | 31-OCT-2001 | 01-04-6462A | 02
04 | GA | DEKALB COUNTY * | 13089C0152H | 07-DEC-2001 | 01-04-7058A | 02
04 | GA | DOUGLAS COUNTY * | 1303060015A | 29-AUG-2001 | 01-04-5088A | 02
04 | GA | EAST POINT, CITY OF | 13121C0344E | 24-AUG-2001 | 01-04-297P | 05
04 | GA | FANNIN COUNTY | 13111C0045D | 12-SEP-2001 | 01-04-4762A | 02
04 | GA | FAYETTE COUNTY * | 13113C0080D | 26-SEP-2001 | 01-04-4668A | 02
04 | GA | FAYETTE COUNTY * | 13113C0090D | 03-OCT-2001 | 01-04-6144A | 02
04 | GA | FAYETTE COUNTY * | 13113C0040D | 05-DEC-2001 | 01-04-5700A | 02
04 | GA | FLOYD COUNTY* | 13115C0185D | 21-NOV-2001 | 01-04-5762A | 02
04 | GA | FLOYD COUNTY* | 13115C0260D | 05-DEC-2001 | 01-04-5780A | 02
04 | GA | FLOYD COUNTY* | 13115C0185D | 05-DEC-2001 | 02-04-0602A | 02
04 | GA | FORSYTH COUNTY * | 13117C0075C | 25-JUL-2001 | 01-04-4690A | 02
04 | GA | FORSYTH COUNTY * | 13117C0125C | 27-JUL-2001 | 01-04-3446A | 02
04 | GA | FORSYTH COUNTY * | 13117C0075C | 14-SEP-2001 | 01-04-5326A | 02
04 | GA | FORSYTH COUNTY * | 13117C0090C | 17-OCT-2001 | 01-04-6454A | 02
04 | GA | FORSYTH COUNTY * | 13117C0075C | 21-NOV-2001 | 02-04-0798A | 02
04 | GA | FORT OGLETHORPE, CITY OF | 1300280025D | 19-DEC-2001 | 02-04-0864A | 01
04 | GA | FULTON COUNTY * | 13121C0331E | 19-SEP-2001 | 01-04-6458A | 02
04 | GA | FULTON COUNTY * | 13121C0142E | 19-OCT-2001 | 01-04-4978A | 02
04 | GA | FULTON COUNTY * | 13121C0087E | 12-DEC-2001 | 02-04-0352A | 02
04 | GA | FULTON COUNTY * | 13121C0160E | 19-DEC-2001 | 02-04-0708A | 02
04 | GA | FULTON COUNTY * | 13121C0163D | 21-DEC-2001 | 02-04-1398A | 02
04 | GA | GAINESVILLE, CITY OF | 13139C0180E | 14-SEP-2001 | 01-04-6548A | 02
04 | GA | GLYNN COUNTY * | 1300920207C | 14-NOV-2001 | 01-04-7198A | 02
04 | GA | GWINNETT COUNTY * | 1303220195C | 11-JUL-2001 | 01-04-3876A | 02
04 | GA | GWINNETT COUNTY * | 1303220185C | 25-JUL-2001 | 01-04-4304A | 02
04 | GA | GWINNETT COUNTY * | 1303220160E | 25-JUL-2001 | 01-04-4348A | 02
04 | GA | GWINNETT COUNTY * | 1303220215C | 01-AUG-2001 | 01-04-2810A | 02
04 | GA | GWINNETT COUNTY * | 1303220195C | 10-AUG-2001 | 01-04-4972A | 02
04 | GA | GWINNETT COUNTY * | 1303220285C | 29-AUG-2001 | 01-04-5324A | 02
04 | GA | GWINNETT COUNTY * | 1303220085C | 05-SEP-2001 | 01-04-3402A | 02
04 | GA | GWINNETT COUNTY * | 1303220170C | 14-SEP-2001 | 01-04-4890A | 02
04 | GA | GWINNETT COUNTY * | 1303220305C | 20-SEP-2001 | 01-04-295P | 05
04 | GA | GWINNETT COUNTY * | 1303220095A | 21-SEP-2001 | 01-04-6244A | 02
04 | GA | GWINNETT COUNTY * | 1303220195C | 26-SEP-2001 | 01-04-6060A | 02
04 | GA | GWINNETT COUNTY * | 1303220195C | 03-OCT-2001 | 01-04-3366A | 02
04 | GA | GWINNETT COUNTY * | 1303220160E | 03-OCT-2001 | 01-04-6302A | 02
04 | GA | GWINNETT COUNTY * | 1303220190C | 03-OCT-2001 | 01-04-7062A | 02
04 | GA | GWINNETT COUNTY * | 1303220155D | 09-OCT-2001 | 01-04-187P | 05
04 | GA | GWINNETT COUNTY * | 1303220190C | 17-OCT-2001 | 01-04-6718A | 02
04 | GA | GWINNETT COUNTY * | 1303220205C | 01-NOV-2001 | 01-04-313P | 05
04 | GA | GWINNETT COUNTY * | 1303220085C | 14-NOV-2001 | 01-04-5496A | 02
04 | GA | GWINNETT COUNTY * | 1303220085C | 16-NOV-2001 | 01-04-6434A | 02
04 | GA | GWINNETT COUNTY * | 1303220090C | 29-NOV-2001 | 01-04-255P | 05
04 | GA | HALL COUNTY * | 13139C0281E | 11-JUL-2001 | 01-04-3706A | 02
04 | GA | HALL COUNTY * | 13139C0312E | 11-JUL-2001 | 01-04-4330A | 02
04 | GA | HALL COUNTY * | 13139C0312E | 27-JUL-2001 | 01-04-4430A | 02
04 | GA | HALL COUNTY * | 13139C0312E | 27-JUL-2001 | 01-04-4672A | 02
04 | GA | HALL COUNTY * | 13139C0175E | 01-AUG-2001 | 01-04-3772A | 02
04 | GA | HALL COUNTY * | 13139C0275E | 08-AUG-2001 | 01-04-4712A | 02
04 | GA | HALL COUNTY * | 13139C0180E | 10-AUG-2001 | 01-04-4760A | 02
04 | GA | HALL COUNTY * | 13139C0300G | 22-AUG-2001 | 01-04-4426A | 02
04 | GA | HALL COUNTY * | 13139C0294E | 29-AUG-2001 | 01-04-5720A | 02
04 | GA | HALL COUNTY * | 13139C0356E | 31-AUG-2001 | 01-04-5006A | 02
04 | GA | HALL COUNTY * | 13139C0300E | 19-SEP-2001 | 01-04-5466A | 02
04 | GA | HALL COUNTY * | 13139C0183E | 19-OCT-2001 | 01-04-5676A | 02
04 | GA | HALL COUNTY * | 13139C0294E | 19-DEC-2001 | 02-04-0726A | 02
04 | GA | HALL COUNTY * | 13139C0300E | 21-DEC-2001 | 02-04-1526A | 02
04 | GA | HARRIS COUNTY * | 1303380150A | 19-OCT-2001 | 02-04-0286A | 02
04 | GA | HARRIS COUNTY* | 1303380250A | 18-JUL-2001 | 01-04-3962A | 02
04 | GA | HARRIS COUNTY* | 1303380175A | 08-AUG-2001 | 01-04-4434A | 02
04 | GA | HARRIS COUNTY* | 1303380150A | 29-AUG-2001 | 01-04-4840A | 02
04 | GA | HARRIS COUNTY* | 1303380150A | 21-NOV-2001 | 01-04-6010A | 02
04 | GA | HARRIS COUNTY* | 1303380150A | 21-NOV-2001 | 01-04-6012A | 02
04 | GA | HARRIS COUNTY* | 1303380150A | 21-NOV-2001 | 02-04-0796A | 02
04 | GA | HARRIS COUNTY* | 1303380150A | 19-DEC-2001 | 02-04-0710A | 02
04 | GA | HENRY COUNTY * | 1304680070B | 10-OCT-2001 | 01-04-6046A | 02
04 | GA | KENNESAW, CITY OF | 13067C0025F | 27-JUL-2001 | 01-04-4472A | 02
04 | GA | KENNESAW, CITY OF | 13067C0030F | 03-OCT-2001 | 01-04-5636A | 02
04 | GA | KENNESAW, CITY OF | 13067C0030F | 14-DEC-2001 | 02-04-0946A | 02
04 | GA | LEE COUNTY * | 1301220250B | 07-DEC-2001 | 02-04-0948A | 02
04 | GA | LEE COUNTY* | 1301220250B | 12-OCT-2001 | 01-04-6920A | 02
04 | GA | LUMPKIN COUNTY | 1303540125A | 07-SEP-2001 | 01-04-5814A | 02
04 | GA | MACON, CITY OF | 1300110010D | 26-OCT-2001 | 01-04-4928A | 01
04 | GA | MARIETTA, CITY OF | 13067C0035F | 03-OCT-2001 | 01-04-3704A | 02
04 | GA | MARIETTA, CITY OF | 13067C0035F | 03-OCT-2001 | 01-04-7060A | 02
04 | GA | MONROE, CITY OF | 13297C0113B | 07-DEC-2001 | 01-04-6882A | 02
04 | GA | NEWTON COUNTY * | 1301430020A | 10-OCT-2001 | 01-04-5330A | 02
04 | GA | NEWTON COUNTY * | 1301430085A | 24-OCT-2001 | 02-04-0136A | 02
04 | GA | OCONEE COUNTY * | 1304530040B | 03-OCT-2001 | 01-04-6636A | 02
04 | GA | OXFORD, TOWN OF | 130367H | 19-SEP-2001 | 01-04-5970A | 01
04 | GA | OXFORD, TOWN OF | 130367—01H | 19-OCT-2001 | 02-04-0402A | 01
04 | GA | PEACHTREE CITY, CITY OF | 13113C0080D | 12-SEP-2001 | 01-04-4468A | 17
04 | GA | POOLER, TOWN OF | 1300300075C | 28-SEP-2001 | 01-04-6050A | 02
04 | GA | POWDER SPRINGS, CITY OF | 13067C0065F | 11-JUL-2001 | 01-04-3676A | 02
04 | GA | POWDER SPRINGS, CITY OF | 13067C0065F | 10-OCT-2001 | 01-04-4888A | 02
04 | GA | RICHMOND COUNTY* | 1301580060E | 11-JUL-2001 | 01-04-3804A | 02
04 | GA | RICHMOND COUNTY* | 1301580020E | 10-AUG-2001 | 01-04-5114A | 02
04 | GA | RICHMOND COUNTY* | 1301580060E | 24-AUG-2001 | 01-04-5328A | 02
04 | GA | ROCKDALE COUNTY * | 13247C0114C | 29-AUG-2001 | 01-04-5450A | 02
04 | GA | ROME, CITY OF | 13115C0195D | 27-JUL-2001 | 01-04-4970A | 02
04 | GA | ROME, CITY OF | 13115C0190D | 14-SEP-2001 | 01-04-6634A | 02
04 | GA | ROSWELL, CITY OF | 13121C0061E | 27-JUL-2001 | 01-04-4078A | 02
04 | GA | SMYRNA, CITY OF | 13067C0075F | 29-AUG-2001 | 01-04-5868A | 02
04 | GA | SMYRNA, CITY OF | 13067C0070F | 29-AUG-2001 | 01-04-5968A | 02
04 | GA | ST. MARYS, CITY OF | 13039C0455D | 10-AUG-2001 | 01-04-4262A | 02
04 | GA | STAPLETON, CITY OF | 130433—02A | 01-AUG-2001 | 01-04-3552A | 02
04 | GA | SUWANEE, CITY OF | 1303280002A | 05-OCT-2001 | 01-04-6878A | 02
04 | GA | SUWANEE, CITY OF | 1303280002A | 21-DEC-2001 | 02-04-1410A | 02
04 | GA | UNION COUNTY * | 1302540025C | 31-OCT-2001 | 02-04-0154A | 02
04 | GA | UNION COUNTY* | 1302540079C | 26-SEP-2001 | 01-04-4666A | 02
04 | GA | WALTON COUNTY * | 13297C0100B | 19-SEP-2001 | 01-04-6270A | 02
04 | GA | WORTH COUNTY* | 1301960175B | 16-NOV-2001 | 00-04-213P | 06
04 | KY | BALLARD COUNTY * | 2102680205B | 01-AUG-2001 | 01-04-4302A | 02
04 | KY | BENTON, CITY OF | 310163B | 10-OCT-2001 | 01-04-4470A | 02
04 | KY | BOWLING GREEN, CITY OF | 21227C0105D | 17-AUG-2001 | 01-04-5858A | 02
04 | KY | CAMPBELL COUNTY * | 2100340105B | 15-AUG-2001 | 01-04-5296A | 02
04 | KY | CAMPBELL COUNTY * | 2100340180B | 19-DEC-2001 | 02-04-0646A | 02
04 | KY | CAMPBELL COUNTY * | 2100340095B | 28-DEC-2001 | 02-04-0830A | 02
04 | KY | CARROLL COUNTY * | 2100450010B | 19-OCT-2001 | 01-04-4756A | 02
04 | KY | DAVIESS COUNTY * | 21059C0285C | 01-OCT-2001 | 01-04-471P | 05
04 | KY | GREENUP COUNTY* | 2102840060B | 18-JUL-2001 | 01-04-3864A | 02
04 | KY | JEFFERSON COUNTY * | 21111C0095D | 10-OCT-2001 | 01-04-5248A | 02
04 | KY | JEFFERSON COUNTY* | 21111C0085D | 13-JUL-2001 | 01-04-4942A | 02
04 | KY | JEFFERSON COUNTY* | 21111C0095D | 18-JUL-2001 | 01-04-5202A | 02
04 | KY | JEFFERSON COUNTY* | 21111C0080D | 20-JUL-2001 | 00-04-225P | 05
04 | KY | JEFFERSON COUNTY* | 21111C0095D | 20-JUL-2001 | 01-04-5204A | 02
04 | KY | JEFFERSON COUNTY* | 21111C0015D | 25-JUL-2001 | 01-04-4290A | 01
04 | KY | JEFFERSON COUNTY* | 21111C0170D | 27-JUL-2001 | 01-04-4408A | 02
04 | KY | JEFFERSON COUNTY* | 21111C0170D | 27-JUL-2001 | 01-04-4410A | 02
04 | KY | JEFFERSON COUNTY* | 21111C0170D | 27-JUL-2001 | 01-04-4412A | 02
04 | KY | JEFFERSON COUNTY* | 21111C0170D | 27-JUL-2001 | 01-04-4414A | 02
04 | KY | JEFFERSON COUNTY* | 21111C0080D | 01-AUG-2001 | 01-04-5366A | 02
04 | KY | JEFFERSON COUNTY* | 21111C0255D | 01-AUG-2001 | 01-04-5368A | 02
04 | KY | JEFFERSON COUNTY* | 21111C0160D | 08-AUG-2001 | 01-04-5082A | 02
04 | KY | JEFFERSON COUNTY* | 21111C0115D | 08-AUG-2001 | 01-04-5468A | 02
04 | KY | JEFFERSON COUNTY* | 21111C0120D | 10-AUG-2001 | 01-04-4238A | 02
04 | KY | JEFFERSON COUNTY* | 21111C0015D | 17-AUG-2001 | 01-04-4292A | 02
04 | KY | JEFFERSON COUNTY* | 21111C0080D | 17-AUG-2001 | 01-04-6018A | 02
04 | KY | JEFFERSON COUNTY* | 21111C0170D | 24-AUG-2001 | 01-04-5860X | 02
04 | KY | JEFFERSON COUNTY* | 21111C0170D | 07-SEP-2001 | 01-04-6040A | 02
04 | KY | JEFFERSON COUNTY* | 21111C0170D | 12-SEP-2001 | 01-04-6314A | 02
04 | KY | JEFFERSON COUNTY* | 21111C0080D | 19-SEP-2001 | 01-04-6756A | 02
04 | KY | JEFFERSON COUNTY* | 21111C0085D | 19-SEP-2001 | 01-04-6764A | 02
04 | KY | JEFFERSON COUNTY* | 21111C0080D | 03-OCT-2001 | 01-04-6672A | 02
04 | KY | JEFFERSON COUNTY* | 21111C0020D | 19-OCT-2001 | 02-04-0080A | 02
04 | KY | JEFFERSON COUNTY* | 21111C0085D | 19-OCT-2001 | 02-04-0084A | 02
04 | KY | JEFFERSON COUNTY* | 21111C0020D | 14-NOV-2001 | 02-04-0464A | 02
04 | KY | JEFFERSON COUNTY* | 21111C0180D | 16-NOV-2001 | 02-04-0582A | 02
04 | KY | JEFFERSON COUNTY* | 21111C0085D | 05-DEC-2001 | 02-04-0828A | 02
04 | KY | JEFFERSON COUNTY* | 21111C0095D | 07-DEC-2001 | 01-04-433P | 05
04 | KY | JEFFERSON COUNTY* | 21111C0170D | 12-DEC-2001 | 02-04-0490A | 02
04 | KY | JEFFERSON COUNTY* | 21111C0160D | 19-DEC-2001 | 02-04-1400A | 02
04 | KY | LEXINGTON-FAYETTE URBAN COUNT | 2100670070C | 19-SEP-2001 | 01-04-5570A | 17
04 | KY | LEXINGTON-FAYETTE URBAN COUNT | 2100670070C | 03-OCT-2001 | 01-04-5738A | 02
04 | KY | LEXINGTON-FAYETTE URBAN COUNT | 2100670070C | 16-NOV-2001 | 01-04-5920A | 02
04 | KY | LEXINGTON-FAYETTE URBAN COUNT | 2100670080C | 21-NOV-2001 | 02-04-0182A | 02
04 | KY | LEXINGTON-FAYETTE URBAN COUNT | 2100670080C | 14-DEC-2001 | 01-04-6594A | 02
04 | KY | LEXINGTON-FAYETTE URBAN COUNT | 2100670080C | 14-DEC-2001 | 01-04-6596A | 02
04 | KY | LOUISVILLE, CITY OF | 21111C0090D | 03-OCT-2001 | 01-04-6750A | 02
04 | KY | LOUISVILLE, CITY OF | 21111C0090D | 03-OCT-2001 | 01-04-6752A | 02
04 | KY | LOUISVILLE, CITY OF | 21111C0090D | 03-OCT-2001 | 01-04-6754A | 02
04 | KY | LOUISVILLE, CITY OF | 21111C0095D | 07-DEC-2001 | 01-04-433P | 05
04 | KY | MARSHALL COUNTY * | 2102520025B | 13-JUL-2001 | 01-04-4882A | 02
04 | KY | MARSHALL COUNTY * | 2102520100B | 16-NOV-2001 | 02-04-0584A | 02
04 | KY | MERCER COUNTY* | 2103060100B | 14-SEP-2001 | 01-04-6200A | 02
04 | KY | NICHOLASVILLE, CITY OF | 2101260002B | 05-DEC-2001 | 02-04-1070A | 02
04 | KY | OWENSBORO, CITY OF | 21059C0280C | 13-JUL-2001 | 01-04-3668A | 01
04 | KY | OWENSBORO, CITY OF | 21059C0260C | 08-AUG-2001 | 01-04-5558A | 02
04 | KY | OWENSBORO, CITY OF | 21059C0280C | 07-SEP-2001 | 01-04-5050A | 01
04 | KY | OWENSBORO, CITY OF | 21059C0280C | 07-SEP-2001 | 01-04-5872A | 01
04 | KY | OWENSBORO, CITY OF | 21059C0280C | 21-SEP-2001 | 01-04-6714A | 02
04 | KY | OWENSBORO, CITY OF | 21059C0280C | 12-OCT-2001 | 01-04-6184A | 01
04 | KY | OWENSBORO, CITY OF | 21059C0280C | 17-OCT-2001 | 01-04-6946A | 01
04 | KY | OWENSBORO, CITY OF | 21059C0280C | 05-DEC-2001 | 02-04-0886A | 01
04 | KY | PADUCAH, CITY OF | 2101520005D | 07-SEP-2001 | 01-04-6042A | 02
04 | KY | PADUCAH, CITY OF | 2101520006D | 03-OCT-2001 | 01-04-6766A | 02
04 | KY | SHEPHERDSVILLE, CITY OF | 2100280005D | 05-DEC-2001 | 02-04-0928A | 01
04 | KY | SHIVELY, CITY OF | 21111C0135D | 24-OCT-2001 | 02-04-0140A | 02
04 | KY | STANTON, CITY OF | 2101960001B | 25-JUL-2001 | 01-04-3508A | 02
04 | KY | STANTON, CITY OF | 2101960001B | 12-SEP-2001 | 01-04-5290A | 02
04 | KY | WILLIAMSBURG, CITY OF | 21235C0070B | 10-AUG-2001 | 01-04-407P | 05
04 | KY | WINCHESTER, CITY OF | 2100560002B | 16-NOV-2001 | 01-04-5292A | 02
04 | MS | BATESVILLE, CITY OF | 2801260005C | 10-AUG-2001 | 01-04-2976A | 01
04 | MS | BOONEVILLE, CITY OF | 280135—07A | 07-NOV-2001 | 01-04-5642A | 01
04 | MS | BOONEVILLE, CITY OF | 280135—07A | 19-DEC-2001 | 02-04-1266X | 01
04 | MS | BRANDON, CITY OF | 2801430003B | 18-JUL-2001 | 01-04-5000A | 01
04 | MS | CLARKE COUNTY * | 2802200200B | 19-JUL-2001 | 00-04-381P | 05
04 | MS | CLAY COUNTY * | 28025C0115C | 13-JUL-2001 | 01-04-4912A | 02
04 | MS | COAHOMA COUNTY * | 2800380250C | 12-DEC-2001 | 01-04-6580A | 02
04 | MS | COLUMBUS, CITY OF | 28087C0065J | 07-NOV-2001 | 01-04-7100A | 01
04 | MS | DESOTO COUNTY * | 28033C0095D | 25-JUL-2001 | 01-04-5056A | 02
04 | MS | DESOTO COUNTY * | 28033C0043E | 24-OCT-2001 | 01-04-6658A | 02
04 | MS | DESOTO COUNTY * | 28033C0105D | 07-NOV-2001 | 01-04-6806A | 02
04 | MS | GRENADA, CITY OF | 2800610005B | 24-OCT-2001 | 01-04-5998A | 02
04 | MS | GRENADA, CITY OF | 2800610005B | 05-DEC-2001 | 02-04-0696X | 02
04 | MS | HANCOCK COUNTY* | 2852540135C | 29-AUG-2001 | 01-04-5212A | 02
04 | MS | HATTIESBURG, CITY OF | 28035C0080C | 31-AUG-2001 | 01-04-6026A | 02
04 | MS | HINDS COUNTY* | 2800700250D | 10-OCT-2001 | 01-04-5910A | 01
04 | MS | JACKSON, CITY OF | 2800720015G | 20-JUL-2001 | 01-04-4940A | 02
04 | MS | JACKSON, CITY OF | 2800720030F | 17-OCT-2001 | 01-04-6768A | 02
04 | MS | JACKSON, CITY OF | 2800720040F | 24-OCT-2001 | 01-04-6278A | 01
04 | MS | JACKSON, CITY OF | 2800720020F | 09-NOV-2001 | 01-04-6412A | 02
04 | MS | LAMAR COUNTY * | 28073C0035C | 26-SEP-2001 | 01-04-6582A | 02
04 | MS | LEAKE COUNTY * | 2802930200B | 12-OCT-2001 | 01-04-5438A | 02
04 | MS | LONG BEACH, CITY OF | 2852570001C | 19-SEP-2001 | 01-04-5818A | 02
04 | MS | MADISON, CITY OF | 28089C0320D | 24-OCT-2001 | 01-04-6770A | 02
04 | MS | MADISON, CITY OF | 28089C0310D | 24-OCT-2001 | 01-04-6772A | 02
04 | MS | MADISON, CITY OF | 28029C0310D | 07-NOV-2001 | 01-04-7076A | 17
04 | MS | MERIDIAN, CITY OF | 28075C0092E | 28-SEP-2001 | 01-04-6510X | 01
04 | MS | MERIDIAN, CITY OF | 28075C0101E | 17-OCT-2001 | 01-04-6154A | 17
04 | MS | OKTIBBEHA COUNTY * | 2802770130B | 08-AUG-2001 | 01-04-5506A | 01
04 | MS | OLIVE BRANCH,TOWN OF | 28033C0055E | 28-NOV-2001 | 01-04-6626A | 01
04 | MS | PEARL RIVER COUNTY * | 28109C0200D | 10-JUL-2001 | 01-04-031P | 05
04 | MS | PEARL RIVER VALLEY WATER SUPP | 2803380065B | 05-JUL-2001 | 01-04-4272A | 02
04 | MS | QUITMAN, CITY OF | 2803190005A | 15-AUG-2001 | 01-04-3854A | 02
04 | MS | RANKIN COUNTY * | 2801420070C | 18-JUL-2001 | 01-04-4812A | 01
04 | MS | RANKIN COUNTY * | 2801420095C | 01-AUG-2001 | 01-04-4824A | 01
04 | MS | RIDGELAND, CITY OF | 28089C0320D | 07-NOV-2001 | 01-04-6380A | 01
04 | MS | RIDGELAND, CITY OF | 28089C0320D | 16-NOV-2001 | 01-04-403P | 05
04 | MS | SHUBUTA, TOWN OF | 2800340001D | 21-SEP-2001 | 01-04-6466A | 02
04 | MS | STARKVILLE, CITY OF | 2801240003C | 07-SEP-2001 | 01-04-5732A | 02
04 | MS | SUNFLOWER COUNTY * | 2801950250B | 07-NOV-2001 | 01-04-5592A | 02
04 | MS | TUPELO, CITY OF | 28081C0226D | 01-AUG-2001 | 01-04-4184A | 02
04 | MS | TUPELO, CITY OF | 28081C0227D | 22-AUG-2001 | 01-04-5530A | 01
04 | NC | ARCHDALE, CITY OF | 3702730003B | 05-JUL-2001 | 01-04-4602A | 02
04 | NC | ARCHDALE, CITY OF | 3702730003B | 29-AUG-2001 | 01-04-5926A | 02
04 | NC | ARCHDALE, CITY OF | 3702730007B | 19-DEC-2001 | 02-04-1048A | 02
04 | NC | ASHEBORO, CITY OF | 3701960012B | 27-JUL-2001 | 01-04-4662A | 02
04 | NC | ASHEVILLE, CITY OF | 37021C0309C | 16-AUG-2001 | 00-04-071P | 05
04 | NC | BLADEN COUNTY * | 3702930012B | 18-JUL-2001 | 01-04-3630A | 02
04 | NC | BRUNSWICK COUNTY * | 3702950360E | 17-OCT-2001 | 01-04-6556A | 02
04 | NC | BRUNSWICK COUNTY* | 3702950355E | 20-JUL-2001 | 01-04-3232A | 02
04 | NC | BRUNSWICK COUNTY* | 3702950360E | 12-SEP-2001 | 01-04-5278A | 02
04 | NC | BRUNSWICK COUNTY* | 3702950360E | 19-SEP-2001 | 01-04-6702A | 02
04 | NC | BRUNSWICK COUNTY* | 3702950220C | 04-OCT-2001 | 01-04-081P | 05
04 | NC | BRUNSWICK COUNTY* | 3702950360E | 05-OCT-2001 | 01-04-6760A | 02
04 | NC | BRUNSWICK COUNTY* | 3702950330E | 12-DEC-2001 | 02-04-0840A | 02
04 | NC | BUNCOMBE COUNTY * | 37021C0331C | 25-JUL-2001 | 01-04-3242A | 17
04 | NC | BUNCOMBE COUNTY * | 37021C0134C | 19-SEP-2001 | 01-04-6812X | 02
04 | NC | BUNCOMBE COUNTY * | 37021C0184C | 14-DEC-2001 | 01-04-5350A | 02
04 | NC | CALDWELL COUNTY * | 37027C0050D | 25-JUL-2001 | 01-04-3408A | 02
04 | NC | CAMDEN COUNTY * | 3700420125B | 19-DEC-2001 | 01-04-6448A | 02
04 | NC | CANTON, TOWN OF | 370121C | 07-DEC-2001 | 02-04-0686A | 02
04 | NC | CARRBORO, TOWN OF | 3702750005C | 25-JUL-2001 | 01-04-1842A | 17
04 | NC | CARRBORO, TOWN OF | 3702750005C | 27-AUG-2001 | 01-04-037P | 05
04 | NC | CARTERET COUNTY * | 3700430630C | 07-SEP-2001 | 01-04-6322A | 02
04 | NC | CARY, TOWN OF | 37183C0293E | 26-JUL-2001 | 00-04-183P | 05
04 | NC | CARY, TOWN OF | 37183C0270E | 29-AUG-2001 | 01-04-065P | 05
04 | NC | CARY, TOWN OF | 37183C0293E | 12-SEP-2001 | 01-04-5044A | 02
04 | NC | CARY, TOWN OF | 37183C0504E | 05-DEC-2001 | 02-04-0164A | 02
04 | NC | CATAWBA COUNTY * | 3700500350C | 05-JUL-2001 | 01-04-4714A | 02
04 | NC | CATAWBA COUNTY * | 3700500350C | 05-JUL-2001 | 01-04-4716A | 02
04 | NC | CATAWBA COUNTY * | 3700500350C | 18-JUL-2001 | 01-04-5096A | 02
04 | NC | CATAWBA COUNTY * | 3700500325B | 20-JUL-2001 | 01-04-4596A | 02
04 | NC | CATAWBA COUNTY * | 3700500325B | 20-JUL-2001 | 01-04-5172A | 02
04 | NC | CATAWBA COUNTY * | 3700500350C | 20-JUL-2001 | 01-04-5266A | 02
04 | NC | CATAWBA COUNTY * | 3700500325B | 20-JUL-2001 | 01-04-5268A | 02
04 | NC | CATAWBA COUNTY * | 3700500325B | 20-JUL-2001 | 01-04-5270A | 02
04 | NC | CATAWBA COUNTY * | 3700500325B | 25-JUL-2001 | 01-04-5170A | 02
04 | NC | CATAWBA COUNTY * | 3700500135B | 27-JUL-2001 | 01-04-5098A | 02
04 | NC | CATAWBA COUNTY * | 3700500200C | 08-AUG-2001 | 01-04-5632A | 02
04 | NC | CATAWBA COUNTY * | 3700500200C | 08-AUG-2001 | 01-04-5744A | 02
04 | NC | CATAWBA COUNTY * | 3700500325B | 10-AUG-2001 | 01-04-5746A | 02
04 | NC | CATAWBA COUNTY * | 3700500350C | 22-AUG-2001 | 01-04-5778A | 02
04 | NC | CATAWBA COUNTY * | 3700500350C | 22-AUG-2001 | 01-04-5934A | 02
04 | NC | CATAWBA COUNTY * | 3700500350C | 29-AUG-2001 | 01-04-5932A | 02
04 | NC | CATAWBA COUNTY * | 3700500325B | 29-AUG-2001 | 01-04-6126A | 02
04 | NC | CATAWBA COUNTY * | 3700500350C | 31-AUG-2001 | 01-04-5678A | 02
04 | NC | CATAWBA COUNTY * | 3700500325B | 31-AUG-2001 | 01-04-6124A | 02
04 | NC | CATAWBA COUNTY * | 3700500350C | 14-SEP-2001 | 01-04-6564A | 02
04 | NC | CATAWBA COUNTY * | 3700500325B | 26-SEP-2001 | 01-04-5850A | 02
04 | NC | CATAWBA COUNTY * | 3700500325B | 26-SEP-2001 | 01-04-6808A | 02
04 | NC | CATAWBA COUNTY * | 3700500350C | 26-SEP-2001 | 01-04-6850A | 02
04 | NC | CATAWBA COUNTY * | 3700500200C | 28-SEP-2001 | 01-04-6810A | 02
04 | NC | CATAWBA COUNTY * | 3700500200C | 05-OCT-2001 | 01-04-5488A | 02
04 | NC | CATAWBA COUNTY * | 3700500350C | 10-OCT-2001 | 01-04-6530A | 02
04 | NC | CATAWBA COUNTY * | 3700500200C | 10-OCT-2001 | 01-04-6940A | 02
04 | NC | CATAWBA COUNTY * | 3700500350E | 24-OCT-2001 | 02-04-0130A | 02
04 | NC | CATAWBA COUNTY * | 3700500350C | 14-NOV-2001 | 02-04-0486A | 02
04 | NC | CATAWBA COUNTY * | 3700500200C | 14-NOV-2001 | 02-04-0488A | 02
04 | NC | CATAWBA COUNTY * | 3700500350C | 16-NOV-2001 | 02-04-0562A | 02
04 | NC | CATAWBA COUNTY * | 3700500350C | 21-NOV-2001 | 02-04-0288A | 02
04 | NC | CATAWBA COUNTY * | 3700500325B | 21-NOV-2001 | 02-04-0742A | 02
04 | NC | CATAWBA COUNTY * | 3700500350C | 14-DEC-2001 | 02-04-1360A | 02
04 | NC | CHAPEL HILL, TOWN OF | 3701800001E | 28-AUG-2001 | 00-04-081P | 05
04 | NC | CHARLOTTE, CITY OF | 3701590020B | 11-JUL-2001 | 01-04-3694A | 01
04 | NC | CHARLOTTE, CITY OF | 3701590025B | 07-SEP-2001 | 01-04-5486A | 01
04 | NC | CHARLOTTE, CITY OF | 3701590019B | 26-SEP-2001 | 01-04-6532A | 01
04 | NC | CHARLOTTE, CITY OF | 3701590025B | 28-NOV-2001 | 02-04-0788A | 01
04 | NC | CHATHAM COUNTY | 3702990225B | 12-OCT-2001 | 01-04-3572A | 02
04 | NC | CONCORD, CITY OF | 37025C0084D | 10-AUG-2001 | 01-04-4926A | 02
04 | NC | CONCORD, CITY OF | 37025C0120D | 28-SEP-2001 | 01-04-6746A | 01
04 | NC | CORNELIUS, TOWN OF | 3704980005A | 11-JUL-2001 | 01-04-4790A | 02
04 | NC | CORNELIUS, TOWN OF | 3704980005A | 11-JUL-2001 | 01-04-4988A | 02
04 | NC | CORNELIUS, TOWN OF | 3704980005A | 13-JUL-2001 | 01-04-4986A | 02
04 | NC | CORNELIUS, TOWN OF | 3704980015A | 25-JUL-2001 | 01-04-4958A | 02
04 | NC | CORNELIUS, TOWN OF | 3704980005A | 27-JUL-2001 | 01-04-5414A | 02
04 | NC | CORNELIUS, TOWN OF | 3704980005A | 01-AUG-2001 | 01-04-4114A | 02
04 | NC | CORNELIUS, TOWN OF | 3704980005A | 08-AUG-2001 | 01-04-5260A | 02
04 | NC | CORNELIUS, TOWN OF | 3704980005A | 08-AUG-2001 | 01-04-5354A | 02
04 | NC | CORNELIUS, TOWN OF | 3704980005A | 31-AUG-2001 | 01-04-6056A | 02
04 | NC | CORNELIUS, TOWN OF | 3704980005A | 07-SEP-2001 | 01-04-6352A | 02
04 | NC | CORNELIUS, TOWN OF | 3704980005A | 28-SEP-2001 | 01-04-6852A | 02
04 | NC | CORNELIUS, TOWN OF | 3704980005A | 28-SEP-2001 | 01-04-4614A | 19
04 | NC | CORNELIUS, TOWN OF | 3701580005B | 03-OCT-2001 | 01-04-6562A | 02
04 | NC | CORNELIUS, TOWN OF | 3704980005A | 05-OCT-2001 | 02-04-0980A | 02
04 | NC | CORNELIUS, TOWN OF | 3704980005A | 31-OCT-2001 | 02-04-0290A | 02
04 | NC | CORNELIUS, TOWN OF | 3704980015A | 05-DEC-2001 | 02-04-0934A | 02
04 | NC | CORNELIUS, TOWN OF | 3704980005A | 05-DEC-2001 | 02-04-0980A | 02
04 | NC | CORNELIUS, TOWN OF | 3704980005A | 07-DEC-2001 | 02-04-1098A | 02
04 | NC | CORNELIUS, TOWN OF | 3704980005A | 19-DEC-2001 | 02-04-1342A | 02
04 | NC | CORNELIUS, TOWN OF | 3704980005A | 21-DEC-2001 | 02-04-0310A | 02
04 | NC | CRAVEN COUNTY* | 3700720330B | 08-AUG-2001 | 01-04-5562A | 02
04 | NC | CRAVEN COUNTY* | 3700720320B | 29-AUG-2001 | 01-04-6000A | 02
04 | NC | CRAVEN COUNTY* | 3700720310C | 07-SEP-2001 | 01-04-6324A | 02
04 | NC | CUMBERLAND COUNTY * | 3700760095B | 21-DEC-2001 | 02-04-1224A | 02
04 | NC | CURRITUCK COUNTY * | 3700780170C | 15-AUG-2001 | 01-04-5750A | 02
04 | NC | DARE COUNTY* | 3753480810E | 16-AUG-2001 | 01-04-361P | 05
04 | NC | DARE COUNTY* | 3753480810E | 12-OCT-2001 | 01-04-4362P | 05
04 | NC | DARE COUNTY* | 3753480815E | 24-OCT-2001 | 01-04-6708A | 02
04 | NC | DAVIDSON COUNTY * | 37057C0220D | 05-JUL-2001 | 01-04-3640A | 02
04 | NC | DAVIDSON COUNTY * | 37057C0300D | 05-JUL-2001 | 01-04-4718A | 02
04 | NC | DAVIDSON COUNTY * | 37057C0400D | 05-JUL-2001 | 01-04-4740A | 02
04 | NC | DAVIDSON COUNTY * | 37057C0325D | 13-JUL-2001 | 01-04-4604A | 02
04 | NC | DAVIDSON COUNTY * | 37057C0325D | 18-JUL-2001 | 01-04-4960A | 02
04 | NC | DAVIDSON COUNTY * | 37057C0300D | 18-JUL-2001 | 01-04-4962A | 02
04 | NC | DAVIDSON COUNTY * | 37057C0400D | 20-JUL-2001 | 01-04-5164A | 02
04 | NC | DAVIDSON COUNTY * | 37057C0325D | 27-JUL-2001 | 01-04-5276A | 02
04 | NC | DAVIDSON COUNTY * | 37057C0300C | 01-AUG-2001 | 01-04-5274A | 02
04 | NC | DAVIDSON COUNTY * | 37057C0325D | 10-AUG-2001 | 01-04-2058A | 02
04 | NC | DAVIDSON COUNTY * | 37057C0285D | 17-AUG-2001 | 01-04-5820A | 02
04 | NC | DAVIDSON COUNTY * | 37057C0325D | 29-AUG-2001 | 01-04-6220A | 02
04 | NC | DAVIDSON COUNTY * | 37057C0285D | 26-SEP-2001 | 01-04-6194A | 02
04 | NC | DAVIDSON COUNTY * | 37057C0375D | 28-SEP-2001 | 01-04-6864A | 02
04 | NC | DAVIDSON COUNTY * | 37057C0325D | 03-OCT-2001 | 01-04-6038A | 02
04 | NC | DAVIDSON COUNTY * | 37057C0325D | 17-OCT-2001 | 01-04-7054A | 02
04 | NC | DAVIDSON COUNTY * | 37057C0400D | 17-OCT-2001 | 01-04-7124A | 02
04 | NC | DAVIDSON COUNTY * | 37057C0285D | 24-OCT-2001 | 02-04-0162A | 02
04 | NC | DAVIDSON COUNTY * | 37057C0325D | 16-NOV-2001 | 02-04-0500A | 02
04 | NC | DAVIDSON COUNTY * | 37057C0300D | 07-DEC-2001 | 02-04-0740A | 02
04 | NC | DAVIDSON, TOWN OF | 3705030005A | 15-AUG-2001 | 01-04-5708A | 02
04 | NC | DAVIDSON, TOWN OF | 3705030005A | 31-AUG-2001 | 01-04-5706A | 02
04 | NC | DAVIDSON, TOWN OF | 3705030005A | 21-SEP-2001 | 01-04-6762X | 02
04 | NC | DAVIDSON, TOWN OF | 3705030005A | 16-NOV-2001 | 02-04-0160A | 02
04 | NC | DURHAM COUNTY * | 37063C0055G | 08-AUG-2001 | 01-04-5494A | 02
04 | NC | DURHAM COUNTY * | 37063C0169G | 24-OCT-2001 | 01-04-4982A | 01
04 | NC | DURHAM, CITY OF | 37063C0167G | 17-AUG-2001 | 01-04-1848A | 01
04 | NC | DURHAM, CITY OF | 37063C0153G | 22-AUG-2001 | 01-04-5126A | 02
04 | NC | DURHAM, CITY OF | 37063C0159H | 31-AUG-2001 | 01-04-6132A | 02
04 | NC | DURHAM, CITY OF | 37063C0154H | 19-SEP-2001 | 01-04-6648A | 02
04 | NC | DURHAM, CITY OF | 37063C0154H | 14-DEC-2001 | 02-04-1222A | 02
04 | NC | ELKIN, TOWN OF | 3702250005B | 08-AUG-2001 | 01-04-5168A | 02
04 | NC | EMERALD ISLE, TOWN OF | 3700470002D | 18-JUL-2001 | 01-04-5038A | 02
04 | NC | EMERALD ISLE, TOWN OF | 3700470002D | 05-SEP-2001 | 01-04-1828P | 05
04 | NC | FAYETTEVILLE, CITY OF | 3700770011C | 31-OCT-2001 | 02-04-0244A | 02
04 | NC | FORSYTH COUNTY * | 37067C0187H | 05-JUL-2001 | 01-04-4722A | 02
04 | NC | FORSYTH COUNTY * | 37067C0335H | 01-AUG-2001 | 01-04-5416A | 01
04 | NC | FORSYTH COUNTY * | 37067C0244H | 12-SEP-2001 | 01-04-6450A | 02
04 | NC | FORSYTH COUNTY * | 37067C0261H | 12-SEP-2001 | 01-04-6036A | 01
04 | NC | FRANKLIN COUNTY * | 37069C0232D | 19-OCT-2001 | 01-04-7120A | 02
04 | NC | FRANKLIN COUNTY * | 37069C0240D | 31-OCT-2001 | 01-04-7144A | 02
04 | NC | FRANKLIN COUNTY* | 37069C0400D | 11-JUL-2001 | 01-04-4816A | 02
04 | NC | FRANKLIN COUNTY* | 37069C0150D | 13-JUL-2001 | 01-04-4034A | 02
04 | NC | GARNER, TOWN OF | 37183C0540E | 11-JUL-2001 | 01-04-181P | 05
04 | NC | GASTON COUNTY * | 3700990210B | 12-DEC-2001 | 01-04-7050A | 01
04 | NC | GASTONIA, CITY OF | 3701000005D | 10-OCT-2001 | 01-04-6442A | 01
04 | NC | GASTONIA, CITY OF | 3701000020D | 05-DEC-2001 | 01-04-345P | 05
04 | NC | GREENSBORO, CITY OF | 3753510018C | 20-JUL-2001 | 01-04-5130A | 02
04 | NC | HENDERSON COUNTY * | 3701250085B | 12-DEC-2001 | 02-04-1142A | 02
04 | NC | HICKORY, CITY OF | 3700540010C | 10-AUG-2001 | 01-04-5264A | 02
04 | NC | HICKORY, CITY OF | 3700540010C | 31-OCT-2001 | 01-04-6560A | 02
04 | NC | HIGH POINT, CITY OF | 3701130011C | 11-JUL-2001 | 01-04-4814A | 02
04 | NC | HIGH POINT, CITY OF | 3701130007C | 28-SEP-2001 | 01-04-1732A | 01
04 | NC | HIGH POINT, CITY OF | 3701130007C | 26-OCT-2001 | 01-04-6558A | 02
04 | NC | HUDSON, TOWN OF | 37027C0085E | 24-AUG-2001 | 01-04-5500A | 02
04 | NC | HUNTERSVILLE, TOWN OF | 3704980005A | 27-JUL-2001 | 01-04-4966A | 02
04 | NC | IREDELL COUNTY * | 3703130220C | 05-SEP-2001 | 01-04-5704A | 02
04 | NC | JACKSONVILLE, CITY OF | 3701780006B | 19-SEP-2001 | 01-04-6372A | 02
04 | NC | JACKSONVILLE, CITY OF | 3701780005B | 14-DEC-2001 | 01-04-6446A | 02
04 | NC | JOHNSTON COUNTY * | 37101C0360D | 11-JUL-2001 | 01-04-3626A | 02
04 | NC | JOHNSTON COUNTY * | 37101C0255D | 18-JUL-2001 | 01-04-4598A | 02
04 | NC | JOHNSTON COUNTY * | 3701380020D | 27-JUL-2001 | 01-04-5174A | 02
04 | NC | JOHNSTON COUNTY * | 37101C0235D | 08-AUG-2001 | 01-04-4848A | 02
04 | NC | JOHNSTON COUNTY * | 37101C0255D | 19-OCT-2001 | 01-04-7052A | 02
04 | NC | KERNERSVILLE, TOWN OF | 37067C0304H | 18-JUL-2001 | 01-04-4344A | 02
04 | NC | KERNERSVILLE, TOWN OF | 37067C0304H | 18-JUL-2001 | 01-04-4346A | 02
04 | NC | LEXINGTON, CITY OF | 37057C0211D | 11-JUL-2001 | 01-04-3566A | 02
04 | NC | LINCOLN COUNTY * | 3701460150C | 12-SEP-2001 | 01-04-4342A | 02
04 | NC | LONG BEACH, TOWN OF | 3753540003D | 29-AUG-2001 | 01-04-5752A | 02
04 | NC | LUMBERTON, CITY OF | 37155C0179D | 05-JUL-2001 | 01-04-4120A | 02
04 | NC | MECKLENBURG COUNTY * | 3701580145B | 18-JUL-2001 | 01-04-2254A | 01
04 | NC | MECKLENBURG COUNTY * | 3701580045C | 01-AUG-2001 | 01-04-5352A | 02
04 | NC | MECKLENBURG COUNTY * | 3701580210B | 01-AUG-2001 | 01-04-4394A | 02
04 | NC | MECKLENBURG COUNTY * | 3701580140C | 31-AUG-2001 | 01-04-5938A | 02
04 | NC | MECKLENBURG COUNTY * | 3701580165B | 28-NOV-2001 | 02-04-0668A | 02
04 | NC | MONROE, CITY OF | 37179C0094C | 15-AUG-2001 | 01-04-5936A | 02
04 | NC | MONTGOMERY COUNTY * | 3703360025B | 13-JUL-2001 | 01-04-4924A | 02
04 | NC | MONTGOMERY COUNTY * | 3703360025B | 18-JUL-2001 | 01-04-5040A | 02
04 | NC | MONTGOMERY COUNTY * | 3703360025B | 18-JUL-2001 | 01-04-5094A | 02
04 | NC | MONTGOMERY COUNTY * | 3703360025B | 25-JUL-2001 | 01-04-4616A | 02
04 | NC | MONTGOMERY COUNTY * | 3703360025B | 27-JUL-2001 | 01-04-5348A | 02
04 | NC | MONTGOMERY COUNTY * | 3703360105B | 15-AUG-2001 | 01-04-5852A | 02
04 | NC | MONTGOMERY COUNTY * | 3703360065B | 17-AUG-2001 | 01-04-6078A | 02
04 | NC | MONTGOMERY COUNTY * | 3703360025B | 29-AUG-2001 | 01-04-6254A | 02
04 | NC | MONTGOMERY COUNTY * | 3703360025B | 31-AUG-2001 | 01-04-5766A | 02
04 | NC | MONTGOMERY COUNTY * | 3703360025B | 17-OCT-2001 | 01-04-7018A | 02
04 | NC | MONTGOMERY COUNTY * | 3703360025B | 17-OCT-2001 | 01-04-7168A | 02
04 | NC | MONTGOMERY COUNTY * | 3703360055B | 31-OCT-2001 | 01-04-0808A | 02
04 | NC | MONTGOMERY COUNTY * | 3703360025B | 21-NOV-2001 | 02-04-0636A | 02
04 | NC | MONTGOMERY COUNTY * | 3703360025B | 21-NOV-2001 | 02-04-0790A | 02
04 | NC | MONTGOMERY COUNTY * | 3703360025B | 14-DEC-2001 | 02-04-1228A | 02
04 | NC | MONTGOMERY COUNTY * | 3703360025B | 14-DEC-2001 | 02-04-1230A | 02
04 | NC | MONTGOMERY COUNTY * | 3703360025B | 14-DEC-2001 | 02-04-1426A | 02
04 | NC | MONTGOMERY COUNTY * | 3703360025B | 14-DEC-2001 | 02-04-1428A | 02
04 | NC | NEW BERN, CITY OF | 3700740005E | 12-SEP-2001 | 01-04-6444A | 02
04 | NC | NORTH WILKESBORO, TOWN OF | 3702570003C | 28-SEP-2001 | 01-04-4738A | 01
04 | NC | OCEAN ISLE BEACH, TOWN OF | 3753570003C | 25-JUL-2001 | 01-04-5046A | 02
04 | NC | OLD FORT, TOWN OF | 37111C0135C | 12-SEP-2001 | 01-04-5930A | 02
04 | NC | ONSLOW COUNTY * | 3703400360C | 17-OCT-2001 | 01-04-6848A | 02
04 | NC | ONSLOW COUNTY * | 3703400315C | 26-OCT-2001 | 01-04-6904A | 02
04 | NC | ONSLOW COUNTY* | 3703400190C | 11-JUL-2001 | 01-04-3574A | 02
04 | NC | ONSLOW COUNTY* | 3703400300C | 27-JUL-2001 | 01-04-4984A | 02
04 | NC | PENDER COUNTY* | 3703440411B | 21-NOV-2001 | 02-04-0738A | 02
04 | NC | PENDER COUNTY* | 3703440536D | 05-DEC-2001 | 02-04-1050A | 02
04 | NC | PERQUIMANS COUNTY * | 3703150115B | 10-AUG-2001 | 01-04-4976A | 02
04 | NC | PERQUIMANS COUNTY * | 3703150120B | 10-OCT-2001 | 01-04-6652A | 02
04 | NC | PITT COUNTY * | 3703720280C | 18-JUL-2001 | 01-04-4742A | 02
04 | NC | RALEIGH, CITY OF | 37183C0540E | 11-JUL-2001 | 01-04-181P | 05
04 | NC | RALEIGH, CITY OF | 37183C0326E | 18-JUL-2001 | 01-04-5128A | 02
04 | NC | RALEIGH, CITY OF | 37183C0341E | 07-SEP-2001 | 01-04-6218A | 02
04 | NC | RALEIGH, CITY OF | 37183C0531E | 21-NOV-2001 | 01-04-6996A | 01
04 | NC | ROWAN COUNTY * | 3703510150B | 17-OCT-2001 | 01-04-7122A | 02
04 | NC | SALISBURY, CITY OF | 3702150005B | 27-JUL-2001 | 01-04-3492A | 01
04 | NC | SOUTHERN SHORES, TOWN OF | 3704300001C | 05-OCT-2001 | 01-04-6654A | 02
04 | NC | STALLINGS, TOWN OF | 37179C0015C | 24-AUG-2001 | 01-04-3412A | 02
04 | NC | STANLY COUNTY * | 37167C0175D | 15-AUG-2001 | 01-04-5854A | 02
04 | NC | STANLY COUNTY * | 37167C0175D | 14-NOV-2001 | 02-04-0434A | 02
04 | NC | SUNSET BEACH, TOWN OF | 3753590001E | 27-JUL-2001 | 01-04-5280A | 02
04 | NC | SUNSET BEACH, TOWN OF | 3753590001E | 27-JUL-2001 | 01-04-5282A | 02
04 | NC | SWANSBORO, CITY OF | 3703400380C | 08-AUG-2001 | 01-04-5226A | 02
04 | NC | TRENT WOODS, TOWNSHIP OF | 3704340002B | 31-OCT-2001 | 02-04-0292A | 02
04 | NC | UNION COUNTY * | 37179C0070C | 01-AUG-2001 | 01-04-5490A | 02
04 | NC | UNION COUNTY * | 37179C0070C | 17-OCT-2001 | 01-04-347P | 05
04 | NC | WAKE COUNTY * | 37183C0540E | 11-JUL-2001 | 01-04-181P | 05
04 | NC | WAKE COUNTY * | 37183C0720E | 07-DEC-2001 | 01-04-5664A | 02
04 | NC | WARREN COUNTY* | 3703960002C | 13-JUL-2001 | 01-04-4032A | 02
04 | NC | WARREN COUNTY* | 3703960002C | 01-AUG-2001 | 01-04-5272A | 02
04 | NC | WARREN COUNTY* | 3703960002C | 18-SEP-2001 | 01-04-6224A | 02
04 | NC | WARREN COUNTY* | 3703960002C | 28-SEP-2001 | 01-04-4358A | 02
04 | NC | WARREN COUNTY* | 3703960002C | 28-NOV-2001 | 02-04-0626X | 02
04 | NC | WASHINGTON, CITY OF | 3700170006C | 18-JUL-2001 | 01-04-3418A | 02
04 | NC | WASHINGTON, CITY OF | 3700170007C | 22-AUG-2001 | 01-04-5776A | 02
04 | NC | WASHINGTON, CITY OF | 3700170007C | 16-NOV-2001 | 02-04-0634A | 02
04 | NC | WILMINGTON, CITY OF | 3701710005B | 18-JUL-2001 | 01-04-5042A | 01
04 | NC | WINFALL, TOWN OF | 3703450001A | 16-NOV-2001 | 02-04-0454A | 02
04 | NC | WINSTON-SALEM, CITY OF | 37067C0252H | 19-SEP-2001 | 01-04-6618A | 02
04 | SC | ANDERSON COUNTY * | 4500130040B | 15-AUG-2001 | 01-04-2668A | 01
04 | SC | ANDERSON COUNTY * | 4500130025B | 26-SEP-2001 | 01-04-185P | 05
04 | SC | BARNWELL, CITY OF | 4500230003C | 03-AUG-2001 | 01-04-2952A | 02
04 | SC | BEAUFORT COUNTY* | 4500250065D | 11-JUL-2001 | 01-04-4212A | 02
04 | SC | BEAUFORT COUNTY* | 4500250065D | 01-AUG-2001 | 01-04-5426X | 02
04 | SC | BEAUFORT COUNTY* | 4500250090D | 24-OCT-2001 | 02-04-0240A | 02
04 | SC | BEAUFORT COUNTY* | 4500250040D | 16-NOV-2001 | 02-04-0384A | 02
04 | SC | BEAUFORT COUNTY* | 4500250035D | 16-NOV-2001 | 02-04-0540A | 02
04 | SC | BENNETTSVILLE, CITY OF | 4501470005B | 15-AUG-2001 | 01-04-5740A | 02
04 | SC | BERKELEY COUNTY * | 450029—029C | 01-AUG-2001 | 01-04-5304A | 02
04 | SC | BERKELEY COUNTY * | 4500290290C | 17-AUG-2001 | 01-04-5306A | 02
04 | SC | BERKELEY COUNTY * | 4500290395C | 14-DEC-2001 | 01-04-6676A | 02
04 | SC | BRUNSON, TOWN OF | 450096B | 03-AUG-2001 | 01-04-5018A | 02
04 | SC | CHARLESON COUNTY * | 4554130225G | 12-SEP-2001 | 01-04-6376A | 02
04 | SC | CHARLESTON COUNTY* | 4554130245F | 13-JUL-2001 | 01-04-4420A | 01
04 | SC | CHARLESTON COUNTY* | 4554130350F | 15-AUG-2001 | 01-04-5892A | 02
04 | SC | CHARLESTON COUNTY* | 4554130350F | 26-SEP-2001 | 01-04-6678A | 02
04 | SC | CHARLESTON COUNTY* | 4554130231F | 05-DEC-2001 | 02-04-0494C | 01
04 | SC | CHARLESTON, CITY OF | 4554120020D | 12-SEP-2001 | 01-04-4842A | 02
04 | SC | COLLETON COUNTY* | 45029C0180F | 08-NOV-2001 | 02-04-0792V | 19
04 | SC | COLLETON COUNTY* | 45029C0650F | 28-DEC-2001 | 01-04-6478A | 02
04 | SC | COLUMBIA, CITY OF | 45063C0134G | 12-NOV-2001 | 01-04-127P | 05
04 | SC | DORCHESTER COUNTY * | 4500680330C | 18-JUL-2001 | 01-04-4490A | 02
04 | SC | FAIRFIELD COUNTY * | 4500750135B | 07-SEP-2001 | 01-04-6142A | 02
04 | SC | FAIRFIELD COUNTY * | 4500750135B | 17-OCT-2001 | 01-04-5924A | 02
04 | SC | FLORENCE COUNTY * | 4500760080B | 27-JUL-2001 | 01-04-5286A | 02
04 | SC | FLORENCE COUNTY * | 4500760210B | 29-AUG-2001 | 01-04-277P | 05
04 | SC | FLORENCE COUNTY * | 4500760230B | 29-AUG-2001 | 01-04-277P | 05
04 | SC | FLORENCE COUNTY * | 4500760210B | 12-DEC-2001 | 01-04-277P | 05
04 | SC | GOOSE CREEK, CITY OF | 4500290290C | 05-DEC-2001 | 02-04-0158A | 02
04 | SC | GOOSE CREEK, CITY OF | 4500290290C | 07-DEC-2001 | 02-04-0714A | 02
04 | SC | GOOSE CREEK, CITY OF | 4500290355C | 12-DEC-2001 | 02-04-0716A | 02
04 | SC | GREENVILLE COUNTY * | 4500890165B | 03-OCT-2001 | 01-04-7136A | 02
04 | SC | GREENVILLE COUNTY * | 4500890210B | 19-DEC-2001 | 02-04-0216A | 01
04 | SC | HORRY COUNTY * | 45051C0652H | 27-JUL-2001 | 01-04-5034A | 02
04 | SC | HORRY COUNTY * | 4501090691H | 19-OCT-2001 | 01-04-7152X | 02
04 | SC | LAKE CITY, CITY OF | 4500790001C | 29-AUG-2001 | 01-04-277P | 05
04 | SC | LAKE CITY, CITY OF | 4500790002C | 29-AUG-2001 | 01-04-277P | 05
04 | SC | LAKE CITY, CITY OF | 4500790001C | 12-DEC-2001 | 01-04-277P | 05
04 | SC | LEXINGTON COUNTY * | 45063C0161G | 14-SEP-2001 | 01-04-5810A | 02
04 | SC | LEXINGTON COUNTY * | 45063C0225G | 19-SEP-2001 | 01-04-4624A | 02
04 | SC | LEXINGTON COUNTY * | 45063C0258G | 28-SEP-2001 | 01-04-4080A | 02
04 | SC | LEXINGTON COUNTY * | 45063C0137G | 24-OCT-2001 | 01-04-6374A | 02
04 | SC | LEXINGTON COUNTY * | 45063C0134G | 12-NOV-2001 | 01-04-127P | 05
04 | SC | LEXINGTON COUNTY * | 45063C0105G | 30-NOV-2001 | 01-04-6480A | 02
04 | SC | MYRTLE BEACH, CITY OF | 45051C0701H | 14-DEC-2001 | 01-04-6722A | 02
04 | SC | NEWBERRY COUNTY * | 4502240225B | 12-SEP-2001 | 01-04-6362A | 02
04 | SC | NEWBERRY COUNTY* | 4502240225B | 01-AUG-2001 | 01-04-5058A | 02
04 | SC | NEWBERRY COUNTY* | 4502240225B | 22-AUG-2001 | 01-04-5672A | 02
04 | SC | NEWBERRY COUNTY* | 4502240150B | 24-OCT-2001 | 01-04-7134A | 02
04 | SC | NEWBERRY COUNTY* | 4502240225B | 05-DEC-2001 | 02-04-0856A | 02
04 | SC | NEWBERRY COUNTY* | 4502240225B | 19-DEC-2001 | 02-04-1116A | 02
04 | SC | ORANGEBURG, CITY OF | 4501640001B | 29-AUG-2001 | 01-04-5742A | 02
04 | SC | PICKENS COUNTY * | 4501660150B | 11-JUL-2001 | 01-04-3582A | 02
04 | SC | QUINBY, TOWN OF | 450082—01B | 07-SEP-2001 | 01-04-5638A | 02
04 | SC | RICHLAND COUNTY* | 45079C0025G | 13-JUL-2001 | 01-04-4418A | 02
04 | SC | RICHLAND COUNTY* | 45079C0025G | 27-JUL-2001 | 01-04-4620A | 02
04 | SC | RICHLAND COUNTY* | 45079C0110G | 01-AUG-2001 | 01-04-4130A | 02
04 | SC | RICHLAND COUNTY* | 45079C0025G | 01-AUG-2001 | 01-04-4944A | 02
04 | SC | RICHLAND COUNTY* | 45079C0025G | 31-AUG-2001 | 01-04-5564A | 02
04 | SC | RICHLAND COUNTY* | 45079C0025G | 31-AUG-2001 | 01-04-5568A | 02
04 | SC | RICHLAND COUNTY* | 45079C0025G | 31-AUG-2001 | 01-04-5922A | 02
04 | SC | RICHLAND COUNTY* | 45079C0110G | 26-SEP-2001 | 01-04-5972A | 02
04 | SC | RICHLAND COUNTY* | 45079C0110G | 16-NOV-2001 | 02-04-0242A | 02
04 | SC | RICHLAND COUNTY* | 45079C0185G | 10-DEC-2001 | 01-04-445P | 05
04 | SC | RICHLAND COUNTY* | 45079C0025G | 12-DEC-2001 | 02-04-1028A | 02
04 | SC | RICHLAND COUNTY* | 45079C0225G | 19-DEC-2001 | 01-04-225P | 05
04 | SC | RICHLAND COUNTY* | 45079C0113G | 19-DEC-2001 | 02-04-1080A | 02
04 | SC | RICHLAND COUNTY* | 45079C0025G | 19-DEC-2001 | 02-04-1214A | 02
04 | SC | RICHLAND COUNTY* | 45079C0025G | 28-DEC-2001 | 02-04-1086A | 02
04 | SC | SALUDA COUNTY * | 4502300002A | 19-OCT-2001 | 01-04-6584A | 02
04 | SC | SPARTANBURG COUNTY * | 4501760134B | 10-OCT-2001 | 01-04-6044A | 02
04 | SC | SPARTANBURG COUNTY * | 4501760089B | 26-OCT-2001 | 01-04-5284A | 02
04 | SC | SUMTER COUNTY * | 4501820180C | 17-AUG-2001 | 01-04-5090A | 02
04 | SC | SUMTER COUNTY * | 4501820090C | 14-DEC-2001 | 02-04-1110A | 02
04 | SC | SUMTER COUNTY * | 4501820180C | 19-DEC-2001 | 02-04-0732A | 02
04 | SC | YORK COUNTY * | 4501930125C | 08-AUG-2001 | 01-04-5492A | 02
04 | SC | YORK COUNTY * | 4501930200C | 19-SEP-2001 | 01-04-5566A | 02
04 | SC | YORK COUNTY * | 4501930050B | 10-OCT-2001 | 01-04-6456A | 02
04 | TN | BENTON COUNTY | 4702180025B | 10-AUG-2001 | 01-04-5160A | 02
04 | TN | BRENTWOOD, CITY OF | 4702040020C | 16-NOV-2001 | 01-04-321P | 05
04 | TN | CELINA, CITY OF | 4700320005D | 08-AUG-2001 | 01-04-5572A | 02
04 | TN | CHATTANOOGA, CITY OF | 4700720017E | 01-AUG-2001 | 01-04-4844A | 01
04 | TN | CHATTANOOGA, CITY OF | 4700720021B | 15-AUG-2001 | 01-04-5712A | 01
04 | TN | CHATTANOOGA, CITY OF | 4700720009A | 17-AUG-2001 | 01-04-5300A | 01
04 | TN | CHATTANOOGA, CITY OF | 4700720009A | 28-SEP-2001 | 01-04-6802X | 17
04 | TN | CHATTANOOGA, CITY OF | 4700720029E | 10-OCT-2001 | 01-04-6312A | 02
04 | TN | CHATTANOOGA, CITY OF | 4700720010B | 19-OCT-2001 | 01-04-6720A | 02
04 | TN | CHATTANOOGA, CITY OF | 4700720006B | 21-NOV-2001 | 02-04-1000A | 01
04 | TN | CHATTANOOGA, CITY OF | 4700720006B | 14-DEC-2001 | 02-04-1314A | 02
04 | TN | CHEATHAM COUNTY * | 47021C0216C | 11-JUL-2001 | 01-04-2430A | 02
04 | TN | CHEATHAM COUNTY * | 47021C0217C | 07-DEC-2001 | 02-04-0316A | 02
04 | TN | CLARKSVILLE, CITY OF | 4701370010C | 12-DEC-2001 | 02-04-0628A | 01
04 | TN | COCKE COUNTY* | 47029C0085D | 01-AUG-2001 | 01-04-5206A | 01
04 | TN | COCKE COUNTY* | 47029C0085D | 05-SEP-2001 | 01-04-6238A | 01
04 | TN | COCKE COUNTY* | 47029C0095D | 14-DEC-2001 | 02-04-0274A | 01
04 | TN | COLLIERVILLE, CITY OF | 47157C0295E | 29-AUG-2001 | 01-04-5836A | 01
04 | TN | COLLIERVILLE, CITY OF | 47157C0245E | 28-NOV-2001 | 02-04-0958X | 01
04 | TN | COLLIERVILLE, CITY OF | 47157C0240E | 14-DEC-2001 | 02-04-1210A | 01
04 | TN | COLLIERVILLE, TOWN OF | 45157C0300E | 05-DEC-2001 | 02-04-0660A | 02
04 | TN | COLUMBIA, CITY OF | 4754230001D | 15-AUG-2001 | 01-04-207P | 05
04 | TN | DECATUR COUNTY * | 4700410004C | 19-DEC-2001 | 02-04-1508A | 02
04 | TN | DYERSBURG, CITY OF | 47045C0190D | 05-JUL-2001 | 01-04-4610A | 02
04 | TN | DYERSBURG, CITY OF | 47045C0170D | 19-OCT-2001 | 01-04-5964A | 02
04 | TN | DYERSBURG, CITY OF | 47045C0190D | 24-OCT-2001 | 02-04-0120A | 02
04 | TN | DYERSBURG, CITY OF | 47045C0180D | 07-DEC-2001 | 02-04-1348A | 02
04 | TN | DYERSBURG, CITY OF | 47045C0190D | 12-DEC-2001 | 01-04-4628A | 02
04 | TN | FARRAGUT, TOWN OF | 4703870015A | 26-SEP-2001 | 01-04-6670A | 01
04 | TN | FRANKLIN, CITY OF | 4702060005D | 18-JUL-2001 | 01-04-067P | 05
04 | TN | GERMANTOWN, CITY OF | 47157C0235E | 27-JUL-2001 | 01-04-1706A | 01
04 | TN | GOODLETTSVILLE, CITY OF | 47037C0129F | 21-DEC-2001 | 02-04-0648A | 02
04 | TN | HAMILTON COUNTY * | 4700710135D | 07-DEC-2001 | 02-04-0926A | 02
04 | TN | HAMILTON COUNTY * | 4700710135D | 19-DEC-2001 | 02-04-1478A | 01
04 | TN | KINGSPORT, CITY OF | 4701840020C | 16-AUG-2001 | 01-04-111P | 05
04 | TN | KINGSPORT, CITY OF | 4701840020C | 19-OCT-2001 | 01-04-6918A | 02
04 | TN | KINGSTON SPRINGS, CITY OF | 47021C0280C | 17-OCT-2001 | 01-04-6964A | 02
04 | TN | KNOX COUNTY * | 4754330075B | 13-JUL-2001 | 01-04-5108A | 02
04 | TN | KNOX COUNTY * | 4754330020B | 24-OCT-2001 | 01-04-5578A | 02
04 | TN | KNOX COUNTY * | 4754330165B | 24-OCT-2001 | 01-04-5812A | 02
04 | TN | KNOX COUNTY * | 4754330175B | 09-NOV-2001 | 02-04-0498A | 02
04 | TN | KNOX COUNTY * | 4754330115B | 12-DEC-2001 | 02-04-0992A | 02
04 | TN | LEBANON, CITY OF | 4702070075C | 27-SEP-2001 | 01-04-209P | 05
04 | TN | LINCOLN COUNTY* | 47103C0200C | 05-DEC-2001 | 01-04-7064A | 02
04 | TN | MAURY COUNTY* | 4701230090B | 15-AUG-2001 | 01-04-207P | 05
04 | TN | MEMPHIS, CITY OF | 47157C0220E | 05-OCT-2001 | 01-04-5756A | 02
04 | TN | MEMPHIS, CITY OF | 47157C0185E | 24-OCT-2001 | 01-04-7000A | 02
04 | TN | MEMPHIS, CITY OF | 47157C0230E | 16-NOV-2001 | 01-04-5886A | 01
04 | TN | MEMPHIS, CITY OF | 47157C0230E | 28-DEC-2001 | 02-04-1632A | 01
04 | TN | MONTGOMERY COUNTY * | 4701360055B | 19-OCT-2001 | 01-04-5714A | 02
04 | TN | MOSCOW, CITY OF | 4700490001B | 19-OCT-2001 | 01-04-6518A | 01
04 | TN | MURFREESBORO, CITY OF | 47149C0259F | 12-DEC-2001 | 02-04-0922A | 01
04 | TN | NASHVILLE & DAVIDSON COUNTY, | 47037C0316F | 25-JUL-2001 | 01-04-5062A | 02
04 | TN | NASHVILLE & DAVIDSON COUNTY, | 47037C0231F | 01-AUG-2001 | 01-04-4198A | 19
04 | TN | NASHVILLE & DAVIDSON COUNTY, | 47037C0284F | 01-AUG-2001 | 01-04-5434A | 01
04 | TN | NASHVILLE & DAVIDSON COUNTY, | 47037C0244F | 08-AUG-2001 | 01-04-5580A | 02
04 | TN | NASHVILLE & DAVIDSON COUNTY, | 47037C0125F | 08-AUG-2001 | 01-04-5650A | 02
04 | TN | NASHVILLE & DAVIDSON COUNTY, | 47037C0368F | 15-AUG-2001 | 01-04-4754A | 01
04 | TN | NASHVILLE & DAVIDSON COUNTY, | 47037C0242F | 15-AUG-2001 | 01-04-4836A | 02
04 | TN | NASHVILLE & DAVIDSON COUNTY, | 47037C0378F | 29-AUG-2001 | 01-04-6148A | 02
04 | TN | NASHVILLE & DAVIDSON COUNTY, | 47037C0326F | 29-AUG-2001 | 01-04-6152A | 02
04 | TN | NASHVILLE & DAVIDSON COUNTY, | 47037C0227F | 29-AUG-2001 | 01-04-5888A | 02
04 | TN | NASHVILLE & DAVIDSON COUNTY, | 47037C0303F | 12-SEP-2001 | 01-04-5822A | 19
04 | TN | NASHVILLE & DAVIDSON COUNTY, | 47037C0227F | 21-SEP-2001 | 01-04-6430A | 01
04 | TN | NASHVILLE & DAVIDSON COUNTY, | 47037C0253F | 26-SEP-2001 | 01-04-6644A | 02
04 | TN | NASHVILLE & DAVIDSON COUNTY, | 47037C0253F | 28-SEP-2001 | 01-04-5110A | 01
04 | TN | NASHVILLE & DAVIDSON COUNTY, | 47037C0232F | 28-SEP-2001 | 01-04-6476A | 01
04 | TN | NASHVILLE & DAVIDSON COUNTY, | 47037C0231F | 03-OCT-2001 | 01-04-6804A | 02
04 | TN | NASHVILLE & DAVIDSON COUNTY, | 47037C0378F | 03-OCT-2001 | 01-04-6952A | 02
04 | TN | NASHVILLE & DAVIDSON COUNTY, | 47037C0231F | 03-OCT-2001 | 01-04-6668A | 02
04 | TN | NASHVILLE & DAVIDSON COUNTY, | 47037C0234F | 12-OCT-2001 | 01-04-6834A | 02
04 | TN | NASHVILLE & DAVIDSON COUNTY, | 47037C0227F | 17-OCT-2001 | 01-04-7022A | 01
04 | TN | NASHVILLE & DAVIDSON COUNTY, | 47037C0242F | 19-OCT-2001 | 01-04-0104A | 02
04 | TN | NASHVILLE & DAVIDSON COUNTY, | 47037C0231F | 19-OCT-2001 | 01-04-5002A | 02
04 | TN | NASHVILLE & DAVIDSON COUNTY, | 47037C0331F | 19-OCT-2001 | 01-04-6472A | 02
04 | TN | NASHVILLE & DAVIDSON COUNTY, | 47037C0366F | 19-OCT-2001 | 01-04-7024A | 01
04 | TN | NASHVILLE & DAVIDSON COUNTY, | 47037C0227F | 26-OCT-2001 | 02-04-0118A | 19
04 | TN | NASHVILLE & DAVIDSON COUNTY, | 47037C0229F | 31-OCT-2001 | 02-04-0208A | 02
04 | TN | NASHVILLE & DAVIDSON COUNTY, | 47037C0227F | 31-OCT-2001 | 02-04-0168A | 19
04 | TN | NASHVILLE & DAVIDSON COUNTY, | 47037C0378F | 14-NOV-2001 | 02-04-0526A | 02
04 | TN | NASHVILLE & DAVIDSON COUNTY, | 47037C0284F | 21-NOV-2001 | 01-04-5716A | 19
04 | TN | NASHVILLE & DAVIDSON COUNTY, | 47037C0143F | 21-NOV-2001 | 01-04-5376A | 01
04 | TN | NASHVILLE & DAVIDSON COUNTY, | 47037C0229F | 28-NOV-2001 | 02-04-0522A | 02
04 | TN | NASHVILLE & DAVIDSON COUNTY, | 47037C0227F | 30-NOV-2001 | 02-04-0092A | 19
04 | TN | NASHVILLE & DAVIDSON COUNTY, | 47037C0284F | 05-DEC-2001 | 01-04-5582A | 02
04 | TN | NASHVILLE & DAVIDSON COUNTY, | 47037C0284F | 05-DEC-2001 | 01-04-5584A | 02
04 | TN | NASHVILLE & DAVIDSON COUNTY, | 47037C0227F | 05-DEC-2001 | 01-04-4834A | 01
04 | TN | NASHVILLE & DAVIDSON COUNTY, | 47037C0227F | 05-DEC-2001 | 02-04-0688A | 01
04 | TN | NASHVILLE & DAVIDSON COUNTY, | 47037C0227F | 07-DEC-2001 | 01-04-5448A | 01
04 | TN | NASHVILLE & DAVIDSON COUNTY, | 47037C0227F | 07-DEC-2001 | 01-04-6360A | 01
04 | TN | NASHVILLE & DAVIDSON COUNTY, | 47037C0361F | 07-DEC-2001 | 01-04-6832A | 01
04 | TN | NASHVILLE & DAVIDSON COUNTY, | 47037C0227F | 07-DEC-2001 | 02-04-0848A | 01
04 | TN | NASHVILLE & DAVIDSON COUNTY, | 47037C0234F | 19-DEC-2001 | 02-04-0862A | 02
04 | TN | NASHVILLE & DAVIDSON COUNTY, | 47037C0234F | 19-DEC-2001 | 02-04-1370A | 02
04 | TN | PERRY COUNTY* | 4701440001A | 14-SEP-2001 | 01-04-5758A | 02
04 | TN | RHEA COUNTY | 4701510025B | 21-NOV-2001 | 01-04-7066A | 02
04 | TN | ROBERTSON COUNTY | 4701580160B | 21-NOV-2001 | 02-04-0134A | 02
04 | TN | RUTHERFORD COUNTY * | 47149C0287E | 24-OCT-2001 | 01-04-6966A | 02
04 | TN | RUTHERFORD COUNTY * | 47149C0260F | 31-OCT-2001 | 01-04-6470A | 02
04 | TN | RUTHERFORD COUNTY * | 47149C0286E | 04-DEC-2001 | 02-04-0916A | 02
04 | TN | SAVANNAH, CITY OF | 4700840001C | 10-OCT-2001 | 01-04-1808A | 01
04 | TN | SEVIER COUNTY | 4702360070B | 05-JUL-2001 | 01-04-3980A | 02
04 | TN | SEVIER COUNTY | 4702360060B | 27-JUL-2001 | 01-04-5432A | 02
04 | TN | SEVIERVILLE, CITY OF | 4754440015D | 07-DEC-2001 | 01-04-5026A | 01
04 | TN | SHELBY COUNTY * | 47157C0150E | 29-AUG-2001 | 01-04-6134A | 01
04 | TN | SHELBY COUNTY * | 47157C0290E | 14-SEP-2001 | 01-04-6256A | 02
04 | TN | SHELBY COUNTY * | 47157C0295E | 28-SEP-2001 | 01-04-6800A | 02
04 | TN | SHELBY COUNTY * | 47157C0195E | 19-OCT-2001 | 01-04-6066A | 01
04 | TN | SHELBY COUNTY * | 47157C0105E | 14-NOV-2001 | 02-04-1022A | 02
04 | TN | SHELBY COUNTY * | 47157C0115E | 28-NOV-2001 | 02-04-0404A | 02
04 | TN | SHELBY COUNTY * | 47157C0115E | 05-DEC-2001 | 02-04-0408A | 02
04 | TN | SHELBY COUNTY * | 47157C0110E | 05-DEC-2001 | 02-04-0918A | 17
04 | TN | SHELBY COUNTY * | 47157C0195E | 05-DEC-2001 | 02-04-1274A | 01
04 | TN | SHELBY COUNTY * | 47157C0060E | 07-DEC-2001 | 02-04-0270A | 01
04 | TN | SHELBY COUNTY * | 47157C0195E | 12-DEC-2001 | 02-04-0736A | 01
04 | TN | SHELBY COUNTY * | 47157C0195E | 19-DEC-2001 | 01-04-3400A | 01
04 | TN | SHELBYVILLE, CITY OF | 4700080029C | 05-DEC-2001 | 02-04-0734A | 01
04 | TN | SUMNER COUNTY* | 4703490120B | 24-OCT-2001 | 01-04-6968A | 02
04 | TN | TRENTON, CITY OF | 4700620002B | 08-AUG-2001 | 01-04-5574A | 02
04 | TN | VAN BUREN COUNTY * | 4703420001A | 22-AUG-2001 | 01-04-5356A | 02
05 | IL | ADDISON, VILLAGE OF | 1701980005C | 28-AUG-2001 | 01-05-1683X | 05
05 | IL | ALGONQUIN, VILLAGE OF | 1704740001B | 14-SEP-2001 | 01-05-3217A | 02
05 | IL | ALGONQUIN, VILLAGE OF | 1704740001B | 19-SEP-2001 | 01-05-3616A | 02
05 | IL | ANTIOCH, VILLAGE OF | 17097C0028F | 02-NOV-2001 | 01-05-3519A | 02
05 | IL | ANTIOCH, VILLAGE OF | 17097C0026F | 21-DEC-2001 | 02-05-0717A | 02
05 | IL | ARLINGTON HEIGHTS, VILLAGE OF | 17031C0201F | 02-NOV-2001 | 01-05-3053A | 17
05 | IL | AROMA PARK, VILLAGE OF | 1707400001D | 08-AUG-2001 | 01-05-3197A | 02
05 | IL | AROMA PARK, VILLAGE OF | 1707400001D | 12-DEC-2001 | 02-05-0783A | 02
05 | IL | AURORA, CITY OF | 1703200035E | 28-SEP-2001 | 01-05-2918A | 01
05 | IL | AURORA, CITY OF | 1703200020E | 26-SEP-2001 | 01-05-3304A | 02
05 | IL | BARTLETT, VILLAGE OF | 1700590005C | 15-AUG-2001 | 01-05-1888A | 02
05 | IL | BELLWOOD, VILLAGE OF | 17031C0369F | 21-SEP-2001 | 01-05-3329A | 02
05 | IL | BELLWOOD, VILLAGE OF | 17031C0388F | 03-OCT-2001 | 01-05-3550A | 02
05 | IL | BENSENVILLE, VILLAGE OF | 1702000003C | 12-DEC-2001 | 02-05-0157A | 17
05 | IL | BLOOMINGTON, CITY OF | 17113C0501D | 18-JUL-2001 | 01-05-2679A | 02
05 | IL | BLOOMINGTON, CITY OF | 17113C0318D | 03-OCT-2001 | 01-05-3680A | 02
05 | IL | BLOOMINGTON, CITY OF | 17113C0482D | 12-OCT-2001 | 01-05-3966A | 02
05 | IL | BOLINGBROOK, VILLAGE OF | 17197C0033F | 05-JUL-2001 | 01-05-2595A | 01
05 | IL | BOLINGBROOK, VILLAGE OF | 17197C0045F | 14-SEP-2001 | 01-05-3153A | 01
05 | IL | BOLINGBROOK, VILLAGE OF | 17197C0053E | 19-DEC-2001 | 02-05-0857A | 02
05 | IL | BUFFALO GROVE, VILLAGE OF | 17031C0063F | 05-JUL-2001 | 01-05-2241A | 17
05 | IL | BUFFALO GROVE, VILLAGE OF | 17031C0063F | 05-JUL-2001 | 01-05-2493A | 02
05 | IL | BURR RIDGE, VILLAGE OF | 17031C0469F | 25-JUL-2001 | 01-05-2836A | 02
05 | IL | BURR RIDGE, VILLAGE OF | 17031C0582F | 25-JUL-2001 | 01-05-2836A | 02
05 | IL | CAHOKIA, VILLAGE OF | 1706200005C | 29-AUG-2001 | 01-05-3290A | 02
05 | IL | CALUMET CITY, CITY OF | 17031C0752F | 27-JUL-2001 | 01-05-2530A | 01
05 | IL | CARMI, CITY OF | 1706810005B | 19-SEP-2001 | 01-05-2990A | 02
05 | IL | CARMI, CITY OF | 1706810005B | 22-AUG-2001 | 01-05-3274A | 02
05 | IL | CARMI, CITY OF | 1706810005B | 12-OCT-2001 | 01-05-3531A | 02
05 | IL | CARMI, CITY OF | 1706810005B | 28-SEP-2001 | 01-05-3772A | 02
05 | IL | CARMI, CITY OF | 1706810005B | 12-OCT-2001 | 01-05-3970A | 02
05 | IL | CARMI, CITY OF | 1706810005B | 19-OCT-2001 | 02-05-0144A | 02
05 | IL | CARMI, CITY OF | 1706810005B | 14-NOV-2001 | 02-05-0402A | 02
05 | IL | CARROLL COUNTY | 1700190125B | 03-OCT-2001 | 01-05-3720A | 02
05 | IL | CARROLLTON, CITY OF | 17025001A | 05-SEP-2001 | 01-05-3415A | 02
05 | IL | CHAMPAIGN COUNTY * | 1708940175B | 11-JUL-2001 | 01-05-2061X | 02
05 | IL | CHAMPAIGN COUNTY * | 1708940150B | 31-AUG-2001 | 01-05-2935A | 02
05 | IL | CHAMPAIGN COUNTY * | 1708940225B | 12-DEC-2001 | 02-05-0666A | 02
05 | IL | CHANNAHON, VILLAGE OF | 17197C0255E | 16-NOV-2001 | 02-05-0348A | 02
05 | IL | CHICAGO, CITY OF | 17031C0515F | 29-AUG-2001 | 01-05-1925A | 02
05 | IL | CLEVELAND, VILLAGE OF | 1707480001B | 14-DEC-2001 | 02-05-0182A | 02
05 | IL | CLINTON COUNTY* | 170044A | 15-AUG-2001 | 01-05-2069A | 02
05 | IL | CLINTON COUNTY* | 170044A | 11-JUL-2001 | 01-05-2278A | 02
05 | IL | CLINTON COUNTY* | 170044B | 11-JUL-2001 | 01-05-2343A | 02
05 | IL | CLINTON COUNTY* | 170044—07B | 05-DEC-2001 | 02-05-0424A | 02
05 | IL | CLINTON COUNTY* | 170044—18 B | 28-DEC-2001 | 02-05-0439A | 02
05 | IL | CLINTON COUNTY* | 170044—33A | 14-DEC-2001 | 02-05-0669A | 02
05 | IL | COOK COUNTY | 17031C0612F | 05-JUL-2001 | 01-05-1054A | 17
05 | IL | COOK COUNTY | 17031C0044F | 03-OCT-2001 | 01-05-3001A | 17
05 | IL | COOK COUNTY | 17031C0708F | 31-OCT-2001 | 02-05-0166A | 02
05 | IL | COOK COUNTY | 17031C0236F | 24-OCT-2001 | 02-05-0202A | 02
05 | IL | COOK COUNTY | 17031C0708F | 30-NOV-2001 | 02-05-0594A | 02
05 | IL | COOK COUNTY * | 17031C0164F | 05-JUL-2001 | 01-05-2208A | 01
05 | IL | COOK COUNTY * | 17031C0089F | 15-NOV-2001 | 01-05-2360P | 05
05 | IL | CRESTWOOD, VILLAGE OF | 17031C0617F | 13-JUL-2001 | 01-05-2833A | 02
05 | IL | CRESTWOOD, VILLAGE OF | 17031C0617F | 12-SEP-2001 | 01-05-3503A | 02
05 | IL | CRESTWOOD, VILLAGE OF | 17031C0638F | 20-SEP-2001 | 01-05-664P | 06
05 | IL | CRESTWOOD, VILLAGE OF | 17031C0617F | 24-OCT-2001 | 02-05-0163A | 02
05 | IL | CRETE, VILLAGE OF | 17197C0359F | 29-AUG-2001 | 01-05-3264A | 02
05 | IL | CRETE, VILLAGE OF | 17197C0359F | 24-OCT-2001 | 01-05-3527A | 02
05 | IL | DE KALB COUNTY | 17037C0076D | 30-NOV-2001 | 01-05-3104A | 02
05 | IL | DE KALB COUNTY | 17037C0057D | 26-NOV-2001 | 02-05-0220A | 02
05 | IL | DECATUR, CITY OF | 1704290020C | 26-NOV-2001 | 02-05-0518A | 02
05 | IL | DECATUR, CITY OF | 1704290020C | 07-DEC-2001 | 02-05-0657A | 02
05 | IL | DES PLAINES, CITY OF | 17031C0217F | 18-JUL-2001 | 01-05-2149A | 02
05 | IL | DES PLAINES, CITY OF | 17031C0219F | 07-SEP-2001 | 01-05-2225A | 02
05 | IL | DES PLAINES, CITY OF | 17031C0236F | 05-JUL-2001 | 01-05-2392A | 02
05 | IL | DES PLAINES, CITY OF | 17031C0219F | 08-AUG-2001 | 01-05-3040A | 02
05 | IL | DES PLAINES, CITY OF | 17031C0217F | 24-OCT-2001 | 01-05-3439A | 02
05 | IL | DES PLAINES, CITY OF | 17031C0217F | 07-NOV-2001 | 02-05-0360X | 08
05 | IL | DOLTON, VILLAGE OF | 17031C0751F | 28-DEC-2001 | 01-05-2658A | 02
05 | IL | DOUGLAS COUNTY | 1701940100B | 17-OCT-2001 | 01-05-1242A | 02
05 | IL | DOUGLAS COUNTY | 1701940100B | 13-JUL-2001 | 01-05-2807A | 02
05 | IL | DOUGLAS COUNTY | 1701940100B | 12-SEP-2001 | 01-05-3632A | 02
05 | IL | DOUGLAS COUNTY | 1701940025B | 19-OCT-2001 | 02-05-0088A | 02
05 | IL | DOUGLAS COUNTY | 1701940100B | 26-NOV-2001 | 02-05-0552A | 02
05 | IL | DOWNERS GROVE, VILLAGE OF | 1702040006C | 28-SEP-2001 | 01-05-3558A | 02
05 | IL | DU PAGE COUNTY* | 1701790030D | 28-AUG-2001 | 01-05-1683X | 05
05 | IL | EAST PEORIA, CITY OF | 1706490010B | 07-SEP-2001 | 01-05-3347A | 02
05 | IL | EAST PEORIA, CITY OF | 1706490005B | 26-NOV-2001 | 02-05-0068A | 02
05 | IL | EAST PEORIA, CITY OF | 1706490005B | 05-DEC-2001 | 02-05-0215A | 01
05 | IL | EFFINGHAM, CITY OF | 17022901B | 26-SEP-2001 | 01-05-3664A | 02
05 | IL | EFFINGHAM, CITY OF | 17022903B | 09-NOV-2001 | 02-05-0059A | 01
05 | IL | ELGIN, CITY OF | 1700870003C | 12-DEC-2001 | 02-05-0569A | 02
05 | IL | ELGIN, CITY OF | 1700870003C | 13-JUL-2001 | 01-05-1342A | 17
05 | IL | FLOSSMOOR, VILLAGE OF | 17031C0737F | 12-SEP-2001 | 01-05-3465A | 02
05 | IL | FLOSSMOOR, VILLAGE OF | 17031C0739F | 12-SEP-2001 | 01-05-3465A | 02
05 | IL | FORSYTH, VILLAGE OF | 1710170005A | 12-OCT-2001 | 01-05-3946A | 02
05 | IL | FOX LAKE, VILLAGE OF | 17097C0020F | 25-JUL-2001 | 01-05-2768A | 02
05 | IL | FOX LAKE, VILLAGE OF | 17097C0020F | 10-AUG-2001 | 01-05-2804A | 02
05 | IL | FOX LAKE, VILLAGE OF | 17097C0020F | 20-JUL-2001 | 01-05-2904A | 02
05 | IL | FOX LAKE, VILLAGE OF | 17097C0015G | 12-SEP-2001 | 01-05-3518A | 02
05 | IL | FOX LAKE, VILLAGE OF | 17097C0015G | 12-OCT-2001 | 01-05-3718A | 02
05 | IL | FOX LAKE, VILLAGE OF | 17097C0015G | 24-OCT-2001 | 01-05-3861A | 02
05 | IL | FOX LAKE, VILLAGE OF | 17097C0015G | 31-OCT-2001 | 02-05-0213A | 02
05 | IL | FRANKFORT, VILLAGE OF | 17197C0310E | 15-JUL-2001 | 01-05-1228P | 06
05 | IL | FRANKLIN PARK, VILLAGE OF | 17031C0367F | 01-AUG-2001 | 01-05-2839A | 02
05 | IL | GARDNER, VILLAGE OF | 1702610005C | 12-DEC-2001 | 02-05-0556A | 02
05 | IL | GERMANTOWN, VILLAGE OF | 170049B | 25-JUL-2001 | 01-05-2599A | 02
05 | IL | GERMANTOWN, VILLAGE OF | 170049B | 25-JUL-2001 | 01-05-2632A | 02
05 | IL | GERMANTOWN, VILLAGE OF | 170049B | 13-NOV-2001 | 02-05-0124A | 02
05 | IL | GERMANTOWN, VILLAGE OF | 170049—01 B | 14-NOV-2001 | 02-05-0126A | 02
05 | IL | GERMANTOWN, VILLAGE OF | 170049—01B | 12-DEC-2001 | 02-05-0674A | 02
05 | IL | GLEN ELLYN, VILLAGE OF | 1702070005C | 18-JUL-2001 | 01-05-2352P | 05
05 | IL | GLENVIEW, VILLAGE OF | 17031C0233F | 12-OCT-2001 | 01-05-3796A | 02
05 | IL | GRANITE CITY, CITY OF | 1704430002A | 28-NOV-2001 | 01-05-3823A | 02
05 | IL | GRAYSLAKE, VILLAGE OF | 17097C0132G | 06-JUL-2001 | 01-05-2331A | 02
05 | IL | GRAYSLAKE, VILLAGE OF | 17097C0131G | 19-OCT-2001 | 02-05-0090A | 02
05 | IL | GRUNDY COUNTY | 1702560040C | 10-AUG-2001 | 01-05-2756A | 17
05 | IL | GRUNDY COUNTY | 1702560045C | 10-AUG-2001 | 01-05-2756A | 17
05 | IL | GRUNDY COUNTY | 1702560040C | 25-JUL-2001 | 01-05-3014A | 02
05 | IL | GRUNDY COUNTY | 1702560040C | 31-AUG-2001 | 01-05-3483A | 17
05 | IL | GRUNDY COUNTY | 1702560045C | 31-AUG-2001 | 01-05-3483A | 17
05 | IL | GRUNDY COUNTY | 1702560085C | 28-DEC-2001 | 02-05-0311A | 01
05 | IL | HARDIN COUNTY | 1710020100B | 28-NOV-2001 | 02-05-0572A | 02
05 | IL | HAWTHORN WOODS, VILLAGE OF | 17097C0232F | 12-DEC-2001 | 01-05-2982A | 17
05 | IL | HAZEL CREST, VILLAGE OF | 17031C0729F | 10-AUG-2001 | 01-05-2549A | 02
05 | IL | HIGHLAND PARK, CITY OF | 17097C0287F | 03-AUG-2001 | 01-05-1985A | 02
05 | IL | HIGHLAND PARK, CITY OF | 17097C0291F | 24-OCT-2001 | 01-05-3941A | 02
05 | IL | HINSDALE, VILLAGE OF | 1701050004B | 06-DEC-2001 | 02-05-0293A | 02
05 | IL | HINSDALE, VILLAGE OF | 1701050002B | 07-SEP-2001 | 01-05-3368A | 02
05 | IL | HOFFMAN ESTATES, VILLAGE OF | 17031C0167F | 14-NOV-2001 | 02-05-0324A | 02
05 | IL | HOLIDAY HILLS, VILLAGE OF | 1709360001B | 13-JUL-2001 | 01-05-2484A | 02
05 | IL | HOLIDAY HILLS, VILLAGE OF | 1709360001B | 01-AUG-2001 | 01-05-3034A | 02
05 | IL | HOLIDAY HILLS, VILLAGE OF | 1709360001B | 29-AUG-2001 | 01-05-3406A | 02
05 | IL | HOLIDAY HILLS, VILLAGE OF | 1709360001B | 19-DEC-2001 | 02-05-0660A | 02
05 | IL | HUNTLEY, VILLAGE OF | 1704800003C | 28-NOV-2001 | 02-05-0378A | 01
05 | IL | IROQUOIS COUNTY | 17075C0105D | 24-AUG-2001 | 01-05-2223A | 02
05 | IL | IROQUOIS COUNTY | 17075C0110D | 24-AUG-2001 | 01-05-2223A | 02
05 | IL | IROQUOIS COUNTY | 17075C0045D | 05-OCT-2001 | 01-05-3690A | 02
05 | IL | IROQUOIS COUNTY | 17075C0035D | 14-DEC-2001 | 01-05-3845A | 02
05 | IL | ITASCA, VILLAGE OF | 1702100003B | 19-DEC-2001 | 01-05-2906A | 02
05 | IL | JACKSON COUNTY | 1709270006B | 21-SEP-2001 | 01-05-2214A | 02
05 | IL | JACKSON COUNTY | 1709270006B | 12-OCT-2001 | 01-05-3967A | 02
05 | IL | JOLIET, CITY OF | 17197C0255E | 11-JUL-2001 | 01-05-2620A | 02
05 | IL | JOLIET, CITY OF | 17197C0141E | 13-JUL-2001 | 01-05-1211P | 06
05 | IL | JOLIET, CITY OF | 17197C0130E | 03-OCT-2001 | 01-05-3608A | 02
05 | IL | JOLIET, CITY OF | 17197C0141E | 17-OCT-2001 | 01-05-3969A | 02
05 | IL | JOLIET, CITY OF | 17197C0130E | 07-NOV-2001 | 02-05-0309A | 02
05 | IL | JOLIET, CITY OF | 17197C0144E | 21-DEC-2001 | 02-05-0627A | 02
05 | IL | KANE COUNTY * | 1708960034B | 18-DEC-2001 | 01-05-2373P | 05
05 | IL | KANE COUNTY * | 1708960035B | 18-DEC-2001 | 01-05-2373P | 05
05 | IL | KANE COUNTY * | 1708960106B | 06-DEC-2001 | 01-05-2948P | 05
05 | IL | KANE COUNTY * | 1708960102B | 12-SEP-2001 | 01-05-3299A | 02
05 | IL | KANE COUNTY * | 1708960106B | 12-DEC-2001 | 02-05-0463A | 02
05 | IL | KANKAKEE COUNTY | 1703360185C | 13-JUL-2001 | 01-05-367A | 02
05 | IL | KANKAKEE COUNTY | 1703360185C | 26-NOV-2001 | 02-05-0545A | 17
05 | IL | KANKAKEE COUNTY | 1703360170C | 05-DEC-2001 | 02-05-0581A | 17
05 | IL | KENDALL COUNTY * | 1703410095C | 26-JUL-2001 | 01-05-605P | 05
05 | IL | KILDEER, VILLAGE OF | 17097C0241F | 07-NOV-2001 | 02-05-0314X | 17
05 | IL | KIRKLAND, CITY OF | 17037C0004D | 20-JUL-2001 | 01-05-2652A | 01
05 | IL | KIRKLAND, CITY OF | 17037C0004D | 07-SEP-2001 | 01-05-3353A | 02
05 | IL | LA SALLE COUNTY | 17099C0405E | 09-NOV-2001 | 02-05-0212A | 17
05 | IL | LAKE COUNTY | 17097C0127G | 21-SEP-2001 | 01-05-2579A | 02
05 | IL | LAKE COUNTY | 17097C0166G | 05-JUL-2001 | 01-05-2642A | 02
05 | IL | LAKE COUNTY | 17097C0019F | 05-JUL-2001 | 01-05-2666A | 02
05 | IL | LAKE COUNTY | 17097C0166G | 21-SEP-2001 | 01-05-2827A | 02
05 | IL | LAKE COUNTY | 17097C0110H | 13-JUL-2001 | 01-05-2831A | 02
05 | IL | LAKE COUNTY | 17097C0010F | 27-JUL-2001 | 01-05-2895A | 02
05 | IL | LAKE COUNTY | 17097C0036F | 24-OCT-2001 | 01-05-3679A | 02
05 | IL | LAKE COUNTY | 17097C0110H | 14-NOV-2001 | 02-05-0020A | 02
05 | IL | LAKE COUNTY | 17097C0020F | 07-DEC-2001 | 02-05-0244A | 02
05 | IL | LAKE COUNTY | 17097C0019F | 09-NOV-2001 | 02-05-0342A | 02
05 | IL | LAKE COUNTY | 17097C0258G | 05-DEC-2001 | 02-05-0491A | 02
05 | IL | LAKE COUNTY | 17097C0162G | 26-NOV-2001 | 02-05-0506A | 02
05 | IL | LAKE COUNTY | 17097C0110H | 26-NOV-2001 | 02-05-0538A | 02
05 | IL | LAKE COUNTY | 17097C0162G | 26-NOV-2001 | 02-05-0565A | 02
05 | IL | LAKE COUNTY | 17097C0166G | 07-DEC-2001 | 02-05-0653A | 02
05 | IL | LAKE FOREST, CITY OF | 17097C0277F | 03-OCT-2001 | 01-05-2319A | 01
05 | IL | LAKE FOREST, CITY OF | 17097C0257F | 14-SEP-2001 | 01-05-2715A | 01
05 | IL | LAKE ZURICH, VILLAGE OF | 17097C0229F | 18-JUL-2001 | 01-05-1260P | 06
05 | IL | LAKE ZURICH, VILLAGE OF | 17097C0229F | 28-NOV-2001 | 02-05-0486A | 01
05 | IL | LAKEMOOR, VILLAGE OF | 1709150001B | 07-SEP-2001 | 01-05-3312A | 02
05 | IL | LAKEMOOR, VILLAGE OF | 17097C0105H | 13-JUL-2001 | 01-05-2440A | 02
05 | IL | LAKEMOOR, VILLAGE OF | 17097C0105H | 10-AUG-2001 | 01-05-3169A | 01
05 | IL | LANSING, VILLAGE OF | 17031C0759F | 01-AUG-2001 | 01-05-3059A | 02
05 | IL | LANSING, VILLAGE OF | 17031C0759F | 12-OCT-2001 | 01-05-3181A | 02
05 | IL | LAWRENCE COUNTY | 1704090050B | 25-JUL-2001 | 01-05-2539A | 02
05 | IL | LAWRENCE COUNTY | 1704090100B | 19-SEP-2001 | 01-05-2759A | 02
05 | IL | LIBERTYVILLE, VILLAGE OF | 17097C0161F | 08-AUG-2001 | 01-05-3062A | 02
05 | IL | LIBERTYVILLE, VILLAGE OF | 17097C0168G | 28-SEP-2001 | 01-05-3693A | 02
05 | IL | LINCOLNSHIRE, VILLAGE OF | 17097C0258G | 28-SEP-2001 | 01-05-3779A | 02
05 | IL | LISLE, VILLAGE OF | 1701970055B | 24-JUL-2001 | 01-05-1153P | 05
05 | IL | LOCKPORT, CITY OF | 17197C0159E | 26-SEP-2001 | 01-05-2571A | 02
05 | IL | LOCKPORT, CITY OF | 17197C0180E | 27-OCT-2001 | 01-05-2724P | 05
05 | IL | LOCKPORT, CITY OF | 17197C0156E | 03-OCT-2001 | 01-05-3856A | 02
05 | IL | LOGAN COUNTY | 17107C0150C | 31-AUG-2001 | 01-05-2580A | 02
05 | IL | LONG GROVE, VILLAGE OF | 17097C0234F | 20-JUL-2001 | 01-05-2401A | 02
05 | IL | LONG GROVE, VILLAGE OF | 17097C0234F | 21-SEP-2001 | 01-05-3682A | 02
05 | IL | LONG GROVE, VILLAGE OF | 17097C0234F | 28-SEP-2001 | 01-05-3709A | 02
05 | IL | LONG GROVE, VILLAGE OF | 17097C0234F | 31-OCT-2001 | 02-05-0275A | 02
05 | IL | LOVES PARK, CITY OF | 1707220010C | 31-OCT-2001 | 02-05-0252A | 02
05 | IL | LYNWOOD, VILLAGE OF | 17031C0768F | 27-JUL-2001 | 01-05-1858A | 17
05 | IL | LYNWOOD, VILLAGE OF | 17031C0768F | 13-JUL-2001 | 01-05-2221A | 01
05 | IL | LYNWOOD, VILLAGE OF | 17031C0766F | 25-JUL-2001 | 01-05-2537A | 02
05 | IL | LYNWOOD, VILLAGE OF | 17031C0768F | 31-OCT-2001 | 01-05-2787A | 17
05 | IL | LYNWOOD, VILLAGE OF | 17031C0768F | 31-OCT-2001 | 01-05-2840A | 17
05 | IL | LYNWOOD, VILLAGE OF | 17031C0768F | 12-SEP-2001 | 01-05-2845A | 17
05 | IL | LYNWOOD, VILLAGE OF | 17031C0768F | 28-NOV-2001 | 01-05-3414A | 17
05 | IL | LYNWOOD, VILLAGE OF | 17031C0766F | 12-DEC-2001 | 02-05-0760A | 02
05 | IL | MACKINAW, VILLAGE OF | 1709590001A | 29-AUG-2001 | 01-05-3398A | 02
05 | IL | MACON COUNTY | 1709280020B | 07-NOV-2001 | 02-05-0357X | 17
05 | IL | MADISON COUNTY | 1704360085B | 25-JUL-2001 | 01-05-2692A | 02
05 | IL | MADISON COUNTY | 1704360085B | 12-OCT-2001 | 01-05-3530A | 02
05 | IL | MADISON COUNTY | 1704360085B | 14-SEP-2001 | 01-05-3668A | 02
05 | IL | MADISON COUNTY | 1704360085B | 07-NOV-2001 | 01-05-3754A | 02
05 | IL | MARION, CITY OF | 1707190003B | 05-NOV-2001 | 00-05-381P | 05
05 | IL | MASON COUNTY | 1704630025B | 07-DEC-2001 | 01-05-3424A | 02
05 | IL | MATTESON, VILLAGE OF | 17031C0719F | 17-AUG-2001 | 01-05-2788A | 01
05 | IL | MATTESON, VILLAGE OF | 17031C0738F | 17-AUG-2001 | 01-05-2788A | 01
05 | IL | MCHENRY COUNTY | 1707320115B | 12-SEP-2001 | 01-05-2428A | 02
05 | IL | MCHENRY COUNTY | 1707320230B | 27-JUL-2001 | 01-05-2757A | 02
05 | IL | MCHENRY COUNTY | 1707320230B | 22-AUG-2001 | 01-05-3248A | 02
05 | IL | MCHENRY COUNTY | 1707320355B | 03-OCT-2001 | 01-05-3684A | 02
05 | IL | MCHENRY COUNTY | 1707320025B | 14-NOV-2001 | 01-05-3758A | 02
05 | IL | MCHENRY COUNTY | 1707320355B | 03-OCT-2001 | 01-05-3871A | 02
05 | IL | MCHENRY COUNTY | 1707320240B | 19-OCT-2001 | 02-05-0048A | 02
05 | IL | MCHENRY COUNTY | 1707320115B | 30-NOV-2001 | 02-05-0498A | 02
05 | IL | MCHENRY COUNTY | 1707320355B | 12-DEC-2001 | 02-05-0520A | 02
05 | IL | MCLEAN COUNTY | 17113C0310D | 12-SEP-2001 | 01-05-3469A | 02
05 | IL | MCLEAN COUNTY | 17113C0175D | 28-NOV-2001 | 01-05-3849A | 02
05 | IL | MCLEAN COUNTY | 17113C0310D | 07-NOV-2001 | 02-05-0201A | 02
05 | IL | MCLEAN COUNTY | 17113C0310D | 05-DEC-2001 | 02-05-0495A | 02
05 | IL | MCLEAN COUNTY | 17113C0175D | 05-DEC-2001 | 02-05-0589A | 02
05 | IL | MIDLOTHIAN, VILLAGE OF | 17031C0726F | 31-AUG-2001 | 01-05-3442A | 02
05 | IL | MOLINE, CITY OF | 1705910010B | 21-NOV-2001 | 02-05-0119A | 02
05 | IL | MONMOUTH, CITY OF | 17067602B | 29-AUG-2001 | 01-05-2887A | 02
05 | IL | MORRIS, CITY OF | 1702630005C | 08-AUG-2001 | 01-05-3121A | 02
05 | IL | MORRIS, CITY OF | 1702630005C | 26-OCT-2001 | 02-05-0198A | 02
05 | IL | MORRIS, CITY OF | 1702630005C | 26-OCT-2001 | 02-05-0219A | 02
05 | IL | MORRIS, CITY OF | 1702630005C | 26-NOV-2001 | 02-05-0533A | 02
05 | IL | MORRIS, CITY OF | 1702630005C | 26-NOV-2001 | 02-05-0536A | 02
05 | IL | MORRIS, CITY OF | 1702630005C | 26-NOV-2001 | 02-05-0549A | 02
05 | IL | MORRIS, CITY OF | 1702630005C | 26-NOV-2001 | 02-05-0559A | 02
05 | IL | MORRIS, CITY OF | 1702630005C | 30-NOV-2001 | 02-05-0619A | 02
05 | IL | MORRISON, CITY OF | 1706910001B | 19-SEP-2001 | 01-05-3719A | 02
05 | IL | MOUNT PROSPECT, VILLAGE OF | 17031C0211F | 07-SEP-2001 | 01-05-3156A | 02
05 | IL | MOUNT PROSPECT, VILLAGE OF | 17031C0207F | 14-SEP-2001 | 01-05-3635A | 02
05 | IL | MOUNT PROSPECT, VILLAGE OF | 17031C0207F | 24-OCT-2001 | 02-05-0175A | 02
05 | IL | MOUNT PROSPECT, VILLAGE OF | 17031C0208F | 31-OCT-2001 | 02-05-0177A | 02
05 | IL | MOUNT PROSPECT, VILLAGE OF | 17031C0207F | 09-NOV-2001 | 02-05-0332A | 02
05 | IL | MOUNT PROSPECT, VILLAGE OF | 17031C0207F | 30-NOV-2001 | 02-05-0333A | 02
05 | IL | MOUNT PROSPECT, VILLAGE OF | 17031C0207F | 26-NOV-2001 | 02-05-0334A | 02
05 | IL | MOUNT PROSPECT, VILLAGE OF | 17031C0209F | 26-NOV-2001 | 02-05-0334A | 02
05 | IL | MOUNT PROSPECT, VILLAGE OF | 17031C0207F | 19-DEC-2001 | 02-05-0488A | 02
05 | IL | NAPERVILLE, CITY OF | 17197C0033F | 05-JUL-2001 | 01-05-304A | 02
05 | IL | NAPERVILLE, CITY OF | 1702130021C | 28-SEP-2001 | 01-05-3790A | 02
05 | IL | NELSON, VILLAGE OF | 17103C0076D | 31-AUG-2001 | 01-05-3431A | 02
05 | IL | NEW ATHENS, VILLAGE OF | 1706320005B | 29-NOV-2001 | 01-05-3785P | 06
05 | IL | NORMAL, TOWN OF | 17113C0314D | 07-NOV-2001 | 01-05-2861A | 02
05 | IL | NORMAL, TOWN OF | 17113C0314D | 21-SEP-2001 | 01-05-3428A | 17
05 | IL | NORTHBROOK, VILLAGE OF | 17031C0227F | 31-AUG-2001 | 01-05-3261A | 02
05 | IL | NORTHFIELD, VILLAGE OF | 17031C0232F | 05-JUL-2001 | 01-05-2259A | 02
05 | IL | NORTHFIELD, VILLAGE OF | 17031C0232F | 18-JUL-2001 | 01-05-2654A | 02
05 | IL | NORTHFIELD, VILLAGE OF | 17031C0232F | 01-AUG-2001 | 01-05-3033A | 02
05 | IL | NORTHFIELD, VILLAGE OF | 17031C0232F | 19-SEP-2001 | 01-05-3640A | 02
05 | IL | NORTHFIELD, VILLAGE OF | 17031C0232F | 12-OCT-2001 | 02-05-0069A | 02
05 | IL | NORTHFIELD, VILLAGE OF | 17031C0232F | 26-NOV-2001 | 02-05-0551A | 02
05 | IL | OAK FOREST, CITY OF | 17031C0707F | 31-AUG-2001 | 01-05-2626A | 02
05 | IL | OAK FOREST, CITY OF | 17031C0726F | 11-JUL-2001 | 01-05-2247A | 17
05 | IL | OAK FOREST, CITY OF | 17031C0726F | 19-SEP-2001 | 01-05-2758A | 17
05 | IL | OAK FOREST, CITY OF | 17031C0707F | 24-AUG-2001 | 01-05-3084A | 02
05 | IL | OAK FOREST, CITY OF | 17031C0707F | 12-DEC-2001 | 02-05-0061A | 02
05 | IL | OAK LAWN, VILLAGE OF | 17031C0609F | 14-NOV-2001 | 01-05-3336A | 17
05 | IL | OAK LAWN, VILLAGE OF | 17031C0608F | 10-OCT-2001 | 01-05-3964A | 02
05 | IL | OAK LAWN, VILLAGE OF | 17031C0628F | 10-OCT-2001 | 01-05-3987A | 02
05 | IL | ORLAND PARK, VILLAGE OF | 17031C0684F | 31-AUG-2001 | 01-05-2760A | 01
05 | IL | ORLAND PARK, VILLAGE OF | 17031C0703F | 31-AUG-2001 | 01-05-2760A | 01
05 | IL | ORLAND PARK, VILLAGE OF | 17031C0682F | 16-NOV-2001 | 02-05-0504A | 02
05 | IL | PALATINE, VILLAGE OF | 17031C0044F | 22-OCT-2001 | 01-05-1413P | 05
05 | IL | PALATINE, VILLAGE OF | 17031C0177F | 21-NOV-2001 | 02-05-0131A | 01
05 | IL | PALATINE, VILLAGE OF | 17031C0044F | 31-AUG-2001 | 01-05-3002A | 17
05 | IL | PALATINE, VILLAGE OF | 17031C0044F | 24-OCT-2001 | 02-05-0200X | 17
05 | IL | PALOS HILLS, CITY OF | 17031C0604F | 27-JUL-2001 | 01-05-2427A | 02
05 | IL | PALOS HILLS, CITY OF | 17031C0604F | 18-JUL-2001 | 01-05-2688A | 02
05 | IL | PALOS HILLS, CITY OF | 17031C0604F | 06-JUL-2001 | 01-05-2748A | 02
05 | IL | PALOS HILLS, CITY OF | 17031C0604F | 22-AUG-2001 | 01-05-2829A | 02
05 | IL | PALOS HILLS, CITY OF | 17031C0604F | 12-SEP-2001 | 01-05-3103A | 02
05 | IL | PALOS HILLS, CITY OF | 17031C0603F | 05-OCT-2001 | 01-05-3407A | 02
05 | IL | PALOS PARK, VILLAGE OF | 17031C0611F | 18-JUL-2001 | 01-05-2113A | 02
05 | IL | PALOS PARK, VILLAGE OF | 17031C0611F | 27-JUL-2001 | 01-05-2560A | 02
05 | IL | PALOS PARK, VILLAGE OF | 17031C0612F | 05-JUL-2001 | 01-05-2763A | 02
05 | IL | PEORIA COUNTY | 1705330125B | 26-SEP-2001 | 01-05-3204A | 01
05 | IL | PEORIA COUNTY | 1705330125B | 26-OCT-2001 | 02-05-0206A | 02
05 | IL | PEORIA COUNTY | 1705330125B | 09-NOV-2001 | 02-05-0341A | 02
05 | IL | PIATT COUNTY | 1705420004B | 05-JUL-2001 | 01-05-2489A | 02
05 | IL | PLAINFIELD, VILLAGE OF | 17197C0045F | 26-JUL-2001 | 00-05-361P | 05
05 | IL | PLAINFIELD, VILLAGE OF | 17197C0127E | 12-OCT-2001 | 01-05-3926A | 02
05 | IL | PONTIAC, CITY OF | 1704260001C | 05-JUL-2001 | 01-05-2719A | 02
05 | IL | POSEN, VILLAGE OF | 17031C0643F | 02-NOV-2001 | 01-05-2168A | 02
05 | IL | POSEN, VILLAGE OF | 17031C0643F | 17-AUG-2001 | 01-05-2743A | 02
05 | IL | POSEN, VILLAGE OF | 17031C0643F | 02-NOV-2001 | 01-05-2888A | 02
05 | IL | PROSPECT HEIGHTS, CITY OF | 17031C0206F | 24-OCT-2001 | 02-05-0142A | 02
05 | IL | PROSPECT HEIGHTS, CITY OF | 17031C0206F | 30-NOV-2001 | 02-05-0593A | 02
05 | IL | QUINCY, CITY OF | 1700010160C | 19-OCT-2001 | 01-05-2873A | 02
05 | IL | RIVER GROVE, VILLAGE OF | 17031C0386F | 03-AUG-2001 | 01-05-2289A | 02
05 | IL | ROBBINS, VILLAGE OF | 17031C0639F | 11-JUL-2001 | 01-05-2502A | 02
05 | IL | ROCHELLE, CITY OF | 1705250470A | 14-SEP-2001 | 01-05-3258A | 01
05 | IL | ROCHELLE, CITY OF | 1705320002B | 14-SEP-2001 | 01-05-3258A | 01
05 | IL | ROCHELLE, CITY OF | 1705250470A | 12-JUL-2001 | 01-05-635A | 01
05 | IL | ROCHELLE, CITY OF | 1705320002B | 12-JUL-2001 | 01-05-635A | 01
05 | IL | ROLLING MEADOWS, CITY OF | 17031C0184F | 27-JUL-2001 | 01-05-2391A | 17
05 | IL | ROMEOVILLE, VILLAGE OF | 17197C0065F | 19-JUL-2001 | 01-05-2034P | 06
05 | IL | ROMEOVILLE, VILLAGE OF | 17197C0065F | 27-JUL-2001 | 01-05-2892A | 02
05 | IL | ROMEOVILLE, VILLAGE OF | 17197C0065F | 16-NOV-2001 | 02-05-0490A | 02
05 | IL | ROMEOVILLE, VILLAGE OF | 17197C0065F | 12-DEC-2001 | 02-05-0568A | 02
05 | IL | ROUND LAKE BEACH, VILLAGE OF | 17097C0126F | 22-AUG-2001 | 01-05-3064A | 02
05 | IL | ROUND LAKE BEACH, VILLAGE OF | 17097C0127G | 21-SEP-2001 | 01-05-3646A | 02
05 | IL | ROUND LAKE, VILLAGE OF | 17097C0110H | 25-JUL-2001 | 01-05-2500A | 02
05 | IL | ROUND LAKE, VILLAGE OF | 17097C0110H | 24-AUG-2001 | 01-05-2501A | 02
05 | IL | ROUND LAKE, VILLAGE OF | 17097C0110H | 14-DEC-2001 | 02-05-0389A | 01
05 | IL | SANGAMON COUNTY * | 1709120120C | 25-JUL-2001 | 01-05-2066A | 02
05 | IL | SANGAMON COUNTY * | 1709120250C | 14-SEP-2001 | 01-05-2943A | 01
05 | IL | SAUK VILLAGE, VILLAGE OF | 17031C0827F | 25-JUL-2001 | 01-05-2466A | 17
05 | IL | SCHAUMBURG, VILLAGE OF | 17031C0188F | 05-JUL-2001 | 01-05-2676A | 02
05 | IL | SCHAUMBURG, VILLAGE OF | 17031C0188F | 02-NOV-2001 | 01-05-3047A | 17
05 | IL | SLEEPY HOLLOW, VILLAGE OF | 1703310001B | 25-JUL-2001 | 01-05-2076A | 02
05 | IL | SLEEPY HOLLOW, VILLAGE OF | 1703310001B | 15-AUG-2001 | 01-05-3286X | 02
05 | IL | SOUTH HOLLAND, VILLAGE OF | 17031C0754F | 26-NOV-2001 | 01-05-3705A | 01
05 | IL | ST. CLAIR COUNTY * | 1706160065A | 11-JUL-2001 | 01-05-2600A | 02
05 | IL | STREAMWOOD, VILLAGE OF | 17031C0168F | 25-JUL-2001 | 01-05-2637A | 02
05 | IL | SUGAR GROVE, VILLAGE OF | 1703330001B | 19-SEP-2001 | 01-05-3322A | 02
05 | IL | SWANSEA, VILLAGE OF | 1706370001B | 03-OCT-2001 | 01-05-3829A | 17
05 | IL | TINLEY PARK, CITY OF | 17031C0708F | 13-JUL-2001 | 01-05-0760A | 02
05 | IL | TINLEY PARK, CITY OF | 17031C0709F | 05-JUL-2001 | 01-05-2510A | 02
05 | IL | TINLEY PARK, CITY OF | 17031C0708F | 13-JUL-2001 | 01-05-2559A | 02
05 | IL | TINLEY PARK, CITY OF | 17031C0717F | 13-JUL-2001 | 01-05-2659A | 02
05 | IL | TINLEY PARK, CITY OF | 17031C0709F | 20-JUL-2001 | 01-05-2746A | 02
05 | IL | TINLEY PARK, CITY OF | 17031C0709F | 10-AUG-2001 | 01-05-2855A | 01
05 | IL | TINLEY PARK, CITY OF | 17031C0708F | 25-JUL-2001 | 01-05-2896A | 02
05 | IL | TINLEY PARK, CITY OF | 17031C0708F | 25-JUL-2001 | 01-05-3021A | 02
05 | IL | TINLEY PARK, CITY OF | 17031C0709F | 25-JUL-2001 | 01-05-3043A | 02
05 | IL | TINLEY PARK, CITY OF | 17031C0708F | 22-AUG-2001 | 01-05-3119A | 02
05 | IL | TINLEY PARK, CITY OF | 17031C0716F | 21-SEP-2001 | 01-05-3382A | 02
05 | IL | TINLEY PARK, CITY OF | 17031C0708F | 19-SEP-2001 | 01-05-3760A | 02
05 | IL | TINLEY PARK, CITY OF | 17031C0708F | 31-OCT-2001 | 02-05-0001A | 02
05 | IL | TINLEY PARK, CITY OF | 17031C0708F | 31-OCT-2001 | 02-05-0002A | 02
05 | IL | TINLEY PARK, CITY OF | 17031C0709F | 31-OCT-2001 | 02-05-0002A | 02
05 | IL | TINLEY PARK, CITY OF | 17031C0708F | 31-OCT-2001 | 02-05-0003A | 02
05 | IL | TINLEY PARK, CITY OF | 17031C0709F | 31-OCT-2001 | 02-05-0003A | 02
05 | IL | TINLEY PARK, CITY OF | 17031C0716F | 31-OCT-2001 | 02-05-0003A | 02
05 | IL | TINLEY PARK, CITY OF | 17031C0717F | 31-OCT-2001 | 02-05-0003A | 02
05 | IL | TINLEY PARK, CITY OF | 17031C0716F | 02-NOV-2001 | 02-05-0181A | 01
05 | IL | TUSCOLA, CITY OF | 1701950005C | 25-JUL-2001 | 01-05-2978A | 02
05 | IL | TUSCOLA, CITY OF | 1701950005C | 08-AUG-2001 | 01-05-3184A | 02
05 | IL | TUSCOLA, CITY OF | 1701950005C | 15-AUG-2001 | 01-05-3240A | 02
05 | IL | TUSCOLA, CITY OF | 1701950005C | 09-NOV-2001 | 02-05-0366A | 02
05 | IL | URBANA, CITY OF | 1700350009B | 07-NOV-2001 | 02-05-0110A | 02
05 | IL | VERNON HILLS, VILLAGE OF | 17097C0164G | 28-SEP-2001 | 01-05-3706A | 02
05 | IL | VERNON HILLS, VILLAGE OF | 17097C0252G | 28-SEP-2001 | 01-05-3706A | 02
05 | IL | VERNON HILLS, VILLAGE OF | 17097C0252G | 12-OCT-2001 | 02-05-0056A | 02
05 | IL | VILLA GROVE, CITY OF | 1701940050B | 19-SEP-2001 | 01-05-3118A | 01
05 | IL | VILLA GROVE, CITY OF | 1701940050B | 07-NOV-2001 | 02-05-0329A | 02
05 | IL | VILLA PARK, VILLAGE OF | 1702170001B | 28-AUG-2001 | 01-05-1683X | 05
05 | IL | WALNUT, VILLAGE OF | 1700170001B | 09-NOV-2001 | 02-05-0249A | 02
05 | IL | WATSEKA, CITY OF | 17075C0120D | 07-DEC-2001 | 01-05-3507A | 02
05 | IL | WATSEKA, CITY OF | 17075C0120D | 21-SEP-2001 | 01-05-3738A | 02
05 | IL | WAYNE COUNTY | 1710030008A | 10-OCT-2001 | 01-05-3991A | 02
05 | IL | WESTCHESTER, VILLAGE OF | 17031C0459F | 25-JUL-2001 | 01-05-2852A | 02
05 | IL | WESTCHESTER, VILLAGE OF | 17031C0459F | 27-JUL-2001 | 01-05-2925A | 02
05 | IL | WESTCHESTER, VILLAGE OF | 17031C0457F | 02-AUG-2001 | 01-05-2936A | 02
05 | IL | WESTCHESTER, VILLAGE OF | 17031C0459F | 10-AUG-2001 | 01-05-2952A | 02
05 | IL | WESTCHESTER, VILLAGE OF | 17031C0459F | 24-AUG-2001 | 01-05-3250A | 02
05 | IL | WESTERN SPRINGS, VILLAGE OF | 17031C0466F | 05-JUL-2001 | 01-05-2558A | 02
05 | IL | WESTERN SPRINGS, VILLAGE OF | 17031C0467F | 05-JUL-2001 | 01-05-2558A | 02
05 | IL | WHEELING, VILLAGE OF | 17031C0069F | 11-JUL-2001 | 01-05-2613X | 01
05 | IL | WHEELING, VILLAGE OF | 17031C0206F | 19-SEP-2001 | 01-05-2621A | 02
05 | IL | WHEELING, VILLAGE OF | 17031C0068F | 27-JUL-2001 | 01-05-2903A | 02
05 | IL | WHEELING, VILLAGE OF | 17031C0069F | 27-JUL-2001 | 01-05-2903A | 02
05 | IL | WHEELING, VILLAGE OF | 17031C0068F | 09-NOV-2001 | 01-05-3837A | 01
05 | IL | WILL COUNTY | 17197C0385E | 15-AUG-2001 | 01-05-3225A | 02
05 | IL | WILL COUNTY | 17197C0310E | 26-OCT-2001 | 01-05-3228A | 02
05 | IL | WILL COUNTY | 17197C0090E | 07-NOV-2001 | 01-05-3651A | 02
05 | IL | WILL COUNTY | 17197C0385E | 12-OCT-2001 | 01-05-3935A | 02
05 | IL | WILL COUNTY | 17197C0090E | 28-NOV-2001 | 01-05-4004A | 01
05 | IL | WILL COUNTY | 17197C0134E | 30-NOV-2001 | 02-05-0578A | 02
05 | IL | WILL COUNTY | 17197C0285E | 19-DEC-2001 | 02-05-0852A | 02
05 | IL | WILL COUNTY * | 17197C0045F | 12-OCT-2001 | 00-05-361P | 05
05 | IL | WILLOW SPRINGS, VILLAGE OF | 17031C0582F | 25-JUL-2001 | 01-05-2511A | 01
05 | IL | WILLOW SPRINGS, VILLAGE OF | 17031C0582F | 20-JUL-2001 | 01-05-2583A | 01
05 | IL | WILLOW SPRINGS, VILLAGE OF | 17031C0582F | 13-JUL-2001 | 01-05-2820A | 02
05 | IL | WILMINGTON, CITY OF | 17197C0417E | 15-AUG-2001 | 01-05-3082A | 02
05 | IL | WILMINGTON, CITY OF | 17197C0408E | 07-DEC-2001 | 02-05-0656A | 02
05 | IL | WINNEBAGO COUNTY | 1707200110B | 30-NOV-2001 | 02-05-0184A | 02
05 | IL | WINNEBAGO COUNTY | 1707200010B | 26-NOV-2001 | 02-05-0505A | 02
05 | IL | WINNEBAGO COUNTY * | 1707200070C | 22-AUG-2001 | 01-05-2625P | 06
05 | IL | WOOD RIVER, CITY OF | 1704510005B | 22-AUG-2001 | 01-05-3244A | 02
05 | IL | WOODLAND, VILLAGE OF | 17075C0185D | 05-DEC-2001 | 02-05-0272A | 02
05 | IL | WOODLAND, VILLAGE OF | 17075C0185D | 05-DEC-2001 | 02-05-0408A | 02
05 | IN | ALLEN COUNTY | 18003C0155E | 13-JUL-2001 | 01-05-1525A | 01
05 | IN | ALLEN COUNTY * | 18003C0350D | 26-SEP-2001 | 01-05-2631A | 02
05 | IN | ALLEN COUNTY * | 18003C0165E | 28-NOV-2001 | 01-05-3552A | 17
05 | IN | ALLEN COUNTY * | 18003C0350D | 26-SEP-2001 | 01-05-3573A | 02
05 | IN | ALLEN COUNTY * | 18003C0285E | 08-AUG-2001 | 01-05-933P | 05
05 | IN | ALLEN COUNTY * | 18003C0165E | 19-DEC-2001 | 02-05-0120A | 02
05 | IN | AUBURN, CITY OF | 1800460005C | 21-NOV-2001 | 02-05-0483A | 02
05 | IN | BARTHOLOMEW COUNTY | 1800060150B | 15-AUG-2001 | 01-05-3337A | 02
05 | IN | BARTHOLOMEW COUNTY | 1800060050B | 19-SEP-2001 | 01-05-3670A | 02
05 | IN | BARTHOLOMEW COUNTY | 1800060100B | 10-OCT-2001 | 01-05-3977A | 02
05 | IN | BARTHOLOMEW COUNTY | 1800060075B | 14-DEC-2001 | 02-05-0831A | 02
05 | IN | BLOOMINGTON, CITY OF | 1801690020C | 14-DEC-2001 | 01-05-2532A | 17
05 | IN | BLOOMINGTON, CITY OF | 1801690025C | 19-SEP-2001 | 01-05-2588A | 02
05 | IN | BROWN COUNTY | 1851740020B | 12-SEP-2001 | 01-05-2777A | 01
05 | IN | BROWN COUNTY | 1851740060B | 30-NOV-2001 | 02-05-0585A | 02
05 | IN | CARMEL, CITY OF | 1800810009C | 27-JUL-2001 | 01-05-2589A | 02
05 | IN | CLARK COUNTY | 1804260125C | 03-AUG-2001 | 01-05-3091A | 02
05 | IN | CLARK COUNTY | 1804260175C | 19-SEP-2001 | 01-05-3235A | 01
05 | IN | CLARK COUNTY | 1804260175C | 17-OCT-2001 | 01-05-3339A | 02
05 | IN | CLARK COUNTY | 1804260175C | 10-OCT-2001 | 01-05-3853A | 02
05 | IN | CLARK COUNTY | 1804260175C | 26-NOV-2001 | 01-05-3953A | 01
05 | IN | CLARK COUNTY | 1804260050B | 12-DEC-2001 | 02-05-0250A | 17
05 | IN | CLARK COUNTY | 1804260175C | 07-NOV-2001 | 02-05-0317A | 02
05 | IN | CLARK COUNTY | 1804260125C | 09-NOV-2001 | 02-05-0374A | 02
05 | IN | CLEAR LAKE, TOWN OF | 1802430050B | 22-AUG-2001 | 01-05-2609A | 02
05 | IN | COLUMBUS, CITY OF | 1800070020D | 17-OCT-2001 | 01-05-3671A | 02
05 | IN | COLUMBUS, CITY OF | 1800070020D | 14-NOV-2001 | 01-05-3809A | 02
05 | IN | COLUMBUS, CITY OF | 1800070020D | 14-NOV-2001 | 02-05-0384A | 02
05 | IN | DE KALB COUNTY * | 1800440050B | 22-AUG-2001 | 01-05-2924A | 02
05 | IN | DELAWARE COUNTY | 1800510125C | 07-NOV-2001 | 01-05-1730A | 17
05 | IN | DYER, TOWN OF | 1801290001D | 06-DEC-2001 | 01-05-1672P | 05
05 | IN | EDINBURGH, CITY OF | 1801130005C | 30-NOV-2001 | 02-05-0617A | 02
05 | IN | ELKHART COUNTY | 1800560010B | 18-JUL-2001 | 01-05-2529A | 02
05 | IN | ELKHART COUNTY | 1800560075A | 19-SEP-2001 | 01-05-3395A | 02
05 | IN | ELKHART COUNTY | 1800560075A | 10-OCT-2001 | 01-05-3757A | 02
05 | IN | ELKHART COUNTY | 1800560020B | 26-SEP-2001 | 01-05-3759A | 02
05 | IN | ELKHART COUNTY | 1800560020B | 28-SEP-2001 | 01-05-3808A | 02
05 | IN | ELKHART COUNTY | 1800560020B | 28-SEP-2001 | 01-05-3819A | 02
05 | IN | ELKHART, CITY OF | 1800570010C | 18-JUL-2001 | 01-05-823A | 17
05 | IN | ELWOOD, CITY OF | 1801520001C | 24-OCT-2001 | 01-05-3866A | 02
05 | IN | EVANSVILLE, CITY OF | 1802570001B | 11-JUL-2001 | 01-05-2617A | 02
05 | IN | EVANSVILLE, CITY OF | 1802570001B | 11-JUL-2001 | 01-05-2618A | 02
05 | IN | EVANSVILLE, CITY OF | 1802570006B | 16-NOV-2001 | 02-05-0136A | 02
05 | IN | EVANSVILLE, CITY OF | 1802570004B | 07-DEC-2001 | 02-05-0444A | 01
05 | IN | EVANSVILLE, CITY OF | 1802570004B | 19-DEC-2001 | 02-05-0672A | 02
05 | IN | FORT WAYNE, CITY OF | 18003C0270E | 12-SEP-2001 | 01-05-3317A | 02
05 | IN | FORT WAYNE, CITY OF | 18003C0285E | 12-SEP-2001 | 01-05-3325A | 02
05 | IN | FORT WAYNE, CITY OF | 18003C0165E | 19-SEP-2001 | 01-05-3551A | 02
05 | IN | FORT WAYNE, CITY OF | 18003C0285E | 08-AUG-2001 | 01-05-933P | 05
05 | IN | FORT WAYNE, CITY OF | 18003C0285E | 28-DEC-2001 | 02-05-0112A | 01
05 | IN | FORT WAYNE, CITY OF | 18003C0260D | 28-DEC-2001 | 02-05-0687A | 02
05 | IN | FORT WAYNE, CITY OF | 18003C0280E | 03-OCT-2001 | 01-05-3843A | 02
05 | IN | FRANKLIN COUNTY | 18047C0150C | 22-AUG-2001 | 01-05-3061A | 02
05 | IN | FRANKLIN COUNTY | 18047C0150C | 22-AUG-2001 | 01-05-3063A | 02
05 | IN | FRANKLIN COUNTY | 18047C0150C | 12-OCT-2001 | 01-05-3637A | 02
05 | IN | FRANKLIN, CITY OF | 1801140002B | 13-JUL-2001 | 01-05-989A | 02
05 | IN | FRANKLIN, CITY OF | 1801110100C | 21-DEC-2001 | 02-05-0362X | 01
05 | IN | FULTON COUNTY | 1800700050B | 05-JUL-2001 | 01-05-2732A | 02
05 | IN | GOSHEN, CITY OF | 1800580005B | 12-SEP-2001 | 01-05-374P | 05
05 | IN | GOSHEN, CITY OF | 1800580005B | 20-JUL-2001 | 01-05-2823A | 02
05 | IN | GREENSBURG, CITY OF | 1800430001B | 14-NOV-2001 | 02-05-0285A | 01
05 | IN | GREENSBURG, CITY OF | 1804300105B | 14-NOV-2001 | 02-05-0285A | 01
05 | IN | GREENWOOD, CITY OF | 1801150004B | 10-OCT-2001 | 01-05-3370A | 02
05 | IN | GRIFFITH, TOWN OF | 1851750004C | 12-DEC-2001 | 02-05-0546A | 02
05 | IN | HAMILTON COUNTY* | 1800800040B | 05-DEC-2001 | 01-05-3588A | 02
05 | IN | HANCOCK COUNTY | 1804190025B | 29-AUG-2001 | 01-05-3020A | 02
05 | IN | HANCOCK COUNTY | 1804190025B | 28-NOV-2001 | 01-05-3440A | 02
05 | IN | HANCOCK COUNTY | 1804190100B | 19-OCT-2001 | 02-05-0052A | 02
05 | IN | HARRISON COUNTY | 1800850006B | 22-AUG-2001 | 01-05-3013A | 02
05 | IN | HARRISON COUNTY | 1800850006B | 15-AUG-2001 | 01-05-3238A | 02
05 | IN | HARRISON COUNTY | 1800850006B | 14-DEC-2001 | 02-05-0765X | 02
05 | IN | HENDRICKS COUNTY | 1804150050B | 10-OCT-2001 | 01-05-2846A | 02
05 | IN | HENDRICKS COUNTY | 1804150050B | 07-SEP-2001 | 01-05-3467A | 02
05 | IN | HENDRICKS COUNTY | 1804150050B | 10-OCT-2001 | 01-05-3604A | 02
05 | IN | HENDRICKS COUNTY | 1804150100B | 26-NOV-2001 | 02-05-0481A | 02
05 | IN | HENDRICKS COUNTY | 1804150100B | 19-DEC-2001 | 02-05-0600A | 02
05 | IN | HOWARD COUNTY | 1804140027B | 08-AUG-2001 | 01-05-3192A | 02
05 | IN | HOWARD COUNTY | 1804140027B | 08-AUG-2001 | 01-05-3193A | 02
05 | IN | HOWARD COUNTY | 1804140042B | 11-JUL-2001 | 01-05-508A | 17
05 | IN | HOWARD COUNTY | 1804140043B | 19-DEC-2001 | 02-05-0262A | 02
05 | IN | HOWARD COUNTY | 1804140075B | 19-DEC-2001 | 02-05-0262A | 02
05 | IN | HOWARD COUNTY | 1804140029B | 14-DEC-2001 | 02-05-0321A | 02
05 | IN | HOWARD COUNTY | 1804140027B | 14-DEC-2001 | 02-05-0778A | 02
05 | IN | INDIANAPOLIS, CITY OF | 18097C0240E | 03-AUG-2001 | 01-05-1315A | 01
05 | IN | INDIANAPOLIS, CITY OF | 18097C0126E | 21-SEP-2001 | 01-05-1480P | 05
05 | IN | INDIANAPOLIS, CITY OF | 18097C0127E | 21-SEP-2001 | 01-05-1480P | 05
05 | IN | INDIANAPOLIS, CITY OF | 18097C0261E | 05-JUL-2001 | 01-05-2006A | 02
05 | IN | INDIANAPOLIS, CITY OF | 18097C0128E | 05-JUL-2001 | 01-05-2300A | 01
05 | IN | INDIANAPOLIS, CITY OF | 18097C0186E | 03-AUG-2001 | 01-05-2542A | 17
05 | IN | INDIANAPOLIS, CITY OF | 18097C0240E | 05-JUL-2001 | 01-05-2569A | 01
05 | IN | INDIANAPOLIS, CITY OF | 18097C0261E | 20-JUL-2001 | 01-05-2683A | 02
05 | IN | INDIANAPOLIS, CITY OF | 18097C0240E | 08-AUG-2001 | 01-05-2766A | 01
05 | IN | INDIANAPOLIS, CITY OF | 18097C0114E | 10-OCT-2001 | 01-05-2969A | 01
05 | IN | INDIANAPOLIS, CITY OF | 18097C0117E | 31-AUG-2001 | 01-05-3007A | 17
05 | IN | INDIANAPOLIS, CITY OF | 18097C0114E | 25-JUL-2001 | 01-05-3015A | 02
05 | IN | INDIANAPOLIS, CITY OF | 18097C0107E | 25-JUL-2001 | 01-05-3028A | 02
05 | IN | INDIANAPOLIS, CITY OF | 18097C0188E | 17-AUG-2001 | 01-05-3094A | 01
05 | IN | INDIANAPOLIS, CITY OF | 18097C0233E | 03-OCT-2001 | 01-05-3099A | 01
05 | IN | INDIANAPOLIS, CITY OF | 18097C0127E | 22-AUG-2001 | 01-05-3105A | 02
05 | IN | INDIANAPOLIS, CITY OF | 18097C0039E | 03-AUG-2001 | 01-05-3109A | 02
05 | IN | INDIANAPOLIS, CITY OF | 18097C0109E | 17-AUG-2001 | 01-05-3127A | 02
05 | IN | INDIANAPOLIS, CITY OF | 18097C0039E | 15-AUG-2001 | 01-05-3163A | 02
05 | IN | INDIANAPOLIS, CITY OF | 18097C0262E | 31-AUG-2001 | 01-05-3164A | 01
05 | IN | INDIANAPOLIS, CITY OF | 18097C0254E | 05-OCT-2001 | 01-05-3188A | 17
05 | IN | INDIANAPOLIS, CITY OF | 18097C0041E | 24-AUG-2001 | 01-05-3207A | 02
05 | IN | INDIANAPOLIS, CITY OF | 18097C0110E | 22-AUG-2001 | 01-05-3208A | 02
05 | IN | INDIANAPOLIS, CITY OF | 18097C0089E | 31-AUG-2001 | 01-05-3221A | 02
05 | IN | INDIANAPOLIS, CITY OF | 18097C0135E | 05-OCT-2001 | 01-05-3243A | 02
05 | IN | INDIANAPOLIS, CITY OF | 18097C0167E | 12-SEP-2001 | 01-05-3254A | 02
05 | IN | INDIANAPOLIS, CITY OF | 18097C0107E | 15-AUG-2001 | 01-05-3263A | 02
05 | IN | INDIANAPOLIS, CITY OF | 18097C0043E | 24-AUG-2001 | 01-05-3330A | 02
05 | IN | INDIANAPOLIS, CITY OF | 18097C0136E | 09-NOV-2001 | 01-05-3346A | 17
05 | IN | INDIANAPOLIS, CITY OF | 18097C0064E | 31-AUG-2001 | 01-05-3359A | 02
05 | IN | INDIANAPOLIS, CITY OF | 18097C0114E | 31-AUG-2001 | 01-05-3374A | 02
05 | IN | INDIANAPOLIS, CITY OF | 18097C0127E | 17-OCT-2001 | 01-05-3379A | 02
05 | IN | INDIANAPOLIS, CITY OF | 18097C0270E | 14-NOV-2001 | 01-05-3383A | 02
05 | IN | INDIANAPOLIS, CITY OF | 18097C0112E | 07-SEP-2001 | 01-05-3388A | 01
05 | IN | INDIANAPOLIS, CITY OF | 18097C0116E | 07-SEP-2001 | 01-05-3388A | 01
05 | IN | INDIANAPOLIS, CITY OF | 18097C0290E | 26-OCT-2001 | 01-05-3392A | 02
05 | IN | INDIANAPOLIS, CITY OF | 18097C0136E | 29-AUG-2001 | 01-05-3409A | 02
05 | IN | INDIANAPOLIS, CITY OF | 18097C0105E | 05-OCT-2001 | 01-05-3413A | 02
05 | IN | INDIANAPOLIS, CITY OF | 18097C0139E | 24-AUG-2001 | 01-05-3418A | 02
05 | IN | INDIANAPOLIS, CITY OF | 18097C0139E | 24-AUG-2001 | 01-05-3419A | 02
05 | IN | INDIANAPOLIS, CITY OF | 18097C0144E | 29-AUG-2001 | 01-05-3420A | 02
05 | IN | INDIANAPOLIS, CITY OF | 18097C0063E | 24-OCT-2001 | 01-05-3433A | 02
05 | IN | INDIANAPOLIS, CITY OF | 18097C0290E | 07-SEP-2001 | 01-05-3436A | 02
05 | IN | INDIANAPOLIS, CITY OF | 18097C0180E | 12-SEP-2001 | 01-05-3460A | 02
05 | IN | INDIANAPOLIS, CITY OF | 18097C0242E | 10-OCT-2001 | 01-05-3478A | 02
05 | IN | INDIANAPOLIS, CITY OF | 18097C0155E | 31-OCT-2001 | 01-05-3493A | 02
05 | IN | INDIANAPOLIS, CITY OF | 18097C0117E | 16-NOV-2001 | 01-05-3532A | 02
05 | IN | INDIANAPOLIS, CITY OF | 18097C0244E | 14-SEP-2001 | 01-05-3642A | 02
05 | IN | INDIANAPOLIS, CITY OF | 18097C0270E | 10-OCT-2001 | 01-05-3650A | 02
05 | IN | INDIANAPOLIS, CITY OF | 18097C0254E | 09-NOV-2001 | 01-05-3669A | 17
05 | IN | INDIANAPOLIS, CITY OF | 18097C0128E | 21-SEP-2001 | 01-05-3696A | 02
05 | IN | INDIANAPOLIS, CITY OF | 18097C0044E | 19-OCT-2001 | 01-05-3704A | 02
05 | IN | INDIANAPOLIS, CITY OF | 18097C0107E | 14-NOV-2001 | 01-05-3733A | 02
05 | IN | INDIANAPOLIS, CITY OF | 18097C0137E | 26-NOV-2001 | 01-05-3770A | 17
05 | IN | INDIANAPOLIS, CITY OF | 18097C0210E | 28-SEP-2001 | 01-05-3792A | 02
05 | IN | INDIANAPOLIS, CITY OF | 18097C0038E | 19-OCT-2001 | 01-05-3838A | 02
05 | IN | INDIANAPOLIS, CITY OF | 18097C0135E | 03-OCT-2001 | 01-05-3844A | 02
05 | IN | INDIANAPOLIS, CITY OF | 18097C0241E | 19-OCT-2001 | 01-05-3859A | 01
05 | IN | INDIANAPOLIS, CITY OF | 18097C0110E | 05-OCT-2001 | 01-05-3863A | 02
05 | IN | INDIANAPOLIS, CITY OF | 18097C0155E | 03-OCT-2001 | 01-05-3930A | 01
05 | IN | INDIANAPOLIS, CITY OF | 18097C0068E | 02-NOV-2001 | 01-05-3958A | 02
05 | IN | INDIANAPOLIS, CITY OF | 18097C0038E | 10-OCT-2001 | 01-05-3972A | 02
05 | IN | INDIANAPOLIS, CITY OF | 18097C0205E | 19-OCT-2001 | 01-05-3980A | 01
05 | IN | INDIANAPOLIS, CITY OF | 18097C0114E | 10-OCT-2001 | 01-05-3994A | 02
05 | IN | INDIANAPOLIS, CITY OF | 18097C0210E | 19-OCT-2001 | 01-05-4002A | 02
05 | IN | INDIANAPOLIS, CITY OF | 18097C0107E | 17-OCT-2001 | 01-05-4006A | 02
05 | IN | INDIANAPOLIS, CITY OF | 18097C0262E | 14-NOV-2001 | 02-05-0053A | 01
05 | IN | INDIANAPOLIS, CITY OF | 18097C0241E | 17-OCT-2001 | 02-05-0055A | 02
05 | IN | INDIANAPOLIS, CITY OF | 18097C0261E | 31-OCT-2001 | 02-05-0064A | 02
05 | IN | INDIANAPOLIS, CITY OF | 18097C0280E | 19-OCT-2001 | 02-05-0143A | 02
05 | IN | INDIANAPOLIS, CITY OF | 18097C0118E | 24-OCT-2001 | 02-05-0153A | 02
05 | IN | INDIANAPOLIS, CITY OF | 18097C0251E | 05-DEC-2001 | 02-05-0156A | 02
05 | IN | INDIANAPOLIS, CITY OF | 18097C0114E | 31-OCT-2001 | 02-05-0256A | 02
05 | IN | INDIANAPOLIS, CITY OF | 18097C0063E | 30-NOV-2001 | 02-05-0266A | 02
05 | IN | INDIANAPOLIS, CITY OF | 18097C0228E | 07-NOV-2001 | 02-05-0270A | 02
05 | IN | INDIANAPOLIS, CITY OF | 18097C0114E | 31-OCT-2001 | 02-05-0279A | 02
05 | IN | INDIANAPOLIS, CITY OF | 18097C0043E | 28-NOV-2001 | 02-05-0291A | 02
05 | IN | INDIANAPOLIS, CITY OF | 18097C0138E | 02-NOV-2001 | 02-05-0294A | 02
05 | IN | INDIANAPOLIS, CITY OF | 18097C0114E | 02-NOV-2001 | 02-05-0302A | 02
05 | IN | INDIANAPOLIS, CITY OF | 18097C0038E | 07-NOV-2001 | 02-05-0318A | 02
05 | IN | INDIANAPOLIS, CITY OF | 18097C0063E | 19-DEC-2001 | 02-05-0355A | 01
05 | IN | INDIANAPOLIS, CITY OF | 18097C0240E | 09-NOV-2001 | 02-05-0361X | 01
05 | IN | INDIANAPOLIS, CITY OF | 18097C0186E | 26-NOV-2001 | 02-05-0532A | 02
05 | IN | INDIANAPOLIS, CITY OF | 18097C0188E | 12-DEC-2001 | 02-05-0539A | 02
05 | IN | INDIANAPOLIS, CITY OF | 18097C0244E | 26-NOV-2001 | 02-05-0548A | 02
05 | IN | INDIANAPOLIS, CITY OF | 18097C0063E | 28-NOV-2001 | 02-05-0575A | 02
05 | IN | INDIANAPOLIS, CITY OF | 18097C0118E | 30-NOV-2001 | 02-05-0610A | 02
05 | IN | INDIANAPOLIS, CITY OF | 18097C0180E | 05-DEC-2001 | 02-05-0628A | 02
05 | IN | INDIANAPOLIS, CITY OF | 18097C0155E | 14-DEC-2001 | 02-05-0631A | 01
05 | IN | INDIANAPOLIS, CITY OF | 18097C0290E | 07-DEC-2001 | 02-05-0726A | 02
05 | IN | INDIANAPOLIS, CITY OF | 18097C0290E | 12-DEC-2001 | 02-05-0770A | 02
05 | IN | INDIANAPOLIS, CITY OF | 18097C0242E | 21-DEC-2001 | 02-05-0848X | 02
05 | IN | JACKSON COUNTY | 1804050130B | 05-SEP-2001 | 01-05-3455A | 02
05 | IN | JACKSON COUNTY | 1804050130B | 07-NOV-2001 | 02-05-0313A | 02
05 | IN | JACKSON COUNTY | 1804050130B | 09-NOV-2001 | 02-05-0339A | 02
05 | IN | JACKSON COUNTY | 1804050130B | 14-NOV-2001 | 02-05-0375A | 02
05 | IN | JASPER COUNTY | 1804390005B | 25-JUL-2001 | 01-05-2847A | 02
05 | IN | JEFFERSON COUNTY | 1801040006B | 07-SEP-2001 | 01-05-2962A | 02
05 | IN | JEFFERSONVILLE, CITY OF | 1800270005D | 22-AUG-2001 | 01-05-3270A | 02
05 | IN | JEFFERSONVILLE, CITY OF | 1800270005D | 12-DEC-2001 | 02-05-0720A | 02
05 | IN | JOHNSON COUNTY | 1801110050C | 13-JUL-2001 | 01-05-2816A | 02
05 | IN | JOHNSON COUNTY | 1801110100C | 15-AUG-2001 | 01-05-3024A | 02
05 | IN | JOHNSON COUNTY | 1801110050C | 17-OCT-2001 | 02-05-0015A | 02
05 | IN | JOHNSON COUNTY | 1801110050C | 12-OCT-2001 | 02-05-0081A | 02
05 | IN | KOKOMO, CITY OF | 1804140041B | 22-AUG-2001 | 01-05-3365A | 02
05 | IN | KOSCIUSKO COUNTY | 18085C0078C | 05-JUL-2001 | 01-05-2678A | 02
05 | IN | KOSCIUSKO COUNTY | 18085C0035C | 05-JUL-2001 | 01-05-2705A | 02
05 | IN | KOSCIUSKO COUNTY | 18085C0045C | 20-JUL-2001 | 01-05-2884A | 02
05 | IN | KOSCIUSKO COUNTY | 18085C0100C | 03-AUG-2001 | 01-05-2894A | 02
05 | IN | KOSCIUSKO COUNTY | 18085C0100C | 17-AUG-2001 | 01-05-3008A | 02
05 | IN | KOSCIUSKO COUNTY | 18085C0080C | 26-SEP-2001 | 01-05-3362A | 02
05 | IN | KOSCIUSKO COUNTY | 18085C0080C | 22-AUG-2001 | 01-05-3396A | 02
05 | IN | KOSCIUSKO COUNTY | 18085C0080C | 12-SEP-2001 | 01-05-3500A | 02
05 | IN | KOSCIUSKO COUNTY | 18085C0100C | 19-SEP-2001 | 01-05-3656A | 02
05 | IN | KOSCIUSKO COUNTY | 18085C0100C | 19-SEP-2001 | 01-05-3672A | 02
05 | IN | KOSCIUSKO COUNTY | 18085C0040C | 28-SEP-2001 | 01-05-3773A | 02
05 | IN | KOSCIUSKO COUNTY | 18085C0080C | 03-OCT-2001 | 01-05-3854A | 02
05 | IN | KOSCIUSKO COUNTY | 18085C0100C | 17-OCT-2001 | 01-05-3992A | 02
05 | IN | KOSCIUSKO COUNTY | 18085C0080C | 17-OCT-2001 | 01-05-4001A | 02
05 | IN | KOSCIUSKO COUNTY | 18085C0080C | 24-OCT-2001 | 02-05-0161A | 02
05 | IN | KOSCIUSKO COUNTY | 18085C0080C | 26-OCT-2001 | 02-05-0187A | 02
05 | IN | KOSCIUSKO COUNTY | 18085C0100C | 30-NOV-2001 | 02-05-0248A | 02
05 | IN | KOSCIUSKO COUNTY | 18085C0080C | 31-OCT-2001 | 02-05-0281A | 02
05 | IN | KOSCIUSKO COUNTY | 18085C0100C | 14-NOV-2001 | 02-05-0319A | 02
05 | IN | KOSCIUSKO COUNTY | 18085C0080C | 07-DEC-2001 | 02-05-0722A | 02
05 | IN | KOSCIUSKO COUNTY | 18085C0045C | 19-DEC-2001 | 02-05-0833A | 02
05 | IN | KOSCIUSKO COUNTY | 18085C0080C | 19-DEC-2001 | 02-05-0854A | 02
05 | IN | LAFAYETTE, CITY OF | 1804280055B | 14-NOV-2001 | 02-05-0496A | 02
05 | IN | LAGRANGE COUNTY | 1801250004B | 27-JUL-2001 | 01-05-2830A | 02
05 | IN | LAGRANGE COUNTY | 1801250003B | 07-SEP-2001 | 01-05-3470A | 02
05 | IN | LAGRANGE COUNTY | 1801250004B | 31-OCT-2001 | 02-05-0278A | 02
05 | IN | LAKE COUNTY | 1801260115B | 18-JUL-2001 | 01-05-2446A | 02
05 | IN | LAKE COUNTY | 1801260115B | 27-JUL-2001 | 01-05-2497A | 02
05 | IN | LAKE COUNTY | 1801260080B | 11-JUL-2001 | 01-05-2680A | 02
05 | IN | LEBANON, CITY OF | 1800130001D | 05-JUL-2001 | 01-05-2694A | 02
05 | IN | LEBANON, CITY OF | 1800130002D | 22-AUG-2001 | 01-05-2971A | 02
05 | IN | LEBANON, CITY OF | 1800130002D | 17-OCT-2001 | 01-05-2981A | 02
05 | IN | LIBERTY, TOWNSHIP OF | 1804880001A | 12-OCT-2001 | 01-05-3996A | 02
05 | IN | MARION COUNTY | 18097C0136E | 17-AUG-2001 | 01-05-3185A | 02
05 | IN | MARSHALL COUNTY | 1804430060B | 05-JUL-2001 | 01-05-2690A | 02
05 | IN | MARSHALL COUNTY | 1804430070B | 19-OCT-2001 | 01-05-3747A | 02
05 | IN | MICHIGAN CITY, CITY OF | 1801470015B | 25-JUL-2001 | 01-05-2897A | 02
05 | IN | MORGAN COUNTY | 1801760075B | 31-AUG-2001 | 01-05-3410A | 02
05 | IN | MUNCIE, CITY OF | 1800530010C | 01-AUG-2001 | 01-05-2825A | 01
05 | IN | NEW ALBANY, CITY OF | 1800620010D | 10-AUG-2001 | 01-05-3088A | 02
05 | IN | NEW ALBANY, CITY OF | 1800620013D | 16-NOV-2001 | 02-05-0260A | 02
05 | IN | NEW ALBANY, CITY OF | 1800620012D | 12-DEC-2001 | 02-05-0754A | 02
05 | IN | NEW HAVEN, CITY OF | 18003C0305D | 03-OCT-2001 | 01-05-3545A | 02
05 | IN | NEWTON COUNTY | 1801790001B | 07-DEC-2001 | 01-05-3799A | 02
05 | IN | NOBLE COUNTY * | 1801830100B | 05-SEP-2001 | 00-05-265P | 05
05 | IN | NOBLE COUNTY * | 1801830075B | 17-AUG-2001 | 01-05-2381A | 17
05 | IN | NOBLE COUNTY * | 1801830075B | 18-JUL-2001 | 01-05-2907A | 02
05 | IN | NOBLE COUNTY * | 1801830075B | 14-NOV-2001 | 02-05-0422X | 02
05 | IN | NOBLE COUNTY * | 1801830075B | 28-NOV-2001 | 02-05-0426A | 02
05 | IN | NOBLESVILLE, CITY OF | 1800820005E | 24-AUG-2001 | 01-05-2092A | 01
05 | IN | NOBLESVILLE, CITY OF | 1800820015E | 30-NOV-2001 | 02-05-0102A | 02
05 | IN | NORTH WEBSTER, TOWN OF | 18085C0045C | 26-OCT-2001 | 02-05-0204A | 02
05 | IN | NORTH WEBSTER, TOWN OF | 18085C0045C | 09-NOV-2001 | 02-05-0343A | 02
05 | IN | PARKE COUNTY | 1801920004A | 19-DEC-2001 | 02-05-0595A | 02
05 | IN | PLAINFIELD, TOWN OF | 1800890001B | 14-SEP-2001 | 00-05-301P | 05
05 | IN | PLAINFIELD, TOWN OF | 1800890001B | 18-JUL-2001 | 01-05-2704A | 02
05 | IN | PLAINFIELD, TOWN OF | 1804150100B | 14-SEP-2001 | 01-05-3066A | 02
05 | IN | PLAINFIELD, TOWN OF | 1804150100B | 14-SEP-2001 | 01-05-3412A | 02
05 | IN | PLAINFIELD, TOWN OF | 1804150100B | 12-OCT-2001 | 01-05-3783A | 01
05 | IN | PLYMOUTH, CITY OF | 18016402B | 19-OCT-2001 | 01-05-3649A | 02
05 | IN | PORTER COUNTY | 1804250060B | 19-DEC-2001 | 01-05-3940A | 02
05 | IN | PULASKI COUNTY | 1804820002B | 19-SEP-2001 | 01-05-2750A | 02
05 | IN | PUTNAM COUNTY | 1802130003B | 26-NOV-2001 | 01-05-3835A | 01
05 | IN | RUSH COUNTY * | 1804210100B | 20-JUL-2001 | 01-05-372P | 05
05 | IN | RUSHVILLE, CITY OF | 1802230001B | 20-JUL-2001 | 01-05-372P | 05
05 | IN | SCHERERVILLE, TOWN OF | 1801420005B | 06-DEC-2001 | 01-05-1672P | 05
05 | IN | SEYMOUR, CITY OF | 1800990004C | 18-JUL-2001 | 01-05-2806A | 02
05 | IN | SEYMOUR, CITY OF | 1800990004C | 29-AUG-2001 | 01-05-3423A | 02
05 | IN | SEYMOUR, CITY OF | 1800990004C | 12-SEP-2001 | 01-05-3501A | 02
05 | IN | SEYMOUR, CITY OF | 1800990004C | 26-SEP-2001 | 01-05-3544A | 02
05 | IN | SEYMOUR, CITY OF | 1800990004C | 19-SEP-2001 | 01-05-3755A | 02
05 | IN | SEYMOUR, CITY OF | 1800990004C | 10-OCT-2001 | 01-05-3985A | 02
05 | IN | SEYMOUR, CITY OF | 1800990004C | 02-NOV-2001 | 02-05-0288X | 02
05 | IN | SEYMOUR, CITY OF | 1800990004C | 02-NOV-2001 | 02-05-0289X | 02
05 | IN | SEYMOUR, CITY OF | 1800990004C | 02-NOV-2001 | 02-05-0290X | 02
05 | IN | SPENCER COUNTY | 1802370250A | 28-SEP-2001 | 01-05-2521A | 01
05 | IN | SPENCER COUNTY | 1802370150A | 06-JUL-2001 | 01-05-2769A | 02
05 | IN | SPENCER COUNTY | 1802370125A | 12-SEP-2001 | 01-05-3332A | 02
05 | IN | SPENCER COUNTY | 1802370150A | 28-NOV-2001 | 02-05-0345A | 02
05 | IN | STEUBEN COUNTY | 1802430100B | 19-DEC-2001 | 02-05-0637A | 02
05 | IN | STEUBEN COUNTY* | 1802430025B | 05-JUL-2001 | 01-05-2614A | 02
05 | IN | STEUBEN COUNTY* | 1802430100B | 18-JUL-2001 | 01-05-2623A | 02
05 | IN | STEUBEN COUNTY* | 1802430025B | 14-SEP-2001 | 01-05-3284A | 02
05 | IN | STEUBEN COUNTY* | 1802430025B | 07-SEP-2001 | 01-05-3310A | 02
05 | IN | STEUBEN COUNTY* | 1802430025B | 03-OCT-2001 | 01-05-3546A | 02
05 | IN | STEUBEN COUNTY* | 1802430025C | 19-SEP-2001 | 01-05-3547A | 02
05 | IN | STEUBEN COUNTY* | 1802430025B | 24-OCT-2001 | 02-05-0075A | 02
05 | IN | STEUBEN COUNTY* | 1802430025B | 07-NOV-2001 | 02-05-0130A | 02
05 | IN | STEUBEN COUNTY* | 1802430075B | 14-NOV-2001 | 02-05-0140A | 02
05 | IN | SULLIVAN COUNTY | 1804100005A | 22-AUG-2001 | 01-05-1976A | 02
05 | IN | SYRACUSE, TOWN OF | 18085C0031C | 24-OCT-2001 | 02-05-0070A | 02
05 | IN | TELL CITY, CITY OF | 18019709B | 24-OCT-2001 | 01-05-3482A | 02
05 | IN | TIPPECANOE COUNTY | 1804280030B | 28-SEP-2001 | 01-05-249A | 01
05 | IN | VANDERBURGH COUNTY * | 1802560100B | 30-NOV-2001 | 01-05-1101P | 05
05 | IN | VANDERBURGH COUNTY * | 1802560050B | 11-JUL-2001 | 01-05-2358A | 02
05 | IN | VANDERBURGH COUNTY * | 1802560025C | 18-JUL-2001 | 01-05-2602A | 02
05 | IN | VANDERBURGH COUNTY * | 1802560100B | 28-SEP-2001 | 01-05-2616A | 01
05 | IN | VANDERBURGH COUNTY * | 1802560100B | 20-JUL-2001 | 01-05-2913A | 02
05 | IN | VANDERBURGH COUNTY * | 1802560025C | 01-AUG-2001 | 01-05-2922A | 01
05 | IN | VANDERBURGH COUNTY * | 1802560025C | 01-AUG-2001 | 01-05-2923A | 01
05 | IN | VANDERBURGH COUNTY * | 1802560015C | 03-AUG-2001 | 01-05-2927A | 01
05 | IN | VANDERBURGH COUNTY * | 1802560100B | 11-OCT-2001 | 01-05-2940P | 05
05 | IN | VANDERBURGH COUNTY * | 1802560025C | 08-AUG-2001 | 01-05-2944A | 01
05 | IN | VANDERBURGH COUNTY * | 1802560025C | 10-AUG-2001 | 01-05-2945A | 01
05 | IN | VANDERBURGH COUNTY * | 1802560015C | 12-SEP-2001 | 01-05-2954A | 02
05 | IN | VANDERBURGH COUNTY * | 1802560025C | 17-AUG-2001 | 01-05-3283A | 02
05 | IN | VANDERBURGH COUNTY * | 1802560025C | 24-AUG-2001 | 01-05-3287A | 01
05 | IN | VANDERBURGH COUNTY * | 1802560025C | 17-AUG-2001 | 01-05-3294A | 01
05 | IN | VANDERBURGH COUNTY * | 1802560025C | 24-AUG-2001 | 01-05-3295A | 01
05 | IN | VANDERBURGH COUNTY * | 1802560050B | 19-SEP-2001 | 01-05-3296A | 01
05 | IN | VANDERBURGH COUNTY * | 1802560025C | 12-SEP-2001 | 01-05-3308A | 01
05 | IN | VANDERBURGH COUNTY * | 1802560025C | 07-SEP-2001 | 01-05-3314A | 01
05 | IN | VANDERBURGH COUNTY * | 1802560075C | 03-OCT-2001 | 01-05-3318A | 01
05 | IN | VANDERBURGH COUNTY * | 1802560050B | 19-SEP-2001 | 01-05-3566A | 01
05 | IN | VANDERBURGH COUNTY * | 1802560025C | 03-OCT-2001 | 01-05-3589A | 02
05 | IN | VANDERBURGH COUNTY * | 1802560025C | 05-OCT-2001 | 01-05-3875A | 02
05 | IN | VANDERBURGH COUNTY * | 1802560025C | 16-NOV-2001 | 02-05-0428A | 01
05 | IN | VANDERBURGH COUNTY * | 1802560015C | 05-DEC-2001 | 02-05-0455A | 02
05 | IN | VANDERBURGH COUNTY * | 1802560015C | 05-DEC-2001 | 02-05-0457A | 01
05 | IN | VANDERBURGH COUNTY * | 1802560025C | 05-DEC-2001 | 02-05-0458A | 02
05 | IN | VANDERBURGH COUNTY * | 1802560025C | 12-DEC-2001 | 02-05-0679A | 01
05 | IN | VANDERBURGH COUNTY * | 1802560100B | 19-DEC-2001 | 02-05-0680A | 01
05 | IN | VANDERBURGH COUNTY * | 1802560025C | 14-DEC-2001 | 02-05-0681A | 02
05 | IN | VANDERBURGH COUNTY * | 1802560025C | 19-DEC-2001 | 02-05-0688A | 02
05 | IN | VERMILLION COUNTY | 1804490001B | 05-OCT-2001 | 01-05-3535A | 02
05 | IN | VERMILLION COUNTY | 1804490001B | 17-OCT-2001 | 02-05-0007A | 02
05 | IN | VIGO COUNTY | 1802630070B | 24-OCT-2001 | 01-05-3636A | 02
05 | IN | WABASH COUNTY | 18169C0139D | 27-JUL-2001 | 01-05-2798A | 02
05 | IN | WABASH COUNTY | 18169C0150D | 27-JUL-2001 | 01-05-2798A | 02
05 | IN | WARRICK COUNTY | 1804180175B | 16-NOV-2001 | 02-05-0160A | 02
05 | IN | WARRICK COUNTY | 1804180175B | 05-DEC-2001 | 02-05-0744X | 02
05 | IN | WARRICK COUNTY * | 1804180200B | 25-JUL-2001 | 01-05-2627A | 02
05 | IN | WARRICK COUNTY * | 1804180175B | 30-NOV-2001 | 01-05-2914A | 02
05 | IN | WARRICK COUNTY * | 1804180175B | 08-AUG-2001 | 01-05-2941A | 02
05 | IN | WARRICK COUNTY * | 1804180200B | 21-SEP-2001 | 01-05-3319A | 02
05 | IN | WARSAW, CITY OF | 18085C0067C | 09-NOV-2001 | 02-05-0185A | 02
05 | IN | WARSAW, CITY OF | 18085C0078C | 12-DEC-2001 | 02-05-0784A | 02
05 | IN | WELLS COUNTY | 1802880100C | 19-SEP-2001 | 01-05-3623A | 02
05 | IN | WHITE COUNTY | 1804470005C | 13-JUL-2001 | 01-05-2722A | 02
05 | IN | WHITE COUNTY | 1804470005C | 05-JUL-2001 | 01-05-2728A | 02
05 | IN | WHITE COUNTY | 1804470002C | 06-JUL-2001 | 01-05-2856A | 02
05 | IN | WHITE COUNTY | 1804470005C | 25-JUL-2001 | 01-05-2958A | 02
05 | IN | WHITE COUNTY | 1804470002C | 22-AUG-2001 | 01-05-3227A | 02
05 | IN | WHITE COUNTY | 1804470002C | 14-NOV-2001 | 02-05-0472A | 02
05 | IN | WHITE COUNTY | 1804470002C | 28-DEC-2001 | 02-05-0864A | 02
05 | IN | WHITELAND, TOWN OF | 1801180001A | 20-JUL-2001 | 01-05-2790A | 02
05 | IN | WHITELAND, TOWN OF | 1801180001A | 14-NOV-2001 | 02-05-0162A | 02
05 | IN | WHITLEY COUNTY | 1802980004B | 31-AUG-2001 | 01-05-3354A | 02
05 | IN | WHITLEY COUNTY | 1802980002B | 07-SEP-2001 | 01-05-3466A | 02
05 | IN | WHITLEY COUNTY | 1802980002B | 09-NOV-2001 | 02-05-0330A | 02
05 | IN | WINONA LAKE, TOWN OF | 18085C0086C | 24-OCT-2001 | 01-05-3399A | 02
05 | IN | WINONA LAKE, TOWN OF | 18085C0086C | 28-DEC-2001 | 02-05-0350A | 02
05 | IN | WINONA LAKE, TOWN OF | 18085C0086C | 26-NOV-2001 | 02-05-0537A | 02
05 | MI | ALBEE, TOWNSHIP OF | 26145C0240D | 24-OCT-2001 | 01-05-3052A | 02
05 | MI | ALBEE, TOWNSHIP OF | 26145C0245D | 07-SEP-2001 | 01-05-3454A | 02
05 | MI | ALMA, CITY OF | 2600830001B | 05-DEC-2001 | 02-05-0399A | 01
05 | MI | ALPENA, CITY OF | 2600100005B | 26-OCT-2001 | 02-05-0235A | 02
05 | MI | ALPENA, CITY OF | 2600100005B | 21-DEC-2001 | 02-05-0774A | 02
05 | MI | ALPENA, TOWNSHIP OF | 2600110039C | 28-SEP-2001 | 01-05-2863A | 02
05 | MI | ALPENA, TOWNSHIP OF | 2600110024B | 22-AUG-2001 | 01-05-3106A | 02
05 | MI | ALPENA, TOWNSHIP OF | 2600110005A | 19-SEP-2001 | 01-05-3735A | 02
05 | MI | ALPENA, TOWNSHIP OF | 2600110025B | 07-DEC-2001 | 02-05-0733A | 02
05 | MI | ARGENTINE, TOWNSHIP OF | 2603920010A | 19-SEP-2001 | 01-05-3603A | 02
05 | MI | ASH, TOWNSHIP OF | 26115C0103D | 24-AUG-2001 | 01-05-3333A | 17
05 | MI | AU TRAIN, TOWNSHIP OF | 2603420025C | 10-OCT-2001 | 01-05-3865A | 02
05 | MI | AU TRAIN, TOWNSHIP OF | 2603420025C | 26-OCT-2001 | 02-05-0232A | 02
05 | MI | AU TRAIN, TOWNSHIP OF | 2603420025C | 26-NOV-2001 | 02-05-0344A | 02
05 | MI | AUGRES, TOWNSHIP OF | 2600130025B | 05-JUL-2001 | 01-05-2685A | 02
05 | MI | BALDWIN, TOWNSHIP OF | 2600990005D | 12-OCT-2001 | 02-05-0021A | 02
05 | MI | BALDWIN, TOWNSHIP OF | 2600990016D | 28-DEC-2001 | 02-05-0879A | 02
05 | MI | BANGOR, TOWNSHIP OF | 26017C0145D | 21-SEP-2001 | 01-05-3430A | 02
05 | MI | BANGOR, TOWNSHIP OF | 26017C0140D | 31-OCT-2001 | 02-05-0286A | 02
05 | MI | BAY MILLS, TOWNSHIP OF | 2603740050B | 03-OCT-2001 | 01-05-3836A | 02
05 | MI | BAY MILLS, TOWNSHIP OF | 2603740050B | 19-OCT-2001 | 01-05-3968A | 02
05 | MI | BEAUGRAND, TOWNSHIP OF | 2606460002B | 08-AUG-2001 | 01-05-2734A | 02
05 | MI | BEAUGRAND, TOWNSHIP OF | 2606460002B | 07-DEC-2001 | 02-05-0265A | 02
05 | MI | BEDFORD, TOWNSHIP OF | 26115C0363D | 11-JUL-2001 | 01-05-2080A | 02
05 | MI | BEDFORD, TOWNSHIP OF | 26115C0364D | 18-JUL-2001 | 01-05-2707A | 02
05 | MI | BELLEVUE, VILLAGE OF | 26056601A | 14-NOV-2001 | 02-05-0412A | 02
05 | MI | BENTON, TOWNSHIP OF | 2600310002B | 26-SEP-2001 | 01-05-1461A | 01
05 | MI | BROOMFIELD, TOWNSHIP OF | 26073C0275C | 26-NOV-2001 | 01-05-3928A | 02
05 | MI | BROOMFIELD, TOWNSHIP OF | 26073C0275C | 21-DEC-2001 | 02-05-0625A | 02
05 | MI | BROWNSTOWN, CHARTERED TOWNSHIP OF | 2602180015B | 29-AUG-2001 | 01-05-2977A | 02
05 | MI | BROWNSTOWN, CHARTERED TOWNSHIP OF | 2602180010B | 02-NOV-2001 | 02-05-0152A | 02
05 | MI | BRUCE, TOWNSHIP OF | 2608840025A | 27-JUL-2001 | 01-05-2107A | 02
05 | MI | BRUCE, TOWNSHIP OF | 2603750050A | 03-OCT-2001 | 01-05-3195A | 02
05 | MI | BRUCE, TOWNSHIP OF | 2608840025A | 12-OCT-2001 | 01-05-3827A | 02
05 | MI | BRUCE, TOWNSHIP OF | 2603750025A | 14-NOV-2001 | 02-05-0410A | 02
05 | MI | CANTON, TOWNSHIP OF | 2602190003B | 01-AUG-2001 | 01-05-2647A | 02
05 | MI | CARROLLTON, TOWNSHIP OF | 26145C0085D | 28-SEP-2001 | 01-05-3665A | 02
05 | MI | CASEVILLE, TOWNSHIP OF | 2602570003A | 01-AUG-2001 | 01-05-2876A | 02
05 | MI | CHESTERFIELD, TOWNSHIP OF | 2601200005B | 20-JUL-2001 | 01-05-2146A | 17
05 | MI | CHESTERFIELD, TOWNSHIP OF | 2601200010B | 10-AUG-2001 | 01-05-3180A | 02
05 | MI | CLARK, TOWNSHIP OF | 2607590050B | 26-SEP-2001 | 01-05-3698A | 02
05 | MI | CLAY, TOWNSHIP OF | 2601940003B | 20-JUL-2001 | 01-05-2877A | 02
05 | MI | CLAY, TOWNSHIP OF | 2601940002B | 19-DEC-2001 | 02-05-0881A | 02
05 | MI | CLEVELAND, TOWNSHIP OF | 26030206A | 12-OCT-2001 | 01-05-3925A | 02
05 | MI | CLINTON, TOWNSHIP OF | 2601210005E | 03-AUG-2001 | 01-05-2848A | 01
05 | MI | COLDWATER, TOWNSHIP OF | 2608260010A | 02-NOV-2001 | 02-05-0356X | 02
05 | MI | COLON, TOWNSHIP OF | 2605100010A | 28-SEP-2001 | 01-05-3517A | 02
05 | MI | COLON, VILLAGE OF | 2605110005B | 10-OCT-2001 | 01-05-3957A | 02
05 | MI | COMMERCE, TOWNSHIP OF | 2604730005B | 11-JUL-2001 | 01-05-2592A | 02
05 | MI | DAVISON, TOWNSHIP OF | 2606640010B | 10-AUG-2001 | 01-05-3102A | 01
05 | MI | DEARBORN HEIGHTS, CITY OF | 2602210007C | 31-AUG-2001 | 01-05-2605A | 02
05 | MI | DEARBORN HEIGHTS, CITY OF | 2602210007C | 03-OCT-2001 | 01-05-3801A | 02
05 | MI | DEERFIELD, TOWNSHIP OF | 26073C0305C | 12-DEC-2001 | 02-05-0322A | 02
05 | MI | DENVER, TOWNSHIP OF | 26073C0220C | 05-JUL-2001 | 01-05-2458A | 02
05 | MI | DRUMMOND ISLAND, TOWNSHIP OF | 2608030025A | 15-AUG-2001 | 01-05-2452A | 02
05 | MI | DRUMMOND ISLAND, TOWNSHIP OF | 2608030075A | 15-AUG-2001 | 01-05-2452A | 02
05 | MI | EAST CHINA, TOWNSHIP OF | 2601970005B | 10-AUG-2001 | 01-05-3202A | 02
05 | MI | EAST TAWAS, CITY OF | 2601000001C | 15-AUG-2001 | 01-05-2864A | 02
05 | MI | EAST TAWAS, CITY OF | 2601000001C | 01-AUG-2001 | 01-05-3093A | 02
05 | MI | ELBA, TOWNSHIP OF | 2607760001A | 14-SEP-2001 | 01-05-2238A | 02
05 | MI | ELBA, TOWNSHIP OF | 2607760001A | 12-DEC-2001 | 02-05-0764X | 02
05 | MI | ERIE, TOWNSHIP OF | 26115C0502D | 19-DEC-2001 | 02-05-0577A | 02
05 | MI | FABIUS, TOWNSHIP OF | 2607810025A | 18-JUL-2001 | 01-05-2832A | 02
05 | MI | FABIUS, TOWNSHIP OF | 2607810025A | 18-JUL-2001 | 01-05-2869A | 02
05 | MI | FABIUS, TOWNSHIP OF | 2607810025A | 08-AUG-2001 | 01-05-2980A | 02
05 | MI | FABIUS, TOWNSHIP OF | 2607810025A | 10-AUG-2001 | 01-05-3186A | 02
05 | MI | FABIUS, TOWNSHIP OF | 2607810025A | 08-AUG-2001 | 01-05-3187A | 02
05 | MI | FABIUS, TOWNSHIP OF | 2607810025A | 10-OCT-2001 | 01-05-3973A | 02
05 | MI | FABIUS, TOWNSHIP OF | 2607810025A | 28-NOV-2001 | 02-05-0602A | 02
05 | MI | FAIRHAVEN, TOWNSHIP OF | 2606280002B | 27-JUL-2001 | 01-05-2993A | 02
05 | MI | FARMINGTON HILLS, CITY OF | 2601720001C | 15-AUG-2001 | 01-05-2369A | 02
05 | MI | FARMINGTON HILLS, CITY OF | 2601720011C | 22-AUG-2001 | 01-05-2929A | 17
05 | MI | FARMINGTON HILLS, CITY OF | 2601720003C | 21-SEP-2001 | 01-05-3305A | 02
05 | MI | FARMINGTON HILLS, CITY OF | 2601720003C | 21-DEC-2001 | 02-05-0464A | 02
05 | MI | FARMINGTON HILLS, CITY OF | 2601720002C | 28-DEC-2001 | 02-05-0671A | 02
05 | MI | FLAT ROCK, CITY OF | 2602240003B | 08-AUG-2001 | 01-05-3074A | 02
05 | MI | FLAT ROCK, CITY OF | 2602240003B | 19-DEC-2001 | 01-05-3949A | 02
05 | MI | FLAT ROCK, CITY OF | 2602240005B | 28-DEC-2001 | 02-05-0946A | 02
05 | MI | FLINT, CITY OF | 2600760015C | 14-SEP-2001 | 01-05-3334A | 02
05 | MI | FRANKENLUST, TOWNSHIP OF | 26017C0200D | 28-SEP-2001 | 01-05-3485A | 02
05 | MI | FRASER, CITY OF | 2601220001B | 18-JUL-2001 | 01-05-2498A | 02
05 | MI | FRASER, CITY OF | 2601220001B | 24-AUG-2001 | 01-05-2883A | 02
05 | MI | FRASER, CITY OF | 2601220001B | 08-AUG-2001 | 01-05-2889A | 02
05 | MI | FRASER, CITY OF | 2601220001B | 25-JUL-2001 | 01-05-2999A | 02
05 | MI | FRASER, CITY OF | 2601220001B | 29-AUG-2001 | 01-05-3366A | 02
05 | MI | FRASER, CITY OF | 2601220001B | 19-SEP-2001 | 01-05-3595A | 02
05 | MI | FRASER, CITY OF | 2601220001B | 19-SEP-2001 | 01-05-3639A | 02
05 | MI | FRENCHTOWN CHARTER, TOWNSHIP OF | 26115C0262D | 19-SEP-2001 | 01-05-3767A | 02
05 | MI | FRENCHTOWN CHARTER, TOWNSHIP OF | 26115C0241D | 14-DEC-2001 | 02-05-0776A | 02
05 | MI | FRENDONIA, TOWNSHIP OF | 26056208A | 07-DEC-2001 | 02-05-0347A | 02
05 | MI | GIBRALTAR, CITY OF | 2602260001B | 11-JUL-2001 | 01-05-2554A | 02
05 | MI | GOODRICH, VILLAGE OF | 2603970005B | 28-SEP-2001 | 01-05-3524A | 01
05 | MI | GRAND BLANC, TOWNSHIP OF | 2600790001B | 01-AUG-2001 | 01-05-2227A | 02
05 | MI | GRAND HAVEN, TOWNSHIP OF | 2602700005B | 01-AUG-2001 | 01-05-2504A | 02
05 | MI | GRAND HAVEN, TOWNSHIP OF | 2602700005B | 21-DEC-2001 | 02-05-0839A | 02
05 | MI | GRANDVILLE, CITY OF | 2602710003B | 28-SEP-2001 | 01-05-3798A | 02
05 | MI | GREEN OAK, TOWNSHIP OF | 2604400005B | 28-DEC-2001 | 02-05-0655A | 02
05 | MI | GREENBUSH, TOWNSHIP OF | 2600010004C | 13-JUL-2001 | 01-05-2513A | 02
05 | MI | GREENBUSH, TOWNSHIP OF | 2600010004C | 27-JUL-2001 | 01-05-2567A | 02
05 | MI | GREENBUSH, TOWNSHIP OF | 2600010004C | 05-JUL-2001 | 01-05-2726A | 02
05 | MI | GREENBUSH, TOWNSHIP OF | 2600010004C | 14-SEP-2001 | 01-05-3367A | 02
05 | MI | GREENBUSH, TOWNSHIP OF | 2600010004C | 19-SEP-2001 | 01-05-3765A | 02
05 | MI | GREENBUSH, TOWNSHIP OF | 2600010007C | 24-OCT-2001 | 02-05-0209A | 02
05 | MI | GREENBUSH, TOWNSHIP OF | 2600010004C | 09-NOV-2001 | 02-05-0257A | 02
05 | MI | GREENBUSH, TOWNSHIP OF | 2600010007C | 12-DEC-2001 | 02-05-0745A | 02
05 | MI | GREENBUSH, TOWNSHIP OF | 2600010007C | 12-DEC-2001 | 02-05-0749A | 02
05 | MI | GROSSE ILE, TOWNSHIP OF | 2602270005B | 25-JUL-2001 | 01-05-2961A | 02
05 | MI | GROSSE ILE, TOWNSHIP OF | 2602270010B | 12-DEC-2001 | 02-05-0758A | 02
05 | MI | HAMBURG, TOWNSHIP OF | 2601180010C | 12-SEP-2001 | 01-05-3479A | 02
05 | MI | HAMBURG, TOWNSHIP OF | 2601180010C | 12-DEC-2001 | 02-05-0411A | 02
05 | MI | HARRISON, TOWNSHIP OF | 2601230010C | 29-AUG-2001 | 01-05-1958A | 02
05 | MI | HARRISON, TOWNSHIP OF | 2601230010C | 18-JUL-2001 | 01-05-2495A | 02
05 | MI | HARRISON, TOWNSHIP OF | 2601230010C | 05-JUL-2001 | 01-05-2684A | 02
05 | MI | HARRISON, TOWNSHIP OF | 2601230010C | 05-JUL-2001 | 01-05-2696A | 02
05 | MI | HARRISON, TOWNSHIP OF | 2601230005C | 03-AUG-2001 | 01-05-2822A | 02
05 | MI | HARRISON, TOWNSHIP OF | 2601230010C | 18-JUL-2001 | 01-05-2841A | 02
05 | MI | HARRISON, TOWNSHIP OF | 2601230010C | 14-SEP-2001 | 01-05-2849A | 01
05 | MI | HARRISON, TOWNSHIP OF | 2601230010C | 08-AUG-2001 | 01-05-3157A | 02
05 | MI | HARRISON, TOWNSHIP OF | 2601230010C | 15-AUG-2001 | 01-05-3171A | 02
05 | MI | HARRISON, TOWNSHIP OF | 2601230010C | 12-SEP-2001 | 01-05-3614A | 02
05 | MI | HARRISON, TOWNSHIP OF | 2601230005C | 21-SEP-2001 | 01-05-3700A | 02
05 | MI | HARRISON, TOWNSHIP OF | 2601230010C | 09-NOV-2001 | 01-05-3813A | 02
05 | MI | HARRISON, TOWNSHIP OF | 2601230010C | 26-NOV-2001 | 02-05-0303A | 02
05 | MI | HARRISON, TOWNSHIP OF | 2601230010C | 14-NOV-2001 | 02-05-0477A | 02
05 | MI | HARRISON, TOWNSHIP OF | 2601230005C | 07-DEC-2001 | 02-05-0663A | 02
05 | MI | HARRISON, TOWNSHIP OF | 2601230010C | 12-DEC-2001 | 02-05-0769A | 02
05 | MI | HARRISON, TOWNSHIP OF | 2601230005C | 28-DEC-2001 | 02-05-0919A | 02
05 | MI | HAYNES, TOWNSHIP OF | 26027411A | 18-JUL-2001 | 01-05-2184A | 02
05 | MI | HOWELL, CITY OF | 2604410002B | 11-JUL-2001 | 01-05-2774A | 02
05 | MI | HOWELL, CITY OF | 2604410002B | 27-JUL-2001 | 01-05-2974A | 02
05 | MI | HUDSONVILLE, CITY OF | 2604930002A | 19-SEP-2001 | 01-05-3652A | 02
05 | MI | IDA, TOWNSHIP OF | 26115C0355D | 01-AUG-2001 | 01-05-2821A | 02
05 | MI | IDA, TOWNSHIP OF | 26115C0355D | 05-OCT-2001 | 01-05-3458A | 02
05 | MI | IDA, TOWNSHIP OF | 26115C0215D | 19-SEP-2001 | 01-05-3769A | 02
05 | MI | IDA, TOWNSHIP OF | 26115C0355D | 07-NOV-2001 | 02-05-0308A | 02
05 | MI | IDA, TOWNSHIP OF | 26115C0350D | 28-DEC-2001 | 02-05-0898A | 02
05 | MI | INDEPENDENCE, TOWNSHIP OF | 2604750008B | 29-AUG-2001 | 01-05-2851A | 02
05 | MI | INDEPENDENCE, TOWNSHIP OF | 2604750005B | 28-DEC-2001 | 02-05-0445A | 02
05 | MI | INDEPENDENCE, TOWNSHIP OF | 2604750006B | 28-DEC-2001 | 02-05-0667A | 02
05 | MI | INDEPENDENCE, TOWNSHIP OF | 2604750006B | 30-NOV-2001 | 02-05-0615A | 02
05 | MI | IRA, TOWNSHIP OF | 2601990010B | 21-SEP-2001 | 01-05-2762A | 02
05 | MI | JAMES, TOWNSHIP OF | 26145C0130D | 03-AUG-2001 | 01-05-2784A | 02
05 | MI | JAMES, TOWNSHIP OF | 26145C0130D | 07-SEP-2001 | 01-05-3601A | 02
05 | MI | JAMES, TOWNSHIP OF | 26145C0130D | 10-OCT-2001 | 02-05-0013A | 02
05 | MI | JAMES, TOWNSHIP OF | 26145C0130D | 07-NOV-2001 | 02-05-0367A | 02
05 | MI | KAWKAWLIN, TOWNSHIP OF | 26017C0115D | 11-JUL-2001 | 01-05-2508A | 02
05 | MI | KINGSFORD, CITY OF | 26006402A | 17-OCT-2001 | 01-05-2967A | 02
05 | MI | KOCHVILLE, TOWNSHIP OF | 26145C0080D | 05-SEP-2001 | 01-05-3364A | 01
05 | MI | KOCHVILLE, TOWNSHIP OF | 26145C0080D | 02-NOV-2001 | 01-05-3944A | 02
05 | MI | LAPEER, CITY OF | 2601120001D | 21-DEC-2001 | 01-05-690A | 17
05 | MI | LASALLE, TOWNSHIP OF | 26115C0360D | 05-SEP-2001 | 01-05-3488A | 02
05 | MI | LEELANAU, TOWNSHIP OF | 26011410B | 15-AUG-2001 | 01-05-2824A | 02
05 | MI | LEELANAU, TOWNSHIP OF | 26011411B | 22-AUG-2001 | 01-05-3201A | 02
05 | MI | LEELANAU, TOWNSHIP OF | 26011410B | 05-OCT-2001 | 01-05-3951A | 02
05 | MI | LIVONIA, CITY OF | 2602330002B | 19-DEC-2001 | 02-05-0514A | 17
05 | MI | LOCKPORT, TOWNSHIP OF | 2607150010B | 28-NOV-2001 | 02-05-0603A | 02
05 | MI | LONG LAKE, TOWNSHIP OF | 2607820025A | 24-OCT-2001 | 02-05-0210A | 02
05 | MI | LONG LAKE, TOWNSHIP OF | 2607820025A | 30-NOV-2001 | 02-05-0642A | 02
05 | MI | MACOMB, TOWNSHIP OF | 2604450015B | 20-AUG-2001 | 00-05-299P | 06
05 | MI | MACOMB, TOWNSHIP OF | 2604450010B | 17-AUG-2001 | 01-05-2126A | 01
05 | MI | MACOMB, TOWNSHIP OF | 2604450010B | 22-AUG-2001 | 01-05-3085A | 02
05 | MI | MACOMB, TOWNSHIP OF | 2604450010B | 21-SEP-2001 | 01-05-3826A | 02
05 | MI | MACOMB, TOWNSHIP OF | 2604450010B | 13-DEC-2001 | 01-05-735P | 06
05 | MI | MACOMB, TOWNSHIP OF | 2604450020B | 26-OCT-2001 | 02-05-0159A | 02
05 | MI | MACOMB, TOWNSHIP OF | 2604450010B | 21-DEC-2001 | 02-05-0644A | 02
05 | MI | MCKINLEY, TOWNSHIP OF | 26032204A | 21-DEC-2001 | 02-05-0022A | 02
05 | MI | MENOMINEE, CITY OF | 2601380005B | 07-SEP-2001 | 01-05-2966A | 01
05 | MI | MENOMINEE, TOWNSHIP OF | 2607020025B | 28-SEP-2001 | 01-05-2174A | 02
05 | MI | MENOMINEE, TOWNSHIP OF | 2607020030B | 06-JUL-2001 | 01-05-2409A | 02
05 | MI | MERIDIAN, CHARTER TOWNSHIP OF | 2600930015B | 10-AUG-2001 | 01-05-1319A | 02
05 | MI | MERIDIAN, CHARTER TOWNSHIP OF | 2600930013B | 05-JUL-2001 | 01-05-2477A | 02
05 | MI | MERIDIAN, CHARTER TOWNSHIP OF | 2600930013B | 13-JUL-2001 | 01-05-2698A | 02
05 | MI | MERIDIAN, CHARTER TOWNSHIP OF | 2600930010B | 25-JUL-2001 | 01-05-2989A | 02
05 | MI | MERIDIAN, CHARTER TOWNSHIP OF | 2600930015B | 08-AUG-2001 | 01-05-3087A | 17
05 | MI | MERIDIAN, CHARTER TOWNSHIP OF | 2600930013B | 22-AUG-2001 | 01-05-3376A | 02
05 | MI | MERIDIAN, CHARTER TOWNSHIP OF | 2600930015B | 22-AUG-2001 | 01-05-3376A | 02
05 | MI | MERIDIAN, CHARTER TOWNSHIP OF | 2600930015B | 19-OCT-2001 | 01-05-3450A | 02
05 | MI | MERIDIAN, CHARTER TOWNSHIP OF | 2600930010B | 12-SEP-2001 | 01-05-3526A | 02
05 | MI | MERIDIAN, CHARTER TOWNSHIP OF | 2600930010B | 28-SEP-2001 | 01-05-3745A | 02
05 | MI | MERIDIAN, CHARTER TOWNSHIP OF | 2600930015B | 01-AUG-2001 | 01-05-776A | 02
05 | MI | MERIDIAN, CHARTER TOWNSHIP OF | 2600930013B | 26-OCT-2001 | 02-05-0238A | 02
05 | MI | MERIDIAN, CHARTER TOWNSHIP OF | 2600930015B | 26-OCT-2001 | 02-05-0238A | 02
05 | MI | MERIDIAN, CHARTER TOWNSHIP OF | 2600930010B | 26-NOV-2001 | 02-05-0512A | 02
05 | MI | MERIDIAN, CHARTER TOWNSHIP OF | 2600930015B | 26-NOV-2001 | 02-05-0547A | 02
05 | MI | MERIDIAN, CHARTER TOWNSHIP OF | 2600930010B | 19-DEC-2001 | 02-05-0819A | 02
05 | MI | MIDLAND, CITY OF | 2601400007D | 07-SEP-2001 | 01-05-3487A | 02
05 | MI | MIDLAND, CITY OF | 2601400005D | 19-OCT-2001 | 02-05-0027A | 02
05 | MI | MIDLAND, CITY OF | 2601400007D | 24-OCT-2001 | 02-05-0230A | 02
05 | MI | MIDLAND, CITY OF | 2601400007D | 14-NOV-2001 | 02-05-0364A | 02
05 | MI | MONITOR, TOWNSHIP OF | 26017C0135D | 06-AUG-2001 | 01-05-1763P | 05
05 | MI | MONROE, CITY OF | 26115C0242D | 21-DEC-2001 | 02-05-0856A | 02
05 | MI | MUSKEGON, TOWNSHIP OF | 2601630005C | 14-DEC-2001 | 01-05-3344A | 02
05 | MI | NORTHFIELD, TOWNSHIP OF | 2606350005A | 22-AUG-2001 | 01-05-2853A | 02
05 | MI | NORTHVILLE, CITY OF | 2602350001B | 08-AUG-2001 | 01-05-2697A | 02
05 | MI | NORTON SHORES, CITY OF | 2601650001A | 18-JUL-2001 | 01-05-2211A | 02
05 | MI | NORTON SHORES, CITY OF | 2601650001A | 31-AUG-2001 | 01-05-3172A | 02
05 | MI | NOTTAWA, TOWNSHIP OF | 26073C0165C | 07-DEC-2001 | 02-05-0573A | 02
05 | MI | NOVI, CITY OF | 2601750005C | 25-JUL-2001 | 01-05-2596A | 02
05 | MI | NOVI, CITY OF | 2601750009C | 18-JUL-2001 | 01-05-2633A | 02
05 | MI | NOVI, CITY OF | 2601750005C | 17-OCT-2001 | 01-05-2910A | 02
05 | MI | NOVI, CITY OF | 2601750007C | 19-SEP-2001 | 01-05-2934A | 02
05 | MI | NOVI, CITY OF | 2601750008C | 07-SEP-2001 | 01-05-3293A | 01
05 | MI | NOVI, CITY OF | 2601750008C | 26-SEP-2001 | 01-05-3327A | 01
05 | MI | NOVI, CITY OF | 2601750009C | 28-DEC-2001 | 02-05-0468A | 02
05 | MI | OSCODA, TOWNSHIP OF | 2601010025C | 21-SEP-2001 | 01-05-3095A | 02
05 | MI | OSCODA, TOWNSHIP OF | 2601010025C | 19-OCT-2001 | 02-05-0188X | 02
05 | MI | OSCODA, TOWNSHIP OF | 2601010050C | 07-DEC-2001 | 02-05-0386A | 02
05 | MI | OWOSSO, CITY OF | 2605960002A | 05-OCT-2001 | 01-05-3594A | 02
05 | MI | OWOSSO, TOWNSHIP OF | 2608090010A | 08-AUG-2001 | 01-05-2881A | 02
05 | MI | PORT AUSTIN, TOWNSHIP OF | 26029003C | 29-AUG-2001 | 01-05-3115A | 02
05 | MI | PORTAGE, CITY OF | 2605770005A | 26-SEP-2001 | 01-05-3441A | 02
05 | MI | PORTAGE, CITY OF | 2605770003A | 14-SEP-2001 | 01-05-3489A | 17
05 | MI | PORTAGE, CITY OF | 2605770006A | 26-SEP-2001 | 01-05-3789A | 02
05 | MI | RABER, TOWNSHIP OF | 2607860025A | 27-JUL-2001 | 01-05-2731A | 02
05 | MI | READING, TOWNSHIP OF | 2604100002A | 13-JUL-2001 | 01-05-2213A | 02
05 | MI | ROCKWOOD, CITY OF | 2602410005B | 19-SEP-2001 | 01-05-3358A | 02
05 | MI | SAGINAW COUNTY | 26145C0085D | 21-SEP-2001 | 01-05-3736A | 02
05 | MI | SAGINAW, TOWNSHIP OF | 26145C0130D | 08-AUG-2001 | 01-05-3154A | 02
05 | MI | SAGINAW, TOWNSHIP OF | 26145C0130D | 22-AUG-2001 | 01-05-3161A | 02
05 | MI | SELMA, TOWNSHIP OF | 26165C0336C | 27-JUL-2001 | 01-05-2815A | 02
05 | MI | SHELBY, TOWNSHIP OF | 2601260020B | 05-JUL-2001 | 01-05-1092A | 02
05 | MI | SHELBY, TOWNSHIP OF | 2601260010B | 03-OCT-2001 | 01-05-3597A | 02
05 | MI | SHELBY, TOWNSHIP OF | 2601260010B | 21-SEP-2001 | 01-05-3626A | 02
05 | MI | SHELBY, TOWNSHIP OF | 2601260020B | 31-OCT-2001 | 02-05-0168A | 02
05 | MI | SHELBY, TOWNSHIP OF | 2601260010B | 14-NOV-2001 | 02-05-0497A | 02
05 | MI | SHERMAN, TOWNSHIP OF | 26073C0175C | 31-AUG-2001 | 01-05-2555A | 02
05 | MI | SHERMAN, TOWNSHIP OF | 26073C0175C | 20-JUL-2001 | 01-05-2650A | 02
05 | MI | SHERMAN, TOWNSHIP OF | 26073C0175C | 27-JUL-2001 | 01-05-3005A | 02
05 | MI | SHERMAN, TOWNSHIP OF | 26073C0175C | 21-DEC-2001 | 02-05-0087A | 02
05 | MI | SOUTH HAVEN, CITY OF | 2602110002B | 08-AUG-2001 | 01-05-625A | 02
05 | MI | SOUTHGATE, CITY OF | 2602420005B | 15-AUG-2001 | 01-05-2751A | 01
05 | MI | SPAULDING, TOWNSHIP OF | 26145C0190D | 28-SEP-2001 | 01-05-3206A | 02
05 | MI | SPAULDING, TOWNSHIP OF | 26145C0190D | 07-SEP-2001 | 01-05-3456A | 02
05 | MI | SPRING LAKE, TOWNSHIP OF | 2602810002B | 14-DEC-2001 | 02-05-0645A | 02
05 | MI | SPRING LAKE, VILLAGE OF | 2602820001B | 24-OCT-2001 | 02-05-0072A | 02
05 | MI | ST. CHARLES, TOWNSHIP OF | 26145C0235D | 12-SEP-2001 | 01-05-2985A | 02
05 | MI | ST. CLAIR SHORES, CITY OF | 2601270005B | 18-JUL-2001 | 01-05-2648A | 02
05 | MI | ST. CLAIR SHORES, CITY OF | 2601270005B | 18-JUL-2001 | 01-05-2655A | 02
05 | MI | ST. CLAIR SHORES, CITY OF | 2601270005B | 25-JUL-2001 | 01-05-2670A | 02
05 | MI | ST. CLAIR SHORES, CITY OF | 2601270005B | 27-JUL-2001 | 01-05-2727A | 02
05 | MI | ST. CLAIR SHORES, CITY OF | 2601270005B | 06-JUL-2001 | 01-05-2739A | 02
05 | MI | ST. CLAIR SHORES, CITY OF | 2601270005B | 02-AUG-2001 | 01-05-3042A | 02
05 | MI | ST. CLAIR SHORES, CITY OF | 2601270005B | 10-AUG-2001 | 01-05-3079A | 02
05 | MI | ST. CLAIR SHORES, CITY OF | 2601270005B | 22-AUG-2001 | 01-05-3182A | 02
05 | MI | ST. CLAIR SHORES, CITY OF | 2601270005B | 10-AUG-2001 | 01-05-3203A | 02
05 | MI | ST. CLAIR SHORES, CITY OF | 2601270005B | 10-AUG-2001 | 01-05-3219A | 02
05 | MI | ST. CLAIR SHORES, CITY OF | 2601270005B | 15-AUG-2001 | 01-05-3246A | 02
05 | MI | ST. CLAIR SHORES, CITY OF | 2601270005B | 29-AUG-2001 | 01-05-3363A | 02
05 | MI | ST. CLAIR SHORES, CITY OF | 2601270005B | 14-SEP-2001 | 01-05-3641A | 02
05 | MI | ST. CLAIR SHORES, CITY OF | 2601270005B | 19-SEP-2001 | 01-05-3713A | 02
05 | MI | ST. CLAIR SHORES, CITY OF | 2601270005B | 03-OCT-2001 | 01-05-3723A | 02
05 | MI | ST. CLAIR SHORES, CITY OF | 2601270005B | 27-SEP-2001 | 01-05-3739A | 02
05 | MI | ST. CLAIR SHORES, CITY OF | 2601270005B | 10-OCT-2001 | 01-05-3939A | 02
05 | MI | ST. CLAIR SHORES, CITY OF | 2601270005B | 03-OCT-2001 | 01-05-3954A | 02
05 | MI | ST. CLAIR SHORES, CITY OF | 2601270005B | 10-OCT-2001 | 01-05-3981A | 02
05 | MI | ST. CLAIR SHORES, CITY OF | 2601270005B | 09-NOV-2001 | 02-05-0392A | 02
05 | MI | ST. CLAIR SHORES, CITY OF | 2601270005B | 21-DEC-2001 | 02-05-0500A | 02
05 | MI | ST. CLAIR SHORES, CITY OF | 2601270005B | 26-NOV-2001 | 02-05-0524A | 02
05 | MI | ST. CLAIR SHORES, CITY OF | 2601270005B | 26-NOV-2001 | 02-05-0567A | 02
05 | MI | ST. CLAIR SHORES, CITY OF | 2601270005B | 14-DEC-2001 | 02-05-0649A | 02
05 | MI | ST. CLAIR SHORES, CITY OF | 2601270005B | 05-DEC-2001 | 02-05-0652A | 02
05 | MI | ST. CLAIR SHORES, CITY OF | 2601270005B | 05-DEC-2001 | 02-05-0721A | 02
05 | MI | ST. CLAIR SHORES, CITY OF | 2601270005B | 19-DEC-2001 | 02-05-0735A | 02
05 | MI | ST. CLAIR SHORES, CITY OF | 2601270005B | 21-DEC-2001 | 02-05-0762A | 02
05 | MI | ST. CLAIR SHORES, CITY OF | 2601270005B | 14-DEC-2001 | 02-05-0794A | 02
05 | MI | ST. CLAIR SHORES, CITY OF | 2601270005B | 19-DEC-2001 | 02-05-0808A | 02
05 | MI | ST. CLAIR SHORES, CITY OF | 2601270005B | 21-DEC-2001 | 02-05-0849A | 02
05 | MI | ST. CLAIR SHORES, CITY OF | 2601270005B | 19-DEC-2001 | 02-05-0884A | 02
05 | MI | STANDISH, TOWNSHIP OF | 2600170015C | 26-SEP-2001 | 01-05-3520A | 02
05 | MI | STERLING HEIGHTS, CITY OF | 2601280015F | 14-NOV-2001 | 01-05-3997A | 17
05 | MI | STERLING HEIGHTS, CITY OF | 2601280015F | 21-DEC-2001 | 02-05-0316A | 02
05 | MI | SWAN CREEK, TOWNSHIP OF | 26145C0125D | 14-SEP-2001 | 01-05-3369A | 02
05 | MI | TALLMADGE, TOWNSHIP OF | 2604940010B | 30-NOV-2001 | 02-05-0582A | 02
05 | MI | THOMAS, TOWNSHIP OF | 26145C0070D | 05-JUL-2001 | 01-05-2725A | 17
05 | MI | THOMAS, TOWNSHIP OF | 26145C0125D | 29-AUG-2001 | 01-05-3213A | 17
05 | MI | THOMAS, TOWNSHIP OF | 26145C0070D | 28-NOV-2001 | 02-05-0080A | 02
05 | MI | THOMAS, TOWNSHIP OF | 26145C0130D | 19-OCT-2001 | 02-05-0155A | 02
05 | MI | THORNAPPLE, TOWNSHIP OF | 2606300001B | 25-JUL-2001 | 01-05-2890A | 02
05 | MI | TRENTON, CITY OF | 2602440003C | 19-DEC-2001 | 02-05-0571A | 02
05 | MI | TROY, CITY OF | 2601800002D | 11-JUL-2001 | 01-05-1684A | 02
05 | MI | TROY, CITY OF | 2601800004E | 13-JUL-2001 | 01-05-2635A | 02
05 | MI | TROY, CITY OF | 2601800004E | 03-AUG-2001 | 01-05-3058A | 02
05 | MI | TROY, CITY OF | 2601800004E | 21-NOV-2001 | 02-05-0115A | 02
05 | MI | UNION, TOWNSHIP OF | 2608050025A | 29-AUG-2001 | 01-05-2475A | 02
05 | MI | UNION, TOWNSHIP OF | 26073C0194C | 21-DEC-2001 | 02-05-0205A | 02
05 | MI | UNION, TOWNSHIP OF | 26073C0194C | 26-NOV-2001 | 02-05-0234A | 02
05 | MI | VICTOR, TOWNSHIP OF | 2607200010B | 19-DEC-2001 | 02-05-0305A | 02
05 | MI | WARREN, CITY OF | 2601290010C | 05-JUL-2001 | 01-05-2520A | 02
05 | MI | WARREN, CITY OF | 2601290010C | 22-AUG-2001 | 01-05-3220A | 02
05 | MI | WARREN, CITY OF | 2601290010C | 07-DEC-2001 | 02-05-0608A | 02
05 | MI | WARREN, CITY OF | 2601290005C | 19-DEC-2001 | 02-05-0838A | 02
05 | MI | WARREN, CITY OF | 2601290010C | 19-DEC-2001 | 02-05-0838A | 02
05 | MI | WASHINGTON, TOWNSHIP OF | 2604470015A | 21-SEP-2001 | 01-05-3275A | 02
05 | MI | WASHINGTON, TOWNSHIP OF | 2604470005A | 21-DEC-2001 | 02-05-0025P | 05
05 | MI | WATERFORD, CHARTER TOWNSHIP OF | 2602840010B | 22-AUG-2001 | 01-05-3049A | 02
05 | MI | WATERFORD, CHARTER TOWNSHIP OF | 2602840010B | 01-AUG-2001 | 01-05-3057A | 02
05 | MI | WHITE LAKE, TOWNSHIP OF | 2604790005B | 25-JUL-2001 | 01-05-2911A | 02
05 | MI | WHITE LAKE, TOWNSHIP OF | 2604790005B | 20-JUL-2001 | 01-05-2912A | 02
05 | MI | WHITE LAKE, TOWNSHIP OF | 2604790005B | 19-SEP-2001 | 01-05-3324A | 02
05 | MI | WHITE OAK, TOWNSHIP OF | 26041708A | 14-NOV-2001 | 01-05-4005A | 02
05 | MI | WHITEFISH, TOWNSHIP | 2603210050C | 12-OCT-2001 | 01-05-3927A | 02
05 | MI | WHITEWATER, TOWNSHIP OF | 2607940025A | 13-JUL-2001 | 01-05-2166A | 02
05 | MI | WHITEWATER, TOWNSHIP OF | 2607940025A | 12-SEP-2001 | 01-05-3226A | 02
05 | MI | WHITEWATER, TOWNSHIP OF | 2607940025A | 07-SEP-2001 | 01-05-3509A | 02
05 | MI | WHITEWATER, TOWNSHIP OF | 2607940025A | 19-SEP-2001 | 01-05-3727A | 02
05 | MI | WHITEWATER, TOWNSHIP OF | 2607940025A | 21-SEP-2001 | 01-05-3774A | 02
05 | MI | WILLIAMSTON, CITY OF | 2600940001B | 14-NOV-2001 | 02-05-0405A | 02
05 | MI | WILLIAMSTOWN, TOWNSHIP OF | 2600950010A | 03-AUG-2001 | 01-05-2997A | 02
05 | MI | WILLIAMSTOWN, TOWNSHIP OF | 2600950005A | 10-AUG-2001 | 01-05-3212A | 02
05 | MI | WOODHAVEN, CITY OF | 2607300005A | 08-AUG-2001 | 01-05-2733A | 02
05 | MI | WOODHAVEN, CITY OF | 2607300005A | 19-OCT-2001 | 01-05-3627A | 02
05 | MI | WOODHAVEN, CITY OF | 2607300005A | 12-OCT-2001 | 01-05-3975A | 17
05 | MI | WORTH, TOWNSHIP OF | 260296A | 16-OCT-2001 | 01-05-3787P | 06
05 | MI | WYANDOTTE, CITY OF | 2602460001B | 19-OCT-2001 | 02-05-0191A | 02
05 | MI | WYOMING, CITY OF | 2601110015C | 10-AUG-2001 | 01-05-2630A | 02
05 | MI | ZILWAUKEE, CITY OF | 26145C0085D | 11-JUL-2001 | 01-05-2479A | 02
05 | MI | ZILWAUKEE, CITY OF | 26145C0085D | 02-NOV-2001 | 02-05-0328A | 02
05 | MN | AFTON, CITY OF | 27522601A | 28-DEC-2001 | 02-05-0889A | 02
05 | MN | AITKIN COUNTY | 2706280245B | 25-JUL-2001 | 01-05-1964A | 02
05 | MN | AITKIN COUNTY | 2706280400C | 26-OCT-2001 | 02-05-0282A | 02
05 | MN | ANDOVER, CITY OF | 2706890015B | 03-OCT-2001 | 01-05-3834A | 02
05 | MN | ANDOVER, CITY OF | 2706890015B | 07-NOV-2001 | 02-05-0301A | 02
05 | MN | ANDOVER, CITY OF | 2706890010B | 07-NOV-2001 | 02-05-0307A | 02
05 | MN | ANDOVER, CITY OF | 2706890010B | 26-NOV-2001 | 02-05-0376A | 17
05 | MN | ANOKA COUNTY | 2700050025A | 07-NOV-2001 | 01-05-2996A | 02
05 | MN | ANOKA COUNTY | 2700050050A | 20-JUL-2001 | 01-05-3017A | 02
05 | MN | ARLINGTON, CITY OF | 2706200075B | 10-AUG-2001 | 01-05-2752A | 02
05 | MN | AUSTIN, CITY OF | 2752280004B | 05-JUL-2001 | 01-05-2703A | 02
05 | MN | AUSTIN, CITY OF | 2752280004B | 12-SEP-2001 | 01-05-3401A | 02
05 | MN | BAXTER, CITY OF | 2700920005B | 25-JUL-2001 | 01-05-132A | 02
05 | MN | BECKER, CITY OF | 27141C0240E | 24-AUG-2001 | 01-05-3223A | 02
05 | MN | BENTON COUNTY | 2700190025B | 01-AUG-2001 | 01-05-2249A | 01
05 | MN | BENTON COUNTY | 2700190050B | 14-DEC-2001 | 02-05-0258A | 02
05 | MN | BIG LAKE, CITY OF | 27141C0245E | 07-SEP-2001 | 01-05-3437A | 02
05 | MN | BLAINE, CITY OF | 2700070005C | 11-JUL-2001 | 01-05-2091A | 02
05 | MN | BLAINE, CITY OF | 2700070005C | 31-AUG-2001 | 01-05-3280A | 02
05 | MN | BLAINE, CITY OF | 2700070005C | 05-SEP-2001 | 01-05-3282A | 02
05 | MN | BLAINE, CITY OF | 2700070005C | 30-NOV-2001 | 01-05-3892A | 01
05 | MN | BLAINE, CITY OF | 2700070010C | 28-NOV-2001 | 01-05-3897A | 01
05 | MN | BLAINE, CITY OF | 2700070005C | 05-DEC-2001 | 02-05-0128A | 02
05 | MN | BROOKLYN PARK, CITY OF | 2701520003D | 05-DEC-2001 | 01-05-3885A | 02
05 | MN | CANNON FALLS, CITY OF | 2701410002C | 22-AUG-2001 | 01-05-3231A | 02
05 | MN | CARVER COUNTY | 2700490050C | 24-AUG-2001 | 01-05-2959A | 02
05 | MN | CARVER COUNTY | 2700490050C | 19-SEP-2001 | 01-05-3612A | 02
05 | MN | CLAY COUNTY | 2752350175C | 26-SEP-2001 | 01-05-3691A | 02
05 | MN | COLD SPRING, CITY OF | 2704440001C | 16-NOV-2001 | 02-05-0233A | 02
05 | MN | COON RAPIDS,CITY OF | 2700110001A | 18-JUL-2001 | 01-05-2761A | 02
05 | MN | COON RAPIDS,CITY OF | 2700110001A | 15-AUG-2001 | 01-05-3019A | 01
05 | MN | CROSSLAKE, CITY OF | 27009503B | 17-OCT-2001 | 01-05-3999A | 02
05 | MN | CROSSLAKE, CITY OF | 27009506B | 17-OCT-2001 | 01-05-3999A | 02
05 | MN | CROW WING COUNTY | 2700910025B | 10-AUG-2001 | 01-05-3023A | 02
05 | MN | CROW WING COUNTY | 2700910025B | 19-OCT-2001 | 01-05-3937A | 02
05 | MN | CROW WING COUNTY | 2700910200B | 26-NOV-2001 | 02-05-0511A | 02
05 | MN | CRYSTAL, CITY OF | 2701560004C | 26-SEP-2001 | 01-05-2615A | 01
05 | MN | CRYSTAL, CITY OF | 2701560004C | 25-JUL-2001 | 01-05-927P | 05
05 | MN | DAKOTA COUNTY | 2701010175B | 28-NOV-2001 | 02-05-0563A | 02
05 | MN | DOUGLAS COUNTY | 2706230004B | 26-OCT-2001 | 01-05-3998A | 02
05 | MN | DOVER, CITY OF | 27109C0357D | 21-DEC-2001 | 02-05-0906A | 02
05 | MN | DULUTH, CITY OF | 2704210025C | 21-SEP-2001 | 01-05-3260A | 02
05 | MN | DUNDAS, CITY OF | 2704030001A | 18-DEC-2001 | 02-05-0959P | 05
05 | MN | EAST BETHEL, CITY OF | 2700120010A | 26-NOV-2001 | 02-05-0255A | 02
05 | MN | EAST GRAND FORKS, CITY OF | 2752360005C | 07-SEP-2001 | 01-05-3539A | 02
05 | MN | EAST GRAND FORKS, CITY OF | 2752360005C | 21-DEC-2001 | 02-05-0813A | 02
05 | MN | EDEN PRAIRIE, CITY OF | 2701590010C | 10-AUG-2001 | 01-05-2341A | 02
05 | MN | EDEN PRAIRIE, CITY OF | 2701590005C | 18-JUL-2001 | 01-05-2372A | 02
05 | MN | EDEN PRAIRIE, CITY OF | 2701590005C | 31-AUG-2001 | 01-05-2956A | 02
05 | MN | EDEN PRAIRIE, CITY OF | 2701590010C | 12-SEP-2001 | 01-05-3320A | 02
05 | MN | ELYSIAN, CITY OF | 27079C0425D | 07-SEP-2001 | 01-05-2453A | 02
05 | MN | FARIBAULT, CITY OF | 2704040001C | 20-JUL-2001 | 00-05-5882A | 01
05 | MN | FARMINGTON, CITY OF | 2701040002C | 10-OCT-2001 | 01-05-2547C | 02
05 | MN | FARMINGTON, CITY OF | 2701040002C | 16-NOV-2001 | 02-05-0280A | 01
05 | MN | FILLMORE COUNTY | 2701240075B | 20-JUL-2001 | 01-05-2003A | 02
05 | MN | GOLDEN VALLEY, CITY OF | 2701620001B | 25-JUL-2001 | 01-05-927P | 05
05 | MN | GOODHUE COUNTY | 2701400125A | 05-JUL-2001 | 01-05-2663A | 02
05 | MN | GOODHUE COUNTY | 2701400125A | 26-OCT-2001 | 02-05-0254A | 02
05 | MN | GRANT COUNTY | 2705490004B | 31-AUG-2001 | 01-05-3101A | 02
05 | MN | GREENFIELD, CITY OF | 2706730010C | 13-JUL-2001 | 01-05-2379A | 02
05 | MN | GREENFIELD, CITY OF | 2706730005C | 20-JUL-2001 | 01-05-1993A | 02
05 | MN | HAM LAKE, CITY OF | 2706740010B | 05-JUL-2001 | 01-05-1282A | 01
05 | MN | HAM LAKE, CITY OF | 2706740005B | 11-JUL-2001 | 01-05-2886A | 02
05 | MN | HAM LAKE, CITY OF | 2706740010B | 20-JUL-2001 | 01-05-2899A | 02
05 | MN | HAM LAKE, CITY OF | 2706740005B | 03-OCT-2001 | 01-05-3703A | 02
05 | MN | HAM LAKE, CITY OF | 2706740005B | 07-NOV-2001 | 02-05-0359X | 02
05 | MN | HAM LAKE, CITY OF | 2706740010B | 19-DEC-2001 | 02-05-0820X | 02
05 | MN | HERMANTOWN, CITY OF | 2707080005B | 11-JUL-2001 | 01-05-2316A | 01
05 | MN | HOUSTON COUNTY * | 2701900020B | 15-AUG-2001 | 01-05-2604A | 02
05 | MN | ISANTI COUNTY | 2701970060B | 11-JUL-2001 | 01-05-2439A | 02
05 | MN | ISANTI COUNTY | 2701970060B | 20-JUL-2001 | 01-05-2834A | 02
05 | MN | ISANTI COUNTY | 2701970085A | 03-AUG-2001 | 01-05-3215A | 02
05 | MN | ISANTI COUNTY | 2701970035B | 19-SEP-2001 | 01-05-3654A | 02
05 | MN | ISANTI COUNTY | 2701970040B | 26-OCT-2001 | 01-05-3955A | 02
05 | MN | ISANTI COUNTY | 2701970045C | 12-DEC-2001 | 02-05-0482A | 02
05 | MN | ISANTI COUNTY | 2701970060B | 05-DEC-2001 | 02-05-0630A | 02
05 | MN | KANABEC COUNTY | 2702140250A | 29-AUG-2001 | 01-05-3496A | 02
05 | MN | KOOCHICHING COUNTY | 2702330005C | 18-JUL-2001 | 01-05-2773A | 17
05 | MN | KOOCHICHING COUNTY | 2702330006B | 18-JUL-2001 | 01-05-3055A | 02
05 | MN | KOOCHICHING COUNTY | 2702330006A | 21-SEP-2001 | 01-05-3438A | 02
05 | MN | KOOCHICHING COUNTY | 2702330006B | 14-SEP-2001 | 01-05-3624A | 02
05 | MN | KOOCHICHING COUNTY | 2702330014B | 26-OCT-2001 | 01-05-3868A | 02
05 | MN | KOOCHICHING COUNTY | 2702330006B | 07-NOV-2001 | 02-05-0306A | 02
05 | MN | KOOCHICHING COUNTY | 2702330006B | 14-DEC-2001 | 02-05-0315A | 02
05 | MN | KOOCHICHING COUNTY | 2702330006B | 30-NOV-2001 | 02-05-0489A | 02
05 | MN | LAKE CITY, CITY OF | 27157C0033D | 14-SEP-2001 | 01-05-1303A | 01
05 | MN | LE SUEUR COUNTY | 27079C0091D | 07-SEP-2001 | 01-05-3443A | 02
05 | MN | MAPLE GROVE, CITY OF | 2701690001B | 20-JUL-2001 | 01-05-2356A | 01
05 | MN | MEDICINE LAKE, CITY OF | 2706900001A | 25-JUL-2001 | 01-05-927P | 05
05 | MN | MEEKER COUNTY | 2702800001B | 05-DEC-2001 | 02-05-0507A | 02
05 | MN | MINNEAPOLIS, CITY OF | 2701720006B | 25-JUL-2001 | 01-05-927P | 05
05 | MN | MINNETONKA, CITY OF | 2701730002C | 28-DEC-2001 | 02-05-0123A | 02
05 | MN | MINNETRISTA, CITY OF | 270175B | 13-JUL-2001 | 01-05-2349A | 02
05 | MN | MOORHEAD, CITY OF | 2752440005D | 18-JUL-2001 | 01-05-2811A | 02
05 | MN | MOORHEAD, CITY OF | 2752440005D | 18-JUL-2001 | 01-05-2812A | 02
05 | MN | MOORHEAD, CITY OF | 2752350175C | 11-JUL-2001 | 01-05-2813A | 02
05 | MN | MOORHEAD, CITY OF | 2752440010D | 25-JUL-2001 | 01-05-2814A | 01
05 | MN | MOORHEAD, CITY OF | 2752440010D | 07-NOV-2001 | 02-05-0271A | 02
05 | MN | MOOSE LAKE, CITY OF | 2700450003B | 28-NOV-2001 | 02-05-0247A | 02
05 | MN | MORRISON COUNTY | 2706170200B | 28-SEP-2001 | 01-05-3741A | 02
05 | MN | MORRISON COUNTY | 2706170290B | 07-DEC-2001 | 02-05-0620A | 02
05 | MN | MOUNDS VIEW, CITY OF | 2703790001C | 26-OCT-2001 | 01-05-3599A | 02
05 | MN | MOUNDS VIEW, CITY OF | 2703790001C | 28-DEC-2001 | 01-05-3952A | 01
05 | MN | NEW PRAGUE, CITY OF | 27079C0091D | 14-NOV-2001 | 01-05-3748A | 02
05 | MN | NORTH ST. PAUL, CITY OF | 2703820005B | 03-AUG-2001 | 01-05-2459A | 02
05 | MN | OLMSTED COUNTY | 27109C0050D | 01-AUG-2001 | 01-05-2862A | 02
05 | MN | OLMSTED COUNTY | 27109C0075D | 01-AUG-2001 | 01-05-2862A | 02
05 | MN | OLMSTED COUNTY | 27109C0075D | 05-OCT-2001 | 01-05-3476A | 02
05 | MN | OLMSTED COUNTY | 27109C0302E | 31-OCT-2001 | 01-05-3851A | 01
05 | MN | OWATONNA, CITY OF | 2704630004B | 12-SEP-2001 | 01-05-3253A | 02
05 | MN | PENNINGTON COUNTY | 27113C0180C | 19-DEC-2001 | 02-05-0750A | 02
05 | MN | PINE ISLAND, CITY OF | 2701450001C | 07-SEP-2001 | 01-05-2872A | 02
05 | MN | PLYMOUTH, CITY OF | 2701790010C | 05-JUL-2001 | 01-05-2368A | 01
05 | MN | PLYMOUTH, CITY OF | 2701790010C | 25-JUL-2001 | 01-05-927P | 05
05 | MN | POLK COUNTY | 2705030425B | 01-AUG-2001 | 01-05-2262A | 02
05 | MN | POLK COUNTY | 2705030195B | 18-JUL-2001 | 01-05-2454A | 02
05 | MN | PRIOR LAKE, CITY OF | 2704320004C | 20-JUL-2001 | 01-05-3077A | 02
05 | MN | PRIOR LAKE, CITY OF | 2704320004C | 17-OCT-2001 | 02-05-0009A | 02
05 | MN | RICE COUNTY | 2706460025C | 18-JUL-2001 | 01-05-2874A | 02
05 | MN | RICE COUNTY | 2706460025C | 24-AUG-2001 | 01-05-3252A | 02
05 | MN | RICE COUNTY | 2706460075B | 19-SEP-2001 | 01-05-3605A | 02
05 | MN | RICE COUNTY | 2706460025C | 19-SEP-2001 | 01-05-3631A | 02
05 | MN | ROCHESTER, CITY OF | 27109C0163E | 14-NOV-2001 | 01-05-751A | 01
05 | MN | ROSEAU COUNTY | 2706330250C | 03-OCT-2001 | 01-05-3840A | 02
05 | MN | SCOTT COUNTY | 2704280100C | 16-NOV-2001 | 01-05-3521A | 02
05 | MN | SHERBURNE COUNTY | 27141C0150E | 13-JUL-2001 | 01-05-2792A | 02
05 | MN | SHERBURNE COUNTY | 27141C0205E | 03-OCT-2001 | 01-05-3183A | 02
05 | MN | SHERBURNE COUNTY | 27141C0245E | 09-NOV-2001 | 01-05-3268A | 02
05 | MN | SHERBURNE COUNTY | 27141C0245E | 21-SEP-2001 | 01-05-3475A | 02
05 | MN | SHOREVIEW, CITY OF | 2703840001B | 19-SEP-2001 | 00-05-3970A | 01
05 | MN | SHOREVIEW, CITY OF | 2703840001B | 17-OCT-2001 | 01-05-2538A | 01
05 | MN | ST. FRANCIS, CITY OF | 2700170010B | 28-DEC-2001 | 01-05-3961A | 02
05 | MN | ST. FRANCIS, CITY OF | 2700170015B | 28-DEC-2001 | 01-05-3961A | 02
05 | MN | ST. LOUIS COUNTY | 2704160100C | 19-OCT-2001 | 02-05-0077A | 02
05 | MN | ST. LOUIS COUNTY | 2704160575C | 12-DEC-2001 | 02-05-0732A | 02
05 | MN | STEARNS COUNTY | 2705460265B | 07-NOV-2001 | 02-05-0354A | 02
05 | MN | STEARNS COUNTY | 2705460025A | 07-DEC-2001 | 02-05-0638A | 02
05 | MN | WABASHA COUNTY | 27157C0280D | 14-SEP-2001 | 01-05-2789A | 17
05 | MN | WASHINGTON COUNTY | 2704990025B | 05-SEP-2001 | 01-05-3397A | 02
05 | MN | WASHINGTON COUNTY | 2704990125B | 14-SEP-2001 | 01-05-3629A | 02
05 | MN | WASHINGTON COUNTY | 2704990075B | 07-DEC-2001 | 02-05-0718A | 02
05 | MN | WATERTOWN, CITY OF | 2700560001C | 07-NOV-2001 | 01-05-3936A | 17
05 | MN | WATERVILLE, CITY OF | 27079C0427D | 26-SEP-2001 | 01-05-3780A | 02
05 | MN | WHITE BEAR,TOWNSHIP OF | 2706880005B | 13-JUL-2001 | 01-05-2765A | 02
05 | MN | WHITE BEAR,TOWNSHIP OF | 2706880005B | 19-DEC-2001 | 02-05-0785A | 02
05 | MN | WINDOM, CITY OF | 2700900001C | 14-DEC-2001 | 01-05-3988A | 02
05 | MN | WINONA COUNTY | 2705250100C | 19-OCT-2001 | 02-05-0008A | 02
05 | MN | WINONA COUNTY | 2705250113C | 07-DEC-2001 | 02-05-0553A | 02
05 | MN | WRIGHT COUNTY | 2705340028C | 29-AUG-2001 | 01-05-3247A | 02
05 | MN | WRIGHT COUNTY | 2705340042C | 10-OCT-2001 | 01-05-3867A | 02
05 | MN | WRIGHT COUNTY | 2705340027B | 10-OCT-2001 | 01-05-3971A | 02
05 | OH | AKRON, CITY OF | 3905230020B | 28-SEP-2001 | 01-05-3598A | 02
05 | OH | AKRON, CITY OF | 3905230004B | 28-NOV-2001 | 01-05-4008A | 01
05 | OH | ASHTABULA COUNTY | 3900100215B | 24-AUG-2001 | 01-05-2568A | 02
05 | OH | AUGLAIZE COUNTY | 39011C0090C | 25-JUL-2001 | 01-05-2976A | 02
05 | OH | AUGLAIZE COUNTY | 39011C0025C | 07-NOV-2001 | 01-05-3083A | 02
05 | OH | AUGLAIZE COUNTY | 39011C0090C | 28-SEP-2001 | 01-05-3857A | 02
05 | OH | AVON, CITY OF | 3903480005C | 24-OCT-2001 | 01-05-3846A | 02
05 | OH | BALTIMORE, VILLAGE OF | 3901590001B | 13-JUL-2001 | 01-05-3038A | 02
05 | OH | BELMONT COUNTY | 3907620125C | 05-OCT-2001 | 01-05-3923A | 02
05 | OH | BELMONT COUNTY* | 3907620050C | 19-SEP-2001 | 01-05-3107A | 02
05 | OH | BROADVIEW HEIGHTS, CITY OF | 3900990001B | 15-AUG-2001 | 01-05-2462A | 02
05 | OH | BUCKEYE LAKE, VILLAGE OF | 3908820001A | 08-AUG-2001 | 01-05-3158A | 02
05 | OH | BUCYRUS, CITY OF | 3900900001C | 14-SEP-2001 | 01-05-3081A | 02
05 | OH | BUTLER COUNTY | 3900370045C | 01-AUG-2001 | 01-05-2203A | 01
05 | OH | BUTLER COUNTY | 3900370050C | 17-AUG-2001 | 01-05-2747A | 17
05 | OH | BUTLER COUNTY | 3900370045C | 15-AUG-2001 | 01-05-3357A | 02
05 | OH | BUTLER COUNTY | 3900370070C | 05-SEP-2001 | 01-05-3537A | 02
05 | OH | BUTLER COUNTY | 3900370045C | 30-NOV-2001 | 02-05-0473A | 01
05 | OH | CAMBRIDGE, CITY OF | 39059C0092C | 27-JUL-2001 | 00-05-249P | 05
05 | OH | CARROLL COUNTY | 3907630100B | 26-OCT-2001 | 01-05-1047A | 02
05 | OH | CARROLL COUNTY | 3907630075B | 13-JUL-2001 | 01-05-2749A | 02
05 | OH | CARROLL COUNTY | 3907630075B | 26-NOV-2001 | 02-05-0561A | 02
05 | OH | CLERMONT COUNTY | 3900650085D | 28-SEP-2001 | 01-05-3044A | 02
05 | OH | COLUMBUS, CITY OF | 39049C0277G | 22-AUG-2001 | 00-05-319P | 05
05 | OH | COLUMBUS, CITY OF | 39049C0270G | 18-JUL-2001 | 01-05-1238A | 01
05 | OH | COLUMBUS, CITY OF | 39049C0245G | 24-AUG-2001 | 01-05-2264A | 17
05 | OH | COLUMBUS, CITY OF | 39049C0290G | 12-SEP-2001 | 01-05-3051A | 01
05 | OH | COLUMBUS, CITY OF | 39049C0290G | 03-AUG-2001 | 01-05-3056A | 02
05 | OH | COLUMBUS, CITY OF | 39049C0270G | 24-AUG-2001 | 01-05-3342A | 02
05 | OH | COLUMBUS, CITY OF | 39049C0270G | 18-JUL-2001 | 01-05-795A | 01
05 | OH | CRAWFORD COUNTY | 3908110006C | 28-NOV-2001 | 02-05-0417A | 02
05 | OH | CRAWFORD COUNTY | 3908110003B | 16-NOV-2001 | 02-05-0480A | 02
05 | OH | DEFIANCE, CITY OF | 3901440005D | 08-AUG-2001 | 01-05-2037A | 02
05 | OH | DELAWARE COUNTY | 39041C0150J | 25-JUL-2001 | 01-05-2033A | 02
05 | OH | DELAWARE COUNTY | 39041C0120J | 31-OCT-2001 | 01-05-3499A | 02
05 | OH | DELAWARE COUNTY | 39041C0095J | 14-SEP-2001 | 01-05-3697A | 02
05 | OH | DELAWARE, CITY OF | 39041C0115J | 05-JUL-2001 | 01-05-1783A | 02
05 | OH | DELAWARE, CITY OF | 39041C0115J | 28-NOV-2001 | 02-05-0601A | 02
05 | OH | DELAWARE, CITY OF | 39041C0115J | 14-DEC-2001 | 02-05-0775A | 02
05 | OH | DELTA, VILLAGE OF | 3901830005C | 11-JUL-2001 | 01-05-2764A | 02
05 | OH | DOVER, CITY OF | 3905430005B | 11-JUL-2001 | 01-05-2702A | 02
05 | OH | DUBLIN, CITY OF | 39049C0019H | 10-OCT-2001 | 01-05-2753A | 01
05 | OH | DUBLIN, CITY OF | 39049C0107G | 10-OCT-2001 | 01-05-2753A | 01
05 | OH | DUBLIN, CITY OF | 39049C0105G | 11-JUL-2001 | 01-05-745P | 01
05 | OH | DUBLIN, CITY OF | 39049C0106G | 11-JUL-2001 | 01-05-745P | 01
05 | OH | DUBLIN, CITY OF | 39049C0108G | 11-JUL-2001 | 01-05-745P | 01
05 | OH | FAIRFIELD COUNTY | 3901580035D | 05-JUL-2001 | 01-05-2485A | 02
05 | OH | FAIRFIELD, CITY OF | 3900380005B | 05-DEC-2001 | 02-05-0268A | 02
05 | OH | FAIRFIELD, CITY OF | 3900380005B | 30-NOV-2001 | 02-05-0503A | 02
05 | OH | FAIRPORT HARBOR, VILLAGE OF | 3903140001B | 14-DEC-2001 | 01-05-3529A | 01
05 | OH | FINDLAY, CITY | 3907670080B | 03-AUG-2001 | 01-05-3162A | 02
05 | OH | FINDLAY, CITY | 3902440005C | 24-OCT-2001 | 02-05-0089A | 02
05 | OH | FORT RECOVERY, VILLAGE OF | 3903920103C | 07-AUG-2001 | 01-05-2079P | 05
05 | OH | FRANKLIN COUNTY | 39049C0120G | 05-JUL-2001 | 01-05-2424A | 01
05 | OH | FRANKLIN COUNTY | 39049C0290G | 06-JUL-2001 | 01-05-2528A | 02
05 | OH | FRANKLIN COUNTY | 39049C0195G | 22-AUG-2001 | 01-05-3218A | 02
05 | OH | FRANKLIN COUNTY | 39049C0188G | 05-OCT-2001 | 01-05-3850A | 02
05 | OH | FRANKLIN COUNTY | 39049C0290G | 10-OCT-2001 | 01-05-3948A | 02
05 | OH | FRANKLIN COUNTY* | 39049C0277G | 22-AUG-2001 | 00-05-319P | 05
05 | OH | FULTON COUNTY | 3901820050C | 18-JUL-2001 | 01-05-2651A | 02
05 | OH | GAHANNA, CITY OF | 39049C0167G | 19-OCT-2001 | 01-05-4009A | 01
05 | OH | GAHANNA, CITY OF | 39049C0169G | 02-NOV-2001 | 02-05-0171A | 02
05 | OH | GLOUSTER, VILLAGE OF | 3900180001B | 20-JUL-2001 | 01-05-684P | 05
05 | OH | GRANDVIEW HEIGHTS, CITY OF | 39049C0235G | 29-AUG-2001 | 01-05-098A | 01
05 | OH | GROVE CITY, CITY OF | 39049C0239G | 13-JUL-2001 | 01-05-2114A | 02
05 | OH | GROVE CITY, CITY OF | 39049C0335G | 18-JUL-2001 | 01-05-2507A | 01
05 | OH | GROVE CITY, CITY OF | 39049C0327G | 21-DEC-2001 | 02-05-0866A | 02
05 | OH | GUERNSEY COUNTY * | 39059C0092C | 27-JUL-2001 | 00-05-249P | 05
05 | OH | HANCOCK COUNTY | 3907670090B | 26-NOV-2001 | 02-05-0544A | 02
05 | OH | HILLIARD, CITY OF | 39049C0120G | 01-AUG-2001 | 01-05-3069A | 01
05 | OH | HOLLAND, VILLAGE OF | 39095C0227D | 11-JUL-2001 | 01-05-2775A | 02
05 | OH | HURON COUNTY | 3907700001B | 07-DEC-2001 | 01-05-3506A | 02
05 | OH | JUNCTION CITY, VILLAGE OF | 3908340001B | 19-DEC-2001 | 02-05-0809A | 02
05 | OH | KENT, CITY OF | 3904560001B | 24-AUG-2001 | 01-05-3335A | 02
05 | OH | KETTERING, CITY OF | 3904120010B | 01-AUG-2001 | 01-05-2776A | 02
05 | OH | KETTERING, CITY OF | 3904120020B | 01-AUG-2001 | 01-05-2776A | 02
05 | OH | KETTERING, CITY OF | 3904120020B | 25-JUL-2001 | 01-05-2878A | 02
05 | OH | KETTERING, CITY OF | 3904120020B | 10-AUG-2001 | 01-05-3200A | 02
05 | OH | KNOX COUNTY | 3903060135C | 08-AUG-2001 | 01-05-2975A | 02
05 | OH | LAKE COUNTY * | 3907710051C | 09-AUG-2001 | 01-05-1668X | 05
05 | OH | LANCASTER, CITY OF | 3901610005D | 10-AUG-2001 | 01-05-2695A | 02
05 | OH | LANCASTER, CITY OF | 3901610003D | 13-JUL-2001 | 01-05-2799A | 02
05 | OH | LAWRENCE COUNTY | 3903250110B | 31-OCT-2001 | 01-05-3647A | 02
05 | OH | LAWRENCE COUNTY * | 3903250185B | 10-AUG-2001 | 01-05-2027A | 02
05 | OH | LAWRENCE COUNTY * | 3903250180B | 05-DEC-2001 | 01-05-2937A | 02
05 | OH | LICKING COUNTY | 3903280175B | 05-OCT-2001 | 01-05-2431A | 02
05 | OH | LICKING COUNTY | 3903280175B | 03-OCT-2001 | 01-05-3459A | 01
05 | OH | LICKING COUNTY | 3903280200B | 19-DEC-2001 | 02-05-0811A | 02
05 | OH | LOGAN COUNTY | 3907720025C | 17-AUG-2001 | 01-05-2729A | 02
05 | OH | LOGAN COUNTY | 3907720025C | 29-AUG-2001 | 01-05-3224A | 02
05 | OH | LOGAN COUNTY | 3907720025C | 22-AUG-2001 | 01-05-3351A | 02
05 | OH | LOGAN COUNTY | 3907720025C | 24-OCT-2001 | 02-05-0193A | 02
05 | OH | LOGAN COUNTY | 3907720025C | 07-NOV-2001 | 02-05-0259A | 02
05 | OH | LORAIN COUNTY | 3903460105B | 07-NOV-2001 | 01-05-3962A | 17
05 | OH | LORAIN COUNTY | 3903460095B | 14-NOV-2001 | 02-05-0494A | 02
05 | OH | LOUISVILLE, CITY OF | 3905160002D | 26-NOV-2001 | 01-05-3732A | 02
05 | OH | LUCAS COUNTY | 39095C0237D | 03-AUG-2001 | 01-05-2039A | 02
05 | OH | LUCAS COUNTY | 39095C0062D | 18-JUL-2001 | 01-05-2451A | 02
05 | OH | LUCAS COUNTY | 39095C0062D | 05-JUL-2001 | 01-05-2661A | 02
05 | OH | LUCAS COUNTY | 39095C0053D | 10-AUG-2001 | 01-05-2866A | 02
05 | OH | LUCAS COUNTY | 39095C0042D | 26-SEP-2001 | 01-05-2882A | 01
05 | OH | LUCAS COUNTY | 39095C0061D | 26-SEP-2001 | 01-05-2882A | 01
05 | OH | LUCAS COUNTY | 39095C0064D | 22-AUG-2001 | 01-05-3122A | 02
05 | OH | LUCAS COUNTY | 39095C0145D | 10-OCT-2001 | 01-05-3492A | 02
05 | OH | LUCAS COUNTY | 39095C0360D | 19-SEP-2001 | 01-05-3505A | 02
05 | OH | LUCAS COUNTY | 39095C0061D | 26-SEP-2001 | 01-05-3675A | 02
05 | OH | LUCAS COUNTY | 39095C0237D | 19-DEC-2001 | 01-05-3869A | 02
05 | OH | LUCAS COUNTY | 39095C0061D | 07-DEC-2001 | 02-05-0584A | 02
05 | OH | MAHONING COUNTY | 3903670050B | 10-AUG-2001 | 01-05-2448A | 02
05 | OH | MALVERN, VILLAGE OF | 3900520001B | 20-JUL-2001 | 01-05-2646A | 17
05 | OH | MARION COUNTY | 39101C0060C | 15-AUG-2001 | 01-05-2844A | 02
05 | OH | MARION COUNTY | 39101C0125C | 10-AUG-2001 | 01-05-3046A | 02
05 | OH | MASON, CITY OF | 3907570065C | 30-AUG-2001 | 00-05-355P | 05
05 | OH | MAUMEE, CITY OF | 39095C0234D | 12-SEP-2001 | 01-05-3659A | 02
05 | OH | MAYFIELD, VILLAGE OF | 39011605D | 26-SEP-2001 | 01-05-3686A | 02
05 | OH | MAYFIELD, VILLAGE OF | 39011608D | 02-NOV-2001 | 02-05-0304A | 02
05 | OH | MAYFIELD, VILLAGE OF | 39011608D | 12-DEC-2001 | 02-05-0522A | 02
05 | OH | MAYFIELD, VILLAGE OF | 39011608D | 30-NOV-2001 | 02-05-0576A | 02
05 | OH | MERCER COUNTY | 3903920100B | 21-DEC-2001 | 02-05-0746A | 02
05 | OH | MERCER COUNTY * | 3903950001C | 07-AUG-2001 | 01-05-2079P | 05
05 | OH | MERCER COUNTY * | 3903920100B | 11-JUL-2001 | 01-05-2366A | 02
05 | OH | MERCER COUNTY * | 3903920100B | 21-SEP-2001 | 01-05-3300A | 02
05 | OH | MERCER COUNTY * | 3903920100B | 05-SEP-2001 | 01-05-3306A | 02
05 | OH | MIAMI COUNTY | 3903980059B | 05-JUL-2001 | 01-05-2545A | 02
05 | OH | MIAMI COUNTY | 3903980075C | 18-OCT-2001 | 01-05-2979A | 02
05 | OH | MIAMI COUNTY | 3903980090B | 22-AUG-2001 | 01-05-2998A | 02
05 | OH | MIAMI COUNTY | 3903980059B | 31-AUG-2001 | 01-05-3371A | 02
05 | OH | MIAMISBURG, CITY OF | 3904130005C | 05-OCT-2001 | 01-05-3622A | 02
05 | OH | MIDDLETOWN, CITY OF | 3900370015B | 28-SEP-2001 | 01-05-3743A | 02
05 | OH | MILLBURY, VILLAGE OF | 3905860001B | 24-AUG-2001 | 01-05-2995A | 02
05 | OH | MILLERSBURG, VILLAGE OF | 39075C0110C | 13-JUL-2001 | 01-05-1723A | 02
05 | OH | MONTGOMERY COUNTY | 3907750040C | 10-AUG-2001 | 00-05-4772A | 02
05 | OH | MONTGOMERY COUNTY | 3907750035C | 08-AUG-2001 | 01-05-2965A | 17
05 | OH | MONTGOMERY COUNTY | 3907750060B | 12-SEP-2001 | 01-05-3048A | 02
05 | OH | MONTGOMERY COUNTY | 3907750040C | 22-AUG-2001 | 01-05-3375A | 02
05 | OH | MONTGOMERY COUNTY | 3907750055B | 21-SEP-2001 | 01-05-3699A | 02
05 | OH | MONTGOMERY COUNTY | 3907750035C | 03-OCT-2001 | 01-05-3822A | 02
05 | OH | MONTGOMERY COUNTY | 3907750040C | 28-DEC-2001 | 02-05-0542A | 01
05 | OH | MONTGOMERY COUNTY | 3907750040C | 07-DEC-2001 | 02-05-0648A | 02
05 | OH | NEW PHILADELPHIA, CITY OF | 3905450005C | 26-NOV-2001 | 02-05-0513A | 02
05 | OH | NEW PHILADELPHIA, CITY OF | 3905450005C | 05-DEC-2001 | 02-05-0639A | 02
05 | OH | NEWARK,CITY OF | 3903350002F | 05-JUL-2001 | 01-05-2072A | 01
05 | OH | NEWARK,CITY OF | 3903350002F | 05-JUL-2001 | 01-05-2333A | 02
05 | OH | NEWARK,CITY OF | 3903350004F | 18-JUL-2001 | 01-05-2536A | 02
05 | OH | NEWARK,CITY OF | 3903350002F | 30-NOV-2001 | 02-05-0597A | 02
05 | OH | NILES, CITY OF | 3905400001B | 13-JUL-2001 | 01-05-2628A | 02
05 | OH | NORTH CANTON, CITY OF | 3905210004B | 07-SEP-2001 | 01-05-3090A | 02
05 | OH | NORTH CANTON, CITY OF | 3905210003B | 03-OCT-2001 | 01-05-3756A | 02
05 | OH | NORTH RIDGEVILLE, CITY OF | 3903520005C | 31-OCT-2001 | 02-05-0253A | 02
05 | OH | OLMSTED FALLS, CITY OF | 3906720001B | 26-NOV-2001 | 02-05-0528A | 02
05 | OH | OREGON, CITY OF | 39095C0110D | 13-JUL-2001 | 01-05-2795A | 01
05 | OH | OREGON, CITY OF | 39095C0113D | 24-OCT-2001 | 02-05-0194A | 02
05 | OH | OTTAWA COUNTY | 3904320125B | 20-JUL-2001 | 01-05-2176A | 02
05 | OH | OTTAWA COUNTY | 3904320025A | 20-JUL-2001 | 01-05-2293A | 02
05 | OH | OTTAWA COUNTY | 3904320200B | 08-AUG-2001 | 01-05-2674A | 02
05 | OH | OTTAWA COUNTY | 3904320025A | 28-SEP-2001 | 01-05-2968A | 02
05 | OH | OTTAWA COUNTY | 3904320225B | 07-SEP-2001 | 01-05-3457A | 02
05 | OH | OTTAWA COUNTY | 3904320025A | 12-OCT-2001 | 01-05-3721A | 02
05 | OH | OTTAWA COUNTY | 3904320025A | 24-OCT-2001 | 01-05-3775A | 02
05 | OH | OTTAWA COUNTY | 3904320050B | 17-OCT-2001 | 02-05-0164A | 02
05 | OH | OTTAWA, VILLAGE OF | 3904720002C | 01-AUG-2001 | 01-05-3029A | 02
05 | OH | PAULDING, VILLAGE OF | 3904380001B | 21-DEC-2001 | 02-05-0752A | 02
05 | OH | PERRYSVILLE, VILLAGE OF | 39073001A | 06-JUL-2001 | 01-05-1070A | 02
05 | OH | PORTAGE COUNTY | 39045322C | 12-DEC-2001 | 01-05-2818A | 02
05 | OH | PORTAGE COUNTY | 39045334C | 31-OCT-2001 | 01-05-3234A | 02
05 | OH | PORTAGE COUNTY | 39045335C | 10-AUG-2001 | 01-05-3241A | 02
05 | OH | PREBLE COUNTY | 3904600010B | 03-OCT-2001 | 01-05-3089A | 02
05 | OH | PUTNAM COUNTY | 3904650130B | 01-AUG-2001 | 01-05-2321A | 02
05 | OH | PUTNAM COUNTY | 3904650130B | 03-OCT-2001 | 01-05-3776A | 02
05 | OH | PUTNAM COUNTY | 3904650100B | 09-NOV-2001 | 01-05-3817A | 02
05 | OH | PUTNAM COUNTY | 3904650130B | 09-NOV-2001 | 01-05-3817A | 02
05 | OH | PUTNAM COUNTY | 3904650040B | 03-OCT-2001 | 01-05-3818A | 02
05 | OH | ROAMING SHORES, VILLAGE OF | 3908850001A | 31-OCT-2001 | 01-05-3807A | 02
05 | OH | ROCKY RIVER, CITY OF | 3953720003B | 17-OCT-2001 | 01-05-3782A | 02
05 | OH | ROSS COUNTY | 3904800175B | 12-OCT-2001 | 01-05-2231A | 02
05 | OH | ROSS COUNTY | 3904800050B | 14-DEC-2001 | 02-05-0786A | 02
05 | OH | SANDUSKY COUNTY | 3904860115B | 11-JUL-2001 | 01-05-2712A | 02
05 | OH | SANDUSKY, CITY OF | 3901560004B | 21-SEP-2001 | 01-05-3722A | 02
05 | OH | SCIOTO COUNTY * | 3904960185B | 21-NOV-2001 | 01-05-3556A | 01
05 | OH | SENECA COUNTY | 3907790025B | 29-AUG-2001 | 01-05-3025A | 02
05 | OH | SHELBY COUNTY | 3905030060C | 03-AUG-2001 | 01-05-2842A | 02
05 | OH | SPRINGBORO, CITY OF | 3907570010B | 30-NOV-2001 | 01-05-2505A | 01
05 | OH | SPRINGBORO, CITY OF | 3907570010B | 10-AUG-2001 | 01-05-2522A | 01
05 | OH | ST. MARYS, CITY OF | 39011C0080C | 06-JUL-2001 | 01-05-1233A | 02
05 | OH | ST. MARYS, CITY OF | 39011C0080C | 18-JUL-2001 | 01-05-1947A | 02
05 | OH | ST. MARYS, CITY OF | 39011C0080C | 11-JUL-2001 | 01-05-2755A | 02
05 | OH | ST. MARYS, CITY OF | 39011C0080C | 07-SEP-2001 | 01-05-3112A | 02
05 | OH | ST. MARYS, CITY OF | 39011C0080C | 07-SEP-2001 | 01-05-3113A | 02
05 | OH | STARK COUNTY | 3907800010B | 01-AUG-2001 | 01-05-2808A | 02
05 | OH | STRONGSVILLE, CITY OF | 3901320005B | 14-NOV-2001 | 02-05-0335A | 02
05 | OH | STRONGSVILLE, CITY OF | 3901320005B | 14-NOV-2001 | 02-05-0340A | 02
05 | OH | SUMMIT COUNTY | 3907810045B | 24-OCT-2001 | 01-05-3125A | 01
05 | OH | SUMMIT COUNTY | 3907810015B | 17-OCT-2001 | 01-05-3852A | 02
05 | OH | SUMMIT COUNTY | 3907810015B | 12-DEC-2001 | 01-05-4007A | 02
05 | OH | SUMMIT COUNTY | 3907810015B | 05-DEC-2001 | 02-05-0606A | 02
05 | OH | SYLVANIA, CITY OF | 39095C0053D | 29-AUG-2001 | 01-05-2902A | 01
05 | OH | TOLEDO, CITY OF | 39095C0078D | 25-JUL-2001 | 01-05-2280A | 02
05 | OH | TOLEDO, CITY OF | 39095C0064D | 11-JUL-2001 | 01-05-2318A | 02
05 | OH | TOLEDO, CITY OF | 39095C0093D | 28-SEP-2001 | 01-05-2337A | 02
05 | OH | TOLEDO, CITY OF | 39095C0059D | 10-AUG-2001 | 01-05-2390A | 02
05 | OH | TOLEDO, CITY OF | 3953730064D | 26-NOV-2001 | 01-05-2432A | 02
05 | OH | TOLEDO, CITY OF | 39095C0057D | 20-JUL-2001 | 01-05-2656A | 02
05 | OH | TOLEDO, CITY OF | 39095C0057D | 08-AUG-2001 | 01-05-2744A | 02
05 | OH | TOLEDO, CITY OF | 39095C0231D | 21-SEP-2001 | 01-05-2854A | 02
05 | OH | TOLEDO, CITY OF | 39095C0059D | 26-NOV-2001 | 01-05-3435A | 02
05 | OH | TOLEDO, CITY OF | 39095C0068D | 14-SEP-2001 | 01-05-3497A | 02
05 | OH | TOLEDO, CITY OF | 39095C0057D | 24-OCT-2001 | 01-05-3528A | 02
05 | OH | TOLEDO, CITY OF | 39095C0086D | 24-OCT-2001 | 01-05-3715A | 02
05 | OH | TOLEDO, CITY OF | 39095C0078D | 21-DEC-2001 | 02-05-0403A | 02
05 | OH | TROY, CITY OF | 3904020005B | 17-AUG-2001 | 01-05-3249A | 17
05 | OH | TUSCARAWAS COUNTY | 3907820060B | 21-SEP-2001 | 01-05-538A | 02
05 | OH | TWINSBURG, CITY OF | 3905340004D | 15-NOV-2001 | 01-05-216P | 05
05 | OH | UHRICHSVILLE, CITY OF | 3905470005C | 27-JUL-2001 | 01-05-1989A | 02
05 | OH | UNION COUNTY | 3908080150B | 19-SEP-2001 | 01-05-3196A | 02
05 | OH | UTICA, VILLAGE OF | 3903380001A | 21-DEC-2001 | 02-05-0878A | 02
05 | OH | VAN WERT COUNTY | 3907840005B | 26-SEP-2001 | 01-05-3810A | 02
05 | OH | VAN WERT COUNTY | 3907840003B | 05-DEC-2001 | 02-05-0416A | 02
05 | OH | WAPAKONETA, CITY OF | 39011C0105C | 05-JUL-2001 | 01-05-2019A | 17
05 | OH | WARREN COUNTY | 3907570013D | 25-JUL-2001 | 01-05-2960A | 02
05 | OH | WARREN COUNTY | 3907570013D | 26-OCT-2001 | 02-05-0057A | 02
05 | OH | WAYNE COUNTY | 39169C0250C | 02-NOV-2001 | 01-05-3613A | 02
05 | OH | WAYNE COUNTY | 39169C0275C | 02-NOV-2001 | 01-05-3613A | 02
05 | OH | WESTERVILLE, CITY OF | 39049C0159G | 29-AUG-2001 | 01-05-2796A | 02
05 | OH | WESTERVILLE, CITY OF | 39049C0064H | 14-SEP-2001 | 01-05-3513A | 02
05 | OH | WESTERVILLE, CITY OF | 39049C0157G | 05-OCT-2001 | 01-05-3934A | 02
05 | OH | WILLIAMS COUNTY | 3907850050B | 24-AUG-2001 | 01-05-2809A | 02
05 | OH | WILLIAMS COUNTY | 3907850050B | 07-NOV-2001 | 01-05-3265A | 02
05 | OH | WOOD COUNTY | 3908090012C | 05-SEP-2001 | 01-05-3481A | 02
05 | OH | WOOD COUNTY | 3908090075B | 05-DEC-2001 | 02-05-0624A | 02
05 | OH | WYANDOT COUNTY | 3907870050C | 14-DEC-2001 | 02-05-0736A | 02
05 | OH | XENIA, CITY OF | 3901970005B | 10-AUG-2001 | 01-05-2720A | 17
05 | WI | BARRON COUNTY | 5505680225C | 27-JUL-2001 | 01-05-2265A | 02
05 | WI | BARRON COUNTY | 5505680075C | 05-JUL-2001 | 01-05-2668A | 02
05 | WI | BAYFIELD COUNTY | 5505390026B | 21-SEP-2001 | 01-05-2791A | 02
05 | WI | BRILLION, CITY OF | 5500360001C | 24-AUG-2001 | 01-05-2706A | 02
05 | WI | BROOKFIELD, CITY OF | 5504780005B | 24-OCT-2001 | 02-05-0195A | 02
05 | WI | BROOKFIELD, CITY OF | 5504780010B | 14-NOV-2001 | 02-05-0391A | 02
05 | WI | BROWN COUNTY * | 5500200125B | 24-OCT-2001 | 01-05-3582A | 02
05 | WI | BROWN COUNTY * | 5500200150A | 12-DEC-2001 | 02-05-0466A | 02
05 | WI | BROWN DEER, VILLAGE OF | 5502710002B | 02-NOV-2001 | 01-05-3259A | 02
05 | WI | BURNETT COUNTY * | 5500320375B | 12-SEP-2001 | 01-05-2378A | 01
05 | WI | CEDARBURG, CITY OF | 55089C0064D | 07-SEP-2001 | 01-05-3511A | 02
05 | WI | CHIPPEWA COUNTY | 5555490075B | 26-SEP-2001 | 01-05-3464A | 02
05 | WI | CHIPPEWA COUNTY | 5555490250C | 05-OCT-2001 | 01-05-3689A | 02
05 | WI | COLUMBIA COUNTY | 5505810200C | 31-AUG-2001 | 01-05-3152A | 02
05 | WI | COLUMBIA COUNTY | 5505810075C | 22-AUG-2001 | 01-05-3173A | 02
05 | WI | COLUMBIA COUNTY | 5505810075C | 22-AUG-2001 | 01-05-3343A | 02
05 | WI | COLUMBIA COUNTY | 5505810075C | 03-OCT-2001 | 01-05-3617A | 02
05 | WI | COLUMBIA COUNTY | 5505810050C | 28-SEP-2001 | 01-05-3816A | 02
05 | WI | COLUMBIA COUNTY | 5505810075C | 19-DEC-2001 | 02-05-0874X | 02
05 | WI | CRAWFORD COUNTY | 5555510120C | 07-NOV-2001 | 01-05-3950A | 02
05 | WI | CUDAHY, CITY OF | 5502720001B | 25-JUL-2001 | 01-05-2251A | 01
05 | WI | CUDAHY, CITY OF | 5502720001B | 03-OCT-2001 | 01-05-3452A | 01
05 | WI | DE FOREST, VILLAGE OF | 5500820005C | 27-JUL-2001 | 01-05-2915A | 02
05 | WI | DE FOREST, VILLAGE OF | 5500820005C | 29-AUG-2001 | 01-05-2919A | 02
05 | WI | DE FOREST, VILLAGE OF | 5500820005C | 01-AUG-2001 | 01-05-2921A | 02
05 | WI | DE PERE, CITY OF | 5500210005C | 05-SEP-2001 | 01-05-3289A | 02
05 | WI | DE PERE, CITY OF | 5500210005C | 14-NOV-2001 | 02-05-0116X | 01
05 | WI | DODGE COUNTY | 5500940205B | 25-JUL-2001 | 01-05-2326A | 02
05 | WI | DODGE COUNTY | 5500940210B | 25-JUL-2001 | 01-05-2326A | 02
05 | WI | DODGE COUNTY | 5500940140B | 22-AUG-2001 | 01-05-2469A | 02
05 | WI | DODGE COUNTY | 5500940140B | 14-SEP-2001 | 01-05-2582A | 02
05 | WI | DODGE COUNTY | 5500940075B | 07-SEP-2001 | 01-05-3630A | 02
05 | WI | DOOR COUNTY | 5501090085A | 09-NOV-2001 | 02-05-0051A | 02
05 | WI | DUNN COUNTY | 5501180125A | 07-NOV-2001 | 01-05-2691A | 02
05 | WI | EAU CLAIRE COUNTY | 5555520075B | 13-JUL-2001 | 01-05-1293A | 02
05 | WI | ELM GROVE, VILLAGE OF | 5505780001B | 12-OCT-2001 | 01-05-3525A | 02
05 | WI | FOND DU LAC COUNTY | 5501310060B | 16-NOV-2001 | 01-05-2297A | 01
05 | WI | FOND DU LAC COUNTY | 5501310070C | 16-NOV-2001 | 01-05-2297A | 01
05 | WI | FOND DU LAC COUNTY | 5501310170C | 28-SEP-2001 | 01-05-3425A | 02
05 | WI | FOND DU LAC COUNTY | 5501310070C | 03-OCT-2001 | 01-05-3486A | 02
05 | WI | FOND DU LAC COUNTY | 5501310070C | 07-DEC-2001 | 02-05-0739A | 02
05 | WI | FOND DU LAC, CITY OF | 5501360005D | 25-JUL-2001 | 01-05-3050A | 02
05 | WI | FOND DU LAC, CITY OF | 5501360005D | 09-NOV-2001 | 02-05-0263A | 02
05 | WI | FOND DU LAC, CITY OF | 5501360005D | 28-NOV-2001 | 02-05-0352A | 02
05 | WI | FOND DU LAC, CITY OF | 5501360005D | 07-DEC-2001 | 02-05-0766X | 02
05 | WI | FOREST COUNTY | 5506030006A | 28-SEP-2001 | 01-05-2865A | 02
05 | WI | FOREST COUNTY | 5506030001A | 10-OCT-2001 | 01-05-3411A | 02
05 | WI | FOREST COUNTY | 5506030001A | 07-NOV-2001 | 02-05-0273A | 02
05 | WI | FREEMONT, VILLAGE OF | 5504960001C | 28-DEC-2001 | 02-05-0859A | 02
05 | WI | GERMANTOWN, VILLAGE OF | 5504720008B | 24-OCT-2001 | 02-05-0196A | 02
05 | WI | GREEN BAY, CITY OF | 5500220020E | 10-AUG-2001 | 01-05-2612A | 02
05 | WI | GREEN BAY, CITY OF | 5500220020E | 25-JUL-2001 | 01-05-2916A | 02
05 | WI | GREEN LAKE COUNTY | 5501650005B | 03-AUG-2001 | 01-05-2563A | 02
05 | WI | GREENDALE, VILLAGE OF | 5502760002B | 22-AUG-2001 | 01-05-3276A | 02
05 | WI | HOWARD, VILLAGE OF | 5500230005B | 14-SEP-2001 | 01-05-3311A | 02
05 | WI | IRON COUNTY | 5501820008B | 07-DEC-2001 | 02-05-0326A | 02
05 | WI | IRON COUNTY | 5501820006B | 14-NOV-2001 | 02-05-0385A | 02
05 | WI | IRON COUNTY | 5501820010B | 14-DEC-2001 | 02-05-0643A | 02
05 | WI | JANESVILLE, CITY OF | 5555600010B | 22-AUG-2001 | 01-05-3385A | 02
05 | WI | JEFFERSON COUNTY | 5501910225A | 29-AUG-2001 | 01-05-3267A | 02
05 | WI | JEFFERSON COUNTY | 5501910250B | 26-OCT-2001 | 01-05-3791A | 02
05 | WI | JEFFERSON COUNTY | 5501910075B | 21-DEC-2001 | 02-05-0759A | 02
05 | WI | KENOSHA COUNTY | 5505230040B | 27-JUL-2001 | 01-05-2025A | 02
05 | WI | KENOSHA COUNTY | 5505230040B | 10-OCT-2001 | 01-05-3965A | 02
05 | WI | KEWAUNEE COUNTY | 5502120125B | 07-SEP-2001 | 01-05-3384A | 02
05 | WI | LA CROSSE COUNTY * | 5502170170A | 11-JUL-2001 | 01-05-2154A | 02
05 | WI | LA CROSSE COUNTY * | 5502170120A | 21-NOV-2001 | 01-05-3554A | 02
05 | WI | LA CROSSE COUNTY * | 5502170120A | 03-OCT-2001 | 01-05-3577A | 02
05 | WI | LA CROSSE, CITY OF | 5555620006B | 14-NOV-2001 | 01-05-3285A | 01
05 | WI | LA CROSSE, CITY OF | 5555620005B | 14-SEP-2001 | 01-05-3292A | 02
05 | WI | LAC COURTE OREILLES INDIAN RESERVATION | 5505910225B | 19-OCT-2001 | 01-05-3502A | 02
05 | WI | LANGLADE COUNTY | 5505760125B | 12-DEC-2001 | 01-05-3793A | 02
05 | WI | LANGLADE COUNTY | 5505760050B | 14-DEC-2001 | 02-05-0475A | 02
05 | WI | MANITOWOC COUNTY | 5502360030A | 08-AUG-2001 | 01-05-3009A | 17
05 | WI | MANITOWOC COUNTY | 5502360190C | 26-OCT-2001 | 01-05-3830A | 02
05 | WI | MARATHON COUNTY | 5502450375B | 20-JUL-2001 | 01-05-2901A | 02
05 | WI | MARATHON COUNTY | 5502450400B | 22-AUG-2001 | 01-05-3126A | 02
05 | WI | MARATHON COUNTY | 5502450425B | 22-AUG-2001 | 01-05-3210A | 02
05 | WI | MARATHON COUNTY | 5502450225B | 10-AUG-2001 | 01-05-3255A | 02
05 | WI | MARATHON COUNTY | 5502450375B | 10-AUG-2001 | 01-05-3256A | 02
05 | WI | MARATHON COUNTY | 5502450100B | 03-OCT-2001 | 01-05-3389A | 02
05 | WI | MARATHON COUNTY | 5502450225B | 05-SEP-2001 | 01-05-3468A | 02
05 | WI | MARATHON COUNTY | 5502450375B | 26-OCT-2001 | 01-05-3781A | 01
05 | WI | MARATHON COUNTY | 5502450400B | 14-DEC-2001 | 02-05-0531A | 02
05 | WI | MARATHON COUNTY | 5502450375B | 26-NOV-2001 | 02-05-0535A | 02
05 | WI | MARATHON COUNTY | 5502450525B | 26-NOV-2001 | 02-05-0535A | 02
05 | WI | MARATHON COUNTY | 5502450075B | 21-DEC-2001 | 02-05-0738A | 02
05 | WI | MARINETTE COUNTY | 5502590750B | 09-NOV-2001 | 02-05-0267A | 02
05 | WI | MARQUETTE COUNTY | 5506010100B | 05-DEC-2001 | 02-05-0370A | 17
05 | WI | MENASHA, CITY OF | 5505100005C | 01-AUG-2001 | 01-05-3003A | 02
05 | WI | MENASHA, CITY OF | 5505100005C | 22-AUG-2001 | 01-05-3067A | 02
05 | WI | MENASHA, CITY OF | 5505100005C | 21-SEP-2001 | 01-05-3561A | 02
05 | WI | MENASHA, CITY OF | 5505100005C | 28-NOV-2001 | 02-05-0435A | 02
05 | WI | MENOMONEE FALLS, VILLAGE OF | 5504830005C | 17-OCT-2001 | 02-05-0050A | 02
05 | WI | MENOMONEE FALLS, VILLAGE OF | 5504830010C | 07-NOV-2001 | 02-05-0398A | 02
05 | WI | MEQUON, CITY OF | 55089C0090D | 28-SEP-2001 | 01-05-3714A | 02
05 | WI | MERRIMAC, VILLAGE OF | 55111C0450D | 06-JUL-2001 | 01-05-2711A | 02
05 | WI | MONROE COUNTY | 5505710140B | 05-JUL-2001 | 01-05-2570A | 02
05 | WI | MONROE COUNTY | 5505710140B | 12-SEP-2001 | 01-05-3434A | 02
05 | WI | MUKWONAGO, VILLAGE OF | 5504760140B | 01-AUG-2001 | 01-05-2526A | 01
05 | WI | MUKWONAGO, VILLAGE OF | 5504760120B | 19-SEP-2001 | 01-05-3710A | 02
05 | WI | MUKWONAGO, VILLAGE OF | 5504760140B | 19-SEP-2001 | 01-05-3710A | 02
05 | WI | OCONTO COUNTY | 5502940365A | 14-SEP-2001 | 01-05-2797A | 02
05 | WI | OCONTO COUNTY | 5502940175A | 01-AUG-2001 | 01-05-956A | 02
05 | WI | OCONTO COUNTY | 5502940175A | 21-DEC-2001 | 02-05-0084A | 02
05 | WI | ONEIDA COUNTY | 55085C0350B | 12-DEC-2001 | 02-05-0217A | 02
05 | WI | OUTAGAMIE COUNTY | 5503020050B | 22-AUG-2001 | 01-05-2308A | 02
05 | WI | OUTAGAMIE COUNTY | 5503020100C | 24-AUG-2001 | 01-05-3092A | 02
05 | WI | OUTAGAMIE COUNTY | 5503020100C | 08-AUG-2001 | 01-05-3111A | 02
05 | WI | OUTAGAMIE COUNTY | 5503020050B | 31-AUG-2001 | 01-05-3391A | 02
05 | WI | OUTAGAMIE COUNTY | 5503020100C | 19-SEP-2001 | 01-05-3667A | 02
05 | WI | OUTAGAMIE COUNTY | 5503020050B | 10-OCT-2001 | 01-05-3993A | 02
05 | WI | OUTAGAMIE COUNTY | 5503020100C | 07-NOV-2001 | 02-05-0222A | 02
05 | WI | OZAUKEE COUNTY | 55089C0020D | 05-DEC-2001 | 02-05-0767A | 02
05 | WI | PEWAUKEE, VILLAGE OF | 5504890002B | 05-JUL-2001 | 01-05-1788A | 01
05 | WI | PORTAGE COUNTY | 5505720250C | 31-OCT-2001 | 02-05-0006A | 02
05 | WI | PORTAGE COUNTY | 5505720100C | 07-NOV-2001 | 02-05-0323A | 02
05 | WI | PORTAGE COUNTY | 5505720100C | 16-NOV-2001 | 02-05-0415A | 02
05 | WI | PRAIRIE DU CHIEN, CITY OF | 55557302A | 19-DEC-2001 | 02-05-0540A | 02
05 | WI | PRESCOTT, CITY OF | 555574A | 17-OCT-2001 | 01-05-3480A | 02
05 | WI | RACINE COUNTY | 5503470010B | 20-JUL-2001 | 01-05-2499A | 02
05 | WI | REEDSBURG, CITY OF | 55111C0195D | 03-AUG-2001 | 01-05-2957A | 02
05 | WI | REEDSBURG, CITY OF | 55111C0195D | 21-DEC-2001 | 02-05-0885A | 02
05 | WI | RICHLAND COUNTY | 5503560225B | 05-JUL-2001 | 01-05-2416A | 02
05 | WI | RICHLAND COUNTY | 5503560200B | 19-OCT-2001 | 01-05-3076A | 02
05 | WI | RICHLAND COUNTY | 5503560125B | 07-NOV-2001 | 02-05-0085A | 02
05 | WI | RICHLAND COUNTY | 5503560150B | 14-DEC-2001 | 02-05-0499A | 02
05 | WI | RIVER HILLS, VILLAGE OF | 5502800001B | 12-OCT-2001 | 01-05-3462A | 01
05 | WI | ROCK COUNTY | 5503630070A | 05-DEC-2001 | 02-05-0519A | 02
05 | WI | RUSK COUNTY | 5506020245B | 05-JUL-2001 | 01-05-2561A | 02
05 | WI | RUSK COUNTY | 5506020240B | 10-OCT-2001 | 01-05-3271A | 02
05 | WI | RUSK COUNTY | 5506020245B | 19-SEP-2001 | 01-05-3766A | 02
05 | WI | SAUK COUNTY | 55111C0525D | 12-DEC-2001 | 01-05-3491A | 02
05 | WI | SAUK COUNTY | 55111C0575D | 31-OCT-2001 | 01-05-3678A | 02
05 | WI | SAUK COUNTY | 55111C0625D | 16-NOV-2001 | 02-05-0377A | 02
05 | WI | SAWYER COUNTY | 5505910100B | 01-AUG-2001 | 01-05-3022A | 02
05 | WI | SHAWANO COUNTY | 5504120150B | 05-SEP-2001 | 01-05-2770A | 02
05 | WI | SHAWANO COUNTY | 5504120150B | 05-SEP-2001 | 01-05-2771A | 02
05 | WI | SHAWANO COUNTY | 5504120150B | 25-JUL-2001 | 01-05-2780A | 02
05 | WI | SHAWANO COUNTY | 5504120150B | 25-JUL-2001 | 01-05-3018A | 02
05 | WI | SHAWANO COUNTY | 5504120175B | 14-SEP-2001 | 01-05-3257A | 02
05 | WI | SHAWANO COUNTY | 5504120150B | 26-OCT-2001 | 01-05-3523A | 02
05 | WI | SHAWANO COUNTY | 5504120150B | 26-SEP-2001 | 01-05-3734A | 02
05 | WI | SHELL LAKE, CITY OF | 5504690001E | 25-JUL-2001 | 01-05-3065A | 02
05 | WI | SHELL LAKE, CITY OF | 5504690001E | 12-OCT-2001 | 01-05-3979X | 02
05 | WI | SHELL LAKE, CITY OF | 5504690001E | 12-OCT-2001 | 01-05-3990A | 02
05 | WI | SHELL LAKE, CITY OF | 5504690001E | 12-OCT-2001 | 02-05-0018A | 02
05 | WI | SHELL LAKE, CITY OF | 5504690001E | 19-OCT-2001 | 02-05-0148X | 02
05 | WI | SHELL LAKE, CITY OF | 5504690001E | 19-OCT-2001 | 02-05-0149X | 02
05 | WI | SHELL LAKE, CITY OF | 5504690001E | 19-OCT-2001 | 02-05-0150X | 02
05 | WI | SHIOCTON, VILLAGE OF | 5503090001B | 27-JUL-2001 | 01-05-2573A | 02
05 | WI | SHIOCTON, VILLAGE OF | 5503090001B | 31-OCT-2001 | 02-05-0284A | 02
05 | WI | SHIOCTON, VILLAGE OF | 5503090001B | 26-NOV-2001 | 02-05-0534A | 02
05 | WI | SHIOCTON, VILLAGE OF | 5503090001B | 21-DEC-2001 | 02-05-0829A | 02
05 | WI | SOUTH MILWAUKEE, CITY OF | 5502830005B | 26-OCT-2001 | 02-05-0028A | 02
05 | WI | ST. CROIX COUNTY * | 555578B | 31-AUG-2001 | 01-05-2598A | 02
05 | WI | TOMAH, CITY OF | 5502910002B | 14-NOV-2001 | 01-05-3596A | 02
05 | WI | TREMPEALEAU COUNTY * | 555585—19A | 21-SEP-2001 | 01-05-3302A | 02
05 | WI | WALPACA COUNTY | 5504920170B | 05-JUL-2001 | 01-05-2246A | 01
05 | WI | WALPACA COUNTY | 5504920160B | 18-JUL-2001 | 01-05-2793A | 02
05 | WI | WALPACA COUNTY | 5504920155A | 31-AUG-2001 | 01-05-3214A | 02
05 | WI | WALPACA COUNTY | 5504920205B | 26-SEP-2001 | 01-05-3658A | 02
05 | WI | WALPACA COUNTY | 5504920130A | 19-OCT-2001 | 01-05-3864A | 02
05 | WI | WALPACA COUNTY | 5504920040A | 10-OCT-2001 | 01-05-3995A | 02
05 | WI | WALWORTH COUNTY | 5504620085B | 18-JUL-2001 | 01-05-2562A | 02
05 | WI | WALWORTH COUNTY | 5504620130B | 19-OCT-2001 | 01-05-3643A | 02
05 | WI | WASHBURN COUNTY | 5506060200B | 31-OCT-2001 | 01-05-3245A | 02
05 | WI | WASHBURN COUNTY | 5506060075B | 28-SEP-2001 | 01-05-3800A | 02
05 | WI | WASHBURN COUNTY | 5506060200B | 28-SEP-2001 | 01-05-3820A | 02
05 | WI | WASHBURN COUNTY | 5506060025B | 19-OCT-2001 | 02-05-0066A | 02
05 | WI | WASHBURN COUNTY | 5506060125B | 07-DEC-2001 | 02-05-0651A | 02
05 | WI | WASHBURN COUNTY | 5506060200B | 14-DEC-2001 | 02-05-0782A | 02
05 | WI | WASHINGTON COUNTY | 5504710070B | 31-AUG-2001 | 01-05-2737A | 01
05 | WI | WASHINGTON COUNTY | 5504710070B | 17-OCT-2001 | 02-05-0016A | 02
05 | WI | WASHINGTON COUNTY | 5504710025B | 26-OCT-2001 | 02-05-0062A | 02
05 | WI | WASHINGTON COUNTY | 5504710045B | 26-OCT-2001 | 02-05-0062A | 02
05 | WI | WASHINGTON COUNTY | 5504710040B | 26-OCT-2001 | 02-05-0199A | 02
05 | WI | WAUKESHA COUNTY | 5504760020B | 18-JUL-2001 | 01-05-2870A | 02
05 | WI | WAUKESHA COUNTY | 5504760015B | 22-AUG-2001 | 01-05-3251A | 02
05 | WI | WAUKESHA COUNTY | 5504760030B | 29-AUG-2001 | 01-05-3266A | 02
05 | WI | WAUKESHA COUNTY | 5504760010B | 12-OCT-2001 | 01-05-3644A | 02
05 | WI | WAUKESHA COUNTY | 5504760015B | 09-NOV-2001 | 02-05-0246A | 02
05 | WI | WAUKESHA COUNTY | 5504760015B | 02-NOV-2001 | 02-05-0320A | 02
05 | WI | WAUKESHA COUNTY | 5504760015B | 28-DEC-2001 | 02-05-0623A | 02
05 | WI | WAUPUN, CITY OF | 5501080001E | 03-OCT-2001 | 01-05-3633A | 02
05 | WI | WEST ALLIS, CITY OF | 5502850003C | 05-OCT-2001 | 01-05-3933A | 02
05 | WI | WHITE LAKE, VILLAGE OF | 55023301A | 08-AUG-2001 | 01-05-2714A | 02
05 | WI | WINNEBAGO COUNTY * | 5505370050C | 25-JUL-2001 | 01-05-2301A | 02
05 | WI | WINNEBAGO COUNTY * | 5505370050C | 27-JUL-2001 | 01-05-2638A | 02
05 | WI | WINNEBAGO COUNTY * | 5505370050C | 05-DEC-2001 | 01-05-3882A | 02
05 | WI | WOOD COUNTY | 55141C0245F | 18-JUL-2001 | 01-05-2234A | 02
05 | WI | WOOD COUNTY | 55141C0245F | 11-JUL-2001 | 01-05-2483A | 02
06 | AR | BENTON COUNTY | 05007C0061F | 08-AUG-2001 | 01-06-1577A | 02
06 | AR | BENTONVILLE, CITY OF | 05007C0155H | 20-JUL-2001 | 01-06-1467A | 17
06 | AR | BENTONVILLE, CITY OF | 05007C0155H | 01-AUG-2001 | 01-06-1575A | 17
06 | AR | BENTONVILLE, CITY OF | 05007C0044F | 19-SEP-2001 | 01-06-1627A | 02
06 | AR | BENTONVILLE, CITY OF | 05007C0155H | 08-AUG-2001 | 01-06-1659A | 02
06 | AR | CLEBURNE COUNTY | 0504240100C | 05-JUL-2001 | 00-06-1752A | 02
06 | AR | CLEBURNE COUNTY | 0504240025C | 20-JUL-2001 | 01-06-1114A | 02
06 | AR | CLEBURNE COUNTY | 0504240025C | 24-AUG-2001 | 01-06-1688A | 02
06 | AR | CLEBURNE COUNTY | 0504240100C | 14-NOV-2001 | 02-06-195A | 02
06 | AR | CONWAY, CITY OF | 05045C0130F | 12-SEP-2001 | 01-06-1708A | 02
06 | AR | CONWAY, CITY OF | 05045C0130F | 10-OCT-2001 | 01-06-1868A | 02
06 | AR | CRAWFORD COUNTY | 05033C0180E | 03-OCT-2001 | 01-06-1143A | 02
06 | AR | CROSS COUNTY | 0500560005C | 05-DEC-2001 | 01-06-1580A | 02
06 | AR | DESHA COUNTY | 050065C | 22-AUG-2001 | 01-06-1658A | 02
06 | AR | ELKINS, CITY OF | 05143C0115E | 16-NOV-2001 | 02-06-157A | 02
06 | AR | ELKINS, CITY OF | 05143C0115E | 12-DEC-2001 | 02-06-328A | 02
06 | AR | ELM SPRINGS, TOWN OF | 05143C0016C | 05-JUL-2001 | 01-06-1247A | 17
06 | AR | FAULKNER COUNTY | 05045C0055E | 15-AUG-2001 | 01-06-1384A | 02
06 | AR | FAULKNER COUNTY | 05045C0145F | 15-AUG-2001 | 01-06-1696A | 02
06 | AR | FAULKNER COUNTY | 05045C0215E | 05-DEC-2001 | 02-06-150X | 02
06 | AR | FAYETTEVILLE, CITY OF | 05143C0084D | 16-NOV-2001 | 02-06-220A | 02
06 | AR | FORT SMITH, CITY OF | 0550130015D | 12-SEP-2001 | 01-06-1852A | 02
06 | AR | GARLAND COUNTY | 05051C0158C | 06-JUL-2001 | 01-06-1440A | 02
06 | AR | GARLAND COUNTY | 05051C0050C | 24-AUG-2001 | 01-06-1592A | 02
06 | AR | GARLAND COUNTY | 05051C0154C | 15-AUG-2001 | 01-06-1674A | 02
06 | AR | JACKSONVILLE, CITY OF | 0501800010E | 12-DEC-2001 | 01-06-1764A | 01
06 | AR | JACKSONVILLE, CITY OF | 0501800005E | 10-OCT-2001 | 01-06-1810A | 02
06 | AR | JACKSONVILLE, CITY OF | 0501800010E | 12-DEC-2001 | 02-06-349A | 17
06 | AR | JONESBORO, CITY OF | 05031C0132C | 12-SEP-2001 | 01-06-1788A | 02
06 | AR | JONESBORO, CITY OF | 05031C0043C | 16-NOV-2001 | 02-06-217A | 02
06 | AR | LAKE CITY, TOWN OF | 05031C175C | 23-OCT-2001 | 01-06-1975P | 06
06 | AR | LEACHVILLE, CITY OF | 05014701B | 01-AUG-2001 | 01-06-1604A | 02
06 | AR | LINCOLN COUNTY | 05044515B | 31-OCT-2001 | 01-06-2043A | 02
06 | AR | LITTLE ROCK, CITY OF | 0501810002E | 01-AUG-2001 | 01-06-1158A | 01
06 | AR | LITTLE ROCK, CITY OF | 0501810021E | 20-JUL-2001 | 01-06-1204A | 01
06 | AR | LITTLE ROCK, CITY OF | 0501810006E | 19-OCT-2001 | 01-06-1949A | 02
06 | AR | LITTLE ROCK, CITY OF | 0501810044F | 05-DEC-2001 | 02-06-135A | 02
06 | AR | LONOKE COUNTY | 0504480060B | 13-JUL-2001 | 01-06-1207A | 01
06 | AR | LONOKE COUNTY | 0504480060B | 17-AUG-2001 | 01-06-1285A | 01
06 | AR | LONOKE COUNTY | 0504480060B | 03-OCT-2001 | 01-06-1881A | 01
06 | AR | LONOKE COUNTY | 0504480020B | 25-JUL-2001 | 01-06-250A | 01
06 | AR | LOWELL, CITY OF | 05007C0162F | 15-AUG-2001 | 01-06-1625A | 02
06 | AR | MISSISSIPPI COUNTY | 0504520025D | 05-DEC-2001 | 01-06-1450A | 01
06 | AR | PERRY COUNTY | 05105C0150B | 29-AUG-2001 | 01-06-1433A | 02
06 | AR | PERRY COUNTY | 05105C0050C | 31-OCT-2001 | 02-06-052A | 02
06 | AR | PERRY COUNTY | 05105C0150B | 28-DEC-2001 | 02-06-430A | 02
06 | AR | PERRY COUNTY | 05105C0150B | 28-DEC-2001 | 02-06-431A | 02
06 | AR | PERRYVILLE, CITY OF | 05105C0129B | 20-JUL-2001 | 01-06-1549A | 02
06 | AR | PHILLIPS COUNTY | 0501660050D | 26-SEP-2001 | 01-06-1503A | 01
06 | AR | PULASKI COUNTY | 0501790455D | 18-JUL-2001 | 01-06-1408A | 02
06 | AR | PULASKI COUNTY | 0501790432D | 22-AUG-2001 | 01-06-1648A | 02
06 | AR | PULASKI COUNTY | 0501790432D | 28-NOV-2001 | 02-06-100A | 01
06 | AR | PULASKI COUNTY | 0501790432D | 07-NOV-2001 | 02-06-160X | 02
06 | AR | PULASKI COUNTY | 0501790455D | 07-NOV-2001 | 02-06-160X | 02
06 | AR | PULASKI COUNTY | 0501790279D | 14-DEC-2001 | 02-06-170A | 02
06 | AR | PULASKI COUNTY | 0501790279D | 07-DEC-2001 | 02-06-262A | 01
06 | AR | ROGERS, CITY OF | 05007C0165F | 08-AUG-2001 | 01-06-1511A | 02
06 | AR | ROGERS, CITY OF | 05007C0152H | 25-JUL-2001 | 01-06-1576A | 02
06 | AR | ROGERS, CITY OF | 05007C0155H | 17-AUG-2001 | 01-06-1617A | 02
06 | AR | ROGERS, CITY OF | 05007C0155H | 07-SEP-2001 | 01-06-1738A | 02
06 | AR | ROGERS, CITY OF | 05007C0155H | 28-SEP-2001 | 01-06-1893A | 01
06 | AR | ROGERS, CITY OF | 05007C0152H | 26-SEP-2001 | 01-06-1948A | 17
06 | AR | RUSSELLVILLE, CITY OF | 0501780019D | 09-NOV-2001 | 02-06-083A | 02
06 | AR | SHERWOOD, CITY OF | 0502350001E | 31-AUG-2001 | 01-06-1675A | 02
06 | AR | SHERWOOD, CITY OF | 0502350001E | 14-DEC-2001 | 02-06-348A | 02
06 | AR | SPRINGDALE, CITY OF | 05143C0038D | 27-JUL-2001 | 00-06-1655P | 05
06 | AR | STUTTGART, CITY OF | 0500020005C | 28-DEC-2001 | 02-06-436A | 02
06 | AR | TEXARKANA, CITY OF | 0501370076C | 06-JUL-2001 | 01-06-1325A | 02
06 | AR | TEXARKANA, CITY OF | 0501370059C | 03-OCT-2001 | 01-06-1985A | 02
06 | AR | TEXARKANA, CITY OF | 0501370059C | 16-NOV-2001 | 02-06-181A | 02
06 | AR | TEXARKANA, CITY OF | 0501370059C | 30-NOV-2001 | 02-06-265A | 02
06 | AR | WASHINGTON COUNTY | 05143C0160C | 28-NOV-2001 | 01-06-1721A | 02
06 | AR | WASHINGTON COUNTY | 05143C0091D | 30-NOV-2001 | 02-06-221A | 02
06 | AR | WHITE COUNTY | 0504670013B | 09-NOV-2001 | 01-06-1828A | 02
06 | AR | WHITE COUNTY | 0504670005B | 07-NOV-2001 | 02-06-113A | 02
06 | AR | WYNNE, CITY OF | 0500560005C | 14-SEP-2001 | 01-06-1844A | 01
06 | AR | YELLVILLE , CITY OF | 05013601B | 10-OCT-2001 | 00-06-1544A | 01
06 | LA | ACADIA PARISH | 2200010025B | 27-JUL-2001 | 01-06-1510A | 02
06 | LA | ACADIA PARISH | 2200010225C | 12-DEC-2001 | 02-06-287A | 02
06 | LA | ALEXANDRIA, CITY OF | 2201460015F | 13-JUL-2001 | 01-06-1276A | 02
06 | LA | ALEXANDRIA, CITY OF | 2201460015F | 20-JUL-2001 | 01-06-1351A | 02
06 | LA | ALEXANDRIA, CITY OF | 2201460015F | 01-AUG-2001 | 01-06-1569A | 02
06 | LA | ALEXANDRIA, CITY OF | 2201450235D | 28-SEP-2001 | 01-06-1661A | 02
06 | LA | ALEXANDRIA, CITY OF | 2201460015F | 03-OCT-2001 | 01-06-1988A | 02
06 | LA | ALEXANDRIA, CITY OF | 2201460010F | 24-OCT-2001 | 02-06-021A | 01
06 | LA | ALEXANDRIA, CITY OF | 2201460015F | 02-NOV-2001 | 02-06-086A | 02
06 | LA | ALEXANDRIA, CITY OF | 2201450235D | 09-NOV-2001 | 02-06-159X | 02
06 | LA | ALEXANDRIA, CITY OF | 2201460015F | 07-DEC-2001 | 02-06-304A | 02
06 | LA | ALEXANDRIA, CITY OF | 2201450235D | 05-DEC-2001 | 02-06-305A | 02
06 | LA | ALEXANDRIA, CITY OF | 2201460015F | 19-DEC-2001 | 02-06-337A | 02
06 | LA | ALEXANDRIA, CITY OF | 2201450235D | 12-DEC-2001 | 02-06-365X | 02
06 | LA | ALLEN PARISH | 2200090225B | 07-NOV-2001 | 01-06-1880A | 02
06 | LA | ALLEN PARISH | 2200090225B | 31-OCT-2001 | 02-06-087A | 02
06 | LA | ASCENSION PARISH | 2200130045C | 18-JUL-2001 | 01-06-1085A | 01
06 | LA | ASCENSION PARISH | 2200130030C | 13-JUL-2001 | 01-06-1329A | 02
06 | LA | ASCENSION PARISH | 2200130045C | 05-JUL-2001 | 01-06-1404A | 02
06 | LA | ASCENSION PARISH | 2200130045C | 05-JUL-2001 | 01-06-1466A | 02
06 | LA | ASCENSION PARISH | 2200130065C | 25-JUL-2001 | 01-06-1508A | 02
06 | LA | ASCENSION PARISH | 2200130045C | 27-JUL-2001 | 01-06-1557A | 02
06 | LA | ASCENSION PARISH | 2200130040B | 22-AUG-2001 | 01-06-1591A | 01
06 | LA | ASCENSION PARISH | 2200130110D | 14-SEP-2001 | 01-06-1639A | 02
06 | LA | ASCENSION PARISH | 2200130040B | 12-SEP-2001 | 01-06-1677A | 02
06 | LA | ASCENSION PARISH | 2200130030C | 02-NOV-2001 | 01-06-1762A | 01
06 | LA | ASCENSION PARISH | 2200130025B | 31-AUG-2001 | 01-06-589A | 01
06 | LA | ASCENSION PARISH | 2200130040B | 19-OCT-2001 | 02-06-038A | 02
06 | LA | ASCENSION PARISH | 2200130105C | 09-NOV-2001 | 02-06-039A | 02
06 | LA | ASCENSION PARISH | 2200130040B | 24-OCT-2001 | 02-06-044A | 02
06 | LA | ASCENSION PARISH | 2200130045C | 31-OCT-2001 | 02-06-088A | 02
06 | LA | ASCENSION PARISH | 2200130040B | 07-NOV-2001 | 02-06-137A | 02
06 | LA | ASCENSION PARISH | 2200130130D | 28-NOV-2001 | 02-06-163X | 02
06 | LA | ASCENSION PARISH | 2200130110D | 14-DEC-2001 | 02-06-350A | 02
06 | LA | AVOYELLES PARISH | 2200190075B | 01-AUG-2001 | 01-06-1295A | 02
06 | LA | AVOYELLES PARISH | 2200190075B | 05-OCT-2001 | 01-06-2014A | 02
06 | LA | AVOYELLES PARISH | 2200190075B | 31-OCT-2001 | 02-06-085A | 02
06 | LA | BOSSIER CITY, CITY OF | 2200330030C | 13-JUL-2001 | 01-06-1458A | 02
06 | LA | BOSSIER CITY, CITY OF | 2200330030C | 15-AUG-2001 | 01-06-1626A | 02
06 | LA | BOSSIER CITY, CITY OF | 2200330030C | 22-AUG-2001 | 01-06-1692A | 02
06 | LA | BOSSIER CITY, CITY OF | 2200310315B | 22-AUG-2001 | 01-06-1697A | 02
06 | LA | BOSSIER CITY, CITY OF | 2200330030C | 29-AUG-2001 | 01-06-1771A | 02
06 | LA | BOSSIER CITY, CITY OF | 2200310315B | 19-SEP-2001 | 01-06-1816A | 02
06 | LA | BOSSIER CITY, CITY OF | 2200330005C | 12-SEP-2001 | 01-06-1882A | 02
06 | LA | BOSSIER CITY, CITY OF | 2200330030C | 07-SEP-2001 | 01-06-1903A | 02
06 | LA | BOSSIER CITY, CITY OF | 2200310315B | 19-SEP-2001 | 01-06-1924A | 02
06 | LA | BOSSIER CITY, CITY OF | 2200330010C | 11-OCT-2001 | 02-06-004A | 02
06 | LA | BOSSIER CITY, CITY OF | 2200330010C | 28-NOV-2001 | 02-06-214A | 02
06 | LA | BOSSIER CITY, CITY OF | 2200330030C | 28-NOV-2001 | 02-06-216A | 02
06 | LA | BOSSIER CITY, CITY OF | 2200330010C | 28-NOV-2001 | 02-06-250A | 02
06 | LA | BOSSIER CITY, CITY OF | 2200330010C | 19-DEC-2001 | 02-06-284A | 02
06 | LA | BOSSIER CITY, CITY OF | 2200330030C | 07-DEC-2001 | 02-06-320A | 02
06 | LA | BOSSIER CITY, CITY OF | 2200310315B | 28-DEC-2001 | 02-06-425A | 02
06 | LA | BOSSIER CITY, CITY OF | 2200310315B | 28-DEC-2001 | 02-06-429A | 02
06 | LA | BOSSIER PARISH | 2200310285B | 25-JUL-2001 | 01-06-1544A | 02
06 | LA | BOSSIER PARISH | 2200310285B | 27-JUL-2001 | 01-06-1558A | 02
06 | LA | BOSSIER PARISH | 2200310285B | 25-JUL-2001 | 01-06-1561A | 02
06 | LA | BOSSIER PARISH | 2200310285B | 08-AUG-2001 | 01-06-1633A | 02
06 | LA | BOSSIER PARISH | 2200310285B | 12-OCT-2001 | 01-06-1728A | 02
06 | LA | BOSSIER PARISH | 2200310285B | 29-AUG-2001 | 01-06-1735A | 02
06 | LA | BOSSIER PARISH | 2200310285B | 31-AUG-2001 | 01-06-1793A | 02
06 | LA | BOSSIER PARISH | 2200310285B | 19-SEP-2001 | 01-06-1897A | 02
06 | LA | BOSSIER PARISH | 2200310220B | 21-SEP-2001 | 01-06-1898A | 02
06 | LA | BOSSIER PARISH | 2200310220B | 02-NOV-2001 | 01-06-996A | 02
06 | LA | BOSSIER PARISH | 2200310220B | 24-OCT-2001 | 02-06-019A | 02
06 | LA | BOSSIER PARISH | 2200310295B | 19-OCT-2001 | 02-06-047A | 02
06 | LA | BOSSIER PARISH | 2200310285B | 30-NOV-2001 | 02-06-268A | 02
06 | LA | BOSSIER PARISH | 2200310475B | 28-DEC-2001 | 02-06-366A | 02
06 | LA | CADDO PARISH | 22017C0344F | 22-AUG-2001 | 01-06-1574A | 01
06 | LA | CADDO PARISH | 22017C0344F | 22-AUG-2001 | 01-06-1729A | 02
06 | LA | CADDO PARISH | 22017C0487F | 24-OCT-2001 | 01-06-2026A | 02
06 | LA | CADDO PARISH | 22017C0270F | 05-OCT-2001 | 01-06-2037A | 02
06 | LA | CADDO PARISH | 22017C0487F | 26-NOV-2001 | 02-06-215A | 02
06 | LA | CALCASIEU PARISH | 2200370350C | 05-JUL-2001 | 01-06-1270A | 02
06 | LA | CALCASIEU PARISH | 2200370225D | 07-SEP-2001 | 01-06-1607A | 02
06 | LA | CALCASIEU PARISH | 2200370250D | 26-OCT-2001 | 01-06-1632A | 02
06 | LA | CALCASIEU PARISH | 2200370250D | 24-OCT-2001 | 01-06-1849A | 02
06 | LA | CALCASIEU PARISH | 2200370375C | 05-DEC-2001 | 02-06-286A | 02
06 | LA | COVINGTON, CITY OF | 2252050230C | 28-DEC-2001 | 02-06-184A | 01
06 | LA | CROWLEY, CITY OF | 2251950001C | 02-NOV-2001 | 01-06-2005A | 02
06 | LA | EAST BATON ROUGE PARISH | 2200580080D | 08-AUG-2001 | 01-06-1305A | 02
06 | LA | EAST BATON ROUGE PARISH | 2200580110D | 05-JUL-2001 | 01-06-1373A | 02
06 | LA | EAST BATON ROUGE PARISH | 2200580095D | 17-OCT-2001 | 01-06-1471A | 01
06 | LA | EAST BATON ROUGE PARISH | 2200580110D | 17-OCT-2001 | 01-06-1471A | 01
06 | LA | EAST BATON ROUGE PARISH | 2200580080D | 08-AUG-2001 | 01-06-1578A | 02
06 | LA | EAST BATON ROUGE PARISH | 2200580110D | 08-AUG-2001 | 01-06-1653A | 02
06 | LA | EAST BATON ROUGE PARISH | 2200580110D | 31-AUG-2001 | 01-06-1766A | 02
06 | LA | EAST BATON ROUGE PARISH | 2200580110D | 10-OCT-2001 | 01-06-1800A | 01
06 | LA | EAST BATON ROUGE PARISH | 2200580100D | 02-NOV-2001 | 01-06-1986A | 01
06 | LA | EAST BATON ROUGE PARISH | 2200580095D | 19-OCT-2001 | 01-06-2038A | 02
06 | LA | EAST BATON ROUGE PARISH | 2200580095D | 28-DEC-2001 | 02-06-077A | 02
06 | LA | EAST BATON ROUGE PARISH | 2200580110D | 28-NOV-2001 | 02-06-239A | 02
06 | LA | EAST BATON ROUGE PARISH | 2200580125C | 26-NOV-2001 | 02-06-253A | 02
06 | LA | EAST BATON ROUGE PARISH | 2200580100D | 30-NOV-2001 | 02-06-280X | 01
06 | LA | EUNICE, CITY OF | 2201680001B | 10-OCT-2001 | 01-06-1925A | 02
06 | LA | EVANGELINE PARISH | 2200640007C | 07-NOV-2001 | 02-06-101A | 02
06 | LA | FRENCH SETTLEMENT, VILLAGE OF | 22063C0360D | 05-DEC-2001 | 02-06-260A | 02
06 | LA | HAMMOND, CITY OF | 2202080001D | 13-JUL-2001 | 01-06-1496A | 02
06 | LA | HAMMOND, CITY OF | 2202080001D | 13-JUL-2001 | 01-06-1497A | 02
06 | LA | HAMMOND, CITY OF | 2202080001D | 13-JUL-2001 | 01-06-1498A | 02
06 | LA | HAMMOND, CITY OF | 2202080001D | 14-NOV-2001 | 02-06-194A | 02
06 | LA | HAMMOND, CITY OF | 2202080001D | 12-DEC-2001 | 02-06-341A | 02
06 | LA | JEFFERSON PARISH | 22051C0135E | 31-AUG-2001 | 01-06-1538A | 02
06 | LA | KINDER, TOWN OF | 220010C | 24-OCT-2001 | 01-06-1932A | 02
06 | LA | KINDER, TOWN OF | 22001001C | 14-NOV-2001 | 02-06-089A | 02
06 | LA | KINDER, TOWN OF | 220010C | 07-NOV-2001 | 02-06-127A | 02
06 | LA | KINDER, TOWN OF | 22001001C | 07-DEC-2001 | 02-06-306A | 02
06 | LA | LAFAYETTE PARISH | 22055C0065G | 18-JUL-2001 | 01-06-1219A | 01
06 | LA | LAFAYETTE PARISH | 22055C0045G | 15-AUG-2001 | 01-06-1416A | 02
06 | LA | LAFAYETTE PARISH | 22055C0065G | 10-AUG-2001 | 01-06-1473A | 01
06 | LA | LAFAYETTE PARISH | 22055C0075G | 10-AUG-2001 | 01-06-1473A | 01
06 | LA | LAFAYETTE PARISH | 22055C0065G | 26-NOV-2001 | 01-06-1512A | 01
06 | LA | LAFAYETTE PARISH | 22055C0070G | 14-SEP-2001 | 01-06-1691A | 01
06 | LA | LAFAYETTE PARISH | 22055C0045G | 22-AUG-2001 | 01-06-1749A | 02
06 | LA | LAFAYETTE PARISH | 22055C0080G | 21-DEC-2001 | 02-06-091A | 02
06 | LA | LAFAYETTE, CITY OF | 22055C0045G | 13-JUL-2001 | 01-06-1302A | 02
06 | LA | LAFAYETTE, CITY OF | 22055C0045G | 05-JUL-2001 | 01-06-1340A | 02
06 | LA | LAFAYETTE, CITY OF | 22055C0070G | 29-AUG-2001 | 01-06-1513A | 01
06 | LA | LAFAYETTE, CITY OF | 22055C0045G | 28-SEP-2001 | 01-06-1636A | 02
06 | LA | LAFAYETTE, CITY OF | 22055C0045G | 29-AUG-2001 | 01-06-1730A | 02
06 | LA | LAFAYETTE, CITY OF | 22055C0045G | 07-SEP-2001 | 01-06-1747A | 02
06 | LA | LAFAYETTE, CITY OF | 22055C0045G | 28-SEP-2001 | 01-06-1957A | 02
06 | LA | LAFAYETTE, CITY OF | 22055C0045G | 14-DEC-2001 | 02-06-352A | 02
06 | LA | LAFOURCHE PARISH | 2252020330C | 14-SEP-2001 | 01-06-1808A | 02
06 | LA | LIVINGSTON PARISH | 2201130025B | 24-AUG-2001 | 01-06-1397A | 02
06 | LA | LIVINGSTON PARISH | 22063C0475D | 21-SEP-2001 | 01-06-1506A | 02
06 | LA | LIVINGSTON PARISH | 2201130100B | 01-AUG-2001 | 01-06-1551A | 02
06 | LA | LIVINGSTON PARISH | 2201130100B | 01-AUG-2001 | 01-06-1611A | 02
06 | LA | LIVINGSTON PARISH | 22063C0120D | 09-NOV-2001 | 01-06-1654A | 02
06 | LA | LIVINGSTON PARISH | 22063C0120D | 22-AUG-2001 | 01-06-1686A | 02
06 | LA | LIVINGSTON PARISH | 22063C0125D | 14-SEP-2001 | 01-06-1830A | 02
06 | LA | LIVINGSTON PARISH | 22063C0125D | 07-DEC-2001 | 02-06-218A | 02
06 | LA | LIVINGSTON PARISH | 22063C0120D | 05-DEC-2001 | 02-06-299X | 02
06 | LA | LIVINGSTON PARISH | 22063C0125D | 19-DEC-2001 | 02-06-383A | 02
06 | LA | LIVINGSTON PARISH | 22063C0115D | 28-DEC-2001 | 02-06-437A | 02
06 | LA | LIVINGSTON PARISH | 22063C0125D | 28-DEC-2001 | 02-06-451A | 02
06 | LA | MONROE, CITY OF | 22073C0075E | 19-SEP-2001 | 01-06-1848A | 01
06 | LA | MONROE, CITY OF | 22073C0045E | 10-OCT-2001 | 01-06-2040A | 02
06 | LA | NEW ORLEANS/ORLEANS PARISH | 2252030095E | 24-AUG-2001 | 01-06-1624A | 02
06 | LA | OUACHITA PARISH | 22073C0070E | 19-SEP-2001 | 01-06-1938A | 02
06 | LA | POINTE COUPEE PARISH | 2201400270B | 19-DEC-2001 | 01-06-1702A | 02
06 | LA | RAPIDES PARISH | 2201450140D | 13-JUL-2001 | 01-06-1156A | 02
06 | LA | RAPIDES PARISH | 2201450165B | 05-JUL-2001 | 01-06-1239A | 02
06 | LA | RAPIDES PARISH | 2201450235D | 13-JUL-2001 | 01-06-1286A | 02
06 | LA | RAPIDES PARISH | 2201450165B | 05-OCT-2001 | 01-06-1478A | 02
06 | LA | RAPIDES PARISH | 2201450235D | 20-JUL-2001 | 01-06-1495A | 02
06 | LA | RAPIDES PARISH | 2201450125B | 31-AUG-2001 | 01-06-1712A | 02
06 | LA | RAPIDES PARISH | 2201450250C | 16-NOV-2001 | 01-06-1937A | 02
06 | LA | RAPIDES PARISH | 2201450135C | 28-SEP-2001 | 01-06-1983A | 02
06 | LA | RAPIDES PARISH | 2201450165B | 27-JUL-2001 | 01-06-531A | 02
06 | LA | RAPIDES PARISH | 2201450165B | 14-NOV-2001 | 02-06-189X | 02
06 | LA | SCOTT, CITY OF | 22055C0045G | 07-NOV-2001 | 01-06-1668A | 01
06 | LA | SCOTT, CITY OF | 22055C0040H | 05-SEP-2001 | 01-06-1777A | 02
06 | LA | SCOTT, CITY OF | 22055C0040H | 07-DEC-2001 | 02-06-090A | 02
06 | LA | SHREVEPORT, CITY OF | 22017C0469F | 11-JUL-2001 | 01-06-1142A | 02
06 | LA | SHREVEPORT, CITY OF | 22017C0488F | 11-JUL-2001 | 01-06-1223A | 02
06 | LA | SHREVEPORT, CITY OF | 22017C0489F | 11-JUL-2001 | 01-06-1223A | 02
06 | LA | SHREVEPORT, CITY OF | 22017C0486F | 13-JUL-2001 | 01-06-1277A | 02
06 | LA | SHREVEPORT, CITY OF | 22017C0488F | 13-JUL-2001 | 01-06-1277A | 02
06 | LA | SHREVEPORT, CITY OF | 22017C0478F | 08-AUG-2001 | 01-06-1435A | 02
06 | LA | SHREVEPORT, CITY OF | 22017C0487F | 08-AUG-2001 | 01-06-1547A | 02
06 | LA | SHREVEPORT, CITY OF | 22017C0487F | 08-AUG-2001 | 01-06-1548A | 02
06 | LA | SHREVEPORT, CITY OF | 22017C0487F | 22-AUG-2001 | 01-06-1590A | 02
06 | LA | SHREVEPORT, CITY OF | 22017C0486F | 03-AUG-2001 | 01-06-1600A | 02
06 | LA | SHREVEPORT, CITY OF | 22017C0451F | 08-AUG-2001 | 01-06-1666A | 02
06 | LA | SHREVEPORT, CITY OF | 22017C0479F | 08-AUG-2001 | 01-06-1706A | 02
06 | LA | SHREVEPORT, CITY OF | 22017C0487F | 22-AUG-2001 | 01-06-1731A | 02
06 | LA | SHREVEPORT, CITY OF | 22017C0478F | 31-AUG-2001 | 01-06-1807A | 02
06 | LA | SHREVEPORT, CITY OF | 22017C0451F | 12-OCT-2001 | 01-06-1978A | 02
06 | LA | SHREVEPORT, CITY OF | 22017C0466F | 03-OCT-2001 | 01-06-2006A | 02
06 | LA | SHREVEPORT, CITY OF | 22017C0479F | 01-AUG-2001 | 01-06-310A | 02
06 | LA | SHREVEPORT, CITY OF | 22017C0487F | 09-NOV-2001 | 02-06-138A | 02
06 | LA | SHREVEPORT, CITY OF | 22017C0478F | 14-NOV-2001 | 02-06-165X | 01
06 | LA | SHREVEPORT, CITY OF | 22017C0479F | 14-NOV-2001 | 02-06-165X | 01
06 | LA | SHREVEPORT, CITY OF | 22017C0451F | 14-NOV-2001 | 02-06-175X | 02
06 | LA | SHREVEPORT, CITY OF | 22017C0487F | 05-DEC-2001 | 02-06-331A | 02
06 | LA | SHREVEPORT, CITY OF | 22017C0487F | 19-DEC-2001 | 02-06-359A | 02
06 | LA | SHREVEPORT, CITY OF | 22017C0487F | 19-DEC-2001 | 02-06-410A | 02
06 | LA | SHREVEPORT, CITY OF | 22017C0487F | 14-DEC-2001 | 02-06-416A | 02
06 | LA | SHREVEPORT, CITY OF | 22017C0479F | 12-DEC-2001 | 02-06-421X | 02
06 | LA | SORRENTO, TOWN OF | 2200160001C | 19-OCT-2001 | 02-06-040A | 02
06 | LA | ST. CHARLES PARISH | 2201600150C | 14-SEP-2001 | 01-06-1879A | 02
06 | LA | ST. MARY PARISH | 2201920050B | 24-AUG-2001 | 01-06-1437A | 02
06 | LA | ST. TAMMANY PARISH | 2252050360C | 20-JUL-2001 | 01-06-1494A | 02
06 | LA | ST. TAMMANY PARISH | 2252050240E | 08-AUG-2001 | 01-06-1565A | 02
06 | LA | ST. TAMMANY PARISH | 2252050380C | 24-OCT-2001 | 02-06-070A | 02
06 | LA | ST. TAMMANY PARISH | 2252050300C | 28-DEC-2001 | 02-06-309A | 02
06 | LA | TANGIPAHOA PARISH | 2202060165E | 05-JUL-2001 | 01-06-1396A | 02
06 | LA | TANGIPAHOA PARISH | 2202060165E | 06-JUL-2001 | 01-06-1407A | 02
06 | LA | TANGIPAHOA PARISH | 2202060205D | 07-SEP-2001 | 01-06-1487A | 02
06 | LA | TANGIPAHOA PARISH | 2202060205D | 22-AUG-2001 | 01-06-1492A | 02
06 | LA | TANGIPAHOA PARISH | 2202060205D | 22-AUG-2001 | 01-06-1509A | 02
06 | LA | TANGIPAHOA PARISH | 2202060205D | 12-DEC-2001 | 02-06-412A | 02
06 | LA | TERREBONNE PARISH | 2252060120C | 28-NOV-2001 | 01-06-2003A | 02
06 | LA | UNION PARISH | 2203590150C | 31-OCT-2001 | 01-06-1608A | 02
06 | LA | WEST CARROLL PARISH | 2202430015B | 05-JUL-2001 | 01-06-1268A | 02
06 | LA | WEST CARROLL PARISH | 22024315B | 26-OCT-2001 | 01-06-1831A | 02
06 | LA | WEST CARROLL PARISH | 22024311B | 28-NOV-2001 | 01-06-1853A | 02
06 | LA | WEST CARROLL PARISH | 22024315A | 10-OCT-2001 | 01-06-1936A | 02
06 | LA | ZACHARY, CITY OF | 2200610005B | 27-JUL-2001 | 01-06-1559A | 01
06 | NM | ALBUQUERQUE, CITY OF | 35001C0137D | 30-JUL-2001 | 01-06-152P | 06
06 | NM | ALBUQUERQUE, CITY OF | 35001C0141D | 30-JUL-2001 | 01-06-152P | 06
06 | NM | ALBUQUERQUE, CITY OF | 35001C0354D | 29-AUG-2001 | 01-06-1717A | 02
06 | NM | ALBUQUERQUE, CITY OF | 35001C0352D | 10-AUG-2001 | 01-06-204A | 02
06 | NM | ALBUQUERQUE, CITY OF | 35001C0329D | 01-DEC-2001 | 01-06-303P | 06
06 | NM | ALBUQUERQUE, CITY OF | 35001C0354D | 07-NOV-2001 | 02-06-132A | 02
06 | NM | BERNALILLO COUNTY | 35001C0328D | 08-NOV-2001 | 00-06-1176P | 06
06 | NM | BERNALILLO COUNTY | 35001C0339D | 07-DEC-2001 | 02-06-271A | 02
06 | NM | CORRALES, VILLAGE OF | 35043C0911C | 25-OCT-2001 | 01-06-1288P | 06
06 | NM | CORRALES, VILLAGE OF | 35043C0913C | 25-OCT-2001 | 01-06-1288P | 06
06 | NM | LAS CRUCES, CITY OF | 35013C0631E | 26-NOV-2001 | 01-06-1908A | 01
06 | NM | LAS CRUCES, CITY OF | 35013C0631E | 09-NOV-2001 | 01-06-1959A | 01
06 | NM | LAS CRUCES, CITY OF | 35013C0631E | 05-DEC-2001 | 01-06-2018A | 01
06 | NM | LAS CRUCES, CITY OF | 35013C0631E | 18-JUL-2001 | 01-06-459A | 01
06 | NM | LOS LUNAS, VILLAGE OF | 3501440005A | 14-NOV-2001 | 02-06-193A | 02
06 | NM | MORA COUNTY | 3500430007B | 12-SEP-2001 | 01-06-1820A | 02
06 | NM | PORTALES, CITY OF | 3500540001D | 25-JUL-2001 | 01-06-1472P | 06
06 | NM | PORTALES, CITY OF | 3500540002D | 25-JUL-2001 | 01-06-1472P | 06
06 | NM | PORTALES, CITY OF | 3500540002D | 14-SEP-2001 | 01-06-1895A | 02
06 | NM | RUIDOSO, VILLAGE OF | 3500330084C | 08-AUG-2001 | 01-06-1389A | 02
06 | NM | SAN JUAN COUNTY | 3500640550B | 12-DEC-2001 | 02-06-078A | 02
06 | NM | SANTA FE COUNTY | 3500690100B | 28-NOV-2001 | 01-06-1847A | 02
06 | NM | SANTA FE, CITY OF | 3500700005C | 21-SEP-2001 | 01-06-1876A | 02
06 | NM | TRUTH OR CONSEQUENCES, CITY OF | 3500730005C | 28-NOV-2001 | 02-06-177A | 02
06 | NM | VALENCIA COUNTY | 3500860195D | 17-AUG-2001 | 01-06-1128A | 01
06 | NM | VALENCIA COUNTY | 3500860185D | 28-NOV-2001 | 01-06-1221A | 01
06 | NM | WILLIAMSBURG, VILLAGE OF | 3500740001C | 01-AUG-2001 | 01-06-1457A | 02
06 | OK | BIXBY, TOWN OF | 40143C0520H | 18-JUL-2001 | 01-06-1526A | 02
06 | OK | BROKEN ARROW, CITY OF | 40143C0562H | 30-NOV-2001 | 02-06-232A | 02
06 | OK | BROKEN ARROW, CITY OF | 40143C0631H | 12-DEC-2001 | 02-06-279A | 02
06 | OK | CACHE,TOWN OF | 40031C0226C | 26-SEP-2001 | 01-06-1685A | 02
06 | OK | CREEK COUNTY | 4004900065C | 05-OCT-2001 | 01-06-1806A | 02
06 | OK | DEL CITY, CITY OF | 4002330002D | 13-JUL-2001 | 01-06-1507A | 02
06 | OK | DEL CITY, CITY OF | 4002330002D | 26-SEP-2001 | 01-06-1873A | 02
06 | OK | DELAWARE COUNTY | 4005020025C | 05-JUL-2001 | 01-06-1417A | 02
06 | OK | DELAWARE COUNTY | 4005020050C | 20-JUL-2001 | 01-06-1502A | 02
06 | OK | DELAWARE COUNTY | 4005020050C | 17-OCT-2001 | 01-06-1783A | 02
06 | OK | DUNCAN, CITY OF | 40137C0085D | 14-NOV-2001 | 02-06-124A | 02
06 | OK | EDMOND, CITY OF | 4002520020B | 23-AUG-2001 | 00-06-1501P | 05
06 | OK | EDMOND, CITY OF | 4002520005B | 15-OCT-2001 | 01-06-156P | 05
06 | OK | ENID, CITY OF | 40047C0115C | 08-AUG-2001 | 01-06-1646A | 02
06 | OK | ENID, CITY OF | 40047C0115C | 10-AUG-2001 | 01-06-1695A | 02
06 | OK | ENID, CITY OF | 40047C0115C | 24-AUG-2001 | 01-06-1732A | 02
06 | OK | GROVE, TOWN OF | 4003850004C | 24-OCT-2001 | 01-06-1698A | 01
06 | OK | GROVE, TOWN OF | 4003850004C | 15-AUG-2001 | 01-06-756A | 01
06 | OK | HARRAH, CITY OF | 4001400004C | 10-OCT-2001 | 01-06-1418A | 01
06 | OK | HARRAH, CITY OF | 4001400004C | 26-OCT-2001 | 01-06-1718A | 02
06 | OK | HENRYETTA, CITY OF | 4001440003C | 31-AUG-2001 | 01-06-431A | 01
06 | OK | JENKS, CITY OF | 40143C0513J | 30-NOV-2001 | 02-06-168X | 02
06 | OK | KAY COUNTY | 4004770225A | 11-JUL-2001 | 01-06-1447A | 02
06 | OK | KAY COUNTY | 4004770225A | 14-NOV-2001 | 02-06-011A | 02
06 | OK | LAWTON, CITY OF | 40031C0232C | 11-JUL-2001 | 01-06-1059A | 01
06 | OK | LAWTON, CITY OF | 40031C0250D | 11-JUL-2001 | 01-06-1455A | 02
06 | OK | LAWTON, CITY OF | 40031C0258C | 20-JUL-2001 | 01-06-1572A | 01
06 | OK | LAWTON, CITY OF | 40031C0253D | 07-NOV-2001 | 02-06-037A | 17
06 | OK | LE FLORE COUNTY | 4004840007A | 14-SEP-2001 | 01-06-1616A | 02
06 | OK | LE FLORE COUNTY | 4004840010A | 05-SEP-2001 | 01-06-1741A | 02
06 | OK | LE FLORE COUNTY | 4004840007A | 05-OCT-2001 | 01-06-1993X | 02
06 | OK | LINCOLN COUNTY | 4004570225A | 05-OCT-2001 | 01-06-1857A | 02
06 | OK | MIDWEST CITY, CITY OF | 4004050015E | 31-AUG-2001 | 01-06-1727A | 02
06 | OK | MOORE, CITY OF | 40027C0037F | 31-OCT-2001 | 01-06-1638A | 02
06 | OK | MOORE, CITY OF | 40027C0037F | 24-OCT-2001 | 01-06-1987A | 02
06 | OK | MUSKOGEE, CITY OF | 40101C0126D | 07-DEC-2001 | 01-06-1491A | 02
06 | OK | NOBLE COUNTY | 4001320125A | 18-JUL-2001 | 01-06-1391A | 02
06 | OK | NORMAN,CITY OF | 40027C0095G | 07-NOV-2001 | 01-06-1609A | 02
06 | OK | NORMAN,CITY OF | 40027C0090F | 02-NOV-2001 | 02-06-073A | 02
06 | OK | NORTH ENID, TOWN OF | 40047C0115C | 22-AUG-2001 | 01-06-1610A | 02
06 | OK | OKLAHOMA CITY, CITY OF | 4053780170F | 19-SEP-2001 | 01-06-1369A | 02
06 | OK | OKLAHOMA CITY, CITY OF | 4053780265D | 11-JUL-2001 | 01-06-1436A | 02
06 | OK | OKLAHOMA CITY, CITY OF | 4053780160D | 31-AUG-2001 | 01-06-1550A | 02
06 | OK | OKLAHOMA CITY, CITY OF | 4053780225F | 22-AUG-2001 | 01-06-1669A | 17
06 | OK | OKLAHOMA CITY, CITY OF | 4053780020C | 12-OCT-2001 | 01-06-1742A | 02
06 | OK | OKLAHOMA CITY, CITY OF | 4053780235C | 26-SEP-2001 | 01-06-1790A | 02
06 | OK | OKLAHOMA CITY, CITY OF | 4053780225F | 26-SEP-2001 | 01-06-1791A | 02
06 | OK | OKLAHOMA CITY, CITY OF | 4053780160D | 28-NOV-2001 | 02-06-072A | 02
06 | OK | OKLAHOMA CITY, CITY OF | 4053780195C | 05-DEC-2001 | 02-06-142A | 02
06 | OK | OKLAHOMA CITY, CITY OF | 4053780225F | 14-NOV-2001 | 02-06-188X | 02
06 | OK | OKLAHOMA CITY, CITY OF | 4053780195C | 05-DEC-2001 | 02-06-245A | 02
06 | OK | OKMULGEE, CITY OF | 4001450004C | 19-OCT-2001 | 02-06-034A | 02
06 | OK | OWASSO, CITY OF | 40143C0236H | 10-OCT-2001 | 01-06-1402A | 01
06 | OK | OWASSO, CITY OF | 40143C0228H | 22-AUG-2001 | 01-06-1713A | 02
06 | OK | OWASSO, CITY OF | 40143C0228H | 22-AUG-2001 | 01-06-1746A | 02
06 | OK | OWASSO, CITY OF | 40143C0238H | 24-AUG-2001 | 01-06-1768A | 02
06 | OK | OWASSO, CITY OF | 40143C0238H | 28-NOV-2001 | 02-06-219A | 02
06 | OK | PAYNE COUNTY | 4004930120D | 05-OCT-2001 | 01-06-1964A | 02
06 | OK | PIEDMONT, CITY OF | 40017C0160D | 12-SEP-2001 | 01-06-1865A | 02
06 | OK | PONCA CITY, CITY OF | 4000800005C | 11-JUL-2001 | 01-06-1292A | 02
06 | OK | PONCA CITY, CITY OF | 4000800005C | 14-NOV-2001 | 01-06-2004A | 01
06 | OK | PONCA CITY, CITY OF | 4000800010C | 19-DEC-2001 | 02-06-321A | 02
06 | OK | ROGERS COUNTY | 4053790100B | 03-AUG-2001 | 01-06-1589A | 02
06 | OK | ROGERS COUNTY | 4053790130C | 27-JUL-2001 | 01-06-1602A | 17
06 | OK | ROGERS COUNTY | 4053790120B | 28-NOV-2001 | 01-06-1679A | 02
06 | OK | ROGERS COUNTY | 4053790035C | 29-AUG-2001 | 01-06-1765A | 02
06 | OK | ROGERS COUNTY | 4053790140B | 21-SEP-2001 | 01-06-1946A | 02
06 | OK | ROGERS COUNTY | 4053790120B | 12-DEC-2001 | 01-06-1995A | 02
06 | OK | ROGERS COUNTY | 4053790140B | 08-AUG-2001 | 01-06-323A | 02
06 | OK | ROGERS COUNTY | 4053790025B | 28-NOV-2001 | 02-06-229A | 02
06 | OK | SAND SPRINGS, CITY OF | 40143C0457H | 19-OCT-2001 | 02-06-050A | 02
06 | OK | SHAWNEE, CITY OF | 40125C0102D | 27-JUL-2001 | 00-06-1468P | 05
06 | OK | SHAWNEE, CITY OF | 40125C0101D | 22-AUG-2001 | 01-06-1656A | 02
06 | OK | STILLWATER, CITY OF | 4053800003D | 02-NOV-2001 | 01-06-1657A | 02
06 | OK | STILLWATER, CITY OF | 4053800005D | 29-AUG-2001 | 01-06-1776A | 02
06 | OK | TAHLEQUAH, CITY OF | 40021C0094C | 17-AUG-2001 | 01-06-1530A | 02
06 | OK | TULSA COUNTY | 40143C0530H | 03-AUG-2001 | 01-06-1594A | 02
06 | OK | TULSA COUNTY | 40143C0210H | 12-DEC-2001 | 02-06-389A | 02
06 | OK | TULSA, CITY OF | 40143C0520H | 22-AUG-2001 | 01-06-1482A | 02
06 | OK | TULSA, CITY OF | 40143C0510H | 18-JUL-2001 | 01-06-1505A | 02
06 | OK | TULSA, CITY OF | 40143C0505H | 03-AUG-2001 | 01-06-1606A | 17
06 | OK | TULSA, CITY OF | 40143C0505H | 14-SEP-2001 | 01-06-1892A | 02
06 | OK | TULSA, CITY OF | 40143C0510H | 09-NOV-2001 | 01-06-1935A | 02
06 | OK | TULSA, CITY OF | 40143C0520H | 10-OCT-2001 | 01-06-2045A | 02
06 | OK | TULSA, CITY OF | 40143C0505H | 09-NOV-2001 | 02-06-119X | 02
06 | OK | TULSA, CITY OF | 40143C0520H | 09-NOV-2001 | 02-06-167X | 02
06 | OK | UNION CITY, TOWN OF | 40017C0430D | 24-AUG-2001 | 01-06-1719A | 02
06 | OK | UNION CITY, TOWN OF | 40017C0465D | 26-SEP-2001 | 01-06-1884A | 02
06 | OK | WAGONER COUNTY | 4002150041B | 01-AUG-2001 | 01-06-1092A | 02
06 | OK | WAGONER COUNTY | 4002150125B | 28-SEP-2001 | 01-06-1570A | 02
06 | OK | WAGONER COUNTY | 4002150041B | 08-AUG-2001 | 01-06-1601A | 02
06 | OK | WAGONER COUNTY | 4002150140B | 12-DEC-2001 | 01-06-1856A | 02
06 | OK | WAGONER COUNTY | 4002150012B | 28-NOV-2001 | 01-06-1962A | 02
06 | OK | WAGONER COUNTY | 4002150031B | 27-DEC-2001 | 02-06-439A | 01
06 | OK | WASHINGTON COUNTY | 4004590040A | 01-AUG-2001 | 01-06-1615A | 02
06 | OK | WASHINGTON, TOWN OF | 40010501A | 18-JUL-2001 | 01-06-1061A | 02
06 | OK | WAURIKA, CITY OF | 4000760002C | 11-OCT-2001 | 01-06-1089P | 05
06 | OK | WAURIKA, CITY OF | 4000760003C | 11-OCT-2001 | 01-06-1089P | 05
06 | OK | YUKON, CITY OF | 40017C0340D | 13-JUL-2001 | 01-06-1441A | 02
06 | OK | YUKON, CITY OF | 40017C0340D | 27-JUL-2001 | 01-06-1567A | 02
06 | TX | ABILENE, CITY OF | 4854500020D | 02-NOV-2001 | 02-06-108A | 02
06 | TX | ALLEN, CITY OF | 48085C0435G | 18-JUL-2001 | 01-06-1488A | 02
06 | TX | ALLEN, CITY OF | 48085C0435G | 02-NOV-2001 | 01-06-1827A | 01
06 | TX | ALPINE, CITY OF | 4800850002B | 16-NOV-2001 | 01-06-2023A | 01
06 | TX | ANGELINA COUNTY | 4800070008C | 12-OCT-2001 | 01-06-1815A | 02
06 | TX | ANGELINA COUNTY | 4800070011C | 12-DEC-2001 | 01-06-2031A | 02
06 | TX | ARLINGTON, CITY OF | 48439C0318J | 03-AUG-2001 | 01-06-1338A | 02
06 | TX | ARLINGTON, CITY OF | 48439C0339J | 15-AUG-2001 | 01-06-1476A | 02
06 | TX | ARLINGTON, CITY OF | 48439C0441J | 21-SEP-2001 | 01-06-1822A | 02
06 | TX | ARLINGTON, CITY OF | 48439C0440J | 03-OCT-2001 | 01-06-1907A | 02
06 | TX | ARLINGTON, CITY OF | 48439C0319J | 17-OCT-2001 | 01-06-2036A | 17
06 | TX | ARLINGTON, CITY OF | 48439C0339J | 26-OCT-2001 | 02-06-067A | 02
06 | TX | ARLINGTON, CITY OF | 48439C0431J | 30-NOV-2001 | 02-06-139A | 02
06 | TX | ARLINGTON, CITY OF | 48439C0431J | 07-DEC-2001 | 02-06-140A | 02
06 | TX | ARLINGTON, CITY OF | 48439C0336J | 28-NOV-2001 | 02-06-199A | 02
06 | TX | ARLINGTON, CITY OF | 48439C0319J | 12-DEC-2001 | 02-06-201A | 17
06 | TX | ARLINGTON, CITY OF | 48439C0463H | 12-DEC-2001 | 02-06-289X | 01
06 | TX | AUSTIN COUNTY | 48453C0200E | 16-NOV-2001 | 01-06-1596A | 02
06 | TX | AUSTIN, CITY OF | 48453C0195E | 05-DEC-2001 | 01-06-1645A | 02
06 | TX | AUSTIN, CITY OF | 48453C0195E | 31-AUG-2001 | 01-06-1725A | 02
06 | TX | AUSTIN, CITY OF | 48453C0210F | 24-AUG-2001 | 01-06-1772A | 02
06 | TX | AUSTIN, CITY OF | 48453C0135F | 09-NOV-2001 | 01-06-1846C | 01
06 | TX | AUSTIN, CITY OF | 48453C0175F | 09-NOV-2001 | 01-06-1846C | 01
06 | TX | AUSTIN, CITY OF | 48453C0205E | 14-SEP-2001 | 01-06-1859A | 02
06 | TX | AUSTIN, CITY OF | 48453C0200E | 14-SEP-2001 | 01-06-1891A | 02
06 | TX | AUSTIN, CITY OF | 48453C0300E | 14-NOV-2001 | 01-06-2030A | 02
06 | TX | AUSTIN, CITY OF | 48453C0200E | 01-AUG-2001 | 01-06-664A | 02
06 | TX | AUSTIN, CITY OF | 48453C0205E | 17-OCT-2001 | 02-06-005A | 02
06 | TX | AUSTIN, CITY OF | 48453C0250E | 19-DEC-2001 | 02-06-428A | 02
06 | TX | AUSTIN, CITY OF | 48453C0290E | 12-SEP-2001 | 01-06-1044P | 06
06 | TX | BASTROP COUNTY | 48021C0116C | 09-NOV-2001 | 02-06-149X | 17
06 | TX | BEDFORD, CITY OF | 48439C0308H | 13-JUL-2001 | 01-06-1504A | 02
06 | TX | BEDFORD, CITY OF | 48439C0307J | 25-JUL-2001 | 01-06-1523A | 02
06 | TX | BELL COUNTY | 4807060130B | 19-OCT-2001 | 01-06-1405A | 01
06 | TX | BELL COUNTY | 4807060345B | 30-NOV-2001 | 02-06-048A | 02
06 | TX | BENBROOK, CITY OF | 48439C0390J | 19-SEP-2001 | 01-06-1930A | 02
06 | TX | BEXAR COUNTY | 48029C0278E | 22-JUL-2001 | 00-06-1371P | 06
06 | TX | BEXAR COUNTY | 48029C0241E | 05-SEP-2001 | 01-06-1568A | 02
06 | TX | BEXAR COUNTY | 48029C0257E | 03-OCT-2001 | 01-06-1910A | 02
06 | TX | BEXAR COUNTY | 48029C0232E | 23-NOV-2001 | 01-06-575P | 06
06 | TX | BEXAR COUNTY | 48029C0080E | 28-NOV-2001 | 01-06-648P | 06
06 | TX | BEXAR COUNTY | 48029C0257E | 31-OCT-2001 | 02-06-075A | 02
06 | TX | BLANCO, CITY OF | 48031C0110C | 12-JUL-2001 | 01-06-1411P | 06
06 | TX | BOWIE COUNTY | 4811940230B | 12-DEC-2001 | 02-06-180A | 02
06 | TX | BRAZORIA COUNTY | 48039C0420H | 29-AUG-2001 | 01-06-1560A | 02
06 | TX | BRAZORIA COUNTY | 48039C0045J | 22-AUG-2001 | 01-06-1619A | 01
06 | TX | BRAZORIA COUNTY | 48039C0030I | 21-SEP-2001 | 01-06-1751A | 01
06 | TX | BRAZORIA COUNTY | 48039C0040I | 21-SEP-2001 | 01-06-1751A | 01
06 | TX | BRAZORIA COUNTY | 48039C0030I | 07-SEP-2001 | 01-06-1818A | 02
06 | TX | BRAZORIA COUNTY | 48039C0030I | 05-DEC-2001 | 02-06-147A | 02
06 | TX | BRAZORIA COUNTY | 48039C0045J | 05-DEC-2001 | 02-06-226A | 01
06 | TX | BRAZOS COUNTY | 48041C0155C | 17-OCT-2001 | 01-06-1197A | 02
06 | TX | BROWNSVILLE, CITY OF | 4801030005B | 20-JUL-2001 | 01-06-1220A | 02
06 | TX | BROWNSVILLE, CITY OF | 4801010350B | 14-SEP-2001 | 01-06-1631A | 02
06 | TX | BURNET COUNTY | 48053C0220C | 24-AUG-2001 | 01-06-1754A | 02
06 | TX | BURNET COUNTY | 48053C0284C | 19-DEC-2001 | 02-06-045A | 02
06 | TX | CALHOUN COUNTY | 4800970053C | 28-DEC-2001 | 02-06-254A | 02
06 | TX | CAMERON COUNTY | 4801010075C | 08-AUG-2001 | 01-06-1079A | 02
06 | TX | CAMERON COUNTY | 4801010350B | 10-OCT-2001 | 01-06-1866A | 01
06 | TX | CARROLLTON, CITY OF | 4801670005G | 20-JUL-2001 | 01-06-1442A | 02
06 | TX | CARROLLTON, CITY OF | 4801670005G | 05-OCT-2001 | 01-06-1527A | 02
06 | TX | CARROLLTON, CITY OF | 4801670005G | 08-AUG-2001 | 01-06-1612A | 02
06 | TX | CARROLLTON, CITY OF | 4801670005G | 12-SEP-2001 | 01-06-1682A | 17
06 | TX | CARROLLTON, CITY OF | 48113C0020J | 26-SEP-2001 | 01-06-1952A | 02
06 | TX | CARROLLTON, CITY OF | 48113C0020J | 10-OCT-2001 | 01-06-2010A | 01
06 | TX | CARROLLTON, CITY OF | 4801670005G | 01-AUG-2001 | 01-06-667A | 02
06 | TX | CARROLLTON, CITY OF | 4801670005G | 14-SEP-2001 | 01-06-670A | 02
06 | TX | CARROLLTON, CITY OF | 48113C0020J | 19-DEC-2001 | 02-06-390A | 02
06 | TX | CEDAR HILL, CITY OF | 4801680015B | 05-JUL-2001 | 01-06-521P | 06
06 | TX | CEDAR HILL, CITY OF | 4801680020C | 05-JUL-2001 | 01-06-521P | 06
06 | TX | CLEVELAND,CITY OF | 4804390005B | 22-AUG-2001 | 00-06-1558A | 01
06 | TX | COLLEYVILLE, CITY OF | 48439C0307J | 05-JUL-2001 | 01-06-1385A | 02
06 | TX | COLLIN COUNTY | 48085C0440G | 20-JUL-2001 | 01-06-1154A | 17
06 | TX | COLLIN COUNTY | 48085C0325G | 19-OCT-2001 | 02-06-026A | 02
06 | TX | COLUMBUS, CITY OF | 48089C0145C | 08-AUG-2001 | 01-06-1201A | 01
06 | TX | COPPELL, CITY OF | 48113C0155J | 03-OCT-2001 | 01-06-1961A | 17
06 | TX | COPPELL, CITY OF | 48113C0155J | 28-DEC-2001 | 01-06-1984A | 01
06 | TX | COPPER CANYON, TOWN OF | 48121C0526E | 07-DEC-2001 | 01-06-493P | 06
06 | TX | CORSICANA, CITY OF | 4804980005A | 10-OCT-2001 | 01-06-1965A | 02
06 | TX | DALLAS COUNTY | 48113C0310J | 12-SEP-2001 | 01-06-1445A | 01
06 | TX | DALLAS COUNTY | 48085C0585G | 12-OCT-2001 | 01-06-309P | 05
06 | TX | DALLAS COUNTY | 48113C0235J | 12-OCT-2001 | 01-06-309P | 05
06 | TX | DALLAS, CITY OF | 4801710100D | 15-AUG-2001 | 01-06-1184A | 02
06 | TX | DALLAS, CITY OF | 4801710085D | 25-JUL-2001 | 01-06-1323A | 01
06 | TX | DALLAS, CITY OF | 4801710095C | 15-AUG-2001 | 01-06-1448A | 01
06 | TX | DALLAS, CITY OF | 4801710135D | 15-AUG-2001 | 01-06-1448A | 01
06 | TX | DALLAS, CITY OF | 48113C0355J | 21-DEC-2001 | 01-06-1501P | 05
06 | TX | DALLAS, CITY OF | 4801710210C | 27-JUL-2001 | 01-06-1545A | 02
06 | TX | DALLAS, CITY OF | 48113C0330J | 07-SEP-2001 | 01-06-1641A | 17
06 | TX | DALLAS, CITY OF | 4801710085D | 10-AUG-2001 | 01-06-1681A | 01
06 | TX | DALLAS, CITY OF | 48113C0190J | 14-NOV-2001 | 01-06-1966A | 02
06 | TX | DALLAS, CITY OF | 48113C0335J | 02-NOV-2001 | 01-06-1967A | 01
06 | TX | DALLAS, CITY OF | 48113C0345J | 02-NOV-2001 | 01-06-1967A | 01
06 | TX | DALLAS, CITY OF | 48113C0170J | 07-DEC-2001 | 02-06-022A | 01
06 | TX | DALLAS, CITY OF | 48113C0310J | 07-DEC-2001 | 02-06-022A | 01
06 | TX | DALLAS, CITY OF | 48113C0190J | 02-NOV-2001 | 02-06-156X | 02
06 | TX | DALLAS, CITY OF | 48113C0045J | 30-NOV-2001 | 02-06-176A | 01
06 | TX | DALLAS, CITY OF | 48113C0040J | 21-DEC-2001 | 02-06-240A | 01
06 | TX | DALLAS, CITY OF | 48113C0365J | 14-DEC-2001 | 02-06-347A | 02
06 | TX | DALLAS, CITY OF | 48113C0365 | 30-NOV-2001 | 02-06-377P | 06
06 | TX | DALLAS, CITY OF | 48113C0190J | 14-DEC-2001 | 02-06-382A | 02
06 | TX | DALLAS, CITY OF | 48113C0355J | 21-DEC-2001 | 02-06-454A | 02
06 | TX | DALLAS, CITY OF | 48113C0185J | 21-DEC-2001 | 02-06-513A | 02
06 | TX | DALLAS, CITY OF | 48113C0180J | 06-DEC-2001 | 01-06-1381P | 05
06 | TX | DENTON COUNTY | 48121C0420E | 18-OCT-2001 | 00-06-1774P | 05
06 | TX | DENTON COUNTY | 48121C0386E | 06-JUL-2001 | 01-06-1439A | 02
06 | TX | DENTON COUNTY | 48121C0420E | 20-JUL-2001 | 01-06-1486A | 17
06 | TX | DENTON, CITY OF | 48121C0360E | 24-OCT-2001 | 00-06-997P | 05
06 | TX | DENTON, CITY OF | 48121C0380E | 24-OCT-2001 | 00-06-997P | 05
06 | TX | DENTON, CITY OF | 4801940388E | 13-DEC-2001 | 01-06-607P | 06
06 | TX | ECTOR COUNTY | 48135C0100D | 21-DEC-2001 | 01-06-1951A | 02
06 | TX | EDINBURG,CITY OF | 4803380030E | 21-SEP-2001 | 01-06-1904A | 02
06 | TX | EDINBURG,CITY OF | 4803380005E | 24-OCT-2001 | 01-06-1960A | 02
06 | TX | EDINBURG,CITY OF | 4803380015E | 24-OCT-2001 | 01-06-1960A | 02
06 | TX | EL PASO, CITY OF | 4802140017C | 04-OCT-2001 | 01-06-1394P | 06
06 | TX | EL PASO, CITY OF | 4802140048B | 07-SEP-2001 | 01-06-1812A | 02
06 | TX | ENNIS, CITY OF | 48139C0215D | 14-AUG-2001 | 01-06-1353P | 06
06 | TX | ENNIS, CITY OF | 48139C0220D | 14-AUG-2001 | 01-06-1353P | 06
06 | TX | FAIRVIEW, TOWN OF | 48085C0315G | 08-AUG-2001 | 01-06-1454A | 02
06 | TX | FANNIN COUNTY | 4808070010A | 14-NOV-2001 | 02-06-062A | 02
06 | TX | FORT BEND COUNTY | 48157C0355J | 17-OCT-2001 | 01-06-1597A | 01
06 | TX | FORT BEND COUNTY | 48157C0120J | 14-NOV-2001 | 02-06-162X | 02
06 | TX | FORT BEND COUNTY L.I.D. #2 | 48157C0255J | 07-SEP-2001 | 01-06-1798A | 01
06 | TX | FORT WORTH, CITY OF | 48439C0317J | 20-JUL-2001 | 01-06-511P | 06
06 | TX | FORT WORTH, CITY OF | 48439C0395J | 11-JUL-2001 | 01-06-1164A | 02
06 | TX | FORT WORTH, CITY OF | 48439C0395J | 05-JUL-2001 | 01-06-1310A | 02
06 | TX | FORT WORTH, CITY OF | 4805960330J | 04-DEC-2001 | 01-06-1461P | 06
06 | TX | FORT WORTH, CITY OF | 48439C0385J | 08-AUG-2001 | 01-06-1537A | 02
06 | TX | FORT WORTH, CITY OF | 48439C0380H | 01-AUG-2001 | 01-06-1599A | 02
06 | TX | FORT WORTH, CITY OF | 48439C0360H | 08-NOV-2001 | 01-06-1671P | 06
06 | TX | FORT WORTH, CITY OF | 48439C0385J | 14-SEP-2001 | 01-06-1833A | 17
06 | TX | FORT WORTH, CITY OF | 48439C0395J | 12-SEP-2001 | 01-06-1858A | 02
06 | TX | FORT WORTH, CITY OF | 48439C0405J | 03-OCT-2001 | 01-06-1905A | 02
06 | TX | FORT WORTH, CITY OF | 48439C0385J | 03-OCT-2001 | 01-06-2012A | 02
06 | TX | FORT WORTH, CITY OF | 48439C0395J | 03-OCT-2001 | 01-06-2012A | 02
06 | TX | FORT WORTH, CITY OF | 48439C0395J | 17-OCT-2001 | 01-06-736A | 02
06 | TX | FORT WORTH, CITY OF | 48439C0395J | 06-NOV-2001 | 01-06-779A | 01
06 | TX | FORT WORTH, CITY OF | 48439C0395J | 12-DEC-2001 | 02-06-343A | 02
06 | TX | FRIENDSWOOD, CITY OF | 4854680005E | 17-OCT-2001 | 01-06-1352A | 01
06 | TX | FRISCO, CITY OF | 48085C0245G | 18-OCT-2001 | 01-06-1045P | 06
06 | TX | FRISCO, CITY OF | 48085C0265G | 18-OCT-2001 | 01-06-1045P | 06
06 | TX | GARDEN RIDGE, CITY OF | 4801480001B | 22-AUG-2001 | 01-06-1720A | 02
06 | TX | GARLAND, CITY OF | 48113C0240J | 09-NOV-2001 | 01-06-1490P | 05
06 | TX | GARLAND, CITY OF | 48113C0220J | 30-NOV-2001 | 02-06-267A | 02
06 | TX | GARLAND, CITY OF | 48113C0230J | 12-DEC-2001 | 02-06-272A | 02
06 | TX | GEORGETOWN, CITY OF | 48491C0230C | 29-AUG-2001 | 01-06-1680A | 02
06 | TX | GILLESPIE COUNTY | 4806960007B | 24-OCT-2001 | 01-06-1556A | 02
06 | TX | GILLESPIE COUNTY | 4806960007B | 15-AUG-2001 | 01-06-1670A | 02
06 | TX | GRANBURY, CITY OF | 4803570005B | 06-JUL-2001 | 01-06-1525A | 01
06 | TX | GRAND PRAIRIE, CITY OF | 48113C0455J | 17-OCT-2001 | 00-06-1058P | 05
06 | TX | GRAND PRAIRIE, CITY OF | 4854720035G | 07-SEP-2001 | 01-06-1206A | 01
06 | TX | GRAND PRAIRIE, CITY OF | 48113C0295J | 26-SEP-2001 | 01-06-1877A | 02
06 | TX | GRAND PRAIRIE, CITY OF | 4854720035G | 27-JUL-2001 | 01-06-476P | 05
06 | TX | GRAND PRAIRIE, CITY OF | 48113C0295J | 17-OCT-2001 | 02-06-029X | 02
06 | TX | GRAND PRAIRIE, CITY OF | 48113C0455J | 28-NOV-2001 | 02-06-116A | 01
06 | TX | GRAPEVINE, CITY OF | 48439C0205H | 25-JUL-2001 | 01-06-1287A | 02
06 | TX | GRAPEVINE, CITY OF | 48439C0215H | 11-JUL-2001 | 01-06-1434A | 02
06 | TX | GRAYSON COUNTY | 48181C0153D | 14-NOV-2001 | 01-06-1927A | 02
06 | TX | GREENVILLE, CITY OF | 48231C0180F | 02-NOV-2001 | 02-06-071A | 02
06 | TX | HARRIS COUNTY | 48201C0260J | 09-AUG-2001 | 00-06-1109P | 05
06 | TX | HARRIS COUNTY | 48201C0270J | 09-AUG-2001 | 00-06-1109P | 05
06 | TX | HARRIS COUNTY | 48201C0445K | 22-NOV-2001 | 00-06-1110P | 05
06 | TX | HARRIS COUNTY | 48201C0840K | 18-JUL-2001 | 01-06-1193A | 02
06 | TX | HARRIS COUNTY | 48201C0215J | 14-SEP-2001 | 01-06-1262A | 01
06 | TX | HARRIS COUNTY | 48201C0320K | 02-AUG-2001 | 01-06-1431P | 06
06 | TX | HARRIS COUNTY | 48201C0245K | 19-DEC-2001 | 01-06-1499P | 08
06 | TX | HARRIS COUNTY | 48201C0065J | 29-AUG-2001 | 01-06-1531A | 17
06 | TX | HARRIS COUNTY | 48201C0230J | 29-AUG-2001 | 01-06-1531A | 17
06 | TX | HARRIS COUNTY | 48201C0410J | 08-AUG-2001 | 01-06-1552A | 02
06 | TX | HARRIS COUNTY | 48201C0230J | 01-AUG-2001 | 01-06-1583A | 17
06 | TX | HARRIS COUNTY | 48201C0435J | 19-SEP-2001 | 01-06-1724A | 02
06 | TX | HARRIS COUNTY | 48201C0245K | 22-AUG-2001 | 01-06-1734A | 17
06 | TX | HARRIS COUNTY | 48201C0320K | 29-AUG-2001 | 01-06-1782A | 02
06 | TX | HARRIS COUNTY | 48201C0240J | 05-OCT-2001 | 01-06-1792A | 02
06 | TX | HARRIS COUNTY | 48201C0220J | 12-OCT-2001 | 01-06-415P | 05
06 | TX | HARRIS COUNTY | 48201C0240J | 12-OCT-2001 | 01-06-415P | 05
06 | TX | HARRIS COUNTY | 48201C0220G | 31-OCT-2001 | 01-06-510P | 06
06 | TX | HARRIS COUNTY | 48201C0315K | 19-OCT-2001 | 02-06-028A | 02
06 | TX | HARRIS COUNTY | 48201C0240J | 28-NOV-2001 | 02-06-203A | 01
06 | TX | HARRIS COUNTY | 48201C0605J | 12-DEC-2001 | 02-06-208A | 02
06 | TX | HARRIS COUNTY | 48201C0610J | 12-DEC-2001 | 02-06-208A | 02
06 | TX | HARRIS COUNTY | 48201C0235K | 28-DEC-2001 | 02-06-224A | 01
06 | TX | HARRIS COUNTY | 48201C0085H | 20-NOV-2001 | 02-06-237P | 05
06 | TX | HARRIS COUNTY | 48201C0805J | 05-DEC-2001 | 02-06-298A | 01
06 | TX | HENDERSON COUNTY | 48213C0150D | 05-OCT-2001 | 01-06-1996A | 02
06 | TX | HIDALGO COUNTY | 4803340325D | 03-AUG-2001 | 01-06-1581A | 02
06 | TX | HIDALGO COUNTY | 4803340295D | 19-SEP-2001 | 01-06-1832A | 02
06 | TX | HIGHLAND VILLAGE, VILLAGE OF | 48121C0533F | 05-DEC-2001 | 01-06-1737A | 02
06 | TX | HILLSBORO, CITY OF | 4803510005B | 19-SEP-2001 | 01-06-1861A | 17
06 | TX | HOOD COUNTY | 4803560045B | 10-OCT-2001 | 01-06-1773A | 02
06 | TX | HOOD COUNTY | 4803560065B | 10-OCT-2001 | 01-06-2039A | 02
06 | TX | HOOD COUNTY | 4803560035B | 07-DEC-2001 | 02-06-080A | 02
06 | TX | HOOD COUNTY | 4803560065B | 30-NOV-2001 | 02-06-161X | 02
06 | TX | HOUSTON COUNTY | 48201C0485J | 28-NOV-2001 | 01-06-1994A | 02
06 | TX | HOUSTON, CITY OF | 48201C0630J | 27-NOV-2001 | 00-06-1475P | 05
06 | TX | HOUSTON, CITY OF | 48201C0640J | 27-NOV-2001 | 00-06-1475P | 05
06 | TX | HOUSTON, CITY OF | 48201C0840K | 05-SEP-2001 | 01-06-1267A | 02
06 | TX | HOUSTON, CITY OF | 48201C0865K | 13-JUL-2001 | 01-06-1337A | 02
06 | TX | HOUSTON, CITY OF | 48201C0320K | 14-SEP-2001 | 01-06-1479A | 02
06 | TX | HOUSTON, CITY OF | 48201C0510J | 22-AUG-2001 | 01-06-1563A | 02
06 | TX | HOUSTON, CITY OF | 48201C0880K | 08-AUG-2001 | 01-06-1595A | 02
06 | TX | HOUSTON, CITY OF | 48201C0845K | 05-SEP-2001 | 01-06-1805A | 02
06 | TX | HOUSTON, CITY OF | 48157C0140K | 31-AUG-2001 | 01-06-1814A | 02
06 | TX | HOUSTON, CITY OF | 48201C0840K | 31-AUG-2001 | 01-06-1814A | 02
06 | TX | HOUSTON, CITY OF | 48201C0315K | 16-NOV-2001 | 01-06-1887A | 01
06 | TX | HOUSTON, CITY OF | 48201C0620J | 10-DEC-2001 | 01-06-304P | 05
06 | TX | HOUSTON, CITY OF | 48201C0640J | 10-DEC-2001 | 01-06-304P | 05
06 | TX | HOUSTON, CITY OF | 48201C0645J | 10-DEC-2001 | 01-06-304P | 05
06 | TX | HOUSTON, CITY OF | 48201C0835K | 10-DEC-2001 | 01-06-304P | 05
06 | TX | HOUSTON, CITY OF | 48201C0465K | 05-JUL-2001 | 01-06-677A | 02
06 | TX | HOUSTON, CITY OF | 48157C0280K | 25-JUL-2001 | 01-06-987A | 02
06 | TX | HOUSTON, CITY OF | 48201C0320K | 12-DEC-2001 | 02-06-325A | 02
06 | TX | HOUSTON, CITY OF | 48201C0315K | 28-DEC-2001 | 02-06-450A | 02
06 | TX | HUMBLE, CITY OF | 48201C0485J | 09-NOV-2001 | 02-06-066A | 02
06 | TX | HURST, CITY OF | 48439C0312J | 01-AUG-2001 | 01-06-1514A | 02
06 | TX | INGLESIDE, CITY OF | 4854800005 | 11-OCT-2001 | 01-06-2017P | 06
06 | TX | JOHNSON COUNTY | 48251C0037H | 21-OCT-2001 | 00-06-1702P | 05
06 | TX | JOHNSON COUNTY | 48251C0050H | 21-OCT-2001 | 00-06-1702P | 05
06 | TX | JOHNSON COUNTY | 48251C0041H | 12-DEC-2001 | 01-06-1693A | 02
06 | TX | JONESTOWN, CITY OF | 48453C0275E | 22-AUG-2001 | 01-06-1700A | 02
06 | TX | KELLER, CITY OF | 48439C0170H | 21-DEC-2001 | 02-06-107A | 02
06 | TX | KERR COUNTY | 48265C0165E | 28-SEP-2001 | 01-06-1886A | 02
06 | TX | KERR COUNTY | 48265C0170E | 07-DEC-2001 | 01-06-1917A | 01
06 | TX | KERR COUNTY | 48265C0170E | 16-NOV-2001 | 02-06-032A | 02
06 | TX | KIMBLE COUNTY | 4812320250A | 28-NOV-2001 | 02-06-128A | 02
06 | TX | LAGO VISTA, CITY OF | 48453C0335E | 28-NOV-2001 | 02-06-123A | 02
06 | TX | LAKEWAY, CITY OF | 48453C0330E | 07-DEC-2001 | 02-06-027A | 02
06 | TX | LEAGUE CITY, CITY OF | 4854880030E | 01-AUG-2001 | 01-06-1586A | 01
06 | TX | LEWISVILLE, CITY OF | 48121C0545E | 02-AUG-2001 | 00-06-841P | 05
06 | TX | LLANO COUNTY | 4812340285B | 20-JUL-2001 | 01-06-1484A | 02
06 | TX | LUFKIN,CITY OF | 4800090010C | 01-AUG-2001 | 01-06-1518A | 02
06 | TX | MANSFIELD, CITY OF | 48439C0560H | 19-OCT-2001 | 02-06-036A | 02
06 | TX | MCALLEN, CITY OF | 4803340425C | 24-OCT-2001 | 01-06-1275A | 01
06 | TX | MCKINNEY, CITY OF | 48085C0280G | 22-AUG-2001 | 01-06-1072A | 01
06 | TX | MCLENNAN COUNTY | 4804560050B | 07-SEP-2001 | 01-06-1160A | 02
06 | TX | MCLENNAN COUNTY | 4804560050B | 14-SEP-2001 | 01-06-1870A | 02
06 | TX | MCLENNAN COUNTY | 4804560050B | 09-NOV-2001 | 02-06-125A | 02
06 | TX | MESQUITE, CITY OF | 48113C0390J | 24-OCT-2001 | 01-06-1860A | 17
06 | TX | MESQUITE, CITY OF | 48113C0530J | 12-DEC-2001 | 01-06-1928A | 02
06 | TX | MESQUITE, CITY OF | 48113C0390J | 05-DEC-2001 | 02-06-096A | 01
06 | TX | MESQUITE, CITY OF | 48113C0360J | 07-NOV-2001 | 02-06-171A | 02
06 | TX | MESQUITE, CITY OF | 48113C0535J | 21-DEC-2001 | 02-06-518A | 02
06 | TX | MIDLAND COUNTY | 48329C0175E | 11-JUL-2001 | 01-06-1427A | 02
06 | TX | MIDLAND COUNTY | 48329C0068E | 14-SEP-2001 | 01-06-1867A | 02
06 | TX | MIDLAND, CITY OF | 48329C0088E | 18-JUL-2001 | 01-06-1123A | 02
06 | TX | MIDLAND, CITY OF | 48329C0067E | 20-JUL-2001 | 01-06-1334A | 02
06 | TX | MIDLAND, CITY OF | 48329C0087E | 18-JUL-2001 | 01-06-1515A | 02
06 | TX | MIDLAND, CITY OF | 48329C0068E | 29-AUG-2001 | 01-06-1587A | 01
06 | TX | MIDLAND, CITY OF | 48329C0088E | 01-AUG-2001 | 01-06-1588A | 02
06 | TX | MIDLAND, CITY OF | 48329C0088E | 08-AUG-2001 | 01-06-1649A | 02
06 | TX | MIDLAND, CITY OF | 48329C0088E | 15-AUG-2001 | 01-06-1687A | 02
06 | TX | MIDLAND, CITY OF | 48329C0067E | 12-SEP-2001 | 01-06-1699A | 02
06 | TX | MIDLAND, CITY OF | 48329C0087E | 05-SEP-2001 | 01-06-1722A | 02
06 | TX | MIDLAND, CITY OF | 48329C0067E | 24-AUG-2001 | 01-06-1740A | 02
06 | TX | MIDLAND, CITY OF | 48329C0087E | 07-SEP-2001 | 01-06-1829A | 02
06 | TX | MIDLAND, CITY OF | 48329C0087E | 12-SEP-2001 | 01-06-1889A | 02
06 | TX | MIDLAND, CITY OF | 48329C0069E | 24-OCT-2001 | 02-06-043A | 02
06 | TX | MIDLAND, CITY OF | 48329C0069E | 16-NOV-2001 | 02-06-104A | 02
06 | TX | MIDLAND, CITY OF | 48329C0088E | 19-DEC-2001 | 02-06-372A | 02
06 | TX | MONTGOMERY COUNTY | 48339C0215F | 22-AUG-2001 | 01-06-1135A | 01
06 | TX | MONTGOMERY COUNTY | 48339C0635F | 17-AUG-2001 | 01-06-1426A | 02
06 | TX | MONTGOMERY COUNTY | 48339C0215F | 06-JUL-2001 | 01-06-1438A | 02
06 | TX | MONTGOMERY COUNTY | 48339C0215F | 15-AUG-2001 | 01-06-1665A | 02
06 | TX | MONTGOMERY COUNTY | 48339C0535F | 07-SEP-2001 | 01-06-1736A | 02
06 | TX | MONTGOMERY COUNTY | 48339C0485F | 21-SEP-2001 | 01-06-1855A | 01
06 | TX | MONTGOMERY COUNTY | 48339C0385F | 14-NOV-2001 | 01-06-2021A | 17
06 | TX | MONTGOMERY COUNTY | 48339C0195F | 14-NOV-2001 | 02-06-105A | 02
06 | TX | MONTGOMERY COUNTY | 48339C0360F | 21-DEC-2001 | 02-06-205A | 02
06 | TX | MOUNT PLEASANT, CITY OF | 4806210005C | 24-AUG-2001 | 01-06-1663A | 02
06 | TX | NORTH RICHLAND HILLS, CITY OF | 48439C0189H | 20-SEP-2001 | 01-06-1465P | 06
06 | TX | NORTH RICHLAND HILLS, CITY OF | 48439C0190H | 20-SEP-2001 | 01-06-1465P | 06
06 | TX | NORTH RICHLAND HILLS, CITY OF | 48439C0302J | 19-DEC-2001 | 01-06-579P | 05
06 | TX | NORTH RICHLAND HILLS, CITY OF | 48439C0302J | 03-AUG-2001 | 01-06-902A | 02
06 | TX | OAK RIDGE NORTH, CITY OF | 48339C0539G | 05-OCT-2001 | 01-06-2009A | 02
06 | TX | ODESSA, CITY OF | 48135C0170D | 20-JUL-2001 | 01-06-1529A | 02
06 | TX | ODESSA, CITY OF | 48135C0140D | 07-SEP-2001 | 01-06-1770A | 02
06 | TX | ODESSA, CITY OF | 48135C0140D | 26-OCT-2001 | 01-06-1774A | 02
06 | TX | ODESSA, CITY OF | 48135C0135D | 05-SEP-2001 | 01-06-1803A | 02
06 | TX | ODESSA, CITY OF | 48135C0135D | 19-OCT-2001 | 02-06-024A | 02
06 | TX | ORANGE COUNTY | 4805100025B | 02-NOV-2001 | 01-06-1541A | 02
06 | TX | PANORAMA VILLAGE, CITY OF | 48339C0238F | 29-AUG-2001 | 01-06-1701A | 02
06 | TX | PASADENA, CITY OF | 48201C0920J | 12-OCT-2001 | 01-06-1186A | 02
06 | TX | PEARLAND, CITY OF | 48039C0045J | 15-AUG-2001 | 01-06-1621A | 01
06 | TX | PEARLAND, CITY OF | 48039C0045J | 24-AUG-2001 | 01-06-1622A | 02
06 | TX | PLANO, CITY OF | 48085C0440G | 27-JUL-2001 | 01-06-1564A | 02
06 | TX | PLANO, CITY OF | 48085C0410G | 17-OCT-2001 | 01-06-1043P | 05
06 | TX | PLANO, CITY OF | 48085C0420G | 07-NOV-2001 | 01-06-2015A | 02
06 | TX | PLANO, CITY OF | 48085C0445G | 31-OCT-2001 | 02-06-054A | 17
06 | TX | PLANO, CITY OF | 48085C0420G | 24-OCT-2001 | 02-06-065A | 02
06 | TX | PRINCETON, CITY OF | 48085C0325G | 19-DEC-2001 | 02-06-074A | 01
06 | TX | RICHARDSON, CITY OF | 48113C0185J | 10-OCT-2001 | 01-06-2024A | 02
06 | TX | ROCKWALL, CITY OF | 4805470005C | 15-AUG-2001 | 01-06-1342A | 02
06 | TX | ROWLETT, CITY OF | 48113C0240J | 16-OCT-2001 | 02-06-057A | 01
06 | TX | SACHSE, CITY OF | 48085C0585G | 12-OCT-2001 | 01-06-309P | 05
06 | TX | SACHSE, CITY OF | 48113C0235J | 12-OCT-2001 | 01-06-309P | 05
06 | TX | SAN ANTONIO, CITY OF | 48029C0241F | 11-JUL-2001 | 00-06-1730P | 06
06 | TX | SAN ANTONIO, CITY OF | 48029C0461E | 01-AUG-2001 | 01-06-1386A | 02
06 | TX | SAN ANTONIO, CITY OF | 48029C0244E | 01-AUG-2001 | 01-06-1468A | 02
06 | TX | SAN ANTONIO, CITY OF | 48029C0286E | 27-JUL-2001 | 01-06-1553A | 02
06 | TX | SAN ANTONIO, CITY OF | 48029C0477E | 12-SEP-2001 | 01-06-1562A | 02
06 | TX | SAN ANTONIO, CITY OF | 48029C0407E | 22-AUG-2001 | 01-06-1709A | 02
06 | TX | SAN ANTONIO, CITY OF | 48029C0316E | 22-AUG-2001 | 01-06-1726A | 17
06 | TX | SEABROOK, CITY OF | 48201C1085J | 21-DEC-2001 | 02-06-403A | 02
06 | TX | SEAGOVILLE, CITY OF | 48113C0545J | 14-DEC-2001 | 02-06-333A | 02
06 | TX | SMITH COUNTY | 4811850250B | 20-JUL-2001 | 01-06-1424A | 02
06 | TX | SMITH COUNTY | 4811850375B | 26-NOV-2001 | 02-06-278A | 02
06 | TX | SOUTH LAKE, CITY OF | 48439C0195H | 09-NOV-2001 | 00-06-1775P | 06
06 | TX | TARRANT COUNTY | 48439C0535H | 11-JUL-2001 | 01-06-1483A | 02
06 | TX | TARRANT COUNTY | 48439C0382J | 22-AUG-2001 | 01-06-1582A | 02
06 | TX | TARRANT COUNTY | 48439C0245H | 14-SEP-2001 | 01-06-1753A | 02
06 | TX | TARRANT COUNTY | 48439C0395J | 24-OCT-2001 | 02-06-014A | 02
06 | TX | TARRANT COUNTY | 48439C0140H | 07-NOV-2001 | 02-06-092A | 02
06 | TX | TARRANT COUNTY | 48439C0170H | 28-NOV-2001 | 02-06-148A | 02
06 | TX | TAYLOR COUNTY | 4810140012B | 20-JUL-2001 | 01-06-1614A | 02
06 | TX | TRAVIS COUNTY | 48453C0245E | 12-JUL-2001 | 01-06-1133P | 06
06 | TX | TRAVIS COUNTY | 48453C0260F | 13-JUL-2001 | 01-06-1256A | 02
06 | TX | TRAVIS COUNTY | 48453C0260F | 09-NOV-2001 | 01-06-1366A | 02
06 | TX | TRAVIS COUNTY | 48453C0215G | 24-AUG-2001 | 01-06-1519A | 02
06 | TX | TRAVIS COUNTY | 48453C0110E | 27-JUL-2001 | 01-06-1546A | 02
06 | TX | TRAVIS COUNTY | 48453C0075E | 29-AUG-2001 | 01-06-1739A | 02
06 | TX | TRAVIS COUNTY | 48453C0260F | 28-DEC-2001 | 01-06-1744A | 01
06 | TX | TRAVIS COUNTY | 48453C0260F | 12-OCT-2001 | 01-06-1854A | 02
06 | TX | TRAVIS COUNTY | 48453C0065E | 05-DEC-2001 | 01-06-1940A | 02
06 | TX | TYLER, CITY OF | 4805710015B | 14-SEP-2001 | 01-06-1843A | 02
06 | TX | VICTORIA COUNTY | 4806370050B | 18-JUL-2001 | 01-06-1315A | 02
06 | TX | WEST KEEGANS BAYOU IMPROVEMENT DISTRICT | 48157C0120J | 13-JUL-2001 | 01-06-1347A | 01
06 | TX | WHARTON, CITY OF | 4806540005C | 31-OCT-2001 | 01-06-1981A | 02
06 | TX | WHITE SETTLEMENT, CITY OF | 48439C0380H | 17-OCT-2001 | 01-06-1906A | 01
06 | TX | WOLFFORTH, CITY OF | 4809150007A | 05-SEP-2001 | 01-06-1799P | 05
06 | TX | WOOD COUNTY | 4810550009A | 28-DEC-2001 | 02-06-063A | 02
06 | TX | WYLIE, CITY OF | 48085C0470G | 16-NOV-2001 | 01-06-233P | 06
06 | TX | WYLIE, CITY OF | 48085C0585G | 12-OCT-2001 | 01-06-309P | 06
06 | TX | WYLIE, CITY OF | 48113C0235J | 12-OCT-2001 | 01-06-309P | 06
06 | TX | YOUNG COUNTY | 48503C0250D | 12-SEP-2001 | 01-06-1781A | 02
07 | IA | ANKENY, CITY OF | 1909010039B | 14-NOV-2001 | 02-07-028A | 17
07 | IA | BETTENDORF, CITY OF | 1902400004D | 29-AUG-2001 | 01-07-690A | 02
07 | IA | BETTENDORF, CITY OF | 1902400004D | 12-OCT-2001 | 02-07-003A | 02
07 | IA | BLACK HAWK COUNTY | 1905350050B | 12-SEP-2001 | 01-07-654A | 02
07 | IA | BLACK HAWK COUNTY | 1905350095B | 24-AUG-2001 | 01-07-713A | 17
07 | IA | BLACK HAWK COUNTY | 1905350050B | 26-NOV-2001 | 02-07-067A | 02
07 | IA | BLACK HAWK COUNTY | 1905350095B | 26-NOV-2001 | 02-07-090A | 02
07 | IA | BREMER COUNTY | 19017C0065C | 10-OCT-2001 | 01-07-709A | 02
07 | IA | BUTLER COUNTY | 1908500125B | 10-OCT-2001 | 01-07-824A | 02
07 | IA | BUTLER COUNTY | 1908500100B | 07-NOV-2001 | 01-07-861A | 02
07 | IA | CEDAR RAPIDS, CITY OF | 1901870010B | 02-NOV-2001 | 01-07-730A | 02
07 | IA | CEDAR RAPIDS, CITY OF | 1901870015C | 19-SEP-2001 | 01-07-795A | 17
07 | IA | CEDAR RAPIDS, CITY OF | 1901870015C | 12-OCT-2001 | 01-07-867X | 17
07 | IA | CLEAR LAKE, CITY OF | 1900590001B | 11-JUL-2001 | 01-07-587A | 02
07 | IA | CLEAR LAKE, CITY OF | 1900590001B | 25-JUL-2001 | 01-07-645A | 02
07 | IA | CLEAR LAKE, CITY OF | 1900590003B | 14-SEP-2001 | 01-07-808A | 02
07 | IA | CLEAR LAKE, CITY OF | 1900590003B | 07-DEC-2001 | 02-07-153X | 02
07 | IA | CLINTON COUNTY | 1900880010B | 01-AUG-2001 | 01-07-478A | 02
07 | IA | CLINTON, CITY OF | 1900880015C | 10-AUG-2001 | 01-07-710A | 02
07 | IA | CLIVE, CITY OF | 1904880005C | 05-JUL-2001 | 01-07-558A | 02
07 | IA | CLIVE, CITY OF | 1904880005C | 13-JUL-2001 | 01-07-597A | 02
07 | IA | CLIVE, CITY OF | 1904880005C | 26-NOV-2001 | 02-07-119A | 02
07 | IA | DAVENPORT, CITY OF | 1902420005B | 27-JUL-2001 | 01-07-258A | 01
07 | IA | DAVENPORT, CITY OF | 1902420004C | 07-NOV-2001 | 02-07-041A | 02
07 | IA | DAVENPORT, CITY OF | 1902420006B | 28-DEC-2001 | 02-07-147A | 02
07 | IA | DES MOINES COUNTY | 1901130088B | 07-NOV-2001 | 02-07-050A | 17
07 | IA | DES MOINES, CITY OF | 1902270004D | 01-AUG-2001 | 01-07-631A | 02
07 | IA | DES MOINES, CITY OF | 1902270004D | 14-SEP-2001 | 01-07-742A | 02
07 | IA | DES MOINES, CITY OF | 1902270009E | 07-DEC-2001 | 02-07-096A | 02
07 | IA | DICKINSON COUNTY | 1908640050C | 29-AUG-2001 | 01-07-697A | 02
07 | IA | DICKINSON COUNTY | 1908640050C | 19-DEC-2001 | 02-07-094A | 02
07 | IA | FAIRBANK, CITY OF | 190329A | 14-DEC-2001 | 02-07-148A | 02
07 | IA | FLOYD COUNTY | 19012725B | 30-NOV-2001 | 02-07-093A | 02
07 | IA | GUTHRIE COUNTY | 1908710004B | 16-NOV-2001 | 02-07-043A | 02
07 | IA | INDEPENDENCE, CITY OF | 1900310001C | 08-AUG-2001 | 01-07-678A | 02
07 | IA | INDEPENDENCE, CITY OF | 1900310001C | 14-SEP-2001 | 01-07-761A | 02
07 | IA | JOHNSON COUNTY | 1908820040B | 07-NOV-2001 | 02-07-061A | 02
07 | IA | JOHNSTON, CITY OF | 1907450005D | 08-AUG-2001 | 01-07-660A | 02
07 | IA | JOHNSTON, CITY OF | 1907450004D | 02-NOV-2001 | 01-07-794A | 01
07 | IA | KINGSLEY, CITY OF | 19047701A | 19-DEC-2001 | 01-07-851A | 02
07 | IA | LE CLAIRE, CITY OF | 1902430001B | 03-AUG-2001 | 01-07-643A | 02
07 | IA | LEE COUNTY | 1901820175B | 03-OCT-2001 | 01-07-839A | 02
07 | IA | MANCHESTER, CITY OF | 1901120001B | 21-DEC-2001 | 02-07-190A | 02
07 | IA | MARION COUNTY | 19088914A | 25-JUL-2001 | 01-07-524A | 02
07 | IA | MISSOURI VALLEY, CITY OF | 1901470001B | 14-SEP-2001 | 01-07-641A | 01
07 | IA | MUSCATINE COUNTY | 1908360020B | 11-JUL-2001 | 01-07-482A | 02
07 | IA | NASHUA, CITY OF | 1900680001B | 13-JUL-2001 | 01-07-523A | 02
07 | IA | NEW HARTFORD, CITY OF | 1900380001B | 29-AUG-2001 | 01-07-751A | 02
07 | IA | NORA SPRINGS, CITY OF | 19038401A | 22-AUG-2001 | 01-07-642A | 02
07 | IA | RED OAK, CITY OF | 1902100002C | 12-DEC-2001 | 02-07-159A | 02
07 | IA | RED OAK, CITY OF | 1902100002C | 12-DEC-2001 | 02-07-162A | 02
07 | IA | SCHALLER, CITY OF | 190652 | 05-DEC-2001 | 01-07-865P | 06
07 | IA | SPENCER, CITY OF | 1900710005B | 13-JUL-2001 | 01-07-593A | 02
07 | IA | SPENCER, CITY OF | 1900710005B | 08-AUG-2001 | 01-07-693A | 02
07 | IA | SPENCER, CITY OF | 1900710005B | 17-OCT-2001 | 01-07-708A | 02
07 | IA | SPENCER, CITY OF | 1900710005B | 12-SEP-2001 | 01-07-788A | 02
07 | IA | SPENCER, CITY OF | 1900710005B | 28-SEP-2001 | 01-07-842A | 02
07 | IA | SPENCER, CITY OF | 1900710005B | 12-OCT-2001 | 01-07-854A | 02
07 | IA | SPENCER, CITY OF | 1900710005B | 17-OCT-2001 | 02-07-008A | 02
07 | IA | SPENCER, CITY OF | 1900710005B | 05-DEC-2001 | 02-07-160A | 02
07 | IA | URBANDALE, CITY OF | 1902300010D | 01-AUG-2001 | 01-07-265A | 02
07 | IA | URBANDALE, CITY OF | 1902300010D | 10-AUG-2001 | 01-07-714A | 01
07 | IA | URBANDALE, CITY OF | 1902300010D | 02-NOV-2001 | 02-07-068A | 02
07 | IA | WALCOTT, CITY OF | 1906750005B | 09-NOV-2001 | 01-07-740A | 02
07 | IA | WATERLOO, CITY OF | 1900250015E | 15-AUG-2001 | 01-07-436A | 02
07 | IA | WATERLOO, CITY OF | 1900250015E | 18-OCT-2001 | 01-07-835A | 02
07 | IA | WATERLOO, CITY OF | 1900250015E | 30-NOV-2001 | 02-07-082A | 02
07 | IA | WAVERLY, CITY OF | 19017C0054C | 10-OCT-2001 | 01-07-750A | 02
07 | IA | WAVERLY, CITY OF | 19017C0054C | 14-SEP-2001 | 01-07-805A | 02
07 | IA | WOODBURY COUNTY | 19053650B | 09-NOV-2001 | 02-07-007A | 02
07 | KS | ABILENE, CITY OF | 20041C0070C | 25-JUL-2001 | 01-07-567A | 02
07 | KS | ALLEN COUNTY | 20001C0156D | 14-NOV-2001 | 02-07-017A | 02
07 | KS | ANDOVER, CITY OF | 2003830005C | 20-JUL-2001 | 98-07-542V | 19
07 | KS | BUTLER COUNTY | 2000370230C | 14-NOV-2001 | 02-07-080A | 02
07 | KS | COLBY, CITY OF | 2003500005A | 01-AUG-2001 | 01-07-599A | 02
07 | KS | COWLEY COUNTY | 2005630100B | 31-AUG-2001 | 01-07-685A | 02
07 | KS | DICKINSON COUNTY | 20041C0070C | 07-SEP-2001 | 01-07-764A | 02
07 | KS | ELLINWOOD, CITY OF | 2000180001C | 18-JUL-2001 | 01-07-563A | 02
07 | KS | ELLINWOOD, CITY OF | 2000180001C | 13-JUL-2001 | 01-07-612A | 02
07 | KS | ELLIS COUNTY | 2000940190B | 05-DEC-2001 | 02-07-151A | 02
07 | KS | HARVEY COUNTY | 2005850050B | 03-OCT-2001 | 01-07-765A | 01
07 | KS | HARVEY COUNTY | 2005850125D | 05-DEC-2001 | 01-07-781A | 02
07 | KS | HAYSVILLE, CITY OF | 2003240001C | 18-JUL-2001 | 01-07-632A | 02
07 | KS | HAYSVILLE, CITY OF | 2003240001C | 07-SEP-2001 | 01-07-780A | 02
07 | KS | HOLCOMB, CITY OF | 2008680001B | 19-OCT-2001 | 02-07-026A | 02
07 | KS | HUTCHINSON, CITY OF | 20155C0285D | 01-AUG-2001 | 01-07-656A | 17
07 | KS | INDEPENDENCE, CITY OF | 2002330001C | 13-JUL-2001 | 01-07-592A | 02
07 | KS | JACKSON COUNTY | 2006190095C | 10-AUG-2001 | 01-07-650A | 02
07 | KS | JOHNSON COUNTY | 20091C0075D | 10-SEP-2001 | 01-07-423A | 02
07 | KS | KINGMAN COUNTY | 2005890006B | 25-JUL-2001 | 01-07-644A | 02
07 | KS | LAWRENCE, CITY OF | 2000900005A | 20-JUL-2001 | 01-07-615A | 02
07 | KS | LENEXA, CITY OF | 20091C0077D | 05-JUL-2001 | 01-07-553A | 02
07 | KS | MANHATTAN, CITY OF | 2003000006D | 12-OCT-2001 | 01-07-630A | 01
07 | KS | MCPHERSON, CITY OF | 2002170015D | 13-JUL-2001 | 01-07-608A | 02
07 | KS | MCPHERSON, CITY OF | 2002170005D | 31-AUG-2001 | 01-07-729A | 02
07 | KS | MCPHERSON, CITY OF | 2002170015D | 19-DEC-2001 | 02-07-166A | 02
07 | KS | MIAMI COUNTY | 20022035A | 27-JUL-2001 | 01-07-485A | 02
07 | KS | MIAMI COUNTY | 20022031A | 21-DEC-2001 | 02-07-194A | 02
07 | KS | MULVANE, CITY OF | 2003260005D | 26-SEP-2001 | 01-07-263P | 06
07 | KS | NEWTON, CITY OF | 2001330005C | 18-JUL-2001 | 01-07-505A | 02
07 | KS | NICKERSON, CITY OF | 20155C0090D | 20-JUL-2001 | 01-07-618A | 02
07 | KS | NICKERSON, CITY OF | 20155C0090D | 20-JUL-2001 | 01-07-640A | 02
07 | KS | OLATHE, CITY OF | 20091C0090D | 03-AUG-2001 | 00-07-748A | 02
07 | KS | OVERLAND PARK, CITY OF | 20091C0081E | 19-SEP-2001 | 01-07-797A | 17
07 | KS | OVERLAND PARK, CITY OF | 20091C0079E | 03-OCT-2001 | 01-07-810A | 02
07 | KS | PAOLA, CITY OF | 2002240001B | 19-DEC-2001 | 02-07-155A | 02
07 | KS | RENO COUNTY | 20155C0315D | 12-SEP-2001 | 01-07-728A | 02
07 | KS | RENO COUNTY | 20155C0280D | 07-SEP-2001 | 01-07-752A | 02
07 | KS | RENO COUNTY | 20155C0500D | 19-SEP-2001 | 01-07-778A | 02
07 | KS | RENO COUNTY | 20155C0280D | 30-NOV-2001 | 02-07-125A | 02
07 | KS | RENO COUNTY | 20155C0315D | 12-DEC-2001 | 02-07-152A | 02
07 | KS | RENO COUNTY | 20155C0310D | 21-DEC-2001 | 02-07-197A | 17
07 | KS | SALINA, CITY OF | 2003190005B | 11-JUL-2001 | 01-07-596A | 02
07 | KS | SALINA, CITY OF | 2003190015B | 13-JUL-2001 | 01-07-611A | 02
07 | KS | SALINA, CITY OF | 2003190015B | 13-JUL-2001 | 01-07-616A | 02
07 | KS | SALINA, CITY OF | 2003190015B | 27-JUL-2001 | 01-07-629A | 02
07 | KS | SALINA, CITY OF | 2003190015B | 15-AUG-2001 | 01-07-659A | 02
07 | KS | SALINA, CITY OF | 2003190005B | 07-SEP-2001 | 01-07-661A | 01
07 | KS | SALINA, CITY OF | 2003190015B | 17-AUG-2001 | 01-07-723A | 02
07 | KS | SALINA, CITY OF | 2003190015B | 31-AUG-2001 | 01-07-725A | 02
07 | KS | SALINA, CITY OF | 2003190015B | 12-SEP-2001 | 01-07-784A | 02
07 | KS | SALINA, CITY OF | 2003190015B | 12-SEP-2001 | 01-07-802A | 02
07 | KS | SALINA, CITY OF | 2003190015B | 21-SEP-2001 | 01-07-816A | 02
07 | KS | SALINA, CITY OF | 2003190015B | 19-SEP-2001 | 01-07-817A | 02
07 | KS | SALINA, CITY OF | 2003190005B | 19-SEP-2001 | 01-07-819X | 01
07 | KS | SALINA, CITY OF | 2003190005B | 28-SEP-2001 | 01-07-820A | 02
07 | KS | SALINA, CITY OF | 2003160060B | 28-SEP-2001 | 01-07-825A | 02
07 | KS | SALINA, CITY OF | 2003190015B | 05-OCT-2001 | 01-07-858A | 02
07 | KS | SALINA, CITY OF | 2003160060B | 31-OCT-2001 | 02-07-037A | 02
07 | KS | SALINA, CITY OF | 2003190015B | 12-DEC-2001 | 02-07-045A | 02
07 | KS | SALINA, CITY OF | 2003190015B | 28-NOV-2001 | 02-07-124A | 02
07 | KS | SALINA, CITY OF | 2003190015B | 07-DEC-2001 | 02-07-126A | 02
07 | KS | SALINE COUNTY | 2003160100B | 05-JUL-2001 | 01-07-257A | 02
07 | KS | SALINE COUNTY | 2003160090B | 07-NOV-2001 | 01-07-610A | 01
07 | KS | SALINE COUNTY | 2003160060B | 08-AUG-2001 | 01-07-700A | 02
07 | KS | SALINE COUNTY | 2003160100B | 17-AUG-2001 | 01-07-712A | 02
07 | KS | SALINE COUNTY | 2003160100B | 10-OCT-2001 | 01-07-862A | 02
07 | KS | SALINE COUNTY | 2003160100B | 10-OCT-2001 | 01-07-868A | 02
07 | KS | SALINE COUNTY | 2003160065B | 12-DEC-2001 | 02-07-177A | 02
07 | KS | SEDGWICK COUNTY | 2003210050A | 18-JUL-2001 | 01-07-264A | 01
07 | KS | SEDGWICK COUNTY | 2003210050A | 25-JUL-2001 | 01-07-676A | 01
07 | KS | SEDGWICK COUNTY | 2003210125A | 26-OCT-2001 | 01-07-703A | 01
07 | KS | SEDGWICK COUNTY | 2003210075A | 24-AUG-2001 | 01-07-747A | 02
07 | KS | SEDGWICK COUNTY | 2003210075A | 26-NOV-2001 | 02-07-078A | 02
07 | KS | SEDGWICK COUNTY | 2003210125A | 07-NOV-2001 | 02-07-097A | 02
07 | KS | SEDGWICK COUNTY | 2003210300A | 14-NOV-2001 | 02-07-103A | 02
07 | KS | SEDGWICK COUNTY | 2003210225A | 14-DEC-2001 | 02-07-128A | 02
07 | KS | SEDGWICK COUNTY | 2003210225A | 14-DEC-2001 | 02-07-129A | 02
07 | KS | SHAWNEE, CITY OF | 20091C0040D | 22-AUG-2001 | 01-07-215A | 01
07 | KS | TOPEKA, CITY OF | 2003310095C | 22-AUG-2001 | 01-07-562A | 02
07 | KS | TOPEKA, CITY OF | 2051870014C | 03-OCT-2001 | 01-07-803A | 02
07 | KS | WICHITA, CITY OF | 2003210150A | 31-AUG-2001 | 00-07-493P | 05
07 | KS | WICHITA, CITY OF | 2003280015B | 05-JUL-2001 | 01-07-534A | 01
07 | KS | WICHITA, CITY OF | 2003280025B | 05-JUL-2001 | 01-07-549A | 02
07 | KS | WICHITA, CITY OF | 2003280035B | 19-OCT-2001 | 01-07-560A | 01
07 | KS | WICHITA, CITY OF | 2003280020B | 13-JUL-2001 | 01-07-603A | 17
07 | KS | WICHITA, CITY OF | 2003280015B | 13-JUL-2001 | 01-07-604A | 02
07 | KS | WICHITA, CITY OF | 2003280005B | 31-AUG-2001 | 01-07-639A | 01
07 | KS | WICHITA, CITY OF | 2003280030B | 25-JUL-2001 | 01-07-653A | 17
07 | KS | WICHITA, CITY OF | 2003280035B | 08-AUG-2001 | 01-07-667A | 02
07 | KS | WICHITA, CITY OF | 2003280035B | 07-SEP-2001 | 01-07-777A | 02
07 | KS | WICHITA, CITY OF | 2003280020B | 19-SEP-2001 | 01-07-798A | 02
07 | KS | WICHITA, CITY OF | 2003280025B | 17-OCT-2001 | 01-07-859A | 02
07 | KS | WICHITA, CITY OF | 2003280035B | 17-OCT-2001 | 01-07-859A | 02
07 | KS | WICHITA, CITY OF | 2003280015B | 10-OCT-2001 | 01-07-864A | 02
07 | KS | WICHITA, CITY OF | 2003280020B | 26-NOV-2001 | 02-07-114A | 02
07 | KS | WICHITA, CITY OF | 2003280010B | 30-NOV-2001 | 02-07-132A | 02
07 | KS | WICHITA, CITY OF | 2003280020B | 30-NOV-2001 | 02-07-133A | 02
07 | KS | WICHITA, CITY OF | 2003280030B | 12-DEC-2001 | 02-07-178A | 02
07 | KS | WICHITA, CITY OF | 2003280035B | 19-DEC-2001 | 02-07-198A | 02
07 | KS | WICHITA, CITY OF | 2003280035B | 28-DEC-2001 | 02-07-208A | 02
07 | KS | WICHITA, CITY OF | 2003280035B | 28-DEC-2001 | 02-07-208A | 02
07 | MO | BOONE COUNTY | 2900340050B | 05-SEP-2001 | 01-07-739A | 02
07 | MO | BRENTWOOD, CITY OF | 29189C0302H | 25-JUL-2001 | 01-07-561A | 02
07 | MO | CAMDEN COUNTY | 2907890002B | 31-OCT-2001 | 01-07-783A | 02
07 | MO | CAPE GIRARDEAU, CITY OF | 2904580008B | 22-AUG-2001 | 01-07-545A | 01
07 | MO | CAPE GIRARDEAU, CITY OF | 2904580008B | 12-SEP-2001 | 01-07-779A | 01
07 | MO | CARUTHERSVILLE, CITY OF | 2902750001B | 18-OCT-2001 | 01-07-845A | 02
07 | MO | CASS COUNTY | 2907830050C | 08-AUG-2001 | 01-07-623A | 02
07 | MO | CASS COUNTY | 2907830125B | 10-AUG-2001 | 01-07-658A | 02
07 | MO | CASS COUNTY | 2907830050C | 19-SEP-2001 | 01-07-759A | 02
07 | MO | CASS COUNTY | 2907830075B | 07-NOV-2001 | 02-07-015A | 02
07 | MO | CASS COUNTY | 2907830025C | 12-DEC-2001 | 02-07-171A | 17
07 | MO | CHESTERFIELD, CITY OF | 29189C0145H | 26-NOV-2001 | 01-07-782A | 01
07 | MO | CHRISTIAN COUNTY | 2908470002A | 28-DEC-2001 | 02-07-136A | 02
07 | MO | CLAY COUNTY | 2900860050B | 01-AUG-2001 | 01-07-540A | 02
07 | MO | CLAY COUNTY | 2900860025A | 28-DEC-2001 | 01-07-649A | 02
07 | MO | CLAYTON, CITY OF | 29189C0188H | 22-AUG-2001 | 01-07-732A | 02
07 | MO | CLAYTON, CITY OF | 2903410188H | 09-NOV-2001 | 02-07-098A | 02
07 | MO | CLAYTON, CITY OF | 29189C0188H | 19-DEC-2001 | 02-07-187A | 02
07 | MO | COLE COUNTY | 2901070175B | 25-JUL-2001 | 01-07-521A | 02
07 | MO | COLE COUNTY | 2901070175B | 24-AUG-2001 | 01-07-556A | 02
07 | MO | COLE COUNTY | 2901070060B | 28-SEP-2001 | 01-07-811A | 02
07 | MO | COLE COUNTY | 2901070060B | 10-OCT-2001 | 01-07-860A | 02
07 | MO | COLE COUNTY | 2901070060B | 17-OCT-2001 | 02-07-016A | 02
07 | MO | COLE COUNTY | 2901070060B | 16-NOV-2001 | 02-07-089A | 02
07 | MO | COLUMBIA, CITY OF | 2900340109B | 26-NOV-2001 | 02-07-014A | 01
07 | MO | COLUMBIA, CITY OF | 2900340117B | 26-NOV-2001 | 02-07-014A | 01
07 | MO | COTTLEVILLE, CITY OF | 29183C0243E | 01-OCT-2001 | 01-07-852P | 06
07 | MO | COTTLEVILLE, CITY OF | 29183C0244E | 01-OCT-2001 | 01-07-852P | 06
07 | MO | COTTLEVILLE, CITY OF | 29183C0243E | 19-OCT-2001 | 02-07-009A | 02
07 | MO | CRESTWOOD, CITY OF | 29189C0292H | 07-NOV-2001 | 02-07-071A | 02
07 | MO | CREVE COEUR, CITY OF | 29189C0161H | 05-DEC-2001 | 02-07-131A | 01
07 | MO | DES PERES, CITY OF | 29189C0281J | 17-AUG-2001 | 01-07-628A | 02
07 | MO | DES PERES, CITY OF | 29189C0279J | 03-OCT-2001 | 01-07-844A | 01
07 | MO | DUNKLIN COUNTY | 2901220095B | 08-AUG-2001 | 01-07-622A | 02
07 | MO | ELSBERRY, CITY OF | 2902090001C | 10-AUG-2001 | 01-07-576A | 01
07 | MO | ELSBERRY, CITY OF | 2902090001C | 07-SEP-2001 | 01-07-766A | 01
07 | MO | FENTON, CITY OF | 29189C0289H | 01-AUG-2001 | 01-07-456A | 02
07 | MO | FENTON, CITY OF | 29189C0288H | 17-AUG-2001 | 01-07-716A | 02
07 | MO | FLORISSANT, CITY OF | 2903520058H | 10-OCT-2001 | 01-07-662A | 02
07 | MO | FLORISSANT, CITY OF | 29189C0062J | 09-NOV-2001 | 01-07-789A | 02
07 | MO | FRANKLIN COUNTY | 2904930250B | 25-JUL-2001 | 01-07-509A | 02
07 | MO | FRONTENAC, CITY OF | 29189C0281J | 15-AUG-2001 | 01-07-671A | 02
07 | MO | GREEN PARK, CITY OF | 29189C0315H | 11-JUL-2001 | 01-07-575A | 01
07 | MO | GREENE COUNTY | 2907820095C | 20-JUL-2001 | 01-07-429A | 01
07 | MO | GREENE COUNTY | 2907820045B | 15-AUG-2001 | 01-07-503A | 02
07 | MO | HOLT COUNTY | 2901570020B | 14-NOV-2001 | 01-07-554A | 01
07 | MO | INDEPENDENCE,CITY OF | 2901720020E | 13-JUL-2001 | 01-07-535A | 02
07 | MO | INDEPENDENCE,CITY OF | 2901720020E | 22-AUG-2001 | 01-07-548A | 02
07 | MO | INDEPENDENCE,CITY OF | 2901720040E | 26-NOV-2001 | 02-07-116A | 02
07 | MO | INDEPENDENCE,CITY OF | 2901720020E | 21-DEC-2001 | 02-07-205A | 02
07 | MO | JEFFERSON COUNTY | 2908080110B | 22-AUG-2001 | 01-07-435A | 01
07 | MO | JEFFERSON COUNTY | 2908080155B | 03-AUG-2001 | 01-07-490A | 02
07 | MO | JEFFERSON COUNTY | 2908080020B | 16-NOV-2001 | 01-07-533A | 02
07 | MO | JEFFERSON COUNTY | 2908080080C | 11-JUL-2001 | 01-07-547A | 02
07 | MO | JEFFERSON COUNTY | 2908080090D | 27-JUL-2001 | 01-07-578A | 02
07 | MO | JEFFERSON COUNTY | 2908080090D | 01-AUG-2001 | 01-07-617A | 02
07 | MO | JEFFERSON COUNTY | 2908080080C | 26-OCT-2001 | 02-07-040A | 02
07 | MO | JEFFERSON COUNTY | 2908080085C | 26-OCT-2001 | 02-07-044A | 02
07 | MO | JEFFERSON COUNTY | 2908080020B | 12-DEC-2001 | 02-07-168A | 02
07 | MO | JEFFERSON COUNTY | 2908080080C | 12-DEC-2001 | 02-07-179A | 02
07 | MO | JEFFERSON COUNTY | 2908080080C | 12-DEC-2001 | 02-07-184A | 02
07 | MO | JEFFERSON COUNTY | 2908080080C | 12-DEC-2001 | 02-07-185A | 02
07 | MO | JEFFERSON COUNTY | 2908080080C | 14-DEC-2001 | 02-07-186A | 02
07 | MO | JEFFERSON COUNTY | 2908080080C | 21-DEC-2001 | 02-07-191A | 02
07 | MO | JEFFERSON COUNTY | 2908080080C | 19-DEC-2001 | 02-07-192A | 02
07 | MO | JEFFERSON COUNTY | 2908080080C | 21-DEC-2001 | 02-07-201A | 02
07 | MO | JOPLIN, CITY OF | 2901830015C | 15-AUG-2001 | 01-07-518A | 01
07 | MO | KANSAS CITY, CITY OF | 2901730055B | 08-AUG-2001 | 01-07-550A | 02
07 | MO | LAFAYETTE COUNTY | 2908120175B | 19-SEP-2001 | 01-07-508A | 02
07 | MO | LAKE LOTAWANA, CITY OF | 2906970001A | 20-JUL-2001 | 01-07-638A | 02
07 | MO | LAKE LOTAWANA, CITY OF | 2906970001A | 27-JUL-2001 | 01-07-668A | 02
07 | MO | LAMAR, CITY OF | 2900250001C | 14-NOV-2001 | 02-07-086A | 02
07 | MO | LINCOLN COUNTY | 2908690180C | 22-AUG-2001 | 01-07-689A | 02
07 | MO | MARION COUNTY | 2902220002A | 09-JUL-2001 | 00-07-621P | 06
07 | MO | MARYLAND HEIGHTS, CITY OF | 29189C0152H | 14-SEP-2001 | 00-07-683A | 01
07 | MO | MCDONALD COUNTY | 2908170050B | 14-SEP-2001 | 01-07-583A | 02
07 | MO | MILLER COUNTY | 2902260200A | 08-AUG-2001 | 01-07-614A | 02
07 | MO | MOLINE ACRES, CITY OF | 29189C0182H | 05-SEP-2001 | 00-07-572A | 01
07 | MO | MORGAN COUNTY | 2902440200A | 31-OCT-2001 | 01-07-800A | 02
07 | MO | NEVADA, CITY OF | 29044201B | 24-AUG-2001 | 01-07-626A | 02
07 | MO | O'FALLON, CITY OF | 29183C0240E | 12-SEP-2001 | 01-07-458A | 01
07 | MO | O'FALLON, CITY OF | 29183C0430E | 09-NOV-2001 | 01-07-588A | 02
07 | MO | O'FALLON, CITY OF | 29183C0239E | 22-AUG-2001 | 01-07-606A | 02
07 | MO | O'FALLON, CITY OF | 29183C0230E | 19-SEP-2001 | 01-07-657A | 02
07 | MO | O'FALLON, CITY OF | 29183C0230E | 19-SEP-2001 | 01-07-718A | 02
07 | MO | O'FALLON, CITY OF | 29183C0235E | 12-OCT-2001 | 01-07-863A | 02
07 | MO | O'FALLON, CITY OF | 29183C0241E | 12-OCT-2001 | 01-07-863A | 02
07 | MO | O'FALLON, CITY OF | 29183C0241E | 09-NOV-2001 | 02-07-029A | 01
07 | MO | O'FALLON, CITY OF | 29183C0430E | 28-NOV-2001 | 02-07-064A | 01
07 | MO | PACIFIC, CITY OF | 2901340001C | 21-SEP-2001 | 01-07-770A | 02
07 | MO | PACIFIC, CITY OF | 2901340001C | 03-OCT-2001 | 01-07-843A | 02
07 | MO | PECULIAR, CITY OF | 2908780001A | 29-AUG-2001 | 01-07-735A | 02
07 | MO | PETTIS COUNTY | 2908230200B | 15-AUG-2001 | 01-07-605A | 01
07 | MO | PETTIS COUNTY | 2908230200B | 19-OCT-2001 | 01-07-720A | 01
07 | MO | POPLAR BLUFF, CITY OF | 2900470004C | 08-AUG-2001 | 01-07-543A | 02
07 | MO | POPLAR BLUFF, CITY OF | 2900470003C | 24-AUG-2001 | 01-07-738A | 02
07 | MO | PRINCETON, CITY OF | 29022501C | 29-AUG-2001 | 01-07-461A | 01
07 | MO | ROLLA, CITY OF | 2908240075B | 20-NOV-2001 | 01-07-675P | 06
07 | MO | SCOTT COUNTY | 2908370075B | 02-NOV-2001 | 01-07-736A | 02
07 | MO | SIKESTON, CITY OF | 2952700006C | 03-AUG-2001 | 01-07-698A | 02
07 | MO | SIKESTON, CITY OF | 2952700006C | 07-SEP-2001 | 01-07-775A | 02
07 | MO | ST. CHARLES COUNTY | 29183C0241E | 07-SEP-2001 | 01-07-721A | 02
07 | MO | ST. CHARLES COUNTY | 29183C0452E | 12-OCT-2001 | 02-07-010A | 02
07 | MO | ST. CHARLES COUNTY | 29183C0452E | 24-OCT-2001 | 02-07-060X | 02
07 | MO | ST. CHARLES COUNTY | 29183C0451E | 26-NOV-2001 | 02-07-117A | 02
07 | MO | ST. CHARLES COUNTY | 29183C0435E | 21-DEC-2001 | 02-07-169A | 01
07 | MO | ST. CHARLES, CITY OF | 29183C0267E | 10-OCT-2001 | 01-07-840A | 02
07 | MO | ST. CHARLES, CITY OF | 29183C0267E | 24-OCT-2001 | 02-07-024A | 02
07 | MO | ST. CHARLES, CITY OF | 29183C0267E | 26-NOV-2001 | 02-07-070A | 02
07 | MO | ST. LOUIS COUNTY | 29189C0054J | 25-JUL-2001 | 01-07-420A | 01
07 | MO | ST. LOUIS COUNTY | 29189C0138H | 13-JUL-2001 | 01-07-513A | 01
07 | MO | ST. LOUIS COUNTY | 29189C0278J | 17-OCT-2001 | 01-07-531A | 02
07 | MO | ST. LOUIS COUNTY | 29189C0279J | 17-OCT-2001 | 01-07-531A | 02
07 | MO | ST. LOUIS COUNTY | 29189C0276J | 20-JUL-2001 | 01-07-591A | 02
07 | MO | ST. LOUIS COUNTY | 29189C0315H | 25-JUL-2001 | 01-07-620A | 02
07 | MO | ST. LOUIS COUNTY | 29189C0152H | 09-NOV-2001 | 01-07-648A | 02
07 | MO | ST. LOUIS COUNTY | 29189C0410H | 07-SEP-2001 | 01-07-669A | 02
07 | MO | ST. LOUIS COUNTY | 29189C0405H | 15-AUG-2001 | 01-07-688A | 02
07 | MO | ST. LOUIS COUNTY | 29189C0320H | 17-OCT-2001 | 01-07-724A | 01
07 | MO | ST. LOUIS COUNTY | 29189C0278J | 28-SEP-2001 | 01-07-787A | 01
07 | MO | ST. LOUIS COUNTY | 29189C0405H | 24-OCT-2001 | 02-07-031A | 01
07 | MO | ST. LOUIS COUNTY | 29189C0066J | 31-OCT-2001 | 02-07-039A | 02
07 | MO | ST. PETERS, CITY OF | 29183C0244E | 19-SEP-2001 | 01-07-520A | 01
07 | MO | ST. PETERS, CITY OF | 29183C0244E | 05-JUL-2001 | 01-07-525A | 01
07 | MO | ST. PETERS, CITY OF | 29183C0242E | 18-JUL-2001 | 01-07-529A | 01
07 | MO | ST. PETERS, CITY OF | 29183C0242E | 17-AUG-2001 | 01-07-677A | 01
07 | MO | ST. PETERS, CITY OF | 29183C0262E | 19-SEP-2001 | 01-07-687A | 01
07 | MO | ST. PETERS, CITY OF | 29183C0244E | 19-OCT-2001 | 02-07-004A | 01
07 | MO | STODDARD COUNTY | 2908450200B | 24-OCT-2001 | 01-07-572A | 02
07 | MO | TROY, CITY OF | 2906410002A | 24-SEP-2001 | 01-07-201P | 06
07 | MO | VALLEY PARK, CITY OF | 29189C0267H | 03-OCT-2001 | 01-07-826A | 02
07 | MO | WARREN COUNTY | 2904430075C | 06-JUL-2001 | 01-07-559A | 02
07 | MO | WARREN COUNTY | 2904430125B | 17-AUG-2001 | 01-07-627A | 02
07 | MO | WARREN COUNTY | 2904430075C | 19-SEP-2001 | 01-07-801A | 02
07 | MO | WARREN COUNTY | 2904430075C | 26-NOV-2001 | 02-07-108A | 02
07 | MO | WEBB CITY, CITY OF | 2901870001B | 08-AUG-2001 | 01-07-674A | 17
07 | NE | BOONE COUNTY | 31011C0450C | 28-SEP-2001 | 01-07-582A | 02
07 | NE | BUFFALO COUNTY | 3104190014B | 19-SEP-2001 | 01-07-701A | 02
07 | NE | COLFAX COUNTY | 3104260005B | 26-NOV-2001 | 02-07-111A | 02
07 | NE | CRETE, CITY OF | 3101860003C | 09-NOV-2001 | 02-07-038A | 02
07 | NE | CROFTON, VILLAGE OF | 3103610005B | 03-OCT-2001 | 01-07-850A | 02
07 | NE | DODGE COUNTY | 3100680020D | 01-AUG-2001 | 01-07-519A | 02
07 | NE | DOUGLAS COUNTY | 3100730025B | 25-JUL-2001 | 01-07-555A | 02
07 | NE | DOUGLAS COUNTY | 3100730125B | 12-SEP-2001 | 01-07-670A | 01
07 | NE | DOUGLAS COUNTY | 3100730125B | 26-NOV-2001 | 02-07-100A | 01
07 | NE | DOUGLAS COUNTY | 3100730125B | 26-NOV-2001 | 02-07-115X | 01
07 | NE | FREMONT, CITY OF | 3100690002B | 05-DEC-2001 | 02-07-095A | 01
07 | NE | GRAND ISLAND, CITY OF | 3101030020B | 13-JUL-2001 | 01-07-594A | 02
07 | NE | GRAND ISLAND, CITY OF | 3101030020B | 01-AUG-2001 | 01-07-646A | 02
07 | NE | GRAND ISLAND, CITY OF | 3101030005B | 15-AUG-2001 | 01-07-672A | 02
07 | NE | GRAND ISLAND, CITY OF | 3101030005B | 22-AUG-2001 | 01-07-673A | 02
07 | NE | GRAND ISLAND, CITY OF | 3101030020B | 22-AUG-2001 | 01-07-705A | 02
07 | NE | GRAND ISLAND, CITY OF | 3101030015B | 24-AUG-2001 | 01-07-706A | 02
07 | NE | GRAND ISLAND, CITY OF | 3101030020B | 24-AUG-2001 | 01-07-707A | 02
07 | NE | GRAND ISLAND, CITY OF | 3101030015B | 07-SEP-2001 | 01-07-733A | 02
07 | NE | GRAND ISLAND, CITY OF | 3101030015B | 07-SEP-2001 | 01-07-734A | 02
07 | NE | GRAND ISLAND, CITY OF | 3101030020B | 19-SEP-2001 | 01-07-771A | 02
07 | NE | GRAND ISLAND, CITY OF | 3101030020B | 12-OCT-2001 | 01-07-772A | 02
07 | NE | GRAND ISLAND, CITY OF | 3101030015B | 21-SEP-2001 | 01-07-773A | 02
07 | NE | GRAND ISLAND, CITY OF | 3101030020B | 19-SEP-2001 | 01-07-774A | 02
07 | NE | GRAND ISLAND, CITY OF | 3101030020B | 14-NOV-2001 | 01-07-791A | 02
07 | NE | GRAND ISLAND, CITY OF | 3101030020B | 31-OCT-2001 | 01-07-823A | 01
07 | NE | GRAND ISLAND, CITY OF | 3101030020B | 03-OCT-2001 | 01-07-833A | 02
07 | NE | GRAND ISLAND, CITY OF | 3101030005B | 03-OCT-2001 | 01-07-846A | 02
07 | NE | GRAND ISLAND, CITY OF | 3101030015B | 03-OCT-2001 | 01-07-847A | 02
07 | NE | GRAND ISLAND, CITY OF | 3101030020B | 03-OCT-2001 | 01-07-848A | 02
07 | NE | GRAND ISLAND, CITY OF | 3101030020B | 19-OCT-2001 | 02-07-001A | 02
07 | NE | GRAND ISLAND, CITY OF | 3101030015B | 24-OCT-2001 | 02-07-002A | 02
07 | NE | GRAND ISLAND, CITY OF | 3101030020B | 07-DEC-2001 | 02-07-167A | 02
07 | NE | GRAND ISLAND, CITY OF | 3101030020B | 14-DEC-2001 | 02-07-188A | 02
07 | NE | HALL COUNTY | 3101000100C | 22-AUG-2001 | 01-07-704A | 02
07 | NE | HALL COUNTY | 3101000125B | 14-SEP-2001 | 01-07-753A | 02
07 | NE | HALL COUNTY | 3101000100C | 28-SEP-2001 | 01-07-799A | 02
07 | NE | HALL COUNTY | 3101000100C | 14-NOV-2001 | 02-07-075A | 02
07 | NE | HAMILTON COUNTY | 3104410025A | 10-AUG-2001 | 01-07-691A | 02
07 | NE | HAMILTON COUNTY | 3104410025A | 03-OCT-2001 | 01-07-755A | 02
07 | NE | HAMILTON COUNTY | 3104410125A | 05-OCT-2001 | 01-07-790A | 02
07 | NE | HAMILTON COUNTY | 3104410050A | 21-SEP-2001 | 01-07-793A | 02
07 | NE | HAMILTON COUNTY | 3104410025A | 12-SEP-2001 | 01-07-804A | 02
07 | NE | HAMILTON COUNTY | 3104410025A | 05-OCT-2001 | 01-07-821A | 02
07 | NE | HAMILTON COUNTY | 3104410025A | 31-OCT-2001 | 02-07-035A | 02
07 | NE | HAMILTON COUNTY | 3104410025A | 19-DEC-2001 | 02-07-122A | 02
07 | NE | HASTINGS, CITY OF | 3100010010B | 18-JUL-2001 | 01-07-552A | 02
07 | NE | HASTINGS, CITY OF | 3100010010B | 02-NOV-2001 | 01-07-809A | 02
07 | NE | HOMER, VILLAGE OF | 3102410002C | 26-OCT-2001 | 02-07-032A | 02
07 | NE | LANCASTER COUNTY | 3101340030B | 26-OCT-2001 | 02-07-012A | 02
07 | NE | LINCOLN, CITY OF | 3152730045C | 01-AUG-2001 | 01-07-528A | 01
07 | NE | LINCOLN, CITY OF | 3152730037D | 10-AUG-2001 | 01-07-585A | 02
07 | NE | LINCOLN, CITY OF | 31109C0310E | 14-NOV-2001 | 01-07-665A | 01
07 | NE | LINCOLN, CITY OF | 31109C0430E | 30-NOV-2001 | 01-07-680A | 01
07 | NE | LINCOLN, CITY OF | 31109C0305E | 28-DEC-2001 | 02-07-163A | 01
07 | NE | LINCOLN, CITY OF | 31109C0195E | 14-DEC-2001 | 02-07-189A | 01
07 | NE | LINCOLN, CITY OF | 31109C0310E | 14-DEC-2001 | 02-07-189A | 01
07 | NE | LINCOLN, CITY OF | 31109C0170E | 22-SEP-2001 | 02-07-289V | 19
07 | NE | LINCOLN, CITY OF | 31109C0285E | 22-SEP-2001 | 02-07-289V | 19
07 | NE | LINCOLN, CITY OF | 31109C0305E | 22-SEP-2001 | 02-07-289V | 19
07 | NE | LINCOLN, CITY OF | 31109C0310E | 22-SEP-2001 | 02-07-289V | 19
07 | NE | LINCOLN, CITY OF | 31109C0315E | 22-SEP-2001 | 02-07-289V | 19
07 | NE | LINCOLN, CITY OF | 31109C0317E | 22-SEP-2001 | 02-07-289V | 19
07 | NE | LINCOLN, CITY OF | 31109C0319E | 22-SEP-2001 | 02-07-289V | 19
07 | NE | MERRICK COUNTY | 3104570150A | 13-JUL-2001 | 01-07-577A | 02
07 | NE | MERRICK COUNTY | 3104570175B | 01-AUG-2001 | 01-07-663A | 02
07 | NE | MERRICK COUNTY | 3104570200B | 01-AUG-2001 | 01-07-679A | 02
07 | NE | MERRICK COUNTY | 3104570150A | 01-AUG-2001 | 01-07-683A | 02
07 | NE | MERRICK COUNTY | 3104570150A | 01-AUG-2001 | 01-07-686A | 02
07 | NE | MERRICK COUNTY | 3104570200B | 01-AUG-2001 | 01-07-692A | 02
07 | NE | MERRICK COUNTY | 3104570125B | 08-AUG-2001 | 01-07-711A | 02
07 | NE | MERRICK COUNTY | 3104570125B | 21-SEP-2001 | 01-07-818A | 02
07 | NE | MERRICK COUNTY | 3104570125B | 21-SEP-2001 | 01-07-832A | 02
07 | NE | MERRICK COUNTY | 3104570175B | 07-DEC-2001 | 02-07-157A | 02
07 | NE | ODELL,VILLAGE OF | 31009401B | 18-OCT-2001 | 01-07-849A | 01
07 | NE | OMAHA, CITY OF | 3152740030F | 03-OCT-2001 | 01-07-601A | 02
07 | NE | OMAHA, CITY OF | 3152740050F | 07-SEP-2001 | 01-07-625A | 02
07 | NE | OMAHA, CITY OF | 3152740045G | 08-AUG-2001 | 01-07-702A | 02
07 | NE | OMAHA, CITY OF | 3152740025F | 12-SEP-2001 | 01-07-754A | 17
07 | NE | OMAHA, CITY OF | 3152740025F | 10-OCT-2001 | 01-07-837A | 02
07 | NE | OMAHA, CITY OF | 3152740050F | 17-OCT-2001 | 01-07-855A | 01
07 | NE | OMAHA, CITY OF | 3152740045G | 24-OCT-2001 | 02-07-033A | 02
07 | NE | OMAHA, CITY OF | 3152740045G | 07-DEC-2001 | 02-07-134A | 02
07 | NE | OTOE COUNTY | 3104620050A | 05-JUL-2001 | 01-07-376A | 02
07 | NE | SARPY COUNTY | 31153C0070F | 18-JUL-2001 | 01-07-607A | 02
07 | NE | SAUNDERS COUNTY | 3101950020B | 07-DEC-2001 | 02-07-156A | 02
07 | NE | SCHUYLER, CITY OF | 3100460005B | 01-AUG-2001 | 01-07-493A | 02
07 | NE | SCHUYLER, CITY OF | 3100460010B | 06-JUL-2001 | 01-07-579A | 02
07 | NE | SCHUYLER, CITY OF | 3100460010B | 20-JUL-2001 | 01-07-619A | 02
07 | NE | SCHUYLER, CITY OF | 3100460005B | 01-AUG-2001 | 01-07-636A | 02
07 | NE | SCHUYLER, CITY OF | 3100460010B | 17-AUG-2001 | 01-07-637A | 02
07 | NE | SCHUYLER, CITY OF | 3100460005B | 08-AUG-2001 | 01-07-651A | 02
07 | NE | SCHUYLER, CITY OF | 3100460005B | 31-OCT-2001 | 01-07-748A | 01
07 | NE | SCHUYLER, CITY OF | 3100460005B | 28-SEP-2001 | 01-07-828A | 02
07 | NE | SCHUYLER, CITY OF | 3100460005B | 10-OCT-2001 | 01-07-841A | 02
07 | NE | SCHUYLER, CITY OF | 3100460005B | 09-NOV-2001 | 02-07-046A | 02
07 | NE | SCHUYLER, CITY OF | 3100460005B | 09-NOV-2001 | 02-07-047A | 02
07 | NE | SCHUYLER, CITY OF | 3100460005B | 09-NOV-2001 | 02-07-048A | 02
07 | NE | SCHUYLER, CITY OF | 3100460005B | 09-NOV-2001 | 02-07-051A | 02
07 | NE | SCHUYLER, CITY OF | 3100460005B | 09-NOV-2001 | 02-07-052A | 02
07 | NE | SCHUYLER, CITY OF | 3100460005B | 09-NOV-2001 | 02-07-053A | 02
07 | NE | SCHUYLER, CITY OF | 3100460005B | 09-NOV-2001 | 02-07-054A | 02
07 | NE | SCHUYLER, CITY OF | 3100460005B | 09-NOV-2001 | 02-07-055A | 02
07 | NE | SCHUYLER, CITY OF | 3100460005B | 09-NOV-2001 | 02-07-056A | 02
07 | NE | SCHUYLER, CITY OF | 3100460005B | 09-NOV-2001 | 02-07-057A | 02
07 | NE | SCHUYLER, CITY OF | 3100460005B | 28-NOV-2001 | 02-07-058A | 02
07 | NE | SCHUYLER, CITY OF | 3100460005B | 09-NOV-2001 | 02-07-062A | 02
07 | NE | SCHUYLER, CITY OF | 3100460005B | 14-NOV-2001 | 02-07-083A | 02
07 | NE | SCHUYLER, CITY OF | 3100460005B | 09-NOV-2001 | 02-07-084A | 02
07 | NE | SCHUYLER, CITY OF | 3100460005B | 09-NOV-2001 | 02-07-087A | 02
07 | NE | SCHUYLER, CITY OF | 3100460005B | 14-NOV-2001 | 02-07-104A | 02
07 | NE | SCHUYLER, CITY OF | 3100460005B | 05-DEC-2001 | 02-07-164A | 02
07 | NE | WEEPING WATER, CITY OF | 3100360001B | 28-SEP-2001 | 01-07-829A | 02
07 | NE | YORK COUNTY | 3104860006B | 05-JUL-2001 | 01-07-470A | 02
07 | NE | YORK COUNTY | 3104860006B | 26-NOV-2001 | 01-07-744A | 02
08 | CO | ADAMS COUNTY | 08001C0030G | 25-SEP-2001 | 01-08-353P | 06
08 | CO | ARCHULETA COUNTY | 0802730400B | 12-SEP-2001 | 01-08-315A | 02
08 | CO | ARCHULETA COUNTY | 0802730425B | 12-SEP-2001 | 01-08-315A | 02
08 | CO | ARVADA, CITY OF | 0850720001B | 05-DEC-2001 | 01-08-059P | 05
08 | CO | ARVADA, CITY OF | 0850720002B | 05-DEC-2001 | 01-08-059P | 05
08 | CO | ARVADA, CITY OF | 0850720002B | 03-DEC-2001 | 02-08-015A | 02
08 | CO | BOULDER COUNTY | 08013C0435F | 17-AUG-2001 | 01-08-331A | 02
08 | CO | BOULDER COUNTY | 08013C0395F | 21-SEP-2001 | 01-08-383A | 02
08 | CO | BOULDER, CITY OF | 08013C0395F | 26-OCT-2001 | 01-08-186A | 02
08 | CO | BOULDER, CITY OF | 08013C0395F | 28-NOV-2001 | 01-08-368A | 01
08 | CO | BROOMFIELD, CITY OF | 0850730020E | 04-SEP-2001 | 00-08-326P | 05
08 | CO | COLORADO SPRINGS, CITY OF | 08041C0752F | 05-JUL-2001 | 01-08-039P | 06
08 | CO | COLORADO SPRINGS, CITY OF | 08041C0736F | 24-AUG-2001 | 01-08-321A | 02
08 | CO | COLUMBINE VALLEY, TOWN OF | 08005C0435J | 18-DEC-2001 | 01-08-417P | 06
08 | CO | COLUMBINE VALLEY, TOWN OF | 08005C0435J | 18-DEC-2001 | 02-08-040P | 06
08 | CO | CRESTED BUTTE, TOWN OF | 0800790001B | 24-OCT-2001 | 01-08-415A | 02
08 | CO | DENVER, CITY AND COUNTY OF | 0800460008C | 05-JUL-2001 | 01-08-220P | 06
08 | CO | DENVER, CITY AND COUNTY OF | 0800460024E | 12-JUL-2001 | 01-08-221A | 02
08 | CO | DENVER, CITY AND COUNTY OF | 0800460025E | 12-JUL-2001 | 01-08-221A | 02
08 | CO | DENVER, CITY AND COUNTY OF | 0800460013C | 20-SEP-2001 | 01-08-328A | 02
08 | CO | EAGLE COUNTY | 0800510240C | 06-JUL-2001 | 01-08-228A | 02
08 | CO | EL PASO COUNTY | 08041C0285F | 23-SEP-2001 | 00-08-417P | 06
08 | CO | FORT COLLINS, CITY OF | 0801020011C | 23-AUG-2001 | 00-08-365P | 05
08 | CO | FORT COLLINS, CITY OF | 0801020012C | 23-AUG-2001 | 00-08-365P | 05
08 | CO | FORT COLLINS, CITY OF | 0801020004C | 29-NOV-2001 | 01-08-349P | 05
08 | CO | FORT COLLINS, CITY OF | 0801020004C | 03-OCT-2001 | 01-08-411P | 06
08 | CO | FORT COLLINS, CITY OF | 0801020004C | 31-DEC-2001 | 02-08-003A | 01
08 | CO | FREDERICK, TOWN OF | 0802660850C | 24-AUG-2001 | 00-08-398P | 06
08 | CO | FREDERICK, TOWN OF | 0802660861C | 24-AUG-2001 | 00-08-398P | 06
08 | CO | FREDERICK, TOWN OF | 0802660863C | 24-AUG-2001 | 00-08-398P | 06
08 | CO | GLENWOOD SPRINGS, CITY OF | 0800711432C | 12-JUL-2001 | 01-08-290A | 02
08 | CO | GOLDEN, CITY OF | 0800900003A | 03-DEC-2001 | 01-08-356A | 02
08 | CO | GUNNISON COUNTY | 0800780625B | 03-OCT-2001 | 01-08-334A | 02
08 | CO | GUNNISON COUNTY | 0800780625B | 30-AUG-2001 | 01-08-341A | 02
08 | CO | GUNNISON COUNTY | 0800780755B | 10-OCT-2001 | 01-08-364A | 02
08 | CO | GUNNISON COUNTY | 0800780615B | 19-DEC-2001 | 02-08-026A | 02
08 | CO | JEFFERSON COUNTY | 0800870160B | 14-SEP-2001 | 01-08-059P | 06
08 | CO | JEFFERSON COUNTY | 0800870380C | 20-NOV-2001 | 01-08-264A | 01
08 | CO | JEFFERSON COUNTY | 0800870345C | 10-OCT-2001 | 01-08-327A | 02
08 | CO | JEFFERSON COUNTY | 0800870360B | 03-DEC-2001 | 02-08-036A | 02
08 | CO | JEFFERSON COUNTY | 0800870360B | 19-DEC-2001 | 02-08-069A | 02
08 | CO | LAKEWOOD, CITY OF | 0850750005C | 25-JUL-2001 | 00-08-331P | 05
08 | CO | LAKEWOOD, CITY OF | 0850750005C | 02-JUL-2001 | 01-08-252A | 02
08 | CO | LAKEWOOD, CITY OF | 0850750005C | 20-SEP-2001 | 01-08-390A | 02
08 | CO | LAKEWOOD, CITY OF | 0850750010C | 20-SEP-2001 | 01-08-390A | 02
08 | CO | LARIMER COUNTY | 0801010193E | 06-JUL-2001 | 01-08-184P | 06
08 | CO | LARIMER COUNTY | 0801010194E | 06-JUL-2001 | 01-08-184P | 06
08 | CO | LARIMER COUNTY | 0801010179E | 02-JUL-2001 | 01-08-297A | 02
08 | CO | LITTLETON, CITY OF | 0800170005D | 18-DEC-2001 | 01-08-417P | 06
08 | CO | LITTLETON, CITY OF | 0800170010D | 18-DEC-2001 | 01-08-417P | 06
08 | CO | LITTLETON, CITY OF | 0800170010D | 21-DEC-2001 | 02-08-020A | 02
08 | CO | LONGMONT, CITY OF | 08013C0286F | 11-JUL-2001 | 01-08-257A | 02
08 | CO | LONGMONT, CITY OF | 08013C0288F | 27-JUL-2001 | 01-08-267A | 02
08 | CO | LONGMONT, CITY OF | 08013C0286F | 05-DEC-2001 | 02-08-009A | 02
08 | CO | LONGMONT, CITY OF | 08013C0287F | 05-DEC-2001 | 02-08-009A | 02
08 | CO | LYONS, TOWN OF | 08013C0232F | 10-AUG-2001 | 01-08-333A | 02
08 | CO | MANCOS, TOWN OF | 0801230001B | 02-JUL-2001 | 01-08-253A | 02
08 | CO | PITKIN COUNTY | 08097C0162C | 12-JUL-2001 | 01-08-170A | 02
08 | CO | PITKIN COUNTY | 08097C0204C | 30-AUG-2001 | 01-08-338A | 02
08 | CO | PUEBLO, CITY OF | 0850770005C | 31-DEC-2001 | 01-08-389A | 17
08 | CO | STEAMBOAT SPRINGS, CITY OF | 0801590003C | 11-JUL-2001 | 01-08-285A | 01
08 | CO | SUMMIT COUNTY | 0802900107C | 10-AUG-2001 | 99-08-119V | 19
08 | CO | SUMMIT COUNTY | 0802900109C | 10-AUG-2001 | 99-08-119V | 19
08 | CO | SUMMIT COUNTY | 0802900192D | 10-AUG-2001 | 99-08-119V | 19
08 | CO | THORNTON, CITY OF | 08001C0030G | 25-SEP-2001 | 01-08-353P | 06
08 | CO | WELD COUNTY | 0802660850C | 24-AUG-2001 | 00-08-398P | 06
08 | CO | WELD COUNTY | 0802660861C | 24-AUG-2001 | 00-08-398P | 06
08 | CO | WELD COUNTY | 0802660863C | 24-AUG-2001 | 00-08-398P | 06
08 | CO | WELD COUNTY | 0802660605D | 10-OCT-2001 | 01-08-261A | 01
08 | CO | WELD COUNTY | 0802660850C | 01-AUG-2001 | 01-08-312A | 02
08 | CO | WELD COUNTY | 0802660725C | 24-OCT-2001 | 01-08-401A | 02
08 | CO | WELD COUNTY | 0802660900C | 14-DEC-2001 | 02-08-065A | 02
08 | CO | WESTMINSTER, CITY OF | 0800080004B | 20-SEP-2001 | 99-08-419P | 05
08 | MT | CARBON COUNTY | 3001390525B | 12-SEP-2001 | 01-08-216A | 02
08 | MT | DAWSON COUNTY | 3001400011B | 27-JUL-2001 | 01-08-236A | 02
08 | MT | DAWSON COUNTY | 3001400011B | 18-JUL-2001 | 01-08-294A | 02
08 | MT | DAWSON COUNTY | 3001400012B | 25-JUL-2001 | 01-08-313A | 02
08 | MT | FLATHEAD COUNTY | 3000232285D | 02-JUL-2001 | 01-08-256A | 02
08 | MT | FLATHEAD COUNTY | 3000231840E | 15-NOV-2001 | 01-08-369A | 01
08 | MT | FLATHEAD COUNTY | 3000231435C | 03-OCT-2001 | 01-08-398A | 17
08 | MT | GALLATIN COUNTY | 3000270310B | 06-JUL-2001 | 01-08-269A | 02
08 | MT | GALLATIN COUNTY | 3000270310B | 31-OCT-2001 | 02-08-017A | 02
08 | MT | JEFFERSON COUNTY | 3001540550B | 10-SEP-2001 | 01-08-310A | 02
08 | MT | LEWIS AND CLARK COUNTY | 3000381534C | 18-JUL-2001 | 01-08-270A | 02
08 | MT | LINCOLN COUNTY | 3001570650B | 11-JUL-2001 | 01-08-188A | 02
08 | MT | LINCOLN COUNTY | 3001570650B | 24-OCT-2001 | 01-08-223A | 02
08 | MT | LINCOLN COUNTY | 3001570620B | 12-OCT-2001 | 02-08-007A | 02
08 | MT | LINCOLN COUNTY | 3001570755B | 21-DEC-2001 | 02-08-072A | 02
08 | MT | MISSOULA, CITY OF | 30063C1460D | 26-SEP-2001 | 01-08-365A | 01
08 | MT | MISSOULA, CITY OF | 30063C1195D | 10-SEP-2001 | 01-08-372A | 02
08 | MT | PARK COUNTY | 3001600014B | 10-SEP-2001 | 01-08-300A | 02
08 | MT | PARK COUNTY | 3001600020B | 15-AUG-2001 | 01-08-305A | 02
08 | MT | PARK COUNTY | 3001600011B | 30-AUG-2001 | 01-08-347A | 02
08 | MT | RAVALLI COUNTY | 30081C0110C | 25-JUL-2001 | 01-08-282A | 02
08 | MT | ROUNDUP, CITY OF | 3000500001B | 06-JUL-2001 | 01-08-271A | 02
08 | MT | ROUNDUP, CITY OF | 3000500001B | 06-JUL-2001 | 01-08-273A | 02
08 | MT | SHELBY, CITY OF | 300125—01A | 11-DEC-2001 | 02-08-048A | 02
08 | MT | SUPERIOR, TOWN OF | 3001280005A | 17-OCT-2001 | 01-08-409A | 02
08 | MT | THREE FORKS, CITY OF | 3000270170B | 10-SEP-2001 | 01-08-283A | 01
08 | MT | THREE FORKS, CITY OF | 3000290001B | 24-OCT-2001 | 01-08-378A | 01
08 | MT | THREE FORKS, CITY OF | 3000290001B | 24-OCT-2001 | 01-08-381A | 01
08 | MT | YELLOWSTONE COUNTY | 3001421020A | 24-OCT-2001 | 01-08-405A | 02
08 | MT | YELLOWSTONE COUNTY | 3001420885A | 02-NOV-2001 | 02-08-018A | 02
08 | ND | BURLEIGH COUNTY | 3800170570A | 24-OCT-2001 | 01-08-284A | 01
08 | ND | FARGO, CITY OF | 3853640035E | 02-AUG-2001 | 01-08-200P | 06
08 | ND | GRAND FORKS COUNTY | 3800330016B | 18-JUL-2001 | 01-08-181A | 02
08 | ND | GRAND FORKS, CITY OF | 3853650010D | 15-AUG-2001 | 01-08-344A | 02
08 | ND | GRAND FORKS, CITY OF | 3853650010D | 21-DEC-2001 | 02-08-029A | 02
08 | ND | HARWOOD, CITY OF | 3803380001B | 24-OCT-2001 | 01-08-299A | 01
08 | ND | HARWOOD, CITY OF | 3803380001B | 02-NOV-2001 | 02-08-031X | 01
08 | ND | MINOT, CITY OF | 38101C0776D | 06-JUL-2001 | 01-08-263A | 02
08 | ND | NORMANNA, TOWNSHIP OF | 3802640010B | 24-OCT-2001 | 02-08-006A | 02
08 | ND | RAMSEY COUNTY | 38071C0325D | 25-JUL-2001 | 01-08-276A | 02
08 | ND | STANLEY, TOWNSHIP OF | 3802580005B | 03-OCT-2001 | 01-08-394A | 02
08 | ND | WALSH COUNTY | 3801350008B | 10-AUG-2001 | 01-08-320A | 02
08 | ND | WARD COUNTY | 38101C1045D | 12-SEP-2001 | 01-08-366A | 02
08 | SD | ABERDEEN, CITY OF | 46013C0265C | 21-SEP-2001 | 01-08-385A | 01
08 | SD | ABERDEEN, CITY OF | 46013C0330C | 10-OCT-2001 | 02-08-008A | 01
08 | SD | BROWN COUNTY | 46013C0310C | 07-NOV-2001 | 02-08-019A | 02
08 | SD | GROTON, CITY OF | 46013C0352C | 23-AUG-2001 | 01-08-295A | 01
08 | SD | GROTON, CITY OF | 46013C0352C | 02-NOV-2001 | 02-08-014A | 01
08 | SD | KEYSTONE, TOWN OF | 4602310001B | 18-JUL-2001 | 01-08-204A | 17
08 | SD | LAWRENCE COUNTY | 4600940125B | 20-NOV-2001 | 01-08-402A | 02
08 | SD | MEADE COUNTY | 4600540625A | 26-SEP-2001 | 01-08-324A | 01
08 | SD | NEW UNDERWOOD, CITY OF | 4600920001C | 14-SEP-2001 | 01-08-376A | 02
08 | SD | NEW UNDERWOOD, CITY OF | 4600920001C | 09-NOV-2001 | 02-08-004X | 02
08 | SD | NEW UNDERWOOD, CITY OF | 4600920001C | 14-DEC-2001 | 02-08-085P | 05
08 | SD | RAPID CITY, CITY OF | 4654200008F | 28-SEP-2001 | 01-08-332A | 02
08 | SD | RAPID CITY, CITY OF | 4654200003F | 26-SEP-2001 | 01-08-367A | 17
08 | SD | REDFIELD, CITY OF | 4600810005B | 17-AUG-2001 | 01-08-346A | 02
08 | SD | SPEARFISH, CITY OF | 460046000D | 18-JUL-2001 | 01-08-246A | 17
08 | SD | SPEARFISH, CITY OF | 4600460005D | 12-JUL-2001 | 01-08-262A | 17
08 | SD | SPEARFISH, CITY OF | 4600460005D | 25-JUL-2001 | 01-08-318A | 17
08 | SD | SPEARFISH, CITY OF | 4600460004D | 24-OCT-2001 | 02-08-002A | 02
08 | SD | UNION COUNTY | 460242—40D | 14-SEP-2001 | 01-08-399A | 01
08 | SD | UNION COUNTY | 4602420040D | 19-NOV-2001 | 02-08-012A | 02
08 | SD | WATERTOWN, CITY OF | 4600160010B | 31-OCT-2001 | 01-08-377A | 02
08 | SD | WATERTOWN, CITY OF | 4600160010B | 15-NOV-2001 | 02-08-028A | 02
08 | SD | YANKTON COUNTY | 4600880006C | 02-JUL-2001 | 01-08-265A | 02
08 | SD | YANKTON COUNTY | 4600880006C | 06-JUL-2001 | 01-08-268A | 02
08 | UT | ALPINE, CITY OF | 4902280005A | 06-JUL-2001 | 01-08-241A | 02
08 | UT | ALPINE, CITY OF | 4902280005A | 30-AUG-2001 | 01-08-345A | 02
08 | UT | ALPINE, CITY OF | 4902280005A | 10-OCT-2001 | 01-08-392A | 02
08 | UT | BOUNTIFUL, CITY OF | 4900390005C | 23-AUG-2001 | 01-08-348A | 02
08 | UT | DAVIS COUNTY | 4900380160B | 14-DEC-2001 | 01-08-304P | 06
08 | UT | GARFIELD COUNTY | 4900650450B | 25-JUL-2001 | 01-08-298A | 02
08 | UT | KAYSVILLE, CITY OF | 4900460002B | 21-DEC-2001 | 01-08-414A | 02
08 | UT | MURRAY, CITY OF | 49035C0292E | 24-SEP-2001 | 98-08-057V | 19
08 | UT | MURRAY, CITY OF | 49035C0310E | 24-SEP-2001 | 98-08-057V | 19
08 | UT | MURRAY, CITY OF | 49035C0313E | 24-SEP-2001 | 98-08-057V | 19
08 | UT | MURRAY, CITY OF | 49035C0350E | 24-SEP-2001 | 98-08-057V | 19
08 | UT | MURRAY, CITY OF | 49035C0450E | 24-SEP-2001 | 98-08-057V | 19
08 | UT | OAKLEY, TOWN OF | 4901380001B | 11-DEC-2001 | 02-08-047A | 02
08 | UT | OAKLEY, TOWN OF | 4901380001B | 11-DEC-2001 | 02-08-049A | 02
08 | UT | OGDEN, CITY OF | 4901890002B | 25-JUL-2001 | 01-08-243A | 02
08 | UT | OGDEN, CITY OF | 4901890002B | 01-AUG-2001 | 01-08-291P | 06
08 | UT | RIVERTON, CITY OF | 49035C0440E | 24-SEP-2001 | 02-08-077V | 19
08 | UT | RIVERTON, CITY OF | 49035C0440E | 24-SEP-2001 | 98-08-057V | 19
08 | UT | SALT LAKE CITY, CITY OF | 49035C0143E | 24-SEP-2001 | 98-08-057V | 19
08 | UT | SALT LAKE CITY, CITY OF | 49035C0282E | 24-SEP-2001 | 98-08-057V | 19
08 | UT | SALT LAKE CITY, CITY OF | 49035C0301E | 24-SEP-2001 | 98-08-057V | 19
08 | UT | SALT LAKE CITY, CITY OF | 49035C0302E | 24-SEP-2001 | 98-08-057V | 19
08 | UT | SALT LAKE COUNTY | 49035C0275E | 03-OCT-2001 | 01-08-254A | 02
08 | UT | SALT LAKE COUNTY | 49035C0303E | 15-AUG-2001 | 01-08-326A | 02
08 | UT | SALT LAKE COUNTY | 49035C0440E | 24-SEP-2001 | 02-08-077V | 19
08 | UT | SALT LAKE COUNTY | 49035C0303E | 24-SEP-2001 | 98-08-057V | 19
08 | UT | SALT LAKE COUNTY | 49035C0311E | 24-SEP-2001 | 98-08-057V | 19
08 | UT | SALT LAKE COUNTY | 49035C0318E | 24-SEP-2001 | 98-08-057V | 19
08 | UT | SALT LAKE COUNTY | 49035C0350E | 24-SEP-2001 | 98-08-057V | 19
08 | UT | SALT LAKE COUNTY | 49035C0420E | 24-SEP-2001 | 98-08-057V | 19
08 | UT | SALT LAKE COUNTY | 49035C0458E | 24-SEP-2001 | 98-08-057V | 19
08 | UT | SANDY CITY, CITY OF | 4901060012C | 21-AUG-2001 | 01-08-005P | 05
08 | UT | SANDY CITY, CITY OF | 49035C0441E | 24-SEP-2001 | 98-08-057V | 19
08 | UT | SANDY CITY, CITY OF | 49035C0462E | 24-SEP-2001 | 98-08-057V | 19
08 | UT | SANDY CITY, CITY OF | 49035C0466E | 24-SEP-2001 | 98-08-057V | 19
08 | UT | SANTA CLARA, CITY OF | 4901780005B | 15-NOV-2001 | 99-08-278P | 05
08 | UT | SARATOGA SPRINGS, CITY OF | 4955170115A | 19-OCT-2001 | 01-08-393A | 01
08 | UT | SARATOGA SPRINGS, CITY OF | 4955170120A | 19-OCT-2001 | 01-08-393A | 01
08 | UT | SOUTH JORDAN, CITY OF | 49035C0440E | 24-SEP-2001 | 02-08-077V | 19
08 | UT | SOUTH JORDAN, CITY OF | 49035C0169E | 24-SEP-2001 | 98-08-057V | 19
08 | UT | SOUTH JORDAN, CITY OF | 49035C0440E | 24-SEP-2001 | 98-08-057V | 19
08 | UT | SOUTH JORDAN, CITY OF | 49035C0441E | 24-SEP-2001 | 98-08-057V | 19
08 | UT | SOUTH SALT LAKE, CITY OF | 49035C0284E | 24-SEP-2001 | 98-08-057V | 19
08 | UT | ST. GEORGE, CITY OF | 4901770011D | 15-NOV-2001 | 99-08-278P | 05
08 | UT | ST. GEORGE, CITY OF | 4901770013D | 15-NOV-2001 | 99-08-278P | 05
08 | UT | SUMMIT COUNTY | 4901340550B | 11-DEC-2001 | 02-08-046A | 02
08 | UT | TAYLORSVILLE, CITY OF | 49035C0308E | 24-SEP-2001 | 98-08-057V | 19
08 | UT | WASHINGTON,CITY OF | 4901820015C | 10-SEP-2001 | 01-08-355A | 02
08 | UT | WELLSVILLE, CITY OF | 4900310001B | 26-OCT-2001 | 01-08-403A | 02
08 | UT | WEST JORDAN, CITY OF | 49035C0431E | 24-SEP-2001 | 98-08-057V | 19
08 | UT | WEST VALLEY CITY, CITY OF | 49035C0275E | 24-SEP-2001 | 98-08-057V | 19
08 | WY | CASPER, CITY OF | 5600370015C | 17-AUG-2001 | 01-08-343A | 02
08 | WY | CASPER, CITY OF | 5600370015C | 17-AUG-2001 | 01-08-351A | 02
08 | WY | CASPER, CITY OF | 5600370015C | 10-OCT-2001 | 02-08-001A | 02
08 | WY | CASPER, CITY OF | 5600370015C | 31-DEC-2001 | 02-08-071A | 02
08 | WY | LARAMIE COUNTY | 5600290375D | 21-DEC-2001 | 02-08-067A | 02
09 | AZ | APACHE JUNCTION, CITY OF | 0401200003C | 22-AUG-2001 | 01-09-864P | 06
09 | AZ | AVONDALE, CITY OF | 04013C2080H | 24-JUL-2001 | 01-09-018P | 05
09 | AZ | AVONDALE, CITY OF | 04013C2080H | 15-NOV-2001 | 01-09-1071A | 01
09 | AZ | AVONDALE, CITY OF | 04013C2080H | 21-SEP-2001 | 01-09-1117A | 01
09 | AZ | AVONDALE, CITY OF | 04013C2080H | 23-AUG-2001 | 01-09-497P | 05
09 | AZ | AVONDALE, CITY OF | 04013C2080H | 31-DEC-2001 | 02-09-086A | 01
09 | AZ | AVONDALE, CITY OF | 04013C2080H | 31-DEC-2001 | 02-09-191A | 01
09 | AZ | BUCKEYE, TOWN OF | 04013C2055F | 09-OCT-2001 | 01-09-453P | 05
09 | AZ | BULLHEAD CITY, CITY OF | 0401250020F | 11-JUL-2001 | 01-09-798A | 02
09 | AZ | BULLHEAD CITY, CITY OF | 0401250020F | 10-OCT-2001 | 02-09-020A | 01
09 | AZ | CASA GRANDE, CITY OF | 0400800010C | 21-DEC-2001 | 02-09-147A | 02
09 | AZ | CHANDLER, CITY OF | 04013C2670G | 20-SEP-2001 | 01-09-1142A | 02
09 | AZ | CHANDLER, CITY OF | 04013C2655F | 10-OCT-2001 | 01-09-1203A | 01
09 | AZ | CHANDLER, CITY OF | 04013C2630F | 20-JUL-2001 | 98-09-558V | 19
09 | AZ | CHANDLER, CITY OF | 04013C2640F | 20-JUL-2001 | 98-09-558V | 19
09 | AZ | CHANDLER, CITY OF | 04013C2655F | 20-JUL-2001 | 98-09-558V | 19
09 | AZ | CHANDLER, CITY OF | 04013C2670G | 20-JUL-2001 | 98-09-558V | 19
09 | AZ | CHANDLER, CITY OF | 04013C3030G | 20-JUL-2001 | 98-09-558V | 19
09 | AZ | CHANDLER, CITY OF | 04013C3035G | 20-JUL-2001 | 98-09-558V | 19
09 | AZ | COCHISE COUNTY | 0400120542B | 21-SEP-2001 | 00-09-926P | 06
09 | AZ | COCHISE COUNTY | 0400120544B | 21-SEP-2001 | 00-09-926P | 06
09 | AZ | COCHISE COUNTY | 0400120561B | 21-SEP-2001 | 00-09-926P | 06
09 | AZ | COCHISE COUNTY | 0400120563B | 21-SEP-2001 | 00-09-926P | 06
09 | AZ | COCHISE COUNTY | 0400121090C | 31-JUL-2001 | 01-09-019P | 05
09 | AZ | COCHISE COUNTY | 0400121234C | 31-JUL-2001 | 01-09-019P | 05
09 | AZ | COCHISE COUNTY | 0400121253D | 31-JUL-2001 | 01-09-019P | 05
09 | AZ | COCHISE COUNTY | 0400121090C | 19-NOV-2001 | 01-09-841P | 06
09 | AZ | EAGAR, TOWN OF | 0401030004C | 06-JUL-2001 | 01-09-803A | 02
09 | AZ | EL MIRAGE, CITY OF | 04013C1605H | 27-JUL-2001 | 01-09-756A | 01
09 | AZ | EL MIRAGE, CITY OF | 04013C1605H | 20-JUL-2001 | 98-09-558V | 19
09 | AZ | EL MIRAGE, CITY OF | 04013C1610H | 20-JUL-2001 | 98-09-558V | 19
09 | AZ | GILBERT, TOWN OF | 04013C2680G | 31-AUG-2001 | 01-09-1084A | 01
09 | AZ | GILBERT, TOWN OF | 04013C2660F | 03-OCT-2001 | 01-09-1102A | 01
09 | AZ | GILBERT, TOWN OF | 04013C2680G | 20-JUL-2001 | 01-09-1192X | 19
09 | AZ | GILBERT, TOWN OF | 04013C2660F | 03-AUG-2001 | 01-09-918A | 01
09 | AZ | GILBERT, TOWN OF | 04013C2660F | 07-NOV-2001 | 02-09-052A | 02
09 | AZ | GILBERT, TOWN OF | 04013C2190F | 20-JUL-2001 | 98-09-558V | 19
09 | AZ | GILBERT, TOWN OF | 04013C2215G | 20-JUL-2001 | 98-09-558V | 19
09 | AZ | GILBERT, TOWN OF | 04013C2655F | 20-JUL-2001 | 98-09-558V | 19
09 | AZ | GILBERT, TOWN OF | 04013C2660F | 20-JUL-2001 | 98-09-558V | 19
09 | AZ | GILBERT, TOWN OF | 04013C2680G | 20-JUL-2001 | 98-09-558V | 19
09 | AZ | GLENDALE, CITY OF | 04013C1190G | 20-JUL-2001 | 98-09-558V | 19
09 | AZ | GLENDALE, CITY OF | 04013C1195E | 20-JUL-2001 | 98-09-558V | 19
09 | AZ | GLENDALE, CITY OF | 04013C1635F | 20-JUL-2001 | 98-09-558V | 19
09 | AZ | GLENDALE, CITY OF | 04013C1640E | 20-JUL-2001 | 98-09-558V | 19
09 | AZ | GLENDALE, CITY OF | 04013C1645F | 20-JUL-2001 | 98-09-558V | 19
09 | AZ | GOODYEAR, CITY OF | 04013C2080H | 23-AUG-2001 | 01-09-497P | 05
09 | AZ | GOODYEAR, CITY OF | 04013C2080H | 20-JUL-2001 | 98-09-558V | 19
09 | AZ | GOODYEAR, CITY OF | 04013C2555E | 20-JUL-2001 | 98-09-558V | 19
09 | AZ | LITCHFIELD PARK, CITY OF | 04013C2080H | 10-SEP-2001 | 01-09-1076A | 02
09 | AZ | LITCHFIELD PARK, CITY OF | 04013C2080H | 20-JUL-2001 | 98-09-558V | 19
09 | AZ | MARICOPA COUNTY | 04013C0975F | 20-JUL-2001 | 00-09-985P | 06
09 | AZ | MARICOPA COUNTY | 04013C1425F | 20-JUL-2001 | 00-09-985P | 06
09 | AZ | MARICOPA COUNTY | 04013C0390E | 05-JUL-2001 | 01-09-082P | 05
09 | AZ | MARICOPA COUNTY | 04013C0395F | 05-JUL-2001 | 01-09-082P | 05
09 | AZ | MARICOPA COUNTY | 04013C0975F | 30-NOV-2001 | 01-09-1164X | 06
09 | AZ | MARICOPA COUNTY | 04013C1425F | 30-NOV-2001 | 01-09-1164X | 06
09 | AZ | MARICOPA COUNTY | 04013C0210E | 15-OCT-2001 | 01-09-184P | 06
09 | AZ | MARICOPA COUNTY | 04013C0220E | 15-OCT-2001 | 01-09-184P | 06
09 | AZ | MARICOPA COUNTY | 04013C0230F | 15-OCT-2001 | 01-09-184P | 06
09 | AZ | MARICOPA COUNTY | 04013C0235F | 15-OCT-2001 | 01-09-184P | 06
09 | AZ | MARICOPA COUNTY | 04013C0240E | 15-OCT-2001 | 01-09-184P | 06
09 | AZ | MARICOPA COUNTY | 04013C0245E | 15-OCT-2001 | 01-09-184P | 06
09 | AZ | MARICOPA COUNTY | 04013C0255G | 15-OCT-2001 | 01-09-184P | 06
09 | AZ | MARICOPA COUNTY | 04013C0260E | 15-OCT-2001 | 01-09-184P | 06
09 | AZ | MARICOPA COUNTY | 04013C0265F | 15-OCT-2001 | 01-09-184P | 06
09 | AZ | MARICOPA COUNTY | 04013C0270F | 15-OCT-2001 | 01-09-184P | 06
09 | AZ | MARICOPA COUNTY | 04013C0300D | 15-OCT-2001 | 01-09-184P | 06
09 | AZ | MARICOPA COUNTY | 04013C0660F | 15-OCT-2001 | 01-09-184P | 06
09 | AZ | MARICOPA COUNTY | 04013C0675F | 15-OCT-2001 | 01-09-184P | 06
09 | AZ | MARICOPA COUNTY | 04013C0680F | 15-OCT-2001 | 01-09-184P | 06
09 | AZ | MARICOPA COUNTY | 04013C2055F | 09-OCT-2001 | 01-09-453P | 05
09 | AZ | MARICOPA COUNTY | 04013C3035G | 12-OCT-2001 | 02-09-009A | 02
09 | AZ | MARICOPA COUNTY | 04013C0255G | 20-JUL-2001 | 98-09-558V | 19
09 | AZ | MARICOPA COUNTY | 04013C0395G | 20-JUL-2001 | 98-09-558V | 19
09 | AZ | MARICOPA COUNTY | 04013C0780G | 20-JUL-2001 | 98-09-558V | 19
09 | AZ | MARICOPA COUNTY | 04013C0785H | 20-JUL-2001 | 98-09-558V | 19
09 | AZ | MARICOPA COUNTY | 04013C0790F | 20-JUL-2001 | 98-09-558V | 19
09 | AZ | MARICOPA COUNTY | 04013C0795G | 20-JUL-2001 | 98-09-558V | 19
09 | AZ | MARICOPA COUNTY | 04013C0806H | 20-JUL-2001 | 98-09-558V | 19
09 | AZ | MARICOPA COUNTY | 04013C1280F | 20-JUL-2001 | 98-09-558V | 19
09 | AZ | MARICOPA COUNTY | 04013C1285F | 20-JUL-2001 | 98-09-558V | 19
09 | AZ | MARICOPA COUNTY | 04013C1300F | 20-JUL-2001 | 98-09-558V | 19
09 | AZ | MARICOPA COUNTY | 04013C1585G | 20-JUL-2001 | 98-09-558V | 19
09 | AZ | MARICOPA COUNTY | 04013C2045G | 20-JUL-2001 | 98-09-558V | 19
09 | AZ | MARICOPA COUNTY | 04013C2090G | 20-JUL-2001 | 98-09-558V | 19
09 | AZ | MARICOPA COUNTY | 04013C2160E | 20-JUL-2001 | 98-09-558V | 19
09 | AZ | MARICOPA COUNTY | 04013C2205F | 20-JUL-2001 | 98-09-558V | 19
09 | AZ | MESA, CITY OF | 04013C2195F | 20-JUL-2001 | 01-09-1192X | 19
09 | AZ | MESA, CITY OF | 04013C2195F | 24-OCT-2001 | 02-09-028A | 01
09 | AZ | MESA, CITY OF | 04013C2170F | 20-JUL-2001 | 98-09-558V | 19
09 | AZ | MESA, CITY OF | 04013C2180F | 20-JUL-2001 | 98-09-558V | 19
09 | AZ | MESA, CITY OF | 04013C2185F | 20-JUL-2001 | 98-09-558V | 19
09 | AZ | MESA, CITY OF | 04013C2190F | 20-JUL-2001 | 98-09-558V | 19
09 | AZ | MESA, CITY OF | 04013C2195F | 20-JUL-2001 | 98-09-558V | 19
09 | AZ | MESA, CITY OF | 04013C2205F | 20-JUL-2001 | 98-09-558V | 19
09 | AZ | MESA, CITY OF | 04013C2215G | 20-JUL-2001 | 98-09-558V | 19
09 | AZ | MESA, CITY OF | 04013C2635G | 20-JUL-2001 | 98-09-558V | 19
09 | AZ | NAVAJO COUNTY | 0400661807B | 11-JUL-2001 | 01-09-610A | 01
09 | AZ | PARADISE VALLEY, TOWN OF | 04013C1690F | 20-JUL-2001 | 98-09-558V | 19
09 | AZ | PEORIA, CITY OF | 04013C1170G | 10-DEC-2001 | 01-09-1111P | 06
09 | AZ | PEORIA, CITY OF | 04013C1190G | 24-OCT-2001 | 02-09-008A | 02
09 | AZ | PEORIA, CITY OF | 04013C1170G | 20-JUL-2001 | 98-09-558V | 19
09 | AZ | PEORIA, CITY OF | 04013C1630G | 20-JUL-2001 | 98-09-558V | 19
09 | AZ | PHOENIX, CITY OF | 04013C0770E | 10-SEP-2001 | 01-09-1003P | 05
09 | AZ | PHOENIX, CITY OF | 04013C0780G | 10-SEP-2001 | 01-09-1003P | 05
09 | AZ | PHOENIX, CITY OF | 04013C0790F | 10-SEP-2001 | 01-09-1003P | 05
09 | AZ | PHOENIX, CITY OF | 04013C1205F | 10-SEP-2001 | 01-09-1003P | 05
09 | AZ | PHOENIX, CITY OF | 04013C1230G | 24-AUG-2001 | 01-09-1065A | 01
09 | AZ | PHOENIX, CITY OF | 04013C1690F | 21-SEP-2001 | 01-09-1097A | 02
09 | AZ | PHOENIX, CITY OF | 04013C1195E | 03-OCT-2001 | 01-09-1156A | 01
09 | AZ | PHOENIX, CITY OF | 04013C1215J | 03-OCT-2001 | 01-09-1156A | 01
09 | AZ | PHOENIX, CITY OF | 04013C2130F | 26-SEP-2001 | 01-09-1169A | 02
09 | AZ | PHOENIX, CITY OF | 04013C1210G | 20-JUL-2001 | 01-09-1192X | 19
09 | AZ | PHOENIX, CITY OF | 04013C1215J | 20-JUL-2001 | 01-09-1192X | 19
09 | AZ | PHOENIX, CITY OF | 04013C1220H | 20-JUL-2001 | 01-09-1192X | 19
09 | AZ | PHOENIX, CITY OF | 04013C1655J | 20-JUL-2001 | 01-09-1192X | 19
09 | AZ | PHOENIX, CITY OF | 04013C2130F | 20-JUL-2001 | 01-09-1192X | 19
09 | AZ | PHOENIX, CITY OF | 04013C2155F | 20-JUL-2001 | 01-09-1192X | 19
09 | AZ | PHOENIX, CITY OF | 04013C2640F | 20-JUL-2001 | 01-09-1192X | 19
09 | AZ | PHOENIX, CITY OF | 04013C1670F | 15-OCT-2001 | 01-09-285P | 05
09 | AZ | PHOENIX, CITY OF | 04013C1215J | 12-DEC-2001 | 01-09-526P | 05
09 | AZ | PHOENIX, CITY OF | 04013C1655J | 12-DEC-2001 | 01-09-526P | 05
09 | AZ | PHOENIX, CITY OF | 04013C2130F | 03-OCT-2001 | 01-09-818A | 02
09 | AZ | PHOENIX, CITY OF | 04013C2130F | 26-SEP-2001 | 01-09-819A | 02
09 | AZ | PHOENIX, CITY OF | 04013C2145G | 19-NOV-2001 | 01-09-881A | 01
09 | AZ | PHOENIX, CITY OF | 04013C1195E | 12-SEP-2001 | 01-09-998A | 01
09 | AZ | PHOENIX, CITY OF | 04013C1195E | 03-DEC-2001 | 02-09-049A | 01
09 | AZ | PHOENIX, CITY OF | 04013C2135E | 09-NOV-2001 | 02-09-078A | 02
09 | AZ | PHOENIX, CITY OF | 04013C2640F | 15-NOV-2001 | 02-09-092A | 01
09 | AZ | PHOENIX, CITY OF | 04013C1185G | 20-JUL-2001 | 98-09-558V | 19
09 | AZ | PHOENIX, CITY OF | 04013C1195E | 20-JUL-2001 | 98-09-558V | 19
09 | AZ | PHOENIX, CITY OF | 04013C1210G | 20-JUL-2001 | 98-09-558V | 19
09 | AZ | PHOENIX, CITY OF | 04013C1215J | 20-JUL-2001 | 98-09-558V | 19
09 | AZ | PHOENIX, CITY OF | 04013C1220H | 20-JUL-2001 | 98-09-558V | 19
09 | AZ | PHOENIX, CITY OF | 04013C1230G | 20-JUL-2001 | 98-09-558V | 19
09 | AZ | PHOENIX, CITY OF | 04013C1615J | 20-JUL-2001 | 98-09-558V | 19
09 | AZ | PHOENIX, CITY OF | 04013C1620G | 20-JUL-2001 | 98-09-558V | 19
09 | AZ | PHOENIX, CITY OF | 04013C1655J | 20-JUL-2001 | 98-09-558V | 19
09 | AZ | PHOENIX, CITY OF | 04013C1660G | 20-JUL-2001 | 98-09-558V | 19
09 | AZ | PHOENIX, CITY OF | 04013C1665H | 20-JUL-2001 | 98-09-558V | 19
09 | AZ | PHOENIX, CITY OF | 04013C1670F | 20-JUL-2001 | 98-09-558V | 19
09 | AZ | PHOENIX, CITY OF | 04013C1680G | 20-JUL-2001 | 98-09-558V | 19
09 | AZ | PHOENIX, CITY OF | 04013C1690F | 20-JUL-2001 | 98-09-558V | 19
09 | AZ | PHOENIX, CITY OF | 04013C2105E | 20-JUL-2001 | 98-09-558V | 19
09 | AZ | PHOENIX, CITY OF | 04013C2110E | 20-JUL-2001 | 98-09-558V | 19
09 | AZ | PHOENIX, CITY OF | 04013C2120F | 20-JUL-2001 | 98-09-558V | 19
09 | AZ | PHOENIX, CITY OF | 04013C2130F | 20-JUL-2001 | 98-09-558V | 19
09 | AZ | PHOENIX, CITY OF | 04013C2135E | 20-JUL-2001 | 98-09-558V | 19
09 | AZ | PHOENIX, CITY OF | 04013C2145G | 20-JUL-2001 | 98-09-558V | 19
09 | AZ | PHOENIX, CITY OF | 04013C2155F | 20-JUL-2001 | 98-09-558V | 19
09 | AZ | PHOENIX, CITY OF | 04013C2605E | 20-JUL-2001 | 98-09-558V | 19
09 | AZ | PHOENIX, CITY OF | 04013C2610E | 20-JUL-2001 | 98-09-558V | 19
09 | AZ | PIMA COUNTY | 04019C1636K | 20-SEP-2001 | 01-09-1077A | 02
09 | AZ | PIMA COUNTY | 04019C2200K | 07-AUG-2001 | 01-09-430P | 05
09 | AZ | PIMA COUNTY | 04019C2225K | 07-AUG-2001 | 01-09-430P | 05
09 | AZ | PIMA COUNTY | 04019C1690K | 02-JUL-2001 | 01-09-782A | 02
09 | AZ | PIMA COUNTY | 04019C1637K | 17-AUG-2001 | 01-09-836A | 02
09 | AZ | PIMA COUNTY | 04019C1636K | 24-OCT-2001 | 01-09-993A | 02
09 | AZ | PIMA COUNTY | 04019C1665K | 07-NOV-2001 | 02-09-067A | 02
09 | AZ | PIMA COUNTY | 04019C2280K | 19-DEC-2001 | 02-09-189A | 02
09 | AZ | QUEEN CREEK, TOWN OF | 04013C3075G | 20-JUL-2001 | 98-09-558V | 19
09 | AZ | SCOTTSDALE, CITY OF | 04013C2160E | 15-NOV-2001 | 01-09-1187A | 02
09 | AZ | SCOTTSDALE, CITY OF | 04013C2155F | 01-AUG-2001 | 01-09-171P | 06
09 | AZ | SCOTTSDALE, CITY OF | 04013C1265F | 31-AUG-2001 | 01-09-632P | 05
09 | AZ | SCOTTSDALE, CITY OF | 04013C1235F | 20-JUL-2001 | 98-09-558V | 19
09 | AZ | SCOTTSDALE, CITY OF | 04013C1695G | 20-JUL-2001 | 98-09-558V | 19
09 | AZ | SCOTTSDALE, CITY OF | 04013C1705F | 20-JUL-2001 | 98-09-558V | 19
09 | AZ | SCOTTSDALE, CITY OF | 04013C1710E | 20-JUL-2001 | 98-09-558V | 19
09 | AZ | SCOTTSDALE, CITY OF | 04013C2155F | 20-JUL-2001 | 98-09-558V | 19
09 | AZ | SCOTTSDALE, CITY OF | 04013C2160E | 20-JUL-2001 | 98-09-558V | 19
09 | AZ | SIERRA VISTA, CITY OF | 0400170005C | 31-JUL-2001 | 01-09-019P | 05
09 | AZ | SIERRA VISTA, CITY OF | 0400170010C | 31-JUL-2001 | 01-09-019P | 05
09 | AZ | SIERRA VISTA, CITY OF | 0400170015C | 31-JUL-2001 | 01-09-019P | 05
09 | AZ | SURPRISE, TOWN OF | 04013C1585G | 02-NOV-2001 | 01-09-973P | 06
09 | AZ | TEMPE, CITY OF | 04013C2630F | 17-AUG-2001 | 01-09-953A | 01
09 | AZ | TEMPE, CITY OF | 04013C2165G | 20-JUL-2001 | 98-09-558V | 19
09 | AZ | TEMPE, CITY OF | 04013C2170F | 20-JUL-2001 | 98-09-558V | 19
09 | AZ | TEMPE, CITY OF | 04013C2630F | 20-JUL-2001 | 98-09-558V | 19
09 | AZ | TOLLESON, CITY OF | 04013C2085F | 21-DEC-2001 | 02-09-135A | 02
09 | AZ | TUCSON, CITY OF | 04019C2226K | 02-NOV-2001 | 00-09-051P | 05
09 | AZ | TUCSON, CITY OF | 04019C2227K | 02-NOV-2001 | 00-09-051P | 05
09 | AZ | TUCSON, CITY OF | 04019C2210K | 10-SEP-2001 | 01-09-1061A | 02
09 | AZ | TUCSON, CITY OF | 04019C1643K | 10-SEP-2001 | 01-09-1095A | 02
09 | AZ | TUCSON, CITY OF | 04019C2226K | 03-DEC-2001 | 01-09-1163A | 01
09 | AZ | TUCSON, CITY OF | 04019C2256K | 03-OCT-2001 | 01-09-1165A | 02
09 | AZ | TUCSON, CITY OF | 04019C2234K | 02-JUL-2001 | 01-09-776A | 02
09 | AZ | TUCSON, CITY OF | 04019C1670K | 11-JUL-2001 | 01-09-816A | 02
09 | AZ | TUCSON, CITY OF | 04019C2232K | 06-JUL-2001 | 01-09-860A | 02
09 | AZ | TUCSON, CITY OF | 04019C2251K | 11-JUL-2001 | 01-09-876A | 02
09 | AZ | TUCSON, CITY OF | 04019C1644K | 08-AUG-2001 | 01-09-904A | 02
09 | AZ | TUCSON, CITY OF | 04019C2210K | 28-AUG-2001 | 01-09-914P | 06
09 | AZ | TUCSON, CITY OF | 04019C2259K | 04-OCT-2001 | 01-09-994P | 06
09 | AZ | TUCSON, CITY OF | 04019C2232K | 21-DEC-2001 | 02-09-210A | 02
09 | AZ | WICKENBURG, TOWN OF | 04013C0235F | 20-JUL-2001 | 98-09-558V | 19
09 | AZ | WICKENBURG, TOWN OF | 04013C0255G | 20-JUL-2001 | 98-09-558V | 19
09 | AZ | YAVAPAI COUNTY | 04025C2915F | 31-DEC-2001 | 02-09-114A | 02
09 | CA | ALAMEDA COUNTY | 0600010120B | 19-DEC-2001 | 01-09-344P | 05
09 | CA | AMADOR COUNTY | 060015—875E | 19-OCT-2001 | 01-09-1196A | 02
09 | CA | ANAHEIM, CITY OF | 06059C0008F | 24-OCT-2001 | 01-09-1175A | 02
09 | CA | ANDERSON, CITY OF | 0603580885E | 12-SEP-2001 | 01-09-1039A | 02
09 | CA | ANDERSON, CITY OF | 0603580885E | 12-SEP-2001 | 01-09-1086A | 02
09 | CA | ANDERSON, CITY OF | 0603590001C | 03-OCT-2001 | 01-09-1179A | 02
09 | CA | ANDERSON, CITY OF | 0603590001C | 02-NOV-2001 | 02-09-032A | 02
09 | CA | AVALON, CITY OF | 0600980005B | 05-OCT-2001 | 01-09-964A | 02
09 | CA | BIG BEAR LAKE, CITY OF | 06071C7295F | 23-AUG-2001 | 01-09-1048A | 02
09 | CA | BRENTWOOD, CITY OF | 0600250365B | 24-OCT-2001 | 01-09-1129A | 01
09 | CA | BURLINGAME, CITY OF | 0650190004C | 03-OCT-2001 | 01-09-1153A | 02
09 | CA | BURLINGAME, CITY OF | 0650190004C | 31-OCT-2001 | 02-09-094X | 02
09 | CA | BUTTE COUNTY | 06007C0520C | 23-AUG-2001 | 01-09-1027A | 02
09 | CA | BUTTE COUNTY | 06007C0505C | 01-AUG-2001 | 01-09-795A | 02
09 | CA | BUTTE COUNTY | 06007C0510D | 01-AUG-2001 | 01-09-795A | 02
09 | CA | BUTTE COUNTY | 06007C0520 | 18-JUL-2001 | 01-09-810A | 02
09 | CA | BUTTE COUNTY | 06007C0790C | 20-JUL-2001 | 01-09-871A | 02
09 | CA | CARLSBAD, CITY OF | 06073C0768F | 25-OCT-2001 | 01-09-204P | 05
09 | CA | CHICO, CITY OF | 06007C0505C | 26-SEP-2001 | 01-09-1079A | 02
09 | CA | CHULA VISTA, CITY OF | 06073C2156F | 01-NOV-2001 | 01-09-334P | 06
09 | CA | CHULA VISTA, CITY OF | 06073C2157F | 01-NOV-2001 | 01-09-334P | 06
09 | CA | CITRUS HEIGHTS, CITY OF | 0602620085E | 31-DEC-2001 | 01-09-1180A | 02
09 | CA | CITRUS HEIGHTS, CITY OF | 0602620095E | 24-OCT-2001 | 02-09-018A | 02
09 | CA | CLAYTON, CITY OF | 0600270001C | 21-DEC-2001 | 02-09-198A | 02
09 | CA | CLAYTON, CITY OF | 0600270001C | 10-SEP-2001 | 98-09-174V | 19
09 | CA | CLEARLAKE, CITY OF | 0607140005C | 19-NOV-2001 | 01-09-1201A | 02
09 | CA | CLOVERDALE, CITY OF | 0603760001C | 14-DEC-2001 | 02-09-057A | 02
09 | CA | CLOVIS, CITY OF | 06019C1580F | 20-JUL-2001 | 01-09-941V | 19
09 | CA | CLOVIS, CITY OF | 06019C1585F | 20-JUL-2001 | 01-09-941V | 19
09 | CA | CLOVIS, CITY OF | 06019C1595F | 20-JUL-2001 | 01-09-941V | 19
09 | CA | CONCORD, CITY OF | 0650220008B | 23-AUG-2001 | 01-09-1034A | 02
09 | CA | CONCORD, CITY OF | 0650220005C | 10-SEP-2001 | 98-09-173V | 19
09 | CA | CONCORD, CITY OF | 0650220006C | 10-SEP-2001 | 98-09-173V | 19
09 | CA | CONCORD, CITY OF | 0650220007C | 10-SEP-2001 | 98-09-173V | 19
09 | CA | CONCORD, CITY OF | 0650220010C | 10-SEP-2001 | 98-09-173V | 19
09 | CA | CONTRA COSTA COUNTY | 0600250280B | 23-AUG-2001 | 01-09-1040A | 02
09 | CA | CONTRA COSTA COUNTY | 0600250295C | 31-OCT-2001 | 01-09-1098A | 01
09 | CA | CONTRA COSTA COUNTY | 0600250500B | 21-DEC-2001 | 02-09-127A | 02
09 | CA | CONTRA COSTA COUNTY | 0600250090C | 10-SEP-2001 | 98-09-075V | 19
09 | CA | CONTRA COSTA COUNTY | 0600250230C | 10-SEP-2001 | 98-09-075V | 19
09 | CA | CONTRA COSTA COUNTY | 0600250235C | 10-SEP-2001 | 98-09-075V | 19
09 | CA | CONTRA COSTA COUNTY | 0600250250C | 10-SEP-2001 | 98-09-075V | 19
09 | CA | CONTRA COSTA COUNTY | 0600250280C | 10-SEP-2001 | 98-09-075V | 19
09 | CA | CONTRA COSTA COUNTY | 0600250455C | 10-SEP-2001 | 98-09-075V | 19
09 | CA | CONTRA COSTA COUNTY | 0600250475C | 10-SEP-2001 | 98-09-075V | 19
09 | CA | CORONA, CITY OF | 0602500005F | 10-AUG-2001 | 01-09-1008A | 02
09 | CA | DANVILLE, TOWN OF | 0607070001B | 10-SEP-2001 | 98-09-172V | 19
09 | CA | DIAMOND BAR, CITY OF | 0650430980B | 15-NOV-2001 | 02-09-107A | 02
09 | CA | DINUBA, CITY OF | 0650660280B | 24-OCT-2001 | 01-09-1044A | 01
09 | CA | DOWNEY, CITY OF | 0606450005A | 12-SEP-2001 | 01-09-852A | 02
09 | CA | EL DORADO COUNTY | 0600400607B | 11-JUL-2001 | 01-09-697A | 02
09 | CA | ESCONDIDO, CITY OF | 06073C0818F | 17-AUG-2001 | 01-09-745A | 02
09 | CA | ESCONDIDO, CITY OF | 06073C0818F | 06-JUL-2001 | 01-09-802A | 02
09 | CA | FORTUNA, CITY OF | 0600630002B | 06-JUL-2001 | 01-09-720A | 02
09 | CA | FORTUNA, CITY OF | 0600601110B | 06-JUL-2001 | 01-09-883A | 02
09 | CA | FOUNTAIN VALLEY, CITY OF | 06059C0037F | 14-DEC-2001 | 02-09-270A | 02
09 | CA | FREMONT,CITY OF | 0650280033C | 30-AUG-2001 | 01-09-1046A | 02
09 | CA | FREMONT,CITY OF | 0605028003C | 12-SEP-2001 | 01-09-1120A | 02
09 | CA | FREMONT,CITY OF | 0650280033C | 21-SEP-2001 | 01-09-1172X | 02
09 | CA | FREMONT,CITY OF | 0650280033C | 01-AUG-2001 | 01-09-944A | 02
09 | CA | FRESNO COUNTY | 06019C1045F | 20-JUL-2001 | 01-09-941V | 19
09 | CA | FRESNO COUNTY | 06019C1060F | 20-JUL-2001 | 01-09-941V | 19
09 | CA | FRESNO COUNTY | 06019C1570F | 20-JUL-2001 | 01-09-941V | 19
09 | CA | FRESNO COUNTY | 06019C1585F | 20-JUL-2001 | 01-09-941V | 19
09 | CA | FRESNO COUNTY | 06019C1610F | 20-JUL-2001 | 01-09-941V | 19
09 | CA | FRESNO COUNTY | 06019C1620F | 20-JUL-2001 | 01-09-941V | 19
09 | CA | FRESNO COUNTY | 06019C1645F | 20-JUL-2001 | 01-09-941V | 19
09 | CA | FRESNO COUNTY | 06019C1665F | 20-JUL-2001 | 01-09-941V | 19
09 | CA | FRESNO COUNTY | 06019C2100F | 20-JUL-2001 | 01-09-941V | 19
09 | CA | FRESNO COUNTY | 06019C2130F | 20-JUL-2001 | 01-09-941V | 19
09 | CA | FRESNO COUNTY | 06019C2180F | 20-JUL-2001 | 01-09-941V | 19
09 | CA | FRESNO COUNTY | 06019C2225F | 20-JUL-2001 | 01-09-941V | 19
09 | CA | FRESNO COUNTY | 06019C2675F | 20-JUL-2001 | 01-09-941V | 19
09 | CA | FRESNO COUNTY | 06019C2710F | 20-JUL-2001 | 01-09-941V | 19
09 | CA | FRESNO COUNTY | 06019C1615F | 28-NOV-2001 | 02-09-121A | 01
09 | CA | FRESNO COUNTY | 06019C2190F | 14-DEC-2001 | 02-09-160A | 02
09 | CA | FRESNO, CITY OF | 06019C1040F | 20-JUL-2001 | 01-09-941V | 19
09 | CA | FRESNO, CITY OF | 06019C1565F | 20-JUL-2001 | 01-09-941V | 19
09 | CA | FRESNO, CITY OF | 06019C1570F | 20-JUL-2001 | 01-09-941V | 19
09 | CA | FRESNO, CITY OF | 06019C1580F | 20-JUL-2001 | 01-09-941V | 19
09 | CA | FRESNO, CITY OF | 06019C1585F | 20-JUL-2001 | 01-09-941V | 19
09 | CA | FRESNO, CITY OF | 06019C2110F | 20-JUL-2001 | 01-09-941V | 19
09 | CA | FRESNO, CITY OF | 06019C2130F | 20-JUL-2001 | 01-09-941V | 19
09 | CA | FRESNO, CITY OF | 06019C1555F | 19-DEC-2001 | 02-09-157A | 17
09 | CA | GRASS VALLEY, CITY OF | 0602110003D | 10-SEP-2001 | 01-09-956A | 02
09 | CA | HAYWARD, CITY OF | 0650330020E | 30-AUG-2001 | 01-09-1025A | 01
09 | CA | HAYWARD, CITY OF | 0650330020E | 26-SEP-2001 | 01-09-1114A | 01
09 | CA | HUNTINGTON BEACH, CITY OF | 06059C0036F | 31-AUG-2001 | 01-09-1055A | 02
09 | CA | KERN COUNTY | 0600751825C | 16-JUL-2001 | 00-09-754P | 06
09 | CA | KERN COUNTY | 0600752025D | 16-JUL-2001 | 00-09-754P | 06
09 | CA | KERN COUNTY | 0600752025D | 20-SEP-2001 | 01-09-1026A | 02
09 | CA | KERN COUNTY | 0600752025D | 26-SEP-2001 | 01-09-1170A | 02
09 | CA | KERN COUNTY | 0600750100B | 01-AUG-2001 | 01-09-791A | 01
09 | CA | KERN COUNTY | 0600751910 | 27-SEP-2001 | 01-09-804P | 05
09 | CA | KERN COUNTY | 0600751555B | 28-NOV-2001 | 02-09-110A | 02
09 | CA | LAKE COUNTY | 0600900845B | 03-DEC-2001 | 02-09-076A | 02
09 | CA | LAKE ELSINORE, CITY OF | 0606360013E | 01-NOV-2001 | 01-09-607P | 06
09 | CA | LAKE ELSINORE, CITY OF | 0606360026E | 01-NOV-2001 | 01-09-607P | 06
09 | CA | LAKE ELSINORE, CITY OF | 0606360033E | 03-OCT-2001 | 01-09-781A | 02
09 | CA | LAKE FOREST, CITY OF | 06059C0057E | 03-OCT-2001 | 01-09-1161A | 02
09 | CA | LAKE FOREST, CITY OF | 06059C0050F | 06-JUL-2001 | 01-09-743A | 17
09 | CA | LARKSPUR, CITY OF | 0650400001B | 07-NOV-2001 | 02-09-072A | 02
09 | CA | LIVERMORE, CITY OF | 0600080005B | 19-DEC-2001 | 01-09-344P | 05
09 | CA | LIVERMORE, CITY OF | 0600080010B | 06-JUL-2001 | 01-09-844A | 02
09 | CA | LONG BEACH, CITY OF | 0601360025C | 11-DEC-2001 | 01-09-644A | 01
09 | CA | LOS ANGELES COUNTY | 0650430345B | 22-AUG-2001 | 01-09-459P | 06
09 | CA | LOS ANGELES COUNTY | 0650430365B | 22-AUG-2001 | 01-09-459P | 06
09 | CA | LOS ANGELES, CITY OF | 0601370071C | 15-AUG-2001 | 01-09-1022A | 02
09 | CA | LOS ANGELES, CITY OF | 0601370071C | 20-SEP-2001 | 01-09-1148A | 02
09 | CA | LOS ANGELES, CITY OF | 0601370084C | 09-NOV-2001 | 01-09-557P | 06
09 | CA | LOS ANGELES, CITY OF | 0601370085C | 09-NOV-2001 | 01-09-557P | 06
09 | CA | LOS ANGELES, CITY OF | 0601370005C | 11-JUL-2001 | 01-09-704A | 02
09 | CA | LOS ANGELES, CITY OF | 0601370086C | 02-JUL-2001 | 01-09-789A | 02
09 | CA | LOS ANGELES, CITY OF | 0601370071C | 08-AUG-2001 | 01-09-950A | 02
09 | CA | LOS ANGELES, CITY OF | 0601370071C | 10-AUG-2001 | 01-09-951A | 02
09 | CA | LOS ANGELES, CITY OF | 0601370071C | 21-SEP-2001 | 01-09-968A | 02
09 | CA | LOS ANGELES, CITY OF | 0601370071C | 24-AUG-2001 | 01-09-971A | 02
09 | CA | LOS ANGELES, CITY OF | 0601370071C | 07-NOV-2001 | 02-09-100A | 02
09 | CA | MADERA COUNTY | 0601700350B | 28-NOV-2001 | 02-09-112A | 02
09 | CA | MARIN COUNTY | 0601730269B | 20-JUL-2001 | 01-09-715A | 01
09 | CA | MARIN COUNTY | 0601730250A | 03-OCT-2001 | 01-09-932A | 02
09 | CA | MARIN COUNTY | 0601730269B | 26-OCT-2001 | 02-09-010A | 02
09 | CA | MARIN COUNTY | 0601730443A | 21-DEC-2001 | 02-09-065A | 02
09 | CA | MENDOCINO COUNTY | 0601830600B | 15-AUG-2001 | 01-09-1014A | 02
09 | CA | MENDOCINO COUNTY | 0601830692B | 03-OCT-2001 | 01-09-1143A | 02
09 | CA | MENDOCINO COUNTY | 0601830784B | 24-OCT-2001 | 01-09-606A | 01
09 | CA | MENDOCINO COUNTY | 0601830801B | 24-OCT-2001 | 01-09-606A | 01
09 | CA | MENDOCINO COUNTY | 0601830803B | 24-OCT-2001 | 01-09-606A | 01
09 | CA | MENLO PARK, CITY OF | 0603210007D | 28-NOV-2001 | 01-09-1080A | 02
09 | CA | MENLO PARK, CITY OF | 0603210008D | 03-OCT-2001 | 01-09-1176A | 02
09 | CA | MENLO PARK, CITY OF | 0603210007D | 28-SEP-2001 | 01-09-1178A | 02
09 | CA | MENLO PARK, CITY OF | 0603210007D | 01-AUG-2001 | 01-09-908A | 02
09 | CA | MERCED COUNTY | 06047C0700E | 20-NOV-2001 | 02-09-041A | 01
09 | CA | MERCED, CITY OF | 06047C0440E | 07-NOV-2001 | 01-09-1185A | 01
09 | CA | MILPITAS, CITY OF | 0603440001G | 17-AUG-2001 | 01-09-1029A | 02
09 | CA | MILPITAS, CITY OF | 0603440001G | 23-AUG-2001 | 01-09-1033A | 02
09 | CA | MILPITAS, CITY OF | 0603440001G | 31-AUG-2001 | 01-09-1064A | 02
09 | CA | MILPITAS, CITY OF | 0603440003G | 14-SEP-2001 | 01-09-1122A | 02
09 | CA | MILPITAS, CITY OF | 0603440001G | 26-SEP-2001 | 01-09-1126A | 02
09 | CA | MILPITAS, CITY OF | 0603440003G | 26-OCT-2001 | 01-09-1132A | 01
09 | CA | MILPITAS, CITY OF | 0603440001G | 26-SEP-2001 | 01-09-1150A | 02
09 | CA | MILPITAS, CITY OF | 0603440003G | 26-SEP-2001 | 01-09-1152A | 02
09 | CA | MILPITAS, CITY OF | 0603440001G | 03-OCT-2001 | 01-09-1186A | 02
09 | CA | MILPITAS, CITY OF | 0603440001G | 10-OCT-2001 | 01-09-1188A | 02
09 | CA | MILPITAS, CITY OF | 0603440003G | 03-OCT-2001 | 01-09-1193A | 02
09 | CA | MILPITAS, CITY OF | 0603440003G | 06-JUL-2001 | 01-09-827A | 02
09 | CA | MILPITAS, CITY OF | 0603440003G | 27-JUL-2001 | 01-09-926A | 02
09 | CA | MILPITAS, CITY OF | 0603440001G | 01-AUG-2001 | 01-09-958A | 02
09 | CA | MILPITAS, CITY OF | 0603440001G | 08-AUG-2001 | 01-09-969A | 02
09 | CA | MILPITAS, CITY OF | 0603440003G | 10-AUG-2001 | 01-09-985A | 02
09 | CA | MILPITAS, CITY OF | 0603440003G | 10-OCT-2001 | 02-09-004A | 02
09 | CA | MILPITAS, CITY OF | 0603440003G | 12-OCT-2001 | 02-09-027A | 02
09 | CA | MILPITAS, CITY OF | 0603440001G | 24-OCT-2001 | 02-09-040A | 02
09 | CA | MILPITAS, CITY OF | 0603440001G | 24-OCT-2001 | 02-09-042A | 02
09 | CA | MILPITAS, CITY OF | 0603440001G | 09-NOV-2001 | 02-09-103A | 02
09 | CA | MILPITAS, CITY OF | 0603440001G | 15-NOV-2001 | 02-09-123A | 02
09 | CA | MILPITAS, CITY OF | 0603440001G | 19-NOV-2001 | 02-09-138A | 02
09 | CA | MILPITAS, CITY OF | 0603440001G | 28-NOV-2001 | 02-09-154A | 02
09 | CA | MILPITAS, CITY OF | 0603440001G | 14-DEC-2001 | 02-09-174A | 02
09 | CA | MILPITAS, CITY OF | 0603440003G | 31-DEC-2001 | 02-09-252A | 02
09 | CA | MILPITAS, CITY OF | 0603440003G | 31-DEC-2001 | 02-09-318A | 02
09 | CA | MODESTO, CITY OF | 0603870015D | 27-JUL-2001 | 01-09-848A | 02
09 | CA | MORAGA, TOWN OF | 0606370003A | 21-SEP-2001 | 01-09-1068A | 02
09 | CA | MOUNTAIN VIEW, CITY OF | 0603470004E | 18-JUL-2001 | 01-09-832A | 02
09 | CA | MOUNTAIN VIEW, CITY OF | 0603470004E | 28-NOV-2001 | 02-09-164A | 02
09 | CA | NAPA, CITY OF | 0602070010C | 15-AUG-2001 | 01-09-1010A | 02
09 | CA | NAPA, CITY OF | 0602070005D | 28-SEP-2001 | 01-09-1109A | 02
09 | CA | NAPA, CITY OF | 0602070005D | 06-JUL-2001 | 01-09-705A | 02
09 | CA | NAPA, CITY OF | 0602070010C | 10-AUG-2001 | 01-09-977A | 02
09 | CA | NAPA, CITY OF | 0602050410B | 24-OCT-2001 | 02-09-013A | 02
09 | CA | NAPA, CITY OF | 0602070005D | 15-NOV-2001 | 02-09-101A | 02
09 | CA | NAPA, CITY OF | 0602070005D | 03-DEC-2001 | 02-09-126A | 02
09 | CA | NAPA, CITY OF | 0602070010C | 28-NOV-2001 | 02-09-151A | 02
09 | CA | NEEDLES, CITY OF | 06071C5028F | 06-JUL-2001 | 01-09-817A | 01
09 | CA | NEVADA COUNTY | 0602100583B | 05-OCT-2001 | 01-09-1042A | 02
09 | CA | NEVADA COUNTY | 0602100475B | 21-SEP-2001 | 01-09-1093A | 02
09 | CA | NEWARK, CITY OF | 0600090005F | 28-NOV-2001 | 02-09-109A | 02
09 | CA | NORCO, CITY OF | 0602560003B | 14-NOV-2001 | 01-09-444P | 06
09 | CA | NOVATO, CITY OF | 0601780002C | 18-JUL-2001 | 01-09-674P | 05
09 | CA | OAKLEY, CITY OF | 0600250355B | 28-SEP-2001 | 01-09-1085A | 01
09 | CA | OAKLEY, CITY OF | 0600250355C | 10-OCT-2001 | 02-09-011X | 01
09 | CA | OAKLEY, CITY OF | 0600250355C | 09-NOV-2001 | 02-09-113A | 01
09 | CA | OCEANSIDE, CITY OF | 06073C0752G | 10-AUG-2001 | 01-09-1021A | 01
09 | CA | OCEANSIDE, CITY OF | 06073C0754G | 12-JUL-2001 | 01-09-814A | 02
09 | CA | OCEANSIDE, CITY OF | 06073C0759F | 03-AUG-2001 | 01-09-945A | 02
09 | CA | OCEANSIDE, CITY OF | 06073C0759F | 21-DEC-2001 | 02-09-202A | 02
09 | CA | PALO ALTO, CITY OF | 0603480003E | 30-AUG-2001 | 01-09-1072A | 02
09 | CA | PALO ALTO, CITY OF | 0603480003E | 10-SEP-2001 | 01-09-1075A | 02
09 | CA | PALO ALTO, CITY OF | 0603480002E | 12-SEP-2001 | 01-09-1108A | 02
09 | CA | PALO ALTO, CITY OF | 0603480003E | 02-JUL-2001 | 01-09-793A | 02
09 | CA | PALO ALTO, CITY OF | 0603480002E | 02-JUL-2001 | 01-09-805A | 02
09 | CA | PALO ALTO, CITY OF | 0603480003E | 11-JUL-2001 | 01-09-893A | 02
09 | CA | PALO ALTO, CITY OF | 0603480005E | 02-NOV-2001 | 02-09-079A | 02
09 | CA | PALO ALTO, CITY OF | 0603480003E | 03-DEC-2001 | 02-09-137A | 02
09 | CA | PALO ALTO, CITY OF | 0603480003E | 14-DEC-2001 | 02-09-170A | 02
09 | CA | PALO ALTO, CITY OF | 0603480002E | 19-DEC-2001 | 02-09-188A | 02
09 | CA | PALO ALTO, CITY OF | 0603480002E | 31-DEC-2001 | 02-09-209A | 02
09 | CA | PITTSBURG,CITY OF | 0600330001E | 10-SEP-2001 | 98-09-175V | 19
09 | CA | PITTSBURG,CITY OF | 0600330002E | 10-SEP-2001 | 98-09-175V | 19
09 | CA | PITTSBURG,CITY OF | 0600330004E | 10-SEP-2001 | 98-09-175V | 19
09 | CA | PLACER COUNTY | 06061C0418F | 03-DEC-2001 | 02-09-066A | 02
09 | CA | PLACER COUNTY | 06061C0225F | 28-NOV-2001 | 02-09-071A | 02
09 | CA | PLEASANTON, CITY OF | 0600120003D | 26-SEP-2001 | 01-09-1166A | 02
09 | CA | PLUMAS COUNTY | 0602440125C | 22-NOV-2001 | 99-09-410V | 19
09 | CA | PLUMAS COUNTY | 0602440225C | 22-NOV-2001 | 99-09-410V | 19
09 | CA | PLUMAS COUNTY | 0602440300C | 22-NOV-2001 | 99-09-410V | 19
09 | CA | PLUMAS COUNTY | 0602440525C | 22-NOV-2001 | 99-09-410V | 19
09 | CA | PLUMAS COUNTY | 0602440725C | 22-NOV-2001 | 99-09-410V | 19
09 | CA | PLUMAS COUNTY | 0602440750C | 22-NOV-2001 | 99-09-410V | 19
09 | CA | PLUMAS COUNTY | 0602440775C | 22-NOV-2001 | 99-09-410V | 19
09 | CA | PLUMAS COUNTY | 0602440800C | 22-NOV-2001 | 99-09-410V | 19
09 | CA | PLUMAS COUNTY | 0602440850C | 22-NOV-2001 | 99-09-410V | 19
09 | CA | PLUMAS COUNTY | 0602440925C | 22-NOV-2001 | 99-09-410V | 19
09 | CA | PLUMAS COUNTY | 0602440950C | 22-NOV-2001 | 99-09-410V | 19
09 | CA | PLUMAS COUNTY | 0602440975C | 22-NOV-2001 | 99-09-410V | 19
09 | CA | PLUMAS COUNTY | 0602441000C | 22-NOV-2001 | 99-09-410V | 19
09 | CA | PLUMAS COUNTY | 0602441025C | 22-NOV-2001 | 99-09-410V | 19
09 | CA | PLUMAS COUNTY | 0602441100C | 22-NOV-2001 | 99-09-410V | 19
09 | CA | PLUMAS COUNTY | 0602441200C | 22-NOV-2001 | 99-09-410V | 19
09 | CA | PLUMAS COUNTY | 0602441234C | 22-NOV-2001 | 99-09-410V | 19
09 | CA | PLUMAS COUNTY | 0602441275C | 22-NOV-2001 | 99-09-410V | 19
09 | CA | PLUMAS COUNTY | 0602441375C | 22-NOV-2001 | 99-09-410V | 19
09 | CA | PLUMAS COUNTY | 0602441400C | 22-NOV-2001 | 99-09-410V | 19
09 | CA | PLUMAS COUNTY | 0602441600C | 22-NOV-2001 | 99-09-410V | 19
09 | CA | POWAY, CITY OF | 06073C1366F | 25-JUL-2001 | 00-09-080P | 05
09 | CA | POWAY, CITY OF | 06073C1359F | 23-AUG-2001 | 01-09-901A | 01
09 | CA | POWAY, CITY OF | 06073C1358F | 03-AUG-2001 | 01-09-925A | 02
09 | CA | POWAY, CITY OF | 06073C1359F | 31-OCT-2001 | 02-09-050A | 02
09 | CA | POWAY, CITY OF | 06073C1358F | 07-NOV-2001 | 02-09-085A | 02
09 | CA | RANCHO CUCAMONGA, CITY OF | 06071C8630F | 10-OCT-2001 | 01-09-1073A | 02
09 | CA | RANCHO CUCAMONGA, CITY OF | 06071C7890F | 10-OCT-2001 | 01-09-1154A | 02
09 | CA | RANCHO CUCAMONGA, CITY OF | 06071C7890F | 07-AUG-2001 | 01-09-681P | 06
09 | CA | RANCHO CUCAMONGA, CITY OF | 06071C7890F | 27-JUL-2001 | 01-09-806A | 01
09 | CA | REDDING, CITY OF | 0603600015C | 18-OCT-2001 | 01-09-218P | 05
09 | CA | REDDING, CITY OF | 0603600025D | 02-JUL-2001 | 01-09-640A | 02
09 | CA | REDWOOD CITY, CITY OF | 0603110175B | 21-SEP-2001 | 01-09-748A | 01
09 | CA | RICHMOND, CITY OF | 0600350010C | 10-SEP-2001 | 98-09-168V | 19
09 | CA | RICHMOND, CITY OF | 0600350020C | 10-SEP-2001 | 98-09-168V | 19
09 | CA | RIVERSIDE COUNTY | 0602451625C | 12-OCT-2001 | 01-09-1054P | 06
09 | CA | RIVERSIDE COUNTY | 0602451625C | 03-AUG-2001 | 01-09-352P | 06
09 | CA | RIVERSIDE COUNTY | 0602452050C | 01-NOV-2001 | 01-09-607P | 06
09 | CA | RIVERSIDE COUNTY | 0602450070A | 18-JUL-2001 | 01-09-887A | 02
09 | CA | RIVERSIDE COUNTY | 0602450705A | 27-NOV-2001 | 02-09-069P | 05
09 | CA | RIVERSIDE COUNTY | 0602452710C | 04-DEC-2001 | 02-09-070P | 06
09 | CA | ROCKLIN, CITY OF | 06061C0414F | 03-AUG-2001 | 01-09-884A | 02
09 | CA | SACRAMENTO COUNTY | 0602620345C | 10-AUG-2001 | 01-09-1013A | 02
09 | CA | SACRAMENTO COUNTY | 0602620310F | 26-SEP-2001 | 01-09-1107A | 02
09 | CA | SACRAMENTO COUNTY | 0602620095E | 06-JUL-2001 | 01-09-792A | 02
09 | CA | SACRAMENTO COUNTY | 0602620375C | 18-JUL-2001 | 01-09-856A | 02
09 | CA | SACRAMENTO COUNTY | 0602620340D | 11-JUL-2001 | 01-09-858A | 02
09 | CA | SACRAMENTO COUNTY | 0602620345C | 01-AUG-2001 | 01-09-924A | 02
09 | CA | SACRAMENTO COUNTY | 0602620055E | 24-OCT-2001 | 02-09-017A | 02
09 | CA | SACRAMENTO COUNTY | 0602620205E | 31-DEC-2001 | 02-09-221A | 02
09 | CA | SACRAMENTO, CITY OF | 0602660005F | 10-SEP-2001 | 01-09-995A | 01
09 | CA | SALINAS, CITY OF | 0602020003D | 10-OCT-2001 | 01-09-1057A | 01
09 | CA | SAN BERNARDINO COUNTY | 06071C3915F | 06-JUL-2001 | 01-09-634A | 02
09 | CA | SAN BERNARDINO COUNTY | 06071C7890F | 07-AUG-2001 | 01-09-681P | 06
09 | CA | SAN DIEGO COUNTY | 06073C1735F | 31-DEC-2001 | 01-09-1052A | 02
09 | CA | SAN DIEGO COUNTY | 06073C1917F | 17-OCT-2001 | 01-09-477A | 02
09 | CA | SAN DIEGO COUNTY | 06073C1700F | 08-AUG-2001 | 01-09-889A | 02
09 | CA | SAN DIEGO, CITY OF | 06073C1594F | 18-JUL-2001 | 01-09-812A | 02
09 | CA | SAN DIEGO, CITY OF | 06073C1613F | 24-OCT-2001 | 01-09-872A | 02
09 | CA | SAN DIEGO, CITY OF | 06073C1594F | 08-AUG-2001 | 01-09-992A | 02
09 | CA | SAN JOAQUIN COUNTY | 0602990445B | 26-SEP-2001 | 01-09-1116A | 02
09 | CA | SAN JOSE, CITY OF | 0603490020F | 10-SEP-2001 | 01-09-1089A | 02
09 | CA | SAN JOSE, CITY OF | 0603490014E | 20-SEP-2001 | 01-09-1090A | 02
09 | CA | SAN JOSE, CITY OF | 0603370255E | 07-NOV-2001 | 01-09-1110A | 01
09 | CA | SAN JOSE, CITY OF | 0603490026D | 26-SEP-2001 | 01-09-1177A | 02
09 | CA | SAN JOSE, CITY OF | 0603490026D | 05-OCT-2001 | 01-09-1202A | 02
09 | CA | SAN JOSE, CITY OF | 0603490026D | 08-AUG-2001 | 01-09-678A | 01
09 | CA | SAN JOSE, CITY OF | 0603490009G | 02-JUL-2001 | 01-09-797A | 02
09 | CA | SAN JOSE, CITY OF | 0603490026D | 02-JUL-2001 | 01-09-807A | 02
09 | CA | SAN JOSE, CITY OF | 0603490027D | 02-JUL-2001 | 01-09-822A | 02
09 | CA | SAN JOSE, CITY OF | 0603490026D | 06-JUL-2001 | 01-09-846A | 02
09 | CA | SAN JOSE, CITY OF | 0603490009G | 02-JUL-2001 | 01-09-853A | 02
09 | CA | SAN JOSE, CITY OF | 0603490020F | 02-JUL-2001 | 01-09-868A | 02
09 | CA | SAN JOSE, CITY OF | 0603490009G | 06-JUL-2001 | 01-09-877A | 02
09 | CA | SAN JOSE, CITY OF | 0603490026D | 11-JUL-2001 | 01-09-886A | 02
09 | CA | SAN JOSE, CITY OF | 0603490009G | 11-JUL-2001 | 01-09-888A | 02
09 | CA | SAN JOSE, CITY OF | 0603490009G | 18-JUL-2001 | 01-09-915A | 02
09 | CA | SAN JOSE, CITY OF | 0603490026D | 03-AUG-2001 | 01-09-927A | 02
09 | CA | SAN JOSE, CITY OF | 0603490014E | 20-JUL-2001 | 01-09-929A | 02
09 | CA | SAN JOSE, CITY OF | 0603490014E | 08-AUG-2001 | 01-09-986A | 02
09 | CA | SAN JOSE, CITY OF | 0603490020F | 08-AUG-2001 | 01-09-990A | 02
09 | CA | SAN JOSE, CITY OF | 0603490027D | 05-OCT-2001 | 02-09-005A | 02
09 | CA | SAN JOSE, CITY OF | 0603490037D | 31-OCT-2001 | 02-09-073A | 02
09 | CA | SAN JOSE, CITY OF | 0603490026D | 07-NOV-2001 | 02-09-083A | 02
09 | CA | SAN JOSE, CITY OF | 0603490031D | 07-NOV-2001 | 02-09-097A | 02
09 | CA | SAN JOSE, CITY OF | 0603490026D | 20-NOV-2001 | 02-09-155A | 02
09 | CA | SAN JOSE, CITY OF | 0603490027D | 20-NOV-2001 | 02-09-169A | 02
09 | CA | SAN JOSE, CITY OF | 0603490020F | 19-DEC-2001 | 02-09-186A | 02
09 | CA | SAN JUAN CAPISTRANO, CITY OF | 06059C0075F | 31-OCT-2001 | 01-09-1134A | 01
09 | CA | SAN LEANDRO, CITY OF | 0600130002C | 14-SEP-2001 | 01-09-1103A | 02
09 | CA | SAN LEANDRO, CITY OF | 0600130003C | 31-OCT-2001 | 01-09-1118A | 02
09 | CA | SAN LEANDRO, CITY OF | 0600130003C | 06-JUL-2001 | 01-09-785A | 02
09 | CA | SAN LEANDRO, CITY OF | 0600130002C | 15-NOV-2001 | 02-09-074A | 02
09 | CA | SAN LEANDRO, CITY OF | 0600130003C | 15-NOV-2001 | 02-09-074A | 02
09 | CA | SAN LUIS OBISPO COUNTY | 0603040475C | 06-JUL-2001 | 01-09-728A | 02
09 | CA | SAN LUIS OBISPO COUNTY | 0603040729C | 18-JUL-2001 | 01-09-855A | 02
09 | CA | SAN LUIS OBISPO, CITY OF | 0603100005C | 21-DEC-2001 | 02-09-180A | 02
09 | CA | SAN MARCOS, CITY OF | 06073C1052F | 10-SEP-2001 | 01-09-1058A | 02
09 | CA | SAN MATEO COUNTY | 0603110319B | 31-OCT-2001 | 02-09-019A | 02
09 | CA | SAN RAFAEL, CITY OF | 0650580015B | 02-JUL-2001 | 01-09-796A | 02
09 | CA | SAN RAMON, CITY OF | 0607100001B | 03-OCT-2001 | 01-09-1138A | 02
09 | CA | SANGER, CITY OF | 06019C2155F | 20-JUL-2001 | 01-09-941V | 19
09 | CA | SANGER, CITY OF | 06019C2160F | 20-JUL-2001 | 01-09-941V | 19
09 | CA | SANTA BARBARA COUNTY | 0603310717C | 10-AUG-2001 | 01-09-1009A | 02
09 | CA | SANTA BARBARA COUNTY | 0603310765E | 03-OCT-2001 | 01-09-1066A | 02
09 | CA | SANTA BARBARA COUNTY | 0603310740D | 06-JUL-2001 | 01-09-784A | 02
09 | CA | SANTA BARBARA, CITY OF | 0603350004D | 10-AUG-2001 | 01-09-1006A | 02
09 | CA | SANTA BARBARA, CITY OF | 0603350004D | 10-SEP-2001 | 01-09-1053A | 02
09 | CA | SANTA BARBARA, CITY OF | 0603350004D | 03-OCT-2001 | 01-09-1130A | 02
09 | CA | SANTA BARBARA, CITY OF | 0603350004D | 18-JUL-2001 | 01-09-892A | 02
09 | CA | SANTA BARBARA, CITY OF | 0603350004D | 08-AUG-2001 | 01-09-965A | 02
09 | CA | SANTA BARBARA, CITY OF | 0603350004D | 24-OCT-2001 | 02-09-001A | 02
09 | CA | SANTA CLARA COUNTY | 0603370205D | 02-JUL-2001 | 01-09-780A | 02
09 | CA | SANTA CLARA COUNTY | 0603370645E | 02-JUL-2001 | 01-09-859A | 02
09 | CA | SANTA CLARA, CITY OF | 0603500001D | 17-JUL-2001 | 00-09-071P | 05
09 | CA | SANTA CLARA, CITY OF | 0603500003D | 17-JUL-2001 | 00-09-071P | 05
09 | CA | SANTA CLARA, CITY OF | 0603500005D | 15-AUG-2001 | 01-09-1018A | 02
09 | CA | SANTA CLARA, CITY OF | 0603500005D | 02-JUL-2001 | 01-09-838A | 02
09 | CA | SANTA CLARA, CITY OF | 0603500001D | 25-JUL-2001 | 01-09-917A | 02
09 | CA | SANTA CLARA, CITY OF | 0603500005D | 27-JUL-2001 | 01-09-934A | 02
09 | CA | SANTA CLARA, CITY OF | 0603500001D | 27-JUL-2001 | 01-09-938A | 02
09 | CA | SANTA CLARA, CITY OF | 0603500001D | 20-SEP-2001 | 01-09-984A | 02
09 | CA | SANTA CLARA, CITY OF | 0603500003D | 28-NOV-2001 | 02-09-158A | 02
09 | CA | SANTA CLARITA, CITY OF | 0607290480C | 28-NOV-2001 | 01-09-1144A | 02
09 | CA | SANTA CRUZ COUNTY | 0603530205B | 08-AUG-2001 | 01-09-967A | 02
09 | CA | SANTA PAULA, CITY OF | 0604200003D | 20-JUL-2001 | 01-09-830A | 02
09 | CA | SANTA ROSA, CITY OF | 0603810011B | 10-AUG-2001 | 01-09-1001A | 02
09 | CA | SHASTA LAKE, CITY OF | 0607580005A | 18-JUL-2001 | 01-09-851A | 02
09 | CA | SIMI VALLEY, CITY OF | 0604210004B | 08-AUG-2001 | 01-09-1000A | 02
09 | CA | SIMI VALLEY, CITY OF | 0604210006B | 10-AUG-2001 | 01-09-1002A | 02
09 | CA | SIMI VALLEY, CITY OF | 0604210009B | 15-AUG-2001 | 01-09-1015A | 02
09 | CA | SIMI VALLEY, CITY OF | 0604210006B | 17-AUG-2001 | 01-09-1024A | 02
09 | CA | SIMI VALLEY, CITY OF | 0604210006B | 17-AUG-2001 | 01-09-1028A | 02
09 | CA | SIMI VALLEY, CITY OF | 0604210004B | 30-AUG-2001 | 01-09-1069A | 02
09 | CA | SIMI VALLEY, CITY OF | 0604210004B | 10-SEP-2001 | 01-09-1096A | 02
09 | CA | SIMI VALLEY, CITY OF | 0604210004B | 26-SEP-2001 | 01-09-1151A | 02
09 | CA | SIMI VALLEY, CITY OF | 0604210007B | 07-NOV-2001 | 01-09-435A | 01
09 | CA | SIMI VALLEY, CITY OF | 0604210009B | 07-NOV-2001 | 01-09-435A | 01
09 | CA | SIMI VALLEY, CITY OF | 0604210006B | 24-AUG-2001 | 01-09-694A | 02
09 | CA | SIMI VALLEY, CITY OF | 0604210004B | 08-AUG-2001 | 01-09-696A | 02
09 | CA | SIMI VALLEY, CITY OF | 0604210004B | 20-JUL-2001 | 01-09-811A | 02
09 | CA | SIMI VALLEY, CITY OF | 0604210009B | 31-OCT-2001 | 01-09-833A | 01
09 | CA | SIMI VALLEY, CITY OF | 0604210002B | 01-AUG-2001 | 01-09-897A | 02
09 | CA | SIMI VALLEY, CITY OF | 0604210006B | 20-JUL-2001 | 01-09-909A | 02
09 | CA | SIMI VALLEY, CITY OF | 0604210004B | 27-JUL-2001 | 01-09-912A | 02
09 | CA | SIMI VALLEY, CITY OF | 0604210008B | 25-JUL-2001 | 01-09-936A | 02
09 | CA | SIMI VALLEY, CITY OF | 0604210008B | 28-NOV-2001 | 01-09-963A | 02
09 | CA | SIMI VALLEY, CITY OF | 0604210004B | 08-AUG-2001 | 01-09-976A | 02
09 | CA | SIMI VALLEY, CITY OF | 0604210006B | 08-AUG-2001 | 01-09-979A | 02
09 | CA | SIMI VALLEY, CITY OF | 0604210002B | 26-NOV-2001 | 01-09-981P | 05
09 | CA | SIMI VALLEY, CITY OF | 0604210004B | 26-NOV-2001 | 01-09-981P | 05
09 | CA | SIMI VALLEY, CITY OF | 0604210004B | 24-OCT-2001 | 02-09-039A | 02
09 | CA | SIMI VALLEY, CITY OF | 0604210006B | 26-OCT-2001 | 02-09-055A | 02
09 | CA | SIMI VALLEY, CITY OF | 0604210006B | 24-OCT-2001 | 02-09-059A | 02
09 | CA | SIMI VALLEY, CITY OF | 0604210002B | 26-OCT-2001 | 02-09-060X | 01
09 | CA | SIMI VALLEY, CITY OF | 0604210004B | 26-OCT-2001 | 02-09-060X | 01
09 | CA | SIMI VALLEY, CITY OF | 0604210007B | 02-NOV-2001 | 02-09-077A | 02
09 | CA | SIMI VALLEY, CITY OF | 0604210007B | 07-NOV-2001 | 02-09-084A | 02
09 | CA | SIMI VALLEY, CITY OF | 0604210006B | 31-DEC-2001 | 02-09-246A | 02
09 | CA | SISKIYOU COUNTY | 0603620900C | 12-JUL-2001 | 01-09-777A | 02
09 | CA | SISKIYOU COUNTY | 0603621100B | 17-AUG-2001 | 01-09-949A | 02
09 | CA | SISKIYOU COUNTY | 0603620900C | 24-OCT-2001 | 01-09-978A | 02
09 | CA | SISKIYOU COUNTY | 0603621525B | 14-DEC-2001 | 02-09-152A | 02
09 | CA | SISKIYOU COUNTY | 0603620608B | 31-DEC-2001 | 02-09-232A | 02
09 | CA | SONOMA COUNTY | 0603750635B | 12-OCT-2001 | 01-09-1088A | 02
09 | CA | SONOMA COUNTY | 0603750680B | 12-JUL-2001 | 01-09-774A | 02
09 | CA | SONOMA COUNTY | 0603750530B | 15-NOV-2001 | 01-09-943A | 02
09 | CA | SONOMA COUNTY | 0603750515B | 05-DEC-2001 | 02-09-140A | 02
09 | CA | SOUTH SAN FRANCISCO, CITY OF | 0650620002B | 14-SEP-2001 | 01-09-916A | 01
09 | CA | SUNNYVALE, CITY OF | 0603520001D | 12-SEP-2001 | 01-09-1119A | 02
09 | CA | SUNNYVALE, CITY OF | 0603520001D | 10-OCT-2001 | 01-09-815A | 01
09 | CA | SUNNYVALE, CITY OF | 0603520001D | 06-JUL-2001 | 01-09-837A | 02
09 | CA | SUNNYVALE, CITY OF | 0603520001D | 26-OCT-2001 | 02-09-036A | 02
09 | CA | TEHAMA COUNTY | 0650640070C | 11-JUL-2001 | 01-09-739A | 02
09 | CA | TEHAMA COUNTY | 0650640660C | 25-JUL-2001 | 01-09-890A | 02
09 | CA | TEMECULA, CITY OF | 0607420005B | 05-OCT-2001 | 01-09-1124A | 02
09 | CA | TEMECULA, CITY OF | 0607420010B | 25-JUL-2001 | 01-09-899A | 02
09 | CA | THOUSAND OAKS, CITY OF | 0604220015B | 06-JUL-2001 | 01-09-619A | 02
09 | CA | THOUSAND OAKS, CITY OF | 0604220015B | 02-JUL-2001 | 01-09-799A | 02
09 | CA | TORRANCE, CITY OF | 0601650001B | 21-DEC-2001 | 02-09-215A | 02
09 | CA | TULARE COUNTY | 0650660450B | 12-JUL-2001 | 01-09-194A | 02
09 | CA | TULARE COUNTY | 0650660450B | 20-JUL-2001 | 01-09-940A | 02
09 | CA | TUSTIN, CITY OF | 06059C0039E | 24-OCT-2001 | 02-09-062A | 02
09 | CA | UKIAH, CITY OF | 0601860001E | 24-OCT-2001 | 02-09-035A | 02
09 | CA | VALLEJO, CITY OF | 0603740010C | 26-SEP-2001 | 01-09-1112A | 02
09 | CA | VENTURA COUNTY | 0604130945B | 19-OCT-2001 | 00-09-451P | 06
09 | CA | VENTURA COUNTY | 0604130975B | 19-OCT-2001 | 00-09-451P | 06
09 | CA | VENTURA COUNTY | 0604130645B | 10-SEP-2001 | 01-09-911A | 01
09 | CA | VENTURA COUNTY | 0604130545C | 08-AUG-2001 | 01-09-955A | 02
09 | CA | VENTURA COUNTY | 0604130535B | 26-OCT-2001 | 02-09-007A | 02
09 | CA | VISALIA, CITY OF | 0604090005D | 06-JUL-2001 | 01-09-842A | 01
09 | CA | VISALIA, CITY OF | 0604090010C | 08-AUG-2001 | 01-09-966A | 01
09 | CA | VISALIA, CITY OF | 0604090010C | 15-NOV-2001 | 02-09-038A | 02
09 | CA | VISTA, CITY OF | 06073C0759F | 07-NOV-2001 | 01-09-568P | 05
09 | CA | VISTA, CITY OF | 06073C0766F | 07-NOV-2001 | 01-09-568P | 05
09 | CA | VISTA, CITY OF | 06073C0767F | 07-NOV-2001 | 01-09-568P | 05
09 | CA | WESTMINSTER, CITY OF | 06059C0027F | 20-JUL-2001 | 01-09-923A | 01
09 | CA | WESTMINSTER, CITY OF | 06059C0028F | 03-DEC-2001 | 02-09-203A | 02
09 | CA | YOUNTVILLE, TOWN OF | 0602090001C | 31-AUG-2001 | 01-09-1041A | 02
09 | HI | HAWAII COUNTY | 1551660164D | 02-NOV-2001 | 01-09-1005A | 02
09 | HI | HAWAII COUNTY | 1551660267C | 27-DEC-2001 | 01-09-1038P | 05
09 | HI | HAWAII COUNTY | 1551660860C | 12-SEP-2001 | 01-09-339P | 06
09 | HI | HAWAII COUNTY | 1551660870C | 12-SEP-2001 | 01-09-339P | 06
09 | HI | HAWAII COUNTY | 1551660466C | 25-JUL-2001 | 01-09-710A | 01
09 | HI | HAWAII COUNTY | 1551660478C | 25-JUL-2001 | 01-09-710A | 01
09 | HI | HAWAII COUNTY | 1551660713D | 07-AUG-2001 | 01-09-882P | 06
09 | HI | HONOLULU , CITY AND COUNTY OF | 15003C0360E | 20-SEP-2001 | 01-09-1067A | 17
09 | HI | HONOLULU , CITY AND COUNTY OF | 15003C0030E | 03-AUG-2001 | 01-09-633P | 06
09 | HI | HONOLULU , CITY AND COUNTY OF | 15003C0351E | 18-OCT-2001 | 01-09-961P | 06
09 | NV | CARSON CITY, CITY OF | 3200010040B | 29-NOV-2001 | 01-09-066P | 05
09 | NV | CARSON CITY, CITY OF | 3200010175C | 12-OCT-2001 | 01-09-1074A | 02
09 | NV | CARSON CITY, CITY OF | 3200010130D | 03-OCT-2001 | 01-09-1145A | 01
09 | NV | CLARK COUNTY | 32003C2554D | 20-SEP-2001 | 00-09-828P | 05
09 | NV | CLARK COUNTY | 32003C2535D | 15-AUG-2001 | 01-09-1017A | 02
09 | NV | CLARK COUNTY | 32003C2525D | 26-SEP-2001 | 01-09-1094A | 02
09 | NV | CLARK COUNTY | 32003C0378D | 29-AUG-2001 | 01-09-170P | 06
09 | NV | CLARK COUNTY | 32003C2545D | 04-SEP-2001 | 01-09-581P | 06
09 | NV | CLARK COUNTY | 32003C2550D | 04-SEP-2001 | 01-09-581P | 06
09 | NV | CLARK COUNTY | 32003C2552D | 04-SEP-2001 | 01-09-581P | 06
09 | NV | CLARK COUNTY | 32003C2553D | 04-SEP-2001 | 01-09-581P | 06
09 | NV | CLARK COUNTY | 32003C2554D | 04-SEP-2001 | 01-09-581P | 06
09 | NV | CLARK COUNTY | 32003C2561D | 04-SEP-2001 | 01-09-581P | 06
09 | NV | CLARK COUNTY | 32003C2562D | 04-SEP-2001 | 01-09-581P | 06
09 | NV | CLARK COUNTY | 32003C2580D | 10-OCT-2001 | 01-09-861A | 02
09 | NV | CLARK COUNTY | 32003C2200D | 20-NOV-2001 | 02-09-087A | 01
09 | NV | DOUGLAS COUNTY | 32005C0235F | 03-OCT-2001 | 01-09-1159A | 02
09 | NV | DOUGLAS COUNTY | 32005C0268F | 16-AUG-2001 | 01-09-231P | 05
09 | NV | HENDERSON, CITY OF | 32003C2590D | 12-DEC-2001 | 01-09-1031A | 01
09 | NV | HENDERSON, CITY OF | 32003C2595D | 12-DEC-2001 | 01-09-1031A | 01
09 | NV | HENDERSON, CITY OF | 32003C2590D | 30-AUG-2001 | 01-09-1045A | 02
09 | NV | HENDERSON, CITY OF | 32003C2615D | 14-AUG-2001 | 01-09-631P | 06
09 | NV | HENDERSON, CITY OF | 32003C2615D | 18-JUL-2001 | 99-09-623P | 06
09 | NV | HENDERSON, CITY OF | 32003C2620D | 18-JUL-2001 | 99-09-623P | 06
09 | NV | HENDERSON, CITY OF | 32003C2975D | 18-JUL-2001 | 99-09-623P | 06
09 | NV | LAS VEGAS, CITY OF | 32003C2155D | 10-SEP-2001 | 01-09-1032A | 02
09 | NV | LAS VEGAS, CITY OF | 32003C2155D | 21-DEC-2001 | 01-09-770P | 06
09 | NV | MESQUITE, CITY OF | 32003C0378D | 29-AUG-2001 | 01-09-170P | 05
09 | NV | MESQUITE, CITY OF | 32003C0386D | 29-AUG-2001 | 01-09-170P | 05
09 | NV | MESQUITE, CITY OF | 32003C0386D | 10-SEP-2001 | 01-09-997P | 05
09 | NV | MINERAL COUNTY | 3200170605B | 03-AUG-2001 | 01-09-913A | 02
09 | NV | NORTH LAS VEGAS, CITY OF | 32003C2176D | 31-OCT-2001 | 01-09-514P | 05
09 | NV | NORTH LAS VEGAS, CITY OF | 32003C2160D | 29-NOV-2001 | 01-09-960P | 06
09 | NV | RENO, CITY OF | 32031C2794E | 09-NOV-2001 | 01-09-1127A | 01
09 | NV | RENO, CITY OF | 32031C3157E | 23-OCT-2001 | 01-09-1137P | 06
09 | NV | RENO, CITY OF | 32031C3158E | 23-OCT-2001 | 01-09-1137P | 06
09 | NV | RENO, CITY OF | 32031C3159E | 23-OCT-2001 | 01-09-1137P | 06
09 | NV | RENO, CITY OF | 32031C3176F | 19-OCT-2001 | 01-09-1195A | 01
09 | NV | RENO, CITY OF | 32031C3157E | 04-SEP-2001 | 01-09-338P | 06
09 | NV | RENO, CITY OF | 32031C3158E | 04-SEP-2001 | 01-09-338P | 06
09 | NV | RENO, CITY OF | 32031C3159E | 04-SEP-2001 | 01-09-338P | 06
09 | NV | RENO, CITY OF | 32031C3159E | 14-DEC-2001 | 01-09-689P | 05
09 | NV | RENO, CITY OF | 32031C3170E | 14-DEC-2001 | 01-09-689P | 05
09 | NV | RENO, CITY OF | 32031C3178E | 14-DEC-2001 | 01-09-689P | 05
09 | NV | RENO, CITY OF | 32031C3176F | 30-AUG-2001 | 01-09-922A | 01
09 | NV | RENO, CITY OF | 32031C3178E | 31-DEC-2001 | 02-09-016A | 01
09 | NV | WASHOE COUNTY | 32031C3250F | 17-OCT-2001 | 01-09-1194A | 02
09 | NV | WASHOE COUNTY | 32031C3188E | 26-NOV-2001 | 01-09-307P | 05
10 | AK | FAIRBANKS-NORTH STAR BOROUGH | 0250090204G | 02-JUL-2001 | 01-10-382A | 02
10 | AK | FAIRBANKS-NORTH STAR BOROUGH | 0250090212H | 30-AUG-2001 | 01-10-507A | 02
10 | AK | JUNEAU, CITY AND BOROUGH OF | 0200090880C | 02-JUL-2001 | 01-10-356A | 02
10 | AK | JUNEAU, CITY AND BOROUGH OF | 0200090725B | 31-DEC-2001 | 01-10-526A | 02
10 | AK | MATANUSKA-SUSITNA, BOROUGH OF | 0200219675C | 12-SEP-2001 | 01-10-422A | 02
10 | AK | MATANUSKA-SUSITNA, BOROUGH OF | 0200218795C | 23-AUG-2001 | 01-10-517A | 02
10 | ID | ADAMS COUNTY | 16003C0400B | 25-JUL-2001 | 01-10-320A | 02
10 | ID | ADAMS COUNTY | 16003C0400B | 30-AUG-2001 | 01-10-355A | 02
10 | ID | ADAMS COUNTY | 16003C0250B | 10-SEP-2001 | 01-10-440A | 02
10 | ID | BINGHAM COUNTY | 1600180425B | 03-AUG-2001 | 01-10-482A | 02
10 | ID | BINGHAM COUNTY | 1600180425B | 24-OCT-2001 | 01-10-494A | 01
10 | ID | BOISE, CITY OF | 16001C0305G | 06-SEP-2001 | 01-10-344P | 06
10 | ID | BONNER COUNTY | 1602060400C | 01-AUG-2001 | 01-10-489A | 02
10 | ID | BONNER COUNTY | 1602060400C | 23-AUG-2001 | 01-10-514A | 02
10 | ID | BONNER COUNTY | 1602060300C | 28-NOV-2001 | 02-10-008A | 02
10 | ID | BONNER COUNTY | 1602060300C | 26-OCT-2001 | 02-10-012A | 02
10 | ID | BONNER COUNTY | 1602060360C | 15-NOV-2001 | 02-10-013A | 02
10 | ID | CANYON COUNTY | 1602080400C | 01-AUG-2001 | 01-10-391A | 02
10 | ID | CANYON COUNTY | 1602080236C | 24-OCT-2001 | 02-10-005A | 02
10 | ID | EAGLE, CITY OF | 16001C0162G | 24-AUG-2001 | 01-10-437A | 01
10 | ID | ELMORE COUNTY | 1602120225B | 21-DEC-2001 | 02-10-019A | 02
10 | ID | GARDEN CITY, CITY OF | 16001C0167G | 28-NOV-2001 | 02-10-065A | 02
10 | ID | KETCHUM, CITY OF | 1600230461C | 31-OCT-2001 | 01-10-577A | 02
10 | ID | KOOTENAI COUNTY | 1600760155C | 01-AUG-2001 | 01-10-350A | 02
10 | ID | KOOTENAI COUNTY | 1600760170D | 06-JUL-2001 | 01-10-432A | 02
10 | ID | KOOTENAI COUNTY | 1600760160C | 25-JUL-2001 | 01-10-458A | 02
10 | ID | LATAH COUNTY | 1600860135B | 05-DEC-2001 | 01-10-444A | 01
10 | ID | MIDDLETON, CITY OF | 1600370001E | 31-DEC-2001 | 02-10-023A | 02
10 | ID | MINIDOKA COUNTY | 160201—57B | 30-AUG-2001 | 01-10-512A | 02
10 | ID | NAMPA, CITY OF | 1600380002C | 03-OCT-2001 | 01-10-527A | 01
10 | ID | VALLEY COUNTY | 1602200312A | 06-JUL-2001 | 01-10-414A | 02
10 | ID | VALLEY COUNTY | 1602200475A | 05-OCT-2001 | 01-10-532A | 02
10 | ID | WASHINGTON COUNTY | 1602210405B | 31-DEC-2001 | 02-10-110A | 02
10 | OR | ALBANY, CITY OF | 4101370003F | 03-OCT-2001 | 01-10-566A | 02
10 | OR | ASHLAND, CITY OF | 4100900003B | 03-AUG-2001 | 01-10-464A | 02
10 | OR | ASHLAND, CITY OF | 4155890537B | 03-AUG-2001 | 01-10-464A | 02
10 | OR | BANDON, CITY OF | 4100430002C | 10-DEC-2001 | 00-10-382P | 05
10 | OR | BENTON COUNTY | 4100080090C | 20-JUL-2001 | 01-10-405A | 02
10 | OR | BENTON COUNTY | 4100080175C | 18-JUL-2001 | 01-10-448A | 02
10 | OR | BENTON COUNTY | 4100080025C | 20-JUL-2001 | 01-10-454A | 02
10 | OR | BENTON COUNTY | 4100080175C | 02-NOV-2001 | 02-10-018A | 02
10 | OR | BURNS, CITY OF | 4100840001D | 07-NOV-2001 | 02-10-068A | 01
10 | OR | CENTRAL POINT, CITY OF | 4100920001C | 24-JUL-2001 | 00-10-524P | 05
10 | OR | CLACKAMAS COUNTY | 4155880070B | 25-JUL-2001 | 01-10-354A | 02
10 | OR | CLACKAMAS COUNTY | 4155880208A | 06-JUL-2001 | 01-10-429A | 02
10 | OR | CLACKAMAS COUNTY | 4155880020A | 24-OCT-2001 | 01-10-559A | 02
10 | OR | CLACKAMAS COUNTY | 4155880020A | 03-OCT-2001 | 01-10-578A | 02
10 | OR | COLUMBIA COUNTY | 41009C0450C | 03-AUG-2001 | 01-10-237A | 02
10 | OR | COLUMBIA COUNTY | 41009C0250C | 02-NOV-2001 | 01-10-505A | 02
10 | OR | COLUMBIA COUNTY | 41009C0444C | 26-SEP-2001 | 01-10-530A | 01
10 | OR | COLUMBIA COUNTY | 41009C0175C | 14-SEP-2001 | 01-10-539A | 02
10 | OR | COLUMBIA COUNTY | 41009C0127C | 20-NOV-2001 | 02-10-062A | 02
10 | OR | COOS BAY, CITY OF | 4100440008B | 02-NOV-2001 | 02-10-009A | 02
10 | OR | COOS COUNTY | 4100420350B | 03-AUG-2001 | 01-10-451A | 02
10 | OR | COOS COUNTY | 4100420155B | 17-AUG-2001 | 01-10-497A | 02
10 | OR | CORNELIUS, CITY OF | 4102610001A | 21-DEC-2001 | 02-10-100A | 02
10 | OR | CORVALLIS, CITY OF | 4100090004E | 02-JUL-2001 | 01-10-390A | 01
10 | OR | CORVALLIS, CITY OF | 4100090002E | 21-SEP-2001 | 01-10-563A | 02
10 | OR | COTTAGE GROVE, CITY OF | 41039C2087F | 03-OCT-2001 | 01-10-542A | 02
10 | OR | CROOK COUNTY | 41013C0400B | 11-DEC-2001 | 02-10-075A | 02
10 | OR | DOUGLAS COUNTY | 4100590755A | 23-AUG-2001 | 01-10-501A | 02
10 | OR | DOUGLAS COUNTY | 4100590735A | 12-OCT-2001 | 01-10-573A | 02
10 | OR | DOUGLAS COUNTY | 4100590760A | 09-NOV-2001 | 01-10-591A | 02
10 | OR | EUGENE, CITY OF | 41039C1137F | 02-JUL-2001 | 01-10-404A | 02
10 | OR | EUGENE, CITY OF | 41039C1136F | 02-JUL-2001 | 01-10-417A | 02
10 | OR | EUGENE, CITY OF | 41039C1106F | 06-JUL-2001 | 01-10-420A | 02
10 | OR | EUGENE, CITY OF | 41039C1107F | 06-JUL-2001 | 01-10-425A | 02
10 | OR | EUGENE, CITY OF | 41039C1136F | 06-JUL-2001 | 01-10-433A | 02
10 | OR | EUGENE, CITY OF | 41039C1106F | 11-JUL-2001 | 01-10-461A | 02
10 | OR | EUGENE, CITY OF | 41039C1127F | 25-JUL-2001 | 01-10-472A | 02
10 | OR | EUGENE, CITY OF | 41039C1106F | 25-JUL-2001 | 01-10-478A | 02
10 | OR | EUGENE, CITY OF | 41039C1107F | 10-AUG-2001 | 01-10-506A | 02
10 | OR | EUGENE, CITY OF | 41039C1104F | 10-AUG-2001 | 01-10-508A | 01
10 | OR | EUGENE, CITY OF | 41039C1104F | 30-AUG-2001 | 01-10-533A | 02
10 | OR | EUGENE, CITY OF | 41039C1106F | 30-AUG-2001 | 01-10-535A | 02
10 | OR | EUGENE, CITY OF | 41039C1106F | 26-SEP-2001 | 01-10-572A | 02
10 | OR | EUGENE, CITY OF | 41039C1104F | 10-OCT-2001 | 02-10-002A | 02
10 | OR | EUGENE, CITY OF | 41039C1126F | 07-NOV-2001 | 02-10-033A | 02
10 | OR | EUGENE, CITY OF | 41039C1104F | 09-NOV-2001 | 02-10-035A | 02
10 | OR | EUGENE, CITY OF | 41039C1107F | 02-NOV-2001 | 02-10-037A | 02
10 | OR | EUGENE, CITY OF | 41039C1137F | 02-NOV-2001 | 02-10-039A | 02
10 | OR | EUGENE, CITY OF | 41039C1128F | 03-DEC-2001 | 02-10-041A | 02
10 | OR | EUGENE, CITY OF | 41039C1136F | 02-NOV-2001 | 02-10-043A | 02
10 | OR | EUGENE, CITY OF | 41039C1136F | 20-NOV-2001 | 02-10-069A | 02
10 | OR | FLORENCE, CITY OF | 41039C1427F | 11-JUL-2001 | 01-10-426A | 02
10 | OR | FLORENCE, CITY OF | 41039C1427F | 10-AUG-2001 | 01-10-456A | 02
10 | OR | GLADSTONE, CITY OF | 4100170001B | 18-JUL-2001 | 01-10-335A | 17
10 | OR | GRANTS PASS, CITY OF | 4155900237D | 28-NOV-2001 | 02-10-047A | 02
10 | OR | GRANTS PASS, CITY OF | 4155900237D | 21-DEC-2001 | 02-10-079A | 02
10 | OR | GRANTS PASS, CITY OF | 4155900237D | 21-DEC-2001 | 02-10-084A | 02
10 | OR | GRANTS PASS, CITY OF | 4155900237D | 31-DEC-2001 | 02-10-105A | 02
10 | OR | GRESHAM, CITY OF | 4101810006E | 20-SEP-2001 | 01-10-547A | 02
10 | OR | JACKSON COUNTY | 4155890402B | 02-NOV-2001 | 01-10-447A | 02
10 | OR | JACKSON COUNTY | 4155890377B | 10-AUG-2001 | 01-10-502A | 02
10 | OR | JACKSON COUNTY | 4155890313B | 31-AUG-2001 | 01-10-520A | 02
10 | OR | JACKSON COUNTY | 4155890404B | 10-SEP-2001 | 01-10-522A | 02
10 | OR | JACKSON COUNTY | 4155890288B | 17-OCT-2001 | 01-10-584A | 02
10 | OR | JACKSON COUNTY | 4155890306B | 20-NOV-2001 | 02-10-051A | 02
10 | OR | JACKSON COUNTY | 4155890189B | 20-NOV-2001 | 02-10-052X | 02
10 | OR | JACKSON COUNTY | 4155890227B | 20-NOV-2001 | 02-10-053A | 02
10 | OR | JACKSONVILLE, CITY OF | 4100950001B | 27-JUL-2001 | 01-10-471A | 02
10 | OR | JACKSONVILLE, CITY OF | 4100950001B | 15-AUG-2001 | 01-10-484A | 02
10 | OR | JOSEPHINE COUNTY | 4155900237D | 17-AUG-2001 | 01-10-481A | 02
10 | OR | JOSEPHINE COUNTY | 4155900237D | 30-AUG-2001 | 01-10-540A | 02
10 | OR | JOSEPHINE COUNTY | 4155900237D | 10-OCT-2001 | 01-10-590A | 02
10 | OR | JUNCTION CITY, CITY OF | 41039C0602F | 09-NOV-2001 | 02-10-036A | 02
10 | OR | KEIZER, CITY OF | 41047C0193G | 30-AUG-2001 | 01-10-528A | 02
10 | OR | KEIZER, CITY OF | 41047C0194G | 07-NOV-2001 | 01-10-538A | 02
10 | OR | KEIZER, CITY OF | 41047C0193G | 03-DEC-2001 | 02-10-027A | 02
10 | OR | KLAMATH COUNTY | 4101091065B | 18-JUL-2001 | 01-10-430A | 02
10 | OR | LA GRANDE, CITY OF | 4102600002D | 09-NOV-2001 | 01-10-583A | 01
10 | OR | LANE COUNTY | 41039C0600F | 02-JUL-2001 | 01-10-204A | 02
10 | OR | LANE COUNTY | 41039C0690F | 01-AUG-2001 | 01-10-365A | 02
10 | OR | LANE COUNTY | 41039C1104F | 12-JUL-2001 | 01-10-403A | 02
10 | OR | LANE COUNTY | 41039C2400F | 06-JUL-2001 | 01-10-411A | 02
10 | OR | LANE COUNTY | 41039C0600F | 20-JUL-2001 | 01-10-442A | 02
10 | OR | LANE COUNTY | 41039C0600F | 27-JUL-2001 | 01-10-468A | 02
10 | OR | LANE COUNTY | 41039C0670F | 10-AUG-2001 | 01-10-486A | 02
10 | OR | LANE COUNTY | 41039C1126F | 26-SEP-2001 | 01-10-509A | 02
10 | OR | LANE COUNTY | 41039C1107F | 28-SEP-2001 | 01-10-515A | 02
10 | OR | LANE COUNTY | 41039C1105F | 30-AUG-2001 | 01-10-516A | 02
10 | OR | LANE COUNTY | 41039C1107F | 10-SEP-2001 | 01-10-524A | 02
10 | OR | LANE COUNTY | 41039C1126F | 28-NOV-2001 | 01-10-531A | 02
10 | OR | LANE COUNTY | 41039C1180F | 15-AUG-2001 | 01-10-549A | 02
10 | OR | LANE COUNTY | 41039C1050F | 31-AUG-2001 | 01-10-550A | 02
10 | OR | LANE COUNTY | 41039C1660F | 17-OCT-2001 | 01-10-585A | 02
10 | OR | LANE COUNTY | 41039C0740F | 10-OCT-2001 | 02-10-001A | 02
10 | OR | LANE COUNTY | 41039C1107F | 24-OCT-2001 | 02-10-017A | 02
10 | OR | LANE COUNTY | 41039C2400F | 19-DEC-2001 | 02-10-092A | 02
10 | OR | LANE COUNTY | 41039C1645F | 19-DEC-2001 | 02-10-093A | 02
10 | OR | LANE COUNTY | 41039C1680F | 31-DEC-2001 | 02-10-111A | 02
10 | OR | LINCOLN CITY, CITY OF | 4101300001C | 03-AUG-2001 | 01-10-376A | 01
10 | OR | LINN COUNTY | 4101360350B | 18-JUL-2001 | 01-10-438A | 02
10 | OR | LINN COUNTY | 4101360350B | 31-DEC-2001 | 02-10-112A | 02
10 | OR | MARION COUNTY | 41047C0050G | 15-NOV-2001 | 01-10-561A | 02
10 | OR | MILWAUKIE, CITY OF | 4100190001B | 19-DEC-2001 | 01-10-191P | 05
10 | OR | MULTNOMAH COUNTY | 4101790381B | 19-DEC-2001 | 01-10-191P | 05
10 | OR | PORTLAND, CITY OF | 4101830047D | 19-DEC-2001 | 01-10-191P | 05
10 | OR | PORTLAND, CITY OF | 4101830048C | 19-DEC-2001 | 01-10-191P | 05
10 | OR | PORTLAND, CITY OF | 4101830051C | 19-DEC-2001 | 01-10-191P | 05
10 | OR | PORTLAND, CITY OF | 4101830046C | 25-OCT-2001 | 01-R10-3 | 02
10 | OR | PORTLAND, CITY OF | 4101830020D | 26-OCT-2001 | 02-10-010A | 02
10 | OR | PORTLAND, CITY OF | 4101830025D | 28-NOV-2001 | 02-10-063A | 02
10 | OR | ROSEBURG, CITY OF | 4100670005E | 06-JUL-2001 | 01-10-303A | 01
10 | OR | ROSEBURG, CITY OF | 4100670005E | 14-SEP-2001 | 01-10-553A | 02
10 | OR | TIGARD, CITY OF | 4102760003B | 20-SEP-2001 | 01-10-413A | 02
10 | OR | TILLAMOOK COUNTY | 4101960315A | 08-AUG-2001 | 01-10-453A | 02
10 | OR | TILLAMOOK COUNTY | 4101960160B | 24-AUG-2001 | 01-10-548A | 02
10 | OR | TILLAMOOK COUNTY | 4101960250A | 12-DEC-2001 | 02-10-086A | 02
10 | OR | TUALATIN, CITY OF | 4102770002D | 03-OCT-2001 | 01-10-455A | 01
10 | OR | WASHINGTON COUNTY | 4102380316B | 24-OCT-2001 | 01-10-575A | 02
10 | OR | WASHINGTON COUNTY | 4102380500B | 31-DEC-2001 | 02-10-020A | 02
10 | OR | YAMHILL COUNTY | 4102490187C | 07-NOV-2001 | 02-10-028A | 02
10 | WA | ABERDEEN, CITY OF | 5300580004B | 20-JUL-2001 | 01-10-452A | 02
10 | WA | BAINBRIDGE ISLAND, CITY OF | 5300920310B | 31-AUG-2001 | 01-10-446A | 02
10 | WA | BAINBRIDGE ISLAND, CITY OF | 5300920220B | 20-JUL-2001 | 01-10-450A | 02
10 | WA | BAINBRIDGE ISLAND, CITY OF | 5303070001A | 10-AUG-2001 | 01-10-485A | 02
10 | WA | BELLEVUE, CITY OF | 53033C0656F | 24-OCT-2001 | 02-10-014A | 02
10 | WA | BENTON COUNTY | 5302370636D | 02-NOV-2001 | 02-10-029A | 02
10 | WA | BENTON COUNTY | 5302370645B | 14-DEC-2001 | 02-10-091A | 02
10 | WA | BURIEN, CITY OF | 53033C0955F | 19-NOV-2001 | 02-10-058A | 02
10 | WA | BURLINGTON, CITY OF | 5301530001B | 27-JUL-2001 | 01-10-466A | 02
10 | WA | BURLINGTON, CITY OF | 5301530001B | 15-NOV-2001 | 02-10-055A | 02
10 | WA | CARNATION, CITY OF | 53033C0418F | 30-AUG-2001 | 01-10-421A | 01
10 | WA | CARNATION, CITY OF | 53033C0419F | 17-AUG-2001 | 01-10-513A | 02
10 | WA | CARNATION, CITY OF | 53033C0419G | 07-DEC-2001 | 99-10-161V | 19
10 | WA | CARNATION, CITY OF | 53033C0419G | 07-DEC-2001 | 99-10-161V | 19
10 | WA | CENTRALIA, CITY OF | 5301030001B | 02-JUL-2001 | 01-10-436A | 02
10 | WA | CENTRALIA, CITY OF | 5301030001B | 03-AUG-2001 | 01-10-490A | 02
10 | WA | CENTRALIA, CITY OF | 5301030001B | 21-DEC-2001 | 02-10-038A | 02
10 | WA | CHEHALIS, CITY OF | 5301040002B | 08-AUG-2001 | 01-10-465A | 02
10 | WA | CLARK COUNTY | 5300240460C | 01-AUG-2001 | 01-10-434A | 02
10 | WA | CLARK COUNTY | 5300240225B | 03-DEC-2001 | 02-10-003A | 02
10 | WA | COWLITZ COUNTY | 5300320040E | 21-DEC-2001 | 98-10-301V | 19
10 | WA | COWLITZ COUNTY | 5300320129F | 21-DEC-2001 | 98-10-301V | 19
10 | WA | COWLITZ COUNTY | 5300320140E | 21-DEC-2001 | 98-10-301V | 19
10 | WA | GOLD BAR, TOWN OF | 53061C1427E | 30-AUG-2001 | 01-10-521A | 02
10 | WA | ISLAND COUNTY | 53029C0165D | 10-OCT-2001 | 01-10-555A | 02
10 | WA | ISLAND COUNTY | 53029C0275D | 10-OCT-2001 | 01-10-555A | 02
10 | WA | KING COUNTY | 53033C1290F | 28-NOV-2001 | 01-10-460A | 02
10 | WA | KING COUNTY | 53033C1505F | 17-OCT-2001 | 01-10-492A | 02
10 | WA | KING COUNTY | 53033C1280F | 26-OCT-2001 | 01-10-570A | 02
10 | WA | KING COUNTY | 53033C1250F | 19-OCT-2001 | 01-10-592A | 02
10 | WA | KING COUNTY | 53033C0680F | 07-NOV-2001 | 02-10-034A | 02
10 | WA | KING COUNTY | 53033C1076G | 28-NOV-2001 | 02-10-067A | 02
10 | WA | KING COUNTY | 53033C0418G | 07-DEC-2001 | 99-10-161V | 19
10 | WA | KING COUNTY | 53033C1057H | 07-DEC-2001 | 99-10-161V | 19
10 | WA | KING COUNTY | 53033C1059G | 07-DEC-2001 | 99-10-161V | 19
10 | WA | KING COUNTY | 53033C1076H | 07-DEC-2001 | 99-10-161V | 19
10 | WA | KITSAP COUNTY | 5300920120B | 31-DEC-2001 | 02-10-113A | 02
10 | WA | KITTITAS COUNTY | 5300950125B | 24-OCT-2001 | 01-10-375A | 02
10 | WA | KITTITAS COUNTY | 5300950229B | 03-AUG-2001 | 01-10-499A | 02
10 | WA | KITTITAS COUNTY | 5300950554C | 12-SEP-2001 | 01-10-541A | 02
10 | WA | LEWIS COUNTY | 5301020041B | 26-SEP-2001 | 01-10-558A | 02
10 | WA | MASON COUNTY | 5301150275C | 27-JUL-2001 | 01-10-469A | 02
10 | WA | N. BONNEVILLE, TOWN OF | 5302560001A | 13-SEP-2001 | 01-10-488P | 05
10 | WA | OKANOGAN COUNTY | 5301170675D | 10-AUG-2001 | 01-10-491A | 02
10 | WA | OLYMPIA, CITY OF | 5301910004B | 15-AUG-2001 | 01-10-358A | 02
10 | WA | OLYMPIA, CITY OF | 5301910003B | 18-JUL-2001 | 01-10-445A | 02
10 | WA | PACIFIC COUNTY | 5301260025B | 19-DEC-2001 | 02-10-096A | 02
10 | WA | PIERCE COUNTY | 5301380730C | 03-OCT-2001 | 01-10-504A | 02
10 | WA | PIERCE COUNTY | 5301380375C | 31-OCT-2001 | 01-10-518A | 02
10 | WA | PIERCE COUNTY | 5301380250C | 31-DEC-2001 | 02-10-073A | 02
10 | WA | RENTON, CITY OF | 53033C0976F | 18-JUL-2001 | 01-10-265A | 01
10 | WA | RICHLAND, CITY OF | 5355330015E | 01-AUG-2001 | 01-10-384P | 06
10 | WA | SAN JUAN COUNTY | 5301490004B | 02-JUL-2001 | 01-10-327A | 02
10 | WA | SKAGIT COUNTY | 5301510250C | 03-AUG-2001 | 01-10-439A | 02
10 | WA | SKAGIT COUNTY | 5301510275C | 12-JUL-2001 | 01-10-441A | 02
10 | WA | SKAGIT COUNTY | 5301510425C | 25-JUL-2001 | 01-10-463A | 02
10 | WA | SKAGIT COUNTY | 5301510250C | 10-SEP-2001 | 01-10-523A | 02
10 | WA | SKAGIT COUNTY | 5301510305C | 28-NOV-2001 | 02-10-059A | 02
10 | WA | SNOHOMISH COUNTY | 53061C0715E | 10-SEP-2001 | 01-10-529A | 02
10 | WA | SNOHOMISH COUNTY | 53061C1310E | 19-NOV-2001 | 02-10-057A | 02
10 | WA | SNOHOMISH COUNTY | 53061C0755E | 03-DEC-2001 | 02-10-074A | 02
10 | WA | SPOKANE COUNTY | 5301740225B | 06-JUL-2001 | 01-10-366A | 02
10 | WA | SPOKANE COUNTY | 5301740085 | 31-DEC-2001 | 01-10-580A | 02
10 | WA | SPOKANE COUNTY | 5301740401C | 28-NOV-2001 | 02-10-064A | 02
10 | WA | SPOKANE COUNTY | 5301740294C | 05-DEC-2001 | 02-10-077A | 02
10 | WA | SPOKANE COUNTY | 5301740294C | 19-DEC-2001 | 02-10-095A | 02
10 | WA | SPOKANE COUNTY | 5301740294C | 19-DEC-2001 | 02-10-104A | 02
10 | WA | STEVENS COUNTY | 5301850075B | 27-JUL-2001 | 01-10-423A | 02
10 | WA | SULTAN, CITY OF | 53061C1406E | 18-JUL-2001 | 01-10-407A | 02
10 | WA | TACOMA, CITY OF | 5301480035B | 05-DEC-2001 | 01-10-459A | 01
10 | WA | THURSTON COUNTY | 5301880150C | 10-AUG-2001 | 01-10-480A | 02
10 | WA | WHATCOM COUNTY | 530198—15B | 13-NOV-2001 | 01-10-534P | 05

Region | State | Community | Panel | Panel date
01 | MAINE | DIXFIELD, TOWN OF | 2300920001C | 07-SEP-2001
01 | MAINE | DIXFIELD, TOWN OF | 2300920003C | 07-SEP-2001
01 | MAINE | DIXFIELD, TOWN OF | 2300920004C | 07-SEP-2001
01 | MAINE | DIXFIELD, TOWN OF | 2300920005C | 07-SEP-2001
01 | MAINE | DIXFIELD, TOWN OF | 2300920006C | 07-SEP-2001
01 | MAINE | DIXFIELD, TOWN OF | 2300920007C | 07-SEP-2001
01 | MAINE | DIXFIELD, TOWN OF | 2300920008C | 07-SEP-2001
01 | MAINE | DIXFIELD, TOWN OF | 2300920009C | 07-SEP-2001
01 | MAINE | DIXFIELD, TOWN OF | 2300920010C | 07-SEP-2001
01 | MAINE | DIXFIELD, TOWN OF | 2300920011C | 07-SEP-2001
01 | MAINE | DIXFIELD, TOWN OF | 230092IND0** | 07-SEP-2001
01 | MAINE | GREENVILLE,TOWN OF | 2304090005E | 07-SEP-2001
01 | MAINE | GREENVILLE,TOWN OF | 2304090010E | 07-SEP-2001
01 | MAINE | GREENVILLE,TOWN OF | 2304090011E | 07-SEP-2001
01 | MAINE | GREENVILLE,TOWN OF | 2304090015E | 07-SEP-2001
01 | MAINE | GREENVILLE,TOWN OF | 2304090020E | 07-SEP-2001
01 | MAINE | GREENVILLE,TOWN OF | 230409IND0** | 07-SEP-2001
01 | MAINE | KINGFIELD, TOWN OF | 2300580010C | 07-NOV-2001
01 | MAINE | KINGFIELD, TOWN OF | 2300580015C | 07-NOV-2001
01 | MAINE | KINGFIELD, TOWN OF | 2300580017C | 07-NOV-2001
01 | MAINE | KINGFIELD, TOWN OF | 2300580020C | 07-NOV-2001
01 | MAINE | KINGFIELD, TOWN OF | 230058IND0** | 07-NOV-2001
01 | MAINE | MT. VERNON, TOWN OF | 2302410005B | 07-SEP-2001
01 | MAINE | MT. VERNON, TOWN OF | 2302410025B | 07-SEP-2001
01 | MAINE | MT. VERNON, TOWN OF | 230241IND0** | 07-SEP-2001
01 | MAINE | WILTON, TOWN OF | 2300630001B | 23-AUG-2001
01 | MAINE | WILTON, TOWN OF | 2300630002B | 23-AUG-2001
01 | MAINE | WILTON, TOWN OF | 2300630004B | 23-AUG-2001
01 | MAINE | WILTON, TOWN OF | 2300630005B | 23-AUG-2001
01 | MAINE | WILTON, TOWN OF | 2300630006B | 23-AUG-2001
01 | MAINE | WILTON, TOWN OF | 2300630007B | 23-AUG-2001
01 | MAINE | WILTON, TOWN OF | 2300630008B | 23-AUG-2001
01 | MAINE | WILTON, TOWN OF | 2300630009B | 23-AUG-2001
01 | MAINE | WILTON, TOWN OF | 2300630010B | 23-AUG-2001
01 | MAINE | WILTON, TOWN OF | 230063IND0** | 23-AUG-2001
01 | MASSACHUSETTS | HOLBROOK, TOWN OF | 2552120001D | 05-JUL-2001
01 | MASSACHUSETTS | HOLBROOK, TOWN OF | 2552120002D | 05-JUL-2001
01 | MASSACHUSETTS | HOLBROOK, TOWN OF | 2552120003D | 05-JUL-2001
01 | MASSACHUSETTS | HOLBROOK, TOWN OF | 2552120004D | 05-JUL-2001
01 | MASSACHUSETTS | HOLBROOK, TOWN OF | 255212IND0** | 05-JUL-2001
01 | NEW HAMPSHIRE | DURHAM, TOWN OF | 3301460002C | 23-AUG-2001
01 | NEW HAMPSHIRE | DURHAM, TOWN OF | 3301460004C | 23-AUG-2001
01 | NEW HAMPSHIRE | DURHAM, TOWN OF | 3301460010C | 23-AUG-2001
01 | NEW HAMPSHIRE | DURHAM, TOWN OF | 3301460015C | 23-AUG-2001
01 | NEW HAMPSHIRE | DURHAM, TOWN OF | 330146IND0** | 23-AUG-2001
01 | NEW HAMPSHIRE | KEENE, CITY OF | 3300230003D | 05-OCT-2001
01 | NEW HAMPSHIRE | KEENE, CITY OF | 3300230006D | 05-OCT-2001
01 | NEW HAMPSHIRE | KEENE, CITY OF | 3300230008D | 05-OCT-2001
01 | NEW HAMPSHIRE | KEENE, CITY OF | 3300230009D | 05-OCT-2001
01 | NEW HAMPSHIRE | KEENE, CITY OF | 330023IND0** | 05-OCT-2001
01 | VERMONT | MONTGOMERY, TOWN OF | 5000560001C | 05-JUL-2001
01 | VERMONT | MONTGOMERY, TOWN OF | 5000560005C | 05-JUL-2001
01 | VERMONT | MONTGOMERY, TOWN OF | 500056IND0** | 05-JUL-2001
02 | NEW JERSEY | BERKELEY HEIGHTS, TOWNSHIP OF | 3404590001E | 21-NOV-2001
02 | NEW JERSEY | BERKELEY HEIGHTS, TOWNSHIP OF | 3404590002E | 21-NOV-2001
02 | NEW JERSEY | BERKELEY HEIGHTS, TOWNSHIP OF | 3404590003E | 21-NOV-2001
02 | NEW JERSEY | BERKELEY HEIGHTS, TOWNSHIP OF | 3404590004E | 21-NOV-2001
02 | NEW JERSEY | BERKELEY HEIGHTS, TOWNSHIP OF | 340459IND0** | 21-NOV-2001
02 | NEW JERSEY | CHATHAM, BOROUGH OF | 3403380001B | 19-JUL-2001
02 | NEW JERSEY | CHATHAM, TOWNSHIP OF | 3405040002C | 19-JUL-2001
02 | NEW JERSEY | CHATHAM, TOWNSHIP OF | 3405040004C | 19-JUL-2001
02 | NEW JERSEY | CHATHAM, TOWNSHIP OF | 3405040005C | 19-JUL-2001
02 | NEW JERSEY | CHATHAM, TOWNSHIP OF | 3405040006C | 19-JUL-2001
02 | NEW JERSEY | CHATHAM, TOWNSHIP OF | 340504IND0** | 19-JUL-2001
02 | NEW JERSEY | FRENCHTOWN, BOROUGH OF | 3402340001C | 19-JUL-2001
02 | NEW JERSEY | HARDING, TOWNSHIP OF | 3403440002D | 06-DEC-2001
02 | NEW JERSEY | HARDING, TOWNSHIP OF | 3403440003D | 06-DEC-2001
02 | NEW JERSEY | HARDING, TOWNSHIP OF | 3403440004D | 06-DEC-2001
02 | NEW JERSEY | HARDING, TOWNSHIP OF | 3403440005D | 06-DEC-2001
02 | NEW JERSEY | HARDING, TOWNSHIP OF | 3403440006D | 06-DEC-2001
02 | NEW JERSEY | HARDING, TOWNSHIP OF | 3403440007D | 06-DEC-2001
02 | NEW JERSEY | HARDING, TOWNSHIP OF | 3403440008D | 06-DEC-2001
02 | NEW JERSEY | HARDING, TOWNSHIP OF | 3403440009D | 06-DEC-2001
02 | NEW JERSEY | HARDING, TOWNSHIP OF | 340344IND0** | 06-DEC-2001
02 | NEW JERSEY | NEW PROVIDENCE, BOROUGH OF | 3453060001D | 20-DEC-2001
02 | NEW JERSEY | PHILLIPSBURG, TOWN OF | 3404930001C | 19-JUL-2001
02 | NEW JERSEY | PHILLIPSBURG, TOWN OF | 3404930002C | 19-JUL-2001
02 | NEW JERSEY | PHILLIPSBURG, TOWN OF | 340493IND0** | 19-JUL-2001
02 | NEW JERSEY | ROSELAND, BOROUGH OF | 3401930001C | 20-DEC-2001
02 | NEW JERSEY | ROSELAND, BOROUGH OF | 3401930003C | 20-DEC-2001
02 | NEW JERSEY | ROSELAND, BOROUGH OF | 340193IND0** | 20-DEC-2001
02 | NEW JERSEY | WEST CALDWELL, BOROUGH OF | 3401960001C | 20-DEC-2001
02 | NEW JERSEY | WEST CALDWELL, BOROUGH OF | 3401960002C | 20-DEC-2001
02 | NEW JERSEY | WEST CALDWELL, BOROUGH OF | 3401960003C | 20-DEC-2001
02 | NEW JERSEY | WEST CALDWELL, BOROUGH OF | 340196IND0** | 20-DEC-2001
02 | NEW YORK | CARMEL,TOWN OF | 3606690001D | 19-OCT-2001
02 | NEW YORK | CARMEL,TOWN OF | 3606690005D | 19-OCT-2001
02 | NEW YORK | CARMEL,TOWN OF | 3606690006D | 19-OCT-2001
02 | NEW YORK | CARMEL,TOWN OF | 360669IND0** | 19-OCT-2001
02 | NEW YORK | CHAMPLAIN, TOWN OF | 3613110005B | 19-JUL-2001
02 | NEW YORK | CHAMPLAIN, TOWN OF | 3613110010B | 19-JUL-2001
02 | NEW YORK | CHAMPLAIN, TOWN OF | 3613110015B | 19-JUL-2001
02 | NEW YORK | CHAMPLAIN, TOWN OF | 3613110020B | 19-JUL-2001
02 | NEW YORK | CHAMPLAIN, TOWN OF | 361311IND0** | 19-JUL-2001
02 | NEW YORK | CHAMPLAIN, VILLAGE OF | 3601670001C | 19-JUL-2001
02 | NEW YORK | HAMBURG, TOWN OF | 3602440001D | 20-DEC-2001
02 | NEW YORK | HAMBURG, TOWN OF | 3602440002D | 20-DEC-2001
02 | NEW YORK | HAMBURG, TOWN OF | 3602440003D | 20-DEC-2001
02 | NEW YORK | HAMBURG, TOWN OF | 3602440004D | 20-DEC-2001
02 | NEW YORK | HAMBURG, TOWN OF | 3602440005D | 20-DEC-2001
02 | NEW YORK | HAMBURG, TOWN OF | 3602440006D | 20-DEC-2001
02 | NEW YORK | HAMBURG, TOWN OF | 3602440007D | 20-DEC-2001
02 | NEW YORK | HAMBURG, TOWN OF | 3602440008D | 20-DEC-2001
02 | NEW YORK | HAMBURG, TOWN OF | 3602440009D | 20-DEC-2001
02 | NEW YORK | HAMBURG, TOWN OF | 3602440010D | 20-DEC-2001
02 | NEW YORK | HAMBURG, TOWN OF | 3602440011D | 20-DEC-2001
02 | NEW YORK | HAMBURG, TOWN OF | 3602440012D | 20-DEC-2001
02 | NEW YORK | HAMBURG, TOWN OF | 3602440013D | 20-DEC-2001
02 | NEW YORK | HAMBURG, TOWN OF | 3602440014D | 20-DEC-2001
02 | NEW YORK | HAMBURG, TOWN OF | 3602440015D | 20-DEC-2001
02 | NEW YORK | HAMBURG, TOWN OF | 3602440016D | 20-DEC-2001
02 | NEW YORK | HAMBURG, TOWN OF | 3602440017D | 20-DEC-2001
02 | NEW YORK | HAMBURG, TOWN OF | 3602440018D | 20-DEC-2001
02 | NEW YORK | HAMBURG, TOWN OF | 3602440019D | 20-DEC-2001
02 | NEW YORK | HAMBURG, TOWN OF | 3602440020D | 20-DEC-2001
02 | NEW YORK | HAMBURG, TOWN OF | 3602440021D | 20-DEC-2001
02 | NEW YORK | HAMBURG, TOWN OF | 360244IND0** | 20-DEC-2001
02 | NEW YORK | LONG HILL, TOWNSHIP OF | 3403560005B | 21-SEP-2001
02 | NEW YORK | LUMBERLAND, TOWN OF | 3608250005C | 19-OCT-2001
02 | NEW YORK | LUMBERLAND, TOWN OF | 3608250010C | 19-OCT-2001
02 | NEW YORK | LUMBERLAND, TOWN OF | 3608250015C | 19-OCT-2001
02 | NEW YORK | LUMBERLAND, TOWN OF | 3608250020C | 19-OCT-2001
02 | NEW YORK | LUMBERLAND, TOWN OF | 3608250034C | 19-OCT-2001
02 | NEW YORK | LUMBERLAND, TOWN OF | 3608250051C | 19-OCT-2001
02 | NEW YORK | LUMBERLAND, TOWN OF | 3608250052C | 19-OCT-2001
02 | NEW YORK | LUMBERLAND, TOWN OF | 3608250053C | 19-OCT-2001
02 | NEW YORK | LUMBERLAND, TOWN OF | 3608250054C | 19-OCT-2001
02 | NEW YORK | LUMBERLAND, TOWN OF | 3608250058C | 19-OCT-2001
02 | NEW YORK | LUMBERLAND, TOWN OF | 3608250060C | 19-OCT-2001
02 | NEW YORK | LUMBERLAND, TOWN OF | 3608250061C | 19-OCT-2001
02 | NEW YORK | LUMBERLAND, TOWN OF | 3608250062C | 19-OCT-2001
02 | NEW YORK | LUMBERLAND, TOWN OF | 3608250066C | 19-OCT-2001
02 | NEW YORK | LUMBERLAND, TOWN OF | 3608250067C | 19-OCT-2001
02 | NEW YORK | LUMBERLAND, TOWN OF | 360825IND0* | 19-OCT-2001
02 | NEW YORK | NORTH ELBA, TOWN OF | 3611560009B | 23-AUG-2001
02 | NEW YORK | NORTH ELBA, TOWN OF | 3611560010B | 23-AUG-2001
02 | NEW YORK | NORTH ELBA, TOWN OF | 3611560016B | 23-AUG-2001
02 | NEW YORK | NORTH ELBA, TOWN OF | 3611560017B | 23-AUG-2001
02 | NEW YORK | NORTH ELBA, TOWN OF | 3611560025B | 23-AUG-2001
02 | NEW YORK | NORTH ELBA, TOWN OF | 361156IND0** | 23-AUG-2001
02 | NEW YORK | WINDHAM, TOWN OF | 3614010021E | 19-JUL-2001
02 | NEW YORK | WINDHAM, TOWN OF | 3614010022E | 19-JUL-2001
02 | NEW YORK | WINDHAM, TOWN OF | 361401IND0** | 19-JUL-2001
03 | PENNSYLVANIA | ALBURTIS, BOROUGH OF | 42077C0238D | 07-NOV-2001
03 | PENNSYLVANIA | ALBURTIS, BOROUGH OF | 42077C0239D | 07-NOV-2001
03 | PENNSYLVANIA | ALBURTIS, BOROUGH OF | 42077CIND0** | 07-NOV-2001
03 | PENNSYLVANIA | ALLENTOWN, CITY OF | 42077C0164D | 07-NOV-2001
03 | PENNSYLVANIA | ALLENTOWN, CITY OF | 42077C0231D | 07-NOV-2001
03 | PENNSYLVANIA | ALLENTOWN, CITY OF | 42077C0232D | 07-NOV-2001
03 | PENNSYLVANIA | ALLENTOWN, CITY OF | 42077C0233D | 07-NOV-2001
03 | PENNSYLVANIA | ALLENTOWN, CITY OF | 42077C0234D | 07-NOV-2001
03 | PENNSYLVANIA | ALLENTOWN, CITY OF | 42077C0242D | 07-NOV-2001
03 | PENNSYLVANIA | ALLENTOWN, CITY OF | 42077C0251D | 07-NOV-2001
03 | PENNSYLVANIA | ALLENTOWN, CITY OF | 42077C0252D | 07-NOV-2001
03 | PENNSYLVANIA | ALLENTOWN, CITY OF | 42077C0253D | 07-NOV-2001
03 | PENNSYLVANIA | ALLENTOWN, CITY OF | 42077C0254D | 07-NOV-2001
03 | PENNSYLVANIA | ALLENTOWN, CITY OF | 42077C0256D | 07-NOV-2001
03 | PENNSYLVANIA | ALLENTOWN, CITY OF | 42077C0260D | 07-NOV-2001
03 | PENNSYLVANIA | ALLENTOWN, CITY OF | 42077C0261D | 07-NOV-2001
03 | PENNSYLVANIA | ALLENTOWN, CITY OF | 42077C0262D | 07-NOV-2001
03 | PENNSYLVANIA | ALLENTOWN, CITY OF | 42077CIND0** | 07-NOV-2001
03 | PENNSYLVANIA | ASPINWALL, BOROUGH OF | 42003C0357G** | 21-SEP-2001
03 | PENNSYLVANIA | ASPINWALL, BOROUGH OF | 42003CIND1** | 21-SEP-2001
03 | PENNSYLVANIA | ASPINWALL, BOROUGH OF | 42003CIND2** | 21-SEP-2001
03 | PENNSYLVANIA | BUFFALO, TOWNSHIP OF | 4214160005C | 05-JUL-2001
03 | PENNSYLVANIA | BUFFALO, TOWNSHIP OF | 4214160007C | 05-JUL-2001
03 | PENNSYLVANIA | BUFFALO, TOWNSHIP OF | 421416IND0** | 05-JUL-2001
03 | PENNSYLVANIA | CATASAUQUA, BOROUGH OF | 42077C0161D | 07-NOV-2001
03 | PENNSYLVANIA | CATASAUQUA, BOROUGH OF | 42077C0162D | 07-NOV-2001
03 | PENNSYLVANIA | CATASAUQUA, BOROUGH OF | 42077C0163D | 07-NOV-2001
03 | PENNSYLVANIA | CATASAUQUA, BOROUGH OF | 42077C0164D | 07-NOV-2001
03 | PENNSYLVANIA | CATASAUQUA, BOROUGH OF | 42077CIND0** | 07-NOV-2001
03 | PENNSYLVANIA | COLLEGEVILLE, BOROUGH OF | 42091C0229F | 19-OCT-2001
03 | PENNSYLVANIA | COLLEGEVILLE, BOROUGH OF | 42091C0237F | 19-OCT-2001
03 | PENNSYLVANIA | COLLEGEVILLE, BOROUGH OF | 42091CIND1** | 19-OCT-2001
03 | PENNSYLVANIA | COLLEGEVILLE, BOROUGH OF | 42091CIND2** | 19-OCT-2001
03 | PENNSYLVANIA | COOPERSBURG, BOROUGH OF | 42077C0269D | 07-NOV-2001
03 | PENNSYLVANIA | COOPERSBURG, BOROUGH OF | 42077CIND0** | 07-NOV-2001
03 | PENNSYLVANIA | COPLAY, BOROUGH OF | 42077C0142D | 07-NOV-2001
03 | PENNSYLVANIA | COPLAY, BOROUGH OF | 42077C0161D | 07-NOV-2001
03 | PENNSYLVANIA | COPLAY, BOROUGH OF | 42077CIND0** | 07-NOV-2001
03 | PENNSYLVANIA | EMMAUS, BOROUGH OF | 42077C0242D | 07-NOV-2001
03 | PENNSYLVANIA | EMMAUS, BOROUGH OF | 42077C0244D | 07-NOV-2001
03 | PENNSYLVANIA | EMMAUS, BOROUGH OF | 42077C0261D | 07-NOV-2001
03 | PENNSYLVANIA | EMMAUS, BOROUGH OF | 42077C0263D | 07-NOV-2001
03 | PENNSYLVANIA | EMMAUS, BOROUGH OF | 42077CIND0** | 07-NOV-2001
03 | PENNSYLVANIA | FOUNTAIN HILL, BORO OF | 42077C0257D | 07-NOV-2001
03 | PENNSYLVANIA | FOUNTAIN HILL, BORO OF | 42077C0260D | 07-NOV-2001
03 | PENNSYLVANIA | FOUNTAIN HILL, BORO OF | 42077CIND0** | 07-NOV-2001
03 | PENNSYLVANIA | FOX CHAPEL, BOROUGH OF | 42003C0217E | 21-SEP-2001
03 | PENNSYLVANIA | FOX CHAPEL, BOROUGH OF | 42003C0218G | 21-SEP-2001
03 | PENNSYLVANIA | FOX CHAPEL, BOROUGH OF | 42003C0219F | 21-SEP-2001
03 | PENNSYLVANIA | FOX CHAPEL, BOROUGH OF | 42003C0238G | 21-SEP-2001
03 | PENNSYLVANIA | FOX CHAPEL, BOROUGH OF | 42003C0357G | 21-SEP-2001
03 | PENNSYLVANIA | FOX CHAPEL, BOROUGH OF | 42003CIND1** | 21-SEP-2001
03 | PENNSYLVANIA | FOX CHAPEL, BOROUGH OF | 42003CIND2** | 21-SEP-2001
03 | PENNSYLVANIA | FRANCONIA, TOWNSHIP OF | 42091C0108F | 19-OCT-2001
03 | PENNSYLVANIA | FRANCONIA, TOWNSHIP OF | 42091C0109F | 19-OCT-2001
03 | PENNSYLVANIA | FRANCONIA, TOWNSHIP OF | 42091C0116F | 19-OCT-2001
03 | PENNSYLVANIA | FRANCONIA, TOWNSHIP OF | 42091C0117F | 19-OCT-2001
03 | PENNSYLVANIA | FRANCONIA, TOWNSHIP OF | 42091C0128F | 19-OCT-2001
03 | PENNSYLVANIA | FRANCONIA, TOWNSHIP OF | 42091CIND1** | 19-OCT-2001
03 | PENNSYLVANIA | FRANCONIA, TOWNSHIP OF | 42091CIND2** | 19-OCT-2001
03 | PENNSYLVANIA | GREEN LANE, BOROUGH OF | 42091C0103F | 19-OCT-2001
03 | PENNSYLVANIA | GREEN LANE, BOROUGH OF | 42091C0104F | 19-OCT-2001
03 | PENNSYLVANIA | GREEN LANE, BOROUGH OF | 42091CIND1** | 19-OCT-2001
03 | PENNSYLVANIA | GREEN LANE, BOROUGH OF | 42091CIND2** | 19-OCT-2001
03 | PENNSYLVANIA | HANOVER, TOWNSHIP OF | 42077C0162D | 07-NOV-2001
03 | PENNSYLVANIA | HANOVER, TOWNSHIP OF | 42077C0164D | 07-NOV-2001
03 | PENNSYLVANIA | HANOVER, TOWNSHIP OF | 42077CIND0** | 07-NOV-2001
03 | PENNSYLVANIA | HARMAR, TOWNSHIP OF | 42003C0238G** | 21-SEP-2001
03 | PENNSYLVANIA | HARMAR, TOWNSHIP OF | 42003CIND1** | 21-SEP-2001
03 | PENNSYLVANIA | HARMAR, TOWNSHIP OF | 42003CIND2** | 21-SEP-2001
03 | PENNSYLVANIA | HEIDELBERG, TOWNSHIP OF | 42077C0085D | 07-NOV-2001
03 | PENNSYLVANIA | HEIDELBERG, TOWNSHIP OF | 42077C0105D | 07-NOV-2001
03 | PENNSYLVANIA | HEIDELBERG, TOWNSHIP OF | 42077C0110D | 07-NOV-2001
03 | PENNSYLVANIA | HEIDELBERG, TOWNSHIP OF | 42077C0115D | 07-NOV-2001
03 | PENNSYLVANIA | HEIDELBERG, TOWNSHIP OF | 42077C0120D | 07-NOV-2001
03 | PENNSYLVANIA | HEIDELBERG, TOWNSHIP OF | 42077CIND0** | 07-NOV-2001
03 | PENNSYLVANIA | INDIANA, TOWNSHIP OF | 42003C0217F** | 21-SEP-2001
03 | PENNSYLVANIA | INDIANA, TOWNSHIP OF | 42003CIND1** | 21-SEP-2001
03 | PENNSYLVANIA | INDIANA, TOWNSHIP OF | 42003CIND2** | 21-SEP-2001
03 | PENNSYLVANIA | LIMERICK, TOWNSHIP OF | 42091C0113F** | 19-OCT-2001
03 | PENNSYLVANIA | LIMERICK, TOWNSHIP OF | 42091CIND1** | 19-OCT-2001
03 | PENNSYLVANIA | LIMERICK, TOWNSHIP OF | 42091CIND2** | 19-OCT-2001
03 | PENNSYLVANIA | LOWER FREDERICK, TOWNSHIP OF | 42091C0103F | 19-OCT-2001
03 | PENNSYLVANIA | LOWER FREDERICK, TOWNSHIP OF | 42091C0104F | 19-OCT-2001
03 | PENNSYLVANIA | LOWER FREDERICK, TOWNSHIP OF | 42091C0111F | 19-OCT-2001
03 | PENNSYLVANIA | LOWER FREDERICK, TOWNSHIP OF | 42091C0112F | 19-OCT-2001
03 | PENNSYLVANIA | LOWER FREDERICK, TOWNSHIP OF | 42091C0113F | 19-OCT-2001
03 | PENNSYLVANIA | LOWER FREDERICK, TOWNSHIP OF | 42091C0114F | 19-OCT-2001
03 | PENNSYLVANIA | LOWER FREDERICK, TOWNSHIP OF | 42091CIND1** | 19-OCT-2001
03 | PENNSYLVANIA | LOWER FREDERICK, TOWNSHIP OF | 42091CIND2** | 19-OCT-2001
03 | PENNSYLVANIA | LOWER MACUNGIE, TOWNSHIP OF | 42077C0217D | 07-NOV-2001
03 | PENNSYLVANIA | LOWER MACUNGIE, TOWNSHIP OF | 42077C0219D | 07-NOV-2001
03 | PENNSYLVANIA | LOWER MACUNGIE, TOWNSHIP OF | 42077C0230D | 07-NOV-2001
03 | PENNSYLVANIA | LOWER MACUNGIE, TOWNSHIP OF | 42077C0233D | 07-NOV-2001
03 | PENNSYLVANIA | LOWER MACUNGIE, TOWNSHIP OF | 42077C0234D | 07-NOV-2001
03 | PENNSYLVANIA | LOWER MACUNGIE, TOWNSHIP OF | 42077C0236D | 07-NOV-2001
03 | PENNSYLVANIA | LOWER MACUNGIE, TOWNSHIP OF | 42077C0237D | 07-NOV-2001
03 | PENNSYLVANIA | LOWER MACUNGIE, TOWNSHIP OF | 42077C0238D | 07-NOV-2001
03 | PENNSYLVANIA | LOWER MACUNGIE, TOWNSHIP OF | 42077C0239D | 07-NOV-2001
03 | PENNSYLVANIA | LOWER MACUNGIE, TOWNSHIP OF | 42077C0241D | 07-NOV-2001
03 | PENNSYLVANIA | LOWER MACUNGIE, TOWNSHIP OF | 42077C0242D | 07-NOV-2001
03 | PENNSYLVANIA | LOWER MACUNGIE, TOWNSHIP OF | 42077C0243D | 07-NOV-2001
03 | PENNSYLVANIA | LOWER MACUNGIE, TOWNSHIP OF | 42077C0244D | 07-NOV-2001
03 | PENNSYLVANIA | LOWER MACUNGIE, TOWNSHIP OF | 42077C0301D | 07-NOV-2001
03 | PENNSYLVANIA | LOWER MACUNGIE, TOWNSHIP OF | 42077C0302D | 07-NOV-2001
03 | PENNSYLVANIA | LOWER MACUNGIE, TOWNSHIP OF | 42077C0310D | 07-NOV-2001
03 | PENNSYLVANIA | LOWER MACUNGIE, TOWNSHIP OF | 42077CIND0** | 07-NOV-2001
03 | PENNSYLVANIA | LOWER MILFORD, TOWNSHIP OF | 42077C0263D | 07-NOV-2001
03 | PENNSYLVANIA | LOWER MILFORD, TOWNSHIP OF | 42077C0264D | 07-NOV-2001
03 | PENNSYLVANIA | LOWER MILFORD, TOWNSHIP OF | 42077C0307D | 07-NOV-2001
03 | PENNSYLVANIA | LOWER MILFORD, TOWNSHIP OF | 42077C0310D | 07-NOV-2001
03 | PENNSYLVANIA | LOWER MILFORD, TOWNSHIP OF | 42077C0326D | 07-NOV-2001
03 | PENNSYLVANIA | LOWER MILFORD, TOWNSHIP OF | 42077C0330D | 07-NOV-2001
03 | PENNSYLVANIA | LOWER MILFORD, TOWNSHIP OF | 42077C0335D | 07-NOV-2001
03 | PENNSYLVANIA | LOWER MILFORD, TOWNSHIP OF | 42077C0340D | 07-NOV-2001
03 | PENNSYLVANIA | LOWER MILFORD, TOWNSHIP OF | 42077CIND0** | 07-NOV-2001
03 | PENNSYLVANIA | LOWER PROVIDENCE, TOWNSHIP OF | 42091C0229F | 19-OCT-2001
03 | PENNSYLVANIA | LOWER PROVIDENCE, TOWNSHIP OF | 42091C0237F | 19-OCT-2001
03 | PENNSYLVANIA | LOWER PROVIDENCE, TOWNSHIP OF | 42091C0239F | 19-OCT-2001
03 | PENNSYLVANIA | LOWER PROVIDENCE, TOWNSHIP OF | 42091C0243F | 19-OCT-2001
03 | PENNSYLVANIA | LOWER PROVIDENCE, TOWNSHIP OF | 42091C0327F | 19-OCT-2001
03 | PENNSYLVANIA | LOWER PROVIDENCE, TOWNSHIP OF | 42091CIND1** | 19-OCT-2001
03 | PENNSYLVANIA | LOWER PROVIDENCE, TOWNSHIP OF | 42091CIND2** | 19-OCT-2001
03 | PENNSYLVANIA | LOWER SALFORD, TOWNSHIP OF | 42091C0114F | 19-OCT-2001
03 | PENNSYLVANIA | LOWER SALFORD, TOWNSHIP OF | 42091C0116F | 19-OCT-2001
03 | PENNSYLVANIA | LOWER SALFORD, TOWNSHIP OF | 42091C0117F | 19-OCT-2001
03 | PENNSYLVANIA | LOWER SALFORD, TOWNSHIP OF | 42091C0118F | 19-OCT-2001
03 | PENNSYLVANIA | LOWER SALFORD, TOWNSHIP OF | 42091CIND1** | 19-OCT-2001
03 | PENNSYLVANIA | LOWER SALFORD, TOWNSHIP OF | 42091CIND2** | 19-OCT-2001
03 | PENNSYLVANIA | LOWHILL,TOWNSHIP OF | 42077C0115D | 07-NOV-2001
03 | PENNSYLVANIA | LOWHILL,TOWNSHIP OF | 42077C0120D | 07-NOV-2001
03 | PENNSYLVANIA | LOWHILL,TOWNSHIP OF | 42077C0138D | 07-NOV-2001
03 | PENNSYLVANIA | LOWHILL,TOWNSHIP OF | 42077C0210D | 07-NOV-2001
03 | PENNSYLVANIA | LOWHILL,TOWNSHIP OF | 42077C0226D | 07-NOV-2001
03 | PENNSYLVANIA | LOWHILL,TOWNSHIP OF | 42077CIND0** | 07-NOV-2001
03 | PENNSYLVANIA | LYNN, TOWNSHIP OF | 42077C0085D | 07-NOV-2001
03 | PENNSYLVANIA | LYNN, TOWNSHIP OF | 42077C0090D | 07-NOV-2001
03 | PENNSYLVANIA | LYNN, TOWNSHIP OF | 42077C0095D | 07-NOV-2001
03 | PENNSYLVANIA | LYNN, TOWNSHIP OF | 42077C0105D | 07-NOV-2001
03 | PENNSYLVANIA | LYNN, TOWNSHIP OF | 42077C0115D | 07-NOV-2001
03 | PENNSYLVANIA | LYNN, TOWNSHIP OF | 42077C0185D | 07-NOV-2001
03 | PENNSYLVANIA | LYNN, TOWNSHIP OF | 42077CIND0** | 07-NOV-2001
03 | PENNSYLVANIA | MACUNGIE, BOROUGH OF | 42077C0239D | 07-NOV-2001
03 | PENNSYLVANIA | MACUNGIE, BOROUGH OF | 42077C0243D | 07-NOV-2001
03 | PENNSYLVANIA | MACUNGIE, BOROUGH OF | 42077CIND0** | 07-NOV-2001
03 | PENNSYLVANIA | MARLBOROUGH, TOWNSHIP OF | 42091C0103F | 19-OCT-2001
03 | PENNSYLVANIA | MARLBOROUGH, TOWNSHIP OF | 42091C0104F | 19-OCT-2001
03 | PENNSYLVANIA | MARLBOROUGH, TOWNSHIP OF | 42091C0108F | 19-OCT-2001
03 | PENNSYLVANIA | MARLBOROUGH, TOWNSHIP OF | 42091CIND1** | 19-OCT-2001
03 | PENNSYLVANIA | MARLBOROUGH, TOWNSHIP OF | 42091CIND2** | 19-OCT-2001
03 | PENNSYLVANIA | NEW HANOVER, TOWNSHIP OF | 42091C0103F** | 19-OCT-2001
03 | PENNSYLVANIA | NEW HANOVER, TOWNSHIP OF | 42091CIND1** | 19-OCT-2001
03 | PENNSYLVANIA | NEW HANOVER, TOWNSHIP OF | 42091CIND2** | 19-OCT-2001
03 | PENNSYLVANIA | NORTH WHITEHALL, TOWNSHIP OF | 42077C0110D | 07-NOV-2001
03 | PENNSYLVANIA | NORTH WHITEHALL, TOWNSHIP OF | 42077C0120D | 07-NOV-2001
03 | PENNSYLVANIA | NORTH WHITEHALL, TOWNSHIP OF | 42077C0127D | 07-NOV-2001
03 | PENNSYLVANIA | NORTH WHITEHALL, TOWNSHIP OF | 42077C0128D | 07-NOV-2001
03 | PENNSYLVANIA | NORTH WHITEHALL, TOWNSHIP OF | 42077C0129D | 07-NOV-2001
03 | PENNSYLVANIA | NORTH WHITEHALL, TOWNSHIP OF | 42077C0131D | 07-NOV-2001
03 | PENNSYLVANIA | NORTH WHITEHALL, TOWNSHIP OF | 42077C0132D | 07-NOV-2001
03 | PENNSYLVANIA | NORTH WHITEHALL, TOWNSHIP OF | 42077C0133D | 07-NOV-2001
03 | PENNSYLVANIA | NORTH WHITEHALL, TOWNSHIP OF | 42077C0134D | 07-NOV-2001
03 | PENNSYLVANIA | NORTH WHITEHALL, TOWNSHIP OF | 42077C0136D | 07-NOV-2001
03 | PENNSYLVANIA | NORTH WHITEHALL, TOWNSHIP OF | 42077C0137D | 07-NOV-2001
03 | PENNSYLVANIA | NORTH WHITEHALL, TOWNSHIP OF | 42077C0138D | 07-NOV-2001
03 | PENNSYLVANIA | NORTH WHITEHALL, TOWNSHIP OF | 42077C0139D | 07-NOV-2001
03 | PENNSYLVANIA | NORTH WHITEHALL, TOWNSHIP OF | 42077C0141D | 07-NOV-2001
03 | PENNSYLVANIA | NORTH WHITEHALL, TOWNSHIP OF | 42077C0142D | 07-NOV-2001
03 | PENNSYLVANIA | NORTH WHITEHALL, TOWNSHIP OF | 42077C0143D | 07-NOV-2001
03 | PENNSYLVANIA | NORTH WHITEHALL, TOWNSHIP OF | 42077C0144D | 07-NOV-2001
03 | PENNSYLVANIA | NORTH WHITEHALL, TOWNSHIP OF | 42077C0226D | 07-NOV-2001
03 | PENNSYLVANIA | NORTH WHITEHALL, TOWNSHIP OF | 42077CIND0** | 07-NOV-2001
03 | PENNSYLVANIA | O'HARA, TOWNSHIP OF | 42003C0218G** | 21-SEP-2001
03 | PENNSYLVANIA | O'HARA, TOWNSHIP OF | 42003C0219F** | 21-SEP-2001
03 | PENNSYLVANIA | O'HARA, TOWNSHIP OF | 42003C0238G | 21-SEP-2001
03 | PENNSYLVANIA | O'HARA, TOWNSHIP OF | 42003C0357G** | 21-SEP-2001
03 | PENNSYLVANIA | O'HARA, TOWNSHIP OF | 42003CIND1** | 21-SEP-2001
03 | PENNSYLVANIA | O'HARA, TOWNSHIP OF | 42003CIND2** | 21-SEP-2001
03 | PENNSYLVANIA | OAKMONT, BOROUGH OF | 42003C0238G** | 21-SEP-2001
03 | PENNSYLVANIA | OAKMONT, BOROUGH OF | 42003CIND1** | 21-SEP-2001
03 | PENNSYLVANIA | OAKMONT, BOROUGH OF | 42003CIND2** | 21-SEP-2001
03 | PENNSYLVANIA | PENN HILLS, MUNICIPALITY OF | 42003C0357G** | 21-SEP-2001
03 | PENNSYLVANIA | PENN HILLS, MUNICIPALITY OF | 42003CIND1** | 21-SEP-2001
03 | PENNSYLVANIA | PENN HILLS, MUNICIPALITY OF | 42003CIND2** | 21-SEP-2001
03 | PENNSYLVANIA | PERKIOMEN, TOWNSHIP OF | 42091C0113F | 19-OCT-2001
03 | PENNSYLVANIA | PERKIOMEN, TOWNSHIP OF | 42091C0114F | 19-OCT-2001
03 | PENNSYLVANIA | PERKIOMEN, TOWNSHIP OF | 42091C0227F | 19-OCT-2001
03 | PENNSYLVANIA | PERKIOMEN, TOWNSHIP OF | 42091C0229F | 19-OCT-2001
03 | PENNSYLVANIA | PERKIOMEN, TOWNSHIP OF | 42091CIND1** | 19-OCT-2001
03 | PENNSYLVANIA | PERKIOMEN, TOWNSHIP OF | 42091CIND2** | 19-OCT-2001
03 | PENNSYLVANIA | PITTSBURGH, CITY OF | 42003C0357G** | 21-SEP-2001
03 | PENNSYLVANIA | PITTSBURGH, CITY OF | 42003CIND1** | 21-SEP-2001
03 | PENNSYLVANIA | PITTSBURGH, CITY OF | 42003CIND2** | 21-SEP-2001
03 | PENNSYLVANIA | SALFORD, TOWNSHIP OF | 42091C0104F | 19-OCT-2001
03 | PENNSYLVANIA | SALFORD, TOWNSHIP OF | 42091C0108F | 19-OCT-2001
03 | PENNSYLVANIA | SALFORD, TOWNSHIP OF | 42091C0109F | 19-OCT-2001
03 | PENNSYLVANIA | SALFORD, TOWNSHIP OF | 42091C0116F | 19-OCT-2001
03 | PENNSYLVANIA | SALFORD, TOWNSHIP OF | 42091C0128F | 19-OCT-2001
03 | PENNSYLVANIA | SALFORD, TOWNSHIP OF | 42091CIND1** | 19-OCT-2001
03 | PENNSYLVANIA | SALFORD, TOWNSHIP OF | 42091CIND2** | 19-OCT-2001
03 | PENNSYLVANIA | SALISBURY, TOWNSHIP OF | 42077C0234D | 07-NOV-2001
03 | PENNSYLVANIA | SALISBURY, TOWNSHIP OF | 42077C0242D | 07-NOV-2001
03 | PENNSYLVANIA | SALISBURY, TOWNSHIP OF | 42077C0252D | 07-NOV-2001
03 | PENNSYLVANIA | SALISBURY, TOWNSHIP OF | 42077C0253D | 07-NOV-2001
03 | PENNSYLVANIA | SALISBURY, TOWNSHIP OF | 42077C0254D | 07-NOV-2001
03 | PENNSYLVANIA | SALISBURY, TOWNSHIP OF | 42077C0256D | 07-NOV-2001
03 | PENNSYLVANIA | SALISBURY, TOWNSHIP OF | 42077C0257D | 07-NOV-2001
03 | PENNSYLVANIA | SALISBURY, TOWNSHIP OF | 42077C0260D | 07-NOV-2001
03 | PENNSYLVANIA | SALISBURY, TOWNSHIP OF | 42077C0261D | 07-NOV-2001
03 | PENNSYLVANIA | SALISBURY, TOWNSHIP OF | 42077C0262D | 07-NOV-2001
03 | PENNSYLVANIA | SALISBURY, TOWNSHIP OF | 42077C0263D | 07-NOV-2001
03 | PENNSYLVANIA | SALISBURY, TOWNSHIP OF | 42077CIND0** | 07-NOV-2001
03 | PENNSYLVANIA | SCHWENKSVILLE, BOROUGH OF | 42091C0113F | 19-OCT-2001
03 | PENNSYLVANIA | SCHWENKSVILLE, BOROUGH OF | 42091C0114F | 19-OCT-2001
03 | PENNSYLVANIA | SCHWENKSVILLE, BOROUGH OF | 42091C0227F | 19-OCT-2001
03 | PENNSYLVANIA | SCHWENKSVILLE, BOROUGH OF | 42091CIND1** | 19-OCT-2001
03 | PENNSYLVANIA | SCHWENKSVILLE, BOROUGH OF | 42091CIND2** | 19-OCT-2001
03 | PENNSYLVANIA | SHALER, TOWNSHIP OF | 42003C0218G** | 21-SEP-2001
03 | PENNSYLVANIA | SHALER, TOWNSHIP OF | 42003CIND1** | 21-SEP-2001
03 | PENNSYLVANIA | SHALER, TOWNSHIP OF | 42003CIND2** | 21-SEP-2001
03 | PENNSYLVANIA | SKIPPACK, TOWNSHIP OF | 42091C0114F | 19-OCT-2001
03 | PENNSYLVANIA | SKIPPACK, TOWNSHIP OF | 42091C0118F | 19-OCT-2001
03 | PENNSYLVANIA | SKIPPACK, TOWNSHIP OF | 42091C0227F | 19-OCT-2001
03 | PENNSYLVANIA | SKIPPACK, TOWNSHIP OF | 42091C0229F | 19-OCT-2001
03 | PENNSYLVANIA | SKIPPACK, TOWNSHIP OF | 42091CIND1** | 19-OCT-2001
03 | PENNSYLVANIA | SKIPPACK, TOWNSHIP OF | 42091CIND2** | 19-OCT-2001
03 | PENNSYLVANIA | SLATINGTON, BOROUGH OF | 42077C0038D | 07-NOV-2001
03 | PENNSYLVANIA | SLATINGTON, BOROUGH OF | 42077C0126D | 07-NOV-2001
03 | PENNSYLVANIA | SLATINGTON, BOROUGH OF | 42077CIND0** | 07-NOV-2001
03 | PENNSYLVANIA | SOUTH WHITEHALL, TOWNSHIP OF | 42077C0138D | 07-NOV-2001
03 | PENNSYLVANIA | SOUTH WHITEHALL, TOWNSHIP OF | 42077C0139D | 07-NOV-2001
03 | PENNSYLVANIA | SOUTH WHITEHALL, TOWNSHIP OF | 42077C0143D | 07-NOV-2001
03 | PENNSYLVANIA | SOUTH WHITEHALL, TOWNSHIP OF | 42077C0144D | 07-NOV-2001
03 | PENNSYLVANIA | SOUTH WHITEHALL, TOWNSHIP OF | 42077C0226D | 07-NOV-2001
03 | PENNSYLVANIA | SOUTH WHITEHALL, TOWNSHIP OF | 42077C0227D | 07-NOV-2001
03 | PENNSYLVANIA | SOUTH WHITEHALL, TOWNSHIP OF | 42077C0230D | 07-NOV-2001
03 | PENNSYLVANIA | SOUTH WHITEHALL, TOWNSHIP OF | 42077C0231D | 07-NOV-2001
03 | PENNSYLVANIA | SOUTH WHITEHALL, TOWNSHIP OF | 42077C0232D | 07-NOV-2001
03 | PENNSYLVANIA | SOUTH WHITEHALL, TOWNSHIP OF | 42077C0233D | 07-NOV-2001
03 | PENNSYLVANIA | SOUTH WHITEHALL, TOWNSHIP OF | 42077C0234D | 07-NOV-2001
03 | PENNSYLVANIA | SOUTH WHITEHALL, TOWNSHIP OF | 42077C0251D | 07-NOV-2001
03 | PENNSYLVANIA | SOUTH WHITEHALL, TOWNSHIP OF | 42077CIND0** | 07-NOV-2001
03 | PENNSYLVANIA | TRAPPE, BOROUGH OF | 42091C0229F** | 19-OCT-2001
03 | PENNSYLVANIA | TRAPPE, BOROUGH OF | 42091CIND1** | 19-OCT-2001
03 | PENNSYLVANIA | TRAPPE, BOROUGH OF | 42091CIND2** | 19-OCT-2001
03 | PENNSYLVANIA | UPPER FREDERICK, TOWNSHIP OF | 42091C0103F | 19-OCT-2001
03 | PENNSYLVANIA | UPPER FREDERICK, TOWNSHIP OF | 42091C0111F | 19-OCT-2001
03 | PENNSYLVANIA | UPPER FREDERICK, TOWNSHIP OF | 42091CIND1** | 19-OCT-2001
03 | PENNSYLVANIA | UPPER FREDERICK, TOWNSHIP OF | 42091CIND2** | 19-OCT-2001
03 | PENNSYLVANIA | UPPER MACUNGIE, TOWNSHIP OF | 42077C0210D | 07-NOV-2001
03 | PENNSYLVANIA | UPPER MACUNGIE, TOWNSHIP OF | 42077C0215D | 07-NOV-2001
03 | PENNSYLVANIA | UPPER MACUNGIE, TOWNSHIP OF | 42077C0217D | 07-NOV-2001
03 | PENNSYLVANIA | UPPER MACUNGIE, TOWNSHIP OF | 42077C0219D | 07-NOV-2001
03 | PENNSYLVANIA | UPPER MACUNGIE, TOWNSHIP OF | 42077C0220D | 07-NOV-2001
03 | PENNSYLVANIA | UPPER MACUNGIE, TOWNSHIP OF | 42077C0226D | 07-NOV-2001
03 | PENNSYLVANIA | UPPER MACUNGIE, TOWNSHIP OF | 42077C0227D | 07-NOV-2001
03 | PENNSYLVANIA | UPPER MACUNGIE, TOWNSHIP OF | 42077C0230D | 07-NOV-2001
03 | PENNSYLVANIA | UPPER MACUNGIE, TOWNSHIP OF | 42077C0233D | 07-NOV-2001
03 | PENNSYLVANIA | UPPER MACUNGIE, TOWNSHIP OF | 42077C0236D | 07-NOV-2001
03 | PENNSYLVANIA | UPPER MACUNGIE, TOWNSHIP OF | 42077C0237D | 07-NOV-2001
03 | PENNSYLVANIA | UPPER MACUNGIE, TOWNSHIP OF | 42077CIND0** | 07-NOV-2001
03 | PENNSYLVANIA | UPPER MERION, TOWNSHIP OF | 42091C0327F** | 19-OCT-2001
03 | PENNSYLVANIA | UPPER MERION, TOWNSHIP OF | 42091CIND1** | 19-OCT-2001
03 | PENNSYLVANIA | UPPER MERION, TOWNSHIP OF | 42091CIND2** | 19-OCT-2001
03 | PENNSYLVANIA | UPPER MILFORD, TOWNSHIP OF | 42077C0242D | 07-NOV-2001
03 | PENNSYLVANIA | UPPER MILFORD, TOWNSHIP OF | 42077C0243D | 07-NOV-2001
03 | PENNSYLVANIA | UPPER MILFORD, TOWNSHIP OF | 42077C0244D | 07-NOV-2001
03 | PENNSYLVANIA | UPPER MILFORD, TOWNSHIP OF | 42077C0261D | 07-NOV-2001
03 | PENNSYLVANIA | UPPER MILFORD, TOWNSHIP OF | 42077C0263D | 07-NOV-2001
03 | PENNSYLVANIA | UPPER MILFORD, TOWNSHIP OF | 42077C0264D | 07-NOV-2001
03 | PENNSYLVANIA | UPPER MILFORD, TOWNSHIP OF | 42077C0302D | 07-NOV-2001
03 | PENNSYLVANIA | UPPER MILFORD, TOWNSHIP OF | 42077C0307D | 07-NOV-2001
03 | PENNSYLVANIA | UPPER MILFORD, TOWNSHIP OF | 42077C0310D | 07-NOV-2001
03 | PENNSYLVANIA | UPPER MILFORD, TOWNSHIP OF | 42077C0326D | 07-NOV-2001
03 | PENNSYLVANIA | UPPER MILFORD, TOWNSHIP OF | 42077CIND0** | 07-NOV-2001
03 | PENNSYLVANIA | UPPER PROVIDENCE, TOWNSHIP OF | 42091C0237F | 19-OCT-2001
03 | PENNSYLVANIA | UPPER PROVIDENCE, TOWNSHIP OF | 42091C0239F | 19-OCT-2001
03 | PENNSYLVANIA | UPPER PROVIDENCE, TOWNSHIP OF | 42091C0327F | 19-OCT-2001
03 | PENNSYLVANIA | UPPER PROVIDENCE, TOWNSHIP OF | 42091CIND1** | 19-OCT-2001
03 | PENNSYLVANIA | UPPER PROVIDENCE, TOWNSHIP OF | 42091CIND2** | 19-OCT-2001
03 | PENNSYLVANIA | UPPER SALFORD, TOWNSHIP OF | 42091C0103F | 19-OCT-2001
03 | PENNSYLVANIA | UPPER SALFORD, TOWNSHIP OF | 42091C0104F | 19-OCT-2001
03 | PENNSYLVANIA | UPPER SALFORD, TOWNSHIP OF | 42091C0108F | 19-OCT-2001
03 | PENNSYLVANIA | UPPER SALFORD, TOWNSHIP OF | 42091C0112F | 19-OCT-2001
03 | PENNSYLVANIA | UPPER SALFORD, TOWNSHIP OF | 42091C0114F | 19-OCT-2001
03 | PENNSYLVANIA | UPPER SALFORD, TOWNSHIP OF | 42091C0116F | 19-OCT-2001
03 | PENNSYLVANIA | UPPER SALFORD, TOWNSHIP OF | 42091C0118F | 19-OCT-2001
03 | PENNSYLVANIA | UPPER SALFORD, TOWNSHIP OF | 42091CIND1** | 19-OCT-2001
03 | PENNSYLVANIA | UPPER SALFORD, TOWNSHIP OF | 42091CIND2** | 19-OCT-2001
03 | PENNSYLVANIA | UPPER SAUCON, TOWNSHIP OF | 42077C0254D | 07-NOV-2001
03 | PENNSYLVANIA | UPPER SAUCON, TOWNSHIP OF | 42077C0260D | 07-NOV-2001
03 | PENNSYLVANIA | UPPER SAUCON, TOWNSHIP OF | 42077C0261D | 07-NOV-2001
03 | PENNSYLVANIA | UPPER SAUCON, TOWNSHIP OF | 42077C0262D | 07-NOV-2001
03 | PENNSYLVANIA | UPPER SAUCON, TOWNSHIP OF | 42077C0263D | 07-NOV-2001
03 | PENNSYLVANIA | UPPER SAUCON, TOWNSHIP OF | 42077C0264D | 07-NOV-2001
03 | PENNSYLVANIA | UPPER SAUCON, TOWNSHIP OF | 42077C0266D | 07-NOV-2001
03 | PENNSYLVANIA | UPPER SAUCON, TOWNSHIP OF | 42077C0267D | 07-NOV-2001
03 | PENNSYLVANIA | UPPER SAUCON, TOWNSHIP OF | 42077C0269D | 07-NOV-2001
03 | PENNSYLVANIA | UPPER SAUCON, TOWNSHIP OF | 42077C0286D | 07-NOV-2001
03 | PENNSYLVANIA | UPPER SAUCON, TOWNSHIP OF | 42077C0335D | 07-NOV-2001
03 | PENNSYLVANIA | UPPER SAUCON, TOWNSHIP OF | 42077CIND0** | 07-NOV-2001
03 | PENNSYLVANIA | VERONA, BOROUGH OF | 42003C0238G** | 21-SEP-2001
03 | PENNSYLVANIA | VERONA, BOROUGH OF | 42003CIND1** | 21-SEP-2001
03 | PENNSYLVANIA | VERONA, BOROUGH OF | 42003CIND2** | 21-SEP-2001
03 | PENNSYLVANIA | WASHINGTON, TOWNSHIP OF | 42077C0020D | 07-NOV-2001
03 | PENNSYLVANIA | WASHINGTON, TOWNSHIP OF | 42077C0036D | 07-NOV-2001
03 | PENNSYLVANIA | WASHINGTON, TOWNSHIP OF | 42077C0038D | 07-NOV-2001
03 | PENNSYLVANIA | WASHINGTON, TOWNSHIP OF | 42077C0105D | 07-NOV-2001
03 | PENNSYLVANIA | WASHINGTON, TOWNSHIP OF | 42077C0110D | 07-NOV-2001
03 | PENNSYLVANIA | WASHINGTON, TOWNSHIP OF | 42077C0120D | 07-NOV-2001
03 | PENNSYLVANIA | WASHINGTON, TOWNSHIP OF | 42077C0126D | 07-NOV-2001
03 | PENNSYLVANIA | WASHINGTON, TOWNSHIP OF | 42077C0127D | 07-NOV-2001
03 | PENNSYLVANIA | WASHINGTON, TOWNSHIP OF | 42077C0128D | 07-NOV-2001
03 | PENNSYLVANIA | WASHINGTON, TOWNSHIP OF | 42077C0129D | 07-NOV-2001
03 | PENNSYLVANIA | WASHINGTON, TOWNSHIP OF | 42077CIND0** | 07-NOV-2001
03 | PENNSYLVANIA | WEISENBERG, TOWNSHIP OF | 42077C0095D | 07-NOV-2001
03 | PENNSYLVANIA | WEISENBERG, TOWNSHIP OF | 42077C0115D | 07-NOV-2001
03 | PENNSYLVANIA | WEISENBERG, TOWNSHIP OF | 42077C0120D | 07-NOV-2001
03 | PENNSYLVANIA | WEISENBERG, TOWNSHIP OF | 42077C0185D | 07-NOV-2001
03 | PENNSYLVANIA | WEISENBERG, TOWNSHIP OF | 42077C0205D | 07-NOV-2001
03 | PENNSYLVANIA | WEISENBERG, TOWNSHIP OF | 42077C0210D | 07-NOV-2001
03 | PENNSYLVANIA | WEISENBERG, TOWNSHIP OF | 42077C0215D | 07-NOV-2001
03 | PENNSYLVANIA | WEISENBERG, TOWNSHIP OF | 42077C0220D | 07-NOV-2001
03 | PENNSYLVANIA | WEISENBERG, TOWNSHIP OF | 42077CIND0** | 07-NOV-2001
03 | PENNSYLVANIA | WEST NORRITON, TOWNSHIP OF | 42091C0243F** | 19-OCT-2001
03 | PENNSYLVANIA | WEST NORRITON, TOWNSHIP OF | 42091CIND1** | 19-OCT-2001
03 | PENNSYLVANIA | WEST NORRITON, TOWNSHIP OF | 42091CIND2** | 19-OCT-2001
03 | PENNSYLVANIA | WHITEHALL, TOWNSHIP OF | 42077C0133D | 07-NOV-2001
03 | PENNSYLVANIA | WHITEHALL, TOWNSHIP OF | 42077C0134D | 07-NOV-2001
03 | PENNSYLVANIA | WHITEHALL, TOWNSHIP OF | 42077C0141D | 07-NOV-2001
03 | PENNSYLVANIA | WHITEHALL, TOWNSHIP OF | 42077C0142D | 07-NOV-2001
03 | PENNSYLVANIA | WHITEHALL, TOWNSHIP OF | 42077C0144D | 07-NOV-2001
03 | PENNSYLVANIA | WHITEHALL, TOWNSHIP OF | 42077C0161D | 07-NOV-2001
03 | PENNSYLVANIA | WHITEHALL, TOWNSHIP OF | 42077C0163D | 07-NOV-2001
03 | PENNSYLVANIA | WHITEHALL, TOWNSHIP OF | 42077C0164D | 07-NOV-2001
03 | PENNSYLVANIA | WHITEHALL, TOWNSHIP OF | 42077C0232D | 07-NOV-2001
03 | PENNSYLVANIA | WHITEHALL, TOWNSHIP OF | 42077C0251D | 07-NOV-2001
03 | PENNSYLVANIA | WHITEHALL, TOWNSHIP OF | 42077C0252D | 07-NOV-2001
03 | PENNSYLVANIA | WHITEHALL, TOWNSHIP OF | 42077CIND0** | 07-NOV-2001
03 | VIRGINIA | DANVILLE, CITY OF | 5100440004C | 09-AUG-2001
03 | VIRGINIA | DANVILLE, CITY OF | 5100440005C | 09-AUG-2001
03 | VIRGINIA | DANVILLE, CITY OF | 5100440006C | 09-AUG-2001
03 | VIRGINIA | DANVILLE, CITY OF | 5100440007C | 09-AUG-2001
03 | VIRGINIA | DANVILLE, CITY OF | 5100440008C | 09-AUG-2001
03 | VIRGINIA | DANVILLE, CITY OF | 5100440009C | 09-AUG-2001
03 | VIRGINIA | DANVILLE, CITY OF | 5100440012C | 09-AUG-2001
03 | VIRGINIA | DANVILLE, CITY OF | 5100440013C | 09-AUG-2001
03 | VIRGINIA | DANVILLE, CITY OF | 5100440014C | 09-AUG-2001
03 | VIRGINIA | DANVILLE, CITY OF | 5100440015C | 09-AUG-2001
03 | VIRGINIA | DANVILLE, CITY OF | 5100440016C | 09-AUG-2001
03 | VIRGINIA | DANVILLE, CITY OF | 5100440017C | 09-AUG-2001
03 | VIRGINIA | DANVILLE, CITY OF | 5100440018C | 09-AUG-2001
03 | VIRGINIA | DANVILLE, CITY OF | 5100440020C | 09-AUG-2001
03 | VIRGINIA | DANVILLE, CITY OF | 5100440021C | 09-AUG-2001
03 | VIRGINIA | DANVILLE, CITY OF | 5100440022C | 09-AUG-2001
03 | VIRGINIA | DANVILLE, CITY OF | 5100440023C | 09-AUG-2001
03 | VIRGINIA | DANVILLE, CITY OF | 510044IND0** | 09-AUG-2001
03 | VIRGINIA | FRANKLIN COUNTY * | 5100610055B | 05-OCT-2001
03 | VIRGINIA | FRANKLIN COUNTY * | 5100610060B | 05-OCT-2001
03 | VIRGINIA | FRANKLIN COUNTY * | 5100610070B | 05-OCT-2001
03 | VIRGINIA | FRANKLIN COUNTY * | 5100610080B | 05-OCT-2001
03 | VIRGINIA | FRANKLIN COUNTY * | 5100610090B | 05-OCT-2001
03 | VIRGINIA | FRANKLIN COUNTY * | 5100610095B | 05-OCT-2001
03 | VIRGINIA | FRANKLIN COUNTY * | 5100610180B | 05-OCT-2001
03 | VIRGINIA | FRANKLIN COUNTY * | 5100610185B | 05-OCT-2001
03 | VIRGINIA | FRANKLIN COUNTY * | 5100610190B | 05-OCT-2001
03 | VIRGINIA | FRANKLIN COUNTY * | 5100610195B | 05-OCT-2001
03 | VIRGINIA | FRANKLIN COUNTY * | 5100610205B | 05-OCT-2001
03 | VIRGINIA | FRANKLIN COUNTY * | 5100610210B | 05-OCT-2001
03 | VIRGINIA | FRANKLIN COUNTY * | 5100610215B | 05-OCT-2001
03 | VIRGINIA | FRANKLIN COUNTY * | 5100610220B | 05-OCT-2001
03 | VIRGINIA | FRANKLIN COUNTY * | 5100610230B | 05-OCT-2001
03 | VIRGINIA | FRANKLIN COUNTY * | 5100610240B | 05-OCT-2001
03 | VIRGINIA | FRANKLIN COUNTY * | 5100610355B | 05-OCT-2001
03 | VIRGINIA | FRANKLIN COUNTY * | 5100610360B | 05-OCT-2001
03 | VIRGINIA | FRANKLIN COUNTY * | 5100610365B | 05-OCT-2001
03 | VIRGINIA | FRANKLIN COUNTY * | 5100610370B | 05-OCT-2001
03 | VIRGINIA | FRANKLIN COUNTY * | 5100610380B | 05-OCT-2001
03 | VIRGINIA | FRANKLIN COUNTY * | 5100610390B | 05-OCT-2001
03 | VIRGINIA | FRANKLIN COUNTY * | 510061IND0** | 05-OCT-2001
03 | VIRGINIA | HAMILTON, TOWN OF | 51107C0095D | 05-JUL-2001
03 | VIRGINIA | HAMILTON, TOWN OF | 51107CIND0** | 05-JUL-2001
03 | VIRGINIA | HILLSBORO, TOWN OF | 51107C0080D | 05-JUL-2001
03 | VIRGINIA | HILLSBORO, TOWN OF | 51107CIND0** | 05-JUL-2001
03 | VIRGINIA | LEESBURG, TOWN OF | 51107C0115D | 05-JUL-2001
03 | VIRGINIA | LEESBURG, TOWN OF | 51107C0120D | 05-JUL-2001
03 | VIRGINIA | LEESBURG, TOWN OF | 51107C0227D | 05-JUL-2001
03 | VIRGINIA | LEESBURG, TOWN OF | 51107C0230D | 05-JUL-2001
03 | VIRGINIA | LEESBURG, TOWN OF | 51107C0231D | 05-JUL-2001
03 | VIRGINIA | LEESBURG, TOWN OF | 51107C0235D | 05-JUL-2001
03 | VIRGINIA | LEESBURG, TOWN OF | 51107CIND0** | 05-JUL-2001
03 | VIRGINIA | LOUDOUN COUNTY * | 51107C0025D | 05-JUL-2001
03 | VIRGINIA | LOUDOUN COUNTY * | 51107C0050D | 05-JUL-2001
03 | VIRGINIA | LOUDOUN COUNTY * | 51107C0075D | 05-JUL-2001
03 | VIRGINIA | LOUDOUN COUNTY * | 51107C0080D | 05-JUL-2001
03 | VIRGINIA | LOUDOUN COUNTY * | 51107C0085D | 05-JUL-2001
03 | VIRGINIA | LOUDOUN COUNTY * | 51107C0088D | 05-JUL-2001
03 | VIRGINIA | LOUDOUN COUNTY * | 51107C0089D | 05-JUL-2001
03 | VIRGINIA | LOUDOUN COUNTY * | 51107C0090D | 05-JUL-2001
03 | VIRGINIA | LOUDOUN COUNTY * | 51107C0095D | 05-JUL-2001
03 | VIRGINIA | LOUDOUN COUNTY * | 51107C0105D | 05-JUL-2001
03 | VIRGINIA | LOUDOUN COUNTY * | 51107C0110D | 05-JUL-2001
03 | VIRGINIA | LOUDOUN COUNTY * | 51107C0115D | 05-JUL-2001
03 | VIRGINIA | LOUDOUN COUNTY * | 51107C0120D | 05-JUL-2001
03 | VIRGINIA | LOUDOUN COUNTY * | 51107C0150D | 05-JUL-2001
03 | VIRGINIA | LOUDOUN COUNTY * | 51107C0175D | 05-JUL-2001
03 | VIRGINIA | LOUDOUN COUNTY * | 51107C0200D | 05-JUL-2001
03 | VIRGINIA | LOUDOUN COUNTY * | 51107C0205D | 05-JUL-2001
03 | VIRGINIA | LOUDOUN COUNTY * | 51107C0210D | 05-JUL-2001
03 | VIRGINIA | LOUDOUN COUNTY * | 51107C0215D | 05-JUL-2001
03 | VIRGINIA | LOUDOUN COUNTY * | 51107C0220D | 05-JUL-2001
03 | VIRGINIA | LOUDOUN COUNTY * | 51107C0227D | 05-JUL-2001
03 | VIRGINIA | LOUDOUN COUNTY * | 51107C0230D | 05-JUL-2001
03 | VIRGINIA | LOUDOUN COUNTY * | 51107C0231D | 05-JUL-2001
03 | VIRGINIA | LOUDOUN COUNTY * | 51107C0235D | 05-JUL-2001
03 | VIRGINIA | LOUDOUN COUNTY * | 51107C0240D | 05-JUL-2001
03 | VIRGINIA | LOUDOUN COUNTY * | 51107C0242D | 05-JUL-2001
03 | VIRGINIA | LOUDOUN COUNTY * | 51107C0244D | 05-JUL-2001
03 | VIRGINIA | LOUDOUN COUNTY * | 51107C0245D | 05-JUL-2001
03 | VIRGINIA | LOUDOUN COUNTY * | 51107C0255D | 05-JUL-2001
03 | VIRGINIA | LOUDOUN COUNTY * | 51107C0260D | 05-JUL-2001
03 | VIRGINIA | LOUDOUN COUNTY * | 51107C0261D | 05-JUL-2001
03 | VIRGINIA | LOUDOUN COUNTY * | 51107C0263D | 05-JUL-2001
03 | VIRGINIA | LOUDOUN COUNTY * | 51107C0265D | 05-JUL-2001
03 | VIRGINIA | LOUDOUN COUNTY * | 51107C0266D | 05-JUL-2001
03 | VIRGINIA | LOUDOUN COUNTY * | 51107C0267D | 05-JUL-2001
03 | VIRGINIA | LOUDOUN COUNTY * | 51107C0268D | 05-JUL-2001
03 | VIRGINIA | LOUDOUN COUNTY * | 51107C0269D | 05-JUL-2001
03 | VIRGINIA | LOUDOUN COUNTY * | 51107C0286D | 05-JUL-2001
03 | VIRGINIA | LOUDOUN COUNTY * | 51107C0290D | 05-JUL-2001
03 | VIRGINIA | LOUDOUN COUNTY * | 51107C0325D | 05-JUL-2001
03 | VIRGINIA | LOUDOUN COUNTY * | 51107C0350D | 05-JUL-2001
03 | VIRGINIA | LOUDOUN COUNTY * | 51107C0355D | 05-JUL-2001
03 | VIRGINIA | LOUDOUN COUNTY * | 51107C0360D | 05-JUL-2001
03 | VIRGINIA | LOUDOUN COUNTY * | 51107C0365D | 05-JUL-2001
03 | VIRGINIA | LOUDOUN COUNTY * | 51107C0370D | 05-JUL-2001
03 | VIRGINIA | LOUDOUN COUNTY * | 51107C0380D | 05-JUL-2001
03 | VIRGINIA | LOUDOUN COUNTY * | 51107C0385D | 05-JUL-2001
03 | VIRGINIA | LOUDOUN COUNTY * | 51107C0390D | 05-JUL-2001
03 | VIRGINIA | LOUDOUN COUNTY * | 51107C0425D | 05-JUL-2001
03 | VIRGINIA | LOUDOUN COUNTY * | 51107CIND0** | 05-JUL-2001
03 | VIRGINIA | LOVETTSVILLE, TOWN OF | 51107C0025D | 05-JUL-2001
03 | VIRGINIA | LOVETTSVILLE, TOWN OF | 51107CIND0** | 05-JUL-2001
03 | VIRGINIA | MIDDLEBURG, TOWN OF | 51107C0350D | 05-JUL-2001
03 | VIRGINIA | MIDDLEBURG, TOWN OF | 51107CIND0** | 05-JUL-2001
03 | VIRGINIA | PITTSYLVANIA COUNTY * | 5101130265C | 09-AUG-2001
03 | VIRGINIA | PITTSYLVANIA COUNTY * | 5101130270C | 09-AUG-2001
03 | VIRGINIA | PITTSYLVANIA COUNTY * | 5101130330C | 09-AUG-2001
03 | VIRGINIA | PITTSYLVANIA COUNTY * | 5101130335C | 09-AUG-2001
03 | VIRGINIA | PITTSYLVANIA COUNTY * | 5101130355C | 09-AUG-2001
03 | VIRGINIA | PITTSYLVANIA COUNTY * | 510113IND0** | 09-AUG-2001
03 | VIRGINIA | PURCELLVILLE, TOWN OF | 51107C0088D | 05-JUL-2001
03 | VIRGINIA | PURCELLVILLE, TOWN OF | 51107C0089D | 05-JUL-2001
03 | VIRGINIA | PURCELLVILLE, TOWN OF | 51107C0205D | 05-JUL-2001
03 | VIRGINIA | PURCELLVILLE, TOWN OF | 51107CIND0** | 05-JUL-2001
03 | VIRGINIA | ROUNDHILL, TOWN OF | 51107C0075D | 05-JUL-2001
03 | VIRGINIA | ROUNDHILL, TOWN OF | 51107CIND0** | 05-JUL-2001
04 | ALABAMA | WETUMPKA, CITY OF | 0100700001C | 07-SEP-2001
04 | ALABAMA | WETUMPKA, CITY OF | 0100700002C | 07-SEP-2001
04 | ALABAMA | WETUMPKA, CITY OF | 0100700003C | 07-SEP-2001
04 | ALABAMA | WETUMPKA, CITY OF | 010070IND0** | 07-SEP-2001
04 | GEORGIA | ADEL, CITY OF | 13075C0095B | 06-DEC-2001
04 | GEORGIA | ADEL, CITY OF | 13075C0100B | 06-DEC-2001
04 | GEORGIA | ADEL, CITY OF | 13075C0160B | 06-DEC-2001
04 | GEORGIA | ADEL, CITY OF | 13075C0175B | 06-DEC-2001
04 | GEORGIA | ADEL, CITY OF | 13075CIND0** | 06-DEC-2001
04 | GEORGIA | ALBANY, CITY OF | 13095C0085D | 05-OCT-2001
04 | GEORGIA | ALBANY, CITY OF | 13095C0100D | 05-OCT-2001
04 | GEORGIA | ALBANY, CITY OF | 13095C0105D | 05-OCT-2001
04 | GEORGIA | ALBANY, CITY OF | 13095C0110D | 05-OCT-2001
04 | GEORGIA | ALBANY, CITY OF | 13095C0115D | 05-OCT-2001
04 | GEORGIA | ALBANY, CITY OF | 13095C0120D | 05-OCT-2001
04 | GEORGIA | ALBANY, CITY OF | 13095C0130D | 05-OCT-2001
04 | GEORGIA | ALBANY, CITY OF | 13095C0140D | 05-OCT-2001
04 | GEORGIA | ALBANY, CITY OF | 13095CIND0** | 05-OCT-2001
04 | GEORGIA | CECIL, CITY OF | 13075C0175B | 06-DEC-2001
04 | GEORGIA | CECIL, CITY OF | 13075CIND0** | 06-DEC-2001
04 | GEORGIA | COOK COUNTY* | 13075C0025B | 06-DEC-2001
04 | GEORGIA | COOK COUNTY* | 13075C0050B | 06-DEC-2001
04 | GEORGIA | COOK COUNTY* | 13075C0075B | 06-DEC-2001
04 | GEORGIA | COOK COUNTY* | 13075C0095B | 06-DEC-2001
04 | GEORGIA | COOK COUNTY* | 13075C0100B | 06-DEC-2001
04 | GEORGIA | COOK COUNTY* | 13075C0125B | 06-DEC-2001
04 | GEORGIA | COOK COUNTY* | 13075C0150B | 06-DEC-2001
04 | GEORGIA | COOK COUNTY* | 13075C0160B | 06-DEC-2001
04 | GEORGIA | COOK COUNTY* | 13075C0175B | 06-DEC-2001
04 | GEORGIA | COOK COUNTY* | 13075C0200B | 06-DEC-2001
04 | GEORGIA | COOK COUNTY* | 13075CIND0** | 06-DEC-2001
04 | GEORGIA | DOUGHERTY COUNTY * | 13095C0025D | 05-OCT-2001
04 | GEORGIA | DOUGHERTY COUNTY * | 13095C0075D | 05-OCT-2001
04 | GEORGIA | DOUGHERTY COUNTY * | 13095C0085D | 05-OCT-2001
04 | GEORGIA | DOUGHERTY COUNTY * | 13095C0100D | 05-OCT-2001
04 | GEORGIA | DOUGHERTY COUNTY * | 13095C0105D | 05-OCT-2001
04 | GEORGIA | DOUGHERTY COUNTY * | 13095C0110D | 05-OCT-2001
04 | GEORGIA | DOUGHERTY COUNTY * | 13095C0115D | 05-OCT-2001
04 | GEORGIA | DOUGHERTY COUNTY * | 13095C0120D | 05-OCT-2001
04 | GEORGIA | DOUGHERTY COUNTY * | 13095C0130D | 05-OCT-2001
04 | GEORGIA | DOUGHERTY COUNTY * | 13095C0135D | 05-OCT-2001
04 | GEORGIA | DOUGHERTY COUNTY * | 13095C0140D | 05-OCT-2001
04 | GEORGIA | DOUGHERTY COUNTY * | 13095C0145D | 05-OCT-2001
04 | GEORGIA | DOUGHERTY COUNTY * | 13095C0175D | 05-OCT-2001
04 | GEORGIA | DOUGHERTY COUNTY * | 13095C0200D | 05-OCT-2001
04 | GEORGIA | DOUGHERTY COUNTY * | 13095C0225D | 05-OCT-2001
04 | GEORGIA | DOUGHERTY COUNTY * | 13095C0235D | 05-OCT-2001
04 | GEORGIA | DOUGHERTY COUNTY * | 13095C0255D | 05-OCT-2001
04 | GEORGIA | DOUGHERTY COUNTY * | 13095C0260D | 05-OCT-2001
04 | GEORGIA | DOUGHERTY COUNTY * | 13095C0300D | 05-OCT-2001
04 | GEORGIA | DOUGHERTY COUNTY * | 13095CIND0** | 05-OCT-2001
04 | GEORGIA | LENOX, TOWN OF | 13075C0050B | 06-DEC-2001
04 | GEORGIA | LENOX, TOWN OF | 13075CIND0** | 06-DEC-2001
04 | GEORGIA | SPARKS, TOWN OF | 13075C0095B | 06-DEC-2001
04 | GEORGIA | SPARKS, TOWN OF | 13075C0100B | 06-DEC-2001
04 | GEORGIA | SPARKS, TOWN OF | 13075CIND0** | 06-DEC-2001
04 | KENTUCKY | CADIZ, CITY OF | 21035401B*** | 01-JUL-2001
04 | KENTUCKY | SHELBY COUNTY * | 2102090001B*** | 01-SEP-2001
04 | KENTUCKY | SHELBY COUNTY * | 2102090002B*** | 01-SEP-2001
04 | KENTUCKY | SHELBY COUNTY * | 2102090003B*** | 01-SEP-2001
04 | KENTUCKY | SHELBY COUNTY * | 2102090004B*** | 01-SEP-2001
04 | KENTUCKY | SHELBY COUNTY * | 2102090005B*** | 01-SEP-2001
04 | KENTUCKY | SHELBY COUNTY * | 2102090006B*** | 01-SEP-2001
04 | KENTUCKY | SHELBY COUNTY * | 2102090007B*** | 01-SEP-2001
04 | KENTUCKY | SHELBY COUNTY * | 210209IND0*** | 01-SEP-2001
04 | KENTUCKY | TRIMBLE COUNTY * | 2103000001A*** | 01-SEP-2001
04 | KENTUCKY | TRIMBLE COUNTY * | 2103000002A*** | 01-SEP-2001
04 | KENTUCKY | TRIMBLE COUNTY * | 2103000004A*** | 01-SEP-2001
04 | KENTUCKY | TRIMBLE COUNTY * | 2103000005A*** | 01-SEP-2001
04 | KENTUCKY | TRIMBLE COUNTY * | 2103000007A*** | 01-SEP-2001
04 | KENTUCKY | TRIMBLE COUNTY * | 2103000008A*** | 01-SEP-2001
04 | KENTUCKY | TRIMBLE COUNTY * | 2103000009A*** | 01-SEP-2001
04 | KENTUCKY | TRIMBLE COUNTY * | 2103000010A*** | 01-SEP-2001
04 | KENTUCKY | TRIMBLE COUNTY * | 2103000011A*** | 01-SEP-2001
04 | KENTUCKY | TRIMBLE COUNTY * | 2103000012A*** | 01-SEP-2001
04 | KENTUCKY | TRIMBLE COUNTY * | 2103000013A*** | 01-SEP-2001
04 | KENTUCKY | TRIMBLE COUNTY * | 2103000014A*** | 01-SEP-2001
04 | KENTUCKY | TRIMBLE COUNTY * | 2103000015A*** | 01-SEP-2001
04 | KENTUCKY | TRIMBLE COUNTY * | 2103000016A*** | 01-SEP-2001
04 | KENTUCKY | TRIMBLE COUNTY * | 210300ND0*** | 01-SEP-2001
04 | SOUTH CAROLINA | COLLETON COUNTY* | 45029C0045F | 07-NOV-2001
04 | SOUTH CAROLINA | COLLETON COUNTY* | 45029C0065F | 07-NOV-2001
04 | SOUTH CAROLINA | COLLETON COUNTY* | 45029C0100F | 07-NOV-2001
04 | SOUTH CAROLINA | COLLETON COUNTY* | 45029C0125F | 07-NOV-2001
04 | SOUTH CAROLINA | COLLETON COUNTY* | 45029C0130F | 07-NOV-2001
04 | SOUTH CAROLINA | COLLETON COUNTY* | 45029C0140F | 07-NOV-2001
04 | SOUTH CAROLINA | COLLETON COUNTY* | 45029C0150F | 07-NOV-2001
04 | SOUTH CAROLINA | COLLETON COUNTY* | 45029C0155F | 07-NOV-2001
04 | SOUTH CAROLINA | COLLETON COUNTY* | 45029C0160F | 07-NOV-2001
04 | SOUTH CAROLINA | COLLETON COUNTY* | 45029C0165F | 07-NOV-2001
04 | SOUTH CAROLINA | COLLETON COUNTY* | 45029C0170F | 07-NOV-2001
04 | SOUTH CAROLINA | COLLETON COUNTY* | 45029C0180F | 07-NOV-2001
04 | SOUTH CAROLINA | COLLETON COUNTY* | 45029C0185F | 07-NOV-2001
04 | SOUTH CAROLINA | COLLETON COUNTY* | 45029C0190F | 07-NOV-2001
04 | SOUTH CAROLINA | COLLETON COUNTY* | 45029C0195F | 07-NOV-2001
04 | SOUTH CAROLINA | COLLETON COUNTY* | 45029C0215F | 07-NOV-2001
04 | SOUTH CAROLINA | COLLETON COUNTY* | 45029C0220F | 07-NOV-2001
04 | SOUTH CAROLINA | COLLETON COUNTY* | 45029C0250F | 07-NOV-2001
04 | SOUTH CAROLINA | COLLETON COUNTY* | 45029C0275F | 07-NOV-2001
04 | SOUTH CAROLINA | COLLETON COUNTY* | 45029C0300F | 07-NOV-2001
04 | SOUTH CAROLINA | COLLETON COUNTY* | 45029C0305F | 07-NOV-2001
04 | SOUTH CAROLINA | COLLETON COUNTY* | 45029C0310F | 07-NOV-2001
04 | SOUTH CAROLINA | COLLETON COUNTY* | 45029C0315F | 07-NOV-2001
04 | SOUTH CAROLINA | COLLETON COUNTY* | 45029C0320F | 07-NOV-2001
04 | SOUTH CAROLINA | COLLETON COUNTY* | 45029C0350F | 07-NOV-2001
04 | SOUTH CAROLINA | COLLETON COUNTY* | 45029C0355F | 07-NOV-2001
04 | SOUTH CAROLINA | COLLETON COUNTY* | 45029C0360F | 07-NOV-2001
04 | SOUTH CAROLINA | COLLETON COUNTY* | 45029C0365F | 07-NOV-2001
04 | SOUTH CAROLINA | COLLETON COUNTY* | 45029C0370F | 07-NOV-2001
04 | SOUTH CAROLINA | COLLETON COUNTY* | 45029C0400F | 07-NOV-2001
04 | SOUTH CAROLINA | COLLETON COUNTY* | 45029C0425F | 07-NOV-2001
04 | SOUTH CAROLINA | COLLETON COUNTY* | 45029C0430F | 07-NOV-2001
04 | SOUTH CAROLINA | COLLETON COUNTY* | 45029C0435F | 07-NOV-2001
04 | SOUTH CAROLINA | COLLETON COUNTY* | 45029C0440F | 07-NOV-2001
04 | SOUTH CAROLINA | COLLETON COUNTY* | 45029C0445F | 07-NOV-2001
04 | SOUTH CAROLINA | COLLETON COUNTY* | 45029C0455F | 07-NOV-2001
04 | SOUTH CAROLINA | COLLETON COUNTY* | 45029C0460F | 07-NOV-2001
04 | SOUTH CAROLINA | COLLETON COUNTY* | 45029C0465F | 07-NOV-2001
04 | SOUTH CAROLINA | COLLETON COUNTY* | 45029C0470F | 07-NOV-2001
04 | SOUTH CAROLINA | COLLETON COUNTY* | 45029C0480F | 07-NOV-2001
04 | SOUTH CAROLINA | COLLETON COUNTY* | 45029C0485F | 07-NOV-2001
04 | SOUTH CAROLINA | COLLETON COUNTY* | 45029C0490F | 07-NOV-2001
04 | SOUTH CAROLINA | COLLETON COUNTY* | 45029C0495F | 07-NOV-2001
04 | SOUTH CAROLINA | COLLETON COUNTY* | 45029C0525F | 07-NOV-2001
04 | SOUTH CAROLINA | COLLETON COUNTY* | 45029C0550F | 07-NOV-2001
04 | SOUTH CAROLINA | COLLETON COUNTY* | 45029C0575F | 07-NOV-2001
04 | SOUTH CAROLINA | COLLETON COUNTY* | 45029C0580F | 07-NOV-2001
04 | SOUTH CAROLINA | COLLETON COUNTY* | 45029C0585F | 07-NOV-2001
04 | SOUTH CAROLINA | COLLETON COUNTY* | 45029C0590F | 07-NOV-2001
04 | SOUTH CAROLINA | COLLETON COUNTY* | 45029C0595F | 07-NOV-2001
04 | SOUTH CAROLINA | COLLETON COUNTY* | 45029C0625F | 07-NOV-2001
04 | SOUTH CAROLINA | COLLETON COUNTY* | 45029C0650F | 07-NOV-2001
04 | SOUTH CAROLINA | COLLETON COUNTY* | 45029C0665F | 07-NOV-2001
04 | SOUTH CAROLINA | COLLETON COUNTY* | 45029C0670F | 07-NOV-2001
04 | SOUTH CAROLINA | COLLETON COUNTY* | 45029C0675F | 07-NOV-2001
04 | SOUTH CAROLINA | COLLETON COUNTY* | 45029C0689F | 07-NOV-2001
04 | SOUTH CAROLINA | COLLETON COUNTY* | 45029C0690F | 07-NOV-2001
04 | SOUTH CAROLINA | COLLETON COUNTY* | 45029C0692F | 07-NOV-2001
04 | SOUTH CAROLINA | COLLETON COUNTY* | 45029C0693F | 07-NOV-2001
04 | SOUTH CAROLINA | COLLETON COUNTY* | 45029C0694F | 07-NOV-2001
04 | SOUTH CAROLINA | COLLETON COUNTY* | 45029C0705F | 07-NOV-2001
04 | SOUTH CAROLINA | COLLETON COUNTY* | 45029C0710F | 07-NOV-2001
04 | SOUTH CAROLINA | COLLETON COUNTY* | 45029C0726F | 07-NOV-2001
04 | SOUTH CAROLINA | COLLETON COUNTY* | 45029C0727F | 07-NOV-2001
04 | SOUTH CAROLINA | COLLETON COUNTY* | 45029C0731F | 07-NOV-2001
04 | SOUTH CAROLINA | COLLETON COUNTY* | 45029CIND0** | 07-NOV-2001
04 | SOUTH CAROLINA | COTTAGEVILLE, TOWN OF | 45029C0355F | 07-NOV-2001
04 | SOUTH CAROLINA | COTTAGEVILLE, TOWN OF | 45029C0365F | 07-NOV-2001
04 | SOUTH CAROLINA | COTTAGEVILLE, TOWN OF | 45029CIND0** | 07-NOV-2001
04 | SOUTH CAROLINA | EDISTO BEACH,TOWN OF | 45029C0689F | 07-NOV-2001
04 | SOUTH CAROLINA | EDISTO BEACH,TOWN OF | 45029C0693F | 07-NOV-2001
04 | SOUTH CAROLINA | EDISTO BEACH,TOWN OF | 45029C0694F | 07-NOV-2001
04 | SOUTH CAROLINA | EDISTO BEACH,TOWN OF | 45029C0726F | 07-NOV-2001
04 | SOUTH CAROLINA | EDISTO BEACH,TOWN OF | 45029C0727F | 07-NOV-2001
04 | SOUTH CAROLINA | EDISTO BEACH,TOWN OF | 45029C0731F | 07-NOV-2001
04 | SOUTH CAROLINA | EDISTO BEACH,TOWN OF | 45029CIND0** | 07-NOV-2001
04 | SOUTH CAROLINA | LODGE, TOWN OF | 45029C0125F | 07-NOV-2001
04 | SOUTH CAROLINA | LODGE, TOWN OF | 45029CIND0** | 07-NOV-2001
04 | SOUTH CAROLINA | SALUDA COUNTY* | 4502300001A*** | 01-OCT-2001
04 | SOUTH CAROLINA | SALUDA COUNTY* | 4502300002A*** | 01-OCT-2001
04 | SOUTH CAROLINA | SALUDA COUNTY* | 4502300003A*** | 01-OCT-2001
04 | SOUTH CAROLINA | SALUDA COUNTY* | 4502300004A*** | 01-OCT-2001
04 | SOUTH CAROLINA | SALUDA COUNTY* | 4502300005A*** | 01-OCT-2001
04 | SOUTH CAROLINA | SALUDA COUNTY* | 4502300006A*** | 01-OCT-2001
04 | SOUTH CAROLINA | SALUDA COUNTY* | 450230IND0*** | 01-OCT-2001
04 | SOUTH CAROLINA | SMOAKS, TOWN OF | 45029C0130F | 07-NOV-2001
04 | SOUTH CAROLINA | SMOAKS, TOWN OF | 45029C0150F | 07-NOV-2001
04 | SOUTH CAROLINA | SMOAKS, TOWN OF | 45029CIND0** | 07-NOV-2001
04 | SOUTH CAROLINA | WALTERBORO,CITY OF | 45029C0310F | 07-NOV-2001
04 | SOUTH CAROLINA | WALTERBORO,CITY OF | 45029C0315F | 07-NOV-2001
04 | SOUTH CAROLINA | WALTERBORO,CITY OF | 45029C0320F | 07-NOV-2001
04 | SOUTH CAROLINA | WALTERBORO,CITY OF | 45029C0430F | 07-NOV-2001
04 | SOUTH CAROLINA | WALTERBORO,CITY OF | 45029C0435F | 07-NOV-2001
04 | SOUTH CAROLINA | WALTERBORO,CITY OF | 45029CIND0** | 07-NOV-2001
04 | SOUTH CAROLINA | WILLIAMS, TOWN OF | 45029C0140F | 07-NOV-2001
04 | SOUTH CAROLINA | WILLIAMS, TOWN OF | 45029CIND0** | 07-NOV-2001
05 | ILLINOIS | BUREAU COUNTY * | 1707290025B | 06-DEC-2001
05 | ILLINOIS | BUREAU COUNTY * | 1707290100B | 06-DEC-2001
05 | ILLINOIS | BUREAU COUNTY * | 1707290175B | 06-DEC-2001
05 | ILLINOIS | BUREAU COUNTY * | 170729IND0** | 06-DEC-2001
05 | ILLINOIS | CEDAR POINT, CITY OF | 17099C0470E | 07-SEP-2001
05 | ILLINOIS | CEDAR POINT, CITY OF | 17099C0490E | 07-SEP-2001
05 | ILLINOIS | CEDAR POINT, CITY OF | 17099CIND0** | 07-SEP-2001
05 | ILLINOIS | DANA, VILLAGE OF | 17099C0950E | 07-SEP-2001
05 | ILLINOIS | DANA, VILLAGE OF | 17099CIND0** | 07-SEP-2001
05 | ILLINOIS | EARLVILLE, CITY OF | 17099C0210E** | 07-SEP-2001
05 | ILLINOIS | EARLVILLE, CITY OF | 17099CIND0** | 07-SEP-2001
05 | ILLINOIS | GRAND RIDGE, VILLAGE OF | 17099C0700E | 07-SEP-2001
05 | ILLINOIS | GRAND RIDGE, VILLAGE OF | 17099CIND0** | 07-SEP-2001
05 | ILLINOIS | KANGLEY, VILLAGE OF | 17099C0675E | 07-SEP-2001
05 | ILLINOIS | KANGLEY, VILLAGE OF | 17099C0688E | 07-SEP-2001
05 | ILLINOIS | KANGLEY, VILLAGE OF | 17099CIND0** | 07-SEP-2001
05 | ILLINOIS | LA SALLE COUNTY * | 17099C0100E | 07-SEP-2001
05 | ILLINOIS | LA SALLE COUNTY * | 17099C0125E | 07-SEP-2001
05 | ILLINOIS | LA SALLE COUNTY * | 17099C0167E | 07-SEP-2001
05 | ILLINOIS | LA SALLE COUNTY * | 17099C0175E | 07-SEP-2001
05 | ILLINOIS | LA SALLE COUNTY * | 17099C0186E | 07-SEP-2001
05 | ILLINOIS | LA SALLE COUNTY * | 17099C0200E | 07-SEP-2001
05 | ILLINOIS | LA SALLE COUNTY * | 17099C0210E | 07-SEP-2001
05 | ILLINOIS | LA SALLE COUNTY * | 17099C0250E | 07-SEP-2001
05 | ILLINOIS | LA SALLE COUNTY * | 17099C0265E | 07-SEP-2001
05 | ILLINOIS | LA SALLE COUNTY * | 17099C0270E | 07-SEP-2001
05 | ILLINOIS | LA SALLE COUNTY * | 17099C0275E | 07-SEP-2001
05 | ILLINOIS | LA SALLE COUNTY * | 17099C0278E | 07-SEP-2001
05 | ILLINOIS | LA SALLE COUNTY * | 17099C0286E | 07-SEP-2001
05 | ILLINOIS | LA SALLE COUNTY * | 17099C0330E | 07-SEP-2001
05 | ILLINOIS | LA SALLE COUNTY * | 17099C0350E | 07-SEP-2001
05 | ILLINOIS | LA SALLE COUNTY * | 17099C0375E | 07-SEP-2001
05 | ILLINOIS | LA SALLE COUNTY * | 17099C0385E | 07-SEP-2001
05 | ILLINOIS | LA SALLE COUNTY * | 17099C0395E | 07-SEP-2001
05 | ILLINOIS | LA SALLE COUNTY * | 17099C0400E | 07-SEP-2001
05 | ILLINOIS | LA SALLE COUNTY * | 17099C0405E | 07-SEP-2001
05 | ILLINOIS | LA SALLE COUNTY * | 17099C0410E | 07-SEP-2001
05 | ILLINOIS | LA SALLE COUNTY * | 17099C0460E | 07-SEP-2001
05 | ILLINOIS | LA SALLE COUNTY * | 17099C0470E | 07-SEP-2001
05 | ILLINOIS | LA SALLE COUNTY * | 17099C0478E | 07-SEP-2001
05 | ILLINOIS | LA SALLE COUNTY * | 17099C0480E | 07-SEP-2001
05 | ILLINOIS | LA SALLE COUNTY * | 17099C0482E | 07-SEP-2001
05 | ILLINOIS | LA SALLE COUNTY * | 17099C0484E | 07-SEP-2001
05 | ILLINOIS | LA SALLE COUNTY * | 17099C0485E | 07-SEP-2001
05 | ILLINOIS | LA SALLE COUNTY * | 17099C0490E | 07-SEP-2001
05 | ILLINOIS | LA SALLE COUNTY * | 17099C0495E | 07-SEP-2001
05 | ILLINOIS | LA SALLE COUNTY * | 17099C0525E | 07-SEP-2001
05 | ILLINOIS | LA SALLE COUNTY * | 17099C0530E | 07-SEP-2001
05 | ILLINOIS | LA SALLE COUNTY * | 17099C0535E | 07-SEP-2001
05 | ILLINOIS | LA SALLE COUNTY * | 17099C0550E | 07-SEP-2001
05 | ILLINOIS | LA SALLE COUNTY * | 17099C0572E | 07-SEP-2001
05 | ILLINOIS | LA SALLE COUNTY * | 17099C0575E | 07-SEP-2001
05 | ILLINOIS | LA SALLE COUNTY * | 17099C0578E | 07-SEP-2001
05 | ILLINOIS | LA SALLE COUNTY * | 17099C0586E | 07-SEP-2001
05 | ILLINOIS | LA SALLE COUNTY * | 17099C0675E | 07-SEP-2001
05 | ILLINOIS | LA SALLE COUNTY * | 17099C0688E | 07-SEP-2001
05 | ILLINOIS | LA SALLE COUNTY * | 17099C0689E | 07-SEP-2001
05 | ILLINOIS | LA SALLE COUNTY * | 17099C0693E | 07-SEP-2001
05 | ILLINOIS | LA SALLE COUNTY * | 17099C0700E | 07-SEP-2001
05 | ILLINOIS | LA SALLE COUNTY * | 17099C0725E | 07-SEP-2001
05 | ILLINOIS | LA SALLE COUNTY * | 17099C0826E | 07-SEP-2001
05 | ILLINOIS | LA SALLE COUNTY * | 17099C0827E | 07-SEP-2001
05 | ILLINOIS | LA SALLE COUNTY * | 17099C0831E | 07-SEP-2001
05 | ILLINOIS | LA SALLE COUNTY * | 17099C0950E | 07-SEP-2001
05 | ILLINOIS | LA SALLE COUNTY * | 17099CIND0** | 07-SEP-2001
05 | ILLINOIS | LA SALLE, CITY OF | 17099C0350E | 07-SEP-2001
05 | ILLINOIS | LA SALLE, CITY OF | 17099C0478E | 07-SEP-2001
05 | ILLINOIS | LA SALLE, CITY OF | 17099C0480E | 07-SEP-2001
05 | ILLINOIS | LA SALLE, CITY OF | 17099C0482E | 07-SEP-2001
05 | ILLINOIS | LA SALLE, CITY OF | 17099C0485E | 07-SEP-2001
05 | ILLINOIS | LA SALLE, CITY OF | 17099CIND0** | 07-SEP-2001
05 | ILLINOIS | LELAND, VILLAGE OF | 17099C0250E | 07-SEP-2001
05 | ILLINOIS | LELAND, VILLAGE OF | 17099CIND0** | 07-SEP-2001
05 | ILLINOIS | LEONORE, VILLAGE OF | 17099C0675E | 07-SEP-2001
05 | ILLINOIS | LEONORE, VILLAGE OF | 17099CIND0** | 07-SEP-2001
05 | ILLINOIS | LOSTANT, VILLAGE OF | 17099CIND0** | 07-SEP-2001
05 | ILLINOIS | MARSEILLES, CITY OF | 17099C0575E** | 07-SEP-2001
05 | ILLINOIS | MARSEILLES, CITY OF | 17099CIND0** | 07-SEP-2001
05 | ILLINOIS | MENDOTA, CITY OF | 17099C0167E | 07-SEP-2001
05 | ILLINOIS | MENDOTA, CITY OF | 17099C0175E | 07-SEP-2001
05 | ILLINOIS | MENDOTA, CITY OF | 17099C0186E | 07-SEP-2001
05 | ILLINOIS | MENDOTA, CITY OF | 17099C0200E | 07-SEP-2001
05 | ILLINOIS | MENDOTA, CITY OF | 17099CIND0** | 07-SEP-2001
05 | ILLINOIS | MILLINGTON, VILLAGE OF | 17099C0278E** | 07-SEP-2001
05 | ILLINOIS | MILLINGTON, VILLAGE OF | 17099C0286E** | 07-SEP-2001
05 | ILLINOIS | MILLINGTON, VILLAGE OF | 17099CIND0** | 07-SEP-2001
05 | ILLINOIS | NAPLATE, VILLAGE OF | 17099C0525E | 07-SEP-2001
05 | ILLINOIS | NAPLATE, VILLAGE OF | 17099C0530E | 07-SEP-2001
05 | ILLINOIS | NAPLATE, VILLAGE OF | 17099CIND0** | 07-SEP-2001
05 | ILLINOIS | NORTH UTICA, VILLAGE OF | 17099C0482E | 07-SEP-2001
05 | ILLINOIS | NORTH UTICA, VILLAGE OF | 17099C0484E | 07-SEP-2001
05 | ILLINOIS | NORTH UTICA, VILLAGE OF | 17099CIND0** | 07-SEP-2001
05 | ILLINOIS | OGLESBY, CITY OF | 17099C0490E | 07-SEP-2001
05 | ILLINOIS | OGLESBY, CITY OF | 17099C0495E | 07-SEP-2001
05 | ILLINOIS | OGLESBY, CITY OF | 17099CIND0** | 07-SEP-2001
05 | ILLINOIS | OTTAWA, CITY OF | 17099C0400E | 07-SEP-2001
05 | ILLINOIS | OTTAWA, CITY OF | 17099C0530E | 07-SEP-2001
05 | ILLINOIS | OTTAWA, CITY OF | 17099C0535E | 07-SEP-2001
05 | ILLINOIS | OTTAWA, CITY OF | 17099CIND0** | 07-SEP-2001
05 | ILLINOIS | PERU, CITY OF | 17099C0460E | 07-SEP-2001
05 | ILLINOIS | PERU, CITY OF | 17099C0470E | 07-SEP-2001
05 | ILLINOIS | PERU, CITY OF | 17099C0478E | 07-SEP-2001
05 | ILLINOIS | PERU, CITY OF | 17099C0480E | 07-SEP-2001
05 | ILLINOIS | PERU, CITY OF | 17099C0490E | 07-SEP-2001
05 | ILLINOIS | PERU, CITY OF | 17099CIND0** | 07-SEP-2001
05 | ILLINOIS | RANSOM, VILLAGE OF | 17099C0725E | 07-SEP-2001
05 | ILLINOIS | RANSOM, VILLAGE OF | 17099CIND0** | 07-SEP-2001
05 | ILLINOIS | SENECA, VILLAGE OF | 17099C0572E | 07-SEP-2001
05 | ILLINOIS | SENECA, VILLAGE OF | 17099C0575E | 07-SEP-2001
05 | ILLINOIS | SENECA, VILLAGE OF | 17099C0578E | 07-SEP-2001
05 | ILLINOIS | SENECA, VILLAGE OF | 17099C0586E | 07-SEP-2001
05 | ILLINOIS | SENECA, VILLAGE OF | 17099CIND0** | 07-SEP-2001
05 | ILLINOIS | SHERIDAN, VILLAGE OF | 17099C0265E | 07-SEP-2001
05 | ILLINOIS | SHERIDAN, VILLAGE OF | 17099C0270E | 07-SEP-2001
05 | ILLINOIS | SHERIDAN, VILLAGE OF | 17099CIND0** | 07-SEP-2001
05 | ILLINOIS | STREATOR, CITY OF | 17099C0688E | 07-SEP-2001
05 | ILLINOIS | STREATOR, CITY OF | 17099C0689E | 07-SEP-2001
05 | ILLINOIS | STREATOR, CITY OF | 17099C0693E | 07-SEP-2001
05 | ILLINOIS | STREATOR, CITY OF | 17099C0826E | 07-SEP-2001
05 | ILLINOIS | STREATOR, CITY OF | 17099C0827E | 07-SEP-2001
05 | ILLINOIS | STREATOR, CITY OF | 17099C0831E | 07-SEP-2001
05 | ILLINOIS | STREATOR, CITY OF | 17099CIND0** | 07-SEP-2001
05 | ILLINOIS | TONICA, VILLAGE OF | 17099CIND0** | 07-SEP-2001
05 | ILLINOIS | TROY GROVE, VILLAGE OF | 17099C0330E** | 07-SEP-2001
05 | ILLINOIS | TROY GROVE, VILLAGE OF | 17099CIND0** | 07-SEP-2001
05 | INDIANA | DECATUR COUNTY * | 1804300065C | 07-SEP-2001
05 | INDIANA | DECATUR COUNTY * | 180430IND0** | 07-SEP-2001
05 | INDIANA | FOUNTAIN COUNTY | 1800640001B*** | 01-NOV-2001
05 | INDIANA | FOUNTAIN COUNTY | 1800640002B*** | 01-NOV-2001
05 | INDIANA | FOUNTAIN COUNTY | 1800640003B*** | 01-NOV-2001
05 | INDIANA | FOUNTAIN COUNTY | 1800640004B*** | 01-NOV-2001
05 | INDIANA | FOUNTAIN COUNTY | 1800640005B*** | 01-NOV-2001
05 | INDIANA | FOUNTAIN COUNTY | 1800640006B*** | 01-NOV-2001
05 | INDIANA | FOUNTAIN COUNTY | 1800640007B*** | 01-NOV-2001
05 | INDIANA | FOUNTAIN COUNTY | 180064IND0*** | 01-NOV-2001
05 | MINNESOTA | COOK, CITY OF | 2704200001B | 06-DEC-2001
05 | OHIO | ABERDEEN, VILLAGE OF | 39015C0408C | 21-NOV-2001
05 | OHIO | ABERDEEN, VILLAGE OF | 39015C0409C | 21-NOV-2001
05 | OHIO | ABERDEEN, VILLAGE OF | 39015C0417C | 21-NOV-2001
05 | OHIO | ABERDEEN, VILLAGE OF | 39015C0419C | 21-NOV-2001
05 | OHIO | ABERDEEN, VILLAGE OF | 39015C0438C | 21-NOV-2001
05 | OHIO | ABERDEEN, VILLAGE OF | 39015CIND0** | 21-NOV-2001
05 | OHIO | ADAMS COUNTY * | 39001C0025C | 21-NOV-2001
05 | OHIO | ADAMS COUNTY * | 39001C0050C | 21-NOV-2001
05 | OHIO | ADAMS COUNTY * | 39001C0075C | 21-NOV-2001
05 | OHIO | ADAMS COUNTY * | 39001C0100C | 21-NOV-2001
05 | OHIO | ADAMS COUNTY * | 39001C0125C | 21-NOV-2001
05 | OHIO | ADAMS COUNTY * | 39001C0138C | 21-NOV-2001
05 | OHIO | ADAMS COUNTY * | 39001C0150C | 21-NOV-2001
05 | OHIO | ADAMS COUNTY * | 39001C0175C | 21-NOV-2001
05 | OHIO | ADAMS COUNTY * | 39001C0200C | 21-NOV-2001
05 | OHIO | ADAMS COUNTY * | 39001C0225C | 21-NOV-2001
05 | OHIO | ADAMS COUNTY * | 39001C0250C | 21-NOV-2001
05 | OHIO | ADAMS COUNTY * | 39001C0275C | 21-NOV-2001
05 | OHIO | ADAMS COUNTY * | 39001C0300C | 21-NOV-2001
05 | OHIO | ADAMS COUNTY * | 39001C0314C | 21-NOV-2001
05 | OHIO | ADAMS COUNTY * | 39001C0317C | 21-NOV-2001
05 | OHIO | ADAMS COUNTY * | 39001C0318C | 21-NOV-2001
05 | OHIO | ADAMS COUNTY * | 39001C0319C | 21-NOV-2001
05 | OHIO | ADAMS COUNTY * | 39001C0328C | 21-NOV-2001
05 | OHIO | ADAMS COUNTY * | 39001C0329C | 21-NOV-2001
05 | OHIO | ADAMS COUNTY * | 39001C0332C | 21-NOV-2001
05 | OHIO | ADAMS COUNTY * | 39001C0333C | 21-NOV-2001
05 | OHIO | ADAMS COUNTY * | 39001C0334C | 21-NOV-2001
05 | OHIO | ADAMS COUNTY * | 39001C0336C | 21-NOV-2001
05 | OHIO | ADAMS COUNTY * | 39001C0353C | 21-NOV-2001
05 | OHIO | ADAMS COUNTY * | 39001C0361C | 21-NOV-2001
05 | OHIO | ADAMS COUNTY * | 39001C0362C | 21-NOV-2001
05 | OHIO | ADAMS COUNTY * | 39001C0366C | 21-NOV-2001
05 | OHIO | ADAMS COUNTY * | 39001C0367C | 21-NOV-2001
05 | OHIO | ADAMS COUNTY * | 39001C0375C | 21-NOV-2001
05 | OHIO | ADAMS COUNTY * | 39001C0386C | 21-NOV-2001
05 | OHIO | ADAMS COUNTY * | 39001C0388C | 21-NOV-2001
05 | OHIO | ADAMS COUNTY * | 39001C0389C | 21-NOV-2001
05 | OHIO | ADAMS COUNTY * | 39001C0400C | 21-NOV-2001
05 | OHIO | ADAMS COUNTY * | 39001C0402C | 21-NOV-2001
05 | OHIO | ADAMS COUNTY * | 39001C0406C | 21-NOV-2001
05 | OHIO | ADAMS COUNTY * | 39001C0407C | 21-NOV-2001
05 | OHIO | ADAMS COUNTY * | 39001CIND0** | 21-NOV-2001
05 | OHIO | BROOKLYN HEIGHTS, VILLAGE OF | 3901010001C | 19-JUL-2001
05 | OHIO | BROWN COUNTY * | 39015C0050C | 21-NOV-2001
05 | OHIO | BROWN COUNTY * | 39015C0075C | 21-NOV-2001
05 | OHIO | BROWN COUNTY * | 39015C0100C | 21-NOV-2001
05 | OHIO | BROWN COUNTY * | 39015C0125C | 21-NOV-2001
05 | OHIO | BROWN COUNTY * | 39015C0150C | 21-NOV-2001
05 | OHIO | BROWN COUNTY * | 39015C0175C | 21-NOV-2001
05 | OHIO | BROWN COUNTY * | 39015C0250C | 21-NOV-2001
05 | OHIO | BROWN COUNTY * | 39015C0275C | 21-NOV-2001
05 | OHIO | BROWN COUNTY * | 39015C0300C | 21-NOV-2001
05 | OHIO | BROWN COUNTY * | 39015C0317C | 21-NOV-2001
05 | OHIO | BROWN COUNTY * | 39015C0318C | 21-NOV-2001
05 | OHIO | BROWN COUNTY * | 39015C0319C | 21-NOV-2001
05 | OHIO | BROWN COUNTY * | 39015C0325C | 21-NOV-2001
05 | OHIO | BROWN COUNTY * | 39015C0336C | 21-NOV-2001
05 | OHIO | BROWN COUNTY * | 39015C0337C | 21-NOV-2001
05 | OHIO | BROWN COUNTY * | 39015C0338C | 21-NOV-2001
05 | OHIO | BROWN COUNTY * | 39015C0339C | 21-NOV-2001
05 | OHIO | BROWN COUNTY * | 39015C0341C | 21-NOV-2001
05 | OHIO | BROWN COUNTY * | 39015C0343C | 21-NOV-2001
05 | OHIO | BROWN COUNTY * | 39015C0344C | 21-NOV-2001
05 | OHIO | BROWN COUNTY * | 39015C0350C | 21-NOV-2001
05 | OHIO | BROWN COUNTY * | 39015C0363C | 21-NOV-2001
05 | OHIO | BROWN COUNTY * | 39015C0375C | 21-NOV-2001
05 | OHIO | BROWN COUNTY * | 39015C0400C | 21-NOV-2001
05 | OHIO | BROWN COUNTY * | 39015C0401C | 21-NOV-2001
05 | OHIO | BROWN COUNTY * | 39015C0402C | 21-NOV-2001
05 | OHIO | BROWN COUNTY * | 39015C0404C | 21-NOV-2001
05 | OHIO | BROWN COUNTY * | 39015C0408C | 21-NOV-2001
05 | OHIO | BROWN COUNTY * | 39015C0409C | 21-NOV-2001
05 | OHIO | BROWN COUNTY * | 39015C0410C | 21-NOV-2001
05 | OHIO | BROWN COUNTY * | 39015C0417C | 21-NOV-2001
05 | OHIO | BROWN COUNTY * | 39015C0419C | 21-NOV-2001
05 | OHIO | BROWN COUNTY * | 39015C0438C | 21-NOV-2001
05 | OHIO | BROWN COUNTY * | 39015C0439C | 21-NOV-2001
05 | OHIO | BROWN COUNTY * | 39015C0450C | 21-NOV-2001
05 | OHIO | BROWN COUNTY * | 39015CIND0** | 21-NOV-2001
05 | OHIO | CHERRY FORK, VILLAGE OF | 39001C0138C | 21-NOV-2001
05 | OHIO | CHERRY FORK, VILLAGE OF | 39001CIND0** | 21-NOV-2001
05 | OHIO | CUYAHOGA HEIGHTS, VILLAGE OF | 3906540001C | 19-JUL-2001
05 | OHIO | CUYAHOGA HEIGHTS, VILLAGE OF | 3906540002C | 19-JUL-2001
05 | OHIO | CUYAHOGA HEIGHTS, VILLAGE OF | 390654IND0** | 19-JUL-2001
05 | OHIO | FAYETTEVILLE, VILLAGE OF | 39015C0075C | 21-NOV-2001
05 | OHIO | FAYETTEVILLE, VILLAGE OF | 39015CIND0** | 21-NOV-2001
05 | OHIO | GEORGETOWN, VILLAGE OF | 39015C0250C | 21-NOV-2001
05 | OHIO | GEORGETOWN, VILLAGE OF | 39015C0350C | 21-NOV-2001
05 | OHIO | GEORGETOWN, VILLAGE OF | 39015CIND0** | 21-NOV-2001
05 | OHIO | GLOUSTER, VILLAGE OF | 3900180001B | 19-JUL-2001
05 | OHIO | HAMERSVILLE, VILLAGE OF | 39015C0250C | 21-NOV-2001
05 | OHIO | HAMERSVILLE, VILLAGE OF | 39015CIND0** | 21-NOV-2001
05 | OHIO | HIGGINSPORT, VILLAGE OF | 39015C0336C | 21-NOV-2001
05 | OHIO | HIGGINSPORT, VILLAGE OF | 39015C0337C | 21-NOV-2001
05 | OHIO | HIGGINSPORT, VILLAGE OF | 39015CIND0** | 21-NOV-2001
05 | OHIO | INDEPENDENCE, CITY OF | 3901110001C | 19-JUL-2001
05 | OHIO | INDEPENDENCE, CITY OF | 3901110002C | 19-JUL-2001
05 | OHIO | INDEPENDENCE, CITY OF | 3901110003C | 19-JUL-2001
05 | OHIO | INDEPENDENCE, CITY OF | 3901110005C | 19-JUL-2001
05 | OHIO | INDEPENDENCE, CITY OF | 390111IND0** | 19-JUL-2001
05 | OHIO | MANCHESTER, VILLAGE OF | 39001C0317C | 21-NOV-2001
05 | OHIO | MANCHESTER, VILLAGE OF | 39001C0328C | 21-NOV-2001
05 | OHIO | MANCHESTER, VILLAGE OF | 39001C0329C | 21-NOV-2001
05 | OHIO | MANCHESTER, VILLAGE OF | 39001C0336C | 21-NOV-2001
05 | OHIO | MANCHESTER, VILLAGE OF | 39001CIND0** | 21-NOV-2001
05 | OHIO | MOUNT ORAB, VILLAGE OF | 39015C0150C | 21-NOV-2001
05 | OHIO | MOUNT ORAB, VILLAGE OF | 39015CIND0** | 21-NOV-2001
05 | OHIO | PEEBLES, VILLAGE OF | 39001C0175C | 21-NOV-2001
05 | OHIO | PEEBLES, VILLAGE OF | 39001CIND0** | 21-NOV-2001
05 | OHIO | RIPLEY, VILLAGE OF | 39015C0363C | 21-NOV-2001
05 | OHIO | RIPLEY, VILLAGE OF | 39015C0375C | 21-NOV-2001
05 | OHIO | RIPLEY, VILLAGE OF | 39015C0401C | 21-NOV-2001
05 | OHIO | RIPLEY, VILLAGE OF | 39015C0402C | 21-NOV-2001
05 | OHIO | RIPLEY, VILLAGE OF | 39015CIND0** | 21-NOV-2001
05 | OHIO | ROME, VILLAGE OF | 39001C0367C | 21-NOV-2001
05 | OHIO | ROME, VILLAGE OF | 39001C0386C | 21-NOV-2001
05 | OHIO | ROME, VILLAGE OF | 39001CIND0** | 21-NOV-2001
05 | OHIO | RUSSELLVILLE, VILLAGE OF | 39015C0275C | 21-NOV-2001
05 | OHIO | RUSSELLVILLE, VILLAGE OF | 39015C0375C | 21-NOV-2001
05 | OHIO | RUSSELLVILLE, VILLAGE OF | 39015CIND0** | 21-NOV-2001
05 | OHIO | SARDINIA, VILLAGE OF | 39015C0175C | 21-NOV-2001
05 | OHIO | SARDINIA, VILLAGE OF | 39015CIND0** | 21-NOV-2001
05 | OHIO | SEAMAN, VILLAGE OF | 39001C0150C | 21-NOV-2001
05 | OHIO | SEAMAN, VILLAGE OF | 39001CIND0** | 21-NOV-2001
05 | OHIO | ST. MARTIN, VILLAGE OF | 39015C0075C | 21-NOV-2001
05 | OHIO | ST. MARTIN, VILLAGE OF | 39015CIND0** | 21-NOV-2001
05 | OHIO | WEST UNION, VILLAGE OF | 39001C0250C | 21-NOV-2001
05 | OHIO | WEST UNION, VILLAGE OF | 39001CIND0** | 21-NOV-2001
05 | OHIO | WINCHESTER, VILLAGE OF | 39001C0125C | 21-NOV-2001
05 | OHIO | WINCHESTER, VILLAGE OF | 39001CIND0** | 21-NOV-2001
06 | AR | LITTLE ROCK, CITY OF | 0501810017F | 19-OCT-2001
06 | AR | LITTLE ROCK, CITY OF | 0501810029F | 19-OCT-2001
06 | AR | LITTLE ROCK, CITY OF | 0501810033F | 19-OCT-2001
06 | AR | LITTLE ROCK, CITY OF | 0501810037F | 19-OCT-2001
06 | AR | LITTLE ROCK, CITY OF | 0501810038F | 19-OCT-2001
06 | AR | LITTLE ROCK, CITY OF | 0501810039F | 19-OCT-2001
06 | AR | LITTLE ROCK, CITY OF | 0501810041F | 19-OCT-2001
06 | AR | LITTLE ROCK, CITY OF | 0501810042F | 19-OCT-2001
06 | AR | LITTLE ROCK, CITY OF | 0501810043F | 19-OCT-2001
06 | AR | LITTLE ROCK, CITY OF | 0501810044F | 19-OCT-2001
06 | AR | LITTLE ROCK, CITY OF | 0501810061F | 19-OCT-2001
06 | AR | LITTLE ROCK, CITY OF | 0501810062F | 19-OCT-2001
06 | AR | LITTLE ROCK, CITY OF | 0501810063F | 19-OCT-2001
06 | AR | LITTLE ROCK, CITY OF | 0501810064F | 19-OCT-2001
06 | AR | LITTLE ROCK, CITY OF | 0501810066F | 19-OCT-2001
06 | AR | LITTLE ROCK, CITY OF | 0501810068F | 19-OCT-2001
06 | AR | LITTLE ROCK, CITY OF | 0501810069F | 19-OCT-2001
06 | AR | LITTLE ROCK, CITY OF | 0501810077F | 19-OCT-2001
06 | AR | LITTLE ROCK, CITY OF | 0501810081F | 19-OCT-2001
06 | AR | LITTLE ROCK, CITY OF | 0501810082F | 19-OCT-2001
06 | AR | LITTLE ROCK, CITY OF | 0501810083F | 19-OCT-2001
06 | AR | LITTLE ROCK, CITY OF | 0501810084F | 19-OCT-2001
06 | AR | LITTLE ROCK, CITY OF | 0501810087F | 19-OCT-2001
06 | AR | LITTLE ROCK, CITY OF | 0501810089F | 19-OCT-2001
06 | AR | LITTLE ROCK, CITY OF | 0501810091F | 19-OCT-2001
06 | AR | LITTLE ROCK, CITY OF | 0501810092F | 19-OCT-2001
06 | AR | LITTLE ROCK, CITY OF | 0501810093F | 19-OCT-2001
06 | AR | LITTLE ROCK, CITY OF | 0501810094F | 19-OCT-2001
06 | AR | LITTLE ROCK, CITY OF | 0501810101F | 19-OCT-2001
06 | AR | LITTLE ROCK, CITY OF | 0501810102F | 19-OCT-2001
06 | AR | LITTLE ROCK, CITY OF | 0501810103F | 19-OCT-2001
06 | AR | LITTLE ROCK, CITY OF | 0501810104F | 19-OCT-2001
06 | AR | LITTLE ROCK, CITY OF | 0501810106F | 19-OCT-2001
06 | AR | LITTLE ROCK, CITY OF | 0501810107F | 19-OCT-2001
06 | AR | LITTLE ROCK, CITY OF | 0501810108F | 19-OCT-2001
06 | AR | LITTLE ROCK, CITY OF | 0501810109F | 19-OCT-2001
06 | AR | LITTLE ROCK, CITY OF | 0501810111F | 19-OCT-2001
06 | AR | LITTLE ROCK, CITY OF | 0501810112F | 19-OCT-2001
06 | AR | LITTLE ROCK, CITY OF | 0501810113F | 19-OCT-2001
06 | AR | LITTLE ROCK, CITY OF | 0501810114F | 19-OCT-2001
06 | AR | LITTLE ROCK, CITY OF | 0501810116F | 19-OCT-2001
06 | AR | LITTLE ROCK, CITY OF | 0501810126F | 19-OCT-2001
06 | AR | LITTLE ROCK, CITY OF | 0501810127F | 19-OCT-2001
06 | AR | LITTLE ROCK, CITY OF | 0501810128F | 19-OCT-2001
06 | AR | LITTLE ROCK, CITY OF | 0501810129F | 19-OCT-2001
06 | AR | LITTLE ROCK, CITY OF | 0501810131F | 19-OCT-2001
06 | AR | LITTLE ROCK, CITY OF | 0501810133F | 19-OCT-2001
06 | AR | LITTLE ROCK, CITY OF | 0501810134F | 19-OCT-2001
06 | AR | LITTLE ROCK, CITY OF | 050181IND0 ** | 19-OCT-2001
06 | AR | PULASKI COUNTY * | 0501790264D | 19-OCT-2001
06 | AR | PULASKI COUNTY * | 0501790381D | 19-OCT-2001
06 | AR | PULASKI COUNTY * | 0501790404D | 19-OCT-2001
06 | AR | PULASKI COUNTY * | 0501790408D | 19-OCT-2001
06 | AR | PULASKI COUNTY * | 0501790409D | 19-OCT-2001
06 | AR | PULASKI COUNTY * | 0501790412D | 19-OCT-2001
06 | AR | PULASKI COUNTY * | 0501790413D | 19-OCT-2001
06 | AR | PULASKI COUNTY * | 0501790414D** | 19-OCT-2001
06 | AR | PULASKI COUNTY * | 0501790416D | 19-OCT-2001
06 | AR | PULASKI COUNTY * | 0501790418D | 19-OCT-2001
06 | AR | PULASKI COUNTY * | 0501790428D | 19-OCT-2001
06 | AR | PULASKI COUNTY * | 050179IND0 ** | 19-OCT-2001
06 | AR | TEXARKANA, CITY OF | 0501370019C | 05-JUL-2001
06 | AR | TEXARKANA, CITY OF | 0501370056C | 05-JUL-2001
06 | AR | TEXARKANA, CITY OF | 0501370057C | 05-JUL-2001
06 | AR | TEXARKANA, CITY OF | 0501370058C | 05-JUL-2001
06 | AR | TEXARKANA, CITY OF | 0501370059C | 05-JUL-2001
06 | AR | TEXARKANA, CITY OF | 0501370066C | 05-JUL-2001
06 | AR | TEXARKANA, CITY OF | 0501370067C | 05-JUL-2001
06 | AR | TEXARKANA, CITY OF | 0501370069C | 05-JUL-2001
06 | AR | TEXARKANA, CITY OF | 0501370076C | 05-JUL-2001
06 | AR | TEXARKANA, CITY OF | 0501370077C | 05-JUL-2001
06 | AR | TEXARKANA, CITY OF | 0501370086C | 05-JUL-2001
06 | AR | TEXARKANA, CITY OF | 050137IND0 ** | 05-JUL-2001
06 | LA | ALBANY, VILLAGE OF | 22063C0189D | 23-AUG-2001
06 | LA | ALBANY, VILLAGE OF | 22063C0277D | 23-AUG-2001
06 | LA | ALBANY, VILLAGE OF | 22063CIND0 ** | 23-AUG-2001
06 | LA | DENHAM SPRINGS, CITY OF | 22063C0115D | 23-AUG-2001
06 | LA | DENHAM SPRINGS, CITY OF | 22063C0120D | 23-AUG-2001
06 | LA | DENHAM SPRINGS, CITY OF | 22063C0205D | 23-AUG-2001
06 | LA | DENHAM SPRINGS, CITY OF | 22063C0210D | 23-AUG-2001
06 | LA | DENHAM SPRINGS, CITY OF | 22063CIND0 ** | 23-AUG-2001
06 | LA | FRENCH SETTLEMENT, VILLAGE OF | 22063C0355D | 23-AUG-2001
06 | LA | FRENCH SETTLEMENT, VILLAGE OF | 22063C0360D | 23-AUG-2001
06 | LA | FRENCH SETTLEMENT, VILLAGE OF | 22063C0370D | 23-AUG-2001
06 | LA | FRENCH SETTLEMENT, VILLAGE OF | 22063CIND0 ** | 23-AUG-2001
06 | LA | KILLIAN, VILLAGE OF | 22063C0295D | 23-AUG-2001
06 | LA | KILLIAN, VILLAGE OF | 22063C0405D | 23-AUG-2001
06 | LA | KILLIAN, VILLAGE OF | 22063C0410D | 23-AUG-2001
06 | LA | KILLIAN, VILLAGE OF | 22063CIND0 ** | 23-AUG-2001
06 | LA | LIVINGSTON PARISH* | 22063C0025D | 23-AUG-2001
06 | LA | LIVINGSTON PARISH* | 22063C0050D | 23-AUG-2001
06 | LA | LIVINGSTON PARISH* | 22063C0075D | 23-AUG-2001
06 | LA | LIVINGSTON PARISH* | 22063C0100D | 23-AUG-2001
06 | LA | LIVINGSTON PARISH* | 22063C0115D | 23-AUG-2001
06 | LA | LIVINGSTON PARISH* | 22063C0120D | 23-AUG-2001
06 | LA | LIVINGSTON PARISH* | 22063C0125D | 23-AUG-2001
06 | LA | LIVINGSTON PARISH* | 22063C0138D | 23-AUG-2001
06 | LA | LIVINGSTON PARISH* | 22063C0139D | 23-AUG-2001
06 | LA | LIVINGSTON PARISH* | 22063C0145D | 23-AUG-2001
06 | LA | LIVINGSTON PARISH* | 22063C0150D | 23-AUG-2001
06 | LA | LIVINGSTON PARISH* | 22063C0165D | 23-AUG-2001
06 | LA | LIVINGSTON PARISH* | 22063C0175D | 23-AUG-2001
06 | LA | LIVINGSTON PARISH* | 22063C0189D | 23-AUG-2001
06 | LA | LIVINGSTON PARISH* | 22063C0200D | 23-AUG-2001
06 | LA | LIVINGSTON PARISH* | 22063C0205D | 23-AUG-2001
06 | LA | LIVINGSTON PARISH* | 22063C0207D | 23-AUG-2001
06 | LA | LIVINGSTON PARISH* | 22063C0209D | 23-AUG-2001
06 | LA | LIVINGSTON PARISH* | 22063C0210D | 23-AUG-2001
06 | LA | LIVINGSTON PARISH* | 22063C0225D | 23-AUG-2001
06 | LA | LIVINGSTON PARISH* | 22063C0226D | 23-AUG-2001
06 | LA | LIVINGSTON PARISH* | 22063C0227D | 23-AUG-2001
06 | LA | LIVINGSTON PARISH* | 22063C0228D | 23-AUG-2001
06 | LA | LIVINGSTON PARISH* | 22063C0229D | 23-AUG-2001
06 | LA | LIVINGSTON PARISH* | 22063C0235D | 23-AUG-2001
06 | LA | LIVINGSTON PARISH* | 22063C0250D | 23-AUG-2001
06 | LA | LIVINGSTON PARISH* | 22063C0255D | 23-AUG-2001
06 | LA | LIVINGSTON PARISH* | 22063C0275D | 23-AUG-2001
06 | LA | LIVINGSTON PARISH* | 22063C0277D | 23-AUG-2001
06 | LA | LIVINGSTON PARISH* | 22063C0285D | 23-AUG-2001
06 | LA | LIVINGSTON PARISH* | 22063C0295D | 23-AUG-2001
06 | LA | LIVINGSTON PARISH* | 22063C0300D | 23-AUG-2001
06 | LA | LIVINGSTON PARISH* | 22063C0350D | 23-AUG-2001
06 | LA | LIVINGSTON PARISH* | 22063C0355D | 23-AUG-2001
06 | LA | LIVINGSTON PARISH* | 22063C0360D | 23-AUG-2001
06 | LA | LIVINGSTON PARISH* | 22063C0365D | 23-AUG-2001
06 | LA | LIVINGSTON PARISH* | 22063C0370D | 23-AUG-2001
06 | LA | LIVINGSTON PARISH* | 22063C0400D | 23-AUG-2001
06 | LA | LIVINGSTON PARISH* | 22063C0405D | 23-AUG-2001
06 | LA | LIVINGSTON PARISH* | 22063C0410D | 23-AUG-2001
06 | LA | LIVINGSTON PARISH* | 22063C0425D | 23-AUG-2001
06 | LA | LIVINGSTON PARISH* | 22063C0500D | 23-AUG-2001
06 | LA | LIVINGSTON PARISH* | 22063CIND0 ** | 23-AUG-2001
06 | LA | LIVINGSTON, TOWN OF | 22063C0145D | 23-AUG-2001
06 | LA | LIVINGSTON, TOWN OF | 22063C0165D | 23-AUG-2001
06 | LA | LIVINGSTON, TOWN OF | 22063C0235D | 23-AUG-2001
06 | LA | LIVINGSTON, TOWN OF | 22063C0255D | 23-AUG-2001
06 | LA | LIVINGSTON, TOWN OF | 22063CIND0 ** | 23-AUG-2001
06 | LA | PORT VINCENT, VILLAGE OF | 22063C0355D | 23-AUG-2001
06 | LA | PORT VINCENT, VILLAGE OF | 22063CIND0 ** | 23-AUG-2001
06 | LA | SPRINGFIELD, TOWN OF | 22063C0285D | 23-AUG-2001
06 | LA | SPRINGFIELD, TOWN OF | 22063C0295D | 23-AUG-2001
06 | LA | SPRINGFIELD, TOWN OF | 22063CIND0 ** | 23-AUG-2001
06 | LA | WALKER, TOWN OF | 22063C0138D | 23-AUG-2001
06 | LA | WALKER, TOWN OF | 22063C0139D | 23-AUG-2001
06 | LA | WALKER, TOWN OF | 22063C0207D | 23-AUG-2001
06 | LA | WALKER, TOWN OF | 22063C0209D | 23-AUG-2001
06 | LA | WALKER, TOWN OF | 22063C0226D | 23-AUG-2001
06 | LA | WALKER, TOWN OF | 22063C0227D | 23-AUG-2001
06 | LA | WALKER, TOWN OF | 22063C0228D | 23-AUG-2001
06 | LA | WALKER, TOWN OF | 22063CIND0 ** | 23-AUG-2001
06 | OK | BIXBY, TOWN OF | 40143CIND0 ** | 07-SEP-2001
06 | OK | BOYNTON, TOWN OF | 40101CIND0 ** | 21-SEP-2001
06 | OK | BRAGGS, TOWN OF | 40101CIND0 ** | 21-SEP-2001
06 | OK | BROKEN ARROW, CITY OF | 40143CIND0 ** | 07-SEP-2001
06 | OK | COLLINSVILLE, CITY OF | 40143CIND0 ** | 07-SEP-2001
06 | OK | COUNCIL HILL, TOWN OF | 40101CIND0 ** | 21-SEP-2001
06 | OK | COYLE, TOWN OF | 40083CIND0 ** | 21-NOV-2001
06 | OK | CREEK COUNTY* | 4004900065C | 21-SEP-2001
06 | OK | CREEK COUNTY* | 4004900070C | 21-SEP-2001
06 | OK | CREEK COUNTY* | 4004900130C | 21-SEP-2001
06 | OK | CREEK COUNTY* | 4004900135C | 21-SEP-2001
06 | OK | CREEK COUNTY* | 4004900150C** | 21-SEP-2001
06 | OK | CREEK COUNTY* | 4004900225C** | 21-SEP-2001
06 | OK | CREEK COUNTY* | 400490IND0 ** | 21-SEP-2001
06 | OK | CRESCENT, CITY OF | 40083CIND0 ** | 21-NOV-2001
06 | OK | FORT GIBSON, TOWN OF | 40101CIND0 ** | 21-SEP-2001
06 | OK | GANS, TOWN OF | 40135CIND0 ** | 21-SEP-2001
06 | OK | GLENPOOL, TOWN OF | 40143CIND0 ** | 07-SEP-2001
06 | OK | GORE, TOWN OF | 40135C0110E | 21-SEP-2001
06 | OK | GORE, TOWN OF | 40135CIND0 ** | 21-SEP-2001
06 | OK | GUTHRIE, CITY OF | 40083C0194E | 21-NOV-2001
06 | OK | GUTHRIE, CITY OF | 40083CIND0 ** | 21-NOV-2001
06 | OK | HASKELL, TOWN OF | 40101CIND0 ** | 21-SEP-2001
06 | OK | JENKS, CITY OF | 40143C0511J | 07-SEP-2001
06 | OK | JENKS, CITY OF | 40143C0513J | 07-SEP-2001
06 | OK | JENKS, CITY OF | 40143C0514J | 07-SEP-2001
06 | OK | JENKS, CITY OF | 40143CIND0 ** | 07-SEP-2001
06 | OK | LANGSTON, TOWN OF | 40083CIND0 ** | 21-NOV-2001
06 | OK | LIBERTY, TOWN OF | 40143CIND0 ** | 07-SEP-2001
06 | OK | LOGAN COUNTY * | 40083C0194E | 21-NOV-2001
06 | OK | LOGAN COUNTY * | 40083C0238E | 21-NOV-2001
06 | OK | LOGAN COUNTY * | 40083C0250E** | 21-NOV-2001
06 | OK | LOGAN COUNTY * | 40083CIND0 ** | 21-NOV-2001
06 | OK | LOTSEE, VILLAGE OF | 40143CIND0 ** | 07-SEP-2001
06 | OK | LOVELL, TOWN OF | 40083CIND0 ** | 21-NOV-2001
06 | OK | MARBLE CITY, TOWN OF | 40135CIND0 ** | 21-SEP-2001
06 | OK | MARSHALL, TOWN OF | 40083CIND0 ** | 21-NOV-2001
06 | OK | MERIDIAN, TOWN OF | 40083C0250E** | 21-NOV-2001
06 | OK | MERIDIAN, TOWN OF | 40083CIND0 ** | 21-NOV-2001
06 | OK | MOFFETT, TOWN OF | 40135CIND0 ** | 21-SEP-2001
06 | OK | MULDROW, TOWN OF | 40135CIND0 ** | 21-SEP-2001
06 | OK | MULHALL, TOWN OF | 40083CIND0 ** | 21-NOV-2001
06 | OK | MUSKOGEE COUNTY * | 40101C0263E | 21-SEP-2001
06 | OK | MUSKOGEE COUNTY * | 40101C0264E | 21-SEP-2001
06 | OK | MUSKOGEE COUNTY * | 40101C0275E | 21-SEP-2001
06 | OK | MUSKOGEE COUNTY * | 40101C0325E** | 21-SEP-2001
06 | OK | MUSKOGEE COUNTY * | 40101C0325E | 21-SEP-2001
06 | OK | MUSKOGEE COUNTY * | 40101CIND0 ** | 21-SEP-2001
06 | OK | MUSKOGEE, CITY OF | 40101CIND0 ** | 21-SEP-2001
06 | OK | OKTAHA, TOWN OF | 40101CIND0 ** | 21-SEP-2001
06 | OK | ORLANDO, TOWN OF | 40083CIND0 ** | 21-NOV-2001
06 | OK | OWASSO, CITY OF | 40143CIND0 ** | 07-SEP-2001
06 | OK | PORUM, TOWN OF | 40101CIND0 ** | 21-SEP-2001
06 | OK | ROLAND, TOWN OF | 40135CIND0 ** | 21-SEP-2001
06 | OK | SALLISAW, CITY OF | 40135CIND0 ** | 21-SEP-2001
06 | OK | SAND SPRINGS, CITY OF | 40143CIND0 ** | 07-SEP-2001
06 | OK | SAPULPA, CITY OF | 4000530065C | 21-SEP-2001
06 | OK | SAPULPA, CITY OF | 4000530070C | 21-SEP-2001
06 | OK | SAPULPA, CITY OF | 4000530130C | 21-SEP-2001
06 | OK | SAPULPA, CITY OF | 4000530135C | 21-SEP-2001
06 | OK | SAPULPA, CITY OF | 4000530150C | 21-SEP-2001
06 | OK | SAPULPA, CITY OF | 400053IND0 ** | 21-SEP-2001
06 | OK | SEQUOYAH COUNTY * | 40135C0110E | 21-SEP-2001
06 | OK | SEQUOYAH COUNTY * | 40135CIND0 ** | 21-SEP-2001
06 | OK | SKIATOOK, TOWN OF | 40143CIND0 ** | 07-SEP-2001
06 | OK | SPERRY, TOWN OF | 40143CIND0 ** | 07-SEP-2001
06 | OK | TAFT, TOWN OF | 40101CIND0 ** | 21-SEP-2001
06 | OK | TULSA COUNTY * | 40143C0511J | 07-SEP-2001
06 | OK | TULSA COUNTY * | 40143C0513J | 07-SEP-2001
06 | OK | TULSA COUNTY * | 40143C0514J | 07-SEP-2001
06 | OK | TULSA COUNTY * | 40143CIND0 ** | 07-SEP-2001
06 | OK | TULSA, CITY OF | 40143C0511J | 07-SEP-2001
06 | OK | TULSA, CITY OF | 40143C0514J | 07-SEP-2001
06 | OK | TULSA, CITY OF | 40143CIND0 ** | 07-SEP-2001
06 | OK | VIAN, TOWN OF | 40135CIND0 ** | 21-SEP-2001
06 | OK | WAINWRIGHT, TOWN OF | 40101CIND0 ** | 21-SEP-2001
06 | OK | WARNER, TOWN OF | 40101CIND0 ** | 21-SEP-2001
06 | OK | WEBBERS FALLS, TOWN OF | 40101C0263E | 21-SEP-2001
06 | OK | WEBBERS FALLS, TOWN OF | 40101C0264E | 21-SEP-2001
06 | OK | WEBBERS FALLS, TOWN OF | 40101C0275E | 21-SEP-2001
06 | OK | WEBBERS FALLS, TOWN OF | 40101C0325E** | 21-SEP-2001
06 | OK | WEBBERS FALLS, TOWN OF | 40101C0325E | 21-SEP-2001
06 | OK | WEBBERS FALLS, TOWN OF | 40101CIND0 ** | 21-SEP-2001
06 | TX | ADDISON, TOWN OF | 48113C0180J | 23-AUG-2001
06 | TX | ADDISON, TOWN OF | 48113C0185J | 23-AUG-2001
06 | TX | ADDISON, TOWN OF | 48113C0190J | 23-AUG-2001
06 | TX | ADDISON, TOWN OF | 48113CIND0 ** | 23-AUG-2001
06 | TX | ARCOLA CITY OF | 48157CIND0 ** | 07-NOV-2001
06 | TX | ARGYLE, CITY OF | 48121CIND0 ** | 23-AUG-2001
06 | TX | AUBREY, CITY OF | 48121CIND0 ** | 23-AUG-2001
06 | TX | BALCH SPRINGS, CITY OF | 48113C0510J | 23-AUG-2001
06 | TX | BALCH SPRINGS, CITY OF | 48113C0530J | 23-AUG-2001
06 | TX | BALCH SPRINGS, CITY OF | 48113CIND0 ** | 23-AUG-2001
06 | TX | BARTONVILLE, TOWN OF | 48121CIND0 ** | 23-AUG-2001
06 | TX | BEASLEY, CITY OF | 48157CIND0 ** | 07-NOV-2001
06 | TX | BIG OAKS M.U.D. | 48157CIND0 ** | 07-NOV-2001
06 | TX | CALHOUN COUNTY * | 4800970058D | 07-NOV-2001
06 | TX | CALHOUN COUNTY * | 4800970179D | 07-NOV-2001
06 | TX | CALHOUN COUNTY * | 480097IND0 ** | 07-NOV-2001
06 | TX | CARROLLTON, CITY OF | 48113C0015J | 23-AUG-2001
06 | TX | CARROLLTON, CITY OF | 48113C0020J | 23-AUG-2001
06 | TX | CARROLLTON, CITY OF | 48113C0040J | 23-AUG-2001
06 | TX | CARROLLTON, CITY OF | 48113C0155J | 23-AUG-2001
06 | TX | CARROLLTON, CITY OF | 48113C0160J | 23-AUG-2001
06 | TX | CARROLLTON, CITY OF | 48113C0165J | 23-AUG-2001
06 | TX | CARROLLTON, CITY OF | 48113C0170J | 23-AUG-2001
06 | TX | CARROLLTON, CITY OF | 48113C0180J | 23-AUG-2001
06 | TX | CARROLLTON, CITY OF | 48113CIND0 ** | 23-AUG-2001
06 | TX | CEDAR HILL, CITY OF | 48113C0465J | 23-AUG-2001
06 | TX | CEDAR HILL, CITY OF | 48113C0585J | 23-AUG-2001
06 | TX | CEDAR HILL, CITY OF | 48113C0595J | 23-AUG-2001
06 | TX | CEDAR HILL, CITY OF | 48113C0605J | 23-AUG-2001
06 | TX | CEDAR HILL, CITY OF | 48113C0610J | 23-AUG-2001
06 | TX | CEDAR HILL, CITY OF | 48113C0615J | 23-AUG-2001
06 | TX | CEDAR HILL, CITY OF | 48113C0620J | 23-AUG-2001
06 | TX | CEDAR HILL, CITY OF | 48113CIND0 ** | 23-AUG-2001
06 | TX | CHELFORD M.U.D., CITY | 48157CIND0 ** | 07-NOV-2001
06 | TX | COCKRELL HILL, CITY OF | 48113C0460J | 23-AUG-2001
06 | TX | COCKRELL HILL, CITY OF | 48113CIND0 ** | 23-AUG-2001
06 | TX | COMBINE, CITY OF | 48113C0685J | 23-AUG-2001
06 | TX | COMBINE, CITY OF | 48113C0695J | 23-AUG-2001
06 | TX | COMBINE, CITY OF | 48113CIND0 ** | 23-AUG-2001
06 | TX | COPPELL, CITY OF | 48113C0135J | 23-AUG-2001
06 | TX | COPPELL, CITY OF | 48113C0145J | 23-AUG-2001
06 | TX | COPPELL, CITY OF | 48113C0155J | 23-AUG-2001
06 | TX | COPPELL, CITY OF | 48113C0160J | 23-AUG-2001
06 | TX | COPPELL, CITY OF | 48113C0165J | 23-AUG-2001
06 | TX | COPPELL, CITY OF | 48113CIND0 ** | 23-AUG-2001
06 | TX | COPPER CANYON, TOWN OF | 48121CIND0 ** | 23-AUG-2001
06 | TX | CORINTH, TOWN OF | 48121CIND0 ** | 23-AUG-2001
06 | TX | CROSS ROADS, TOWN OF | 48121CIND0 ** | 23-AUG-2001
06 | TX | DALLAS COUNTY * | 48113C0015J | 23-AUG-2001
06 | TX | DALLAS COUNTY * | 48113C0020J | 23-AUG-2001
06 | TX | DALLAS COUNTY * | 48113C0040J | 23-AUG-2001
06 | TX | DALLAS COUNTY * | 48113C0045J | 23-AUG-2001
06 | TX | DALLAS COUNTY * | 48113C0065J | 23-AUG-2001
06 | TX | DALLAS COUNTY * | 48113C0070J | 23-AUG-2001
06 | TX | DALLAS COUNTY * | 48113C0090J | 23-AUG-2001
06 | TX | DALLAS COUNTY * | 48113C0115J | 23-AUG-2001
06 | TX | DALLAS COUNTY * | 48113C0135J | 23-AUG-2001
06 | TX | DALLAS COUNTY * | 48113C0145J | 23-AUG-2001
06 | TX | DALLAS COUNTY * | 48113C0155J | 23-AUG-2001
06 | TX | DALLAS COUNTY * | 48113C0160J | 23-AUG-2001
06 | TX | DALLAS COUNTY * | 48113C0165J | 23-AUG-2001
06 | TX | DALLAS COUNTY * | 48113C0170J | 23-AUG-2001
06 | TX | DALLAS COUNTY * | 48113C0180J | 23-AUG-2001
06 | TX | DALLAS COUNTY * | 48113C0185J | 23-AUG-2001
06 | TX | DALLAS COUNTY * | 48113C0190J | 23-AUG-2001
06 | TX | DALLAS COUNTY * | 48113C0195J | 23-AUG-2001
06 | TX | DALLAS COUNTY * | 48113C0205J | 23-AUG-2001
06 | TX | DALLAS COUNTY * | 48113C0210J | 23-AUG-2001
06 | TX | DALLAS COUNTY * | 48113C0215J | 23-AUG-2001
06 | TX | DALLAS COUNTY * | 48113C0220J | 23-AUG-2001
06 | TX | DALLAS COUNTY * | 48113C0230J | 23-AUG-2001
06 | TX | DALLAS COUNTY * | 48113C0235J | 23-AUG-2001
06 | TX | DALLAS COUNTY * | 48113C0240J | 23-AUG-2001
06 | TX | DALLAS COUNTY * | 48113C0245J | 23-AUG-2001
06 | TX | DALLAS COUNTY * | 48113C0255J | 23-AUG-2001
06 | TX | DALLAS COUNTY * | 48113C0265J | 23-AUG-2001
06 | TX | DALLAS COUNTY * | 48113C0285J | 23-AUG-2001
06 | TX | DALLAS COUNTY * | 48113C0295J | 23-AUG-2001
06 | TX | DALLAS COUNTY * | 48113C0305J | 23-AUG-2001
06 | TX | DALLAS COUNTY * | 48113C0310J | 23-AUG-2001
06 | TX | DALLAS COUNTY * | 48113C0315J | 23-AUG-2001
06 | TX | DALLAS COUNTY * | 48113C0320J | 23-AUG-2001
06 | TX | DALLAS COUNTY * | 48113C0330J | 23-AUG-2001
06 | TX | DALLAS COUNTY * | 48113C0335J | 23-AUG-2001
06 | TX | DALLAS COUNTY * | 48113C0340J | 23-AUG-2001
06 | TX | DALLAS COUNTY * | 48113C0345J | 23-AUG-2001
06 | TX | DALLAS COUNTY * | 48113C0355J | 23-AUG-2001
06 | TX | DALLAS COUNTY * | 48113C0360J | 23-AUG-2001
06 | TX | DALLAS COUNTY * | 48113C0365J | 23-AUG-2001
06 | TX | DALLAS COUNTY * | 48113C0370J | 23-AUG-2001
06 | TX | DALLAS COUNTY * | 48113C0380J | 23-AUG-2001
06 | TX | DALLAS COUNTY * | 48113C0385J | 23-AUG-2001
06 | TX | DALLAS COUNTY * | 48113C0390J | 23-AUG-2001
06 | TX | DALLAS COUNTY * | 48113C0395J | 23-AUG-2001
06 | TX | DALLAS COUNTY * | 48113C0405J | 23-AUG-2001
06 | TX | DALLAS COUNTY * | 48113C0415J | 23-AUG-2001
06 | TX | DALLAS COUNTY * | 48113C0435J | 23-AUG-2001
06 | TX | DALLAS COUNTY * | 48113C0440J | 23-AUG-2001
06 | TX | DALLAS COUNTY * | 48113C0445J | 23-AUG-2001
06 | TX | DALLAS COUNTY * | 48113C0455J | 23-AUG-2001
06 | TX | DALLAS COUNTY * | 48113C0460J | 23-AUG-2001
06 | TX | DALLAS COUNTY * | 48113C0465J | 23-AUG-2001
06 | TX | DALLAS COUNTY * | 48113C0470J | 23-AUG-2001
06 | TX | DALLAS COUNTY * | 48113C0480J | 23-AUG-2001
06 | TX | DALLAS COUNTY * | 48113C0485J | 23-AUG-2001
06 | TX | DALLAS COUNTY * | 48113C0490J | 23-AUG-2001
06 | TX | DALLAS COUNTY * | 48113C0495J | 23-AUG-2001
06 | TX | DALLAS COUNTY * | 48113C0505J | 23-AUG-2001
06 | TX | DALLAS COUNTY * | 48113C0510J | 23-AUG-2001
06 | TX | DALLAS COUNTY * | 48113C0515J | 23-AUG-2001
06 | TX | DALLAS COUNTY * | 48113C0520J | 23-AUG-2001
06 | TX | DALLAS COUNTY * | 48113C0530J | 23-AUG-2001
06 | TX | DALLAS COUNTY * | 48113C0535J | 23-AUG-2001
06 | TX | DALLAS COUNTY * | 48113C0540J | 23-AUG-2001
06 | TX | DALLAS COUNTY * | 48113C0545J | 23-AUG-2001
06 | TX | DALLAS COUNTY * | 48113C0565J | 23-AUG-2001
06 | TX | DALLAS COUNTY * | 48113C0580J | 23-AUG-2001
06 | TX | DALLAS COUNTY * | 48113C0585J | 23-AUG-2001
06 | TX | DALLAS COUNTY * | 48113C0590J | 23-AUG-2001
06 | TX | DALLAS COUNTY * | 48113C0595J | 23-AUG-2001
06 | TX | DALLAS COUNTY * | 48113C0605J | 23-AUG-2001
06 | TX | DALLAS COUNTY * | 48113C0610J | 23-AUG-2001
06 | TX | DALLAS COUNTY * | 48113C0615J | 23-AUG-2001
06 | TX | DALLAS COUNTY * | 48113C0620J | 23-AUG-2001
06 | TX | DALLAS COUNTY * | 48113C0630J | 23-AUG-2001
06 | TX | DALLAS COUNTY * | 48113C0635J | 23-AUG-2001
06 | TX | DALLAS COUNTY * | 48113C0640J | 23-AUG-2001
06 | TX | DALLAS COUNTY * | 48113C0645J | 23-AUG-2001
06 | TX | DALLAS COUNTY * | 48113C0655J | 23-AUG-2001
06 | TX | DALLAS COUNTY * | 48113C0660J | 23-AUG-2001
06 | TX | DALLAS COUNTY * | 48113C0665J | 23-AUG-2001
06 | TX | DALLAS COUNTY * | 48113C0670J | 23-AUG-2001
06 | TX | DALLAS COUNTY * | 48113C0680J | 23-AUG-2001
06 | TX | DALLAS COUNTY * | 48113C0685J | 23-AUG-2001
06 | TX | DALLAS COUNTY * | 48113C0690J | 23-AUG-2001
06 | TX | DALLAS COUNTY * | 48113C0695J | 23-AUG-2001
06 | TX | DALLAS COUNTY * | 48113CIND0 ** | 23-AUG-2001
06 | TX | DALLAS, CITY OF | 48113C0040J | 23-AUG-2001
06 | TX | DALLAS, CITY OF | 48113C0045J | 23-AUG-2001
06 | TX | DALLAS, CITY OF | 48113C0115J | 23-AUG-2001
06 | TX | DALLAS, CITY OF | 48113C0135J | 23-AUG-2001
06 | TX | DALLAS, CITY OF | 48113C0145J | 23-AUG-2001
06 | TX | DALLAS, CITY OF | 48113C0155J | 23-AUG-2001
06 | TX | DALLAS, CITY OF | 48113C0160J | 23-AUG-2001
06 | TX | DALLAS, CITY OF | 48113C0165J | 23-AUG-2001
06 | TX | DALLAS, CITY OF | 48113C0170J | 23-AUG-2001
06 | TX | DALLAS, CITY OF | 48113C0180J | 23-AUG-2001
06 | TX | DALLAS, CITY OF | 48113C0185J | 23-AUG-2001
06 | TX | DALLAS, CITY OF | 48113C0190J | 23-AUG-2001
06 | TX | DALLAS, CITY OF | 48113C0195J | 23-AUG-2001
06 | TX | DALLAS, CITY OF | 48113C0205J | 23-AUG-2001
06 | TX | DALLAS, CITY OF | 48113C0215J | 23-AUG-2001
06 | TX | DALLAS, CITY OF | 48113C0220J | 23-AUG-2001
06 | TX | DALLAS, CITY OF | 48113C0235J | 23-AUG-2001
06 | TX | DALLAS, CITY OF | 48113C0240J | 23-AUG-2001
06 | TX | DALLAS, CITY OF | 48113C0245J | 23-AUG-2001
06 | TX | DALLAS, CITY OF | 48113C0255J | 23-AUG-2001
06 | TX | DALLAS, CITY OF | 48113C0265J | 23-AUG-2001
06 | TX | DALLAS, CITY OF | 48113C0310J | 23-AUG-2001
06 | TX | DALLAS, CITY OF | 48113C0320J | 23-AUG-2001
06 | TX | DALLAS, CITY OF | 48113C0330J | 23-AUG-2001
06 | TX | DALLAS, CITY OF | 48113C0335J | 23-AUG-2001
06 | TX | DALLAS, CITY OF | 48113C0340J | 23-AUG-2001
06 | TX | DALLAS, CITY OF | 48113C0345J | 23-AUG-2001
06 | TX | DALLAS, CITY OF | 48113C0355J | 23-AUG-2001
06 | TX | DALLAS, CITY OF | 48113C0360J | 23-AUG-2001
06 | TX | DALLAS, CITY OF | 48113C0365J | 23-AUG-2001
06 | TX | DALLAS, CITY OF | 48113C0370J | 23-AUG-2001
06 | TX | DALLAS, CITY OF | 48113C0380J | 23-AUG-2001
06 | TX | DALLAS, CITY OF | 48113C0385J | 23-AUG-2001
06 | TX | DALLAS, CITY OF | 48113C0395J | 23-AUG-2001
06 | TX | DALLAS, CITY OF | 48113C0405J | 23-AUG-2001
06 | TX | DALLAS, CITY OF | 48113C0415J | 23-AUG-2001
06 | TX | DALLAS, CITY OF | 48113C0455J | 23-AUG-2001
06 | TX | DALLAS, CITY OF | 48113C0460J | 23-AUG-2001
06 | TX | DALLAS, CITY OF | 48113C0465J | 23-AUG-2001
06 | TX | DALLAS, CITY OF | 48113C0470J | 23-AUG-2001
06 | TX | DALLAS, CITY OF | 48113C0480J | 23-AUG-2001
06 | TX | DALLAS, CITY OF | 48113C0485J | 23-AUG-2001
06 | TX | DALLAS, CITY OF | 48113C0490J | 23-AUG-2001
06 | TX | DALLAS, CITY OF | 48113C0495J | 23-AUG-2001
06 | TX | DALLAS, CITY OF | 48113C0505J | 23-AUG-2001
06 | TX | DALLAS, CITY OF | 48113C0510J | 23-AUG-2001
06 | TX | DALLAS, CITY OF | 48113C0515J | 23-AUG-2001
06 | TX | DALLAS, CITY OF | 48113C0520J | 23-AUG-2001
06 | TX | DALLAS, CITY OF | 48113C0530J | 23-AUG-2001
06 | TX | DALLAS, CITY OF | 48113C0535J | 23-AUG-2001
06 | TX | DALLAS, CITY OF | 48113C0540J | 23-AUG-2001
06 | TX | DALLAS, CITY OF | 48113C0545J | 23-AUG-2001
06 | TX | DALLAS, CITY OF | 48113C0605J | 23-AUG-2001
06 | TX | DALLAS, CITY OF | 48113C0635J | 23-AUG-2001
06 | TX | DALLAS, CITY OF | 48113C0655J | 23-AUG-2001
06 | TX | DALLAS, CITY OF | 48113CIND0 ** | 23-AUG-2001
06 | TX | DENTON COUNTY* | 48121C0555F | 23-AUG-2001
06 | TX | DENTON COUNTY* | 48121C0558F | 23-AUG-2001
06 | TX | DENTON COUNTY* | 48121C0565F | 23-AUG-2001
06 | TX | DENTON COUNTY* | 48121C0567F | 23-AUG-2001
06 | TX | DENTON COUNTY* | 48121C0570F | 23-AUG-2001
06 | TX | DENTON COUNTY* | 48121C0586F | 23-AUG-2001
06 | TX | DENTON COUNTY* | 48121C0705F | 23-AUG-2001
06 | TX | DENTON COUNTY* | 48121C0710F | 23-AUG-2001
06 | TX | DENTON COUNTY* | 48121CIND0 ** | 23-AUG-2001
06 | TX | DENTON, CITY OF | 48121CIND0 ** | 23-AUG-2001
06 | TX | DESOTO, CITY OF | 48113C0470J | 23-AUG-2001
06 | TX | DESOTO, CITY OF | 48113C0490J | 23-AUG-2001
06 | TX | DESOTO, CITY OF | 48113C0610J | 23-AUG-2001
06 | TX | DESOTO, CITY OF | 48113C0630J | 23-AUG-2001
06 | TX | DESOTO, CITY OF | 48113CIND0 ** | 23-AUG-2001
06 | TX | DOUBLE OAK, TOWN OF | 48121CIND0 ** | 23-AUG-2001
06 | TX | DUNCANVILLE, CITY OF | 48113C0465J | 23-AUG-2001
06 | TX | DUNCANVILLE, CITY OF | 48113C0470J | 23-AUG-2001
06 | TX | DUNCANVILLE, CITY OF | 48113C0605J | 23-AUG-2001
06 | TX | DUNCANVILLE, CITY OF | 48113C0610J | 23-AUG-2001
06 | TX | DUNCANVILLE, CITY OF | 48113CIND0 ** | 23-AUG-2001
06 | TX | FAIRCHILDS, VILLAGE OF | 48157CIND0 ** | 07-NOV-2001
06 | TX | FARMERS BRANCH, CITY OF | 48113C0160J | 23-AUG-2001
06 | TX | FARMERS BRANCH, CITY OF | 48113C0165J | 23-AUG-2001
06 | TX | FARMERS BRANCH, CITY OF | 48113C0170J | 23-AUG-2001
06 | TX | FARMERS BRANCH, CITY OF | 48113C0180J | 23-AUG-2001
06 | TX | FARMERS BRANCH, CITY OF | 48113C0190J | 23-AUG-2001
06 | TX | FARMERS BRANCH, CITY OF | 48113CIND0 ** | 23-AUG-2001
06 | TX | FIRST COLONY L.I.D. | 48157CIND0 ** | 07-NOV-2001
06 | TX | FLOWER MOUND, TOWN OF | 48121CIND0 ** | 23-AUG-2001
06 | TX | FORT BEND COUNTY * | 48157C0455K | 07-NOV-2001
06 | TX | FORT BEND COUNTY * | 48157C0460K | 07-NOV-2001
06 | TX | FORT BEND COUNTY * | 48157C0470K | 07-NOV-2001
06 | TX | FORT BEND COUNTY * | 48157CIND0 ** | 07-NOV-2001
06 | TX | FORT BEND COUNTY L.I.D. #2 | 48157C0455K | 07-NOV-2001
06 | TX | FORT BEND COUNTY L.I.D. #2 | 48157C0460K | 07-NOV-2001
06 | TX | FORT BEND COUNTY L.I.D. #2 | 48157C0470K | 07-NOV-2001
06 | TX | FORT BEND COUNTY L.I.D. #2 | 48157CIND0 ** | 07-NOV-2001
06 | TX | FORT BEND COUNTY L.I.D. #7 | 48157C0455K | 07-NOV-2001
06 | TX | FORT BEND COUNTY L.I.D. #7 | 48157C0460K | 07-NOV-2001
06 | TX | FORT BEND COUNTY L.I.D. #7 | 48157C0470K | 07-NOV-2001
06 | TX | FORT BEND COUNTY L.I.D. #7 | 48157CIND0 ** | 07-NOV-2001
06 | TX | FORT BEND COUNTY M.U.D. #2 | 48157C0455K | 07-NOV-2001
06 | TX | FORT BEND COUNTY M.U.D. #2 | 48157C0460K | 07-NOV-2001
06 | TX | FORT BEND COUNTY M.U.D. #2 | 48157C0470K | 07-NOV-2001
06 | TX | FORT BEND COUNTY M.U.D. #2 | 48157CIND0 ** | 07-NOV-2001
06 | TX | FORT BEND COUNTY M.U.D. #23 | 48157C0455K | 07-NOV-2001
06 | TX | FORT BEND COUNTY M.U.D. #23 | 48157C0460K | 07-NOV-2001
06 | TX | FORT BEND COUNTY M.U.D. #23 | 48157C0470K | 07-NOV-2001
06 | TX | FORT BEND COUNTY M.U.D. #23 | 48157CIND0 ** | 07-NOV-2001
06 | TX | FORT BEND COUNTY M.U.D. #25 | 48157C0455K | 07-NOV-2001
06 | TX | FORT BEND COUNTY M.U.D. #25 | 48157C0460K | 07-NOV-2001
06 | TX | FORT BEND COUNTY M.U.D. #25 | 48157C0470K | 07-NOV-2001
06 | TX | FORT BEND COUNTY M.U.D. #25 | 48157CIND0 ** | 07-NOV-2001
06 | TX | FORT BEND COUNTY M.U.D. #30 | 48157C0455K | 07-NOV-2001
06 | TX | FORT BEND COUNTY M.U.D. #30 | 48157C0460K | 07-NOV-2001
06 | TX | FORT BEND COUNTY M.U.D. #30 | 48157C0470K | 07-NOV-2001
06 | TX | FORT BEND COUNTY M.U.D. #30 | 48157CIND0 ** | 07-NOV-2001
06 | TX | FORT BEND COUNTY M.U.D. #34 | 48157C0455K | 07-NOV-2001
06 | TX | FORT BEND COUNTY M.U.D. #34 | 48157C0460K | 07-NOV-2001
06 | TX | FORT BEND COUNTY M.U.D. #34 | 48157C0470K | 07-NOV-2001
06 | TX | FORT BEND COUNTY M.U.D. #34 | 48157CIND0 ** | 07-NOV-2001
06 | TX | FORT BEND COUNTY M.U.D. #35 | 48157C0455K | 07-NOV-2001
06 | TX | FORT BEND COUNTY M.U.D. #35 | 48157C0460K | 07-NOV-2001
06 | TX | FORT BEND COUNTY M.U.D. #35 | 48157C0470K | 07-NOV-2001
06 | TX | FORT BEND COUNTY M.U.D. #35 | 48157CIND0 ** | 07-NOV-2001
06 | TX | FORT BEND COUNTY M.U.D. #41 | 48157C0455K | 07-NOV-2001
06 | TX | FORT BEND COUNTY M.U.D. #41 | 48157C0460K | 07-NOV-2001
06 | TX | FORT BEND COUNTY M.U.D. #41 | 48157C0470K | 07-NOV-2001
06 | TX | FORT BEND COUNTY M.U.D. #41 | 48157CIND0 ** | 07-NOV-2001
06 | TX | FORT BEND COUNTY M.U.D. #42 | 48157C0455K | 07-NOV-2001
06 | TX | FORT BEND COUNTY M.U.D. #42 | 48157C0460K | 07-NOV-2001
06 | TX | FORT BEND COUNTY M.U.D. #42 | 48157C0470K | 07-NOV-2001
06 | TX | FORT BEND COUNTY M.U.D. #42 | 48157CIND0 ** | 07-NOV-2001
06 | TX | FORT BEND COUNTY M.U.D. #81 | 48157C0455K | 07-NOV-2001
06 | TX | FORT BEND COUNTY M.U.D. #81 | 48157C0460K | 07-NOV-2001
06 | TX | FORT BEND COUNTY M.U.D. #81 | 48157C0470K | 07-NOV-2001
06 | TX | FORT BEND COUNTY M.U.D. #81 | 48157CIND0 ** | 07-NOV-2001
06 | TX | FREDERICKSBURG, CITY OF | 48171C0267C | 19-OCT-2001
06 | TX | FREDERICKSBURG, CITY OF | 48171C0269C | 19-OCT-2001
06 | TX | FREDERICKSBURG, CITY OF | 48171C0275C | 19-OCT-2001
06 | TX | FREDERICKSBURG, CITY OF | 48171C0286C | 19-OCT-2001
06 | TX | FREDERICKSBURG, CITY OF | 48171C0288C | 19-OCT-2001
06 | TX | FREDERICKSBURG, CITY OF | 48171C0300C | 19-OCT-2001
06 | TX | FREDERICKSBURG, CITY OF | 48171C0450C | 19-OCT-2001
06 | TX | FREDERICKSBURG, CITY OF | 48171C0451C | 19-OCT-2001
06 | TX | FREDERICKSBURG, CITY OF | 48171CIND0 ** | 19-OCT-2001
06 | TX | FULSHEAR, CITY OF | 48157CIND0 ** | 07-NOV-2001
06 | TX | GARLAND, CITY OF | 48113C0115J | 23-AUG-2001
06 | TX | GARLAND, CITY OF | 48113C0210J | 23-AUG-2001
06 | TX | GARLAND, CITY OF | 48113C0215J | 23-AUG-2001
06 | TX | GARLAND, CITY OF | 48113C0220J | 23-AUG-2001
06 | TX | GARLAND, CITY OF | 48113C0230J | 23-AUG-2001
06 | TX | GARLAND, CITY OF | 48113C0235J | 23-AUG-2001
06 | TX | GARLAND, CITY OF | 48113C0240J | 23-AUG-2001
06 | TX | GARLAND, CITY OF | 48113C0255J | 23-AUG-2001
06 | TX | GARLAND, CITY OF | 48113C0360J | 23-AUG-2001
06 | TX | GARLAND, CITY OF | 48113C0380J | 23-AUG-2001
06 | TX | GARLAND, CITY OF | 48113C0385J | 23-AUG-2001
06 | TX | GARLAND, CITY OF | 48113CIND0 ** | 23-AUG-2001
06 | TX | GILLESPIE COUNTY* | 48171C0025C | 19-OCT-2001
06 | TX | GILLESPIE COUNTY* | 48171C0050C | 19-OCT-2001
06 | TX | GILLESPIE COUNTY* | 48171C0075C | 19-OCT-2001
06 | TX | GILLESPIE COUNTY* | 48171C0100C | 19-OCT-2001
06 | TX | GILLESPIE COUNTY* | 48171C0125C | 19-OCT-2001
06 | TX | GILLESPIE COUNTY* | 48171C0150C | 19-OCT-2001
06 | TX | GILLESPIE COUNTY* | 48171C0175C | 19-OCT-2001
06 | TX | GILLESPIE COUNTY* | 48171C0200C | 19-OCT-2001
06 | TX | GILLESPIE COUNTY* | 48171C0225C | 19-OCT-2001
06 | TX | GILLESPIE COUNTY* | 48171C0250C | 19-OCT-2001
06 | TX | GILLESPIE COUNTY* | 48171C0267C | 19-OCT-2001
06 | TX | GILLESPIE COUNTY* | 48171C0269C | 19-OCT-2001
06 | TX | GILLESPIE COUNTY* | 48171C0275C | 19-OCT-2001
06 | TX | GILLESPIE COUNTY* | 48171C0286C | 19-OCT-2001
06 | TX | GILLESPIE COUNTY* | 48171C0288C | 19-OCT-2001
06 | TX | GILLESPIE COUNTY* | 48171C0300C | 19-OCT-2001
06 | TX | GILLESPIE COUNTY* | 48171C0325C | 19-OCT-2001
06 | TX | GILLESPIE COUNTY* | 48171C0350C | 19-OCT-2001
06 | TX | GILLESPIE COUNTY* | 48171C0375C | 19-OCT-2001
06 | TX | GILLESPIE COUNTY* | 48171C0400C | 19-OCT-2001
06 | TX | GILLESPIE COUNTY* | 48171C0425C | 19-OCT-2001
06 | TX | GILLESPIE COUNTY* | 48171C0450C | 19-OCT-2001
06 | TX | GILLESPIE COUNTY* | 48171C0451C | 19-OCT-2001
06 | TX | GILLESPIE COUNTY* | 48171C0475C | 19-OCT-2001
06 | TX | GILLESPIE COUNTY* | 48171C0477C | 19-OCT-2001
06 | TX | GILLESPIE COUNTY* | 48171C0481C | 19-OCT-2001
06 | TX | GILLESPIE COUNTY* | 48171C0482C | 19-OCT-2001
06 | TX | GILLESPIE COUNTY* | 48171C0500C | 19-OCT-2001
06 | TX | GILLESPIE COUNTY* | 48171C0501C | 19-OCT-2001
06 | TX | GILLESPIE COUNTY* | 48171C0502C | 19-OCT-2001
06 | TX | GILLESPIE COUNTY* | 48171C0525C | 19-OCT-2001
06 | TX | GILLESPIE COUNTY* | 48171CIND0 ** | 19-OCT-2001
06 | TX | GLENN HEIGHTS, CITY OF | 48113C0610J | 23-AUG-2001
06 | TX | GLENN HEIGHTS, CITY OF | 48113C0620J | 23-AUG-2001
06 | TX | GLENN HEIGHTS, CITY OF | 48113C0630J | 23-AUG-2001
06 | TX | GLENN HEIGHTS, CITY OF | 48113C0640J | 23-AUG-2001
06 | TX | GLENN HEIGHTS, CITY OF | 48113CIND0 ** | 23-AUG-2001
06 | TX | GRAND PRAIRIE, CITY OF | 48113C0285J | 23-AUG-2001
06 | TX | GRAND PRAIRIE, CITY OF | 48113C0295J | 23-AUG-2001
06 | TX | GRAND PRAIRIE, CITY OF | 48113C0305J | 23-AUG-2001
06 | TX | GRAND PRAIRIE, CITY OF | 48113C0315J | 23-AUG-2001
06 | TX | GRAND PRAIRIE, CITY OF | 48113C0320J | 23-AUG-2001
06 | TX | GRAND PRAIRIE, CITY OF | 48113C0435J | 23-AUG-2001
06 | TX | GRAND PRAIRIE, CITY OF | 48113C0440J | 23-AUG-2001
06 | TX | GRAND PRAIRIE, CITY OF | 48113C0445J | 23-AUG-2001
06 | TX | GRAND PRAIRIE, CITY OF | 48113C0455J | 23-AUG-2001
06 | TX | GRAND PRAIRIE, CITY OF | 48113C0460J | 23-AUG-2001
06 | TX | GRAND PRAIRIE, CITY OF | 48113C0465J | 23-AUG-2001
06 | TX | GRAND PRAIRIE, CITY OF | 48113C0580J | 23-AUG-2001
06 | TX | GRAND PRAIRIE, CITY OF | 48113C0585J | 23-AUG-2001
06 | TX | GRAND PRAIRIE, CITY OF | 48113C0590J | 23-AUG-2001
06 | TX | GRAND PRAIRIE, CITY OF | 48113C0595J | 23-AUG-2001
06 | TX | GRAND PRAIRIE, CITY OF | 48113C0605J | 23-AUG-2001
06 | TX | GRAND PRAIRIE, CITY OF | 48113CIND0 ** | 23-AUG-2001
06 | TX | HACKBERRY, TOWN OF | 48121CIND0 ** | 23-AUG-2001
06 | TX | HEBRON, TOWN OF | 48121C0567F | 23-AUG-2001
06 | TX | HEBRON, TOWN OF | 48121C0570F | 23-AUG-2001
06 | TX | HEBRON, TOWN OF | 48121C0586F | 23-AUG-2001
06 | TX | HEBRON, TOWN OF | 48121CIND0 ** | 23-AUG-2001
06 | TX | HICKORY CREEK, TOWN OF | 48121C0555F | 23-AUG-2001
06 | TX | HICKORY CREEK, TOWN OF | 48121CIND0 ** | 23-AUG-2001
06 | TX | HIGHLAND PARK, TOWN OF | 48113C0330J | 23-AUG-2001
06 | TX | HIGHLAND PARK, TOWN OF | 48113C0335J | 23-AUG-2001
06 | TX | HIGHLAND PARK, TOWN OF | 48113CIND0 ** | 23-AUG-2001
06 | TX | HIGHLAND VILLAGE, VILLAGE OF | 48121CIND0 ** | 23-AUG-2001
06 | TX | HUTCHINS, CITY OF | 48113C0515J | 23-AUG-2001
06 | TX | HUTCHINS, CITY OF | 48113C0520J | 23-AUG-2001
06 | TX | HUTCHINS, CITY OF | 48113C0655J | 23-AUG-2001
06 | TX | HUTCHINS, CITY OF | 48113CIND0 ** | 23-AUG-2001
06 | TX | IRVING, CITY OF | 48113C0135J | 23-AUG-2001
06 | TX | IRVING, CITY OF | 48113C0145J | 23-AUG-2001
06 | TX | IRVING, CITY OF | 48113C0155J | 23-AUG-2001
06 | TX | IRVING, CITY OF | 48113C0160J | 23-AUG-2001
06 | TX | IRVING, CITY OF | 48113C0165J | 23-AUG-2001
06 | TX | IRVING, CITY OF | 48113C0170J | 23-AUG-2001
06 | TX | IRVING, CITY OF | 48113C0285J | 23-AUG-2001
06 | TX | IRVING, CITY OF | 48113C0295J | 23-AUG-2001
06 | TX | IRVING, CITY OF | 48113C0305J | 23-AUG-2001
06 | TX | IRVING, CITY OF | 48113C0310J | 23-AUG-2001
06 | TX | IRVING, CITY OF | 48113C0315J | 23-AUG-2001
06 | TX | IRVING, CITY OF | 48113C0320J | 23-AUG-2001
06 | TX | IRVING, CITY OF | 48113CIND0 ** | 23-AUG-2001
06 | TX | JUSTIN, CITY OF | 48121CIND0 ** | 23-AUG-2001
06 | TX | KENDLETON, TOWN OF | 48157CIND0 ** | 07-NOV-2001
06 | TX | KINGSBRIDGE M.U.D. | 48157CIND0 ** | 07-NOV-2001
06 | TX | KRUGERVILLE, CITY OF | 48121CIND0 ** | 23-AUG-2001
06 | TX | KRUM, CITY OF | 48121CIND0 ** | 23-AUG-2001
06 | TX | LAKE DALLAS, CITY OF | 48121CIND0 ** | 23-AUG-2001
06 | TX | LAKEWOOD, VILLAGE OF | 48121CIND0 ** | 23-AUG-2001
06 | TX | LANCASTER, CITY OF | 48113C0490J | 23-AUG-2001
06 | TX | LANCASTER, CITY OF | 48113C0495J | 23-AUG-2001
06 | TX | LANCASTER, CITY OF | 48113C0630J | 23-AUG-2001
06 | TX | LANCASTER, CITY OF | 48113C0635J | 23-AUG-2001
06 | TX | LANCASTER, CITY OF | 48113C0640J | 23-AUG-2001
06 | TX | LANCASTER, CITY OF | 48113C0645J | 23-AUG-2001
06 | TX | LANCASTER, CITY OF | 48113C0655J | 23-AUG-2001
06 | TX | LANCASTER, CITY OF | 48113CIND0 ** | 23-AUG-2001
06 | TX | LEWISVILLE, CITY OF | 48121C0555F | 23-AUG-2001
06 | TX | LEWISVILLE, CITY OF | 48121C0558F | 23-AUG-2001
06 | TX | LEWISVILLE, CITY OF | 48121C0565F | 23-AUG-2001
06 | TX | LEWISVILLE, CITY OF | 48121C0567F | 23-AUG-2001
06 | TX | LEWISVILLE, CITY OF | 48121C0570F | 23-AUG-2001
06 | TX | LEWISVILLE, CITY OF | 48121C0705F | 23-AUG-2001
06 | TX | LEWISVILLE, CITY OF | 48121C0710F | 23-AUG-2001
06 | TX | LEWISVILLE, CITY OF | 48121CIND0 ** | 23-AUG-2001
06 | TX | LINCOLN PARK, TOWN OF | 48121CIND0 ** | 23-AUG-2001
06 | TX | LITTLE ELM, TOWN OF | 48121CIND0 ** | 23-AUG-2001
06 | TX | MARSHALL CREEK, TOWN OF | 48121CIND0 ** | 23-AUG-2001
06 | TX | MEADOWS PLACE, CITY OF | 48157CIND0 ** | 07-NOV-2001
06 | TX | MESQUITE, CITY OF | 48113C0360J | 23-AUG-2001
06 | TX | MESQUITE, CITY OF | 48113C0370J | 23-AUG-2001
06 | TX | MESQUITE, CITY OF | 48113C0380J | 23-AUG-2001
06 | TX | MESQUITE, CITY OF | 48113C0390J | 23-AUG-2001
06 | TX | MESQUITE, CITY OF | 48113C0395J | 23-AUG-2001
06 | TX | MESQUITE, CITY OF | 48113C0510J | 23-AUG-2001
06 | TX | MESQUITE, CITY OF | 48113C0530J | 23-AUG-2001
06 | TX | MESQUITE, CITY OF | 48113C0535J | 23-AUG-2001
06 | TX | MESQUITE, CITY OF | 48113C0545J | 23-AUG-2001
06 | TX | MESQUITE, CITY OF | 48113CIND0 ** | 23-AUG-2001
06 | TX | MISSION BEND M.U.D. #1 | 48157CIND0 ** | 07-NOV-2001
06 | TX | MISSOURI CITY, CITY OF | 48157CIND0 ** | 07-NOV-2001
06 | TX | NEEDVILLE, CITY OF | 48157CIND0 ** | 07-NOV-2001
06 | TX | NORTHLAKE, TOWN OF | 48121CIND0 ** | 23-AUG-2001
06 | TX | OAK POINT, CITY OF | 48121CIND0 ** | 23-AUG-2001
06 | TX | ORCHARD, CITY OF | 48157CIND0 ** | 07-NOV-2001
06 | TX | PECAN GROVE M.U.D. | 48157CIND0 ** | 07-NOV-2001
06 | TX | PILOT POINT, TOWN OF | 48121CIND0 ** | 23-AUG-2001
06 | TX | PLEAK, VILLAGE OF | 48157CIND0 ** | 07-NOV-2001
06 | TX | PONDER, CITY OF | 48121CIND0 ** | 23-AUG-2001
06 | TX | RICHARDSON, CITY OF | 48113C0045J | 23-AUG-2001
06 | TX | RICHARDSON, CITY OF | 48113C0065J | 23-AUG-2001
06 | TX | RICHARDSON, CITY OF | 48113C0070J | 23-AUG-2001
06 | TX | RICHARDSON, CITY OF | 48113C0090J | 23-AUG-2001
06 | TX | RICHARDSON, CITY OF | 48113C0185J | 23-AUG-2001
06 | TX | RICHARDSON, CITY OF | 48113C0205J | 23-AUG-2001
06 | TX | RICHARDSON, CITY OF | 48113C0210J | 23-AUG-2001
06 | TX | RICHARDSON, CITY OF | 48113C0215J | 23-AUG-2001
06 | TX | RICHARDSON, CITY OF | 48113C0220J | 23-AUG-2001
06 | TX | RICHARDSON, CITY OF | 48113C0230J | 23-AUG-2001
06 | TX | RICHARDSON, CITY OF | 48113CIND0 ** | 23-AUG-2001
06 | TX | RICHMOND, CITY OF | 48157CIND0 ** | 07-NOV-2001
06 | TX | ROANOKE, CITY OF | 48121CIND0 ** | 23-AUG-2001
06 | TX | ROSENBERG, CITY OF | 48157CIND0 ** | 07-NOV-2001
06 | TX | ROWLETT, CITY OF | 48113C0230J | 23-AUG-2001
06 | TX | ROWLETT, CITY OF | 48113C0235J | 23-AUG-2001
06 | TX | ROWLETT, CITY OF | 48113C0240J | 23-AUG-2001
06 | TX | ROWLETT, CITY OF | 48113C0245J | 23-AUG-2001
06 | TX | ROWLETT, CITY OF | 48113C0380J | 23-AUG-2001
06 | TX | ROWLETT, CITY OF | 48113C0385J | 23-AUG-2001
06 | TX | ROWLETT, CITY OF | 48113CIND0 ** | 23-AUG-2001
06 | TX | SACHSE, CITY OF | 48113C0090J | 23-AUG-2001
06 | TX | SACHSE, CITY OF | 48113C0230J | 23-AUG-2001
06 | TX | SACHSE, CITY OF | 48113C0235J | 23-AUG-2001
06 | TX | SACHSE, CITY OF | 48113CIND0 ** | 23-AUG-2001
06 | TX | SANGER, CITY OF | 48121CIND0 ** | 23-AUG-2001
06 | TX | SEAGOVILLE, CITY OF | 48113C0415J | 23-AUG-2001
06 | TX | SEAGOVILLE, CITY OF | 48113C0535J | 23-AUG-2001
06 | TX | SEAGOVILLE, CITY OF | 48113C0540J | 23-AUG-2001
06 | TX | SEAGOVILLE, CITY OF | 48113C0545J | 23-AUG-2001
06 | TX | SEAGOVILLE, CITY OF | 48113C0565J | 23-AUG-2001
06 | TX | SEAGOVILLE, CITY OF | 48113C0680J | 23-AUG-2001
06 | TX | SEAGOVILLE, CITY OF | 48113C0685J | 23-AUG-2001
06 | TX | SEAGOVILLE, CITY OF | 48113CIND0 ** | 23-AUG-2001
06 | TX | SHADY SHORES, CITY OF | 48121CIND0 ** | 23-AUG-2001
06 | TX | SIMONTON, VILLAGE OF | 48157CIND0 ** | 07-NOV-2001
06 | TX | STAFFORD, CITY OF | 48157CIND0 ** | 07-NOV-2001
06 | TX | SUGAR LAND, CITY OF | 48157CIND0 ** | 07-NOV-2001
06 | TX | SUNNYVALE, TOWN OF | 48113C0380J | 23-AUG-2001
06 | TX | SUNNYVALE, TOWN OF | 48113C0385J | 23-AUG-2001
06 | TX | SUNNYVALE, TOWN OF | 48113C0390J | 23-AUG-2001
06 | TX | SUNNYVALE, TOWN OF | 48113C0395J | 23-AUG-2001
06 | TX | SUNNYVALE, TOWN OF | 48113C0535J | 23-AUG-2001
06 | TX | SUNNYVALE, TOWN OF | 48113CIND0 ** | 23-AUG-2001
06 | TX | THE COLONY, CITY OF | 48121C0555F | 23-AUG-2001
06 | TX | THE COLONY, CITY OF | 48121C0558F | 23-AUG-2001
06 | TX | THE COLONY, CITY OF | 48121C0567F | 23-AUG-2001
06 | TX | THE COLONY, CITY OF | 48121C0586F | 23-AUG-2001
06 | TX | THE COLONY, CITY OF | 48121CIND0 ** | 23-AUG-2001
06 | TX | THOMPSONS, TOWN OF | 48157CIND0 ** | 07-NOV-2001
06 | TX | TROPHY CLUB, TOWN OF | 48121CIND0 ** | 23-AUG-2001
06 | TX | UNIVERSITY PARK, CITY OF | 48113C0330J | 23-AUG-2001
06 | TX | UNIVERSITY PARK, CITY OF | 48113C0335J | 23-AUG-2001
06 | TX | UNIVERSITY PARK, CITY OF | 48113CIND0 ** | 23-AUG-2001
06 | TX | VERNON, CITY OF | 4816520005B | 21-SEP-2001
06 | TX | WEST KEEGANS BAYOU IMPROVEMENT DISTRICT | 48157CIND0 ** | 07-NOV-2001
06 | TX | WHARTON COUNTY* | 4806520115D | 07-NOV-2001
06 | TX | WHARTON COUNTY* | 4806520125D | 07-NOV-2001
06 | TX | WHARTON COUNTY* | 4806520170D | 07-NOV-2001
06 | TX | WHARTON COUNTY* | 4806520175D | 07-NOV-2001
06 | TX | WHARTON COUNTY* | 4806520190D | 07-NOV-2001
06 | TX | WHARTON COUNTY* | 4806520200D | 07-NOV-2001
06 | TX | WHARTON COUNTY* | 4806520205D | 07-NOV-2001
06 | TX | WHARTON COUNTY* | 4806520215D | 07-NOV-2001
06 | TX | WHARTON COUNTY* | 4806520245D | 07-NOV-2001
06 | TX | WHARTON COUNTY* | 4806520250D | 07-NOV-2001
06 | TX | WHARTON COUNTY* | 4806520335D | 07-NOV-2001
06 | TX | WHARTON COUNTY* | 4806520350D | 07-NOV-2001
06 | TX | WHARTON COUNTY* | 480652IND0 ** | 07-NOV-2001
06 | TX | WILLOW FORK DRAINAGE DISTRICT | 48157CIND0 ** | 07-NOV-2001
06 | TX | WILMER, CITY OF | 48113C0655J | 23-AUG-2001
06 | TX | WILMER, CITY OF | 48113C0660J | 23-AUG-2001
06 | TX | WILMER, CITY OF | 48113C0665J | 23-AUG-2001
06 | TX | WILMER, CITY OF | 48113C0670J | 23-AUG-2001
06 | TX | WILMER, CITY OF | 48113C0680J | 23-AUG-2001
06 | TX | WILMER, CITY OF | 48113C0690J | 23-AUG-2001
06 | TX | WILMER, CITY OF | 48113CIND0 ** | 23-AUG-2001
07 | IA | CERRO GORDO COUNTY * | 1908530001B*** | 01-DEC-2001
07 | IA | CERRO GORDO COUNTY * | 1908530002B*** | 01-DEC-2001
07 | IA | CERRO GORDO COUNTY * | 1908530003B*** | 01-DEC-2001
07 | IA | CERRO GORDO COUNTY * | 1908530004B*** | 01-DEC-2001
07 | IA | CERRO GORDO COUNTY * | 1908530005B*** | 01-DEC-2001
07 | IA | CERRO GORDO COUNTY * | 1908530006B*** | 01-DEC-2001
07 | IA | CERRO GORDO COUNTY * | 1908539999B*** | 01-DEC-2001
07 | IA | CERRO GORDO COUNTY * | 190853IND0 *** | 01-DEC-2001
07 | IA | CHURDAN, CITY OF | 1903950005B | 07-NOV-2001
07 | IA | IMOGENE, CITY OF | 190391 A*** | 01-DEC-2001
07 | IA | IMOGENE, CITY OF | 1903919999A*** | 01-DEC-2001
07 | IA | MARION COUNTY * | 190889 B | 07-NOV-2001
07 | IA | SHELL ROCK, CITY OF | 1903380001B | 05-JUL-2001
07 | IA | WALCOTT, CITY OF | 1906750005B | 07-NOV-2001
07 | KS | ANDOVER, CITY OF | 2003830005C | 19-JUL-2001
07 | KS | BALDWIN CITY, CITY OF | 20045C0127C | 07-NOV-2001
07 | KS | BALDWIN CITY, CITY OF | 20045C0130C | 07-NOV-2001
07 | KS | BALDWIN CITY, CITY OF | 20045C0135C | 07-NOV-2001
07 | KS | BALDWIN CITY, CITY OF | 20045CIND0 ** | 07-NOV-2001
07 | KS | CHANUTE, CITY OF | 2002410005C | 05-JUL-2001
07 | KS | DOUGLAS COUNTY * | 20045C0002C | 07-NOV-2001
07 | KS | DOUGLAS COUNTY * | 20045C0005C | 07-NOV-2001
07 | KS | DOUGLAS COUNTY * | 20045C0006C | 07-NOV-2001
07 | KS | DOUGLAS COUNTY * | 20045C0008C | 07-NOV-2001
07 | KS | DOUGLAS COUNTY * | 20045C0010C | 07-NOV-2001
07 | KS | DOUGLAS COUNTY * | 20045C0015C | 07-NOV-2001
07 | KS | DOUGLAS COUNTY * | 20045C0017C | 07-NOV-2001
07 | KS | DOUGLAS COUNTY * | 20045C0019C | 07-NOV-2001
07 | KS | DOUGLAS COUNTY * | 20045C0020C | 07-NOV-2001
07 | KS | DOUGLAS COUNTY * | 20045C0030C | 07-NOV-2001
07 | KS | DOUGLAS COUNTY * | 20045C0036C | 07-NOV-2001
07 | KS | DOUGLAS COUNTY * | 20045C0037C | 07-NOV-2001
07 | KS | DOUGLAS COUNTY * | 20045C0038C | 07-NOV-2001
07 | KS | DOUGLAS COUNTY * | 20045C0039C | 07-NOV-2001
07 | KS | DOUGLAS COUNTY * | 20045C0044C | 07-NOV-2001
07 | KS | DOUGLAS COUNTY * | 20045C0045C | 07-NOV-2001
07 | KS | DOUGLAS COUNTY * | 20045C0055C | 07-NOV-2001
07 | KS | DOUGLAS COUNTY * | 20045C0060C | 07-NOV-2001
07 | KS | DOUGLAS COUNTY * | 20045C0065C | 07-NOV-2001
07 | KS | DOUGLAS COUNTY * | 20045C0070C | 07-NOV-2001
07 | KS | DOUGLAS COUNTY * | 20045C0076C | 07-NOV-2001
07 | KS | DOUGLAS COUNTY * | 20045C0080C | 07-NOV-2001
07 | KS | DOUGLAS COUNTY * | 20045C0082C | 07-NOV-2001
07 | KS | DOUGLAS COUNTY * | 20045C0085C | 07-NOV-2001
07 | KS | DOUGLAS COUNTY * | 20045C0090C | 07-NOV-2001
07 | KS | DOUGLAS COUNTY * | 20045C0095C | 07-NOV-2001
07 | KS | DOUGLAS COUNTY * | 20045C0125C | 07-NOV-2001
07 | KS | DOUGLAS COUNTY * | 20045C0127C | 07-NOV-2001
07 | KS | DOUGLAS COUNTY * | 20045C0130C | 07-NOV-2001
07 | KS | DOUGLAS COUNTY * | 20045C0135C | 07-NOV-2001
07 | KS | DOUGLAS COUNTY * | 20045CIND0 ** | 07-NOV-2001
07 | KS | EUDORA, CITY OF | 20045C0044C | 07-NOV-2001
07 | KS | EUDORA, CITY OF | 20045C0045C | 07-NOV-2001
07 | KS | EUDORA, CITY OF | 20045C0082C | 07-NOV-2001
07 | KS | EUDORA, CITY OF | 20045C0085C | 07-NOV-2001
07 | KS | EUDORA, CITY OF | 20045CIND0 ** | 07-NOV-2001
07 | KS | LAWRENCE, CITY OF | 20045C0010C | 07-NOV-2001
07 | KS | LAWRENCE, CITY OF | 20045C0017C | 07-NOV-2001
07 | KS | LAWRENCE, CITY OF | 20045C0019C | 07-NOV-2001
07 | KS | LAWRENCE, CITY OF | 20045C0030C | 07-NOV-2001
07 | KS | LAWRENCE, CITY OF | 20045C0036C | 07-NOV-2001
07 | KS | LAWRENCE, CITY OF | 20045C0037C | 07-NOV-2001
07 | KS | LAWRENCE, CITY OF | 20045C0038C | 07-NOV-2001
07 | KS | LAWRENCE, CITY OF | 20045C0039C | 07-NOV-2001
07 | KS | LAWRENCE, CITY OF | 20045C0060C | 07-NOV-2001
07 | KS | LAWRENCE, CITY OF | 20045C0076C | 07-NOV-2001
07 | KS | LAWRENCE, CITY OF | 20045C0080C | 07-NOV-2001
07 | KS | LAWRENCE, CITY OF | 20045CIND0 ** | 07-NOV-2001
07 | KS | LECOMPTON, CITY OF | 20045C0002C | 07-NOV-2001
07 | KS | LECOMPTON, CITY OF | 20045C0005C | 07-NOV-2001
07 | KS | LECOMPTON, CITY OF | 20045C0006C | 07-NOV-2001
07 | KS | LECOMPTON, CITY OF | 20045C0008C | 07-NOV-2001
07 | KS | LECOMPTON, CITY OF | 20045CIND0 ** | 07-NOV-2001
07 | MO | IRON MOUNTAIN LAKE, CITY OF | 2908970005B | 07-NOV-2001
07 | MO | KNOB NOSTER, CITY OF | 2907240005B | 07-NOV-2001
07 | MO | LEXINGTON, CITY OF | 2907070005B | 07-NOV-2001
07 | MO | LEXINGTON, CITY OF | 2907070005B | 07-NOV-2001
07 | MO | MORGAN COUNTY* | 2902440025B*** | 01-DEC-2001
07 | MO | MORGAN COUNTY* | 2902440050B*** | 01-DEC-2001
07 | MO | MORGAN COUNTY* | 2902440075B*** | 01-DEC-2001
07 | MO | MORGAN COUNTY* | 2902440100B*** | 01-DEC-2001
07 | MO | MORGAN COUNTY* | 2902440125B*** | 01-DEC-2001
07 | MO | MORGAN COUNTY* | 2902440150B*** | 01-DEC-2001
07 | MO | MORGAN COUNTY* | 2902440175B*** | 01-DEC-2001
07 | MO | MORGAN COUNTY* | 2902440200B*** | 01-DEC-2001
07 | MO | MORGAN COUNTY* | 2902449999B*** | 01-DEC-2001
07 | MO | MORGAN COUNTY* | 290244IND0 *** | 01-DEC-2001
07 | MO | WAYNESVILLE, CITY OF | 2903000001B | 20-DEC-2001
07 | MO | WAYNESVILLE, CITY OF | 2903000002B | 20-DEC-2001
07 | MO | WAYNESVILLE, CITY OF | 290300IND0 ** | 20-DEC-2001
07 | NE | BENEDICT, VILLAGE OF | 310250 A*** | 01-DEC-2001
07 | NE | BENEDICT, VILLAGE OF | 3102509999A*** | 01-DEC-2001
07 | NE | BENNET, VILLAGE OF | 31109C0459E | 21-SEP-2001
07 | NE | BENNET, VILLAGE OF | 31109C0467E | 21-SEP-2001
07 | NE | BENNET, VILLAGE OF | 31109C0478E | 21-SEP-2001
07 | NE | BENNET, VILLAGE OF | 31109C0486E | 21-SEP-2001
07 | NE | BENNET, VILLAGE OF | 31109CIND0 ** | 21-SEP-2001
07 | NE | DAVEY, VILLAGE OF | 31109C0070E | 21-SEP-2001
07 | NE | DAVEY, VILLAGE OF | 31109C0180E | 21-SEP-2001
07 | NE | DAVEY, VILLAGE OF | 31109C0185E | 21-SEP-2001
07 | NE | DAVEY, VILLAGE OF | 31109CIND0 ** | 21-SEP-2001
07 | NE | DUNCAN, VILLAGE OF | 310272 A*** | 01-OCT-2001
07 | NE | DUNCAN, VILLAGE OF | 3102729999 *** | 01-OCT-2001
07 | NE | FIRTH, VILLAGE OF | 31109C0575E | 21-SEP-2001
07 | NE | FIRTH, VILLAGE OF | 31109C0586E | 21-SEP-2001
07 | NE | FIRTH, VILLAGE OF | 31109C0588E | 21-SEP-2001
07 | NE | FIRTH, VILLAGE OF | 31109C0600E | 21-SEP-2001
07 | NE | FIRTH, VILLAGE OF | 31109CIND0 ** | 21-SEP-2001
07 | NE | HALLAM, VILLAGE OF | 31109C0550E | 21-SEP-2001
07 | NE | HALLAM, VILLAGE OF | 31109CIND0 ** | 21-SEP-2001
07 | NE | HICKMAN, VILLAGE OF | 31109C0444E | 21-SEP-2001
07 | NE | HICKMAN, VILLAGE OF | 31109C0445E** | 21-SEP-2001
07 | NE | HICKMAN, VILLAGE OF | 31109C0445E | 21-SEP-2001
07 | NE | HICKMAN, VILLAGE OF | 31109C0463E | 21-SEP-2001
07 | NE | HICKMAN, VILLAGE OF | 31109C0557E | 21-SEP-2001
07 | NE | HICKMAN, VILLAGE OF | 31109C0575E | 21-SEP-2001
07 | NE | HICKMAN, VILLAGE OF | 31109C0576E | 21-SEP-2001
07 | NE | HICKMAN, VILLAGE OF | 31109CIND0 ** | 21-SEP-2001
07 | NE | LANCASTER COUNTY * | 31109C0020E | 21-SEP-2001
07 | NE | LANCASTER COUNTY * | 31109C0040E | 21-SEP-2001
07 | NE | LANCASTER COUNTY * | 31109C0045E | 21-SEP-2001
07 | NE | LANCASTER COUNTY * | 31109C0065E | 21-SEP-2001
07 | NE | LANCASTER COUNTY * | 31109C0070E | 21-SEP-2001
07 | NE | LANCASTER COUNTY * | 31109C0090E | 21-SEP-2001
07 | NE | LANCASTER COUNTY * | 31109C0095E | 21-SEP-2001
07 | NE | LANCASTER COUNTY * | 31109C0115E | 21-SEP-2001
07 | NE | LANCASTER COUNTY * | 31109C0135E | 21-SEP-2001
07 | NE | LANCASTER COUNTY * | 31109C0145E | 21-SEP-2001
07 | NE | LANCASTER COUNTY * | 31109C0155E | 21-SEP-2001
07 | NE | LANCASTER COUNTY * | 31109C0156E | 21-SEP-2001
07 | NE | LANCASTER COUNTY * | 31109C0157E | 21-SEP-2001
07 | NE | LANCASTER COUNTY * | 31109C0158E | 21-SEP-2001
07 | NE | LANCASTER COUNTY * | 31109C0159E | 21-SEP-2001
07 | NE | LANCASTER COUNTY * | 31109C0165E | 21-SEP-2001
07 | NE | LANCASTER COUNTY * | 31109C0170E | 21-SEP-2001
07 | NE | LANCASTER COUNTY * | 31109C0180E | 21-SEP-2001
07 | NE | LANCASTER COUNTY * | 31109C0185E | 21-SEP-2001
07 | NE | LANCASTER COUNTY * | 31109C0190E | 21-SEP-2001
07 | NE | LANCASTER COUNTY * | 31109C0195E | 21-SEP-2001
07 | NE | LANCASTER COUNTY * | 31109C0205E | 21-SEP-2001
07 | NE | LANCASTER COUNTY * | 31109C0210E | 21-SEP-2001
07 | NE | LANCASTER COUNTY * | 31109C0215E | 21-SEP-2001
07 | NE | LANCASTER COUNTY * | 31109C0216E | 21-SEP-2001
07 | NE | LANCASTER COUNTY * | 31109C0217E | 21-SEP-2001
07 | NE | LANCASTER COUNTY * | 31109C0218E | 21-SEP-2001
07 | NE | LANCASTER COUNTY * | 31109C0219E | 21-SEP-2001
07 | NE | LANCASTER COUNTY * | 31109C0230E | 21-SEP-2001
07 | NE | LANCASTER COUNTY * | 31109C0240E | 21-SEP-2001
07 | NE | LANCASTER COUNTY * | 31109C0260E | 21-SEP-2001
07 | NE | LANCASTER COUNTY * | 31109C0270E | 21-SEP-2001
07 | NE | LANCASTER COUNTY * | 31109C0280E | 21-SEP-2001
07 | NE | LANCASTER COUNTY * | 31109C0285E** | 21-SEP-2001
07 | NE | LANCASTER COUNTY * | 31109C0285E | 21-SEP-2001
07 | NE | LANCASTER COUNTY * | 31109C0290E | 21-SEP-2001
07 | NE | LANCASTER COUNTY * | 31109C0295E | 21-SEP-2001
07 | NE | LANCASTER COUNTY * | 31109C0305E** | 21-SEP-2001
07 | NE | LANCASTER COUNTY * | 31109C0305E | 21-SEP-2001
07 | NE | LANCASTER COUNTY * | 31109C0310E | 21-SEP-2001
07 | NE | LANCASTER COUNTY * | 31109C0315E | 21-SEP-2001
07 | NE | LANCASTER COUNTY * | 31109C0316E | 21-SEP-2001
07 | NE | LANCASTER COUNTY * | 31109C0317E | 21-SEP-2001
07 | NE | LANCASTER COUNTY * | 31109C0318E | 21-SEP-2001
07 | NE | LANCASTER COUNTY * | 31109C0319E | 21-SEP-2001
07 | NE | LANCASTER COUNTY * | 31109C0330E | 21-SEP-2001
07 | NE | LANCASTER COUNTY * | 31109C0335E | 21-SEP-2001
07 | NE | LANCASTER COUNTY * | 31109C0338E | 21-SEP-2001
07 | NE | LANCASTER COUNTY * | 31109C0340E** | 21-SEP-2001
07 | NE | LANCASTER COUNTY * | 31109C0345E | 21-SEP-2001
07 | NE | LANCASTER COUNTY * | 31109C0355E | 21-SEP-2001
07 | NE | LANCASTER COUNTY * | 31109C0365E | 21-SEP-2001
07 | NE | LANCASTER COUNTY * | 31109C0385E | 21-SEP-2001
07 | NE | LANCASTER COUNTY * | 31109C0395E | 21-SEP-2001
07 | NE | LANCASTER COUNTY * | 31109C0405E | 21-SEP-2001
07 | NE | LANCASTER COUNTY * | 31109C0410E | 21-SEP-2001
07 | NE | LANCASTER COUNTY * | 31109C0415E | 21-SEP-2001
07 | NE | LANCASTER COUNTY * | 31109C0420E | 21-SEP-2001
07 | NE | LANCASTER COUNTY * | 31109C0430E | 21-SEP-2001
07 | NE | LANCASTER COUNTY * | 31109C0435E | 21-SEP-2001
07 | NE | LANCASTER COUNTY * | 31109C0440E** | 21-SEP-2001
07 | NE | LANCASTER COUNTY * | 31109C0440E | 21-SEP-2001
07 | NE | LANCASTER COUNTY * | 31109C0444E | 21-SEP-2001
07 | NE | LANCASTER COUNTY * | 31109C0445E** | 21-SEP-2001
07 | NE | LANCASTER COUNTY * | 31109C0445E | 21-SEP-2001
07 | NE | LANCASTER COUNTY * | 31109C0455E | 21-SEP-2001
07 | NE | LANCASTER COUNTY * | 31109C0459E | 21-SEP-2001
07 | NE | LANCASTER COUNTY * | 31109C0460E | 21-SEP-2001
07 | NE | LANCASTER COUNTY * | 31109C0463E | 21-SEP-2001
07 | NE | LANCASTER COUNTY * | 31109C0465E | 21-SEP-2001
07 | NE | LANCASTER COUNTY * | 31109C0467E | 21-SEP-2001
07 | NE | LANCASTER COUNTY * | 31109C0470E | 21-SEP-2001
07 | NE | LANCASTER COUNTY * | 31109C0478E | 21-SEP-2001
07 | NE | LANCASTER COUNTY * | 31109C0480E | 21-SEP-2001
07 | NE | LANCASTER COUNTY * | 31109C0486E | 21-SEP-2001
07 | NE | LANCASTER COUNTY * | 31109C0490E | 21-SEP-2001
07 | NE | LANCASTER COUNTY * | 31109C0525E | 21-SEP-2001
07 | NE | LANCASTER COUNTY * | 31109C0535E | 21-SEP-2001
07 | NE | LANCASTER COUNTY * | 31109C0550E | 21-SEP-2001
07 | NE | LANCASTER COUNTY * | 31109C0555E | 21-SEP-2001
07 | NE | LANCASTER COUNTY * | 31109C0557E | 21-SEP-2001
07 | NE | LANCASTER COUNTY * | 31109C0575E | 21-SEP-2001
07 | NE | LANCASTER COUNTY * | 31109C0576E | 21-SEP-2001
07 | NE | LANCASTER COUNTY * | 31109C0586E | 21-SEP-2001
07 | NE | LANCASTER COUNTY * | 31109C0588E | 21-SEP-2001
07 | NE | LANCASTER COUNTY * | 31109C0600E | 21-SEP-2001
07 | NE | LANCASTER COUNTY * | 31109C0625E | 21-SEP-2001
07 | NE | LANCASTER COUNTY * | 31109CIND0 ** | 21-SEP-2001
07 | NE | LINCOLN, CITY OF | 31109C0165E | 21-SEP-2001
07 | NE | LINCOLN, CITY OF | 31109C0170E | 21-SEP-2001
07 | NE | LINCOLN, CITY OF | 31109C0190E | 21-SEP-2001
07 | NE | LINCOLN, CITY OF | 31109C0195E | 21-SEP-2001
07 | NE | LINCOLN, CITY OF | 31109C0215E | 21-SEP-2001
07 | NE | LINCOLN, CITY OF | 31109C0216E | 21-SEP-2001
07 | NE | LINCOLN, CITY OF | 31109C0218E | 21-SEP-2001
07 | NE | LINCOLN, CITY OF | 31109C0280E | 21-SEP-2001
07 | NE | LINCOLN, CITY OF | 31109C0285E** | 21-SEP-2001
07 | NE | LINCOLN, CITY OF | 31109C0285E | 21-SEP-2001
07 | NE | LINCOLN, CITY OF | 31109C0290E | 21-SEP-2001
07 | NE | LINCOLN, CITY OF | 31109C0295E | 21-SEP-2001
07 | NE | LINCOLN, CITY OF | 31109C0305E** | 21-SEP-2001
07 | NE | LINCOLN, CITY OF | 31109C0305E | 21-SEP-2001
07 | NE | LINCOLN, CITY OF | 31109C0310E | 21-SEP-2001
07 | NE | LINCOLN, CITY OF | 31109C0315E | 21-SEP-2001
07 | NE | LINCOLN, CITY OF | 31109C0316E | 21-SEP-2001
07 | NE | LINCOLN, CITY OF | 31109C0317E | 21-SEP-2001
07 | NE | LINCOLN, CITY OF | 31109C0318E | 21-SEP-2001
07 | NE | LINCOLN, CITY OF | 31109C0319E | 21-SEP-2001
07 | NE | LINCOLN, CITY OF | 31109C0330E | 21-SEP-2001
07 | NE | LINCOLN, CITY OF | 31109C0335E | 21-SEP-2001
07 | NE | LINCOLN, CITY OF | 31109C0338E | 21-SEP-2001
07 | NE | LINCOLN, CITY OF | 31109C0340E** | 21-SEP-2001
07 | NE | LINCOLN, CITY OF | 31109C0345E | 21-SEP-2001
07 | NE | LINCOLN, CITY OF | 31109C0410E | 21-SEP-2001
07 | NE | LINCOLN, CITY OF | 31109C0430E | 21-SEP-2001
07 | NE | LINCOLN, CITY OF | 31109C0435E | 21-SEP-2001
07 | NE | LINCOLN, CITY OF | 31109C0440E** | 21-SEP-2001
07 | NE | LINCOLN, CITY OF | 31109C0440E | 21-SEP-2001
07 | NE | LINCOLN, CITY OF | 31109C0445E** | 21-SEP-2001
07 | NE | LINCOLN, CITY OF | 31109C0445E | 21-SEP-2001
07 | NE | LINCOLN, CITY OF | 31109C0455E | 21-SEP-2001
07 | NE | LINCOLN, CITY OF | 31109C0460E | 21-SEP-2001
07 | NE | LINCOLN, CITY OF | 31109CIND0 ** | 21-SEP-2001
07 | NE | MALCOLM, VILLAGE OF | 31109C0145E | 21-SEP-2001
07 | NE | MALCOLM, VILLAGE OF | 31109C0165E | 21-SEP-2001
07 | NE | MALCOLM, VILLAGE OF | 31109CIND0 ** | 21-SEP-2001
07 | NE | PANAMA, VILLAGE OF | 31109C0600E | 21-SEP-2001
07 | NE | PANAMA, VILLAGE OF | 31109C0625E | 21-SEP-2001
07 | NE | PANAMA, VILLAGE OF | 31109CIND0 ** | 21-SEP-2001
07 | NE | RAYMOND, VILLAGE OF | 31109C0156E | 21-SEP-2001
07 | NE | RAYMOND, VILLAGE OF | 31109C0157E | 21-SEP-2001
07 | NE | RAYMOND, VILLAGE OF | 31109C0158E | 21-SEP-2001
07 | NE | RAYMOND, VILLAGE OF | 31109C0159E | 21-SEP-2001
07 | NE | RAYMOND, VILLAGE OF | 31109CIND0 ** | 21-SEP-2001
07 | NE | ROCA, VILLAGE OF | 31109C0444E | 21-SEP-2001
07 | NE | ROCA, VILLAGE OF | 31109C0445E** | 21-SEP-2001
07 | NE | ROCA, VILLAGE OF | 31109C0445E | 21-SEP-2001
07 | NE | ROCA, VILLAGE OF | 31109CIND0 ** | 21-SEP-2001
07 | NE | SPRAGUE, VILLAGE OF | 31109C0420E | 21-SEP-2001
07 | NE | SPRAGUE, VILLAGE OF | 31109C0440E** | 21-SEP-2001
07 | NE | SPRAGUE, VILLAGE OF | 31109C0440E | 21-SEP-2001
07 | NE | SPRAGUE, VILLAGE OF | 31109C0535E | 21-SEP-2001
07 | NE | SPRAGUE, VILLAGE OF | 31109C0555E | 21-SEP-2001
07 | NE | SPRAGUE, VILLAGE OF | 31109CIND0 ** | 21-SEP-2001
07 | NE | WAVERLY, CITY OF | 31109C0216E | 21-SEP-2001
07 | NE | WAVERLY, CITY OF | 31109C0217E | 21-SEP-2001
07 | NE | WAVERLY, CITY OF | 31109C0218E | 21-SEP-2001
07 | NE | WAVERLY, CITY OF | 31109C0219E | 21-SEP-2001
07 | NE | WAVERLY, CITY OF | 31109C0240E | 21-SEP-2001
07 | NE | WAVERLY, CITY OF | 31109CIND0 ** | 21-SEP-2001
07 | NE | WILSONVILLE, VILLAGE OF | 3103350005B | 07-NOV-2001
08 | CO | SILVERTHORNE, TOWN OF | 0802010012B | 09-AUG-2001
08 | CO | SILVERTHORNE, TOWN OF | 0802010013B | 09-AUG-2001
08 | CO | SILVERTHORNE, TOWN OF | 0802010014B | 09-AUG-2001
08 | CO | SILVERTHORNE, TOWN OF | 0802010018B | 09-AUG-2001
08 | CO | SILVERTHORNE, TOWN OF | 080201IND0 ** | 09-AUG-2001
08 | CO | SUMMIT COUNTY * | 0802900106C | 09-AUG-2001
08 | CO | SUMMIT COUNTY * | 0802900107C | 09-AUG-2001
08 | CO | SUMMIT COUNTY * | 0802900108C | 09-AUG-2001
08 | CO | SUMMIT COUNTY * | 0802900109C | 09-AUG-2001
08 | CO | SUMMIT COUNTY * | 0802900117D | 09-AUG-2001
08 | CO | SUMMIT COUNTY * | 0802900184D | 09-AUG-2001
08 | CO | SUMMIT COUNTY * | 0802900192D | 09-AUG-2001
08 | CO | SUMMIT COUNTY * | 0802900195D | 09-AUG-2001
08 | CO | SUMMIT COUNTY * | 0802900211D | 09-AUG-2001
08 | CO | SUMMIT COUNTY * | 080290IND0 ** | 09-AUG-2001
08 | SD | ANDOVER, TOWN OF | 46037CIND0 ** | 06-DEC-2001
08 | SD | BUTLER, TOWN OF | 46037CIND0 ** | 06-DEC-2001
08 | SD | DAY COUNTY * | 46037C0275A | 06-DEC-2001
08 | SD | DAY COUNTY * | 46037C0300A | 06-DEC-2001
08 | SD | DAY COUNTY * | 46037C0325A | 06-DEC-2001
08 | SD | DAY COUNTY * | 46037C0450A | 06-DEC-2001
08 | SD | DAY COUNTY * | 46037C0475A | 06-DEC-2001
08 | SD | DAY COUNTY * | 46037C0500A | 06-DEC-2001
08 | SD | DAY COUNTY * | 46037C0650A | 06-DEC-2001
08 | SD | DAY COUNTY * | 46037C0675A | 06-DEC-2001
08 | SD | DAY COUNTY * | 46037C0700A | 06-DEC-2001
08 | SD | DAY COUNTY * | 46037CIND0 ** | 06-DEC-2001
08 | SD | GRENVILLE, TOWN OF | 46037C0300A | 06-DEC-2001
08 | SD | GRENVILLE, TOWN OF | 46037CIND0 ** | 06-DEC-2001
08 | SD | LILY, TOWN OF | 46037CIND0 ** | 06-DEC-2001
08 | SD | PIERPONT, TOWN OF | 46037CIND0 ** | 06-DEC-2001
08 | SD | ROSLYN, TOWN OF | 46037C0300A | 06-DEC-2001
08 | SD | ROSLYN, TOWN OF | 46037CIND0 ** | 06-DEC-2001
08 | SD | WAUBAY, CITY OF | 46037C0500A | 06-DEC-2001
08 | SD | WAUBAY, CITY OF | 46037CIND0 ** | 06-DEC-2001
08 | SD | WEBSTER, CITY OF | 46037C0450A | 06-DEC-2001
08 | SD | WEBSTER, CITY OF | 46037CIND0 ** | 06-DEC-2001
08 | UT | ALTA, TOWN OF | 49035C0500E | 21-SEP-2001
08 | UT | ALTA, TOWN OF | 49035C0525E | 21-SEP-2001
08 | UT | ALTA, TOWN OF | 49035CIND0 ** | 21-SEP-2001
08 | UT | BLUFFDALE, CITY OF | 49035C0420E | 21-SEP-2001
08 | UT | BLUFFDALE, CITY OF | 49035C0440E | 21-SEP-2001
08 | UT | BLUFFDALE, CITY OF | 49035C0443E | 21-SEP-2001
08 | UT | BLUFFDALE, CITY OF | 49035C0575E | 21-SEP-2001
08 | UT | BLUFFDALE, CITY OF | 49035C0577E | 21-SEP-2001
08 | UT | BLUFFDALE, CITY OF | 49035C0579E | 21-SEP-2001
08 | UT | BLUFFDALE, CITY OF | 49035C0581E | 21-SEP-2001
08 | UT | BLUFFDALE, CITY OF | 49035C0583E | 21-SEP-2001
08 | UT | BLUFFDALE, CITY OF | 49035CIND0 ** | 21-SEP-2001
08 | UT | DRAPER, CITY OF | 49035C0441E | 21-SEP-2001
08 | UT | DRAPER, CITY OF | 49035C0442E | 21-SEP-2001
08 | UT | DRAPER, CITY OF | 49035C0443E | 21-SEP-2001
08 | UT | DRAPER, CITY OF | 49035C0444E | 21-SEP-2001
08 | UT | DRAPER, CITY OF | 49035C0461E | 21-SEP-2001
08 | UT | DRAPER, CITY OF | 49035C0462E | 21-SEP-2001
08 | UT | DRAPER, CITY OF | 49035C0463E | 21-SEP-2001
08 | UT | DRAPER, CITY OF | 49035C0464E | 21-SEP-2001
08 | UT | DRAPER, CITY OF | 49035C0466E | 21-SEP-2001
08 | UT | DRAPER, CITY OF | 49035C0581E | 21-SEP-2001
08 | UT | DRAPER, CITY OF | 49035C0583E | 21-SEP-2001
08 | UT | DRAPER, CITY OF | 49035CIND0 ** | 21-SEP-2001
08 | UT | HERRIMAN, TOWN OF | 49035C0420E | 21-SEP-2001
08 | UT | HERRIMAN, TOWN OF | 49035C0440E | 21-SEP-2001
08 | UT | HERRIMAN, TOWN OF | 49035C0575E | 21-SEP-2001
08 | UT | HERRIMAN, TOWN OF | 49035CIND0 ** | 21-SEP-2001
08 | UT | HOLLADAY, CITY OF | 49035C0312E | 21-SEP-2001
08 | UT | HOLLADAY, CITY OF | 49035C0314E | 21-SEP-2001
08 | UT | HOLLADAY, CITY OF | 49035C0316E | 21-SEP-2001
08 | UT | HOLLADAY, CITY OF | 49035C0318E | 21-SEP-2001
08 | UT | HOLLADAY, CITY OF | 49035CIND0 ** | 21-SEP-2001
08 | UT | MIDVALE, CITY OF | 49035C0293E | 21-SEP-2001
08 | UT | MIDVALE, CITY OF | 49035C0294E | 21-SEP-2001
08 | UT | MIDVALE, CITY OF | 49035C0431E | 21-SEP-2001
08 | UT | MIDVALE, CITY OF | 49035CIND0 ** | 21-SEP-2001
08 | UT | MURRAY, CITY OF | 49035C0291E | 21-SEP-2001
08 | UT | MURRAY, CITY OF | 49035C0292E | 21-SEP-2001
08 | UT | MURRAY, CITY OF | 49035C0293E | 21-SEP-2001
08 | UT | MURRAY, CITY OF | 49035C0294E | 21-SEP-2001
08 | UT | MURRAY, CITY OF | 49035C0311E | 21-SEP-2001
08 | UT | MURRAY, CITY OF | 49035C0313E | 21-SEP-2001
08 | UT | MURRAY, CITY OF | 49035CIND0 ** | 21-SEP-2001
08 | UT | RIVERTON, CITY OF | 49035C0440E | 21-SEP-2001
08 | UT | RIVERTON, CITY OF | 49035C0441E | 21-SEP-2001
08 | UT | RIVERTON, CITY OF | 49035C0443E | 21-SEP-2001
08 | UT | RIVERTON, CITY OF | 49035C0577E | 21-SEP-2001
08 | UT | RIVERTON, CITY OF | 49035CIND0 ** | 21-SEP-2001
08 | UT | SALT LAKE CITY, CITY OF | 49035C0120E | 21-SEP-2001
08 | UT | SALT LAKE CITY, CITY OF | 49035C0125E | 21-SEP-2001
08 | UT | SALT LAKE CITY, CITY OF | 49035C0129E | 21-SEP-2001
08 | UT | SALT LAKE CITY, CITY OF | 49035C0133E | 21-SEP-2001
08 | UT | SALT LAKE CITY, CITY OF | 49035C0137E | 21-SEP-2001
08 | UT | SALT LAKE CITY, CITY OF | 49035C0139E | 21-SEP-2001
08 | UT | SALT LAKE CITY, CITY OF | 49035C0140E | 21-SEP-2001
08 | UT | SALT LAKE CITY, CITY OF | 49035C0141E | 21-SEP-2001
08 | UT | SALT LAKE CITY, CITY OF | 49035C0142E | 21-SEP-2001
08 | UT | SALT LAKE CITY, CITY OF | 49035C0143E | 21-SEP-2001
08 | UT | SALT LAKE CITY, CITY OF | 49035C0144E | 21-SEP-2001
08 | UT | SALT LAKE CITY, CITY OF | 49035C0150E | 21-SEP-2001
08 | UT | SALT LAKE CITY, CITY OF | 49035C0154E | 21-SEP-2001
08 | UT | SALT LAKE CITY, CITY OF | 49035C0158E | 21-SEP-2001
08 | UT | SALT LAKE CITY, CITY OF | 49035C0161E | 21-SEP-2001
08 | UT | SALT LAKE CITY, CITY OF | 49035C0162E | 21-SEP-2001
08 | UT | SALT LAKE CITY, CITY OF | 49035C0164E | 21-SEP-2001
08 | UT | SALT LAKE CITY, CITY OF | 49035C0168E | 21-SEP-2001
08 | UT | SALT LAKE CITY, CITY OF | 49035C0275E | 21-SEP-2001
08 | UT | SALT LAKE CITY, CITY OF | 49035C0280E | 21-SEP-2001
08 | UT | SALT LAKE CITY, CITY OF | 49035C0281E | 21-SEP-2001
08 | UT | SALT LAKE CITY, CITY OF | 49035C0282E | 21-SEP-2001
08 | UT | SALT LAKE CITY, CITY OF | 49035C0284E | 21-SEP-2001
08 | UT | SALT LAKE CITY, CITY OF | 49035C0301E | 21-SEP-2001
08 | UT | SALT LAKE CITY, CITY OF | 49035C0302E | 21-SEP-2001
08 | UT | SALT LAKE CITY, CITY OF | 49035C0303E | 21-SEP-2001
08 | UT | SALT LAKE CITY, CITY OF | 49035C0304E | 21-SEP-2001
08 | UT | SALT LAKE CITY, CITY OF | 49035C0306E | 21-SEP-2001
08 | UT | SALT LAKE CITY, CITY OF | 49035C0308E | 21-SEP-2001
08 | UT | SALT LAKE CITY, CITY OF | 49035CIND0 ** | 21-SEP-2001
08 | UT | SALT LAKE COUNTY * | 49035C0100E | 21-SEP-2001
08 | UT | SALT LAKE COUNTY * | 49035C0120E | 21-SEP-2001
08 | UT | SALT LAKE COUNTY * | 49035C0125E | 21-SEP-2001
08 | UT | SALT LAKE COUNTY * | 49035C0129E | 21-SEP-2001
08 | UT | SALT LAKE COUNTY * | 49035C0133E | 21-SEP-2001
08 | UT | SALT LAKE COUNTY * | 49035C0137E | 21-SEP-2001
08 | UT | SALT LAKE COUNTY * | 49035C0139E | 21-SEP-2001
08 | UT | SALT LAKE COUNTY * | 49035C0140E | 21-SEP-2001
08 | UT | SALT LAKE COUNTY * | 49035C0141E | 21-SEP-2001
08 | UT | SALT LAKE COUNTY * | 49035C0142E | 21-SEP-2001
08 | UT | SALT LAKE COUNTY * | 49035C0143E | 21-SEP-2001
08 | UT | SALT LAKE COUNTY * | 49035C0144E | 21-SEP-2001
08 | UT | SALT LAKE COUNTY * | 49035C0150E | 21-SEP-2001
08 | UT | SALT LAKE COUNTY * | 49035C0154E | 21-SEP-2001
08 | UT | SALT LAKE COUNTY * | 49035C0158E | 21-SEP-2001
08 | UT | SALT LAKE COUNTY * | 49035C0161E | 21-SEP-2001
08 | UT | SALT LAKE COUNTY * | 49035C0162E | 21-SEP-2001
08 | UT | SALT LAKE COUNTY * | 49035C0164E | 21-SEP-2001
08 | UT | SALT LAKE COUNTY * | 49035C0168E | 21-SEP-2001
08 | UT | SALT LAKE COUNTY * | 49035C0169E | 21-SEP-2001
08 | UT | SALT LAKE COUNTY * | 49035C0186E | 21-SEP-2001
08 | UT | SALT LAKE COUNTY * | 49035C0187E | 21-SEP-2001
08 | UT | SALT LAKE COUNTY * | 49035C0188E | 21-SEP-2001
08 | UT | SALT LAKE COUNTY * | 49035C0200E | 21-SEP-2001
08 | UT | SALT LAKE COUNTY * | 49035C0250E | 21-SEP-2001
08 | UT | SALT LAKE COUNTY * | 49035C0275E | 21-SEP-2001
08 | UT | SALT LAKE COUNTY * | 49035C0280E | 21-SEP-2001
08 | UT | SALT LAKE COUNTY * | 49035C0281E | 21-SEP-2001
08 | UT | SALT LAKE COUNTY * | 49035C0282E | 21-SEP-2001
08 | UT | SALT LAKE COUNTY * | 49035C0283E | 21-SEP-2001
08 | UT | SALT LAKE COUNTY * | 49035C0284E | 21-SEP-2001
08 | UT | SALT LAKE COUNTY * | 49035C0291E | 21-SEP-2001
08 | UT | SALT LAKE COUNTY * | 49035C0292E | 21-SEP-2001
08 | UT | SALT LAKE COUNTY * | 49035C0293E | 21-SEP-2001
08 | UT | SALT LAKE COUNTY * | 49035C0294E | 21-SEP-2001
08 | UT | SALT LAKE COUNTY * | 49035C0301E | 21-SEP-2001
08 | UT | SALT LAKE COUNTY * | 49035C0302E | 21-SEP-2001
08 | UT | SALT LAKE COUNTY * | 49035C0303E | 21-SEP-2001
08 | UT | SALT LAKE COUNTY * | 49035C0304E | 21-SEP-2001
08 | UT | SALT LAKE COUNTY * | 49035C0306E | 21-SEP-2001
08 | UT | SALT LAKE COUNTY * | 49035C0308E | 21-SEP-2001
08 | UT | SALT LAKE COUNTY * | 49035C0310E | 21-SEP-2001
08 | UT | SALT LAKE COUNTY * | 49035C0311E | 21-SEP-2001
08 | UT | SALT LAKE COUNTY * | 49035C0312E | 21-SEP-2001
08 | UT | SALT LAKE COUNTY * | 49035C0313E | 21-SEP-2001
08 | UT | SALT LAKE COUNTY * | 49035C0314E | 21-SEP-2001
08 | UT | SALT LAKE COUNTY * | 49035C0316E | 21-SEP-2001
08 | UT | SALT LAKE COUNTY * | 49035C0317E | 21-SEP-2001
08 | UT | SALT LAKE COUNTY * | 49035C0318E | 21-SEP-2001
08 | UT | SALT LAKE COUNTY * | 49035C0350E | 21-SEP-2001
08 | UT | SALT LAKE COUNTY * | 49035C0375E | 21-SEP-2001
08 | UT | SALT LAKE COUNTY * | 49035C0410E | 21-SEP-2001
08 | UT | SALT LAKE COUNTY * | 49035C0420E | 21-SEP-2001
08 | UT | SALT LAKE COUNTY * | 49035C0425E | 21-SEP-2001
08 | UT | SALT LAKE COUNTY * | 49035C0427E | 21-SEP-2001
08 | UT | SALT LAKE COUNTY * | 49035C0429E | 21-SEP-2001
08 | UT | SALT LAKE COUNTY * | 49035C0430E | 21-SEP-2001
08 | UT | SALT LAKE COUNTY * | 49035C0431E | 21-SEP-2001
08 | UT | SALT LAKE COUNTY * | 49035C0433E | 21-SEP-2001
08 | UT | SALT LAKE COUNTY * | 49035C0434E | 21-SEP-2001
08 | UT | SALT LAKE COUNTY * | 49035C0440E | 21-SEP-2001
08 | UT | SALT LAKE COUNTY * | 49035C0441E | 21-SEP-2001
08 | UT | SALT LAKE COUNTY * | 49035C0442E | 21-SEP-2001
08 | UT | SALT LAKE COUNTY * | 49035C0443E | 21-SEP-2001
08 | UT | SALT LAKE COUNTY * | 49035C0444E | 21-SEP-2001
08 | UT | SALT LAKE COUNTY * | 49035C0451E | 21-SEP-2001
08 | UT | SALT LAKE COUNTY * | 49035C0452E | 21-SEP-2001
08 | UT | SALT LAKE COUNTY * | 49035C0453E | 21-SEP-2001
08 | UT | SALT LAKE COUNTY * | 49035C0456E | 21-SEP-2001
08 | UT | SALT LAKE COUNTY * | 49035C0458E | 21-SEP-2001
08 | UT | SALT LAKE COUNTY * | 49035C0460E | 21-SEP-2001
08 | UT | SALT LAKE COUNTY * | 49035C0461E | 21-SEP-2001
08 | UT | SALT LAKE COUNTY * | 49035C0462E | 21-SEP-2001
08 | UT | SALT LAKE COUNTY * | 49035C0463E | 21-SEP-2001
08 | UT | SALT LAKE COUNTY * | 49035C0464E | 21-SEP-2001
08 | UT | SALT LAKE COUNTY * | 49035C0466E | 21-SEP-2001
08 | UT | SALT LAKE COUNTY * | 49035C0500E | 21-SEP-2001
08 | UT | SALT LAKE COUNTY * | 49035C0525E | 21-SEP-2001
08 | UT | SALT LAKE COUNTY * | 49035C0575E | 21-SEP-2001
08 | UT | SALT LAKE COUNTY * | 49035C0577E | 21-SEP-2001
08 | UT | SALT LAKE COUNTY * | 49035C0579E | 21-SEP-2001
08 | UT | SALT LAKE COUNTY * | 49035C0581E | 21-SEP-2001
08 | UT | SALT LAKE COUNTY * | 49035C0583E | 21-SEP-2001
08 | UT | SALT LAKE COUNTY * | 49035CIND0 ** | 21-SEP-2001
08 | UT | SANDY CITY, CITY OF | 49035C0431E | 21-SEP-2001
08 | UT | SANDY CITY, CITY OF | 49035C0433E | 21-SEP-2001
08 | UT | SANDY CITY, CITY OF | 49035C0434E | 21-SEP-2001
08 | UT | SANDY CITY, CITY OF | 49035C0442E | 21-SEP-2001
08 | UT | SANDY CITY, CITY OF | 49035C0451E | 21-SEP-2001
08 | UT | SANDY CITY, CITY OF | 49035C0452E | 21-SEP-2001
08 | UT | SANDY CITY, CITY OF | 49035C0453E | 21-SEP-2001
08 | UT | SANDY CITY, CITY OF | 49035C0458E | 21-SEP-2001
08 | UT | SANDY CITY, CITY OF | 49035C0461E | 21-SEP-2001
08 | UT | SANDY CITY, CITY OF | 49035C0462E | 21-SEP-2001
08 | UT | SANDY CITY, CITY OF | 49035C0463E | 21-SEP-2001
08 | UT | SANDY CITY, CITY OF | 49035C0464E | 21-SEP-2001
08 | UT | SANDY CITY, CITY OF | 49035C0466E | 21-SEP-2001
08 | UT | SANDY CITY, CITY OF | 49035CIND0 ** | 21-SEP-2001
08 | UT | SOUTH JORDAN, CITY OF | 49035C0410E | 21-SEP-2001
08 | UT | SOUTH JORDAN, CITY OF | 49035C0420E | 21-SEP-2001
08 | UT | SOUTH JORDAN, CITY OF | 49035C0425E | 21-SEP-2001
08 | UT | SOUTH JORDAN, CITY OF | 49035C0429E | 21-SEP-2001
08 | UT | SOUTH JORDAN, CITY OF | 49035C0430E | 21-SEP-2001
08 | UT | SOUTH JORDAN, CITY OF | 49035C0433E | 21-SEP-2001
08 | UT | SOUTH JORDAN, CITY OF | 49035C0434E | 21-SEP-2001
08 | UT | SOUTH JORDAN, CITY OF | 49035C0440E | 21-SEP-2001
08 | UT | SOUTH JORDAN, CITY OF | 49035C0441E | 21-SEP-2001
08 | UT | SOUTH JORDAN, CITY OF | 49035C0442E | 21-SEP-2001
08 | UT | SOUTH JORDAN, CITY OF | 49035CIND0 ** | 21-SEP-2001
08 | UT | SOUTH SALT LAKE, CITY OF | 49035C0281E | 21-SEP-2001
08 | UT | SOUTH SALT LAKE, CITY OF | 49035C0282E | 21-SEP-2001
08 | UT | SOUTH SALT LAKE, CITY OF | 49035C0283E | 21-SEP-2001
08 | UT | SOUTH SALT LAKE, CITY OF | 49035C0284E | 21-SEP-2001
08 | UT | SOUTH SALT LAKE, CITY OF | 49035C0303E | 21-SEP-2001
08 | UT | SOUTH SALT LAKE, CITY OF | 49035CIND0 ** | 21-SEP-2001
08 | UT | TAYLORSVILLE, CITY OF | 49035C0283E | 21-SEP-2001
08 | UT | TAYLORSVILLE, CITY OF | 49035C0291E | 21-SEP-2001
08 | UT | TAYLORSVILLE, CITY OF | 49035C0293E | 21-SEP-2001
08 | UT | TAYLORSVILLE, CITY OF | 49035CIND0 ** | 21-SEP-2001
08 | UT | WEST JORDAN, CITY OF | 49035C0275E | 21-SEP-2001
08 | UT | WEST JORDAN, CITY OF | 49035C0293E | 21-SEP-2001
08 | UT | WEST JORDAN, CITY OF | 49035C0410E | 21-SEP-2001
08 | UT | WEST JORDAN, CITY OF | 49035C0425E | 21-SEP-2001
08 | UT | WEST JORDAN, CITY OF | 49035C0427E | 21-SEP-2001
08 | UT | WEST JORDAN, CITY OF | 49035C0429E | 21-SEP-2001
08 | UT | WEST JORDAN, CITY OF | 49035C0430E | 21-SEP-2001
08 | UT | WEST JORDAN, CITY OF | 49035C0431E | 21-SEP-2001
08 | UT | WEST JORDAN, CITY OF | 49035C0433E | 21-SEP-2001
08 | UT | WEST JORDAN, CITY OF | 49035CIND0 ** | 21-SEP-2001
08 | UT | WEST VALLEY CITY, CITY OF | 49035C0275E | 21-SEP-2001
08 | UT | WEST VALLEY CITY, CITY OF | 49035C0280E | 21-SEP-2001
08 | UT | WEST VALLEY CITY, CITY OF | 49035C0281E | 21-SEP-2001
08 | UT | WEST VALLEY CITY, CITY OF | 49035C0283E | 21-SEP-2001
08 | UT | WEST VALLEY CITY, CITY OF | 49035C0291E | 21-SEP-2001
08 | UT | WEST VALLEY CITY, CITY OF | 49035CIND0 ** | 21-SEP-2001
09 | AZ | AVONDALE, CITY OF | 04013C1615J | 19-JUL-2001
09 | AZ | AVONDALE, CITY OF | 04013C2080H | 19-JUL-2001
09 | AZ | AVONDALE, CITY OF | 04013C2085F | 19-JUL-2001
09 | AZ | AVONDALE, CITY OF | 04013C2090G | 19-JUL-2001
09 | AZ | AVONDALE, CITY OF | 04013C2095E | 19-JUL-2001
09 | AZ | AVONDALE, CITY OF | 04013C2555E | 19-JUL-2001
09 | AZ | AVONDALE, CITY OF | 04013C2560E | 19-JUL-2001
09 | AZ | AVONDALE, CITY OF | 04013CIND0 ** | 19-JUL-2001
09 | AZ | BUCKEYE, TOWN OF | 04013C0675F | 19-JUL-2001
09 | AZ | BUCKEYE, TOWN OF | 04013C1080H | 19-JUL-2001
09 | AZ | BUCKEYE, TOWN OF | 04013C1085H | 19-JUL-2001
09 | AZ | BUCKEYE, TOWN OF | 04013C1090H | 19-JUL-2001
09 | AZ | BUCKEYE, TOWN OF | 04013C1095G | 19-JUL-2001
09 | AZ | BUCKEYE, TOWN OF | 04013C1105G | 19-JUL-2001
09 | AZ | BUCKEYE, TOWN OF | 04013C1115G | 19-JUL-2001
09 | AZ | BUCKEYE, TOWN OF | 04013C1530H | 19-JUL-2001
09 | AZ | BUCKEYE, TOWN OF | 04013C1540G | 19-JUL-2001
09 | AZ | BUCKEYE, TOWN OF | 04013C1545G | 19-JUL-2001
09 | AZ | BUCKEYE, TOWN OF | 04013C1550G | 19-JUL-2001
09 | AZ | BUCKEYE, TOWN OF | 04013C2005G | 19-JUL-2001
09 | AZ | BUCKEYE, TOWN OF | 04013C2015G | 19-JUL-2001
09 | AZ | BUCKEYE, TOWN OF | 04013C2020G | 19-JUL-2001
09 | AZ | BUCKEYE, TOWN OF | 04013C2025G | 19-JUL-2001
09 | AZ | BUCKEYE, TOWN OF | 04013C2030G | 19-JUL-2001
09 | AZ | BUCKEYE, TOWN OF | 04013C2035G | 19-JUL-2001
09 | AZ | BUCKEYE, TOWN OF | 04013C2040F | 19-JUL-2001
09 | AZ | BUCKEYE, TOWN OF | 04013C2045G | 19-JUL-2001
09 | AZ | BUCKEYE, TOWN OF | 04013C2055F | 19-JUL-2001
09 | AZ | BUCKEYE, TOWN OF | 04013C2065G | 19-JUL-2001
09 | AZ | BUCKEYE, TOWN OF | 04013C2480G | 19-JUL-2001
09 | AZ | BUCKEYE, TOWN OF | 04013C2485G | 19-JUL-2001
09 | AZ | BUCKEYE, TOWN OF | 04013C2505G | 19-JUL-2001
09 | AZ | BUCKEYE, TOWN OF | 04013C2510F | 19-JUL-2001
09 | AZ | BUCKEYE, TOWN OF | 04013C2530F | 19-JUL-2001
09 | AZ | BUCKEYE, TOWN OF | 04013CIND0 ** | 19-JUL-2001
09 | AZ | CAREFREE, TOWN OF | 04013C0805G | 19-JUL-2001
09 | AZ | CAREFREE, TOWN OF | 04013C0806H | 19-JUL-2001
09 | AZ | CAREFREE, TOWN OF | 04013C0807H | 19-JUL-2001
09 | AZ | CAREFREE, TOWN OF | 04013C0808H | 19-JUL-2001
09 | AZ | CAREFREE, TOWN OF | 04013C0809H | 19-JUL-2001
09 | AZ | CAREFREE, TOWN OF | 04013C0815H | 19-JUL-2001
09 | AZ | CAREFREE, TOWN OF | 04013C0820F | 19-JUL-2001
09 | AZ | CAREFREE, TOWN OF | 04013C0850E | 19-JUL-2001
09 | AZ | CAREFREE, TOWN OF | 04013CIND0 ** | 19-JUL-2001
09 | AZ | CAVE CREEK, TOWN OF | 04013C0785H | 19-JUL-2001
09 | AZ | CAVE CREEK, TOWN OF | 04013C0795G | 19-JUL-2001
09 | AZ | CAVE CREEK, TOWN OF | 04013C0802G | 19-JUL-2001
09 | AZ | CAVE CREEK, TOWN OF | 04013C0805G | 19-JUL-2001
09 | AZ | CAVE CREEK, TOWN OF | 04013C0806H | 19-JUL-2001
09 | AZ | CAVE CREEK, TOWN OF | 04013C0808H | 19-JUL-2001
09 | AZ | CAVE CREEK, TOWN OF | 04013C0815H | 19-JUL-2001
09 | AZ | CAVE CREEK, TOWN OF | 04013CIND0 ** | 19-JUL-2001
09 | AZ | CHANDLER, CITY OF | 04013C2630F | 19-JUL-2001
09 | AZ | CHANDLER, CITY OF | 04013C2635G | 19-JUL-2001
09 | AZ | CHANDLER, CITY OF | 04013C2640F | 19-JUL-2001
09 | AZ | CHANDLER, CITY OF | 04013C2645E | 19-JUL-2001
09 | AZ | CHANDLER, CITY OF | 04013C2655F | 19-JUL-2001
09 | AZ | CHANDLER, CITY OF | 04013C2660F | 19-JUL-2001
09 | AZ | CHANDLER, CITY OF | 04013C2665F | 19-JUL-2001
09 | AZ | CHANDLER, CITY OF | 04013C2670G | 19-JUL-2001
09 | AZ | CHANDLER, CITY OF | 04013C3030G | 19-JUL-2001
09 | AZ | CHANDLER, CITY OF | 04013C3035G | 19-JUL-2001
09 | AZ | CHANDLER, CITY OF | 04013CIND0 ** | 19-JUL-2001
09 | AZ | EL MIRAGE, CITY OF | 04013C1165H | 19-JUL-2001
09 | AZ | EL MIRAGE, CITY OF | 04013C1170G | 19-JUL-2001
09 | AZ | EL MIRAGE, CITY OF | 04013C1605H | 19-JUL-2001
09 | AZ | EL MIRAGE, CITY OF | 04013C1610H | 19-JUL-2001
09 | AZ | EL MIRAGE, CITY OF | 04013C1615J | 19-JUL-2001
09 | AZ | EL MIRAGE, CITY OF | 04013CIND0 ** | 19-JUL-2001
09 | AZ | FOUNTAIN HILLS, TOWN OF | 04013C1269E | 19-JUL-2001
09 | AZ | FOUNTAIN HILLS, TOWN OF | 04013C1270E | 19-JUL-2001
09 | AZ | FOUNTAIN HILLS, TOWN OF | 04013C1288F | 19-JUL-2001
09 | AZ | FOUNTAIN HILLS, TOWN OF | 04013C1289F | 19-JUL-2001
09 | AZ | FOUNTAIN HILLS, TOWN OF | 04013C1710E | 19-JUL-2001
09 | AZ | FOUNTAIN HILLS, TOWN OF | 04013C1726F | 19-JUL-2001
09 | AZ | FOUNTAIN HILLS, TOWN OF | 04013C1727F | 19-JUL-2001
09 | AZ | FOUNTAIN HILLS, TOWN OF | 04013C1728F | 19-JUL-2001
09 | AZ | FOUNTAIN HILLS, TOWN OF | 04013C1729F | 19-JUL-2001
09 | AZ | FOUNTAIN HILLS, TOWN OF | 04013CIND0 ** | 19-JUL-2001
09 | AZ | GILA BEND, TOWN OF | 04013C3465E | 19-JUL-2001
09 | AZ | GILA BEND, TOWN OF | 04013C3470E | 19-JUL-2001
09 | AZ | GILA BEND, TOWN OF | 04013C3475E | 19-JUL-2001
09 | AZ | GILA BEND, TOWN OF | 04013C3480G | 19-JUL-2001
09 | AZ | GILA BEND, TOWN OF | 04013C3485G | 19-JUL-2001
09 | AZ | GILA BEND, TOWN OF | 04013C3490F | 19-JUL-2001
09 | AZ | GILA BEND, TOWN OF | 04013C3491F | 19-JUL-2001
09 | AZ | GILA BEND, TOWN OF | 04013CIND0 ** | 19-JUL-2001
09 | AZ | GILBERT, TOWN OF | 04013C2190F | 19-JUL-2001
09 | AZ | GILBERT, TOWN OF | 04013C2195F | 19-JUL-2001
09 | AZ | GILBERT, TOWN OF | 04013C2215G | 19-JUL-2001
09 | AZ | GILBERT, TOWN OF | 04013C2220E | 19-JUL-2001
09 | AZ | GILBERT, TOWN OF | 04013C2655F | 19-JUL-2001
09 | AZ | GILBERT, TOWN OF | 04013C2660F | 19-JUL-2001
09 | AZ | GILBERT, TOWN OF | 04013C2670G | 19-JUL-2001
09 | AZ | GILBERT, TOWN OF | 04013C2680G | 19-JUL-2001
09 | AZ | GILBERT, TOWN OF | 04013C2685G | 19-JUL-2001
09 | AZ | GILBERT, TOWN OF | 04013C2690G | 19-JUL-2001
09 | AZ | GILBERT, TOWN OF | 04013C2695G | 19-JUL-2001
09 | AZ | GILBERT, TOWN OF | 04013C3060G | 19-JUL-2001
09 | AZ | GILBERT, TOWN OF | 04013C3075G | 19-JUL-2001
09 | AZ | GILBERT, TOWN OF | 04013CIND0 ** | 19-JUL-2001
09 | AZ | GLENDALE, CITY OF | 04013C1180F | 19-JUL-2001
09 | AZ | GLENDALE, CITY OF | 04013C1185G | 19-JUL-2001
09 | AZ | GLENDALE, CITY OF | 04013C1190G | 19-JUL-2001
09 | AZ | GLENDALE, CITY OF | 04013C1195E | 19-JUL-2001
09 | AZ | GLENDALE, CITY OF | 04013C1580G | 19-JUL-2001
09 | AZ | GLENDALE, CITY OF | 04013C1585G | 19-JUL-2001
09 | AZ | GLENDALE, CITY OF | 04013C1590G | 19-JUL-2001
09 | AZ | GLENDALE, CITY OF | 04013C1595G | 19-JUL-2001
09 | AZ | GLENDALE, CITY OF | 04013C1605H | 19-JUL-2001
09 | AZ | GLENDALE, CITY OF | 04013C1615J | 19-JUL-2001
09 | AZ | GLENDALE, CITY OF | 04013C1620G | 19-JUL-2001
09 | AZ | GLENDALE, CITY OF | 04013C1630G | 19-JUL-2001
09 | AZ | GLENDALE, CITY OF | 04013C1635F | 19-JUL-2001
09 | AZ | GLENDALE, CITY OF | 04013C1640E | 19-JUL-2001
09 | AZ | GLENDALE, CITY OF | 04013C1645F | 19-JUL-2001
09 | AZ | GLENDALE, CITY OF | 04013CIND0 ** | 19-JUL-2001
09 | AZ | GOODYEAR, CITY OF | 04013C1590G | 19-JUL-2001
09 | AZ | GOODYEAR, CITY OF | 04013C1595G | 19-JUL-2001
09 | AZ | GOODYEAR, CITY OF | 04013C1615J | 19-JUL-2001
09 | AZ | GOODYEAR, CITY OF | 04013C2055F | 19-JUL-2001
09 | AZ | GOODYEAR, CITY OF | 04013C2060F | 19-JUL-2001
09 | AZ | GOODYEAR, CITY OF | 04013C2065G | 19-JUL-2001
09 | AZ | GOODYEAR, CITY OF | 04013C2070G | 19-JUL-2001
09 | AZ | GOODYEAR, CITY OF | 04013C2080H | 19-JUL-2001
09 | AZ | GOODYEAR, CITY OF | 04013C2090G | 19-JUL-2001
09 | AZ | GOODYEAR, CITY OF | 04013C2530F | 19-JUL-2001
09 | AZ | GOODYEAR, CITY OF | 04013C2550F | 19-JUL-2001
09 | AZ | GOODYEAR, CITY OF | 04013C2555E | 19-JUL-2001
09 | AZ | GOODYEAR, CITY OF | 04013C2925F | 19-JUL-2001
09 | AZ | GOODYEAR, CITY OF | 04013C2950F | 19-JUL-2001
09 | AZ | GOODYEAR, CITY OF | 04013CIND0 ** | 19-JUL-2001
09 | AZ | GUADALUPE, TOWN OF | 04013C2165G | 19-JUL-2001
09 | AZ | GUADALUPE, TOWN OF | 04013C2630F | 19-JUL-2001
09 | AZ | GUADALUPE, TOWN OF | 04013CIND0 ** | 19-JUL-2001
09 | AZ | LITCHFIELD PARK, CITY OF | 04013C1595G | 19-JUL-2001
09 | AZ | LITCHFIELD PARK, CITY OF | 04013C1615J | 19-JUL-2001
09 | AZ | LITCHFIELD PARK, CITY OF | 04013C2060F | 19-JUL-2001
09 | AZ | LITCHFIELD PARK, CITY OF | 04013C2080H | 19-JUL-2001
09 | AZ | LITCHFIELD PARK, CITY OF | 04013CIND0 ** | 19-JUL-2001
09 | AZ | MARICOPA COUNTY* | 04013C0025E | 19-JUL-2001
09 | AZ | MARICOPA COUNTY* | 04013C0050E | 19-JUL-2001
09 | AZ | MARICOPA COUNTY* | 04013C0130F | 19-JUL-2001
09 | AZ | MARICOPA COUNTY* | 04013C0135F | 19-JUL-2001
09 | AZ | MARICOPA COUNTY* | 04013C0140F | 19-JUL-2001
09 | AZ | MARICOPA COUNTY* | 04013C0155F | 19-JUL-2001
09 | AZ | MARICOPA COUNTY* | 04013C0160F | 19-JUL-2001
09 | AZ | MARICOPA COUNTY* | 04013C0165F | 19-JUL-2001
09 | AZ | MARICOPA COUNTY* | 04013C0170F | 19-JUL-2001
09 | AZ | MARICOPA COUNTY* | 04013C0190F | 19-JUL-2001
09 | AZ | MARICOPA COUNTY* | 04013C0210E | 19-JUL-2001
09 | AZ | MARICOPA COUNTY* | 04013C0230F | 19-JUL-2001
09 | AZ | MARICOPA COUNTY* | 04013C0235F | 19-JUL-2001
09 | AZ | MARICOPA COUNTY* | 04013C0240E | 19-JUL-2001
09 | AZ | MARICOPA COUNTY* | 04013C0245E | 19-JUL-2001
09 | AZ | MARICOPA COUNTY* | 04013C0255G | 19-JUL-2001
09 | AZ | MARICOPA COUNTY* | 04013C0260E | 19-JUL-2001
09 | AZ | MARICOPA COUNTY* | 04013C0265F | 19-JUL-2001
09 | AZ | MARICOPA COUNTY* | 04013C0270F | 19-JUL-2001
09 | AZ | MARICOPA COUNTY* | 04013C0320F | 19-JUL-2001
09 | AZ | MARICOPA COUNTY* | 04013C0340F | 19-JUL-2001
09 | AZ | MARICOPA COUNTY* | 04013C0350F | 19-JUL-2001
09 | AZ | MARICOPA COUNTY* | 04013C0365F | 19-JUL-2001
09 | AZ | MARICOPA COUNTY* | 04013C0370F | 19-JUL-2001
09 | AZ | MARICOPA COUNTY* | 04013C0375F | 19-JUL-2001
09 | AZ | MARICOPA COUNTY* | 04013C0390F | 19-JUL-2001
09 | AZ | MARICOPA COUNTY* | 04013C0395G | 19-JUL-2001
09 | AZ | MARICOPA COUNTY* | 04013C0400G | 19-JUL-2001
09 | AZ | MARICOPA COUNTY* | 04013C0414F | 19-JUL-2001
09 | AZ | MARICOPA COUNTY* | 04013C0415F | 19-JUL-2001
09 | AZ | MARICOPA COUNTY* | 04013C0418F | 19-JUL-2001
09 | AZ | MARICOPA COUNTY* | 04013C0419F | 19-JUL-2001
09 | AZ | MARICOPA COUNTY* | 04013C0660F | 19-JUL-2001
09 | AZ | MARICOPA COUNTY* | 04013C0675F | 19-JUL-2001
09 | AZ | MARICOPA COUNTY* | 04013C0679G | 19-JUL-2001
09 | AZ | MARICOPA COUNTY* | 04013C0680F | 19-JUL-2001
09 | AZ | MARICOPA COUNTY* | 04013C0685F | 19-JUL-2001
09 | AZ | MARICOPA COUNTY* | 04013C0687G | 19-JUL-2001
09 | AZ | MARICOPA COUNTY* | 04013C0689G | 19-JUL-2001
09 | AZ | MARICOPA COUNTY* | 04013C0690G | 19-JUL-2001
09 | AZ | MARICOPA COUNTY* | 04013C0694F | 19-JUL-2001
09 | AZ | MARICOPA COUNTY* | 04013C0695G | 19-JUL-2001
09 | AZ | MARICOPA COUNTY* | 04013C0705F | 19-JUL-2001
09 | AZ | MARICOPA COUNTY* | 04013C0710F | 19-JUL-2001
09 | AZ | MARICOPA COUNTY* | 04013C0715F | 19-JUL-2001
09 | AZ | MARICOPA COUNTY* | 04013C0720F | 19-JUL-2001
09 | AZ | MARICOPA COUNTY* | 04013C0730G | 19-JUL-2001
09 | AZ | MARICOPA COUNTY* | 04013C0735G | 19-JUL-2001
09 | AZ | MARICOPA COUNTY* | 04013C0740G | 19-JUL-2001
09 | AZ | MARICOPA COUNTY* | 04013C0745G | 19-JUL-2001
09 | AZ | MARICOPA COUNTY* | 04013C0755F | 19-JUL-2001
09 | AZ | MARICOPA COUNTY* | 04013C0760F | 19-JUL-2001
09 | AZ | MARICOPA COUNTY* | 04013C0765F | 19-JUL-2001
09 | AZ | MARICOPA COUNTY* | 04013C0770E | 19-JUL-2001
09 | AZ | MARICOPA COUNTY* | 04013C0780G | 19-JUL-2001
09 | AZ | MARICOPA COUNTY* | 04013C0785H | 19-JUL-2001
09 | AZ | MARICOPA COUNTY* | 04013C0790F | 19-JUL-2001
09 | AZ | MARICOPA COUNTY* | 04013C0795G | 19-JUL-2001
09 | AZ | MARICOPA COUNTY* | 04013C0802G | 19-JUL-2001
09 | AZ | MARICOPA COUNTY* | 04013C0805G | 19-JUL-2001
09 | AZ | MARICOPA COUNTY* | 04013C0806H | 19-JUL-2001
09 | AZ | MARICOPA COUNTY* | 04013C0807H | 19-JUL-2001
09 | AZ | MARICOPA COUNTY* | 04013C0808H | 19-JUL-2001
09 | AZ | MARICOPA COUNTY* | 04013C0809H | 19-JUL-2001
09 | AZ | MARICOPA COUNTY* | 04013C0815H | 19-JUL-2001
09 | AZ | MARICOPA COUNTY* | 04013C0820F | 19-JUL-2001
09 | AZ | MARICOPA COUNTY* | 04013C0850E | 19-JUL-2001
09 | AZ | MARICOPA COUNTY* | 04013C0870E | 19-JUL-2001
09 | AZ | MARICOPA COUNTY* | 04013C1035G | 19-JUL-2001
09 | AZ | MARICOPA COUNTY* | 04013C1055G | 19-JUL-2001
09 | AZ | MARICOPA COUNTY* | 04013C1060G | 19-JUL-2001
09 | AZ | MARICOPA COUNTY* | 04013C1065G | 19-JUL-2001
09 | AZ | MARICOPA COUNTY* | 04013C1070G | 19-JUL-2001
09 | AZ | MARICOPA COUNTY* | 04013C1080H | 19-JUL-2001
09 | AZ | MARICOPA COUNTY* | 04013C1085H | 19-JUL-2001
09 | AZ | MARICOPA COUNTY* | 04013C1090H | 19-JUL-2001
09 | AZ | MARICOPA COUNTY* | 04013C1095G | 19-JUL-2001
09 | AZ | MARICOPA COUNTY* | 04013C1105G | 19-JUL-2001
09 | AZ | MARICOPA COUNTY* | 04013C1110G | 19-JUL-2001
09 | AZ | MARICOPA COUNTY* | 04013C1115G | 19-JUL-2001
09 | AZ | MARICOPA COUNTY* | 04013C1120G | 19-JUL-2001
09 | AZ | MARICOPA COUNTY* | 04013C1130F | 19-JUL-2001
09 | AZ | MARICOPA COUNTY* | 04013C1135F | 19-JUL-2001
09 | AZ | MARICOPA COUNTY* | 04013C1140G | 19-JUL-2001
09 | AZ | MARICOPA COUNTY* | 04013C1145G | 19-JUL-2001
09 | AZ | MARICOPA COUNTY* | 04013C1155G | 19-JUL-2001
09 | AZ | MARICOPA COUNTY* | 04013C1160G | 19-JUL-2001
09 | AZ | MARICOPA COUNTY* | 04013C1165H | 19-JUL-2001
09 | AZ | MARICOPA COUNTY* | 04013C1170G | 19-JUL-2001
09 | AZ | MARICOPA COUNTY* | 04013C1180F | 19-JUL-2001
09 | AZ | MARICOPA COUNTY* | 04013C1185G | 19-JUL-2001
09 | AZ | MARICOPA COUNTY* | 04013C1190G | 19-JUL-2001
09 | AZ | MARICOPA COUNTY* | 04013C1195E | 19-JUL-2001
09 | AZ | MARICOPA COUNTY* | 04013C1205F | 19-JUL-2001
09 | AZ | MARICOPA COUNTY* | 04013C1210G | 19-JUL-2001
09 | AZ | MARICOPA COUNTY* | 04013C1215J | 19-JUL-2001
09 | AZ | MARICOPA COUNTY* | 04013C1220H | 19-JUL-2001
09 | AZ | MARICOPA COUNTY* | 04013C1230G | 19-JUL-2001
09 | AZ | MARICOPA COUNTY* | 04013C1235F | 19-JUL-2001
09 | AZ | MARICOPA COUNTY* | 04013C1240G | 19-JUL-2001
09 | AZ | MARICOPA COUNTY* | 04013C1245G | 19-JUL-2001
09 | AZ | MARICOPA COUNTY* | 04013C1255F | 19-JUL-2001
09 | AZ | MARICOPA COUNTY* | 04013C1260E | 19-JUL-2001
09 | AZ | MARICOPA COUNTY* | 04013C1265F | 19-JUL-2001
09 | AZ | MARICOPA COUNTY* | 04013C1269E | 19-JUL-2001
09 | AZ | MARICOPA COUNTY* | 04013C1270E | 19-JUL-2001
09 | AZ | MARICOPA COUNTY* | 04013C1280F | 19-JUL-2001
09 | AZ | MARICOPA COUNTY* | 04013C1285F | 19-JUL-2001
09 | AZ | MARICOPA COUNTY* | 04013C1288F | 19-JUL-2001
09 | AZ | MARICOPA COUNTY* | 04013C1289F | 19-JUL-2001
09 | AZ | MARICOPA COUNTY* | 04013C1300F | 19-JUL-2001
09 | AZ | MARICOPA COUNTY* | 04013C1425F | 19-JUL-2001
09 | AZ | MARICOPA COUNTY* | 04013C1450F | 19-JUL-2001
09 | AZ | MARICOPA COUNTY* | 04013C1475F | 19-JUL-2001
09 | AZ | MARICOPA COUNTY* | 04013C1500E | 19-JUL-2001
09 | AZ | MARICOPA COUNTY* | 04013C1510H | 19-JUL-2001
09 | AZ | MARICOPA COUNTY* | 04013C1525G | 19-JUL-2001
09 | AZ | MARICOPA COUNTY* | 04013C1530H | 19-JUL-2001
09 | AZ | MARICOPA COUNTY* | 04013C1540G | 19-JUL-2001
09 | AZ | MARICOPA COUNTY* | 04013C1545G | 19-JUL-2001
09 | AZ | MARICOPA COUNTY* | 04013C1550G | 19-JUL-2001
09 | AZ | MARICOPA COUNTY* | 04013C1560F | 19-JUL-2001
09 | AZ | MARICOPA COUNTY* | 04013C1570F | 19-JUL-2001
09 | AZ | MARICOPA COUNTY* | 04013C1580G | 19-JUL-2001
09 | AZ | MARICOPA COUNTY* | 04013C1585G | 19-JUL-2001
09 | AZ | MARICOPA COUNTY* | 04013C1590G | 19-JUL-2001
09 | AZ | MARICOPA COUNTY* | 04013C1595G | 19-JUL-2001
09 | AZ | MARICOPA COUNTY* | 04013C1605H | 19-JUL-2001
09 | AZ | MARICOPA COUNTY* | 04013C1610H | 19-JUL-2001
09 | AZ | MARICOPA COUNTY* | 04013C1615J | 19-JUL-2001
09 | AZ | MARICOPA COUNTY* | 04013C1620G | 19-JUL-2001
09 | AZ | MARICOPA COUNTY* | 04013C1630G | 19-JUL-2001
09 | AZ | MARICOPA COUNTY* | 04013C1635F | 19-JUL-2001
09 | AZ | MARICOPA COUNTY* | 04013C1640E | 19-JUL-2001
09 | AZ | MARICOPA COUNTY* | 04013C1645F | 19-JUL-2001
09 | AZ | MARICOPA COUNTY* | 04013C1655J | 19-JUL-2001
09 | AZ | MARICOPA COUNTY* | 04013C1660G | 19-JUL-2001
09 | AZ | MARICOPA COUNTY* | 04013C1665H | 19-JUL-2001
09 | AZ | MARICOPA COUNTY* | 04013C1670F | 19-JUL-2001
09 | AZ | MARICOPA COUNTY* | 04013C1680G | 19-JUL-2001
09 | AZ | MARICOPA COUNTY* | 04013C1685E | 19-JUL-2001
09 | AZ | MARICOPA COUNTY* | 04013C1690F | 19-JUL-2001
09 | AZ | MARICOPA COUNTY* | 04013C1695G | 19-JUL-2001
09 | AZ | MARICOPA COUNTY* | 04013C1705F | 19-JUL-2001
09 | AZ | MARICOPA COUNTY* | 04013C1710E | 19-JUL-2001
09 | AZ | MARICOPA COUNTY* | 04013C1720F | 19-JUL-2001
09 | AZ | MARICOPA COUNTY* | 04013C1726F | 19-JUL-2001
09 | AZ | MARICOPA COUNTY* | 04013C1727F | 19-JUL-2001
09 | AZ | MARICOPA COUNTY* | 04013C1728F | 19-JUL-2001
09 | AZ | MARICOPA COUNTY* | 04013C1729F | 19-JUL-2001
09 | AZ | MARICOPA COUNTY* | 04013C1750F | 19-JUL-2001
09 | AZ | MARICOPA COUNTY* | 04013C1900F | 19-JUL-2001
09 | AZ | MARICOPA COUNTY* | 04013C1925F | 19-JUL-2001
09 | AZ | MARICOPA COUNTY* | 04013C1950F | 19-JUL-2001
09 | AZ | MARICOPA COUNTY* | 04013C2000F | 19-JUL-2001
09 | AZ | MARICOPA COUNTY* | 04013C2005G | 19-JUL-2001
09 | AZ | MARICOPA COUNTY* | 04013C2015G | 19-JUL-2001
09 | AZ | MARICOPA COUNTY* | 04013C2020G | 19-JUL-2001
09 | AZ | MARICOPA COUNTY* | 04013C2025G | 19-JUL-2001
09 | AZ | MARICOPA COUNTY* | 04013C2030G | 19-JUL-2001
09 | AZ | MARICOPA COUNTY* | 04013C2035G | 19-JUL-2001
09 | AZ | MARICOPA COUNTY* | 04013C2040F | 19-JUL-2001
09 | AZ | MARICOPA COUNTY* | 04013C2045G | 19-JUL-2001
09 | AZ | MARICOPA COUNTY* | 04013C2055F | 19-JUL-2001
09 | AZ | MARICOPA COUNTY* | 04013C2060F | 19-JUL-2001
09 | AZ | MARICOPA COUNTY* | 04013C2065G | 19-JUL-2001
09 | AZ | MARICOPA COUNTY* | 04013C2070G | 19-JUL-2001
09 | AZ | MARICOPA COUNTY* | 04013C2080H | 19-JUL-2001
09 | AZ | MARICOPA COUNTY* | 04013C2085F | 19-JUL-2001
09 | AZ | MARICOPA COUNTY* | 04013C2090G | 19-JUL-2001
09 | AZ | MARICOPA COUNTY* | 04013C2095E | 19-JUL-2001
09 | AZ | MARICOPA COUNTY* | 04013C2105E | 19-JUL-2001
09 | AZ | MARICOPA COUNTY* | 04013C2110E | 19-JUL-2001
09 | AZ | MARICOPA COUNTY* | 04013C2115F | 19-JUL-2001
09 | AZ | MARICOPA COUNTY* | 04013C2120F | 19-JUL-2001
09 | AZ | MARICOPA COUNTY* | 04013C2130F | 19-JUL-2001
09 | AZ | MARICOPA COUNTY* | 04013C2135E | 19-JUL-2001
09 | AZ | MARICOPA COUNTY* | 04013C2140F | 19-JUL-2001
09 | AZ | MARICOPA COUNTY* | 04013C2145G | 19-JUL-2001
09 | AZ | MARICOPA COUNTY* | 04013C2155F | 19-JUL-2001
09 | AZ | MARICOPA COUNTY* | 04013C2160E | 19-JUL-2001
09 | AZ | MARICOPA COUNTY* | 04013C2165G | 19-JUL-2001
09 | AZ | MARICOPA COUNTY* | 04013C2170F | 19-JUL-2001
09 | AZ | MARICOPA COUNTY* | 04013C2180F | 19-JUL-2001
09 | AZ | MARICOPA COUNTY* | 04013C2185F | 19-JUL-2001
09 | AZ | MARICOPA COUNTY* | 04013C2190F | 19-JUL-2001
09 | AZ | MARICOPA COUNTY* | 04013C2195F | 19-JUL-2001
09 | AZ | MARICOPA COUNTY* | 04013C2205F | 19-JUL-2001
09 | AZ | MARICOPA COUNTY* | 04013C2210E | 19-JUL-2001
09 | AZ | MARICOPA COUNTY* | 04013C2215G | 19-JUL-2001
09 | AZ | MARICOPA COUNTY* | 04013C2220E | 19-JUL-2001
09 | AZ | MARICOPA COUNTY* | 04013C2230E | 19-JUL-2001
09 | AZ | MARICOPA COUNTY* | 04013C2425F | 19-JUL-2001
09 | AZ | MARICOPA COUNTY* | 04013C2450F | 19-JUL-2001
09 | AZ | MARICOPA COUNTY* | 04013C2460G | 19-JUL-2001
09 | AZ | MARICOPA COUNTY* | 04013C2470G | 19-JUL-2001
09 | AZ | MARICOPA COUNTY* | 04013C2475F | 19-JUL-2001
09 | AZ | MARICOPA COUNTY* | 04013C2480G | 19-JUL-2001
09 | AZ | MARICOPA COUNTY* | 04013C2485G | 19-JUL-2001
09 | AZ | MARICOPA COUNTY* | 04013C2490F | 19-JUL-2001
09 | AZ | MARICOPA COUNTY* | 04013C2495F | 19-JUL-2001
09 | AZ | MARICOPA COUNTY* | 04013C2505G | 19-JUL-2001
09 | AZ | MARICOPA COUNTY* | 04013C2510F | 19-JUL-2001
09 | AZ | MARICOPA COUNTY* | 04013C2515F | 19-JUL-2001
09 | AZ | MARICOPA COUNTY* | 04013C2520F | 19-JUL-2001
09 | AZ | MARICOPA COUNTY* | 04013C2530F | 19-JUL-2001
09 | AZ | MARICOPA COUNTY* | 04013C2550F | 19-JUL-2001
09 | AZ | MARICOPA COUNTY* | 04013C2555E | 19-JUL-2001
09 | AZ | MARICOPA COUNTY* | 04013C2560E | 19-JUL-2001
09 | AZ | MARICOPA COUNTY* | 04013C2580E | 19-JUL-2001
09 | AZ | MARICOPA COUNTY* | 04013C2585E | 19-JUL-2001
09 | AZ | MARICOPA COUNTY* | 04013C2595E | 19-JUL-2001
09 | AZ | MARICOPA COUNTY* | 04013C2605E | 19-JUL-2001
09 | AZ | MARICOPA COUNTY* | 04013C2610E | 19-JUL-2001
09 | AZ | MARICOPA COUNTY* | 04013C2615E | 19-JUL-2001
09 | AZ | MARICOPA COUNTY* | 04013C2620E | 19-JUL-2001
09 | AZ | MARICOPA COUNTY* | 04013C2630F | 19-JUL-2001
09 | AZ | MARICOPA COUNTY* | 04013C2635G | 19-JUL-2001
09 | AZ | MARICOPA COUNTY* | 04013C2640F | 19-JUL-2001
09 | AZ | MARICOPA COUNTY* | 04013C2645E | 19-JUL-2001
09 | AZ | MARICOPA COUNTY* | 04013C2655F | 19-JUL-2001
09 | AZ | MARICOPA COUNTY* | 04013C2660F | 19-JUL-2001
09 | AZ | MARICOPA COUNTY* | 04013C2665F | 19-JUL-2001
09 | AZ | MARICOPA COUNTY* | 04013C2670G | 19-JUL-2001
09 | AZ | MARICOPA COUNTY* | 04013C2680G | 19-JUL-2001
09 | AZ | MARICOPA COUNTY* | 04013C2685G | 19-JUL-2001
09 | AZ | MARICOPA COUNTY* | 04013C2690G | 19-JUL-2001
09 | AZ | MARICOPA COUNTY* | 04013C2695G | 19-JUL-2001
09 | AZ | MARICOPA COUNTY* | 04013C2750E | 19-JUL-2001
09 | AZ | MARICOPA COUNTY* | 04013C2835G | 19-JUL-2001
09 | AZ | MARICOPA COUNTY* | 04013C2855G | 19-JUL-2001
09 | AZ | MARICOPA COUNTY* | 04013C2860G | 19-JUL-2001
09 | AZ | MARICOPA COUNTY* | 04013C2865G | 19-JUL-2001
09 | AZ | MARICOPA COUNTY* | 04013C2870F | 19-JUL-2001
09 | AZ | MARICOPA COUNTY* | 04013C2880F | 19-JUL-2001
09 | AZ | MARICOPA COUNTY* | 04013C2925F | 19-JUL-2001
09 | AZ | MARICOPA COUNTY* | 04013C2950F | 19-JUL-2001
09 | AZ | MARICOPA COUNTY* | 04013C3030G | 19-JUL-2001
09 | AZ | MARICOPA COUNTY* | 04013C3035G | 19-JUL-2001
09 | AZ | MARICOPA COUNTY* | 04013C3060G | 19-JUL-2001
09 | AZ | MARICOPA COUNTY* | 04013C3075G | 19-JUL-2001
09 | AZ | MARICOPA COUNTY* | 04013C3080G | 19-JUL-2001
09 | AZ | MARICOPA COUNTY* | 04013C3125E | 19-JUL-2001
09 | AZ | MARICOPA COUNTY* | 04013C3150E | 19-JUL-2001
09 | AZ | MARICOPA COUNTY* | 04013C3175E | 19-JUL-2001
09 | AZ | MARICOPA COUNTY* | 04013C3200E | 19-JUL-2001
09 | AZ | MARICOPA COUNTY* | 04013C3225E | 19-JUL-2001
09 | AZ | MARICOPA COUNTY* | 04013C3230F | 19-JUL-2001
09 | AZ | MARICOPA COUNTY* | 04013C3235F | 19-JUL-2001
09 | AZ | MARICOPA COUNTY* | 04013C3240F | 19-JUL-2001
09 | AZ | MARICOPA COUNTY* | 04013C3245F | 19-JUL-2001
09 | AZ | MARICOPA COUNTY* | 04013C3375E | 19-JUL-2001
09 | AZ | MARICOPA COUNTY* | 04013C3400E | 19-JUL-2001
09 | AZ | MARICOPA COUNTY* | 04013C3450E | 19-JUL-2001
09 | AZ | MARICOPA COUNTY* | 04013C3465E | 19-JUL-2001
09 | AZ | MARICOPA COUNTY* | 04013C3470E | 19-JUL-2001
09 | AZ | MARICOPA COUNTY* | 04013C3475E | 19-JUL-2001
09 | AZ | MARICOPA COUNTY* | 04013C3480G | 19-JUL-2001
09 | AZ | MARICOPA COUNTY* | 04013C3485G | 19-JUL-2001
09 | AZ | MARICOPA COUNTY* | 04013C3490F | 19-JUL-2001
09 | AZ | MARICOPA COUNTY* | 04013C3491F | 19-JUL-2001
09 | AZ | MARICOPA COUNTY* | 04013CIND0 ** | 19-JUL-2001
09 | AZ | MESA, CITY OF | 04013C1750F | 19-JUL-2001
09 | AZ | MESA, CITY OF | 04013C2160E | 19-JUL-2001
09 | AZ | MESA, CITY OF | 04013C2170F | 19-JUL-2001
09 | AZ | MESA, CITY OF | 04013C2180F | 19-JUL-2001
09 | AZ | MESA, CITY OF | 04013C2185F | 19-JUL-2001
09 | AZ | MESA, CITY OF | 04013C2190F | 19-JUL-2001
09 | AZ | MESA, CITY OF | 04013C2195F | 19-JUL-2001
09 | AZ | MESA, CITY OF | 04013C2205F | 19-JUL-2001
09 | AZ | MESA, CITY OF | 04013C2210E | 19-JUL-2001
09 | AZ | MESA, CITY OF | 04013C2215G | 19-JUL-2001
09 | AZ | MESA, CITY OF | 04013C2220E | 19-JUL-2001
09 | AZ | MESA, CITY OF | 04013C2635G | 19-JUL-2001
09 | AZ | MESA, CITY OF | 04013C2655F | 19-JUL-2001
09 | AZ | MESA, CITY OF | 04013C2685G | 19-JUL-2001
09 | AZ | MESA, CITY OF | 04013C2690G | 19-JUL-2001
09 | AZ | MESA, CITY OF | 04013C2695G | 19-JUL-2001
09 | AZ | MESA, CITY OF | 04013CIND0 ** | 19-JUL-2001
09 | AZ | PARADISE VALLEY, TOWN OF | 04013C1670F | 19-JUL-2001
09 | AZ | PARADISE VALLEY, TOWN OF | 04013C1680G | 19-JUL-2001
09 | AZ | PARADISE VALLEY, TOWN OF | 04013C1685E | 19-JUL-2001
09 | AZ | PARADISE VALLEY, TOWN OF | 04013C1690F | 19-JUL-2001
09 | AZ | PARADISE VALLEY, TOWN OF | 04013C1695G | 19-JUL-2001
09 | AZ | PARADISE VALLEY, TOWN OF | 04013CIND0 ** | 19-JUL-2001
09 | AZ | PEORIA, CITY OF | 04013C0340F | 19-JUL-2001
09 | AZ | PEORIA, CITY OF | 04013C0350F | 19-JUL-2001
09 | AZ | PEORIA, CITY OF | 04013C0365F | 19-JUL-2001
09 | AZ | PEORIA, CITY OF | 04013C0710F | 19-JUL-2001
09 | AZ | PEORIA, CITY OF | 04013C0720F | 19-JUL-2001
09 | AZ | PEORIA, CITY OF | 04013C0730G | 19-JUL-2001
09 | AZ | PEORIA, CITY OF | 04013C0735G | 19-JUL-2001
09 | AZ | PEORIA, CITY OF | 04013C0740G | 19-JUL-2001
09 | AZ | PEORIA, CITY OF | 04013C0745G | 19-JUL-2001
09 | AZ | PEORIA, CITY OF | 04013C0755F | 19-JUL-2001
09 | AZ | PEORIA, CITY OF | 04013C0765F | 19-JUL-2001
09 | AZ | PEORIA, CITY OF | 04013C1160G | 19-JUL-2001
09 | AZ | PEORIA, CITY OF | 04013C1170G | 19-JUL-2001
09 | AZ | PEORIA, CITY OF | 04013C1180F | 19-JUL-2001
09 | AZ | PEORIA, CITY OF | 04013C1190G | 19-JUL-2001
09 | AZ | PEORIA, CITY OF | 04013C1610H | 19-JUL-2001
09 | AZ | PEORIA, CITY OF | 04013C1620G | 19-JUL-2001
09 | AZ | PEORIA, CITY OF | 04013C1630G | 19-JUL-2001
09 | AZ | PEORIA, CITY OF | 04013C1640E | 19-JUL-2001
09 | AZ | PEORIA, CITY OF | 04013CIND0 ** | 19-JUL-2001
09 | AZ | PHOENIX, CITY OF | 04013C0370F | 19-JUL-2001
09 | AZ | PHOENIX, CITY OF | 04013C0760F | 19-JUL-2001
09 | AZ | PHOENIX, CITY OF | 04013C0765F | 19-JUL-2001
09 | AZ | PHOENIX, CITY OF | 04013C0770E | 19-JUL-2001
09 | AZ | PHOENIX, CITY OF | 04013C0780G | 19-JUL-2001
09 | AZ | PHOENIX, CITY OF | 04013C0790F | 19-JUL-2001
09 | AZ | PHOENIX, CITY OF | 04013C0795G | 19-JUL-2001
09 | AZ | PHOENIX, CITY OF | 04013C0815H | 19-JUL-2001
09 | AZ | PHOENIX, CITY OF | 04013C1180F | 19-JUL-2001
09 | AZ | PHOENIX, CITY OF | 04013C1185G | 19-JUL-2001
09 | AZ | PHOENIX, CITY OF | 04013C1195E | 19-JUL-2001
09 | AZ | PHOENIX, CITY OF | 04013C1205F | 19-JUL-2001
09 | AZ | PHOENIX, CITY OF | 04013C1210G | 19-JUL-2001
09 | AZ | PHOENIX, CITY OF | 04013C1215J | 19-JUL-2001
09 | AZ | PHOENIX, CITY OF | 04013C1220H | 19-JUL-2001
09 | AZ | PHOENIX, CITY OF | 04013C1230G | 19-JUL-2001
09 | AZ | PHOENIX, CITY OF | 04013C1235F | 19-JUL-2001
09 | AZ | PHOENIX, CITY OF | 04013C1240G | 19-JUL-2001
09 | AZ | PHOENIX, CITY OF | 04013C1245G | 19-JUL-2001
09 | AZ | PHOENIX, CITY OF | 04013C1615J | 19-JUL-2001
09 | AZ | PHOENIX, CITY OF | 04013C1620G | 19-JUL-2001
09 | AZ | PHOENIX, CITY OF | 04013C1635F | 19-JUL-2001
09 | AZ | PHOENIX, CITY OF | 04013C1640E | 19-JUL-2001
09 | AZ | PHOENIX, CITY OF | 04013C1645F | 19-JUL-2001
09 | AZ | PHOENIX, CITY OF | 04013C1655J | 19-JUL-2001
09 | AZ | PHOENIX, CITY OF | 04013C1660G | 19-JUL-2001
09 | AZ | PHOENIX, CITY OF | 04013C1665H | 19-JUL-2001
09 | AZ | PHOENIX, CITY OF | 04013C1670F | 19-JUL-2001
09 | AZ | PHOENIX, CITY OF | 04013C1680G | 19-JUL-2001
09 | AZ | PHOENIX, CITY OF | 04013C1685E | 19-JUL-2001
09 | AZ | PHOENIX, CITY OF | 04013C1690F | 19-JUL-2001
09 | AZ | PHOENIX, CITY OF | 04013C2080H | 19-JUL-2001
09 | AZ | PHOENIX, CITY OF | 04013C2085F | 19-JUL-2001
09 | AZ | PHOENIX, CITY OF | 04013C2095E | 19-JUL-2001
09 | AZ | PHOENIX, CITY OF | 04013C2105E | 19-JUL-2001
09 | AZ | PHOENIX, CITY OF | 04013C2110E | 19-JUL-2001
09 | AZ | PHOENIX, CITY OF | 04013C2115F | 19-JUL-2001
09 | AZ | PHOENIX, CITY OF | 04013C2120F | 19-JUL-2001
09 | AZ | PHOENIX, CITY OF | 04013C2130F | 19-JUL-2001
09 | AZ | PHOENIX, CITY OF | 04013C2135E | 19-JUL-2001
09 | AZ | PHOENIX, CITY OF | 04013C2140F | 19-JUL-2001
09 | AZ | PHOENIX, CITY OF | 04013C2145G | 19-JUL-2001
09 | AZ | PHOENIX, CITY OF | 04013C2155F | 19-JUL-2001
09 | AZ | PHOENIX, CITY OF | 04013C2160E | 19-JUL-2001
09 | AZ | PHOENIX, CITY OF | 04013C2165G | 19-JUL-2001
09 | AZ | PHOENIX, CITY OF | 04013C2580E | 19-JUL-2001
09 | AZ | PHOENIX, CITY OF | 04013C2585E | 19-JUL-2001
09 | AZ | PHOENIX, CITY OF | 04013C2595E | 19-JUL-2001
09 | AZ | PHOENIX, CITY OF | 04013C2605E | 19-JUL-2001
09 | AZ | PHOENIX, CITY OF | 04013C2610E | 19-JUL-2001
09 | AZ | PHOENIX, CITY OF | 04013C2615E | 19-JUL-2001
09 | AZ | PHOENIX, CITY OF | 04013C2620E | 19-JUL-2001
09 | AZ | PHOENIX, CITY OF | 04013C2630F | 19-JUL-2001
09 | AZ | PHOENIX, CITY OF | 04013C2640F | 19-JUL-2001
09 | AZ | PHOENIX, CITY OF | 04013CIND0 ** | 19-JUL-2001
09 | AZ | QUEEN CREEK, TOWN OF | 04013C2695G | 19-JUL-2001
09 | AZ | QUEEN CREEK, TOWN OF | 04013C3060G | 19-JUL-2001
09 | AZ | QUEEN CREEK, TOWN OF | 04013C3080G | 19-JUL-2001
09 | AZ | QUEEN CREEK, TOWN OF | 04013CIND0 ** | 19-JUL-2001
09 | AZ | SCOTTSDALE, CITY OF | 04013C0419F | 19-JUL-2001
09 | AZ | SCOTTSDALE, CITY OF | 04013C0807H | 19-JUL-2001
09 | AZ | SCOTTSDALE, CITY OF | 04013C0808H | 19-JUL-2001
09 | AZ | SCOTTSDALE, CITY OF | 04013C0809H | 19-JUL-2001
09 | AZ | SCOTTSDALE, CITY OF | 04013C0815H | 19-JUL-2001
09 | AZ | SCOTTSDALE, CITY OF | 04013C0820F | 19-JUL-2001
09 | AZ | SCOTTSDALE, CITY OF | 04013C0850E | 19-JUL-2001
09 | AZ | SCOTTSDALE, CITY OF | 04013C1230G | 19-JUL-2001
09 | AZ | SCOTTSDALE, CITY OF | 04013C1235F | 19-JUL-2001
09 | AZ | SCOTTSDALE, CITY OF | 04013C1245G | 19-JUL-2001
09 | AZ | SCOTTSDALE, CITY OF | 04013C1255F | 19-JUL-2001
09 | AZ | SCOTTSDALE, CITY OF | 04013C1260E | 19-JUL-2001
09 | AZ | SCOTTSDALE, CITY OF | 04013C1265F | 19-JUL-2001
09 | AZ | SCOTTSDALE, CITY OF | 04013C1270E | 19-JUL-2001
09 | AZ | SCOTTSDALE, CITY OF | 04013C1680G | 19-JUL-2001
09 | AZ | SCOTTSDALE, CITY OF | 04013C1685E | 19-JUL-2001
09 | AZ | SCOTTSDALE, CITY OF | 04013C1690F | 19-JUL-2001
09 | AZ | SCOTTSDALE, CITY OF | 04013C1695G | 19-JUL-2001
09 | AZ | SCOTTSDALE, CITY OF | 04013C1705F | 19-JUL-2001
09 | AZ | SCOTTSDALE, CITY OF | 04013C1710E | 19-JUL-2001
09 | AZ | SCOTTSDALE, CITY OF | 04013C2155F | 19-JUL-2001
09 | AZ | SCOTTSDALE, CITY OF | 04013C2160E | 19-JUL-2001
09 | AZ | SCOTTSDALE, CITY OF | 04013CIND0 ** | 19-JUL-2001
09 | AZ | SURPRISE, TOWN OF | 04013C0715F | 19-JUL-2001
09 | AZ | SURPRISE, TOWN OF | 04013C0720F | 19-JUL-2001
09 | AZ | SURPRISE, TOWN OF | 04013C1105G | 19-JUL-2001
09 | AZ | SURPRISE, TOWN OF | 04013C1110G | 19-JUL-2001
09 | AZ | SURPRISE, TOWN OF | 04013C1115G | 19-JUL-2001
09 | AZ | SURPRISE, TOWN OF | 04013C1120G | 19-JUL-2001
09 | AZ | SURPRISE, TOWN OF | 04013C1130F | 19-JUL-2001
09 | AZ | SURPRISE, TOWN OF | 04013C1135F | 19-JUL-2001
09 | AZ | SURPRISE, TOWN OF | 04013C1140G | 19-JUL-2001
09 | AZ | SURPRISE, TOWN OF | 04013C1145G | 19-JUL-2001
09 | AZ | SURPRISE, TOWN OF | 04013C1165H | 19-JUL-2001
09 | AZ | SURPRISE, TOWN OF | 04013C1170G | 19-JUL-2001
09 | AZ | SURPRISE, TOWN OF | 04013C1580G | 19-JUL-2001
09 | AZ | SURPRISE, TOWN OF | 04013C1585G | 19-JUL-2001
09 | AZ | SURPRISE, TOWN OF | 04013C1605H | 19-JUL-2001
09 | AZ | SURPRISE, TOWN OF | 04013CIND0 ** | 19-JUL-2001
09 | AZ | TEMPE, CITY OF | 04013C2155F | 19-JUL-2001
09 | AZ | TEMPE, CITY OF | 04013C2160E | 19-JUL-2001
09 | AZ | TEMPE, CITY OF | 04013C2165G | 19-JUL-2001
09 | AZ | TEMPE, CITY OF | 04013C2170F | 19-JUL-2001
09 | AZ | TEMPE, CITY OF | 04013C2630F | 19-JUL-2001
09 | AZ | TEMPE, CITY OF | 04013C2635G | 19-JUL-2001
09 | AZ | TEMPE, CITY OF | 04013CIND0 ** | 19-JUL-2001
09 | AZ | TOLLESON, CITY OF | 04013C2085F | 19-JUL-2001
09 | AZ | TOLLESON, CITY OF | 04013C2095E | 19-JUL-2001
09 | AZ | TOLLESON, CITY OF | 04013C2105E | 19-JUL-2001
09 | AZ | TOLLESON, CITY OF | 04013C2115F | 19-JUL-2001
09 | AZ | TOLLESON, CITY OF | 04013CIND0 ** | 19-JUL-2001
09 | AZ | WICKENBURG, TOWN OF | 04013C0235F | 19-JUL-2001
09 | AZ | WICKENBURG, TOWN OF | 04013C0255G | 19-JUL-2001
09 | AZ | WICKENBURG, TOWN OF | 04013CIND0 ** | 19-JUL-2001
09 | AZ | YOUNGTOWN, TOWN OF | 04013C1605H | 19-JUL-2001
09 | AZ | YOUNGTOWN, TOWN OF | 04013C1610H | 19-JUL-2001
09 | AZ | YOUNGTOWN, TOWN OF | 04013CIND0 ** | 19-JUL-2001
09 | CA | AUBURN, CITY OF | 06061CIND0 ** | 21-NOV-2001
09 | CA | CLAYTON, CITY OF | 0600270001C | 07-SEP-2001
09 | CA | CLAYTON, CITY OF | 0600270002C | 07-SEP-2001
09 | CA | CLAYTON, CITY OF | 060027IND0 ** | 07-SEP-2001
09 | CA | CLOVIS, CITY OF | 06019C1580F | 19-JUL-2001
09 | CA | CLOVIS, CITY OF | 06019C1585F | 19-JUL-2001
09 | CA | CLOVIS, CITY OF | 06019C1590F | 19-JUL-2001
09 | CA | CLOVIS, CITY OF | 06019C1595F | 19-JUL-2001
09 | CA | CLOVIS, CITY OF | 06019CIND0 ** | 19-JUL-2001
09 | CA | COALINGA, CITY OF | 06019C3236F | 19-JUL-2001
09 | CA | COALINGA, CITY OF | 06019C3238F | 19-JUL-2001
09 | CA | COALINGA, CITY OF | 06019C3239F | 19-JUL-2001
09 | CA | COALINGA, CITY OF | 06019C3245F | 19-JUL-2001
09 | CA | COALINGA, CITY OF | 06019C3275F | 19-JUL-2001
09 | CA | COALINGA, CITY OF | 06019C3405F | 19-JUL-2001
09 | CA | COALINGA, CITY OF | 06019C3425F | 19-JUL-2001
09 | CA | COALINGA, CITY OF | 06019C3450F | 19-JUL-2001
09 | CA | COALINGA, CITY OF | 06019CIND0 ** | 19-JUL-2001
09 | CA | COLFAX, CITY OF | 06061CIND0 ** | 21-NOV-2001
09 | CA | CONCORD, CITY OF | 0650220005C | 07-SEP-2001
09 | CA | CONCORD, CITY OF | 0650220006C | 07-SEP-2001
09 | CA | CONCORD, CITY OF | 0650220007C | 07-SEP-2001
09 | CA | CONCORD, CITY OF | 0650220010C | 07-SEP-2001
09 | CA | CONCORD, CITY OF | 065022IND0 ** | 07-SEP-2001
09 | CA | CONTRA COSTA COUNTY* | 0600250040C | 07-SEP-2001
09 | CA | CONTRA COSTA COUNTY* | 0600250045C | 07-SEP-2001
09 | CA | CONTRA COSTA COUNTY* | 0600250090C | 07-SEP-2001
09 | CA | CONTRA COSTA COUNTY* | 0600250210C | 07-SEP-2001
09 | CA | CONTRA COSTA COUNTY* | 0600250230C | 07-SEP-2001
09 | CA | CONTRA COSTA COUNTY* | 0600250235C | 07-SEP-2001
09 | CA | CONTRA COSTA COUNTY* | 0600250250C | 07-SEP-2001
09 | CA | CONTRA COSTA COUNTY* | 0600250280C | 07-SEP-2001
09 | CA | CONTRA COSTA COUNTY* | 0600250285C | 07-SEP-2001
09 | CA | CONTRA COSTA COUNTY* | 0600250305C | 07-SEP-2001
09 | CA | CONTRA COSTA COUNTY* | 0600250315C | 07-SEP-2001
09 | CA | CONTRA COSTA COUNTY* | 0600250320C | 07-SEP-2001
09 | CA | CONTRA COSTA COUNTY* | 0600250355C | 07-SEP-2001
09 | CA | CONTRA COSTA COUNTY* | 0600250455C | 07-SEP-2001
09 | CA | CONTRA COSTA COUNTY* | 0600250470C | 07-SEP-2001
09 | CA | CONTRA COSTA COUNTY* | 0600250475C | 07-SEP-2001
09 | CA | CONTRA COSTA COUNTY* | 060025IND0 ** | 07-SEP-2001
09 | CA | DANVILLE, TOWN OF | 0607070001B | 07-SEP-2001
09 | CA | DANVILLE, TOWN OF | 0607070004B | 07-SEP-2001
09 | CA | DANVILLE, TOWN OF | 0607070008B | 07-SEP-2001
09 | CA | DANVILLE, TOWN OF | 060707IND0 ** | 07-SEP-2001
09 | CA | FIREBAUGH, CITY OF | 06019C0990F | 19-JUL-2001
09 | CA | FIREBAUGH, CITY OF | 06019C1430F | 19-JUL-2001
09 | CA | FIREBAUGH, CITY OF | 06019C1435F | 19-JUL-2001
09 | CA | FIREBAUGH, CITY OF | 06019CIND0 ** | 19-JUL-2001
09 | CA | FOWLER, CITY OF | 06019C2139F | 19-JUL-2001
09 | CA | FOWLER, CITY OF | 06019C2143F | 19-JUL-2001
09 | CA | FOWLER, CITY OF | 06019C2675F | 19-JUL-2001
09 | CA | FOWLER, CITY OF | 06019CIND0 ** | 19-JUL-001
09 | CA | FRESNO COUNTY * | 06019C0175F | 19-JUL-2001
09 | CA | FRESNO COUNTY * | 06019C0200F | 19-JUL-2001
09 | CA | FRESNO COUNTY * | 06019C0250F | 19-JUL-2001
09 | CA | FRESNO COUNTY * | 06019C0300F | 19-JUL-2001
09 | CA | FRESNO COUNTY * | 06019C0325F | 19-JUL-2001
09 | CA | FRESNO COUNTY * | 06019C0400F | 19-JUL-2001
09 | CA | FRESNO COUNTY * | 06019C0425F | 19-JUL-2001
09 | CA | FRESNO COUNTY * | 06019C0450F | 19-JUL-2001
09 | CA | FRESNO COUNTY * | 06019C0625F | 19-JUL-2001
09 | CA | FRESNO COUNTY * | 06019C0650F | 19-JUL-2001
09 | CA | FRESNO COUNTY * | 06019C0675F | 19-JUL-2001
09 | CA | FRESNO COUNTY * | 06019C0700F | 19-JUL-2001
09 | CA | FRESNO COUNTY * | 06019C0725F | 19-JUL-2001
09 | CA | FRESNO COUNTY * | 06019C0975F | 19-JUL-2001
09 | CA | FRESNO COUNTY * | 06019C0980F | 19-JUL-2001
09 | CA | FRESNO COUNTY * | 06019C0990F | 19-JUL-2001
09 | CA | FRESNO COUNTY * | 06019C1020F | 19-JUL-2001
09 | CA | FRESNO COUNTY * | 06019C1030F | 19-JUL-2001
09 | CA | FRESNO COUNTY * | 06019C1035F | 19-JUL-2001
09 | CA | FRESNO COUNTY * | 06019C1040F | 19-JUL-2001
09 | CA | FRESNO COUNTY * | 06019C1045F | 19-JUL-2001
09 | CA | FRESNO COUNTY * | 06019C1055F | 19-JUL-2001
09 | CA | FRESNO COUNTY * | 06019C1060F | 19-JUL-2001
09 | CA | FRESNO COUNTY * | 06019C1065F | 19-JUL-2001
09 | CA | FRESNO COUNTY * | 06019C1070F | 19-JUL-2001
09 | CA | FRESNO COUNTY * | 06019C1100F | 19-JUL-2001
09 | CA | FRESNO COUNTY * | 06019C1125F | 19-JUL-2001
09 | CA | FRESNO COUNTY * | 06019C1150F | 19-JUL-2001
09 | CA | FRESNO COUNTY * | 06019C1175F | 19-JUL-2001
09 | CA | FRESNO COUNTY * | 06019C1200F | 19-JUL-2001
09 | CA | FRESNO COUNTY * | 06019C1350F | 19-JUL-2001
09 | CA | FRESNO COUNTY * | 06019C1375F | 19-JUL-2001
09 | CA | FRESNO COUNTY * | 06019C1400F | 19-JUL-2001
09 | CA | FRESNO COUNTY * | 06019C1405F | 19-JUL-2001
09 | CA | FRESNO COUNTY * | 06019C1410F | 19-JUL-2001
09 | CA | FRESNO COUNTY * | 06019C1415F | 19-JUL-2001
09 | CA | FRESNO COUNTY * | 06019C1420F | 19-JUL-2001
09 | CA | FRESNO COUNTY * | 06019C1430F | 19-JUL-2001
09 | CA | FRESNO COUNTY * | 06019C1435F | 19-JUL-2001
09 | CA | FRESNO COUNTY * | 06019C1440F | 19-JUL-2001
09 | CA | FRESNO COUNTY * | 06019C1444F | 19-JUL-2001
09 | CA | FRESNO COUNTY * | 06019C1445F | 19-JUL-2001
09 | CA | FRESNO COUNTY * | 06019C1463F | 19-JUL-2001
09 | CA | FRESNO COUNTY * | 06019C1465F | 19-JUL-2001
09 | CA | FRESNO COUNTY * | 06019C1470F | 19-JUL-2001
09 | CA | FRESNO COUNTY * | 06019C1500F | 19-JUL-2001
09 | CA | FRESNO COUNTY * | 06019C1525F | 19-JUL-2001
09 | CA | FRESNO COUNTY * | 06019C1535F | 19-JUL-2001
09 | CA | FRESNO COUNTY * | 06019C1545F | 19-JUL-2001
09 | CA | FRESNO COUNTY * | 06019C1550F | 19-JUL-2001
09 | CA | FRESNO COUNTY * | 06019C1555F | 19-JUL-2001
09 | CA | FRESNO COUNTY * | 06019C1560F | 19-JUL-2001
09 | CA | FRESNO COUNTY * | 06019C1565F | 19-JUL-2001
09 | CA | FRESNO COUNTY * | 06019C1570F | 19-JUL-2001
09 | CA | FRESNO COUNTY * | 06019C1580F | 19-JUL-2001
09 | CA | FRESNO COUNTY * | 06019C1585F | 19-JUL-2001
09 | CA | FRESNO COUNTY * | 06019C1590F | 19-JUL-2001
09 | CA | FRESNO COUNTY * | 06019C1595F | 19-JUL-2001
09 | CA | FRESNO COUNTY * | 06019C1605F | 19-JUL-2001
09 | CA | FRESNO COUNTY * | 06019C1610F | 19-JUL-2001
09 | CA | FRESNO COUNTY * | 06019C1615F | 19-JUL-2001
09 | CA | FRESNO COUNTY * | 06019C1620F | 19-JUL-2001
09 | CA | FRESNO COUNTY * | 06019C1630F | 19-JUL-2001
09 | CA | FRESNO COUNTY * | 06019C1635F | 19-JUL-2001
09 | CA | FRESNO COUNTY * | 06019C1640F | 19-JUL-2001
09 | CA | FRESNO COUNTY * | 06019C1645F | 19-JUL-2001
09 | CA | FRESNO COUNTY * | 06019C1655F | 19-JUL-2001
09 | CA | FRESNO COUNTY * | 06019C1660F | 19-JUL-2001
09 | CA | FRESNO COUNTY * | 06019C1665F | 19-JUL-2001
09 | CA | FRESNO COUNTY * | 06019C1670F | 19-JUL-2001
09 | CA | FRESNO COUNTY * | 06019C1700F | 19-JUL-2001
09 | CA | FRESNO COUNTY * | 06019C1725F | 19-JUL-2001
09 | CA | FRESNO COUNTY * | 06019C1750F | 19-JUL-2001
09 | CA | FRESNO COUNTY * | 06019C1800F | 19-JUL-2001
09 | CA | FRESNO COUNTY * | 06019C1825F | 19-JUL-2001
09 | CA | FRESNO COUNTY * | 06019C1950F | 19-JUL-2001
09 | CA | FRESNO COUNTY * | 06019C1955F | 19-JUL-2001
09 | CA | FRESNO COUNTY * | 06019C1960F | 19-JUL-2001
09 | CA | FRESNO COUNTY * | 06019C1975F | 19-JUL-2001
09 | CA | FRESNO COUNTY * | 06019C1980F | 19-JUL-2001
09 | CA | FRESNO COUNTY * | 06019C1982F | 19-JUL-2001
09 | CA | FRESNO COUNTY * | 06019C1985F | 19-JUL-2001
09 | CA | FRESNO COUNTY * | 06019C2001F | 19-JUL-2001
09 | CA | FRESNO COUNTY * | 06019C2025F | 19-JUL-2001
09 | CA | FRESNO COUNTY * | 06019C2050F | 19-JUL-2001
09 | CA | FRESNO COUNTY * | 06019C2075F | 19-JUL-2001
09 | CA | FRESNO COUNTY * | 06019C2085F | 19-JUL-2001
09 | CA | FRESNO COUNTY * | 06019C2100F | 19-JUL-2001
09 | CA | FRESNO COUNTY * | 06019C2105F | 19-JUL-2001
09 | CA | FRESNO COUNTY * | 06019C2110F | 19-JUL-2001
09 | CA | FRESNO COUNTY * | 06019C2125F | 19-JUL-2001
09 | CA | FRESNO COUNTY * | 06019C2130F | 19-JUL-2001
09 | CA | FRESNO COUNTY * | 06019C2135F | 19-JUL-2001
09 | CA | FRESNO COUNTY * | 06019C2139F | 19-JUL-2001
09 | CA | FRESNO COUNTY * | 06019C2140F | 19-JUL-2001
09 | CA | FRESNO COUNTY * | 06019C2143F | 19-JUL-2001
09 | CA | FRESNO COUNTY * | 06019C2145F | 19-JUL-2001
09 | CA | FRESNO COUNTY * | 06019C2155F | 19-JUL-2001
09 | CA | FRESNO COUNTY * | 06019C2160F | 19-JUL-2001
09 | CA | FRESNO COUNTY * | 06019C2165F | 19-JUL-2001
09 | CA | FRESNO COUNTY * | 06019C2170F | 19-JUL-2001
09 | CA | FRESNO COUNTY * | 06019C2180F | 19-JUL-2001
09 | CA | FRESNO COUNTY * | 06019C2190F | 19-JUL-2001
09 | CA | FRESNO COUNTY * | 06019C2200F | 19-JUL-2001
09 | CA | FRESNO COUNTY * | 06019C2214F | 19-JUL-2001
09 | CA | FRESNO COUNTY * | 06019C2218F | 19-JUL-2001
09 | CA | FRESNO COUNTY * | 06019C2225F | 19-JUL-2001
09 | CA | FRESNO COUNTY * | 06019C2250F | 19-JUL-2001
09 | CA | FRESNO COUNTY * | 06019C2275F | 19-JUL-2001
09 | CA | FRESNO COUNTY * | 06019C2475F | 19-JUL-2001
09 | CA | FRESNO COUNTY * | 06019C2500F | 19-JUL-2001
09 | CA | FRESNO COUNTY * | 06019C2525F | 19-JUL-2001
09 | CA | FRESNO COUNTY * | 06019C2550F | 19-JUL-2001
09 | CA | FRESNO COUNTY * | 06019C2575F | 19-JUL-2001
09 | CA | FRESNO COUNTY * | 06019C2600F | 19-JUL-2001
09 | CA | FRESNO COUNTY * | 06019C2625F | 19-JUL-2001
09 | CA | FRESNO COUNTY * | 06019C2650F | 19-JUL-2001
09 | CA | FRESNO COUNTY * | 06019C2675F | 19-JUL-2001
09 | CA | FRESNO COUNTY * | 06019C2682F | 19-JUL-2001
09 | CA | FRESNO COUNTY * | 06019C2685F | 19-JUL-2001
09 | CA | FRESNO COUNTY * | 06019C2700F | 19-JUL-2001
09 | CA | FRESNO COUNTY * | 06019C2705F | 19-JUL-2001
09 | CA | FRESNO COUNTY * | 06019C2710F | 19-JUL-2001
09 | CA | FRESNO COUNTY * | 06019C2715F | 19-JUL-2001
09 | CA | FRESNO COUNTY * | 06019C2727F | 19-JUL-2001
09 | CA | FRESNO COUNTY * | 06019C2730F | 19-JUL-2001
09 | CA | FRESNO COUNTY * | 06019C2731F | 19-JUL-2001
09 | CA | FRESNO COUNTY * | 06019C2775F | 19-JUL-2001
09 | CA | FRESNO COUNTY * | 06019C2800F | 19-JUL-2001
09 | CA | FRESNO COUNTY * | 06019C2825F | 19-JUL-2001
09 | CA | FRESNO COUNTY * | 06019C2850F | 19-JUL-2001
09 | CA | FRESNO COUNTY * | 06019C2875F | 19-JUL-2001
09 | CA | FRESNO COUNTY * | 06019C2900F | 19-JUL-2001
09 | CA | FRESNO COUNTY * | 06019C2925F | 19-JUL-2001
09 | CA | FRESNO COUNTY * | 06019C2950F | 19-JUL-2001
09 | CA | FRESNO COUNTY * | 06019C3025F | 19-JUL-2001
09 | CA | FRESNO COUNTY * | 06019C3050F | 19-JUL-2001
09 | CA | FRESNO COUNTY * | 06019C3075F | 19-JUL-2001
09 | CA | FRESNO COUNTY * | 06019C3100F | 19-JUL-2001
09 | CA | FRESNO COUNTY * | 06019C3125F | 19-JUL-2001
09 | CA | FRESNO COUNTY * | 06019C3150F | 19-JUL-2001
09 | CA | FRESNO COUNTY * | 06019C3200F | 19-JUL-2001
09 | CA | FRESNO COUNTY * | 06019C3220F | 19-JUL-2001
09 | CA | FRESNO COUNTY * | 06019C3225F | 19-JUL-2001
09 | CA | FRESNO COUNTY * | 06019C3230F | 19-JUL-2001
09 | CA | FRESNO COUNTY * | 06019C3235F | 19-JUL-2001
09 | CA | FRESNO COUNTY * | 06019C3236F | 19-JUL-2001
09 | CA | FRESNO COUNTY * | 06019C3237F | 19-JUL-2001
09 | CA | FRESNO COUNTY * | 06019C3238F | 19-JUL-2001
09 | CA | FRESNO COUNTY * | 06019C3239F | 19-JUL-2001
09 | CA | FRESNO COUNTY * | 06019C3245F | 19-JUL-2001
09 | CA | FRESNO COUNTY * | 06019C3260F | 19-JUL-2001
09 | CA | FRESNO COUNTY * | 06019C3275F | 19-JUL-2001
09 | CA | FRESNO COUNTY * | 06019C3280F | 19-JUL-2001
09 | CA | FRESNO COUNTY * | 06019C3300F | 19-JUL-2001
09 | CA | FRESNO COUNTY * | 06019C3325F | 19-JUL-2001
09 | CA | FRESNO COUNTY * | 06019C3385F | 19-JUL-2001
09 | CA | FRESNO COUNTY * | 06019C3400F | 19-JUL-2001
09 | CA | FRESNO COUNTY * | 06019C3405F | 19-JUL-2001
09 | CA | FRESNO COUNTY * | 06019C3425F | 19-JUL-2001
09 | CA | FRESNO COUNTY * | 06019C3450F | 19-JUL-2001
09 | CA | FRESNO COUNTY * | 06019C3475F | 19-JUL-2001
09 | CA | FRESNO COUNTY * | 06019C3550F | 19-JUL-2001
09 | CA | FRESNO COUNTY * | 06019CIND0 ** | 19-JUL-2001
09 | CA | FRESNO, CITY OF | 06019C1020F | 19-JUL-2001
09 | CA | FRESNO, CITY OF | 06019C1040F | 19-JUL-2001
09 | CA | FRESNO, CITY OF | 06019C1535F | 19-JUL-2001
09 | CA | FRESNO, CITY OF | 06019C1545F | 19-JUL-2001
09 | CA | FRESNO, CITY OF | 06019C1555F | 19-JUL-2001
09 | CA | FRESNO, CITY OF | 06019C1560F | 19-JUL-2001
09 | CA | FRESNO, CITY OF | 06019C1565F | 19-JUL-2001
09 | CA | FRESNO, CITY OF | 06019C1570F | 19-JUL-2001
09 | CA | FRESNO, CITY OF | 06019C1580F | 19-JUL-2001
09 | CA | FRESNO, CITY OF | 06019C1590F | 19-JUL-2001
09 | CA | FRESNO, CITY OF | 06019C1595F | 19-JUL-2001
09 | CA | FRESNO, CITY OF | 06019C2085F | 19-JUL-2001
09 | CA | FRESNO, CITY OF | 06019C2100F | 19-JUL-2001
09 | CA | FRESNO, CITY OF | 06019C2105F | 19-JUL-2001
09 | CA | FRESNO, CITY OF | 06019C2110F | 19-JUL-2001
09 | CA | FRESNO, CITY OF | 06019C2125F | 19-JUL-2001
09 | CA | FRESNO, CITY OF | 06019C2130F | 19-JUL-2001
09 | CA | FRESNO, CITY OF | 06019C2135F | 19-JUL-2001
09 | CA | FRESNO, CITY OF | 06019C2140F | 19-JUL-2001
09 | CA | FRESNO, CITY OF | 06019CIND0 ** | 19-JUL-2001
09 | CA | HIDDEN HILLS, CITY OF | 0601250001C | 21-NOV-2001
09 | CA | HURON, CITY OF | 06019C3280F | 19-JUL-2001
09 | CA | HURON, CITY OF | 06019CIND0 ** | 19-JUL-2001
09 | CA | LASSEN COUNTY* | 0600920914C | 21-NOV-2001
09 | CA | LASSEN COUNTY* | 0600920918C | 21-NOV-2001
09 | CA | LASSEN COUNTY* | 0600920925C** | 21-NOV-2001
09 | CA | LASSEN COUNTY* | 060092IND0 ** | 21-NOV-2001
09 | CA | LINCOLN, CITY OF | 06061CIND0 ** | 21-NOV-2001
09 | CA | LOOMIS, TOWN OF | 06061C0481G | 21-NOV-2001
09 | CA | LOOMIS, TOWN OF | 06061CIND0 ** | 21-NOV-2001
09 | CA | MENDOTA, CITY OF | 06019C1444F | 19-JUL-2001
09 | CA | MENDOTA, CITY OF | 06019C1463F | 19-JUL-2001
09 | CA | MENDOTA, CITY OF | 06019C1982F | 19-JUL-2001
09 | CA | MENDOTA, CITY OF | 06019C2001F | 19-JUL-2001
09 | CA | MENDOTA, CITY OF | 06019CIND0 ** | 19-JUL-2001
09 | CA | ORANGE COVE, CITY OF | 06019C2214F | 19-JUL-2001
09 | CA | ORANGE COVE, CITY OF | 06019C2218F | 19-JUL-2001
09 | CA | ORANGE COVE, CITY OF | 06019C2727F | 19-JUL-2001
09 | CA | ORANGE COVE, CITY OF | 06019C2731F | 19-JUL-2001
09 | CA | ORANGE COVE, CITY OF | 06019CIND0 ** | 19-JUL-2001
09 | CA | PALOS VERDES ESTATES, CITY OF | 0601450005B | 21-NOV-2001
09 | CA | PARLIER, CITY OF | 06019C2682F | 19-JUL-2001
09 | CA | PARLIER, CITY OF | 06019C2685F | 19-JUL-2001
09 | CA | PARLIER, CITY OF | 06019CIND0 ** | 19-JUL-2001
09 | CA | PITTSBURG,CITY OF | 0600330001E | 07-SEP-2001
09 | CA | PITTSBURG,CITY OF | 0600330002E | 07-SEP-2001
09 | CA | PITTSBURG,CITY OF | 0600330004E | 07-SEP-2001
09 | CA | PITTSBURG,CITY OF | 060033IND0 ** | 07-SEP-2001
09 | CA | PLACER COUNTY* | 06061C0417G | 21-NOV-2001
09 | CA | PLACER COUNTY* | 06061C0419G | 21-NOV-2001
09 | CA | PLACER COUNTY* | 06061C0425G** | 21-NOV-2001
09 | CA | PLACER COUNTY* | 06061C0477G | 21-NOV-2001
09 | CA | PLACER COUNTY* | 06061C0479G | 21-NOV-2001
09 | CA | PLACER COUNTY* | 06061C0481G | 21-NOV-2001
09 | CA | PLACER COUNTY* | 06061C0482G | 21-NOV-2001
09 | CA | PLACER COUNTY* | 06061C0483G | 21-NOV-2001
09 | CA | PLACER COUNTY* | 06061CIND0 ** | 21-NOV-2001
09 | CA | PLUMAS COUNTY * | 060244 C | 21-NOV-2001
09 | CA | PORTOLA, CITY OF | 0604560001D | 21-NOV-2001
09 | CA | REEDLEY, CITY OF | 06019C2190F | 19-JUL-2001
09 | CA | REEDLEY, CITY OF | 06019C2705F | 19-JUL-2001
09 | CA | REEDLEY, CITY OF | 06019C2710F | 19-JUL-2001
09 | CA | REEDLEY, CITY OF | 06019CIND0 ** | 19-JUL-2001
09 | CA | RICHMOND, CITY OF | 0600350010C | 07-SEP-2001
09 | CA | RICHMOND, CITY OF | 0600350015D | 07-SEP-2001
09 | CA | RICHMOND, CITY OF | 0600350020C | 07-SEP-2001
09 | CA | RICHMOND, CITY OF | 0600350025C | 07-SEP-2001
09 | CA | RICHMOND, CITY OF | 0600350030C | 07-SEP-2001
09 | CA | RICHMOND, CITY OF | 060035IND0 ** | 07-SEP-2001
09 | CA | ROCKLIN, CITY OF | 06061C0477G | 21-NOV-2001
09 | CA | ROCKLIN, CITY OF | 06061C0481G | 21-NOV-2001
09 | CA | ROCKLIN, CITY OF | 06061CIND0 ** | 21-NOV-2001
09 | CA | ROSEVILLE, CITY OF | 06061C0477G | 21-NOV-2001
09 | CA | ROSEVILLE, CITY OF | 06061C0479G | 21-NOV-2001
09 | CA | ROSEVILLE, CITY OF | 06061C0483G | 21-NOV-2001
09 | CA | ROSEVILLE, CITY OF | 06061CIND0 ** | 21-NOV-2001
09 | CA | SAN MATEO, CITY OF | 0603280001B | 19-OCT-2001
09 | CA | SAN MATEO, CITY OF | 0603280002B | 19-OCT-2001
09 | CA | SAN MATEO, CITY OF | 0603280003B | 19-OCT-2001
09 | CA | SAN MATEO, CITY OF | 0603280004B | 19-OCT-2001
09 | CA | SAN MATEO, CITY OF | 060328IND0 ** | 19-OCT-2001
09 | CA | SANGER, CITY OF | 06019C2155F | 19-JUL-2001
09 | CA | SANGER, CITY OF | 06019C2160F | 19-JUL-2001
09 | CA | SANGER, CITY OF | 06019C2170F | 19-JUL-2001
09 | CA | SANGER, CITY OF | 06019CIND0 ** | 19-JUL-2001
09 | CA | SELMA, CITY OF | 06019C2675F | 19-JUL-2001
09 | CA | SELMA, CITY OF | 06019C2700F | 19-JUL-2001
09 | CA | SELMA, CITY OF | 06019CIND0 ** | 19-JUL-2001
10 | AK | SHISHMAREF, CITY OF | 0200840001A | 23-AUG-2001
10 | ID | IDAHO COUNTY * | 1602131761C | 23-AUG-2001
10 | ID | IDAHO COUNTY * | 1602131775C** | 23-AUG-2001
10 | ID | IDAHO COUNTY * | 160213IND0 ** | 23-AUG-2001
10 | OR | PORTLAND, CITY OF | 4101830041D** | 07-NOV-2001
10 | OR | PORTLAND, CITY OF | 4101830045D** | 07-NOV-2001
10 | OR | PORTLAND, CITY OF | 410183IND0 ** | 07-NOV-2001
10 | WA | ALGONA, CITY OF | 53033CIND0 ** | 06-DEC-2001
10 | WA | AUBURN, CITY OF | 53033CIND0 ** | 06-DEC-2001
10 | WA | BEAUX ARTS VILLAGE, TOWN OF | 53033CIND0 ** | 06-DEC-2001
10 | WA | BELLEVUE, CITY OF | 53033CIND0 ** | 06-DEC-2001
10 | WA | BLACK DIAMOND, TOWN OF | 53033CIND0 ** | 06-DEC-2001
10 | WA | BOTHELL, CITY OF | 53033CIND0 ** | 06-DEC-2001
10 | WA | BURIEN, CITY OF | 53033CIND0 ** | 06-DEC-2001
10 | WA | CARNATION, CITY OF | 53033C0418G | 06-DEC-2001
10 | WA | CARNATION, CITY OF | 53033C0419G | 06-DEC-2001
10 | WA | CARNATION, CITY OF | 53033C0450G | 06-DEC-2001
10 | WA | CARNATION, CITY OF | 53033CIND0 ** | 06-DEC-2001
10 | WA | CASTLE ROCK, CITY OF | 5302770001E | 20-DEC-2001
10 | WA | CLYDE HILL, TOWN OF | 53033CIND0 ** | 06-DEC-2001
10 | WA | COLLEGE PLACE, CITY OF | 5301950440B | 07-SEP-2001
10 | WA | COLLEGE PLACE, CITY OF | 530195IND0 ** | 07-SEP-2001
10 | WA | COVINGTON, CITY OF | 53033CIND0 ** | 06-DEC-2001
10 | WA | COWLITZ COUNTY * | 5300320030E | 20-DEC-2001
10 | WA | COWLITZ COUNTY * | 5300320040E | 20-DEC-2001
10 | WA | COWLITZ COUNTY * | 5300320129F | 20-DEC-2001
10 | WA | COWLITZ COUNTY * | 5300320130D | 20-DEC-2001
10 | WA | COWLITZ COUNTY * | 5300320137F | 20-DEC-2001
10 | WA | COWLITZ COUNTY * | 5300320140E | 20-DEC-2001
10 | WA | COWLITZ COUNTY * | 5300320205E | 20-DEC-2001
10 | WA | COWLITZ COUNTY * | 530032IND0 ** | 20-DEC-2001
10 | WA | DES MOINES, CITY OF | 53033CIND0 ** | 06-DEC-2001
10 | WA | DUVALL, TOWN OF | 53033CIND0 ** | 06-DEC-2001
10 | WA | ENUMCLAW, CITY OF | 53033CIND0 ** | 06-DEC-2001
10 | WA | FEDERAL WAY, CITY OF | 53033CIND0 ** | 06-DEC-2001
10 | WA | HUNTS POINT, TOWN OF | 53033CIND0 ** | 06-DEC-2001
10 | WA | ISSAQUAH, CITY OF | 53033CIND0 ** | 06-DEC-2001
10 | WA | KELSO, CITY OF | 5300330001E | 20-DEC-2001
10 | WA | KELSO, CITY OF | 5300330002D | 20-DEC-2001
10 | WA | KELSO, CITY OF | 5300330003E | 20-DEC-2001
10 | WA | KELSO, CITY OF | 5300330004D | 20-DEC-2001
10 | WA | KELSO, CITY OF | 530033IND0 ** | 20-DEC-2001
10 | WA | KENMORE, CITY OF | 53033CIND0 ** | 06-DEC-2001
10 | WA | KENT, CITY OF | 53033CIND0 ** | 06-DEC-2001
10 | WA | KING COUNTY* | 53033C0418G | 06-DEC-2001
10 | WA | KING COUNTY* | 53033C0419G | 06-DEC-2001
10 | WA | KING COUNTY* | 53033C0420G | 06-DEC-2001
10 | WA | KING COUNTY* | 53033C0436G | 06-DEC-2001
10 | WA | KING COUNTY* | 53033C0438G | 06-DEC-2001
10 | WA | KING COUNTY* | 53033C0450G | 06-DEC-2001
10 | WA | KING COUNTY* | 53033C0743G | 06-DEC-2001
10 | WA | KING COUNTY* | 53033C1057H | 06-DEC-2001
10 | WA | KING COUNTY* | 53033C1059G | 06-DEC-2001
10 | WA | KING COUNTY* | 53033C1076H | 06-DEC-2001
10 | WA | KING COUNTY* | 53033C1078H | 06-DEC-2001
10 | WA | KING COUNTY* | 53033C1079H | 06-DEC-2001
10 | WA | KING COUNTY* | 53033CIND0 ** | 06-DEC-2001
10 | WA | KIRKLAND, CITY OF | 53033CIND0 ** | 06-DEC-2001
10 | WA | LAKE FOREST PARK, CITY OF | 53033CIND0 ** | 06-DEC-2001
10 | WA | LONGVIEW, CITY OF | 5300340005D | 20-DEC-2001
10 | WA | MEDINA, CITY OF | 53033CIND0 ** | 06-DEC-2001
10 | WA | MERCER ISLAND, CITY OF | 53033CIND0 ** | 06-DEC-2001
10 | WA | NORMANDY PARK, CITY OF | 53033CIND0 ** | 06-DEC-2001
10 | WA | NORTH BEND, CITY OF | 53033C0743G | 06-DEC-2001
10 | WA | NORTH BEND, CITY OF | 53033C1057H | 06-DEC-2001
10 | WA | NORTH BEND, CITY OF | 53033CIND0 ** | 06-DEC-2001
10 | WA | PACIFIC, CITY OF | 53033CIND0 ** | 06-DEC-2001
10 | WA | REDMOND, CITY OF | 53033CIND0 ** | 06-DEC-2001
10 | WA | RENTON, CITY OF | 53033CIND0 ** | 06-DEC-2001
10 | WA | SEATAC, CITY OF | 53033CIND0 ** | 06-DEC-2001
10 | WA | SEATTLE, CITY OF | 53033CIND0 ** | 06-DEC-2001
10 | WA | SHORELINE, CITY OF | 53033CIND0 ** | 06-DEC-2001
10 | WA | SKYKOMISH, TOWN OF | 53033CIND0 ** | 06-DEC-2001
10 | WA | SNOQUALMIE, CITY OF | 53033C0743G | 06-DEC-2001
10 | WA | SNOQUALMIE, CITY OF | 53033CIND0 ** | 06-DEC-2001
10 | WA | TUKWILA, CITY OF | 53033CIND0 ** | 06-DEC-2001
10 | WA | WASHTUCNA, TOWN OF | 5300060001C | 09-AUG-2001
10 | WA | WOODINVILLE, CITY OF | 53033CIND0 ** | 06-DEC-2001
10 | WA | YARROW POINT, TOWN OF | 53033CIND0 ** | 06-DEC-2001

[FR Doc. 02-11707 Filed 5-16-02; 8:45 am]

BILLING CODE 6718-04-P